DEPARTMENT OF HEALTH AND HUMAN SERVICES

Health Care Financing Administration

42 CFR Part 419

[HCFA-1005-IFC]

RIN 0938-A156

Medicare Program; Prospective Payment System for Hospital Outpatient Services

AGENCY: Health Care Financing Administration (HCFA), HHS.

ACTION: Interim final rule with comment period.

SUMMARY: This interim final rule with comment period provides for the annual update to the Medicare hospital outpatient prospective payment system conversion factor that is used to calculate the payment amount for each payment group, effective January 1, 2001. It also updates the wage index values and incorporates the year 2001 changes in the procedure codes that are used to make payments under this system. In this rule, we are also responding to public comments received on those portions of the April 7, 2000 final rule with comment period (which established the hospital outpatient prospective payment system) that implemented related provisions of the Balanced Budget Refinement Act (BBRA) of 1999. In addition, we are responding to public comments on the August 3, 2000 interim final rule with comment period that modified the April 7, 2000 final rule with comment period by revising the criteria used to define new or innovative medical devices, drugs, and biologicals eligible for transitional pass-through payments and correcting the criteria for grandfathering provider-based Federally Qualified Health Centers (FQHC) into the prospective payment system.

DATES:

Effective Date: These regulations are effective on January 1, 2001.

Comment Period: We will consider comments if we receive them at the appropriate address, as provided below, no later than 5 p.m. on January 12, 2001.

ADDRESSES: Mail written comments (1 original and 3 copies) to the following address:

Health Care Financing Administration, Department of Health and Human Services, Attention: HCFA-1005-IFC, P.O. Box 8013, Baltimore, MD 21244-8013.

To ensure that mailed comments are received in time for us to consider them, please allow for possible delays in delivering them.

If you prefer, you may deliver your written comments (1 original and 3 copies) to one of the following addresses:

Room 443-G, Hubert H. Humphrey Building, 200 Independence Avenue, SW., Washington, DC 20201, or

Room C5-14-03, 7500 Security Boulevard, Baltimore, MD 21244-1850.

Comments mailed to the above addresses may be delayed and received too late for us to consider them. Because of staff and resource limitations, we cannot accept comments by facsimile (FAX) transmission. In commenting, please refer to file code HCFA-1005-IFC. of the received timely will be available for public inspection as they are received, generally beginning approximately 3 weeks after publication of a document, in Room 443-G of the Department's office at 200 Independence Avenue, SW., Washington, DC, on Monday through Friday of each week from 8:30 to 5 p.m. (phone: (202) 690-7890).

FOR FURTHER INFORMATION CONTACT:

Janet Wellham (410) 786-4510, Chuck Braver, (410) 786-6719, or Jana Petze (410) 786-9374, (for general information).

Kity Ahern, (410) 786-4515 (for information related to ambulatory payment classification groups and transitional pass-through payments related to drugs and biologicals).

Majorie Baldo, (410) 786-4617 or Barry Levi, (410) 786-4529 (for information related to transitional pass-through payments for medical devices).

George Morey (410) 786-4653 (for information related to the criteria for grandfathering provider-based FQHCs into the prospective payment system).

SUPPLEMENTARY INFORMATION:

Availability of Copies and Electronic Access

Copies: To order copies of the Federal Register containing this document, send your request to: New Orders, Superintendent of Documents, P.O. Box 371954, Pittsburgh, PA 15250-7954. Specify the date of the issue requested and enclose a check or money order payable to the Superintendent of Documents, or enclose your Visa or Master Card number and expiration date. Credit card orders can also be placed by calling the order desk at (202) 512-1800 or by faxing to (202) 512-2250. The cost for each copy is $8. As an alternative, you can view and photocopy the Federal Register document at most libraries designated as Federal Depository Libraries and at many other public and academic libraries throughout the country that receive the Federal Register.

This Federal Register document is also available from the Federal Register online database through GPO Access, a service of the U.S. Government Printing Office. The Website address is http://www.access.gpo.gov /nara/index.html.

To assist readers in referencing sections contained in this document, we are providing the following table of contents:

Table of Contents

I. Background

A. General Summary of April 7, 2000 Final Rule With Comment Period that Implemented Amendments Enacted by the Balanced Budget Act of 1997 and the Balanced Budget Refinement Act of 1999

B. June 30, 2000 Notice of Delay of Effective Date for the April 7, 2000 Final Rule with Comment Period

C. August 3, 2000 Interim Final Rule with Comment Period

D. Summary of This Interim Final Rule with Comment Period

II. Analysis of, and Responses to, Public Comments on the BBRA 1999 Provisions and the August 3, 2000 Interim Final Rule with Comment Period

A. April 7, 2000 BBRA 1999 Provisions

1. Outlier Adjustment

2. Transitional Pass-Through for Additional Costs of Innovative Medical Devices, Drugs, and Biologicals

a. Definition of a device

b. Eligibility criteria

c. Investigational device exemption (IDE) device

d. Removing cost of predicate item

e. Excluded costs

f. Effect on conversion factor

g. Cost significance tests

h. Brand-specific versus categorization approaches

i. Issues pertaining to specific items

j. Pass-through applications process

k. Payment for pass-through items

l. Focus medical review

3. Budget Neutrality Applied to New Adjustments

4. Limitation on Judicial Review

5. Inclusion in the Hospital Outpatient Prospective Payment System of Certain Implantable Items

6. Payment Weights Based on Median or Mean Hospital Costs

7. Limitation on Variation of Costs of Services Classified Within a Group

8. Annual Review of the Components of the Hospital Outpatient Prospective Payment System

9. Copayment Amounts Not Affected by Pass-Throughs

10. Extension of Cost Reductions

11. Clarification of Congressional Intent Regarding Base Amounts Used in Determining the Hospital Outpatient Prospective Payment System

12. Transitional Corridors for Application of Outpatient Prospective Payment System

a. Interim payment versus final settlement

b. Payment-to-cost ratios

c. Cost-to-charge ratios

d. Interim payments limited to 85 percent of the estimated transitional corridor payment

e. Providers having more than one 1996 cost report

f. Providers having no 1996 cost report

g. Prospective payment system delay and transitional corridor payments

h. Rural hold-harmless provision

i. Covered charges

j. Cancer hospitals and transitional corridor payments

k. Teaching hospitals and transitional corridor payments

13. Limitation on Coinsurance for a Procedure

14. Reclassification of Certain Hospitals

B. August 3, 2000 Interim Final Rule With Comment Period

1. Transitional Pass-Through Provisions

a. “Not insignificant” cost criteria

b. Definition of medical device

2. Revision to Grandfather Provision for Certain FQHCs and “Look-Alikes”

3. Clarification of Notice of Beneficiary Cost-Sharing Liability

4. Clarification of Protocols for Off-Campus Departments

5. Typographical Errors in the Provider-Based Regulations

III. Provisions of This Interim Final Rule With Comment Period

A. Changes Relating to the BBRA 1999 Public Comments

B. Annual Updates to Components of the Hospital Outpatient Prospective Payment System

1. APC Groups

a. New codes

b. Deleted codes

c. Revisions to correct errors or inconsistencies

d. Device-related codes

e. Inpatient codes moved to the outpatient setting

f. “Two-times” rule

g. Inpatient codes moved to outpatient and affected by device

h. Newly covered codes

i. Pass-through requests for drugs

2. Inpatient Procedures List Update

3. Wage Index Adjustment

4. Conversion Factor Update

IV. Waiver of Notice of Proposed Rulemaking

V. Collection of Information Requirements

VI. Regulatory Impact

A. General

B. Analysis for Changes in this Interim Final Rule with Comment Period

C. Federalism

D. Executive Order 12866 and 5 U.S.C. 804(2) Regulation Text

Addenda

Note to the Addenda

Addendum A—List of Hospital Outpatient Ambulatory Payment Classifications with Status Indicators, Relative Weights, Payment Rates, and Coinsurance Amounts—Calendar Year 2001

Addendum B—Hospital Outpatient Department (HOPD) Payment Status by HCPCS Code and Related Information—Calendar Year 2001

Addendum C—[Reserved]

Addendum D—Status Indicators: How Various Services Are Treated under the Hospital Outpatient Prospective Payment System

Addendum E—CPT Codes Which Will Be Paid Only As Inpatient Procedures—Calendar Year 2001

Addendum F—Wage Index for Urban Areas

Addendum G—Wage Index for Rural Areas

Addendum H—Wage Index for Hospitals That Are Reclassified

Alphabetical List of Acronyms Appearing in the Interim Final Rule With Comment Period

APC Ambulatory payment classification

APG Ambulatory patient group

ASC Ambulatory surgical center

AWP Average wholesale price

BBA 1997 Balanced Budget Act of 1997

BBRA 1999 Balanced Budget Refinement Act of 1999

CAT Computerized axial tomography

CCI [HCFA's] Correct Coding Initiative

CCR Cost center specific cost-to-charge ratio

CMHC Community mental health center

CORF Comprehensive outpatient rehabilitation facility

CPI Consumer Price Index

CPT [Physicians'] Current Procedural Terminology, 4th Edition, 2000, copyrighted by the American Medical Association

DME Durable medical equipment

DMEPOS DME, prosthetics (which include prosthetic devices and implants) orthotics, and supplies

DRG Diagnosis-related group

FDA Food and Drug Administration

FQHC Federally qualified health center

HCPCS HCFA Common Procedure Coding System

HHA Home health agency

ICD-9-CM International Classification of Diseases, Ninth Edition, Clinical Modification

IME Indirect medical education

JCAHO Joint Commission on Accreditation of Healthcare Organizations

MRI Magnetic resonance imaging

MSA Metropolitan statistical area

NECMA New England County Metropolitan Area

PPS Prospective payment system

RFA Regulatory Flexibility Act

RHC Rural health clinic

RRC Rural referral center

SCH Sole community hospital

SNF Skilled nursing facility

I. Background

A. General Summary of April 7, 2000 Final Rule With Comment Period That Implemented Amendments Enacted by the Balanced Budget Act of 1997 and the Balanced Budget Refinement Act of 1999

On April 7, 2000, we published in the Federal Register (65 FR 18434) a final rule with comment period to implement a new prospective payment system for hospital outpatient services. This new system establishes prospective payment rates for covered outpatient hospital services using ambulatory payment classification (APC) groups. The April 7, 2000 final rule with comment period implemented section 4523 of the Balanced Budget Act of 1997 (the BBA 1997), Public Law 105-33, and related sections of the Balanced Budget Refinement Act of 1999 (the BBRA 1999), Public Law 106-113. Section 4523 of the BBA 1997 amended section 1833 of the Social Security Act (the Act) by adding subsection (t) to provide for implementation of a prospective payment system for hospital outpatient services furnished to Medicare beneficiaries. Section 1833(t) of the Act, as added by the BBA 1997—

• Authorizes the Secretary to designate the hospital outpatient services that would be paid under the prospective payment system and requires that the hospital outpatient prospective payment system include hospital inpatient services designated by the Secretary that are covered under Medicare Part B for beneficiaries who are entitled to Part A benefits but who have exhausted them or are otherwise entitled to them.

• Sets forth certain requirements for the hospital outpatient prospective payment system, including the requirement that a classification system for covered outpatient services be developed that may consist of groups arranged so that the services within each group are comparable clinically and with respect to the use of resources.

• Specifies data requirements for establishing relative payment weights. The weights are to be based on the median hospital costs determined by 1996 claims data and data from the most recent available cost reports. (This provision has subsequently been changed by the BBRA 1999, as discussed later in this preamble.)

• Requires that the portion of the Medicare payment and the beneficiary coinsurance that are attributable to labor and labor-related costs be adjusted for geographic wage differences in a budget neutral manner.

• Authorizes the Secretary under section 1833(t)(2)(E) of the Act to establish, in a budget neutral manner, other adjustments, such as outlier adjustments or adjustments for certain classes of hospitals, that the Secretary determines to be necessary to ensure equitable payments.

• Requires the Secretary to develop a method for controlling unnecessary increases in the volume of covered outpatient services.

• Specifies how beneficiary deductibles are to be treated when calculating the Medicare payment and beneficiary coinsurance amounts and requires that rules be established regarding determination of coinsurance amounts for covered services that were not furnished in 1996. The statute freezes beneficiary coinsurance at 20 percent of the national median charges for covered services (or a group of covered services) furnished during 1996 and updated to 1999 using the Secretary's estimated charge growth from 1996 to 1999.

• Prescribes the formula for calculating the initial conversion factor used to determine 1999 Medicare payment amounts and the method for updating the conversion factor in subsequent years.

• Describes the method for determining the Medicare payment amount and the beneficiary coinsurance amount for services covered under the outpatient prospective payment system. (This section was amended by the BBRA 1999, as discussed later in this preamble.)

• Requires the Secretary to establish a procedure whereby hospitals may voluntarily elect to reduce beneficiary copayment for some or all covered services to an amount no less than 20 percent of the Medicare payment amount. Hospitals are further allowed to disseminate information on any such reductions of copayment amounts. Section 4451 of the BBA 1997 added section 1861(v)(1)(T) to the Act, which provides that any reduction in copayment, must not be treated as a bad debt.

• Authorizes periodic review and revision of the payment groups, relative payment weights, wage index, and conversion factor. (This section was amended by the BBRA 1999, as discussed later in this preamble.)

• Describes how payment is to be made for ambulance services, which are specifically excluded from the hospital outpatient prospective payment system under section 1833(t)(1)(B) of the Act.

• Provides that the Secretary may establish a separate conversion factor for services furnished by cancer hospitals that are excluded from the hospital inpatient prospective payment system.

• Prohibits administrative or judicial review of the hospital outpatient prospective payment system classification system, the payment groups, relative payment weights, wage adjustment factors, other adjustments, calculation of base amounts, periodic adjustments, and the establishment of a separate conversion factor for those cancer hospitals excluded from hospital inpatient prospective payment system. (This section was expanded by the BBRA 1999, as discussed later in this preamble.)

Section 4523(d) of the BBA 1997 made a conforming amendment to section 1833(a)(2)(B) of the Act to provide for payment under the hospital outpatient prospective payment system for some services described in section 1832(a)(2) of the Act that are currently paid on a cost basis and furnished by providers of services, such as comprehensive outpatient rehabilitation facilities (CORFs), home health agencies (HHAs), hospices, and community mental health centers (CMHCs). This amendment provides that partial hospitalization services furnished by CMHCs be paid under the hospital outpatient prospective payment system.

Before enactment of section 4521(b) of the BBA 1997, the blended payment formulas for ambulatory surgery centers (ASC) procedures, radiology, and other diagnostic services, the ASC or physician fee schedule portion were calculated as if the beneficiary paid 20 percent of the ASC rate or physician fee schedule amount instead of the actual amount paid, which was 20 percent of the hospital's billed charges. Section 4521(b) of the BBA 1997, which amended sections 1833(i)(3)(B)(i)(II) and 1833(n)(1)(B)(i) of the Act, corrected this anomaly by changing the blended calculations so that all amounts paid by the beneficiary are subtracted from the total payment in the calculation to determine the amount due from the program. Effective for services furnished on or after October 1, 1997, payment for ASC surgery, radiology, and other diagnostic services calculated by blended payment methods is now calculated by subtracting the full amount of coinsurance due from the beneficiary (based on 20 percent of the hospital's billed charges).

Section 1861(v)(1)(S)(ii) of the Act was amended by section 4522 of the BBA 1997 to require that the amounts otherwise payable for hospital outpatient operating costs and capital costs be reduced by 5.8 percent and 10 percent, respectively, through December 31, 1999. (This section was further amended by the BBRA 1999.)

(Refer to the April 7, 2000 hospital outpatient prospective payment system final rule with comment period for a more in-depth description of how the changes made by the BBA 1997 and the BBRA 1999 were implemented.)

On November 29, 1999, after we had published a proposed rule to implement section 4253 of the BBA 1997, the BBRA 1999 was enacted. The BBRA 1999 made major changes that affected the hospital outpatient prospective payment system that was established by the BBA 1997 and implemented in the April 7, 2000 final rule with comment period. Therefore, in the April 7, 2000 final rule with comment period, we also implemented 14 provisions of the BBRA 1999 that affected the hospital outpatient prospective payment system and solicited public comments on those provisions. The BBRA 1999 provisions on which we solicited comments included the following:

1. Outlier Adjustment

Section 201(a) of the BBRA 1999 amended section 1833(t) of the Act by adding a new paragraph (5) to provide that the Secretary must make payment adjustments (that is, an outlier payment) for covered services whose costs exceed a threshold determined by the Secretary. This section describes how the additional payments are to be calculated and caps the projected outlier payments at no more than 2.5 percent of the total projected payments (sum of both Medicare and beneficiary payments to the hospital) made under the hospital outpatient prospective payment system for years before 2004 and 3.0 percent of the total projected payments for 2004 and subsequent years.

2. Transitional Pass-Through for Additional Costs of Innovative Medical Devices, Drugs, and Biologicals

Section 201(b) of the BBRA 1999 added new section 1833(t)(6) to the Act, establishing transitional pass-through payments for certain medical devices, drugs, and biologicals. This provision specifies the types of items for which additional payments must be made; describes the amount of the additional payments; limits these payments to at least 2, but not more than 3 years; and caps the projected payment adjustments annually at 2.5 percent of the total projected payments for hospital outpatient services each year before 2004 and no more than 2.0 percent in subsequent years. Under this provision, the Secretary must reduce pro rata the amount of the additional payments if, before the beginning of a year, he or she estimates that these payments would otherwise exceed the caps.

3. Budget Neutrality Applied to New Adjustments

Section 201(c) of the BBRA 1999 amended section 1833(t)(2)(E) of the Act to require that the establishment of outlier and transitional pass-through payment adjustments be made in a budget neutral manner.

4. Limitation on Judicial Review

Section 201(d) of the BBRA 1999 amended redesignated section 1833(t)(11) of the Act by extending the prohibition of administrative or judicial review to include the factors for determining outlier payments (that is, the fixed multiple, or a fixed dollar cutoff amount, the marginal cost of care, or applicable total payment percentage), and the determination of additional payments for certain medical devices, drugs, and biologicals, the insignificant cost determination for these items, the duration of the additional payment or portion of the prospective payment system payment amount associated with particular devices, drugs, or biologicals, and any pro rata reduction.

5. Inclusion in the Hospital Outpatient Prospective Payment System of Certain Implantable Items

Section 201(e) of the BBRA 1999 amended section 1833(t)(1)(B) of the Act to include as covered hospital outpatient services implantable prosthetics, durable medical equipment (DME), diagnostic x-ray, laboratory, and other tests associated with those implantable items.

6. Payment Weights Based on Median or Mean Hospital Costs

Section 201(f) of the BBRA 1999 amended section 1833(t)(2)(C) of the Act, which specifies data requirements for establishing relative payment weights, to allow the Secretary the discretion to base the weights on either the median or mean hospital costs determined by data from the most recent available cost reports.

7. Limitation on Variation of Costs of Services Classified Within a Group

Section 201(g) of the BBRA 1999 amended section 1833(t)(2) of the Act to limit the variation of costs of services within each payment classification group by providing that the highest median cost (or mean cost, if elected by the Secretary) for an item or service within the group cannot be more than 2 times greater than the lowest median (or mean) cost for an item or service within the group. The provision allows the Secretary to make exceptions in unusual cases, such as for low volume items and services.

8. Annual Review of the Hospital Outpatient Prospective Payment System Components

Section 201(h) of the BBRA 1999 amended redesignated section 1833(t)(8) of the Act to require at least an annual review of the payment groups, relative payment weights, and the wage and other adjustments made by the Secretary to take into account changes in medical practice, the addition of new services, new cost data, and other relevant information and factors. Section 201(h)(2) provides that the first annual review must be conducted in 2001 for application in 2002. The section was further amended to require the Secretary to consult with an expert outside advisory panel composed of an appropriate selection of provider representatives who will review the clinical integrity of the groups and weights and advise the Secretary accordingly. The panel may use data other than those collected or developed by the Department of Health and Human Services (HHS) for review and advisory purposes.

9. Coinsurance Not Affected by Pass-Throughs

Section 201(i) of the BBRA 1999 amended redesignated section 1833(t)(7) of the Act to provide that the beneficiary coinsurance amount will be calculated as if the outlier and transitional pass-throughs had not occurred; that is, there will be no additional coinsurance collected from beneficiaries for the additional payments made to hospitals by Medicare for these adjustments.

10. Extension of Cost Reductions

Section 201(k) of the BBRA 1999 amended section 1861(v)(1)(S)(ii) of the Act to extend, until the first date that the hospital outpatient prospective payment system is implemented, the 5.8 and 10 percent reductions for hospital operating and capital costs, respectively.

11. Clarification of Congressional Intent Regarding Base Amounts Used in Determining the Hospital Outpatient Prospective Payment System

Section 201(l) of the BBRA 1999 provided that, “With respect to determining the amount of copayments described in paragraph (3)(A)(ii) of section 1833(t) of the Social Security Act, as added by section 4523(a) of BBA, Congress finds that such amount should be determined without regard to such section, in a budget neutral manner with respect to aggregate payments to hospitals, and that the Secretary of Health and Human Services has the authority to determine such amount without regard to such section.”

12. Transitional Corridors for Application of Outpatient Prospective Payment System

Section 202 of the BBRA 1999 amended section 1833(t) of the Act by redesignating paragraphs (7) through (11) as paragraphs (8) through (12), respectively, and adding a new paragraph (7), which provides for a transitional adjustment to limit payment reductions under the hospital outpatient prospective payment system. More specifically, from the date the prospective payment system is implemented through 2003, a provider, including a CMHC, will receive an adjustment if its prospective payment system payments for outpatient services furnished during the year is less than a set percentage of its “pre-BBA” amount for that year. The pre-BBA amount is the product of the reasonable costs the hospital incurs for prospective payment system services during the year and the payment-to-cost ratio for covered prospective payment system services furnished during the cost report period ending during 1996. Two categories of hospitals, rural hospitals with 100 or fewer beds and cancer hospitals, will be held harmless under this provision. Small rural hospitals will be held harmless for services furnished before January 1, 2004. The hold-harmless provision applies permanently to cancer centers. Section 202 also requires the Secretary to make interim payments to affected hospitals subject to retrospective adjustments and requires that the provisions of this section do not affect beneficiary coinsurance. Finally, this provision is not subject to budget neutrality.

13. Limitation on Coinsurance for a Procedure

Section 204 of the BBRA 1999 amended redesignated section 1833(t)(8) of the Act to provide that the copayment amount for a procedure performed in a year cannot exceed the hospital inpatient deductible for that year.

14. Reclassification of Certain Hospitals

Section 401 of the BBRA 1999 added section 1886(d)(8)(E) to the Act to permit reclassification of certain urban hospitals as rural hospitals for purposes of section 1886(d) of the Act. Section 401 added section 1833(t)(13) to the Act to provide that a hospital being treated as a rural hospital under section 1886(d)(8)(E) is also to be treated as a rural hospital under the hospital outpatient prospective payment system.

A discussion of how each of these BBRA 1999 provisions was implemented in the April 7, 2000 final rule with comment period appears in section II of this preamble preceding our summary of the public comments received and our responses to those comments.

B. June 30, 2000 Notice of Delay of Effective Date for the April 7, 2000 Final Rule With Comment Period

On June 30, 2000, we published a notice in the Federal Register (65 FR 40535) announcing a delay in the effective date of the April 7, 2000 hospital outpatient prospective payment system final rule with comment period from July 1, 2000 to August 1, 2000. This delay was based on our determination that the appropriate claims processing changes could not feasibly be made to our computer systems and properly tested in time to ensure that proper payments would be made for Medicare hospital outpatient services under the new prospective payment system by the original July 1, 2000 effective date.

C. August 3, 2000 Interim Final Rule With Comment Period

On August 3, 2000, we published an interim final rule with comment period in the Federal Register (65 FR 47670) that changed one criterion and postponed the effective date for two other criteria that a new device, drug, or biological must meet in order for its cost to be considered “not insignificant” for purposes of determining its eligibility for transitional pass-through payments from the hospital outpatient prospective payment system. It also changed the transitional pass-through payment policy to include new single use medical devices that come in contact with human tissue and are surgically implanted or inserted into patients, whether or not the devices remain with the patients following their release. These policies were a departure from those presented in the April 7, 2000 final rule with comment period.

The August 3, 2000 rule also corrected a trigger date for grandfathering of provider-based FQHCs to conform with the intent not to disrupt existing FQHCs with longstanding provider-based treatment that we discussed in the April 7, 2000 rule. Under the criteria in the April 7, 2000 final rule with comment period, FQHCs would have been treated as departments of a provider without regard to the criteria for provider-based status if they continued to qualify as FQHCs and were designated as FQHCs before 1995. In accordance with the August 3, 2000 interim final rule with comment period and this interim final rule with comment period, facilities that continue to qualify as FQHCs and were designated as FQHCs or “look-alikes” on or before April 7, 2000 would continue to be treated as provider-based facilities. In addition, we clarified how the requirement for prior notices to beneficiaries is to be applied in emergency situations. We also clarified the protocols for off-campus departments in emergency situations.

D. Summary of This Interim Final Rule With Comment Period

In section II of this preamble, we—

• Respond to public comments received timely on the 14 BBRA 1999 provisions that were included in the April 7, 2000 final rule with comment period. (We received numerous public comments on other aspects of the April 7, 2000 final rule with comment period that were not open for comment. We will not address those comments in this rule.)

• Respond to public comments on the August 3, 2000 interim final rule with comment period that revised the criteria for defining new or innovative medical devices, drugs, and biologicals eligible for pass-through payments and corrected the criteria for the grandfathering provision for certain FQHCs as provider-based.

In section III of this preamble, we are updating, for services furnished during calendar year 2001, the wage index values and the conversion factor, and revising the APCs to reflect new codes for 2001 effective January 1, 2001. As required under section 1833(t)(8)(A) of the Act, in 2001, we will begin our annual review process of the APC groups, relative weights, and the wage and other adjustments for the prospective payment systems payments that will become effective on January 1, 2002. The statute requires the Secretary to consult with an expert outside advisory panel composed of an appropriate selection of representatives of providers to review (and advise the Secretary concerning) the clinical integrity of the groups and weights. This provision allows these experts to use data other than those collected or developed by us during our review of the APC groups and weights.

II. Analysis of, and Responses to, Public Comments on the BBRA 1999 Provisions and the August 3, 2000 Interim Final Rule With Comment Period

We received a total of 747 pieces of timely correspondence containing public comments on the April 7, 2000 final rule with comment period. In addition to receiving comments from various organizations throughout the hospital industry, we also received comments from beneficiaries and their families, physicians, health care workers, individual hospitals, professional associations and societies, legal and nonlegal representatives and spokespersons for beneficiaries and hospitals, members of the Congress, and other interested citizens. The majority of the comments addressed the BBRA 1999 provisions relating to the limitation on variation of costs of services classified within a group, the transitional pass-through provision for devices, drugs, and biologicals, and the inclusion of implantable items.

We received 13 comments in response to the August 3, 2000 interim final rule with comment period. These comments were submitted by major associations, drug and device manufacturers, providers, a private citizen, and a law firm. More than half of the comments addressed issues for which we did not solicit comments in the August 3, 2000 interim final rule with comment period. Those comments specifically addressed payment policy and typographical errors present in the April 7, 2000 final rule with comment period. The remaining commenters addressed the revisions to the criteria to define new or innovative medical devices, drugs, and biologicals eligible for pass-through payments and corrections to the criteria for the grandfathering provision for certain FQHCs. These commenters took issue with some of the provisions and raised additional concerns regarding our actions. A summary of the public comments and our responses to them appears following the discussion of the April 7, 2000 final rule with comment period.

We have carefully reviewed and considered all comments received timely. The modifications that we are making in response to commenters' suggestions and recommendations are summarized in section III.A of this preamble and, as appropriate, reflected in the regulation text.

A. April 7, 2000 BBRA 1999 Provisions

Below we discuss the implementation of the BBRA 1999 provisions addressed in the April 7, 2000 final rule with comment period and modified in the August 3, 2000 interim final rule with comment period, the public comments received on each provision, and our response to those comments.

1. Outlier Adjustment

Section 1833(t)(5) of the Act, as added by section 201(a) of the BBRA 1999, required that the Secretary make an additional payment (that is, an outlier adjustment) for outpatient services for which a hospital's charges, adjusted to cost, exceed a fixed multiple of the sum of the outpatient prospective payment system payment and the transitional pass-through payments. The Secretary is authorized to determine the amount of this fixed multiple and the percent of costs above the threshold that is to be paid under this outlier provision. Under the statute, projected outlier payments may not exceed an “applicable percentage” of projected total program payments. The applicable percentage means a percentage specified by the Secretary (projected percentage of outlier payments relative to total payments), subject to the following limits: For years before 2004, the projected percentage that the Secretary specifies cannot exceed 2.5 percent; for 2004 and later, the projected percentage cannot exceed 3.0 percent. Section 1833(t)(2)(E) of the Act requires that these payments be budget neutral.

Section 1833(t)(5)(D) of the Act grants the Secretary authority until 2002 to identify outliers on a bill basis rather than on a specific service basis and to use an overall hospital cost-to-charge ratio (CCR) to calculate costs on the bill rather than using department-specific CCRs for each hospital.

In the April 7, 2000 final rule with comment period, in accordance with the statute, we presented how the additional outlier payments are to be calculated.

To set the threshold or fixed multiple and the payment percentage of costs above that multiple for which an outlier payment would be made, we first had to determine what specified percentage of total program payment, up to 2.5 percent, we should select. We decided to set the outlier target at 2.0 percent. In order to set the fixed multiple outlier threshold and payment percentage, we simulated the prospective payment system payments. We calibrated the threshold and the payment percentage applying an iterative process so that the simulated outlier payments were 2.5 percent of simulated total payments. For purposes of the simulation, we set a “target” of 2.5 percent (rather than 2.0 percent), because we believed that a given set of numerical criteria would result in a higher percentage of outlier payments under the simulation using 1996 data than under the prospective payment system. This is because we believe that the 1996 data reflects undercoding of services, which means simulated total payments would likely be understated and, in turn, the percentage of outlier payments would be overstated. In addition, we were not able to fully estimate the amount and distribution of pass-through payments using the 1996 data. Our inability to make these estimates further understated the total payments under the simulation. We believe that a set of numerical criteria that results in simulated outlier payments of 2.5 percent using the 1996 data would result in outlier payments of 2.0 percent under the prospective payment system. The difference arises from the effect of undercoding in the historical data and the payment of pass-throughs under prospective payment system. We set the outlier threshold at 2.5 times the prospective payment system payments.

Comment: Several commenters asked us to clarify how series bills for services such as chemotherapy that are billed monthly for multiple sessions are treated in determining outlier payments. They also asked that we clarify how bills for multiple clinic visits on the same day are treated in calculating the outlier payment.

Response: In accordance with section 1833(t)(5)(D) of the Act, until 2002, outliers will be determined on a bill basis rather than on a specific service basis. Therefore, the charges (converted to costs) associated with all services under the hospital outpatient prospective payment system reported on series bills or all payable multiple clinic visits billed on a single claim would be used to determine whether the outlier threshold is exceeded and to calculate the outlier payment.

Comment: One commenter suggested that we prospectively adjust the conversion factor if we determine that the actual outlier expenditures are less than estimated in a given year.

Response: Consistent with our outlier policies in other prospective payment systems, we will not adjust the conversion factor for a given year to account for an underestimation (or overestimation) of outlier payments in a previous year. The statute does not provide for such an adjustment to the conversion factor. We set outlier policies prospectively, using the best available data. Outlier payments, like many aspects of a prospective payment system, reflect estimates, and we believe it would be inappropriate to adjust the conversion factor (upward or downward) for a given year simply because an estimate for a previous year ultimately turned out to be inaccurate. If we underestimate or overestimate the percentage of outlier payments, the divergence of our estimate from actual experience might provide information that might help us improve estimates in the future, but it would have no direct effect on the conversion factor for any following year.

Comment: One commenter urged us to provide additional information about the cost-to-charge ratios that will be used to determine whether a claim exceeds the outlier threshold for payment. The commenter stated that the preamble language on page 18498 of our April 7, 2000 final rule with comment period conflicts with statements contained in Program Memorandum Transmittal No. A-00-23 regarding which cost-to-charge ratio would be used to determine whether a claim meets the outlier threshold requirements for payment. According to the commenter, we stated in the final rule with comment period that we will use a hospital's overall cost-to-charge ratio to make this determination, but stated in the program memorandum that we will use an outpatient cost-to-charge ratio. The commenter asked us to clarify the conflicting statements.

Response: On September 8, 2000, we issued Program Memorandum Transmittal No. A-00-63, titled “Cost-to-Charge Ratios (CCRs) for Calculating Certain Payments Under the Hospital Outpatient Prospective Payment System” which describes how we calculated the cost-to-charge ratios that are used to determine payments for outliers, interim transitional corridors, and device pass-throughs for calendar year 2000. That program memorandum defined the cost-to-charge ratio that is used to calculate these payments as the overall hospital outpatient cost-to-charge ratio. This is consistent with what we stated in our April 7, 2000 final rule with comment period. The September program memorandum contains the latest and most complete information available on cost-to-charge ratio calculation for the hospital outpatient prospective payment system.

Comment: One commenter assumed that we will use department level cost-to-charge ratios after 2002 to determine if a particular outpatient service qualifies for outlier payment. The commenter asked if we will use a “national cost-to-charge mapping procedure” to determine the appropriate department cost-to-charge ratios to use. The commenter expressed concern about the appropriateness of that approach because of the variability among providers in assigning costs to departments. For this reason, the commenter recommended, if we use a national cost-to-charge mapping procedure, we permit providers to request outlier payments if they can demonstrate that the actual department cost-to-charge ratio to which they assign costs for a service results in a cost calculation that meets the outlier threshold.

Response: We plan to address this issue and seek comments on it in the rulemaking process for the annual update for 2002.

Comment: One commenter urged us to publish annually the “cost reporting year” used to determine the cost-to-charge ratios that will be used in determining outlier payments. The commenter also asked that we explain how we computed cost-to-charge ratios for hospitals that have merged or been acquired.

Response: On September 8, 2000, we issued Program Memorandum Transmittal No. A-00-63 that describes the specific criteria we used and provides detailed instructions for calculating the cost-to-charge ratios for hospitals that have merged or been acquired. It also identifies the specific cost reporting year end that was used to calculate each provider's cost-to-charge ratio.

Comment: One commenter asked that we lower the outlier threshold from 2.5 to 2.0. The commenter strongly recommended that we permanently retain the lowered threshold to ensure appropriate patient care and adequate provider reimbursement.

Response: We oppose lowering the outlier threshold to 2.0. As discussed in our April 7, 2000 final rule with comment period, we set the outlier threshold at 2.5 by simulating total prospective payment system payments (using 1996 hospital outpatient data) and using an iterative process to calculate a threshold under which outlier payments are projected to equal 2.0 percent of total payments. If we lowered the threshold as the commenter suggests, then the projected percentage of outlier payments would increase and we would have to reduce the conversion factor correspondingly (thus reducing the payment for all non-outlier cases.)

2. Transitional Pass-Through for Additional Costs of Innovative Medical Devices, Drugs, and Biologicals

Section 1833(t)(6) of the Act, as added by section 201(b) of the BBRA 1999, requires the Secretary to make additional payments to hospitals, outside the hospital outpatient prospective payment system for a period of 2 to 3 years for specific items. The items designated by the law are the following: Current orphan drugs, as designated under section 526 of the Federal Food, Drug, and Cosmetic Act; current drugs, biologic agents, and brachytherapy devices used for treatment of cancer; current radiopharmaceutical drugs and biological products; and new medical devices, drugs, and biologic agents, in instances where the item was not being paid as a hospital outpatient service as of December 31, 1996, and where the cost of the item is “not insignificant” in relation to the hospital outpatient prospective payment system payment amount. In this context, “current” refers to those items for which hospital outpatient payment is being made on the first date the new prospective payment system is implemented.

Section 1833(t)(6)(C)(i) of the Act sets the additional payment amounts for the drugs and biologicals as the amount by which the amount determined under section 1842(o) of the Act (95 percent of the average wholesale price (AWP)) exceeds the portion of the otherwise applicable hospital outpatient department fee schedule amount that the Secretary determines to be associated with the drug or biological. Section 1833(t)(6)(C)(ii) of the Act provides that the additional payment for medical devices be the amount by which the hospital's charges for the device, adjusted to cost, exceed the portion of the otherwise applicable hospital outpatient department fee schedule amount determined by the Secretary to be associated with the device. Under section 1833(t)(6)(D), the total amount of pass-through payments for a given year cannot be projected to exceed an “applicable percentage” of total payments. For a year (or a portion of a year) before 2004, the applicable percentage is 2.5 percent; for 2004 and subsequent years, the applicable percentage is 2.0 percent. If the Secretary estimates that total pass-through payments would exceed the caps, the statute requires the Secretary to reduce the additional payments uniformly to ensure the ceiling is not exceeded.

These pass-through payments must be made in a budget neutral manner. In addition, these additional payments do not affect the computation of the beneficiary coinsurance amount.

In the April 7, 2000 final rule with comment period, we specified the types of items for which additional payments would be made; described the amount of the additional payments; announced that these payments would be limited to at least 2 years but not more than 3 years; and announced a cap of the projected payment adjustments annually at 2.5 percent of the total projected payments for hospital outpatient services each year before 2004 and no more than 2.0 percent in subsequent years.

a. Definition of a Device

Comment: Some commenters argued that we have adopted a very narrow definition of a device that restricts pass-through payments to prosthetic devices and excludes valuable new nonprosthetics from pass-through consideration. They asserted that the definition of a device should mirror the definition set forth in the Federal Food, Drug, and Cosmetic Act. They agreed that such a definition should exclude capital equipment, reusable items, and incidental supplies. However, they argued that we should clarify and revise our definition of devices to those that are “implanted or inserted” and “remain with the patient after the patient is released from the hospital outpatient department.”

Response: The definition of a device under the Food, Drug, and Cosmetic Act is extremely broad. In summary, it refers to a device as an instrument, apparatus, implement, machine, contrivance, implant, in vitro reagent, or other similar or related article, including any component, part, or accessory, which is—

• Recognized in the official national formulary, or the U.S. Pharmacopeia, or any supplement to them;

• Intended for the use of the diagnosis of conditions other than diseases such as pregnancy;

• Intended to affect the structure or any function of the body of man or other animals; or

• Considered an in vitro diagnostic product, including those previously regulated as drugs, and which does not achieve any of its principal intended purposes through chemical action within or on the body of man or other animals and which is not dependent upon being metabolized for the achievement of any of its principal intended purposes.

This definition is inappropriate for use in the context of the transitional pass-through payments for several reasons: It would include (as the commenters noted) items that are treated as supplies, reusable items, or capital equipment by Medicare payment systems, including the outpatient prospective payment system. It has a number of inappropriate elements, including reference to pharmaceuticals and to use in animals. Further, it is insufficiently specific for Medicare purposes, as it does not mention medical necessity or the test of whether the cost of a device is “not insignificant” relative to the associated APC.

We have instead provided a definition of a device specific to the purposes of the transitional pass-through provision. This definition was presented in the preamble to the April 7, 2000 final rule with comment period and revised in the August 3, 2000 interim final rule with comment period, which added § 413.43(e)(4).

In the August 3, 2000 interim final rule with comment period, we revised the criteria that we had set forth in the April 7, 2000 final rule with comment period to define a device. Among the changes included is a revision of the criterion relating to whether a device must remain with the patient. The new criterion (§ 419.43(e)(4)(iv)) includes devices that are surgically implanted or inserted in a patient “whether or not they remain with the patient when the patient is released from the hospital outpatient department.” This change allows pass-through payments for devices that are surgically implanted or inserted even temporarily in a patient providing the devices meet all other requirements for pass-through payments. As a result, nonprosthetic devices, such as cardiac catheters, guidewires, or stents that commenters noted would be excluded, may be eligible for pass-through status.

In § 419.43(e)(4)(iv), we have retained the limitation to devices that are surgically implanted or inserted because we believe this offers the best interpretation of section 201(e) of the BBRA 1999, which indicates that implantable devices are to be included in the APCs. To further clarify how we interpret § 419.43(e)(4)(iv), we consider that a device is surgically implanted or inserted if it is introduced into the human body through a surgically created incision. We do not consider an item used to cut or otherwise create a surgical opening to be a device that is surgically implanted or inserted. We consider items used to create incisions, such as scalpels, electrocautery units, biopsy apparatuses, or other commonly used operating room instruments, to be supplies or capital equipment, and hence, in accordance with § 419.43(e)(4)(vi) or (vii), we consider these items not eligible for transitional pass-through payments. We believe the function of these items is different and distinct from that of devices that are used for surgical implantation or insertion. Generally, we would expect that surgical implantation or insertion of a device occurs after the surgeon uses certain primary tools, supplies, or instruments to create the surgical path or site for implanting the device.

We have discovered some items that do not meet the requirement of being surgically implanted or inserted were erroneously approved for pass-through payments. Consequently, we will eliminate these items from the list of items eligible for pass-through payments, effective January 1, 2001.

Comment: One commenter claimed that it was inappropriate for us to change the definition of devices through letters to manufacturers. The commenter believed that this was done outside the rulemaking process.

Response: We did not make a change to our policy through a letter. As we began to evaluate the hundreds of applications for approval of numerous devices, it was apparent that our definition for new medical devices as published in our April 7, 2000 final rule with comment period would have resulted in denials for items that we believe might warrant pass-through payments. Examples of such potential denials are many types of general and specialty catheters. Based on our experience in reviewing these applications, we decided to change three of the eight specific criteria that a new device must meet in order to be eligible for pass-through payments. We published these changes in our August 3, 2000 interim final rule with comment period.

b. Eligibility Criteria

Comment: Some commenters believed that we should accept and process applications for items while they are undergoing the FDA review process.

Response: We have accepted and begun processing all applications, including those for which items are pending FDA approval or clearance. However, in those instances where the FDA approval or clearance documentation is missing, the application is considered incomplete. In order for an item to be eligible for transitional pass-through payments, it must have been approved or cleared by the FDA for marketing. We will not make a final determination on any applications that are pending FDA approval or clearance until all the required documentation is submitted. Resources permitting, we will commence preliminary processing of the applications when received. The applying party is responsible for providing us with proper evidence of FDA approval or clearance for any item, once approval or clearance has been obtained. Once we receive documentation of FDA approval or clearance and determine the item is determined to be eligible for transitional pass-through payments, payment for the item will commence at the start of the next quarterly update of pass-through items.

Comment: Some commenters asked that we clarify that items must meet Medicare coverage requirements in order to qualify for pass-through status.

Response: As stated in both our April 7, 2000 final rule with comment period and our August 3, 2000 interim final rule with comment, items that qualify for pass-through payments must be covered by Medicare. They must have been determined to be reasonable and necessary for the diagnosis or treatment of an illness or injury or to improve the functioning of a malformed body part, as required by section 1862(a)(1)(A) of the Act. (See § 419.43(e)(4)(iii).)

c. Investigational Device Exemption (IDE) Devices

Comment: Some commenters recommended that we automatically define as “new” any device that receives an investigational device exemption (IDE) from the FDA, with a Category B designation. They believed that we should pay for IDE devices through the pass-through payment methodology rather than limit the payment to no more than what is currently paid for an equivalent device.

Response: As stated in our August 3, 2000 interim final rule with comment period, we have changed the payment methodology for eligible IDE Category B devices so that they will be paid using the transitional pass-through methodology. Since these noninvestigational devices are required to meet the same eligibility criteria as other devices, we determined that they should be paid in a similar manner. However, we do not accept the commenter's recommendation that all IDE Category B devices “automatically” be considered as new. The statute defines “new” medical device on the basis of a date certain (that is, payment for the device was not being made as an hospital outpatient service as of December 31, 1996) rather than based on a class of devices (such as IDEs).

d. Removing Cost of Predicate Item

Comment: Some commenters stated that we did not have adequate data to ensure appropriate removal of the costs for predecessor items (particularly radiopharmaceuticals and devices) from their relevant APCs. They advocated that we reevaluate this provision as soon as possible after implementation of our new system and make necessary changes.

Response: We will be continuously evaluating our data to remove the costs of predecessor items from the pass-through payments. As of January 1, 2001, a specific dollar amount will be deducted from selected devices (see explanation below). Over time, such deductions will be made, as we are able to make appropriate estimates from the data.

e. Excluded Costs

Comment: A number of commenters stated that the APC construction excluded costs for implantable devices billed with revenue codes 274, 275 and 278. The commenters recommended that implantable devices associated with these revenue codes be included on the pass-through list until data is collected to adequately reflect the cost of such devices. In addition to claims that revenue codes 274, 275 and 278 were not represented in the data, some commenters alleged that implant procedures were infrequently performed on an outpatient basis prior to 1997 and therefore the costs associated with them were not represented in the data used to develop the APC rates. Some commenters recommended, on that basis, that all implantable devices be included for pass-through payment regardless of FDA approval dates.

Response: Following enactment of the BBRA of 1999, we did not have sufficient time to re-run our data to package the costs of implantable device revenue centers into the APC weights and still be able to publish a final rule in time to implement the prospective payment system by July 1, 2000.

As of January 1, 2001, the APC rates will reflect the inclusion of revenue codes 274, 275 and 278. While the aggregate amount of these revenue centers is small (0.3 percent of total charges in 1996), the costs of certain procedures such as implantation of cardiac pacemakers did increase substantially. As detailed in section III.B.1 of this interim final rule, some APC groups were modified because of the inclusion of these revenue centers, and rates for some procedures will increase to reflect these costs. A reduction in an amount equal to the increase in the APC rates will be deducted from the relevant devices that are either eligible for pass-through payments or that can be billed for additional payment through the new technology APCs.

f. Effect on Conversion Factor

Comment: Some commenters believed that lowering the outpatient prospective payment system conversion factor to reflect the 2.5 percent transitional pass-through adjustment could affect hospitals' financial health. They asserted that any risks to the financial health of hospitals resulting from reducing the conversion factor should be balanced against any benefits that would be gained from higher payments for new drugs and devices. Another commenter advocated that we increase the conversion factor if we find that the transitional pass-through payments do not comprise 2.5 percent of the total outpatient prospective payment system payments.

Response: Section 1833(t)(2)(E), as amended by section 201(c) of the BBRA 1999, requires that transitional pass-through payments be implemented in a budget neutral manner. We set prospective payment system rates prospectively and, consistent with our policies in other aspects of the prospective payment system, we will not adjust (upward or downward) the conversion factor for a given year to account for the difference between 2.5 percent and the actual percentage of pass-through payments in a previous year.

g. Cost Significance Tests

Comment: Some commenters asserted that we could preclude some worthwhile technologies from achieving pass-through status if we set the “not insignificant” cost threshold at 25 percent of the APC payment rate for the relevant procedure with which it is used. They contend that technologies associated with higher payment APCs would be more likely to be disqualified.

Response: We have lowered the cost threshold from 25 percent to 10 percent of the applicable fee schedule amount for the service associated with the item. This change is effective for services furnished on or after August 1, 2000.

Comment: A hospital association asked that we clarify how the “not insignificant” criteria will be applied when a new device, drug, or biological is associated with more than one APC. The commenter stated that, under the current provisions of the rule, an item could be determined to be eligible for pass-through payment when used in performing a procedure in one APC, but not another. The commenter suggested that an item that meets the criteria for one APC be treated as a pass-through item for all APCs in which it is used.

Response: We agree with the stated approach. This has been the policy that we have applied in processing applications.

Comment: One manufacturer stated that we did not make information available on the “not insignificant” rule in sufficient time for applicants to take the criteria into account in preparing applications for payment effective August 1, 2000. The commenter alleged that the term “not insignificant” can be interpreted widely and caused manufacturers not to apply for all potentially eligible pass-through items. The commenter recommended that we review applications submitted for the following HCPCS codes to be certain that they meet the published cost criteria and remove them from the pass-through list if they do not. The commenter also advocated that we allow other manufacturers to submit applications retroactive to July 1, 2000, to assure that we are not promoting a competitive disadvantage for some companies.

HCPCS Codes

C1029

C1034

C1061

C1072

C1073

C1074

C1100

C1101

C1155

Response: In order for a device to be included on the pass-through list, it must meet the criteria for transitional pass-through payments. These criteria include a test of whether the cost of a device is “not insignificant” relative to the payment for the associated APC. This test was first put forth in the April 7, 2000 final rule with comment period, and subsequently revised in the August 3, 2000 interim final rule with comment period. All the devices denoted by the HCPCS codes listed above were tested and met the 10-percent “not insignificant” test as well as the other applicable criteria. The “not insignificant” test was applied uniformly to all applications that had been received timely. We believe that permitting retroactive applications is unwarranted (and would be inconsistent with principles of prospectivity); moreover, resource and systems constraints would make it infeasible to give retroactive effect to determinations of eligibility for pass-through payments.

h. Brand-Specific Versus Categorization Approaches

Comment: Many commenters criticized us for implementing a brand-specific approach to items on the pass-through list. Device manufacturers in particular recommended a category scheme to classify pass-through devices. Representatives of the device industry also offered to assist us in creating the categories. They argued that a category system would allow devices to be added immediately upon FDA approval. They stated that under a category approach manufacturers would only approach us to obtain new pass-through categories and codes when items reflect a technological advance and are significantly more costly than existing payment amounts.

Response: We adopted a trade-name specific approach for several reasons. First, such an approach provides better information. Codes that are largely item-specific allow us to track what procedures the items are used with and costs of the items. When the pass-through payments for an item ends, we would expect to have good information for assigning it to relevant APCs and ensuring appropriate payment for these APCs. Adopting a scheme with a significant degree of categorization would require use of averages in making assignments and setting payment rates. Decisions based on these more limited data would be likely to lead to intensified concerns about the appropriateness of APC assignment and payment.

Second, this approach permits finer discrimination in eligibility decisions. An item-by-item approach allows us to be sure individual items in fact meet the criteria for eligibility. Of major concern in this instance is whether a device is “new” using the standard of the statute. Section 1833(t)(6)(A) of the Act limits transitional pass-through payment to those devices for which “* * * payment for the device * * * as an outpatient hospital service under this part was not being made as of December 31, 1996.” Adopting categories would in some cases mix “old” and “new” devices. In these instances, either some old devices would get special treatment that they would not be eligible for if they were examined on an item-specific basis, or an entire category could be considered old, thus depriving some new devices from special treatment they would be eligible for if they were examined on an item-specific basis.

Third, an item-specific scheme avoids issues associated with the design of categories needed for purposes of transitional pass-through payments. It largely avoids concerns about what items should be in what category or whether new categories should be created to accommodate items that may appear to be little different from those in existing categories.

Fourth, an item-specific approach allows us to assure that a newly arriving device can obtain the full period of pass-through status it is arguably eligible for under the statute. A categorization approach would likely lead to latecomers being eligible for pass-through payments for a shorter period. Insofar as revision to APC payment rates reflected the costs of items in the category by the time the category was terminated, the shorter period would be of little consequence. However, if the costs of the late-coming item were significantly higher, this procedure could appear objectionable. A solution in this case would be to create a new code, which could be specific to that item, thus departing from a categorization approach.

We recognize that a category approach would lessen concerns about competitive disadvantages that may have been inadvertently created by an item specific approach and about access to specific items by hospitals and their patients. However, we found no satisfactory way of establishing categories that would not run into difficulty regarding the test of whether a device is “new” as described above. Consequently, we are making no change in our approach.

Comment: Many commenters argued that competitive advantages have resulted and will continue to result from using a brand-specific approach to implementing transitional pass-through payments for devices. Some commenters alleged that our use of the FDA approval date as a proxy for determining payment in concert with the brand-specific approach causes further competitive disadvantages. Some hospitals claimed that the brand-specific approach would create winners and losers if a device that one hospital uses obtains pass-through status, but one that another hospital uses does not. A number of commenters asserted that a category approach would decrease the administrative burden on hospitals, manufacturers, and us that a brand-specific approach for application and approval of new devices now incurs.

Response: It was never our intent to competitively disadvantage anyone or any product. To the maximum extent possible, given the limitations under the BBRA 1999 and our resource constraints, we have worked closely with the pharmaceutical and medical device industries to identify and resolve such issues. By October 1, 2000, we had determined that more than 700 devices are eligible for pass-through payments. Therefore, we believe that hospitals will receive additional payments for many of the devices they use.

i. Issues Pertaining to Specific Items

Comment: A medical association advocated pass-through status for the following devices: new pacemakers, implantable cardioverter defibrillators, insertable loop recorders, electrophysiology catheters (ablation and diagnostic), intracardiac echocardiography ultrasound catheters, and advanced three-dimensional mapping system catheters.

Response: All of these items are already on the pass-through list. For a complete list of items approved on the pass-through list, refer to Addendum B of this rule for short descriptions of the items. Refer to Program Memoranda Transmittals Nos. A-00-42, A-00-61 and A-00-72 for the long descriptors for each of the C-codes listed in Addendum B. We are developing an additional program memorandum that we expect to issue shortly. This additional program memorandum will contain a list of additional devices, drugs, and new technology services that will be effective January 1, 2001.

Comment: Several device manufacturers alleged that the following devices were not included on the pass-through list:

PALMAZ Balloon-Expandable Stent

Corinthian IQ Biliary Stent

SMART Cordis Nitinol Stent

CARTO EP Navigation System Catheters

HYDROLYSER Catheter

Indigo Prostate Seeding Needle

Lioresal Intrathecal

SynchroMed and SynchroMed EL infusion pumps

Response: All of these devices have been approved for pass-through payments and assigned C-codes. They have been assigned the following codes: the PALMAZ Balloon-Expandable Stent, C8522; Corinthian IQ Biliary Stent, C5004; SMART Cordis Nitinol Stent, C1372; CARTO EP Navigation System Catheters, C1047; HYDROLYSER Catheter, C1054; Indigo Prostate Seeding Needle, C1706; Lioresal Intrathecal, C9007, C9008, C9009, and C9010; SynchroMed and SynchroMed EL infusion pumps, C8505 and C3800, respectively.

Comment: Another device manufacturer claimed that the following devices were not included on the pass-through list:

Mitek Bone Anchors

Innovasive Bone Anchors

VAPR and VAPR Thermal T Electrode

Gynecare TVT Tension-Free Support for Incontinence System (TVT)

Gynecare Thermachoice Uterine Balloon Therapy System

Response: Many of the items above have been approved for pass-through status and assigned C-codes. The Mitek and Innovasive Bone Anchors have been assigned to C1109; VAPR and VAPR Thermal T Electrode, to C1323; TVT Single-Use Tension-Free Vaginal Tape, to C1370; and the Gynecare Thermachoice II Catheter, to C1056. However, some of the items included in the Gynecare TVT Tension-Free Support for Incontinence System and the Gynecare Thermachoice Uterine Balloon Therapy System did not meet the criteria for pass-through status and, therefore, are ineligible for additional payments. The eligible pass-through items are listed in Addendum B.

Comment: A device manufacturer believed that we should have approved the Targis System, which provides prostatic microwave thermotherapy, for pass-through payments.

Response: We assigned the prostatic microwave thermotherapy procedure to a new technology APC, that is, APC 0980. In making this assignment, we took into account the costs associated with performing this procedure, including the cost of the Targis system. Therefore, we would not also make a pass-through payment for the system.

Comment: A number of commenters contended that only 39 of the more than 70 eligible radiopharmaceuticals have been given pass-through status. They recommended that we approve the following radiopharmaceuticals for pass-through payments:

Strontium Sr 82 Rubidium Rb 82 Generator

Sodium Chromate Cr-51

Co 57 Cobaltous Chloride

Co 57 Cyanocobalamin

Ferrous Citrate Fe59

Fludeoxyglucose F 18

Intrinsic Factor Concentrate Capsules

In 111 Imciromab (Myoscint)

In 111 Labeled WBCs, Platelets

I 123 and I 131 Hippurate

Iodinated I 131 Albumin (I 131 Albumin)

Iodinated I 125 Albumin (I 125 Albumin)

Iothalamate Sodium I 125 Albumin (I125 Iothalamate)

Technetium Tc 99m Pertechnetate

Technetium Tc 99m Albumin Colloid

Technetium Tc 99m Lidofenin

Technetium Tc 99m Tebroxime

Technetium Tc 99m Nofetumomab (Verluma)

Technetium Tc 99m HMPAO labeled WBCs

Technetium Tc 99m Human Serum Albumin

Technetium Tc 99m Serum Albumin (Tc 99m HSA kit)

Xenon XE 127 Gas

Response: While a number of radiopharmaceuticals are already on the pass-through list, we are unable to add some of the ones listed above because we do not have AWPs for them. The AWPs are the basis for payment for these items and without the AWPs we cannot approve them for pass-through payments. As soon as the AWPs are made available to us, we will complete our review to determine their pass-through status. If eligible, they will be added to the pass-through list during the appropriate quarterly update cycle.

Comment: One commenter stated that our transitional pass-through policy for devices precludes pass-through eligibility for capital equipment and therefore does not provide a mechanism under our new system for recognizing the incremental costs associated with capital equipment. The commenter recommended that we recognize capital-equipment costs through our new technology APCs.

Response: Under our new outpatient prospective payment system, capital costs are not paid separately. Payment for these costs are included in the total APC payment amount for each procedure or medical visit and will be updated through our annual updating process. Therefore, the new technology APCs will not be used to make separate payments for capital related costs.

Comment: A number of commenters claimed that we denied pass-through status for the contrast agents.

Response: As clarified in our August 3, 2000 interim final rule with comment, contrast agents other than radiopharmaceuticals are considered supplies and are not eligible for pass-through payments. (See § 419.43(e)(4)(vii).)

Comment: A medical association claimed that we denied pass-through status requests for high dose rate brachytherapy. Another industry group alleged that many brachytherapy related items that manufacturers applied for were excluded from the pass-through list.

Response: Since publishing our initial list of potentially eligible pass-through items to our website on March 9, 2000, we have added 38 brachytherapy items to our pass-through list. High-dose rate brachytherapy will be eligible for pass-through payment effective for services furnished on or after January 1, 2001.

j. Pass-Through Applications Process

Comment: Some commenters urged that we process transitional pass-through applications in a more timely manner. A few other commenters believed that we should have chosen a date later than July 14, 2000 as the application deadline for the October 1, 2000 quarterly update for pass-through items.

Response: We have committed considerable resources to process pass-through applications in a timely manner. Since publication of our preliminary list of 149 potentially eligible pass-through items on our website on March 9, 2000, we have approved nearly 1000 additional items for pass-through payments. We have instituted a coding strategy that allows us to assign a temporary HCPCS code immediately to an eligible pass-through item if a national HCPCS code has not been assigned. We have committed to making quarterly updates to the pass-through list, a commitment that is unprecedented in Medicare's history. We have reviewed all applications timely submitted for each update cycle. Unfortunately, however, we have had to defer items with significantly unclear applications or for which sufficient information was not included to determine that the item meets the statutory criteria. We have endeavored to work closely with the applicants to obtain this information and respond timely to their questions.

Regarding objections to setting a July 14, 2000 deadline for receipt of pass-through applications for the October 1 update, this deadline was established in order to evaluate the applications and make the necessary systems modifications in time for the October release to our fiscal intermediaries and standard systems maintainers.

Comment: One commenter believed that we should update our transitional pass-through list more frequently than quarterly. Some other commenters were concerned that the quarterly updating process could potentially create systems problems for both HCFA and hospitals that would delay payments. They believed that such a delay would, in turn, create cash flow difficulties for hospitals. They urged that we develop contingency plans to address cash flow problems resulting from the transitional pass-through process.

Response: Because of the complexity of our new system, we cannot institute systems changes more frequently than quarterly for pass-through payments. While we believe that making quarterly updates to the pass-through list will present challenges both for HCFA and the hospital industry, we have not been advised that any hospital is experiencing cash flow problems attributable to the transitional pass-through process.

Comment: One commenter urged us to issue guidelines that detail the planned methodologies, data sources, and associated timelines for updating the pass-through list.

Response: Since March 10, 2000, we have published information on our website which provides detailed instructions and deadlines for submitting transitional pass-through applications. These instructions have been revised as needed in order to clarify and update information and may be found on the following HCFA website: http://www.hcfa.gov /medlearn/refopps.htm.

Comment: One commenter claimed that our method and timing of assigning HCPCS codes to eligible transitional pass-through items would preclude Medicare beneficiaries from receiving appropriate treatment. The commenter also alleged that hospitals will not always be adequately reimbursed for their costs for such items and that they will have an incentive to switch to more invasive treatment options with higher costs.

Response: We have expedited the process of assigning HCPCS codes to pass-through items. When an item is determined eligible for pass-through status, a temporary HCPCS code is assigned immediately in order that hospitals may begin billing the item as soon as it is effective for payment.

In addition, section 1833(t)(6)(C)(i) of the Act requires that the hospital's additional payment for drugs and biologicals be determined as the difference between the amount determined under section 1842(o) of the Act (95 percent of AWP) and the portion of the hospital outpatient department fee schedule amount determined by the Secretary to be associated with those items. For devices, the additional payment is the difference between the hospitals' charges adjusted to costs and the portion of the applicable hospital outpatient department fee schedule amount associated with the device. We believe that this payment method will appropriately reimburse hospitals for eligible pass-through items and that hospitals will act in a prudent manner and not compromise their patients' safety and care.

k. Payment for Pass-Through Items

Comment: Several commenters questioned how payment would be made when a pass-through item is included on an outpatient claim. Another commenter stated that our April 7, 2000 final rule with comment period does not state the actual payment amount that will be made for each pass-through item, or provide a good reason for not updating drug and biological average wholesale prices quarterly, or pledge timely correction of payment amount errors. The latter commenter believed that we should make available the actual APC payment rates for pass-through items and institute quarterly pricing-updates for drug and biological APCs.

Response: Transitional pass-through payments for devices are established by taking the hospital charges for each billed item (on an item-by-item basis), reducing them to cost by use of the hospital's cost-to-charge ratio, and subtracting an amount representing the device cost contained in the APC payments for procedures involving that device. Note that for services furnished prior to January 1, 2001, we have not subtracted an amount for the predicate device that is packaged in the relevant APC. However, we will implement this policy beginning with services furnished on or after January 1, 2001. These calculations are all done in the outpatient prospective payment system pricer. Because there are no predetermined APC payment rates for eligible pass-through devices, we cannot publish them in the same manner as we publish the APC payment rates for other services.

For drugs and biologicals, pass-through payments are determined based on 95 percent of the AWP for the eligible drug or biological. We described in our April 7, 2000 final rule (65 FR 18481) the process we used to subtract the cost of the eligible drug or biological contained in the APC payments for procedures involving that drug, radiopharmaceutical or biological. The year 2000 AWPs for pass-through drugs and biologicals on which payments are currently based will be updated annually at the beginning of the next quarter following publication of the updated values. Due to the complexity of our new system, we cannot update AWPs quarterly as requested.

Comment: A number of commenters stated that the codes for drugs in Addendum K of our April 2000 final rule are specific to the dosage amount dispensed and asked what happens if the dosage dispensed to a patient is not equal to the amount associated with the eligible codes. The commenters requested additional information about how providers should account for these situations. They asked if we would allow providers to bill for the product amount associated with the container opened to treat the patient and round up to the nearest whole billing unit.

Response: The APC payment amount for drugs and biologicals is established at the lowest dosage level for the specific drug or biological. If the dosage required in treating the patient exceeds the lowest level specified in the HCPCS code descriptor for the drug or biological, providers may bill the number of units necessary to treat the patient and round them up to the nearest unit. To determine the payment for the drug or biological, multiply the number of billed units by the APC payment amount.

Comment: One commenter stated that the APC payment amount for Eptifibatide, a drug on the pass-through list, does not equal 95 percent of the average wholesale price ($6.28 per 5-mg. service unit). The commenter claimed that the APC payment is 42 percent lower than 95 percent of the AWP. The commenter asked that we correct the payment immediately.

Response: The correct APC payment amount for Eptifibatide injection, 5 mg. is $12.57, of which $1.68 is the minimum unadjusted coinsurance.

Comment: One commenter stated that the APC payment amount for Quadramet, a pass-through drug, is incorrect. The commenter claimed the AWP for this drug is $2,975 rather than $2,875, which the commenter believed is the basis for our APC payment amount. The commenter stated that the pass-through payment should be $942.08 instead of $910.42.

Response: The correct APC payment amount for Quadramet is $942.09. Of this amount, $134.87 is the minimum unadjusted coinsurance.

Comment: A commenter stated that the APC payment amount for Thyrogen, a pass-through drug, should be $494.00 rather than $404.18 per vial.

Response: The APC payment amount of $404.18 is for 0.9 mg. units of Thyrogen rather than 1.1 mg., which appears to be the standard vial dosage. However, because Thyrogen is not available in a vial dosage less than 1.1 mg., we are eliminating the APC payment for 0.9 mg. units (HCPCS code J3240) effective for outpatient prospective payment system services furnished on or after January 1, 2001. We have established a new code, C9108, for Thyrogen, 1.1 mg. with an APC payment amount of $494.00. This new code is effective for outpatient prospective payment system services furnished on or after January 1, 2001.

Comment: A medical association acknowledged our short lead-time for implementing the transitional pass-through provision and urged that we hold a series of face-to-face meetings with physicians and suppliers to clarify and revise our pass-through policies.

Response: Since publishing our April 7, 2000 final rule with comment period, we have met on numerous occasions with physicians and representatives of hospitals, pharmaceutical companies and device manufacturers. During these meetings, we have discussed our transitional pass-through policies and clarified information regarding the pass-through applications process.

Comment: One commenter stated that the April 7, 2000 final rule with comment period requiring the submittal of applications for national HCPCS codes to bill eligible transitional pass-through was published after the application deadline had passed. The commenter alleged that some manufacturers obtained information about the pass-through provisions prior to publication of the final rule, submitted their applications timely, and thus dominated the hospital outpatient market.

Response: On March 9, 2000, we posted information on our website similar to that contained in the April 7, 2000 final rule with comment period about applying for national HCPCS codes for pass-through items. We also discussed the coding deadline with representatives of the pharmaceutical and device manufacturers associations as well as with hospital industry representatives through conference calls, meetings, and e-mails. We note that the instructions and deadline for submitting applications for a national HCPCS code are well established and were published on HCFA's website (http://www.hcfa.gov /medicare/hcpcs.htm) more than a year prior to publication of our April 7, 2000 final rule with comment period. Subsequent to these publications, we adopted a new system for assigning codes exclusively for pass-through items to expedite their availability to the hospital industry and Medicare beneficiaries. Therefore, interested parties applying for pass-through status for items have not been required to obtain national HCPCS codes for these items unless they want to bill other payment systems in addition to the hospital outpatient prospective payment system.

l. Focus Medical Review

Comment: One commenter asked that we clarify why we intend to conduct focused medical review of pass-through eligible drugs, biologicals and medical devices.

Response: Our goal is to identify inappropriate billing for these services and to ensure that payment is not made for noncovered services.

3. Budget Neutrality Applied to New Adjustments

In the April 7, 2000 final rule with comment period, in accordance with section 1833(t)(2)(E) of the Act, as amended by section 201(c) of the BBRA 1999, we made the outlier and transitional pass-through payment adjustments under section 1833(t)(5) and section 1833(t)(6) of the Act, respectively, budget neutral. We did not receive any public comments on this provision.

4. Limitation on Judicial Review

In the April 7, 2000 final rule with comment period (65 FR 18503-18504), in accordance with section 1833(t)(12) of the Act (as amended by section 201(d) of the BBRA 1999 and redesignated by section 202(a) of the BBRA 1999), we implemented the extension of the prohibition of administrative or judicial review to include the factors for determining outlier payments (that is, the fixed multiple, or a fixed dollar cutoff amount, the marginal cost of care, or applicable total payment percentage), and the factors used to determine additional payments for certain medical devices, drugs, and biologicals, the insignificant cost determination for these items, the duration of the additional payment or portion of the prospective payment system payment amount associated with particular devices, drugs, or biologicals, and any pro rata reduction.

We did not receive any public comments on this provision.

5. Inclusion in the Hospital Outpatient Prospective Payment System of Certain Implantable Items

In the April 7, 2000 final rule with comment period, we specified that section 1833(t)(1)(B) of the Act, as amended by section 201(e) of the BBRA 1999, provides that “covered OPD services” include implantable items described in section 1861(s)(3), (6), or (8) of the Act.

The conference report accompanying the BBRA 1999, H.R. Rept. No. 479, 106th Cong., 1st Sess. at 869-870, (1999), expresses the belief of the conferees that the current DMEPOS fee schedule is not appropriate for certain implantable medical items such as pacemakers, defibrillators, cardiac sensors, venous grafts, drug pumps, stents, neurostimulators, and orthopedic implants as well as items that come into contact with internal human tissue during invasive medical procedures, but are not permanently implanted. In the conference report agreement, the conferees state their intention that payment for these items be made through the hospital outpatient prospective payment system, regardless of how they might be classified on current HCFA fee schedules.

In the April 7, 2000 final rule with comment period, we included the following in the list of items and services whose costs are included in hospital outpatient prospective payment rates: Prosthetic implants (other than dental) that replace all or part of an internal body organ (including colostomy bags and supplies directly related to colostomy care), and including replacement of these devices; implantable DME; and implantable items used in performing diagnostic x-rays, diagnostic laboratory tests, and other diagnostic tests. In accordance with the BBRA 1999 provision, we require that an implantable item be classified to the group that includes the service to which the item relates. We indicated that we would continue to review the impact of packaging implantables in future updates. For more detailed information on this provision, refer to the April 7, 2000 final rule with comment period (65 FR 18443-18444).

Comment: Two commenters (hospitals) expressed concern that the APC for the Cyberonics-NeuroCybernetic Prosthesis (NCP) System, an implantable device used to treat epilepsy patients with partial-onset seizures, will not adequately reimburse hospitals for the cost of the device and the implantation procedure cost. The hospitals recommended that HCFA create a separate APC group for the NCP System implantation.

Response: The NCP System was approved for pass-through status effective for services furnished on or after August 1, 2000 (see Program Memorandum Transmittal No. A-00-42 issued on July 26, 2000). The two components of this system, the NeuroCybernetic Prosthesis Generator and the NeuroCybernetic Prosthesis Lead, will be paid based on the hospital's charges that are converted to cost using the hospital's assigned cost-to-charge ratio. These devices have been assigned to two separate pass-through APCs (1048 and 1306, respectively) and should be billed using HCPCS code C1048 for the generator and C1306 for each lead.

Comment: Several commenters from physician practices and a device manufacturer raised concerns that the APC payment level for the Contigen Implant procedure is inadequate to cover the facility costs and the Contigen Implant supplies. According to the commenters, the APC reimbursement amount only covers the 2-3 Contigen Implant syringes used per procedure. The commenters recommended that we map the Contigen Implant procedure and the collagen skin test to higher paying completely new APCs, to more adequately reflect reasonable costs for syringes and skin tests used in the procedure, in addition to appropriate facility fees.

Other commenters raised concerns that the separate APC reimbursement for the pre-Contigen Implant procedure testing is inadequate to reimburse for the reasonable cost of the supply. They recommended that we allow payment of Contigen Implant syringes according to the DMEPOS fee schedule.

One commenter recommended that we create a special ancillary APC to cover Contigen Implant syringes and the collagen skin test.

Response: While we understand the commenters' concerns, Contigen Implant syringes do not qualify for transitional pass-through status because they do not meet all of the device criteria set forth in § 419.43(e)(4). Specifically, they are not items that are surgically implanted or inserted in a patient. However, both collagen implant material and the collagen skin test are paid as APCs (that is, APCs 6012 through 6016 and 343, respectively). We will examine data after the first year of billing under the prospective payment system to determine if we are adequately capturing the cost of performing these procedures.

As stated in our April 7, 2000 final rule with comment period, we will initiate the annual review process for the various components of our system, including the APC groupings, in calendar year 2001 for services furnished on or after January 1, 2002. We expect to publish our proposed rule for 2002 in the spring of 2001.

Comment: A device manufacturer inquired as to what will happen when devices are taken off the transitional pass-through list after 2 to 3 years. The commenter stated that the additional expense of these implantable devices will require that HCFA reassign these CPT codes to an APC that is comparable clinically and in terms of resources used at the close of the transition period. If this does not occur, the commenter indicated that hospitals would be seriously underpaid for the use of these technologies and other technologies in similar circumstances.

Response: As stated above, the BBRA 1999 allows for 2 to 3 years of transitional pass-through payments to be made for new devices, drugs, and biologicals. After the temporary payment period expires for any item, its cost will be packaged with the relative procedure code or medical visit and assigned to the APC group that is clinically related and comparable in resources used. Thus, the APC groupings, weights, and payments will be updated in a subsequent year to include costs associated with former pass-through items.

Comment: A coalition of health care providers and insurers indicated that providers should be allowed to report all DME, orthotics, and prosthetic devices, both implantable and nonimplantable, on the UB-92 to the fiscal intermediary. The fiscal intermediary should be able to either pay for the item via the DMEPOS fee schedule or through the APC. This also would allow a tracking system for future ratesetting, and consolidate the billing into one claim. This would consolidate all charges on one bill per encounter, which simplifies processing and is consistent with other third party payer claims processing as well as Medicare inpatient claims processing.

Response: Section 201(e) of the BBRA 1999 amended section 1833(t)(1)(B) of the Act to require that covered outpatient prospective payment system services include implantable medical items, described in section 1861(s)(3), (6), or (8) of the Act. These items were formerly paid under the DMEPOS fee schedule. The statute is explicit in defining which DME items are payable under the hospital outpatient prospective payment system.

Also, we cannot adopt the suggested billing changes for DME as the commenter suggested. All services that are billed through the fiscal intermediaries, whether they are paid under the hospital outpatient prospective payment system or DMEPOS, may be submitted on the UB-92 (or the equivalent electronic transaction). However, there are numerous, very exacting, specific criteria and rules that govern Medicare coverage and payment for nonimplantable DME and oxygen. The DME regional carriers are exclusively qualified to deal with these issues. Therefore, claims for nonimplantable DME and oxygen cannot be billed to the fiscal intermediaries. Instead, providers must continue to submit claims for nonimplantable DME and oxygen to the DME regional carriers using form HCFA-1500 (or the equivalent electronic transaction).

It should be noted that if a health care provider submits an electronic claim for these services, the transaction must comply with the standards adopted by the Secretary in the August 17, 2000 final rule (65 FR 50312) Standards for Electronic Transactions. The compliance date of that rule is October 16, 2002.

Comment: A device manufacturer expressed concern about how the new system will change the payment mechanism for cochlear implants. Under the DMEPOS fee schedule, payments were fixed and unrelated to hospital charges. Now, under the new system, hospitals must properly establish charges that, when multiplied by the ratio of cost to charges, provide an accurate reflection of cost. This manufacturer was concerned that they will have to collect data to determine the charges hospitals have set for these devices and the applicable ratio of cost to charges. They believe the charges may not have been set appropriately to be consistent with the ratio of cost to charges. If not, pass-through payments might be substantially less than the actual cost for these medical devices.

This manufacturer indicated that it is working to obtain the required charge and cost report data from providers of cochlear implant procedures and will report back to us once it has these data. The manufacturer requested that we agree to work with them in setting any future update to the payment allowance recognizing the short timeframe available to collect the data.

Response: We appreciate the commenter's offer to assist us in collecting cost and charge data on cochlear implants billed by hospitals. However, for purposes of making transitional pass-through payments for new medical devices such as cochlear implants, it is not necessary for manufacturers to obtain cost report data from hospitals to assist us in developing hospital-specific, cost-to-charge ratios to calculate these payments. We have already calculated these ratios and assigned them to providers. Each provider is responsible for accurately reporting its charges in order that we may calculate the appropriate payment for the pass-through device.

6. Payment Weights Based on Median or Mean Hospital Costs

Section 1833(t)(2)(C) of the Act requires the Secretary to establish relative payment weights for covered hospital outpatient services. This section requires that the weights be developed using data on claims from 1996 and data from the most recent available hospital cost reports.

As specified in the April 7, 2000 final rule with comment period (65 FR 18482), section 201(f) of the BBRA 1999 amended section 1833(t)(2)(C) of the Act to authorize the Secretary to base the relative payments weights on median or mean hospital costs. In implementing the BBRA 1999 provision, we decided to adopt as final our previously proposed policy to base the relative payment weights on median (as opposed to mean) costs. We had already used median costs to reconstruct our database for the outpatient prospective payment system group weights and conversion factors in a proposed rule and we believe that this method is still valid, especially considering the time constraints for implementation of the BBRA 1999 provision. We indicated that, among other things, reconstructing our database to evaluate the impact of using mean costs after the BBRA 1999 was enacted would have delayed implementation of the hospital outpatient prospective payment system rule.

Comment: A group of hospitals urged us to adopt a mean-based APC relative weight system to implement section 201(f) of the BBRA 1999, which authorizes, but does not require, the Secretary to use mean (rather than median) costs in determining the APC payment weights. The commenters contend that use of the geometric mean is standard in the industry as the basis for calculating payment weights for prospective payment systems. They pointed out that the geometric mean is used because costs are not distributed “normally” (that is, there are no negative costs) and that for APCs that include low volume, high costs procedures, the geometric mean is preferable for adequately accounting for these costs. The commenters believed that our use of median costs also forced us to select an arbitrary value for relative weight 1.0, because finding the median of medians is meaningless. The commenters believed that, given the Congress' clarification in section 201(f) of the BBRA 1999, we should at least evaluate the impact of a mean-based system in our system review for 2001.

Response: We plan to further evaluate the feasibility of using mean rather than median costs for calculating APC payment weights in future updates. In order to make a decision about whether we should change the basis we are using for determining payment weights, we have to analyze and rerun claims data and conduct extensive impact analyses to assess the impact such a change would have on different types of providers and different types of services.

7. Limitation on Variation of Costs of Services Classified Within a Group

Section 1833(t)(2) of the Act was amended by section 201(g) of the BBRA 1999 to limit the variation in resource use among the procedures or services within an APC group. Specifically, section 1833(t)(2) of the Act provides that the items and services within a group cannot be considered comparable with respect to the use of resources if the highest cost item or service within a group is more than 2 times greater than the lowest cost item or service within the same group. The Secretary is to use either the mean or median cost of the item or service.

Section 1833(t)(2) of the Act, as amended, also allows the Secretary to make exceptions to this limit on the variation of costs within each group in unusual cases such as low volume items and services, although we may not make such an exception in the case of a drug or biological that has been designated as an orphan drug under section 526 of the Federal Food, Drug, and Cosmetic Act.

In the April 7, 2000 final rule with comment period, we elected to use the median cost because we have continued to set the relative payment weights for each APC based on median hospital costs. We modified the composition of the APC groups and then made additional changes to the APC in response to public comments on individual or serial APCs.

In determining whether or not to accept changes recommended by commenters, we focused on five criteria that are fundamental to the definition of a group within the APC system. The decision to accept or decline a modification to an APC group was determined based on whether the change enhanced, detracted from, or had no effect on the integrity of an APC group within the context of the following five criteria:

• Resource homogeneity;

• Clinical homogeneity;

• Provider concentration;

• Frequency of services; and

• Minimal opportunity for upcoding and code fragmentation.

For a full explanation of these criteria, refer to the April 7, 2000 final rule with comment period (65 FR 18457).

After we modified the composition of the APC groups based on the recommendations of commenters, we applied the median cost variation limit required by section 201(g) of the BBRA 1999 to the revised APC groups. As a result of our analysis of the array of median costs within the revised APC groups, we had to split some otherwise clinically homogeneous APC groups into smaller groups. We listed the APC groups that we had designated as exceptions to the “two times” requirement and our reasons for granting the exception. We based the exceptions on factors such as low procedure volume, suspect or incomplete cost data, concerns about inaccurate or incorrect coding, or compelling clinical arguments. We indicated that we would be examining the extent to which the APC reorganization due to the “two times” rule results in upcoding (refer to the April 7, 2000 final rule with comment period (65 FR 18458-18475)).

Comment: We received requests to examine 51 APCs that commenters alleged violated the “two times” rule.

Response: We reevaluated the APCs listed below, upon which we received comments, and found that most of them did not warrant revision. We received no new information about these APC groups that would alter our previous decision. These APCs are identified below under numbers 1 and 2.

Our review also revealed that a few APC groups did warrant revision and we have reconfigured these APCs accordingly. We have listed these APCs under number 3. In addition, our review identified some APCs that are additional exceptions to the “two times” requirement. These APC groups and our reasons for the exception are listed below under number 4.

In reviewing the APC groups for conformance to the “two times” requirement, we exempted from the analysis codes for unlisted services and procedures and those codes that represent less than 2 percent of the claims in the APC (our test for low volume).

1. Taking into account the exemptions mentioned above, the following APC groups that we reviewed based on comments have not been reconfigured:

0005 Level II Needle Biopsy/Aspiration Except Bone Marrow

0076 Endoscopy Lower Airway

0088 Thrombectomy

0090 Level II Implantation/Removal/Revision of Pacemaker, AICD or Vascular Device

0111 Blood Product Exchange

0112 Extracorporeal Photopheresis

0121 Level I Tube changes and Repositioning

0143 Lower GI Endoscopy

0146 Level I Sigmoidoscopy

0149 Level II Anal/Rectal Procedure

0150 Level III Anal/Rectal Procedure

0151 Endoscopic Retrograde Cholangio-Pancreatography (ERCP)

0162 Level III Cystourethroscopy and other Genitourinary Procedures

0260 Level I Plain Film Except Teeth

0262 Plain Film of Teeth

0265 Level I Diagnostic Ultrasound Except Vascular

0268 Guidance Under Ultrasound

0269 Echocardiogram Except Transesophageal

0278 Diagnostic Urography

0280 Level II Diagnostic Angiography and Venography Except Extremity

0282 Level I Computerized Axial Tomography

0283 Level II Computerized Axial Tomography

0284 Magnetic Resonance Imaging

0286 Myocardial Scans

0290 Standard Non-Imaging Nuclear Medicine

0291 Level I Diagnostic Nuclear Medicine Excluding Myocardial Scans

0292 Level II Diagnostic Nuclear Medicine Excluding Myocardial Scans

0294 Level I Therapeutic Nuclear Medicine

0297 Level II Therapeutic Radiologic Procedures

0301 Level II Radiation Therapy

0303 Treatment Device Construction

0304 Level I Therapeutic Radiation Treatment Preparation

0305 Level II Therapeutic Radiation Treatment Preparation

2. The following APC groups were listed in the April 7, 2000 final rule with comment period as exceptions to the “two times” rule and our review found no factual basis for modifying our decision:

0030 Breast Reconstruction/Mastectomy

0264 Level II Miscellaneous Radiology Procedures

0274 Myelography

0279 Level I Diagnostic Angiography and Venography Except Extremity

0311 Radiation Physics Services

0371 Allergy Injections

3. We have reconstructed the four APCs shown below as a result of adding the cost of certain devices used in performing procedures included in these APCs. We discuss this change in section III.B. of this preamble.

0080 Diagnostic Cardiac Catheterization

0081 Non-Coronary Angioplasty or Atherectomy

0082 Coronary Atherectomy

0083 Athrectomy

4. Following are additional exceptions to the “two times” rule and our reasons for the exceptions. We are excepting these APCs from the “two times limit” on an interim basis, until we can review data from the first year of billing under the hospital outpatient prospective payment system.

0142 Small Intestine Endoscopy: The codes in APC 0142 are clinically similar and should show a relative progression of cost with slight increases in complexity. This effect does not occur, presumably due to low volume (although exceeding our low volume threshold) or inconsistent coding. Splitting this APC into two, based on current data, would be unjustified.

0145 Therapeutic Anoscopy: The costs of the codes in this APC are aberrant, with several of them exceeding the costs of more extensive procedures such as sigmoidoscopy and colonoscopy.

0152 Percutaneous Biliary Endoscopic Procedures: The codes in this APC have so few occurrences that we cannot justify splitting the group. Several of the codes call for the use of devices such as stents that may be paid for separately.

0161 Level II Cystourethroscopy and other Genitourinary Procedures: The costs of the codes in this APC are aberrant, with more comprehensive codes costing less than the base codes.

0195 Level V Female Reproductive Procedures: This is a low volume APC, with aberrant cost data. In several instances, codes that are more comprehensive cost less than the related, simpler code.

0296 Level I Therapeutic Radiologic Procedures: We believe the codes at the lower end of the median cost in this APC would be underpaid if we were to move them to a lower-paying APC.

0300 Level I Radiation Therapy: We believe we would underpay codes at the lower end of median cost in this APC if we were to move them to a lower-paying APC.

0312 Radioelement Applications: We believe the costs in this very low volume APC are aberrant. However, the group is completely coherent clinically. The radioactive elements related to these codes would receive separate payment.

0313 Brachytherapy: We believe the costs in this very low volume APC are aberrant. The group is coherent clinically. The radioactive elements related to these codes would receive separate payment.

0314 Hyperthermic Therapies: This APC has an extremely low volume, with aberrant costs.

8. Annual Review of the Components of the Hospital Outpatient Prospective Payment System

In the April 7, 2000 final rule with comment period (65 FR 18501-18502), we indicated that, in accordance with section 1833(t)(9) (as redesignated and revised by sections 201(h) and 202(a) of the BBRA 1999), we would review and update annually, for implementation effective January 1 of each year, the APC groups, the relative payment weights, and the wage and other adjustments that are components of the hospital outpatient prospective payment system. In accordance with section 201(h)(2) of the BBRA 1999, an annual review process will begin in calendar year 2001 for the hospital outpatient prospective payments that would take effect for services furnished on or after January 1, 2002. This review process will involve consultation with an expert advisory panel. We will provide notice of the formation of the expert advisory panel in the Federal Register. The expert outside advisory panel will review and make recommendations to us on the clinical integrity of the groups and weights and may use data other than those collected or developed by us for their review and advisory functions.

We note that in section III of this preamble, we are updating the wage index values and the conversion factor under the hospital outpatient prospective payment system effective for calendar year 2001. We also are making appropriate changes to the APC groups to reflect additions and deletions of CPT codes and changes to a limited number of APCs to incorporate the cost of certain devices used in performing those procedures that were excluded from our initial ratesetting methodology.

Comment: One commenter stated that the wage index for the Hattiesburg, Mississippi Metropolitan Statistical Area (MSA), .7306, was printed incorrectly in our April 7, 2000 final rule with comment period. The commenter stated that use of this value would result in an underpayment for that area. The commenter further stated that, “the appropriate wage index for the Hattiesburg, Mississippi MSA for the fiscal year 2000 is .7634.” The commenter was concerned that we had previously acknowledged this error and promised to correct it via a program memorandum to fiscal intermediaries dated April 2000 (Transmittal Number A-00-17), but had failed to do so in our April 7, 2000 final rule with comment period.

Response: We apologize for the confusion. The fiscal year 2000 hospital inpatient prospective payment system wage index value for the Hattiesburg, Mississippi (MSA) was changed from .7306 to .7634 in accordance with section 153 of the BBRA 1999 that required us to include wage data from Wesley Medical Center in calculating the wage index for this MSA. On August 1, 2000, we published in the Federal Register an interim final rule with comment period (65 FR 47026) that included Hattiesburg's new hospital inpatient prospective payment system wage index. For services paid under the hospital outpatient prospective payment system, the new wage index value is effective for services furnished on or after August 1, 2000.

9. Copayment Amounts Not Affected by Pass-Throughs

Section 1833(t) of the Act, as established by the BBA of 1997, includes a mechanism designed to achieve a beneficiary coinsurance level equal to 20 percent of the prospectively determined payment rate established for the service. In the April 7, 2000 final rule with comment period, we specified how a copayment amount is calculated annually for each APC group under the hospital outpatient prospective payment system.

We also explained that sections 201(a) and (b) of the BBRA 1999 amended section 1833(t) of the Act to provide for additional payments to hospitals for outlier cases and for certain medical devices, drugs, and biologicals and that these additional payments to hospitals will not affect copayment amounts. Redesignated section 1833(t)(8)(D) of the Act, as amended by section 201(i) of the BBRA 1999, provides that the copayment amount is to be computed as if outlier adjustments, adjustments for certain medical devices, drugs, and biologicals, as well as any other adjustments we may establish under section 1833(t)(2)(E) of the Act, had not occurred.

In addition, we specified that section 202 of the BBRA 1999 added a new section 1833(t)(7) to the Act to provide transitional corridor payments to certain hospitals through calendar year 2003 and indefinitely for certain cancer centers. Section 1833(t)(7)(H) of the Act provides that the transitional corridor payment provisions will have no effect on determining copayment amounts.

We specified that copayment from beneficiaries will not be collected for the additional payments made to hospitals (outlier and transitional pass-throughs) by Medicare. Beneficiary copayment amounts will be calculated as if the outlier and transitional pass-throughs had not occurred (65 FR 18487-18488).

When a drug or device pass-through payment is reduced by the otherwise applicable APC payment amount that is associated with the drug or device, it is only the portion of the payment that represents an additional pass-through payment that is not subject to copayment. The portion that does not represent an additional pass-through payment will be subject to copayment.

We did not receive any public comments on this provision.

10. Extension of Cost Reductions

In the April 7, 2000 final rule with comment period (65 FR 18439), we announced that, in accordance with section 1861(v)(1)(S)(ii) of the Act (as amended by section 201(k) of the BBRA 1999), the 5.8 and 10 percent reductions for hospital operating and capital costs, respectively, would extend until the first date that the hospital outpatient prospective payment system is implemented (which was August 1, 2000).

We did not receive any public comments on this provision.

11. Clarification of Congressional Intent Regarding Base Amounts Used in Determining the Hospital Outpatient Prospective Payment System

Section 201(l) of the BBRA 1999 provided that, “With respect to determining the amount of copayments described in paragraph (3)(A)(ii) of section 1833(t) of the Act, as added by section 4523(a) of BBA, Congress finds that such amount should be determined without regard to such section, in a budget neutral manner with respect to aggregate payments to hospitals, and that the Secretary of Health and Human Services has the authority to determine such amount without regard to such section.” In accordance with this provision, in the April 7, 2000 final rule with comment period (65 FR 18482-18493), we explained how we determined APC group weights, calculated an outpatient prospective payment system conversion factor, and determined national prospective payment rates, standardized for area wage variations, for the APC groups. We then explained how we calculated the aggregate hospital outpatient prospective payment to hospitals in a budget neutral manner and how we calculated beneficiary coinsurance amounts for each APC group.

We did not receive any public comments on this provision.

12. Transitional Corridors for Application of Outpatient Prospective Payment System

Section 1833(t)(7) of the Act, as added by section 202(a)(3) of the BBRA 1999, provides for payment adjustments during a transition period to limit the decline in payments under the outpatient prospective payment system for hospitals. These additional payments are to be implemented without regard to budget neutrality and are in effect through 2003.

In the April 7, 2000 final rule with comment period (65 FR 18499-18500), we specified that, from the date the prospective payment system is implemented through 2003, a provider, including a CMHC, will receive an adjustment if its prospective payment system payments for outpatient services furnished during the year is less than a set percentage of its pre-BBA amount for that year. The pre-BBA amount is the product of the reasonable cost the hospital incurs for prospective payment system services furnished during the year and the payment-to-cost ratio for covered prospective payment system services furnished during the cost reporting period ending in calendar year 1996. Additionally, we provided that small rural hospitals with 100 or fewer beds and cancer hospitals will be held harmless under this provision. Small rural hospitals will be held harmless for services furnished before January 1, 2004. The hold-harmless provision applies permanently to cancer centers. We announced that we will make interim payments to the affected hospitals subject to retrospective adjustments and that these provisions do not affect beneficiary coinsurance. Finally, we specified that this provision is not subject to budget neutrality.

a. Interim Payment Versus Final Settlement

Comment: One commenter recommended that we make retroactive payments to hospitals in those “situations where underpayments have been made between the prospective payment system payments as compared to the pre-prospective payment system amounts.” Another commenter asked that we set forth the process that would be used to determine retroactive payment adjustments if the hospital's interim payments are higher or lower than its actual experience. The commenter further asks that we state whether the interim payments will be compared to outpatient payments shown on settled or audited cost reports.

Response: Final transitional corridor payments are determined based on a provider's settled cost report. At the time the cost report is settled, the reasonable costs incurred by the provider to furnish outpatient prospective payment system services during the calendar year are known and that amount is then multiplied by the provider's 1996 payment-to-cost ratio to calculate the pre-BBA amount. The pre-BBA amount for a calendar year is compared to the actual prospective payment system payments the provider received to determine whether the provider may be entitled to a transitional corridor payment. Although the final transitional corridor payment is based on a settled cost report, beginning in October 2000, we have been making monthly interim payments to providers based on estimates of what their transitional corridor payments should be based on the monthly bills the provider submits. The monthly payments are designed to maintain some additional cash flow to providers that may otherwise realize significant losses on services that are being paid under the prospective payment system.

b. Payment-to-Cost Ratios

Comment: One commenter argued that our formula for calculating the base payment-to-cost ratio for the transitional corridor payments does not comport with the statutory requirements. The commenter stated that we define the denominator of the base payment-to-cost ratio to be “[the] reasonable cost of these services for the period, without applying the cost reductions under section 1861(v)(1)(S) of the Act.” The commenter contends that the phrase “without applying the cost reductions under section 1861(v)(1)(S) of the Act” is not included in section 1833(t)(7)(F)(ii)(II) of the Act, as amended by section 212 of the BBRA 1999. The commenter claimed that by defining the denominator in this manner, the payment-to-cost ratio is understated and transitional corridors payments to hospitals would be reduced. The commenter stated that such a reduction is contrary to Congressional intent and urged us to modify our base payment-to-cost denominator set forth in § 419.70(f)(2)(ii) to exclude the phrase “without applying the cost reduction under section 1861(v)(1)(S) of the Act.”

Response: The phrase “without applying the cost reductions under section 1861(v)(1)(S) of the Act” was intended to make clear that a hospital's 1996 “reasonable costs” do not include the effects of the reductions in section 1861(v)(1)(S) of the Act. We did not mean to suggest that we were taking the hospital's 1996 “reasonable costs” and then adding back the reductions for purposes of determining the denominator of the base payment-to-cost ratio. We view the hospital's 1996 reasonable costs as the unreduced amount; thus, the denominator of the hospital's base payment-to-cost ratio (1996 reasonable costs) does not reflect the reductions. We believe that our policy is consistent with the purpose of the transitional corridor provision. Under this policy, if a hospital incurs the same amount of costs during the transitional corridor as in 1996, then its pre-BBA amount (the amount that estimates what the hospital would have received in the current year if payments were calculated under the pre-prospective payment system) would be the same as the payments the hospital received in 1996. Under the methodology suggested by the commenter, if a hospital incurs the same amount of costs during the transitional corridor as in 1996, then its pre-BBA amount would be higher than the payments the hospital received in 1996. The language in § 419.70(f)(2)(ii) as set forth in the April 7, 2000 final rule with comment period was intended to clarify, not revise, the definition of 1996 reasonable costs, but we recognize that the phrase at issue may have inadvertently caused confusion to the extent it is redundant; accordingly, we are revising that section to remove the phrase.

Comment: One commenter asked us to clarify the term “payment-to-cost ratio” and the data that will be used to compute the ratio. Several commenters asked why we did not give the 1996 outpatient prospective payment system-specific amounts required to compute the payment-to-cost ratio and the methodology for calculating it.

Response: The statutory definition of base “payment-to-cost ratio” is fairly straightforward. Under section 1833(t)(7)(F) of the Act, the base payment-to-cost ratio for a given hospital is the ratio of (1) the hospital's Medicare Part B reimbursement for covered OPD services for the cost reporting period ending during 1996, to (2) the hospital's reasonable costs for that period. We are in the process of developing program instructions for fiscal intermediaries (for notification to providers) to provide detailed information on how payment-to-cost ratios are calculated. These instructions will be made available as soon as possible.

Comment: One hospital association recommended that we revise our regulations to explicitly state that we will adjust the provider's 1996 payment-to-cost ratio “whenever subsequent developments occur that affect the data used in the calculation.” The commenter cited final audit adjustments and appeal determinations as examples of adjustments that would warrant changing the 1996 cost data used to calculate the provider's payment-to-cost ratio. The commenter stated that this policy is consistent with similar adjustments made under the prospective payment systems for both inpatient operating and capital-related costs.

Response: We agree with the commenter. In the event final audit adjustments or appeals result in a change in outpatient costs or payments for the provider's 1996 cost report, the provider's payment-to-cost ratio would be recalculated.

Comment: One commenter asked for clarification on the treatment of direct graduate medical education costs and education costs for nursing and allied health programs in calculating the payment-to-cost ratio. The commenter assumed that such costs are excluded from the pre-BBA amount because they will continue to be paid on a cost pass-through basis.

Response: The commenter is correct that direct graduate medical education costs and certain costs of nursing and allied health programs are paid on a cost pass-through basis and will not be included in calculating a provider's pre-BBA amount.

Comment: One commenter asked that we explain our reasons for basing the transitional corridor interim payments on a 0.8 payment-to-cost ratio. The commenter suggested that a provider be allowed to modify its interim transitional corridor payment if it can show that its payment-to-cost ratio is higher or lower than the 0.8 level.

Several commenters questioned why we chose to use a standard 0.8 payment-to-cost ratio for all providers in calculating the interim payment if provider-specific payment-to-cost ratios were available. They stated that 9 of the 10 cancer centers have payment-to-cost ratios that exceed 0.8.

Response: The standard payment-to-cost ratio of 80 percent is an average value that we calculated for payment-to-cost ratios across all hospitals. We decided to use 80 percent for all providers to permit us to make interim payments as soon as possible following the implementation of the outpatient prospective payment system. If we had attempted to calculate individual payment-to-cost ratios for all providers, it would have delayed, perhaps for several months, the introduction of interim payments. Final transitional corridor payments will be calculated using each provider's payment-to-cost ratio for the relevant year at the time of settlement of the cost report. In the future, as we gain more experience with interim payments, we will consider permitting modification of payment-to-cost ratios to reflect particular circumstances.

c. Cost-to-Charge Ratios

Comment: One commenter stated that the April 7, 2000 final rule with comment period did not explain how the transitional corridor payments would be implemented for the 10 cancer hospitals. The commenter noted that while Program Memorandum Transmittal No. A-00-23 issued by us on April 7, 2000, does describe how these payments are to be calculated it does not clarify how we derived the hospital-specific cost-to-charge ratios used to compute the transitional corridor payments.

Several commenters representing the 10 cancer centers stated that the cost-to-charge ratios for their centers that will be used in calculating their transitional corridor, outlier, and transitional pass-through payments are significantly lower than their estimates. They requested that we explain how we determined their ratios and comment on the appropriateness of our methodology. They also asked that we respond to a number of specific questions to allow hospitals to determine whether the cost-to-charge ratios accurately reflect the hospital's cost and provide a fair base for calculating their transitional corridor payments.

Response: On September 8, 2000, we issued a Program Memorandum Transmittal No. A-00-63, which provides a detailed explanation of how hospital cost-to-charge ratios were calculated. This program memorandum is available on HCFA's internet website at www.hcfa.gov/Medicare.

d. Interim Payments Limited to 85 Percent of the Estimated Transitional Corridor Payment

Comment: One commenter asked why we will only pay 85 percent of the estimated transitional corridor payment as an interim payment. Another commenter recommended that we reconsider our policy to pay providers only 85 percent of their transitional corridor payments on the interim basis. The commenter stated that our policy to withhold 15 percent of each provider's payment until the fiscal intermediary finalizes the provider's cost report is contrary to Congressional intent to preserve hospitals' cash flow and ensure them of an ability to provide outpatient services to beneficiaries, especially those in rural areas. Another commenter stated that retaining 15 percent of each provider's estimated transitional corridor payments until the provider's cost report is settled is contrary to Congressional intent and defers relief provided by statute for several years.

Response: We limited the interim payment to less than 100 percent of the estimated payment in order to minimize the risk of overpayment. If interim payments exceed the final settled amounts, we would need to initiate recoupment procedures that place additional burden both on the agency and on providers. Eighty-five percent was chosen as a reasonable percentage that prudently balances the cash flow needs of some providers with concerns regarding possible difficulties in the recovery of overpayments. We have used comparable figures in other situations in which we make interim or advance payments. One example where we specified 85 percent for advance payments is in the contingency plan that we published to address the possibility that either our contractors or individual providers would be unable to process claims at the initiation of the outpatient prospective payment system. In the future, as cost reports are settled and we are able to determine how well interim transitional corridor payments relate to final transitional corridor payments, we will reevaluate this aspect of our interim payment policy.

e. Providers Having More Than One 1996 Cost Report

Comment: Several commenters stated that we did not discuss in our final rule how we would calculate the 1996 payment-to-cost ratio in cases where a provider has more than one cost report that is less than 12 full months during the fiscal year ending in 1996. The commenters asked which would be the appropriate cost report to use in calculating the transitional corridor payments. One commenter explained that this situation may occur if ownership changed during the provider's fiscal year ending in 1996.

Response: The 1996 cost report that will be used to calculate a payment-to-cost ratio is the cost report period that ends in calendar year 1996. If a provider has two cost reports that end in 1996, we will make a decision about which cost report to use on a case-by-case basis, depending on which appeared to be the most representative of the provider's experience in 1996. For example, if one cost report covers a longer period, we would likely use that one.

f. Providers Having No 1996 Cost Report

Comment: One commenter expressed concern about insufficient guidance from us about how transitional corridor payments would be determined for providers that did not file cost reports during 1996. The commenter believed that because the statute is silent on this issue, we have the discretion to develop such policy. The commenter strongly opposed any decisions by us to preclude providers without 1996 cost reports from being eligible to receive transitional corridor payments.

Another commenter requested that we treat new hospitals that did not file a 1996 cost report the same as rural hospitals. The commenter contended that the pre-BBA payment level for these hospitals should be based on the hospital's first full cost reporting period, and would be guaranteed at that level through December 31, 2003. Another commenter suggested as an option that we assign a regional average payment-to-cost ratio for existing providers to providers without a 1996 cost report.

Response: Under the statute, the amount of transitional payments to providers depends on the provider's reimbursement for the 1996 cost reporting period. We intend to monitor the adequacy of payments to providers not having a 1996 cost report, but we believe that a statutory change is required in order to provide transitional payments to providers that did not have a 1996 cost report.

g. Prospective Payment System Delay and Transitional Corridor Payments

Comment: One commenter expressed concern about the potential effect of delaying implementation of the hospital outpatient prospective payment system on the duration of the transitional corridor payments as provided by law. The commenter stated that our decision to delay implementation of the prospective payment system for 1 month, from July 1, 2000 to August 1, 2000, should not result in a 1-month loss of transitional corridor payments for providers. The commenter believed that the 3½ years of corridor payments required by law for non-cancer hospitals paid under the outpatient prospective payment system should not be reduced due to delayed implementation of the prospective payment system. The commenter urged us to seek a legislative change if we determine the 3½ year period for transitional corridor payments must coincide with the first 3½ years of actual prospective payment system implementation.

Response: For hospitals that do not qualify for the permanent hold-harmless provision applicable to cancer hospitals, the statute provides for transitional corridor payments through the end of calendar year 2003. We will monitor and evaluate prospective payment system payments and will consider whether it would be appropriate to recommend that Congress legislate an extension of transitional corridor payments.

h. Rural Hold-Harmless Provision

Comment: One commenter suggested that we reevaluate the definition of rural outpatient hospitals eligible for the hold-harmless provision and consider including rural hospitals that have 100 to 200 beds, “but whose outpatient volumes are not sufficient to maintain the facilities' finances.”

Response: The bed size for hospitals to qualify for the rural hospital hold-harmless provision is limited by statute, under section 1833(t)(7)(D)(i) of the Act, to hospitals that have no more than 100 beds.

Comment: One commenter stated that on page 18501 of the April 7, 2000 final rule with comment period, we state that bed size under the rural hospital hold-harmless provision will be determined in the same manner as it is for the hospital inpatient prospective payment system indirect medical education adjustment. The commenter contended that we have not provided these instructions to fiscal intermediaries. The commenter questioned whether the fiscal intermediaries are using the number of beds reported on the hospital cost reports to determine the bed size. Still another commenter stated that we failed to specify how beds are to be counted under the hospital outpatient prospective payment system. The commenter further stated that our impact analysis published in the April 7, 2000 final rule with comment period suggests that available bed counts shown on the HCFA-2552 cost report S-3 Worksheet are used to determine if a hospital has 100 or fewer beds to qualify for the rural hold-harmless transitional corridor payment provision. The commenter urged us to clarify this issue.

Response: In Program Memorandum Transmittal No. A-00-23, later revised in June 2000 as Program Memorandum Transmittal No. A-00-36, we provided instructions to fiscal intermediaries concerning how to calculate interim transitional corridor payments. As indicated in the April 7, 2000 final rule with comment period, the bed size used for transitional corridor payments will be the same bed size defined in and used to calculate indirect medical education costs and disproportionate share adjustments under the hospital inpatient prospective payment system. Fiscal intermediaries are instructed to obtain certain provider-specific information needed to make the calculation from the outpatient provider-specific file that they maintain. Certain items on the outpatient provider-specific file, including bed size, are taken directly from the provider file used in processing inpatient claims.

Comment: One commenter urged that we revise policy for determining bed size for purposes of defining rural providers eligible for the hold-harmless provision. The commenter advocated that we adjust a provider's count of acute inpatient days to account for observation patients occupying acute inpatient beds.

Response: The commenter did not provide a rationale for their recommendation. We believe that it is appropriate to adopt a policy for purposes of the outpatient prospective payment system that is consistent with the policy for purposes of the inpatient prospective payment system; therefore, we are not making a change at this time.

Comment: A commenter specifically asked that, for purposes of determining bed size for rural providers, we clarify what year is used to determine bed size. The commenter also asked what our policy is regarding providers that changed their inpatient capacity prior to July 1, 2000, and those that may change this capacity during the 3½ year transition period. The commenter suggested that we permit hospitals to downsize capacity without affecting their eligibility for hold-harmless status.

Response: Under § 412.105(b), to determine bed size for the rural hold-harmless provision, we calculated bed size on the basis of the provider's cost reporting period. A rural hospital's bed size and, therefore, its eligibility for hold-harmless treatment may change from one cost reporting period to the next.

Comment: Several commenters asked us to clarify whether a hospital's reclassification for either the wage index area or standardized amount affects its eligibility for the rural hold-harmless payment. The commenter believed that, because the BBRA 1999 statutory provision relevant to the rural hold-harmless provision refers to providers “located in a rural area” rather than the provider's payment status, a provider's geographic reclassification for wages or standardized amount has no bearing on its rural hold-harmless status. A few commenters argued that a geographic reclassification under inpatient prospective payment system for the wage index or the standardized amount is not relevant for purposes of the hold-harmless rural payment provision and that these reclassified hospitals should be included in the rural hold-harmless payment.

Response: If a hospital is located in a rural area, it will not lose its eligibility for hold-harmless payments if it obtains a geographic reclassification under the inpatient prospective payment system for purposes of determining its wage index or standardized amount.

Comment: A number of commenters expressed concern about the various aspects of the hold-harmless provision, referring to sections 1886(d)(8)(E) and 1833(t)(13) under section 401 of the BBRA 1999, and asked about a hospital's eligibility for the rural hold-harmless provision.

Response: Under section 1886(d)(8)(E) of the Act, as added by section 401 of the BBRA 1999, if a hospital submits an application and meets certain criteria, the Secretary treats the hospital as being located in a rural area for purposes of section 1886(d) of the Act. Under section 1833(t)(13) of the Act, as added by section 401(b) of the BBRA 1999, if a hospital is treated as being located in a rural area under section 1886(d)(8)(E) of the Act, then the Secretary shall treat the hospital as being located in a rural area for purposes of the outpatient prospective payment system. Therefore, if a hospital is treated as being located in a rural area under section 1886(d)(8)(E) of the Act, then the hospital is treated as a rural hospital for purposes of the hold-harmless provision.

Comment: One commenter stated that the 2-month waiting period for interim transitional payments may adversely affect a large number of small rural hospitals. The commenter also believed these hospitals will require a higher interim payment than planned. The commenter asked that we use a hospital-specific impact analyses to create a process for interim payments for these small rural hospitals that would begin concurrently with the start of the prospective payment system.

Response: In order to calculate interim transitional corridor payments for any hospital, we needed to have some amount of claims that had been processed under the prospective payment system. For this reason, we were not able to begin transitional corridor payments concurrently with the implementation of the prospective payment system. Because of our concerns discussed earlier about having to initiate recoupment procedures in cases of overpayments, we are not increasing interim payments at this time. However, as cost reports are settled and we are able to determine how well interim payments predict final transitional corridor payments, we will be able to reevaluate this policy.

i. Covered Charges

Comment: Several commenters asked that we clarify the definition of “covered charges” used to compute the rural hold-harmless transitional corridor payment. One commenter stated that total procedures and thus the hold-harmless payment will be understated should we eliminate from these calculations the charges for incidental procedures or procedures that the Outpatient Code Editor consolidates into the main procedures.

Response: In the preamble and the regulation text of the April 7, 2000 final rule with comment period, we refer to “covered hospital outpatient services” to describe the services that are paid under the prospective payment system and, therefore, subject to the transitional corridor provision. To determine a provider's costs for purposes of calculating the pre-BBA amount for both interim payments and for final cost report settlement, we will take into account all costs encompassed under the prospective payment system, including the cost of incidental services that are packaged into the APC rate. These services are identified as those having HCPCS codes with a status indicator of “N” (as listed in Addendum B) and incidental services that may not be billed with HCPCS codes, but which are billed under revenue codes that indicate a packaged service such as observation services, recovery room, supplies and many drugs.

Comment: One commenter asked us to clarify how charges for packaged services, for example observation services, should be billed when they are the only service provided. The commenter stated that inclusion of charges for these packaged services in the total bill charges are necessary to calculate the proper transitional corridor payment.

Response: Packaged services will not be the only items that appear on a bill. Packaged services will appear on a bill with the service to which they are incidental. For example, observation services are properly billed with the clinic visit, emergency room visit, surgery, etc., that results in the need for the incidental observation service.

j. Cancer Hospitals and Transitional Corridor Payments

Comment: Several commenters believed that the process described in Program Memorandum Transmittal No. A-00-23 for calculating the hold-harmless transitional corridor payments should be revised because it does not reflect Congressional intent and will not provide the relief to the 10 cancer centers that the Congress intended. These commenters contended that the method described in the program memorandum for calculating the transitional corridor payments will result in a 22 percent loss in outpatient patient revenues for the cancer centers compared to those received in 1998. The commenters further claimed that their revenue losses under the new outpatient prospective payment system may increase an additional 2 percent, or 24 percent in total, because we will not pay claims for any medical visits that are billed in conjunction with related significant procedures.

In addition, these commenters urged us to:

• Establish an appeal process for providers with cash flow problems that would permit fiscal intermediaries to adjust a provider's cost-to-charge ratio “to rectify ongoing OPPS losses prior to reconciliation.”

• Reduce interim payments to the 10 cancer centers by only 5 percent rather than 15 percent. (The commenters contended that this approach would be consistent with the method currently used to determine their inpatient interim payments under the TEFRA cost limits system.)

• Pay the 10 cancer centers the balance of the hold-harmless payments due at the time the cost report is subjected to desk review rather than at the time it is settled. (The commenters stated that settlement of the centers' cost reports is completed within 2 to 4 years after a completed cost report is filed, whereas the cost report desk review is generally completed 90 days after it is filed.)

Response: Medical visits may be billed with significant procedures as long as the medical visit is a separate and distinct service from the significant procedure, even though the significant procedure is related to the medical visit. For example, as a result of an examination performed as part of a clinic or emergency room visit, a patient is determined to need a CT scan or MRI, or as a result of a dermatology examination performed as a clinic visit, a patient also has a surgical procedure to remove a mole. In these types of situations, payment will be made for both a medical visit and a significant procedure.

Program Memorandum Transmittal No. A-00-63 provides for adjustment of a provider's cost-to-charge ratio in certain specific situations. In the future, in order to reflect changes in hospital costs and charges, we will allow fiscal intermediaries to make additional updates of a provider's cost-to-charge ratio to ensure that interim payments accurately reflect our best estimates of final transitional corridor payments.

Although we limited the interim payment to 85 percent of the estimated payment in order to minimize the risk of overpayment, in the future, as cost reports are settled and we are able to determine how well interim payments predict final transitional corridor payments, we will be able to reevaluate this aspect of our interim payment policy and we will consider permitting modification of payment-to-cost ratios to reflect particular circumstances.

The statute indicates that interim payments are made subject to retrospective adjustments based on settled cost reports. However, it is current practice that, depending on the provider's specific situation, a fiscal intermediary may make additional payments as part of a tentative settlement action prior to final settlement of the cost report.

k. Teaching Hospitals and Transitional Corridor Payments

Comment: One commenter urged that we retain the transitional corridor payments permanently for major teaching hospitals.

Response: Section 1833(t)(7) of the Act provides permanent transitional corridor payments only for cancer hospitals described in section 1886(d)(1)(B)(v) of the Act. As indicated earlier, we will monitor and evaluate the prospective payment system payments and will consider whether it would be appropriate to recommend that Congress extend transitional corridor payments.

Comment: One commenter stated that while the transitional corridor payments will mitigate some of the losses to teaching hospitals under the prospective payment system compared to the former cost-based payment system, these payments are temporary. The commenter believed that we underestimated the losses that some teaching hospitals will experience. Another commenter urged us to monitor closely the impact of the prospective payment system on major teaching hospitals during the 3½ year transitional corridor payments. The commenter believed that these hospitals will require a payment adjustment after the transitional corridor payment period expires to mitigate their potential financial losses under the prospective payment system.

Response: As we stated in the preamble of the April 7, 2000 final rule with comment period, we will perform further comprehensive analyses of cost and payment differences between different classes of hospitals as soon as there is a sufficient amount of claims data submitted under the prospective payment system. We will use data from the initial years of the prospective payment system to conduct regression and simulation analyses. In addition, we will carefully track and analyze the additional payments made to hospitals under the transitional corridor provision. These analyses will be used to consider and possibly propose adjustments in the system, particularly beginning in 2004 when the transitional corridor provisions expire.

13. Limitation on Coinsurance for a Procedure

In the April 7, 2000 final rule with comment period (65 FR 18488), we specified that, in accordance with section 1833(t)(8) of the Act (as amended by section 204(a) of the BBRA 1999), the coinsurance amount for a procedure performed in a year cannot exceed the hospital inpatient deductible for that year. We specified that we would apply the limitation to the wage-adjusted coinsurance amount (not the unadjusted coinsurance amount) after any Part B deductible amounts are taken into account. Therefore, although the unadjusted coinsurance amount for any APC may be higher or lower than the inpatient hospital deductible, the actual coinsurance amount for an APC, determined after any deductible amounts and adjustments for variations in geographic areas are taken into account, will be limited to the Medicare inpatient hospital deductible. Any reduction in coinsurance that occurs in applying the limitation will be paid to hospitals as additional program payments.

Comment: One commenter disagreed with our interpretation of the BBRA 1999 provision that amended section 1833(t)(8) of the Act to limit the coinsurance amount for a procedure to the amount of the inpatient hospital deductible. The commenter believed that our interpretation that applies the limitation to coinsurance on an APC by the APC basis is too narrow.

The commenter concluded that, at a minimum, the limitation should be more broadly interpreted to apply to the total coinsurance incurred by a beneficiary in connection with an outpatient visit, that is, from the time the beneficiary walks into an outpatient department until he or she is released. However, to implement the provision as envisioned by the Congress, the commenter suggested that we also consider developing a service period unit for outpatient procedures that is similar to the “spell of illness” concept used to define the set of services to which a single inpatient hospital deductible applies. Therefore, when a patient comes to an outpatient department for treatment of a particular condition, his or her coinsurance liability for all the services required for that condition should not exceed the inpatient hospital deductible. The commenter recommended that we apply the limitation regardless of how many or which APCs are billed or the number of visits required for such treatment.

Response: APCs are based on CPT codes. We believe that the most plausible meaning for “procedure” in this context is a CPT code or, by extension, an APC. Thus we interpret the limitation of coinsurance for a procedure in section 1833(t)(8)(C) of the Act as added by section 204 of the BBRA 1999 to apply in general to APCs.

We do not believe that it was the intent of the Congress to apply the coinsurance limitation to the beneficiary's aggregate coinsurance amounts for all outpatient services received during the entire service period for a specific condition or even to the services a beneficiary receives in one day. During the Congressional committee deliberations on this provision before it was enacted, we held technical discussions with committee staff. At their request, we identified the specific 10 APCs in the September 1998 proposed rule that would be likely to have a coinsurance that exceeded the inpatient hospital deductible. The Congressional Budget Office also used that information to project the cost of this statutory provision. Therefore, we believe that our interpretation in the April 7, 2000 final rule with comment period of how the coinsurance limitation is to be applied is consistent with the intent of Congress.

Comment: Several commenters pointed out that because APCs for drugs and biologicals are defined based on HCPCS codes for the lowest unit of the drug or biological, if we intend to apply the inpatient deductible limit at the APC level, we might disadvantage beneficiaries who receive multiple units. For example, the coinsurance for a specific drug APC may not exceed the inpatient deductible amount. However, if multiple units of the same drug are administered, the coinsurance based on the multiple APCs may, in fact, exceed the inpatient deductible. The commenters believed that the total coinsurance amount for a drug or biological based on the amount administered should be subjected to the inpatient deductible limit. The commenters believed that constructing APCs for drugs based on the lowest unit of the drug is solely a payment convention and does not mean that each dose is a separate “procedure.” Therefore, the commenters contended, a better reading of the statute is that the administration of a drug or biological, regardless of the dose, is one procedure for purposes of applying the hospital outpatient prospective payment system and it would be inappropriate to compare the inpatient deductible limit to anything but the total coinsurance amounts.

Response: In the case of services that involve the administration of drugs and biologicals in separate APCs, we have concluded that we should apply the limitation on coinsurance to include both the drug or biological (in whatever units it is administered) and the service that leads to its administration. We constructed separate APCs for drugs and biologicals, and established pricing on the basis of the lowest dose, not to reflect CPT codes, but solely as a matter of convenience in administering the payment system. Consequently, we think that the interpretation with the most clinical relevance in this instance is to treat a drug or biological and the service that leads to its administration as a single procedure. We had not proposed separate APCs for drugs and biologicals in the proposed rule for the outpatient prospective payment system and the Congress did not know we would segment APCs at the time it passed the BBRA 1997.

Effective for drugs and biologicals furnished on or after January 1, 2001, when multiple units of a drug or biological are furnished to a beneficiary during one day, resulting in multiple APC payments for the same drug, we will aggregate the total coinsurance applicable to the drug or biological, and the aggregated amount cannot exceed the inpatient hospital deductible for the calendar year. In order to accomplish this change in our bill processing systems, we are assigning a new status indicator designated as “K” to APCs for nonpass-through drugs and biologicals (as reflected in Addendum D of this interim final rule with comment period). Effective for services furnished on or after July 1, 2001, in the same circumstances, we will aggregate the total coinsurance applicable to the drug or biological and to the service that resulted in the administration of the drug, and the aggregated amount cannot exceed the inpatient hospital deductible for the calendar year. We are unable to make the latter provision effective earlier because of systems constraints.

Comment: One commenter stated that the BBRA 1999 requirement that coinsurance for a procedure cannot exceed the inpatient hospital deductible for that year adds confusion to an already complicated formula for determining coinsurance. The commenter stated that the monitoring of coinsurance needed to ensure the limitation is being applied on a procedure basis will add undue burden and increase a provider's costs. To make the hospital outpatient prospective payment system less complicated, the commenter believed that we should consider eliminating the threshold.

Response: The coinsurance limitation is required by statute. Therefore, a statutory change would be required to eliminate this provision.

14. Reclassification of Certain Hospitals

In the August 1, 2000 Federal Register (65 FR 47029), we implemented section 401 of the BBRA 1999 for the hospital inpatient prospective payment system. Section 401(a) of the BBRA 1999, which amended section 1886(d)(8) of the Act by adding a new paragraph (E), directs the Secretary to treat any subsection (d) hospital located in an urban area as being located in the rural area of the State in which the hospital is located if the hospital files an application (in the form and manner determined by the Secretary) and meets certain statutorily specified criteria. Additionally, section 401(a) of the BBRA 1999 includes hospitals “* * * located in an area designated by any law or regulation of such State as a rural area (or is designated by such State as a rural hospital).” A hospital also may seek to qualify for reclassification premised on the fact that, had it been located in a rural area, it would have qualified as a rural referral center or as a sole community hospital.

Section 401(b) of the BBRA 1999 made a conforming change to section 1833(t) of the Act. Specifically, section 401(b) added section 1833(t)(13) to the Act which provides that if a hospital is being treated as being located in a rural area under section 1886(d)(8)(E) of the Act (for purposes of section 1886(d) of the Act), the hospital will also be treated under section 1833(t)(13) of the Act as being located in a rural area.

In the April 7, 2000 final rule with comment period, we explained that we use the same yearly version of the hospital inpatient prospective payment system wage index (which takes effect each October 1) to adjust the portion of the outpatient prospective payment system payment rate and the coinsurance amount that is attributable to labor-related costs for relative differences in labor and labor-related costs across geographic areas (and that will be applied effective each January 1). This wage index reflects the effects of hospital designations under section 1886(d)(8)(B) of the Act and hospital reclassifications under section 1886(d)(10) of the Act.

We did not receive any comments on this conforming change.

B. August 3, 2000 Interim Final Rule With Comment Period

Following are the issues addressed in the August 3, 2000 interim final rule with comment period, the public comments received on each issue, and our response to those comments. In that interim final rule, we—

• Revised the regulation at § 419.43(e)(1)(iv) to change one criterion and postpone the effective date for two other criteria that a new device, drug, or biological must meet in order for its cost to be considered “not insignificant” for purposes of determining its eligibility for transitional pass-through payments;

• Changed our interpretation for three of the eight criteria set forth in the April 7, 2000 final rule with comment period for defining a new medical device that would be eligible for transitional pass-through payments and amended § 419.43 by adding new paragraph (e)(4) to include all eight criteria;

• Clarified the assignment of “C” codes to eligible pass-through items;

• Corrected a trigger date for grandfathering of provider-based FQHCs; and

• Clarified our intent regarding prior notice of beneficiary cost-sharing liability in emergency situations.

1. Transitional Pass-Through Provisions

a. “Not Insignificant” Cost Criteria

Section 1833(t)(6) of the Act, as added by section 201(b) of the BBRA 1999, requires the Secretary to make transitional pass-through payments for post-1996 new drugs, biologicals, and devices for at least 2 but no more than 3 years when the cost of the item is “not insignificant” in relation to the hospital outpatient prospective payment system payment amount. In the April 7, 2000 final rule with comment period, we established three criteria that a new device, drug, or biological must meet to determine whether its costs are not insignificant relative to the APC payment with which the item is associated (65 FR 18480-81). We stated that all of the following cost criteria must be satisfied in order for a new device, drug, or biological to be eligible for transitional pass-through payments:

• Its expected reasonable cost exceeds the applicable fee schedule amount determined to be associated with the drug, biological, or device by 25 percent.

• The expected reasonable cost of the new drug, biological, or device exceeds the portion of the fee schedule amount determined to be associated with the drug, biological, or device by 25 percent.

• The difference between the expected, reasonable cost of the item and the portion of the hospital outpatient department fee schedule amount determined to be associated with the item exceeds 10 percent of the applicable hospital outpatient fee schedule amount.

After we published the April 7, 2000 final rule with comment period, we gained considerable experience from reviewing applications for transitional pass-through payments. Based on that experience, we concluded that the 25-percent limitation was too restrictive and could result in limiting Medicare beneficiaries' access to new products. Therefore, in the August 3, 2000 interim final rule with comment period, we changed that criterion to ensure that Medicare beneficiaries would continue to have access to the latest technologies. We now require that the expected reasonable cost of a new drug, biological, or device must exceed 10 percent of the applicable fee schedule amount for the associated service. In addition, we also postponed the effective date of the other two criteria applying to a new device, biologicals, or drugs for which a transitional pass-through payment is first made to on or after January 1, 2003. As stated in the August 3, 2000 interim final rule with comment period, the delay in the effective date for these two criteria is necessary so that we will have sufficient time to gather and analyze data needed to determine the current portion of the fee schedule amounts associated with a device, drug, or biological, which is an essential factor in applying these criteria.

Comment: Several commenters commended us for revising the one “not insignificant” criterion and postponing the other two criteria until after December 31, 2002. However, some argued that we created an uneven playing field by changing our policies after we published our April 7, 2000 final rule and announced pass-through application deadlines. They claimed that our untimely lowering of the cost threshold from 25 percent to 10 percent unfairly disadvantaged companies that did not submit pass-through applications by the deadline for our August 1, 2000 payments because they believed that their products would not qualify for payment. One commenter recommended that we rapidly process applications submitted for our January 1, 2001 update and change the effective date of that update to November 1, 2000. Another commenter advocated that we apply the 10-percent cost threshold retroactively to all device pass-through applications to ensure equitable treatment for all manufacturers.

Response: Based on our review of transitional pass-through applications, we believe that we have not applied our policy change inconsistently to applications that we received. The change to the lower cost threshold is effective for services furnished on or after August 1, 2000. If an applicant's product was denied pass-through status because its cost was considered to be “not insignificant” and that applicant can show that our decision was not based on the 10-percent criterion, the applicant may request that we reevaluate the application. In addition, we encourage other interested parties who withheld applications because they believed that their products would not qualify for pass-through status to submit them. Further, we cannot update the pass-through payments effective November 1, 2000 as requested. Adding new pass-through items to our outpatient prospective payment system requires changes to our complex Medicare computerized claims processing systems that we can make only at the beginning of a calendar quarter.

Comment: One commenter believed that reducing the cost threshold to 10 percent for new devices may be too low. The commenter stated that the lower cost threshold would expose hospitals to financial risk created by the use of new and expensive technology furnished in providing patient care. The commenter advocated that we consider as an option “establishing * * * a floor—or a variable percentage that is higher for low-cost cases and lower for high-cost cases.”

Response: We believe that this option will require time to evaluate its merits, assess its impact on our systems and determine systems changes that would be required to implement it. Therefore, we will consider this request for possible inclusion in our future proposed rule for outpatient prospective payment system updating that we expect to publish in the spring of 2001.

Comment: One commenter urged that we grant the public another opportunity to evaluate and comment on all three “not insignificant” cost criteria before implementing them.

Response: Before we implement all three of these criteria, we plan to provide notice and opportunity for public comment. Since we do not expect to implement two of these criteria before January 1, 2003, we would not expect to publish a proposed rulemaking until the spring of 2002.

Comment: One commenter asked how we would apply the three “not insignificant” cost criteria in instances when multiple units of a new device are used in performing a procedure. The commenter recommended that we use the “weighted average cost of the product, based on the average number of unit used in a procedure.”

Response: We plan to fully describe our approach to implementing these three criteria in a future proposed rule. As previously stated, we will not implement two of these criteria before January 1, 2003. Therefore, we do not expect to publish a proposed rulemaking until the spring of 2002.

Comment: One commenter asked that we clarify how transitional pass-through payments will be incorporated into the APC payments at the end of the 2- to 3-year transitional period for a given device. The commenter also asked how we would prevent the cost for the pass-through items from being diluted significantly by the median cost of other procedures grouped in the same APC.

Response: We plan to use a methodology similar to that currently used to construct the APC groups to incorporate payment for pass-through items into the APC payments once their pass-through status expires. That is, we have assigned a unique HCPCS code to each eligible pass-through item that will allow us to track its payments and utilization over the 2 to 3 years that it is eligible for pass-through status. The codes will allow us to match the pass-through items to the specific procedures or medical visits with which they are used. After we gain appropriate information about the actual costs a hospital incurs to provide a pass-through item, we will package the cost for the pass-through with that for the relevant procedure or medical visit with which it is used and assign the packaged service to a clinically related APC group with comparable resources. We will limit the cost variation within each group as required by section 1833(t)(2) of the Act, as amended by section 201(g) of the BBRA 1999. In accordance with this provision, the items and services within a group cannot be considered comparable with respect to the use of resources if the highest median cost item or service within a group is more than two times greater than the lowest median cost item or service within the same group. By law, the Secretary is allowed certain exceptions to this requirement, that is, for low volume items and services.

Comment: One commenter asked if we would provide adequate recognition for multiple devices used in a procedure “if multiple procedure discounting is allowed to cut the pass-through generated recognition of these costs in half.”

Response: Under the hospital outpatient prospective payment system, devices eligible for pass-through payments are paid separately and not subject to the multiple procedure discounting policy. This policy applies only to the actual surgical procedure that is performed to implant the pass-through device. These procedures are denoted by a status indicator “T” and listed in Addendum B of this rule.

Comment: One commenter urged us to correct erroneous APC groupings more frequently than during our scheduled quarterly or annual update cycles until we stabilize the hospital outpatient prospective payment system.

Response: We understand the importance of paying appropriately for services billed under our new outpatient system and are committed to resolving problems that would preclude us from making appropriate payments in a timely manner. However, because of the complexity of our system we cannot commit to making changes other than during the scheduled updating cycles.

b. Definition of Medical Device

In the April 7, 2000 final rule with comment period, we established eight specific criteria that new or innovative medical devices must meet to be considered eligible for pass-through payments under section 1833(t)(6) of the Act. We stated in that rule that new or innovative medical devices must meet all of the following criteria to be considered eligible for transitional pass-through payments:

(1) They were not recognized for payment as a hospital outpatient service prior to 1997.

(2) They have been approved or cleared for use by the FDA.

(3) They are determined to be reasonable and necessary for the diagnosis or treatment of an illness or injury or to improve the functioning of a malformed body part, as required by section 1862(a)(1)(A) of the Act. We recognize that some investigational devices are refinements of existing technologies or replications of existing technologies and may be considered reasonable and necessary. Therefore, we indicated that we will consider devices for coverage under the hospital outpatient prospective payment system if they have received an FDA investigational device exemption (IDE) and are classified by the FDA as Category B devices. However, in accordance with regulations at § 405.209, payment for a nonexperimental investigation device is based on, and may not exceed, the amount that would have been paid for a currently used device serving the same medical purpose that has been approved or cleared for marketing by the FDA.

(4) They are an integral and subordinate part of the procedure performed, are used for one patient only, are surgically implanted or inserted, and remain with that patient after the patient is released from the hospital outpatient department.

(5) The associated cost is not insignificant in relation to the APC payment for the service in which the innovative medical equipment is packaged.

(6) They are not equipment, instruments, apparatuses, implements, or items for which depreciation and financing expenses are recovered as depreciable assets as defined in Chapter 1 of the Medicare Provider Reimbursement Manual (HCFA Pub. 15-1).

(7) They are not materials and supplies such as sutures, clips, or customized surgical kits furnished incident to a service or procedure.

(8) They are not materials such as biologicals or synthetics that may be used to replace human skin.

In the August 3, 2000 rule, we revised criteria (3), (4), and (7) and amended § 419.43(e)(4) to include all eight criteria. We stated in that rule that our change in policies reflects experience gained in reviewing and processing transitional pass-through applications for devices since publishing our April 7, 2000 final rule with comment period. With regard to criteria (3), we revised it by removing the cost limitation provision for IDE Category B devices that qualify for transitional pass-through payments. We explained in the August 3, 2000 interim final rule that on review of our policy for such new devices, we believed that it would be more appropriate to remove the cost limitation because they are subjected to the same eligibility requirements as any other device applying for pass-through status and because pass-through payments for a specific device are temporary.

For criteria (4), we modified our interpretation of which devices are eligible for transition pass-through payments to include new medical devices that are used for one patient only, are single use, come in contact with human tissue, and are surgically implanted or inserted in a patient during a procedure but may also be removed during that procedure so that the patient leaves the hospital without the device. Our revised interpretation also includes clips that are used as radiological site or tissue markers.

As explained in the August 3, 2000 interim final rule, it became apparent, based on experience gained in processing a large number of applications for new medical device pass-through status, that our attempt to distinguish implantable devices using the criteria we had outlined in our April 7, 2000 final rule with comment period had some practical limitations. We also explained that, in some instances, the new medical device is implanted temporarily rather than permanently as indicated in our original policy published in the April 7, 2000 final rule with comment period. However, we did not intend for our policy to exclude new medical devices that are implanted or inserted during a procedure but also may be removed during that procedure so that the patient leaves the hospital without the device. Rather, we believed that these devices should be considered for pass-through payments because they also are implantables. We further stated in the August 3, 2000 interim final rule with comment period that it had become apparent that some implantable clips are expensive and function other than as tools or supplies necessary for a surgeon to perform a surgical procedure. We did not intend to exclude such clips from consideration for pass-through payments. Therefore, we revised our interpretation of which devices are eligible for transitional pass-through status to include also new single use medical devices that may be temporarily implanted or inserted in a patient.

Finally, in criterion (7), we became aware of the need, based on our review of pass-through applications, to clarify that supplies include pharmacological imaging and stressing agents, including contrast media but excluding radiopharmaceuticals (for which payment under the transitional pass-through provision is established by section 1833(t)(6)(A) of the Act).

Comment: One commenter urged that we issue detailed guidelines that clarify whether an IDE Category B device with pass-through status will be assigned only one “C-code” for both its clinical investigation and commercialization.

Response: Our general policy is to assign only one code to an eligible pass-through item.

Comment: One commenter asked how we would reconcile differences in pass-through payment differences (over 2 to 3 years) that are made for an eligible IDE Category B device during its clinical investigation phase versus those paid once the device is commercialized.

Response: Policy decisions regarding the analytical treatment of costs associated with specific items that will be included in our database for constructing APCs will be made in the context of the methodology that we use to derive updated APC weights and payments. This methodology will be fully described in a subsequent proposed rule prior to incorporating the cost for pass-through devices such as eligible IDE Category B devices into our APC payments.

Comment: One commenter asked that we clarify when the definition of a device includes or excludes all of a device's components. The commenter also asked whether we assigned separate codes for the device's components.

Response: If a device can be separated into distinct components and such components are considered integral to the functioning of that device, we evaluate the device and all its component parts to determine whether any or all would qualify for transitional pass-through payment. For example, we have approved several implantable neurostimulator systems for pass-through payment. These systems usually include at least two or three separate components such as a generator, leads, and receiver/transmitter. In this case, we have assigned separate HCPCS codes to each of the eligible components. However, if an eligible pass-through item is considered a component of a non-eligible item, such as a piece of capital equipment, only the eligible item will receive a HCPCS code to bill for pass-through payments.

Comment: One commenter warned us about medical devices that we have approved for pass-through payments such as electrophysiology catheters that the commenter alleges are not single use items. The commenter stated that hospitals use them more than once. The commenter advocated that we advise hospitals not to request additional payments for any approved pass-through item if they reprocess or reuse them.

Response: In the August 3, 2000 interim final rule with comment period, we revised criterion “d” of the eight medical device eligibility criteria to explicitly preclude pass-through payments for new medical devices other than those that are single use. Therefore, additional payments will not be made for devices that are reprocessed or reused. Hospitals that bill these devices might be considered to be engaging in fraudulent billing practices.

Comment: A number of the commenters urged that we abandon the use of an individual or brand-specific approach to approving devices for transitional pass-through payments and adopt an approach that distinguishes devices based on categories. The commenters argued that a category approach is more appropriate and more efficient to implement than an individual, item-specific approach. They alleged that the latter approach creates winners and losers and delays timely approval of new technologies.

Response: As previously stated, we adopted a trade-name specific approach for several reasons. First, such an approach provides better information. Codes that are largely item-specific allow us to track what procedures the items are used with and costs of the items. When the pass-through payments for an item ends, we would expect to have good information for assigning it to relevant APCs and ensuring appropriate payment for these APCs. Adopting a scheme with a significant degree of categorization would require use of averages in making assignments and setting payment rates. Decisions based on these more limited data would likely lead to intensified concerns about the appropriateness of APC assignment and payment.

Second, this approach permits finer discrimination in eligibility decisions. An item-by-item approach allows us to be sure individual items in fact meet the criteria for eligibility. Of major concern in this instance is whether a device is “new” using the standard of the statute. Section 1833(t)(6)(A) of the Act limits transitional pass-through payment to those devices for which “ * * * payment for the device * * * as an outpatient hospital service under this part was not being made as of December 31, 1996.” Adopting categories would in some cases mix “old” and “new” devices. In these instances, either some old devices would get special treatment that they would not be eligible for if they were examined on an item-specific basis, or an entire category could be considered old, thus depriving some new devices from special treatment they would be eligible for if they were examined on an item-specific basis.

Third, an item-specific scheme avoids issues associated with the design of categories needed for purposes of transitional pass-through payments. It largely avoids concerns about what items should be in what category or whether new categories should be created to accommodate items that may appear to be little different from those in existing categories.

Fourth, an item-specific approach allows us to assure that a newly arriving device can obtain the full period of pass-through status it is arguably eligible for under the statute. A categorization approach would likely lead to latecomers being eligible for pass-through payments only for a shorter period. Insofar as revision to APC payment rates reflected the costs of items in the category by the time the category was terminated, the shorter period would be of little consequence. However, if the costs of the late-coming item were significantly higher, this procedure could appear objectionable. A solution in this case would be to create a new code, which could be specific to that item, thus departing from a categorization approach.

We recognize that a category approach would lessen concerns about competitive disadvantages that may have been inadvertently created by an item specific approach and about access to specific items by hospitals and their patients. However, we found no satisfactory way of establishing categories that would not run into difficulty regarding the test of whether a device is “new” as described above. Consequently, we are making no change in our approach in response to comments.

2. Revision to Grandfather Provision for Certain FQHCs and “Look-Alikes”

In the April 7, 2000 final rule with comment period, which discussed the provider-based status criteria and requirements, we grandfathered FQHCs or “look-alikes” that were designated as such before 1995 in order to assure the continuity of care and access to care for patients of some of these facilities. To meet our original policy intent of helping to ensure that the new criteria do not disrupt the delivery of services to patients of these facilities, in the August 3, 2000 interim final rule with comment period (65 FR 47674), we corrected § 413.65(m) to state that a facility that has since April 7, 1995 furnished only services that were billed as if they had been furnished by a department of a provider will continue to be considered as a department of a provider, without regard to compliance with the provider-based criteria, if the facility—

(1) Received a grant on or before April 7, 2000 under section 330 of the Public Health Service Act and continues to receive funding under such a grant, or is receiving funding from a grant made on or before April 7, 2000 under section 330 of the Public Health Service Act under a contract with recipient of such a grant, and continues to meet the requirements to receive a grant under section 330 of the Public Health Service Act; or

(2) Based on the recommendation of the Public Health Service, was determined by HCFA on or before April 7, 2000 to meet the requirements for receiving a grant under section 330 of the Public Health Service Act, and continues to meet such requirements. We made this change to clarify that grandfathering under § 413.65 is based on continued status as a section 330 of the Public Health Service Act grantee or a “look-alike” facility. We received no comments on this change.

3. Clarification of Notice of Beneficiary Cost-Sharing Liability

In the August 3, 2000 interim final rule with comment, we also addressed whether hospitals could reasonably be expected to furnish an exact statement of the patient's financial liability, since the exact scope of services needed may not be known at the time notice must be given. Specifically, we stated that when the extent of care needed is not known before the patient is admitted, the hospital may furnish a written notice to the patient that explains the general fact that the beneficiary will incur a coinsurance liability to the hospital that he or she would not incur if the facility were not provider based. Furthermore, we clarified that the estimate of “potential financial liability” in this written notice may be based on typical or average charges for visits to the facility or organization, while stating that the patient's actual liability will depend upon the actual services furnished by the hospital.

Comment: One commenter stated that our clarification regarding the notice of beneficiary cost sharing liability was helpful, but recommended that we amend or modify the regulations at § 413.65(g)(7) to reflect such clarification since the wording of the existing regulations states twice that the notice must be given “prior to the delivery of services” without an exclusion for emergency medical conditions. In addition, the regulation states that the hospital has an obligation to notify the beneficiary of the “potential financial liability” not just to provide the beneficiary with “an estimate based upon typical or average charges” in the event that the exact type and extent of care is not known.

The commenter also recommended that we require hospitals to only notify the beneficiary of the fact that the beneficiary will incur a coinsurance liability for hospital outpatient services without giving a dollar amount of beneficiary copayment. Such a notice could include a statement that the copayment liability will be determined by us and the beneficiary will be notified of the exact amount once the hospital is notified of the amount determined by us. The commenter believes that an estimate based on charges would “miss the point” of this provision since beneficiary copayment amounts are now determined by HCFA using an APC grouper, not charges.

Response: We appreciate the commenter's concerns and agree that a change in the regulations is needed to reflect the clarification provided in the August 3, 2000 interim final rule with comment period in a future proposed rule. As we stated in the August 3, 2000 interim final rule with comment period (65 FR 47675), we are developing a proposed rule that will further revise and clarify the notice requirements. We are doing this to allow the public a full opportunity to comment on the changes and to ensure that we have the benefit of all relevant comments.

We disagree with the commenter's statement that an estimate based on charges would “miss the point” of this provision since such a notice is required only to give the beneficiary an idea or an example of their “potential financial liability”. As stated in the August 3, 2000 interim final rule with comment period (65 FR 47675), the estimate should state that the beneficiary's “actual liability will depend upon actual services furnished by the hospital.” Also, with the delay in the effective date of the provider-based status regulations until January 10, 2001, hospitals will have at least five months of experience with APC payments under outpatient prospective payment system and should be able to develop an appropriate estimate of a copayment amount based on APCs rather than charges.

4. Clarification of Protocols for Off-Campus Departments

In the April 7, 2000 final rule, under new § 489.24(i)(2) we require hospitals to establish protocols for handling individuals with potential emergency conditions who arrive at hospital off-campus departments. Section 489.24(i)(2)(ii) further requires that if the off-campus department is a physical therapy, radiology, or other facility not routinely staffed with physicians, RNs, or LPNs, the department personnel must be given protocols that direct them to contact emergency personnel at the main hospital campus.

In the August 3, 2000 interim final rule with comment period, we clarified that § 489.24(i)(2) does not require a delay of an appropriate transfer when the main hospital campus does not have the specialized capability or facilities required by the individual or when the individual's condition is deteriorating so rapidly that the time needed to move the individual to the main hospital campus would significantly jeopardize the individual's life or health. We also stated that the contact with emergency personnel at the main hospital campus should be made either after, or concurrently with, the actions needed to arrange an appropriate transfer under § 489.24(i)(3)(ii), if doing otherwise would significantly jeopardize the individual's life or health. We noted that this clarification does not relieve the off-site department of the responsibility for making this contact, but only clarifies that the contact may be delayed in specific cases when doing otherwise would endanger a patient subject to EMTALA protection. We received no comments on this clarification.

5. Typographical Errors in the Provider-Based Regulations

Comment: One commenter questioned whether the provider-based regulations in §§ 413.65 and 489.24, as they appeared in the April 7, 2000 final rule with comment period (65 FR 18538), contained typographical errors.

Response: We are aware of typographical errors in the provider-based regulations as published in the April 7, 2000 final rule with comment period (65 FR 18538) and will be publishing a correction notice (HCFA-1005-CN) to make these corrections.

III. Provisions of This Interim Final Rule With Comment Period

A. Changes Relating to the BBRA 1999 Public Comments

Except for the changes discussed in the preamble, we are adopting the BBRA 1999 provisions implemented in the April 7, 2000 final rule with comment period and the August 3, 2000 interim final rule with comment period, described in section II of this preamble, as final without modification. We are making the following changes to the regulation text as a result of the public comments received:

We are revising § 419.41(c)(4)(i) to provide that, effective January 1, 2001, when multiple APCs for a single drug or biological are furnished to a beneficiary on the same day, the inpatient hospital deductible limitation on coinsurance will be applied to the aggregate coinsurance for the drug or biological. The section is further revised to provide that, effective July 1, 2001, the coinsurance amount for the procedure or service that resulted in the administration of the drug or biological will be aggregated with the coinsurance for the drug or biological in applying the limit.

We are revising § 419.70(f)(2)(ii) to remove the phrase “without applying the cost reductions under section 1861(v)(1)(S) of the Act”. We recognize that the phase may have inadvertently caused confusion to the extent it is redundant, as pointed out by a commenter.

B. Annual Updates to Components of the Hospital Outpatient Prospective Payment System

In this interim final rule with comment period, for calendar year 2001, we are updating the wage index and the conversion factor adjustment for covered hospital outpatient services furnished beginning January 1, 2001. We also are updating the existing APC groups to reflect new codes that have been assigned. In accordance with section 1833(t)(9)(A) of the Act and section 201(h)(2) of the BBRA 1999, we will undertake a complete system update in 2001 for hospital outpatient prospective payments. That update will take effect on January 1, 2002. We will consult with an expert outside advisory panel composed of appropriate representatives of providers. This panel will review and advise us concerning the clinical integrity of the APC groups and relative weights. The panel will be allowed to use data other than those we have collected or developed during our review of the APC groups and relative weights.

1. APC Groups

We are updating the existing APC groups effective January 1, 2001 to reflect the addition of new CPT and alpha-numeric codes, the deletion of invalid codes, changes to the list of procedures we pay for only in an inpatient setting (the “inpatient list”), the creation of a new status indicator, newly covered procedures, reconfigurations due to the inclusion of device costs, and revisions to correct errors and provide consistency in the placement of codes.

a. New Codes

There are 936 new codes, 645 of which are “C” codes. “New” in this context means new since the April 7, 2000 final rule with comment period was published. Many of the “C” codes were published in program memoranda over the intervening months. New codes are shown in Addendum B with an asterisk in the column preceding the code.

b. Deleted Codes

With the exception of “C” codes, codes deleted effective January 1 of each year are given a 3-month grace period in which they will still be recognized. “C” codes are temporary codes used exclusively to bill pass-through items and new technology services and items paid under the hospital prospective payment system. We will retire these codes prospectively at the start of a new calendar quarter based on specific service dates and are not extending the same 3-month grace period to them. We will drop all non “C” codes from APCs effective April l. Deleted codes are shown in Addendum B. They are followed by the letter D. The AMA's CPT books also list deleted codes.

c. Revisions to Correct Errors or Inconsistencies

We are revising the APCs in order to correct errors and to provide greater consistency in the placement of codes. For example, we had assigned various types of cardiovascular diagnostic tests to four APCs, with rates based on data that, on subsequent review, appeared limited. We are recategorizing these APCs. This recategorization results in three APCs with greater clinical coherence.

Medicare covers influenza, pneumococcal, and hepatitis B immunizations routinely, with no copayment or deductible due for flu and pneumonia vaccines or their administration. Other vaccines may be covered in certain circumstances, but are, in fact, given so infrequently that our cost data are limited. We are rearranging the preventive vaccines and assigning the less frequently furnished vaccines based on their reported costs, but within a smaller range. We expect very few immunizations other than influenza and pneumonia to be billed, but if they are billed, we will update our data.

We also are changing the APCs to which bone density studies are assigned. The codes used in 1996 captured both central and peripheral bone density studies. Coding changes since that time have separated the two types of studies, but this distinction was not reflected in the 1996 data. In order to better reflect these differences, we are separating the various codes and assigning central dual energy x-ray absorptiometry (DEXA) bone density studies to a new technology APC.

We did not include the codes for transfusion laboratory services (for example, typing and crossmatching) in APCs in the April 7, 2000 final rule with comment period. We are now creating three APCs to capture these codes, and an additional APC to capture fertility procedures.

d. Device-Related Codes

As described in the April 7, 2000 final rule with comment period, revenue centers 274, 275, and 278 were not included for purposes of calculating the APC rates because prior to the BBRA 1999, we anticipated paying for durable medical equipment and prosthetics (including implantable devices) outside of the outpatient prospective payment system and it was unfeasible to revise our database to reflect the revenue centers in time to publish a final rule and implement the prospective payment system by July 1, 2000. To reflect the inclusion of implantable devices as required under the BBRA 1999, we have recalculated APC rates with these revenue centers included. As a result, the median cost for certain procedures such as inserting pacemakers, replacing leads, and providing neurostimulators increased significantly.

In order to recognize these cost increases, which are attributable to the devices, and to aid in the assignment of devices to APCs at the end of the pass-through period, we are reconfiguring certain APCs. That is, we are creating APC groups for the insertion of pacemakers, the replacement of pacemaker electrodes, the implantation of a pacemaker and electrodes, and the removal of a pacemaker. These changes reflect our basic criteria that procedures within an APC group be clinically similar and comparable in terms of resources, with the highest cost item or service within a group being no more than 2 times greater than the lowest cost item or service within the same group.

e. Inpatient Codes Moved to the Outpatient Setting

In response to numerous requests, we reviewed the composition of the inpatient list. While we continue to believe that we have the majority of the codes assigned properly, for the reasons discussed in section III.B.2. we are persuaded to move a number of codes to the outpatient setting. We are able to place most codes into closely related APCs.

f. “Two-times” Rule

The BBRA 1999 required us to ensure that no APC contains codes such that the highest median cost in the APC exceed twice the lowest median cost. We undertook an analysis of APCs in relation to this requirement as part of the 2001 update. (Note that the law provides for exceptions based on low volume and other reasons. We consider a code that captures fewer than 2 percent of the services within an APC to be low volume, and we disregard codes for unlisted services or procedures, since we do not know what service or procedure was billed.) For example, moving a radical mastectomy code from the inpatient list to a breast procedure APC caused the group to fail the two-times test. In another instance, as described above, we packaged costs associated with implantable devices into the relevant procedure codes. This change would also cause device-related APCs to fail the two-times test. For these situations and others that failed the two-times test, we are reconfiguring the APCs appropriately.

g. Inpatient Codes Moved to Outpatient and Affected by Device

Seven codes related to vascular and neurological procedures were moved from the inpatient list into APCs, that were then split according to device use, in response to comments.

h. Newly Covered Codes

The updated APCs reflect recent HCFA decisions to provide Medicare coverage for an electrical bioimpedance procedure and three magnetic resonance angiography services. The codes for these newly covered services are M0302 and 71555, 73725, and 74185, respectively.

i. Pass-Through Requests for Drugs

Since publication of the April 7, 2000 final rule with comment period, we have received additional requests for pass-through status for a number of drugs. The codes for the additional eligible pass-through drugs are shown in Addendum B.

The following table contains a listing of the changes in the APC groups discussed above.

Summary of Changes to APCs
New Codes | Changes to APC Placement of Existing Codes: Revisions or corrections of errors | Changes to APC Placement of Existing Codes: Device-related codes | Changes to APC Placement of Existing Codes: Inpatient moved to outpatient | Changes to APC Placement of Existing Codes: “Two-times” rule | Changes to APC Placement of Existing Codes: Inpatient codes moved to outpatient and affected by device | Changes to APC Placement of Existing Codes: Newly covered codes | Changes to APC Placement of Existing Codes: Pass-through requests for drugs
936 codes added, 645 of which are “C” | 111 codes changed | 87 codes changed | 56 codes changed (12 as of 8/1/2000) | 25 codes changed | 7 codes changed | 4 codes changed | 4 codes changed
Denoted by asterisk in Addendum B | APCs—0004, 0087, 0099, 0100, 0102, 0123, 0282, 0340, 0342, 0346, 0347, 0348, 0349, 0354, 0356, 0602, 0761, 0970, 0971, 0974, 0976, 1044, 1401, 1402, 1403, 1404, 1405, 1406, 1407, and 1409 | APCs—0082, 0083, 0089, 0091, 0093, 0103, 0104, 0105, 0106, 0107, 0108, 0109, 0115, 0119, 0124, 0185, 0224, 0225, 0226, 0227, 0228, 0229, 0256, and 1002 | APCs—0005, 0020, 0021, 0029, 0046, 0050, 0081, 0114, 0115, 0120, 0121, 0162, 0165, 0194, 0195, 0198 , 0216, 0254, 0256, 0263, 0264, 0279, 0280, 0970, 0974, and 0981. | APCs—0028 and 0029 | HCPCS—37620, 35011, 36834, 61880, 61888, 33284, 63741 | HCPCS—71555, 73725, 74185, M0302 | HCPCS—J1650, J2770, J1810, J7315

Addenda A and B reflect changes to the APC groups, effective January 1, 2001. Addendum C, entitled “Hospital Outpatient Department (HOPD) Payment for Procedures by APC, Calendar Year 2001,” is not published in this interim final rule with comment period, but will be posted on our website at http://www.hcfa.gov /medlearn/refopps.htm. Addendum C will display data similar to those contained in Addenda A and B, but sorted by APCs with each procedure code listed that is assigned to the APC.

2. Inpatient Procedures List Update

In the preamble to the April 7, 2000 final rule with comment period, we indicated that, as part of our annual update process, we would update the procedures on the inpatient list. The first annual revision of this list is effective on January 1, 2001. We are removing 44 procedures from the list and placing them in APCs. (Several procedures that were inadvertently left on the inpatient list in the April 7, 2000 final rule with comment period were removed from the list and placed in APCs in August 2000.) The revised list is included in Addendum E.

We have attempted to limit the inpatient only list to those procedures that, in current medical practice as understood by our clinical staff, require inpatient care, such as those that are highly invasive, result in major blood loss or temporary deficits of organ systems (such as neurological impairment or respiratory insufficiency), or otherwise require intensive or extensive postoperative care. Insofar as advances in medical practice mitigate concerns about these procedures being performed on an outpatient basis, we will be prepared to remove them from the inpatient list and provide for payment under the hospital outpatient prospective payment system. Since the April 7, 2000 final rule with comment period was published, we have received requests to move a number of procedures from the inpatient list because, based on medical evidence, the procedures can be performed safely in a hospital outpatient setting. These included breast and other cancer procedures, repairs of facial trauma, many orthopedic procedures, several vascular procedures, and some genito-urinary procedures.

Among the procedures we are removing from the inpatient list and placing in APCs as a result of these requests are excision of chest wall tumors, several orthopedic repairs, vascular procedures, and ureteral endoscopies. We are moving overnight pulse oximetry from the inpatient list to packaged status. We also are moving several comparable procedures, for example, related ureteral endoscopies.

At this time, we are not removing from the inpatient list various spinal procedures, including osteotomies and laminectomies. We also are not removing several open abdominal and retroperitoneal procedures from the inpatient list because many of these procedures involve prolonged invasion of the thoracic cavity, the peritoneum, or the retroperitoneal space. Patients undergoing these procedures typically require prolonged postoperative monitoring. Moreover, the information provided to us by requesters did not provide convincing evidence that these procedures are currently being performed or can be safely performed in an outpatient setting. However, we are aware that, with advances in technology and surgical techniques, many of these procedures may eventually be performed safely in a hospital outpatient setting. We will continue to review all the procedures on the inpatient list and will consider additional requests to move specific procedures to the outpatient setting. We ask that these requests contain detailed rationale along with medical evidence that the procedure may be performed safely in an outpatient setting.

We note that, in some instances, requests for removing a particular procedure from the inpatient list may have resulted from a misunderstanding about appropriate coding. Less invasive versions of the procedure on the inpatient list may be in an APC. The presence of certain thoracoscopies on the inpatient list, for example, does not mean that no thoracoscopy will be paid under the outpatient prospective payment system.

We also were asked to move several procedures from APCs to the inpatient list. Because of the rapid advance in technology and surgical techniques mentioned above, we believe that if procedures have been assigned APCs, we should not reverse that status unless it becomes obvious that we have made an error. Thus, we are moving to the inpatient setting only one of the codes for which we received a request (open treatment of a knee dislocation, which requires more than outpatient postoperative monitoring), and two other codes (for nephrectomy with total ureterectomy and for escharotomy) that had been assigned APCs in error.

Beginning in April 2001, we will, if warranted, revise the inpatient list at least quarterly to better reflect changes in medical practice that permit procedures that were previously performed only in an inpatient setting to be safely and effectively performed in an outpatient setting. In the April 7, 2000 final rule with comment period, we discussed our intent to revise the list as part of the annual update of APCs and asked that interested parties advise us of procedures that can be performed in an outpatient setting. Since we will be making quarterly updates to the outpatient prospective payment system for other purposes, we will also change the inpatient list quarterly, if warranted. Generally, because of systems limitations, 3 months or more are required after a decision is made before we can implement a change.

The inpatient list was not a result of a provision of the BBRA 1999; it was included in the September 1998 proposed rule and we responded to comments and made the provision final in the April 7, 2000 final rule with comment. Accordingly, we did not request comments on our policy on the establishment of the inpatient list at that time. Nonetheless, we received a number of comments concerning the existence of this list, the provisions for updating it, and its implications for other Medicare payment systems. We will consider these comments and expect to discuss the matter further in the proposed rule updating the hospital outpatient prospective payment system for 2002, which we will publish in the spring of 2001.

3. Wage Index Adjustment

Under section 1833(t)(2)(D) of the Act, we are required to determine a wage adjustment factor to adjust, in a budget neutral manner, the portion of the payment rate and the coinsurance amount that is attributable to labor-related costs for relative differences in labor and labor-related costs across geographic regions under the hospital outpatient prospective payment system.

In the April 7, 2000 final rule with comment period, we specified, in regulations at § 419.43(c), that each year we use the hospital inpatient prospective payment system wage index established in accordance with 42 CFR Part 412 to make a wage adjustment for relative differences in labor and labor-related costs across geographic areas under the hospital outpatient prospective payment system. We note that, by statute, we implement the annual update of the hospital inpatient prospective payment system on a fiscal year basis. However, we update the hospital outpatient prospective payment system on a calendar year basis. Therefore, the hospital inpatient prospective payment system wage index values established for urban and rural areas and for reclassified hospitals published in the Federal Register on August 1, 2000 (65 FR 47149 through 47157) are being applied for wage adjustments under the hospital outpatient prospective payment system, effective January 1, 2001. The fiscal year 2001 hospital inpatient wage index reflects the effects of hospitals redesignated under section 1886(d)(8)(B) of the Act and hospital reclassifications under section 1886(d)(10) of the Act. After publication of the hospital inpatient wage index values for fiscal year 2001 on August 1, 2000, we discovered several errors in the values for several geographic areas. The correct wage index values for all areas are republished in Addenda F, G, and H of this interim final rule with comment period.

In this interim final rule with comment period, we are establishing the methodology that we will use in making adjustments for area wage differences for services furnished in the Virgin Islands. We note that a hospital inpatient prospective payment system wage index value is not calculated for the Virgin Islands because there are no hospitals located in that area that are paid under the inpatient hospital prospective payment system. Because the wage index that we adopted in our April 7, 2000 final rule with comment period does not include a value for adjusting wage differences for the Virgin Islands, we will use the wage index for the Virgin Islands as calculated for the skilled nursing facilities prospective payment system to make this adjustment. The skilled nursing facilities prospective payment system uses the inpatient hospital wage index data to adjust its prospective payment rates for the same fiscal year (that is effective October 1, 2000) as covered by the hospital inpatient prospective payment system wage index values. As stated in the July 31, 2000 skilled nursing facilities prospective payment system final rule (65 FR 46770), “The computation of the wage index * * * incorporate[s] the latest data and methodology used to construct the hospital wage index. For these reasons, the wage index adjustment that we will apply to the Virgin Islands for services furnished on or after January 1, 2001 is 0.6306.

Although the wage index for skilled nursing facilities is based on a fiscal year beginning October 1, we will apply the wage index factor for the Virgin Islands that goes into effect on October 1 of each year to the hospital outpatient prospective payment system services furnished during the following calendar year. This is consistent with how we apply the hospital inpatient prospective payment system wage index values to the hospital outpatient prospective payment system services.

Consistent with the methodology applicable for services furnished in 2000 (on or after August 1, 2000), in making adjustments for area wage differences for services furnished in 2001, we will recognize 60 percent of the hospital's costs as labor-related costs that are standardized for geographic wage differences.

4. Conversion Factor Update

Section 1833(t)(3)(C)(ii) of the Act requires us to update annually the conversion factor used to determine APC payment rates. Section 1833(t)(3)(C)(iii) of the Act provides that the update be equal to the hospital inpatient market basket percentage increase applicable to hospital discharges under section 1886(b)(3)(B)(iii) of the Act, reduced by one percentage point for the years 2000, 2001, and 2002. Thus, the update to the outpatient hospital prospective payment system conversion factor for 2001 is 2.4 percent (3.4 percent minus 1 percent).

In accordance with section 1833(t)(9)(B) of the Act, the conversion factor for 2001 also has been adjusted to ensure that the revisions we made to update the wage index are made on a budget-neutral basis. A budget neutrality factor of .9989 was calculated for wage index changes by comparing total payments from our simulation model using the wage index values that will be effective January 1, 2001.

The market basket increase of 2.4 percent for 2001 and the required budget neutrality adjustment calculated to be .9989 result in a conversion factor for 2001 of $49.596.

IV. Waiver of Notice of Proposed Rulemaking

We ordinarily publish a notice of proposed rulemaking in the Federal Register and invite public comments on the proposed rule. The notice of proposed rulemaking includes a reference to the legal authority under which the rule is proposed, and the terms and substance of the proposed rule or a description of the subjects and issues involved. This procedure can be waived, however, if an agency finds good cause that a notice-and-comment procedure is impracticable, unnecessary, or contrary to the public interest, and incorporates a statement of the finding and its reasons in the rule. For the reasons set forth below, we find that the circumstances surrounding this interim final rule with comment period make it either unnecessary or impracticable to pursue a notice-and-comment procedure before the provisions of this interim final rule with comment period take effect.

As discussed earlier in this interim final rule with comment period, we implemented the hospital outpatient prospective payment system on August 1, 2000 in accordance with the methodology that we set forth in the April 7, 2000 final rule with comment period (65 FR 18434). In section III.I. of the April 7, 2000 final rule with comment period (65 FR 18501), we discuss how we will update the outpatient prospective payment system on an annual basis. We are required under section 1833(t)(3)(C)(ii) of the Act to update annually the conversion factor used to determine the APC payment rates. Under the regulations, 42 CFR 419.43, the wage adjustment under outpatient prospective payment system is based on the hospital inpatient wage index, and we updated the hospital inpatient wage index after the publication of the April 7, 2000 final rule with comment period. Accordingly, in this interim final rule with comment period, we are updating the conversion factor and the wage index adjustment for covered hospital outpatient services furnished beginning January 1, 2001, using the methodology published in the April 7, 2000 final rule with comment period, for which we had previously received comments. We also are updating the existing APC groups to reflect new and deleted CPT codes for 2001 and reconfiguring certain APC groups using more recent data to ensure clinical integrity and consideration of resource use as required by section 1833(t)(8)(A) of the Act and as described in the April 7, 2000 final rule with comment period (65 FR 18456 and 18501). Because these various adjustments are being made in accordance with existing methodology as set forth in the April 7, 2000 final rule with comment period, we believe it is unnecessary to address them further through the notice-and-comment procedure.

In addition, we find good cause to waive prior notice-and-comment procedures with respect to the Virgin Islands wage index methodology because it would have been impracticable to undertake and complete notice-and-comment procedures on this issue in time for the Virgin Islands outpatient prospective payment system wage index value to be effective at the same time as the updated outpatient prospective payment system wage index values for all other areas.

Accordingly, we find good cause to waive the notice-and-comment procedure with respect to the annual update of the wage index values, conversion factor, and the APC groups. However, we are providing for a 60-day comment period as specified in the “Dates” section of this preamble.

II. Collection of Information Requirements

This document does not impose information collection and recordkeeping requirements. Consequently, it need not be reviewed by the Office of Management and Budget under the authority of the Paperwork Reduction Act of 1995.

VI. Regulatory Impact

A. General

We have examined the impacts of this interim final with comment period rule as required by Executive Order 12866, the Unfunded Mandates Reform Act of 1965, and the Regulatory Flexibility Act (RFA) (Public Law 96-354). Executive Order 12866 directs agencies to assess all costs and benefits of available regulatory alternatives and, if regulation is necessary, to select regulatory approaches that maximize net benefits (including potential economic, environmental, public health and safety effects, distributive impacts, and equity). A regulatory impact analysis (RIA) must be prepared for major rules with economically significant effects ($100 million or more annually).

Section 202 of the Unfunded Mandates Reform Act of 1995 also requires that agencies assess anticipated costs and benefits before issuing any rule that may result in an expenditure in any one year by State, local, or tribal governments, in the aggregate, or by the private sector, of $100 million. This final rule does not mandate any requirements for State, local, or tribal governments.

The RFA requires agencies to analyze options for regulatory relief of small businesses. For purposes of the RFA, small entities include small businesses, nonprofit organizations and government agencies. For purposes of the RFA, we consider all hospitals to be small entities. Individuals and States are not included in the definition of a small entity.

In addition, section 1102(b) of the Act requires us to prepare a regulatory impact analysis if a rule may have a significant impact on the operations of a substantial number of small rural hospitals. This analysis must conform to the provisions of section 604 of the RFA. With the exception of hospitals located in certain New England counties, for purposes of section 1102(b) of the Act, we define a small rural hospital as a hospital that is located outside of a Metropolitan Statistical Area (MSA) or New England County Metropolitan Area (NECMA). Section 601(g) of the Social Security Amendments of 1983 (Public Law 98-21) designated hospitals in certain New England counties as belonging to the adjacent NECMA. Thus, for purposes of the hospital outpatient prospective payment system, we classify these hospitals as urban hospitals.

B. Analysis for Changes in this Interim Final Rule with Comment Period

We implemented the outpatient prospective payment system on August 1, 2000 in accordance with the methodology published in the April 7, 2000 final rule with comment period. In section III.I. of the April 7, 2000 final rule with comment period (65 FR 18501), we discuss how we will update the outpatient prospective payment system on an annual basis. We are required under section 1833(t)(3)(C)(ii) of the Act to update annually the conversion factor used to determine the APC payment rates. We are required under section 1833(t)(8)(A) of the Act to revise not less often than annually the wage and other adjustments. Accordingly, in this interim final rule with comment period, we are updating the conversion factor and the wage index adjustment for covered hospital outpatient services furnished beginning January 1, 2001, using the methodology published in the April 7, 2000 final rule with comment period, for which we had previously received comments.

In section IX.B. of the preamble of the April 7, 2000 final rule with comment period, we gave our Office of the Actuary's projection of the additional benefit expenditures from the Medicare Part B Trust Fund resulting from implementation of the hospital outpatient prospective payment system and the hospital outpatient provisions enacted by the BBRA 1999. The impact of implementing the hospital outpatient prospective payment system on the Medicare program is reflected in the table below, which is republished from the April 7, 2000 final rule with comment period (65 FR 18530). The calendar year 2001 increase in total payments to hospitals, which results primarily from the updated conversion factor, is already included as part of HCFA's current law baseline expenditures for hospital outpatient services under the outpatient prospective payment system.

Fiscal year | Impact (in millions)
2001 | $3,030
2002 | 3,520
2003 | 4,230
2004 | 4,670

We also are updating the existing APC groups to reflect new and deleted CPT codes for 2001 and adjusting the groups to reflect more recent data as we described in the April 7, 2000 final rule with comment period. The provisions of this interim final rule with comment period do not measurably alter the effect of the outpatient prospective payment system on the groups of hospitals or geographic areas as projected in Table 2 of the April 7, 2000 final rule with comment period (65 FR 18533-18534).

C. Federalism

We have examined this interim rule with comment period in accordance with Executive Order 13132, Federalism, and have determined that it will not have any negative impact on the rights, roles, and responsibilities of State, local or Tribal governments.

D. Executive Order 12866 and 5 U.S.C. 804(2)

The statutory effects of the provisions that are being implemented by this interim final rule with comment period result in expenditures exceeding $100 million per year. Therefore, this interim final rule with comment period is an economically significant rule under Executive Order 12866, and a major rule under 5 U.S.C. 804(2).

In accordance with the provisions of Executive Order 12866, this interim final rule with comment period was reviewed by the Office of Management and Budget.

List of Subjects in 42 CFR Part 419

Health facilities, Hospitals, Medicare.

For the reasons set forth in the preamble, 42 CFR Part 419 is amended as set forth below:

PART 419—PROSPECTIVE PAYMENT SYSTEM FOR HOSPITAL OUTPATIENT DEPARTMENT SERVICES

1. The authority citation for Part 419 continues to read as follows:

Authority: Secs. 1102, 1833(t), and 187l of the Social Security Act (42 U.S.C. 1302, 1395l(t), and 1395hh).

2. Section 419.41 is amended by revising paragraph (c)(4)(i) to read as follows:

§ 419.41 Calculation of national beneficiary coinsurance amounts and national Medicare program payment amounts.

* * * * *

(c) * * *

(4) * * *

(i) The coinsurance amount for an APC cannot exceed the amount of the inpatient hospital deductible, established in accordance with § 409.82 of this chapter, for that year. For purposes of this paragraph (c)—

(A) Effective for drugs and biologicals furnished on or after January 1, 2001, the coinsurance amount for multiple APCs for a single drug or biological furnished on the same day will be aggregated and treated as the coinsurance amount for one APC.

(B) Effective for drugs and biologicals furnished on or after July 1, 2001, the coinsurance amount for the APC or APCs for a drug or biological furnished on the same day will be aggregated with the coinsurance amount for the APC that reflects the administration of the drug or biological furnished on that day and treated as the coinsurance amount for one APC.

* * * * *

3. Section 419.70 is amended by revising paragraph (f)(2)(ii) to read as follows:

§ 419.70 Transitional adjustment to limit decline in payment.

* * * * *

(f) * * *

(2) * * *

(ii) The reasonable cost of these services for this period.

* * * * *

(Catalog of Federal Domestic Assistance Program No. 93.774, Medicare'Supplementary Medical Insurance Program)
Dated: November 1, 2000.
Michael M. Hash,
Acting Administrator, Health Care Financing Administration.
Approved: November 1, 2000.
Donna E. Shalala,
Secretary.

Note to the Addenda: The following Addenda A through H will not appear in the Code of Federal Regulations.

Addenda A through H provide various data pertaining to the Medicare hospital outpatient prospective payment system. Addendum A contains the APCs with title, status indicators, relative weight, payment rate, national unadjusted coinsurance, and minimum unadjusted coinsurance. Addendum B differs from Addendum A in that the APC titles are not listed and both HCPCS codes and descriptions appear. Addendum C, entitled “Hospital Outpatient Department (HOPD) Payment for Procedures by APC, Calendar Year 2001,” is not published in this interim final rule with comment period, but will be posted on our website at (http://www.hcfa.gov /medlearn/refopps.htm). Addendum C will display data similar to those contained in Addenda A and B, but sorted by APCs with each procedure code listed that is assigned to the APC. Addendum D lists the status indicators for how various services are treated under the hospital outpatient prospective payment system. Addendum E lists the procedures that we pay for only in an inpatient setting. Addendum F lists the wage index for urban areas, Addendum G lists the wage index for rural areas, and Addendum H lists the wage index for hospitals that are reclassified.

Addendum A.—List of Hospital Outpatient Ambulatory Payment Classification Groups with Status Indicators, Relative Weights, Payment Rates, and Coinsurance Amounts

The payment rate (once wage adjusted) is the total payment to the hospital. The coinsurance amount is part of the total payment rate.

Those APCs with status indicators “G” or “J” denote the inclusion of drugs that are eligible for pass-through payments. The relative weight column for these drug APCs is empty since payment for pass-through drugs/biologicals is calculated using the average wholesale price for the drug/biological rather than the relative weight. Note also that the only coinsurance column that has been filled is the minimum unadjusted coinsurance column. The coinsurance is applied to the nonpass-through portion of the payment rate for the drug/biological.

Those APCs with status indicator “H” denote the inclusion of devices that are eligible for pass-through payments. The relative weight, payment rate, and coinsurance columns are not filled for these APCs. The relative weight and payment rate columns are empty because payment for pass-through devices is determined based on the hospital's submitted charges adjusted to cost using the hospital's cost-to-charge ratio. This calculation is done in the PRICER. The coinsurance columns for these APCs are not filled since the coinsurance is applied to the APC that contains the procedure with which the pass-through device is used rather than to the device APC.

Addendum B.—Hospital Outpatient Department (HOPD) Payment Status by HCPCS Code and Related Information

The codes listed in this addendum include the 2001 CPT codes as published in CPT 2001 by the American Medical Association. Also listed are the codes that have been deleted for 2001. These codes are denoted in the CPT column with the subscript letter “D”. These codes are billable through March 31, 2001 for services occurring before January 1, 2001. Deleted codes billed after March 31, 2001 will be rejected. CPT codes appearing for the first time in 2001 are denoted in the CPT column with bolded print. These codes are new for 2001 and are billable effective January 1, 2001.

All CPT codes that are paid only as inpatient procedures are denoted by the status indicator “C”. A number of procedures that appeared on the inpatient list in the April 7, 2000 final rule with comment period are now payable under the hospital outpatient prospective payment system. The status indicators for these codes have been updated to reflect their current payment status.

Addendum A.—List of Hospital Outpatient Ambulatory Payment Classifications With Status Indicators, Relative Weights, Payment Rates, and Coinsurance Amounts, Calendar Year 2001
APC | Group title | Status indicator | Relative weight | Payment rate | National unadjusted coinsurance | Minimum unadjusted coinsurance
0001 | Photochemotherapy | S | 0.47 | $23.31 | $8.49 | $4.66
0002 | Fine needle Biopsy/Aspiration | T | 0.62 | $30.75 | $17.66 | $6.15
0003 | Bone Marrow Biopsy/Aspiration | T | 0.98 | $48.61 | $27.99 | $9.72
0004 | Level I Needle Biopsy/ Aspiration Except Bone Marrow | T | 1.84 | $91.26 | $32.57 | $18.25
0005 | Level II Needle Biopsy /Aspiration Except Bone Marrow | T | 5.41 | $268.32 | $119.75 | $53.66
0006 | Level I Incision & Drainage | T | 2.00 | $99.19 | $33.95 | $19.84
0007 | Level II Incision & Drainage | T | 3.68 | $182.51 | $72.03 | $36.50
0008 | Level III Incision & Drainage | T | 6.15 | $305.02 | $113.67 | $61.00
0009 | Nail Procedures | T | 0.74 | $36.70 | $9.63 | $7.34
0010 | Level I Destruction of Lesion | T | 0.55 | $27.28 | $9.86 | $5.46
0011 | Level II Destruction of Lesion | T | 2.72 | $134.90 | $50.01 | $26.98
0012 | Level I Debridement & Destruction | T | 0.53 | $26.29 | $9.18 | $5.26
0013 | Level II Debridement & Destruction | T | 0.91 | $45.13 | $17.66 | $9.03
0014 | Level III Debridement & Destruction | T | 1.50 | $74.39 | $24.55 | $14.88
0015 | Level IV Debridement & Destruction | T | 1.77 | $87.78 | $31.20 | $17.56
0016 | Level V Debridement & Destruction | T | 3.53 | $175.07 | $74.67 | $35.01
0017 | Level VI Debridement & Destruction | T | 12.45 | $617.47 | $289.16 | $123.49
0018 | Biopsy Skin, Subcutaneous Tissue or Mucous Membrane | T | 0.94 | $46.62 | $17.66 | $9.32
0019 | Level I Excision/ Biopsy | T | 4.00 | $198.39 | $78.91 | $39.68
0020 | Level II Excision/ Biopsy | T | 6.51 | $322.87 | $130.53 | $64.57
0021 | Level III Excision/ Biopsy | T | 10.49 | $520.26 | $236.51 | $104.05
0022 | Level IV Excision/ Biopsy | T | 12.49 | $619.45 | $292.94 | $123.89
0023 | Exploration Penetrating Wound | T | 1.98 | $98.20 | $40.37 | $19.64
0024 | Level I Skin Repair | T | 2.43 | $120.51 | $44.50 | $24.10
0025 | Level II Skin Repair | T | 3.74 | $185.49 | $70.66 | $37.10
0026 | Level III Skin Repair | T | 12.11 | $600.61 | $277.92 | $120.12
0027 | Level IV Skin Repair | T | 15.80 | $783.62 | $383.10 | $156.72
0028 | Level I Incision/Excision Breast | T | 12.37 | $613.52 | $303.74 | $122.70
0029 | Level II Incision/Excision Breast | T | 31.39 | $1,557.05 | $820.79 | $311.41
0030 | Breast Reconstruction | T | 31.11 | $1,543.16 | $763.55 | $308.63
0032 | Placement Transvenous Catheters/Arterial Cutdown | T | 5.40 | $267.82 | $119.52 | $53.56
0033 | Partial Hospitalization | P | 4.17 | $206.82 | $48.17 | $41.36
0040 | Arthrocentesis & Ligament/Tendon Injection | T | 2.11 | $104.65 | $40.60 | $20.93
0041 | Arthroscopy | T | 24.57 | $1,218.58 | $592.08 | $243.72
0042 | Arthroscopically-Aided Procedures | T | 29.22 | $1,449.19 | $804.74 | $289.84
0043 | Closed Treatment Fracture Finger/Toe/Trunk | T | 1.64 | $81.34 | $25.46 | $16.27
0044 | Closed Treatment Fracture/Dislocation Except Finger/Toe/Trunk | T | 2.17 | $107.63 | $38.08 | $21.53
0045 | Bone/Joint Manipulation Under Anesthesia | T | 11.02 | $546.55 | $277.12 | $109.31
0046 | Open/Percutaneous Treatment Fracture or Dislocation | T | 22.29 | $1,105.50 | $535.76 | $221.10
0047 | Arthroplasty without Prosthesis | T | 22.09 | $1,095.58 | $537.03 | $219.12
0048 | Arthroplasty with Prosthesis | T | 29.06 | $1,441.26 | $725.94 | $288.25
0049 | Level I Musculoskeletal Procedures Except Hand and Foot | T | 15.04 | $745.93 | $356.95 | $149.19
0050 | Level II Musculoskeletal Procedures Except Hand and Foot | T | 21.13 | $1,047.96 | $513.86 | $209.59
0051 | Level III Musculoskeletal Procedures Except Hand and Foot | T | 27.76 | $1,376.79 | $675.24 | $275.36
0052 | Level IV Musculoskeletal Procedures Except Hand and Foot | T | 36.16 | $1,793.39 | $930.91 | $358.68
0053 | Level I Hand Musculoskeletal Procedures | T | 11.32 | $561.42 | $253.49 | $112.28
0054 | Level II Hand Musculoskeletal Procedures | T | 19.66 | $975.06 | $472.33 | $195.01
0055 | Level I Foot Musculoskeletal Procedures | T | 15.47 | $767.26 | $355.34 | $153.45
0056 | Level II Foot Musculoskeletal Procedures | T | 17.30 | $858.02 | $405.81 | $171.60
0057 | Bunion Procedures | T | 21.00 | $1,041.52 | $496.65 | $208.30
0058 | Level I Strapping and Cast Application | S | 1.09 | $54.06 | $19.27 | $10.81
0059 | Level II Strapping and Cast Application | S | 1.74 | $86.30 | $29.59 | $17.26
0060 | Manipulation Therapy | S | 0.77 | $38.19 | $7.80 | $7.64
0070 | Thoracentesis/Lavage Procedures | T | 3.64 | $180.53 | $79.60 | $36.11
0071 | Level I Endoscopy Upper Airway | T | 0.55 | $27.28 | $14.22 | $5.46
0072 | Level II Endoscopy Upper Airway | T | 1.26 | $62.49 | $41.52 | $12.50
0073 | Level III Endoscopy Upper Airway | T | 4.11 | $203.84 | $91.07 | $40.77
0074 | Level IV Endoscopy Upper Airway | T | 13.61 | $675.00 | $347.54 | $135.00
0075 | Level V Endoscopy Upper Airway | T | 18.55 | $920.01 | $467.29 | $184.00
0076 | Endoscopy Lower Airway | T | 8.06 | $399.75 | $197.05 | $79.95
0077 | Level I Pulmonary Treatment | S | 0.43 | $21.33 | $12.62 | $4.27
0078 | Level II Pulmonary Treatment | S | 1.34 | $66.46 | $29.13 | $13.29
0079 | Ventilation Initiation and Management | S | 3.18 | $157.72 | $107.70 | $31.54
0080 | Diagnostic Cardiac Catheterization | T | 31.55 | $1,564.75 | $838.92 | $312.95
0081 | Non-Coronary Angioplasty or Atherectomy | T | 28.81 | $1,428.86 | $710.91 | $285.77
0082 | Coronary Atherectomy | T | 51.01 | $2,529.89 | $1,351.74 | $505.98
0083 | Coronary Angioplasty | T | 29.70 | $1,473.00 | $794.30 | $294.60
0084 | Level I Electrophysiologic Evaluation | S | 10.70 | $530.68 | $177.79 | $106.14
0085 | Level II Electrophysiologic Evaluation | S | 27.06 | $1,342.07 | $654.48 | $268.41
0086 | Ablate Heart Dysrhythm Focus | S | 47.62 | $2,361.76 | $1,265.37 | $472.35
0087 | Cardiac Electrophysiologic Recording/Mapping | S | 9.53 | $472.65 | $214.72 | $94.53
0088 | Thrombectomy | T | 26.49 | $1,313.80 | $678.68 | $262.76
0089 | Insertion/Replacement of Permanent Pacemaker and Electrodes | T | 78.45 | $3,890.81 | $2,275.19 | $778.16
0090 | Insertion/Replacement of Pacemaker Pulse Generator | T | 78.28 | $3,882.37 | $2,133.88 | $776.47
0091 | Level I Vascular Ligation | T | 14.79 | $733.52 | $348.23 | $146.70
0092 | Level II Vascular Ligation | T | 20.21 | $1,002.34 | $505.37 | $200.47
0093 | Vascular Repair/Fistula Construction | T | 12.82 | $635.82 | $277.34 | $127.16
0094 | Resuscitation and Cardioversion | S | 4.51 | $223.68 | $105.29 | $44.74
0095 | Cardiac Rehabilitation | S | 0.64 | $31.74 | $16.98 | $6.35
0096 | Non-Invasive Vascular Studies | S | 2.06 | $102.16 | $61.48 | $20.43
0097 | Cardiac Monitoring for 30 days | X | 1.62 | $80.35 | $62.40 | $16.07
0098 | Injection of Sclerosing Solution | T | 1.19 | $59.02 | $20.88 | $11.80
0099 | Electrocardiograms | S | 0.38 | $18.85 | $14.68 | $3.77
0100 | Stress Tests and Continuous ECG | X | 1.70 | $84.32 | $71.57 | $16.86
0101 | Tilt Table Evaluation | S | 4.47 | $221.70 | $128.84 | $44.34
0102 | Electronic Analysis of Pacemakers/other Devices | S | 0.45 | $22.32 | $12.62 | $4.46
0103 | Miscellaneous Vascular Procedures | T | 13.09 | $649.21 | $295.70 | $129.84
0104 | Transcatheter Placement of Intracoronary Stents | T | 14.94 | $740.96 | $339.51 | $148.19
0105 | Revision/Removal of Pacemakers, AICD, or Vascular Device | T | 15.06 | $746.92 | $372.32 | $149.38
0106 | Insertion/Replacement/Repair of Pacemaker Electrodes | T | 18.96 | $940.34 | $503.07 | $188.07
0107 | Insertion of Cardioverter-Defibrillator | T | 147.51 | $7,315.91 | $5,086.37 | $1,463.18
0108 | Insertion/Replacement/Repair of Cardioverter-Defibrillator Leads | T | 210.84 | $10,456.84 | $5,484.72 | $2,091.37
0109 | Removal of Implanted Devices | T | 6.53 | $323.86 | $133.51 | $64.77
0110 | Transfusion | S | 5.83 | $289.15 | $122.73 | $57.83
0111 | Blood Product Exchange | S | 14.17 | $702.77 | $300.74 | $140.55
0112 | Extracorporeal Photopheresis | S | 39.60 | $1,964.01 | $663.65 | $392.80
0113 | Excision Lymphatic System | T | 13.89 | $688.89 | $326.55 | $137.78
0114 | Thyroid/Lymphadenectomy Procedures | T | 19.56 | $970.10 | $493.78 | $194.02
0115 | Cannula/Access Device Procedures | T | 19.34 | $959.19 | $506.74 | $191.84
0116 | Chemotherapy Administration by Other Technique Except Infusion | S | 2.34 | $116.06 | $23.21 | $23.21
0117 | Chemotherapy Administration by Infusion Only | S | 1.84 | $91.26 | $71.80 | $18.25
0118 | Chemotherapy Administration by Both Infusion and Other Technique | S | 2.90 | $143.83 | $72.03 | $28.77
0119 | Implantation of Devices | T | 9.87 | $489.59 | $161.50 | $97.92
0120 | Infusion Therapy Except Chemotherapy | T | 1.66 | $82.33 | $42.67 | $16.47
0121 | Level I Tube changes and Repositioning | T | 2.36 | $117.05 | $52.53 | $23.41
0122 | Level II Tube changes and Repositioning | T | 5.04 | $249.96 | $114.93 | $49.99
0123 | Bone Marrow Harvesting and Bone Marrow/Stem Cell Transplant | S | 4.13 | $204.83 | $40.97 | $40.97
0124 | Revision of Implanted Infusion Pump | T | 2.55 | $126.64 | $81.36 | $25.33
0130 | Level I Laparoscopy | T | 25.36 | $1,257.75 | $659.53 | $251.55
0131 | Level II Laparoscopy | T | 41.81 | $2,073.61 | $1,089.88 | $414.72
0132 | Level III Laparoscopy | T | 48.91 | $2,425.74 | $1,239.22 | $485.15
0140 | Esophageal Dilation without Endoscopy | T | 4.74 | $235.09 | $107.24 | $47.02
0141 | Upper GI Procedures | T | 7.15 | $354.61 | $184.67 | $70.92
0142 | Small Intestine Endoscopy | T | 7.45 | $369.49 | $162.42 | $73.90
0143 | Lower GI Endoscopy | T | 7.98 | $395.78 | $199.12 | $79.16
0144 | Diagnostic Anoscopy | T | 2.23 | $110.60 | $49.32 | $22.12
0145 | Therapeutic Anoscopy | T | 7.46 | $369.98 | $179.39 | $74.00
0146 | Level I Sigmoidoscopy | T | 2.83 | $140.36 | $65.15 | $28.07
0147 | Level II Sigmoidoscopy | T | 6.26 | $310.47 | $149.11 | $62.09
0148 | Level I Anal/Rectal Procedure | T | 2.34 | $116.06 | $43.59 | $23.21
0149 | Level II Anal/Rectal Procedure | T | 12.86 | $637.80 | $293.06 | $127.56
0150 | Level III Anal/Rectal Procedure | T | 17.68 | $876.86 | $437.12 | $175.37
0151 | Endoscopic Retrograde Cholangio-Pancreatography (ERCP) | T | 10.53 | $522.25 | $245.46 | $104.45
0152 | Percutaneous Biliary Endoscopic Procedures | T | 8.22 | $407.68 | $207.38 | $81.54
0153 | Peritoneal and Abdominal Procedures | T | 19.62 | $973.08 | $496.31 | $194.62
0154 | Hernia/Hydrocele Procedures | T | 22.43 | $1,112.45 | $556.98 | $222.49
0157 | Colorectal Cancer Screening: Barium Enema | S | 1.79 | $88.78 |  | $22.19
0158 | Colorectal Cancer Screening: Colonoscopy | S | 7.98 | $395.78 |  | $98.94
0159 | Colorectal Cancer Screening: Flexible Sigmoidoscopy | S | 2.83 | $140.36 |  | $35.09
0160 | Level I Cystourethroscopy and other Genitourinary Procedures | T | 5.43 | $269.30 | $110.11 | $53.86
0161 | Level II Cystourethroscopy and other Genitourinary Procedures | T | 10.94 | $542.58 | $249.36 | $108.52
0162 | Level III Cystourethroscopy and other Genitourinary Procedures | T | 17.49 | $867.44 | $427.49 | $173.49
0163 | Level IV Cystourethroscopy and other Genitourinary Procedures | T | 28.98 | $1,437.30 | $792.58 | $287.46
0164 | Level I Urinary and Anal Procedures | T | 2.17 | $107.64 | $33.03 | $21.53
0165 | Level II Urinary and Anal Procedures | T | 3.89 | $192.92 | $91.76 | $38.58
0166 | Level I Urethral Procedures | T | 10.17 | $504.39 | $218.73 | $100.88
0167 | Level II Urethral Procedures | T | 21.06 | $1,044.50 | $555.84 | $208.90
0168 | Level III Urethral Procedures | T | 24.94 | $1,236.93 | $536.11 | $247.39
0169 | Lithotripsy | T | 46.72 | $2,317.13 | $1,384.20 | $463.43
0170 | Dialysis for Other Than ESRD Patients | S | 6.68 | $331.30 | $72.26 | $66.26
0180 | Circumcision | T | 13.62 | $675.49 | $304.87 | $135.10
0181 | Penile Procedures | T | 32.37 | $1,605.43 | $906.36 | $321.09
0182 | Insertion of Penile Prosthesis | T | 52.11 | $2,584.45 | $1,525.05 | $516.89
0183 | Testes/Epididymis Procedures | T | 18.26 | $905.62 | $448.94 | $181.12
0184 | Prostate Biopsy | T | 4.94 | $245.01 | $122.96 | $49.00
0185 | Removal or Repair of Penile Prosthesis | T | 32.37 | $1,605.43 | $906.36 | $321.09
0190 | Surgical Hysteroscopy | T | 17.85 | $885.29 | $443.89 | $177.06
0191 | Level I Female Reproductive Procedures | T | 1.19 | $59.02 | $17.43 | $11.80
0192 | Level II Female Reproductive Procedures | T | 2.38 | $118.04 | $35.33 | $23.61
0193 | Level III Female Reproductive Procedures | T | 8.93 | $442.89 | $171.13 | $88.58
0194 | Level IV Female Reproductive Procedures | T | 16.21 | $803.96 | $395.94 | $160.79
0195 | Level V Female Reproductive Procedures | T | 18.68 | $926.46 | $483.80 | $185.29
0196 | Dilatation & Curettage | T | 14.47 | $717.66 | $357.98 | $143.53
0197 | Infertility Procedures | T | 2.40 | $119.03 | $49.55 | $23.81
0198 | Pregnancy and Neonatal Care Procedures | T | 1.34 | $66.46 | $33.03 | $13.29
0199 | Vaginal Delivery | T | 11.20 | $555.48 | $157.83 | $111.10
0200 | Therapeutic Abortion | T | 13.89 | $688.89 | $373.23 | $137.78
0201 | Spontaneous Abortion | T | 13.00 | $644.75 | $329.65 | $128.95
0210 | Spinal Tap | T | 3.00 | $148.79 | $62.40 | $29.76
0211 | Level I Nervous System Injections | T | 3.32 | $164.66 | $74.78 | $32.93
0212 | Level II Nervous System Injections | T | 3.64 | $180.53 | $88.78 | $36.11
0213 | Extended EEG Studies and Sleep Studies | S | 11.15 | $553.00 | $290.42 | $110.60
0214 | Electroencephalogram | S | 2.32 | $115.06 | $58.50 | $23.01
0215 | Level I Nerve and Muscle Tests | S | 1.15 | $57.04 | $30.05 | $11.41
0216 | Level II Nerve and Muscle Tests | S | 2.87 | $142.34 | $64.69 | $28.47
0217 | Level III Nerve and Muscle Tests | S | 5.87 | $291.13 | $156.68 | $58.23
0220 | Level I Nerve Procedures | T | 13.96 | $692.36 | $326.21 | $138.47
0221 | Level II Nerve Procedures | T | 18.36 | $910.58 | $463.62 | $182.12
0222 | Implantation of Neurological Device | T | 124.43 | $6,171.23 | $2,955.13 | $1,234.25
0223 | Implantation of Pain Management Device | T | 7.05 | $349.65 | $154.27 | $69.93
0224 | Implantation of Reservoir/Pump/Shunt | T | 17.89 | $887.27 | $453.41 | $177.45
0225 | Implantation of Neurostimulator Electrodes | T | 17.72 | $878.84 | $408.33 | $175.77
0226 | Implantation of Drug Infusion Reservoir | T | 5.62 | $278.73 | $109.42 | $55.75
0227 | Implantation of Drug Infusion Device | T | 11.17 | $553.99 | $330.11 | $110.80
0228 | Creation of Lumbar Subarachnoid Shunt | T | 25.06 | $1,242.88 | $696.46 | $248.58
0229 | Transcatherter Placement of Intravascular Shunts | T | 34.81 | $1,726.44 | $1,030.12 | $345.29
0230 | Level I Eye Tests | S | 0.98 | $48.61 | $22.48 | $9.72
0231 | Level II Eye Tests | S | 2.64 | $130.94 | $59.87 | $26.19
0232 | Level I Anterior Segment Eye | T | 6.04 | $299.56 | $134.66 | $59.91
0233 | Level II Anterior Segment Eye | T | 13.79 | $683.93 | $331.60 | $136.79
0234 | Level III Anterior Segment Eye Procedures | T | 20.64 | $1,023.66 | $502.16 | $204.73
0235 | Level I Posterior Segment Eye Procedures | T | 2.94 | $145.81 | $78.91 | $29.16
0236 | Level II Posterior Segment Eye Procedures | T | 6.70 | $332.29 | $147.96 | $66.46
0237 | Level III Posterior Segment Eye Procedures | T | 33.96 | $1,684.28 | $852.68 | $336.86
0238 | Level I Repair and Plastic Eye Procedures | T | 2.80 | $138.87 | $58.96 | $27.77
0239 | Level II Repair and Plastic Eye Procedures | T | 6.26 | $310.47 | $123.42 | $62.09
0240 | Level III Repair and Plastic Eye Procedures | T | 13.47 | $668.06 | $315.31 | $133.61
0241 | Level IV Repair and Plastic Eye Procedures | T | 16.60 | $823.30 | $384.47 | $164.66
0242 | Level V Repair and Plastic Eye Procedures | T | 23.70 | $1,175.42 | $597.36 | $235.08
0243 | Strabismus/Muscle Procedures | T | 17.99 | $892.23 | $431.39 | $178.45
0244 | Corneal Transplant | T | 32.88 | $1,630.72 | $851.42 | $326.14
0245 | Cataract Procedures without IOL Insert | T | 26.55 | $1,316.77 | $623.85 | $263.35
0246 | Cataract Procedures with IOL Insert | T | 26.55 | $1,316.77 | $623.85 | $263.35
0247 | Laser Eye Procedures Except Retinal | T | 4.89 | $242.52 | $112.86 | $48.50
0248 | Laser Retinal Procedures | T | 4.19 | $207.81 | $94.05 | $41.56
0250 | Nasal Cauterization/Packing | T | 2.21 | $109.61 | $38.54 | $21.92
0251 | Level I ENT Procedures | T | 1.68 | $83.32 | $27.99 | $16.66
0252 | Level II ENT Procedures | T | 5.18 | $256.90 | $114.24 | $51.38
0253 | Level III ENT Procedures | T | 12.02 | $596.14 | $284.00 | $119.23
0254 | Level IV ENT Procedures | T | 12.45 | $617.47 | $272.41 | $123.49
0256 | Level V ENT Procedures | T | 25.40 | $1,259.74 | $623.05 | $251.95
0258 | Tonsil and Adenoid Procedures | T | 18.62 | $923.48 | $462.81 | $184.70
0260 | Level I Plain Film Except Teeth | X | 0.79 | $39.18 | $22.02 | $7.84
0261 | Level II Plain Film Except Teeth Including Bone Density Measurement | X | 1.38 | $68.44 | $38.77 | $13.69
0262 | Plain Film of Teeth | X | 0.40 | $19.83 | $10.90 | $3.97
0263 | Level I Miscellaneous Radiology Procedures | X | 1.68 | $83.32 | $45.88 | $16.66
0264 | Level II Miscellaneous Radiology Procedures | X | 3.83 | $189.96 | $108.97 | $37.99
0265 | Level I Diagnostic Ultrasound Except Vascular | S | 1.17 | $58.03 | $38.08 | $11.61
0266 | Level II Diagnostic Ultrasound Except Vascular | S | 1.79 | $88.78 | $57.35 | $17.76
0267 | Vascular Ultrasound | S | 2.72 | $134.90 | $80.06 | $26.98
0268 | Guidance Under Ultrasound | X | 2.23 | $110.60 | $69.51 | $22.12
0269 | Echocardiogram Except Transesophageal | S | 4.40 | $218.22 | $114.01 | $43.64
0270 | Transesophageal Echocardiogram | S | 5.55 | $275.25 | $150.26 | $55.05
0271 | Mammography | S | 0.70 | $34.72 | $19.50 | $6.94
0272 | Level I Fluoroscopy | X | 1.40 | $69.43 | $39.00 | $13.89
0273 | Level II Fluoroscopy | X | 2.49 | $123.49 | $61.02 | $24.70
0274 | Myelography | S | 4.83 | $239.55 | $128.12 | $47.91
0275 | Arthrography | S | 2.74 | $135.89 | $72.26 | $27.18
0276 | Level I Digestive Radiology | S | 1.79 | $88.78 | $49.78 | $17.76
0277 | Level II Digestive Radiology | S | 2.47 | $122.50 | $69.28 | $24.50
0278 | Diagnostic Urography | S | 2.85 | $141.35 | $81.67 | $28.27
0279 | Level I Angiography and Venography except Extremity | S | 6.30 | $312.46 | $174.57 | $62.49
0280 | Level II Angiography and Venography except Extremity | S | 14.98 | $742.95 | $380.12 | $148.59
0281 | Venography of Extremity | S | 4.40 | $218.22 | $115.16 | $43.64
0282 | Level I Computerized Axial Tomography | S | 2.38 | $118.04 | $94.51 | $23.61
0283 | Level II Computerized Axial Tomography | S | 4.89 | $242.52 | $179.39 | $48.50
0284 | Magnetic Resonance Imaging | S | 8.02 | $397.76 | $257.39 | $79.55
0285 | Positron Emission Tomography (PET) | S | 15.06 | $746.92 | $415.21 | $149.38
0286 | Myocardial Scans | S | 7.28 | $361.06 | $200.04 | $72.21
0290 | Standard Non-Imaging Nuclear Medicine | S | 1.94 | $96.21 | $55.51 | $19.24
0291 | Level I Diagnostic Nuclear Medicine Excluding Myocardial Scans | S | 3.15 | $156.22 | $93.14 | $31.24
0292 | Level II Diagnostic Nuclear Medicine Excluding Myocardial Scans | S | 4.36 | $216.24 | $126.63 | $43.25
0294 | Level I Therapeutic Nuclear Medicine | S | 5.13 | $254.43 | $144.06 | $50.89
0295 | Level II Therapeutic Nuclear Medicine | S | 19.85 | $984.48 | $609.17 | $196.90
0296 | Level I Therapeutic Radiologic Procedures | S | 3.57 | $177.06 | $100.25 | $35.41
0297 | Level II Therapeutic Radiologic Procedures | S | 6.13 | $304.03 | $172.51 | $60.81
0300 | Level I Radiation Therapy | S | 1.98 | $98.20 | $47.72 | $19.64
0301 | Level II Radiation Therapy | S | 2.21 | $109.61 | $52.53 | $21.92
0302 | Level III Radiation Therapy | S | 8.21 | $407.18 | $216.55 | $81.44
0303 | Treatment Device Construction | X | 2.83 | $140.36 | $69.28 | $28.07
0304 | Level I Therapeutic Radiation Treatment Preparation | X | 1.49 | $73.90 | $41.52 | $14.78
0305 | Level II Therapeutic Radiation Treatment Preparation | X | 4.06 | $201.36 | $97.50 | $40.27
0310 | Level III Therapeutic Radiation Treatment Preparation | X | 13.98 | $693.35 | $339.05 | $138.67
0311 | Radiation Physics Services | X | 1.32 | $65.46 | $31.66 | $13.09
0312 | Radioelement Applications | S | 4.09 | $202.85 | $109.65 | $40.57
0313 | Brachytherapy | S | 7.89 | $391.31 | $164.02 | $78.26
0314 | Hyperthermic Therapies | S | 5.88 | $291.62 | $150.95 | $58.32
0320 | Electroconvulsive Therapy | S | 3.68 | $182.51 | $80.06 | $36.50
0321 | Biofeedback and Other Training | S | 1.26 | $62.49 | $29.25 | $12.50
0322 | Brief Individual Psychotherapy | S | 1.32 | $65.46 | $14.22 | $13.09
0323 | Extended Individual Psychotherapy | S | 1.85 | $91.75 | $22.48 | $18.35
0324 | Family Psychotherapy | S | 1.87 | $92.74 | $20.19 | $18.55
0325 | Group Psychotherapy | S | 1.55 | $76.88 | $19.96 | $15.38
0330 | Dental Procedures | S | 1.51 | $74.89 | $14.98 | $14.98
0340 | Minor Ancillary Procedures | X | 1.04 | $51.58 | $12.85 | $10.32
0341 | Immunology Tests | X | 0.13 | $6.44 | $3.67 | $1.29
0342 | Level I Pathology | X | 0.26 | $12.90 | $8.03 | $2.58
0343 | Level II Pathology | X | 0.45 | $22.32 | $12.16 | $4.46
0344 | Level III Pathology | X | 0.79 | $39.18 | $23.63 | $7.84
0345 | Transfusion Laboratory Procedures Level I | X | 0.22 | $10.92 | $5.37 | $2.18
0346 | Transfusion Laboratory Procedures Level II | X | 0.51 | $25.49 | $12.03 | $5.10
0347 | Transfusion Laboratory Procedures Level III | X | 0.84 | $41.90 | $20.13 | $8.38
0348 | Fertility Laboratory Procedures | X | 0.52 | $25.57 | $5.11 | $5.11
0349 | Miscellaneous Laboratory Procedures | X | 0.48 | $23.65 | $4.73 | $4.73
0354 | Administration of Influenza/Pneumonia Vaccine | K | 0.13 | $6.33 |  |
0355 | Level I Immunizations | K | 0.19 | $9.42 | $5.05 | $1.88
0356 | Level II Immunizations | K | 0.36 | $17.86 | $4.82 | $3.57
0359 | Injections | X | 0.96 | $47.61 | $9.52 | $9.52
0360 | Level I Alimentary Tests | X | 1.38 | $68.44 | $34.75 | $13.69
0361 | Level II Alimentary Tests | X | 3.53 | $175.07 | $88.09 | $35.01
0362 | Fitting of Vision Aids | X | 0.51 | $25.30 | $9.63 | $5.06
0363 | Otorhinolaryngologic Function Tests | X | 2.83 | $140.36 | $53.22 | $28.07
0364 | Level I Audiometry | X | 0.68 | $33.72 | $13.31 | $6.74
0365 | Level II Audiometry | X | 1.47 | $72.91 | $22.48 | $14.58
0367 | Level I Pulmonary Test | X | 0.83 | $41.16 | $20.65 | $8.23
0368 | Level II Pulmonary Tests | X | 1.66 | $82.33 | $42.44 | $16.47
0369 | Level III Pulmonary Tests | X | 2.34 | $116.06 | $58.50 | $23.21
0370 | Allergy Tests | X | 0.57 | $28.27 | $11.81 | $5.65
0371 | Allergy Injections | X | 0.32 | $15.87 | $3.67 | $3.17
0372 | Therapeutic Phlebotomy | X | 0.43 | $21.33 | $10.09 | $4.27
0373 | Neuropsychological Testing | X | 3.21 | $159.20 | $44.96 | $31.84
0374 | Monitoring Psychiatric Drugs | X | 1.17 | $58.03 | $13.08 | $11.61
0600 | Low Level Clinic Visits | V | 0.98 | $48.61 | $9.72 | $9.72
0601 | Mid Level Clinic Visits | V | 1.00 | $49.60 | $9.92 | $9.92
0602 | High Level Clinic Visits | V | 1.66 | $82.33 | $16.47 | $16.47
0610 | Low Level Emergency Visits | V | 1.34 | $66.46 | $20.65 | $13.29
0611 | Mid Level Emergency Visits | V | 2.11 | $104.65 | $36.47 | $20.93
0612 | High Level Emergency Visits | V | 3.19 | $158.21 | $54.14 | $31.64
0620 | Critical Care | S | 8.60 | $426.53 | $152.78 | $85.31
0701 | SR 89 chloride, per mCi | G |  | $783.75 |  | $95.62
0702 | SM 153 lexidronam, 50 mCi | G |  | $942.09 |  | $134.87
0704 | IN 111 Satumomab pendetide per dose | G |  | $712.50 |  | $86.93
0705 | TC 99M tetrofosmin, per dose | G |  | $136.80 |  | $16.69
0725 | Leucovorin calcium inj, 50 mg | G |  | $49.73 |  | $6.66
0726 | Dexrazoxane hcl injection, 250 mg | G |  | $161.11 |  | $21.59
0727 | Etidronate disodium inj 300 mg | G |  | $63.65 |  | $8.53
0728 | Filgrastim 300 mcg injection | G |  | $171.38 |  | $22.96
0730 | Pamidronate disodium, 30 mg | G |  | $232.51 |  | $31.16
0731 | Sargramostim injection 50 mcg | G |  | $27.42 |  | $3.67
0732 | Mesna injection 200 mg | G |  | $36.51 |  | $4.89
0733 | Non esrd epoetin alpha inj, 1000 u | G |  | $11.40 |  | $1.53
0750 | Dolasetron mesylate, 10 mg | G |  | $14.81 |  | $1.98
0754 | Metoclopramide hcl injection up to 10 mg | G |  | $2.00 |  | $0.27
0755 | Thiethylperazine maleate inj up to 10 mg | G |  | $5.02 |  | $0.67
0761 | Unspecified oral anti-emetic | G |  | $0.60 |  | $0.08
0762 | Dronabinol 2.5mg oral | G |  | $3.20 |  | $0.48
0763 | Dolasetron mesylate oral, 100 mg | G |  | $65.21 |  | $8.74
0764 | Granisetron hcl injection 100 mcg | G |  | $1.85 |  | $0.25
0765 | Granisetron hcl 1 mg oral | G |  | $44.70 |  | $5.99
0768 | Ondansetron hcl injection 1 mg | G |  | $6.09 |  | $0.82
0769 | Ondansetron hcl 8mg oral | G |  | $25.15 |  | $3.37
0800 | Leuprolide acetate, 3.75 mg | G |  | $492.71 |  | $63.27
0801 | Cyclophosphamide oral 25 mg | G |  | $2.12 |  | $0.28
0802 | Etoposide oral 50 mg | G |  | $45.95 |  | $6.16
0803 | Melphalan oral 2 mg | G |  | $2.07 |  | $0.28
0807 | Aldesleukin/single use vial | G |  | $569.76 |  | $76.35
0809 | Bcg live intravesical vac | G |  | $159.39 |  | $19.45
0810 | Goserelin acetate implant 3.6 mg | G |  | $446.49 |  | $59.83
0811 | Carboplatin injection 50 mg | G |  | $98.90 |  | $13.25
0812 | Carmus bischl nitro inj 100 mg | G |  | $103.27 |  | $13.84
0813 | Cisplatin 10 mg injection | G |  | $42.18 |  | $5.65
0814 | Asparaginase injection 10,000 u | G |  | $57.41 |  | $7.69
0815 | Cyclophosphamide 100 mg inj | G |  | $6.13 |  | $0.82
0816 | Cyclophosphamide lyophilized 100 mg | G |  | $6.13 |  | $0.82
0817 | Cytarabine hcl 100 mg inj | G |  | $5.94 |  | $0.80
0818 | Dactinomycin 0.5 mg | G |  | $12.73 |  | $1.71
0819 | Dacarbazine 10 mg inj | G |  | $1.13 |  | $0.15
0820 | Daunorubicin 10 mg | G |  | $80.04 |  | $10.73
0821 | Daunorubicin citrate liposom 10 mg | G |  | $64.60 |  | $8.66
0822 | Diethylstilbestrol injection 250 mg | G |  | $4.20 |  | $0.56
0823 | Docetaxel, 20 mg | G |  | $283.65 |  | $38.01
0824 | Etoposide 10 mg inj | G |  | $4.06 |  | $0.54
0826 | Methotrexate Oral 2.5 mg | G |  | $2.92 |  | $0.39
0827 | Floxuridine injection 500 mg | G |  | $129.56 |  | $17.36
0828 | Gemcitabine HCL 200 mg | G |  | $88.46 |  | $11.85
0830 | Irinotecan injection 20 mg | G |  | $117.81 |  | $15.79
0831 | Ifosfomide injection 1 gm | G |  | $141.50 |  | $18.96
0832 | Idarubicin hcl injection 5 mg | G |  | $341.38 |  | $45.75
0833 | Interferon alfacon-1, 1 mcg | G |  | $3.91 |  | $0.52
0834 | Interferon alfa-2a inj recombinant 3 million u | G |  | $33.22 |  | $4.45
0836 | Interferon alfa-2b inj recombinant, 1 million | G |  | $11.28 |  | $1.51
0838 | Interferon gamma 1-b inj, 3 million u | G |  | $199.50 |  | $26.73
0839 | Mechlorethamine hcl inj 10 mg | G |  | $11.01 |  | $1.48
0840 | Melphalan hydrochl 50 mg | G |  | $363.48 |  | $48.71
0841 | Methotrexate sodium inj 5 mg | G |  | $0.45 |  | $0.06
0842 | Fludarabine phosphate inj 50 mg | G |  | $237.03 |  | $31.76
0843 | Pegaspargase, singl dose vial | G |  | $1,321.65 |  | $177.10
0844 | Pentostatin injection, 10 mg | G |  | $1,562.75 |  | $209.41
0847 | Doxorubicin hcl 10 mg vl chemo | G |  | $15.79 |  | $2.12
0849 | Rituximab, 100 mg | G |  | $420.29 |  | $56.32
0850 | Streptozocin injection, 1 gm | G |  | $65.79 |  | $8.82
0851 | Thiotepa injection, 15 mg | G |  | $100.30 |  | $13.44
0852 | Topotecan, 4 mg | G |  | $573.75 |  | $76.88
0853 | Vinblastine sulfate inj, 1 mg | G |  | $4.11 |  | $0.55
0854 | Vincristine sulfate 1 mg inj | G |  | $30.16 |  | $4.04
0855 | Vinorelbine tartrate, 10 mg | G |  | $75.51 |  | $10.12
0856 | Porfimer sodium, 75 mg | G |  | $2,603.67 |  | $348.89
0857 | Bleomycin sulfate injection 15 u | G |  | $294.48 |  | $39.46
0858 | Cladribine, 1mg | G |  | $53.47 |  | $7.16
0859 | Fluorouracil injection 500 mg | G |  | $2.75 |  | $0.37
0860 | Plicamycin (mithramycin) inj 2.5 mg | G |  | $93.80 |  | $12.57
0861 | Leuprolide acetate injection 1 mg | G |  | $22.90 |  | $3.07
0862 | Mitomycin 5 mg inj | G |  | $121.65 |  | $16.30
0863 | Paclitaxel injection, 30 mg | G |  | $173.50 |  | $23.25
0864 | Mitoxantrone hcl, 5 mg | G |  | $223.02 |  | $29.88
0865 | Interferon alfa-n3 inj, human leukocyte derived, 250,000 iu | G |  | $7.86 |  | $1.05
0884 | Rho d immune globulin inj, 1 dose pkg | G |  | $35.91 |  | $4.38
0886 | Azathioprine oral 50mg | G |  | $1.24 |  | $0.17
0887 | Azathioprine parenteral 100 mg | G |  | $67.88 |  | $9.10
0888 | Cyclosporine oral 100 mg | G |  | $5.80 |  | $0.78
0889 | Cyclosporin parenteral 250mg | G |  | $15.81 |  | $2.12
0890 | Lymphocyte immune globulin 250 mg | G |  | $249.13 |  | $30.39
0891 | Tacrolimus oral per 1 mg | G |  | $2.66 |  | $0.36
0900 | Alglucerase injection, per 10 u | G |  | $37.53 |  | $5.03
0901 | Alpha 1 proteinase inhibitor, 10 mg | G |  | $2.09 |  | $0.28
0902 | Botulinum toxin a, per unit | G |  | $4.39 |  | $0.59
0903 | Cytomegalovirus imm IV, vial | G |  | $370.50 |  | $49.65
0905 | Immune globulin 500 mg | G |  | $27.28 |  | $3.33
0906 | RSV-ivig, 50 mg | G |  | $427.73 |  | $57.32
0907 | Ganciclovir Sodium 500 mg injection | K | 0.45 | $22.26 |  | $4.45
0908 | Tetanus immune globulin inj up to 250 u | G |  | $102.60 |  | $13.75
0909 | Interferon beta-1a, 33 mcg | G |  | $204.73 |  | $27.43
0910 | Interferon beta-1b, .25 mg | G |  | $57.00 |  | $7.64
0911 | Streptokinase per 250,000 iu | K | 1.76 | $87.25 |  | $17.45
0913 | Ganciclovir long act implant 4.5 mg | G |  | $4,750.00 |  | $636.50
0914 | Reteplase, per 37.6mg | G |  | $2,612.50 |  | $350.08
0915 | Alteplase inj rec, per 10 mg | K | 3.80 | $188.46 |  | $37.69
0916 | Imiglucerase, unit | G |  | $3.75 |  | $0.50
0917 | Pharmacologic stressors | K | 0.36 | $17.86 |  | $3.57
0918 | Brachytherapy Seeds, Any type, Each | H |  |  |  |
0925 | Factor viii per iu | G |  | $0.88 |  | $0.12
0926 | Factor VIII (porcine) per iu | G |  | $2.09 |  | $0.28
0927 | Factor viii recombinant per iu | G |  | $1.17 |  | $0.16
0928 | Factor ix complex per iu | G |  | $.71 |  | $0.10
0929 | Anti-inhibitor per iu | G |  | $1.43 |  | $0.19
0930 | Antithrombin iii injection per iu | G |  | $.82 |  | $0.11
0931 | Factor IX non-recombinant, per iu | G |  | $0.72 |  | $0.10
0932 | Factor IX recombinant, per iu | G |  | $1.12 |  | $0.10
0949 | Plasma, Pooled Multiple Donor, Solvent/Detergent Treated, Frozen | K | 2.94 | $145.76 |  | $29.15
0950 | Blood (Whole) For Transfusion | K | 2.08 | $103.33 |  | $20.67
0952 | Cryoprecipitate | K | 0.70 | $34.70 |  | $6.94
0953 | Fibrinogen Unit | K | 0.48 | $23.80 |  | $4.76
0954 | RBC Leukocytes Reduced | K | 2.83 | $140.35 |  | $28.07
0955 | Plasma, Fresh Frozen | K | 2.26 | $111.85 |  | $22.37
0956 | Plasma Protein Fraction | K | 1.26 | $62.49 |  | $12.50
0957 | Platelet Concentrate | K | 0.98 | $48.55 |  | $9.71
0958 | Platelet Rich Plasma | K | 1.16 | $57.54 |  | $11.51
0959 | Red Blood Cells | K | 2.04 | $101.31 |  | $20.26
0960 | Washed Red Blood Cells | K | 3.81 | $188.75 |  | $37.75
0961 | Infusion, Albumin (Human) 5%, 500 ml | K | 2.77 | $137.38 |  | $27.48
0962 | Infusion, Albumin (Human) 25%, 50 ml | K | 1.38 | $68.44 |  | $13.69
0970 | New Technology— I ($0-$50) | T | 0.52 | $25.79 |  | $5.16
0971 | New Technology— II ($50-$100) | S | 1.55 | $76.88 |  | $15.38
0972 | New Technology— III ($100-$200) | T | 3.09 | $153.26 |  | $30.65
0973 | New Technology— IV ($200-$300) | T | 5.16 | $255.91 |  | $51.18
0974 | New Technology— V ($300-$500) | S | 8.25 | $409.17 |  | $81.83
0975 | New Technology— VI ($500-$750) | T | 12.90 | $639.79 |  | $127.96
0976 | New Technology— VII ($750-$1000) | S | 18.05 | $895.21 |  | $179.04
0977 | New Technology— VIII ($1000-$1250) | T | 23.20 | $1,150.63 |  | $230.13
0978 | New Technology— IX ($1250-$1500) | T | 28.36 | $1,406.54 |  | $281.31
0979 | New Technology— X ($1500-$1750) | T | 33.51 | $1,661.96 |  | $332.39
0980 | New Technology— XI ($1750-$2000) | T | 38.67 | $1,917.89 |  | $383.58
0981 | New Technology— XII ($2000-$2500) | S | 46.40 | $2,301.26 |  | $460.25
0982 | New Technology— XIII ($2500-$3500) | T | 61.87 | $3,068.50 |  | $613.70
0983 | New Technology— XIV ($3500-$5000) | T | 87.65 | $4,347.09 |  | $869.42
0984 | New Technology— XV ($5000-$6000) | T | 113.43 | $5,625.67 |  | $1,125.13
0987 | New Device Technology— I ($0-$250) | X |  | $127.86 |  | $25.57
0988 | New Device Technology— II ($250-$500) | X |  | $383.58 |  | $76.72
0989 | New Device Technology— III ($500-$750) | X |  | $639.30 |  | $127.86
0990 | New Device Technology— IV ($750-$1000) | X |  | $895.01 |  | $179.00
0991 | New Device Technology— V ($1000-$1500) | X |  | $1,278.59 |  | $255.72
0992 | New Device Technology— VI ($1500-$2000) | X |  | $1,790.03 |  | $358.01
0993 | New Device Technology— VII ($2000-$3000) | X |  | $2,557.18 |  | $511.44
0994 | New Device Technology— VIII ($3000-$4000) | X |  | $3,580.05 |  | $716.01
0995 | New Device Technology— IX ($4000-$5000) | X |  | $4,602.92 |  | $920.58
0996 | New Device Technology— X ($5000-$7000) | X |  | $6,137.23 |  | $1,227.45
0997 | New Device Technology— XI ($7000-$9000) | X |  | $8,182.98 |  | $1,636.60
1000 | Perclose Closer Prostar Arterial Vascular Closure | H |  |  |  |
1001 | AcuNav-diagnstic ultrsnd ca | H |  |  |  |
1002 | Cochlear Implant System | H |  |  |  |
1003 | Cath, ablation, Livewire TC | H |  |  |  |
1004 | Fast-Cath,Swartz,SAFL,CSTA | H |  |  |  |
1006 | ARRAY post chamb IOL | H |  |  |  |
1007 | Ams 700 penile prosthesis | H |  |  |  |
1008 | Urolume-implt urethral stent | H |  |  |  |
1009 | Plasma, cryoprecipitate-reduced, unit | K | 0.86 | $42.76 |  | $8.55
1010 | Blood, L/R, CMV-neg | K | 2.88 | $142.84 |  | $28.57
1011 | Platelets, L/R, CMV-neg, unit | K | 11.86 | $588.15 |  | $117.63
1012 | Platelet concentrate, L/R, irradiated, unit | K | 1.92 | $95.23 |  | $19.05
1013 | Platelet concentrate, L/R, unit | K | 1.18 | $58.30 |  | $11.66
1014 | Platelets, aph/pher, L/R, unit | K | 8.93 | $443.11 |  | $88.62
1016 | Blood, L/R, froz/deglycerol/washed | K | 7.15 | $354.68 |  | $70.94
1017 | Platelets, aph/pher, L/R, CMV-neg, unit | K | 9.33 | $462.54 |  | $92.51
1018 | Blood, L/R, irradiated | K | 3.13 | $155.48 |  | $31.10
1019 | Platelets, aph/pher, L/R, irradiated, unit | K | 9.64 | $478.09 |  | $95.62
1024 | Quinupristin 150 mg/dalfopriston 350 mg | J |  | $102.05 |  | $13.67
1025 | Marinr CS catheter | H |  |  |  |
1026 | RF Perfrmr cath 5F RF Marinr | H |  |  |  |
1027 | Magic x/short, Radius14mm | H |  |  |  |
1028 | Prcis Twst trnsvg anch sys | H |  |  |  |
1029 | CRE guided balloon dil cath | H |  |  |  |
1030 | Cthtr:Mrshal,Blu Max Utr Dmnd | H |  |  |  |
1033 | Sonicath mdl 37-410 | H |  |  |  |
1034 | SURPASS, Long30 SURPASS-cath | H |  |  |  |
1035 | Cath, Ultra ICE | H |  |  |  |
1036 | R port/reservoir impl dev | H |  |  |  |
1037 | Vaxcelchronic dialysis cath | H |  |  |  |
1038 | UltraCross Imaging Cath | H |  |  |  |
1039 | Wallstent/RP: Trach | H |  |  |  |
1040 | Wallstent/RP TIPS—20/40/60 | H |  |  |  |
1042 | Wallstent, UltraFlex: Bil | H |  |  |  |
1043 | Atherectomy sys, coronary | H |  |  |  |
1045 | I-131 MIBG (ioben-sulfate) O.5mCi | G |  | $1,140.00 |  | $139.08
1047 | Navi-Star, Noga-Star cath | H |  |  |  |
1048 | NeuroCyberneticPros: gen | H |  |  |  |
1051 | Oasis Thrombectomy Cath | H |  |  |  |
1053 | EnSite 3000 catheter | H |  |  |  |
1054 | Hydrolyser Thromb Cath 6/7F | H |  |  |  |
1055 | Transesoph 210, 210-S Cath | H |  |  |  |
1056 | Thermachoice II Cath | H |  |  |  |
1057 | Micromark Tissue Marker | H |  |  |  |
1059 | Carticel,auto cult-chndr cyte | G |  | $14,250.00 |  | $2,010.00
1060 | ACS multi-link tristor stent | H |  |  |  |
1061 | ACS Viking Guiding cath | H |  |  |  |
1063 | EndoTak Endurance EZ, RX leads | H |  |  |  |
1067 | Megalink biliary stent | H |  |  |  |
1068 | Pulsar DDD pmkr | H |  |  |  |
1069 | Discovery DR, pmaker | H |  |  |  |
1071 | Pulsar Max, Pulsar SR pmkr | H |  |  |  |
1072 | Guidant: blln dil cath | H |  |  |  |
1073 | Gynecare Morcellator | H |  |  |  |
1074 | RX/OTW Viatrac-peri dil cath | H |  |  |  |
1075 | Guidant: lead | H |  |  |  |
1076 | Ventak mini sc defib | H |  |  |  |
1077 | Ventak VR Prizm VR, sc defib | H |  |  |  |
1078 | Ventak: Prizm, AVIIIDR defib | H |  |  |  |
1079 | CO 57/58 0.5 mCi | G |  | $264.10 |  | $32.22
1084 | Denileukin diftitox, 300 mcg | G |  | $942.88 |  | $126.35
1086 | Temozolomide, 5 mg | G |  | $5.70 |  | $0.76
1087 | I-123 per uCi capsule | G |  | $0.84 |  | $0.10
1089 | CO 57, 0.5 mCi | G |  | $91.20 |  | $11.13
1090 | IN 111 Chloride, per mCi | G |  | $152.00 |  | $18.54
1091 | IN 111 Oxyquinoline, per 5 mCi | G |  | $508.25 |  | $62.01
1092 | IN 111 Pentetate, per 1.5 mCi | G |  | $769.50 |  | $93.88
1094 | TC 99M Albumin aggr, per vial | J |  | $34.20 |  | $4.17
1095 | TC 99M Depreotide, per vial | G |  | $760.00 |  | $101.84
1096 | TC 99M Exametazime, per dose | G |  | $445.31 |  | $63.75
1097 | TC 99M Mebrofenin, per vial | G |  | $46.76 |  | $5.71
1098 | TC 99M Pentetate, per vial | G |  | $22.80 |  | $2.78
1099 | TC 99M Pyrophosphate, per vial | J |  | $42.75 |  | $5.22
1100 | Medtronic AVE GT1 guidewire | H |  |  |  |
1101 | Medtronic AVE, AVE Z2 cath | H |  |  |  |
1102 | Synergy Neurostim Genrtr | H |  |  |  |
1103 | Micro Jewel Defibrillator | H |  |  |  |
1104 | RF Conductor Ablative Cath | H |  |  |  |
1105 | Sigma 300VDD pacmker | H |  |  |  |
1106 | SynergyEZ Pt Progrmr | H |  |  |  |
1107 | Torqr, Solist cath | H |  |  |  |
1108 | Reveal Cardiac Recorder | H |  |  |  |
1109 | Implantable anchor: Ethicon | H |  |  |  |
1110 | Stable Mapper, cath electrd | H |  |  |  |
1111 | AneuRxAort-Uni-Ilicstnt&cath | H |  |  |  |
1112 | AneuRx Stent graft/del.cath | H |  |  |  |
1113 | Tlnt Endo Sprng Stnt Grft Sys | H |  |  |  |
1114 | TalntSprgStnt+Graf endo pros | H |  |  |  |
1115 | 5038S,5038,5038L pace lead | H |  |  |  |
1116 | CapSureSP pacing Lead | H |  |  |  |
1117 | Ancure Endograft Del Sys | H |  |  |  |
1118 | Sigma300DR LegIIDR,pacemkr | H |  |  |  |
1119 | Sprint6932,6943 defib lead | H |  |  |  |
1120 | Sprint6942,6945 defib lead | H |  |  |  |
1121 | Gem defibrillator | H |  |  |  |
1122 | TC 99M arcitumomab per dose | G |  | $926.25 |  | $124.12
1123 | Gem II VR defibrillator | H |  |  |  |
1124 | InterStim Test Stim Kit | H |  |  |  |
1125 | Kappa 400SR,Ttopaz II SR pmkr | H |  |  |  |
1126 | Kappa 700 DR pacemakr | H |  |  |  |
1127 | Kappa 700SR,pmkr sgl chamber | H |  |  |  |
1128 | Kappa 700D,Ruby IID pmkr | H |  |  |  |
1129 | Kappa 700VDD,pacmkr | H |  |  |  |
1130 | Sigma 200D,LGCY IID sc pmkr | H |  |  |  |
1131 | Sigma 200DR, pmker | H |  |  |  |
1132 | Sigma 200SR Leg II:sc pac | H |  |  |  |
1133 | Sigma SR, Vita SR, pmaker | H |  |  |  |
1134 | Sigma 300D pmker | H |  |  |  |
1135 | Entity DR 5326L/R, DC, pmkr | H |  |  |  |
1136 | Affinity DR 5330L/R, DC, pmkr | H |  |  |  |
1137 | CardioSEAL implant syst | H |  |  |  |
1143 | AddVent mod 2060BL,VDD | H |  |  |  |
1144 | Afnty SP 5130,Integrity SR,pmkr | H |  |  |  |
1145 | Angio-Seal 6fr, 8fr | H |  |  |  |
1147 | AV Plus DX 1368: lead | H |  |  |  |
1148 | Contour MD sc defib | H |  |  |  |
1149 | Entity DC 5226R-pmker | H |  |  |  |
1151 | Passiveplus DX lead, 10mdls | H |  |  |  |
1152 | LifeSite Access System | H |  |  |  |
1153 | Regency SC+ 2402L pmker | H |  |  |  |
1154 | SPL:SPOI,02,04− defib lead | H |  |  |  |
1155 | Repliform 8 sq cm | H |  |  |  |
1156 | Tr 1102TrSR+ 2260L,2264L,5131 | H |  |  |  |
1157 | Trilogy DCT 23/8L pmkr | H |  |  |  |
1158 | TVL lead SV01,SV02,SV04 | H |  |  |  |
1159 | TVL RV02,RV06,RV07: lead | H |  |  |  |
1160 | TVL-ADX 1559: lead | H |  |  |  |
1161 | Tendril DX, 1388 pacing lead | H |  |  |  |
1162 | TempoDr, TrilogyDR+DC pmkr | H |  |  |  |
1163 | Tendril SDX, 1488T pacing lead | H |  |  |  |
1164 | Iodine-125 brachytx seed | H |  |  |  |
1166 | Cytarabine liposomal, 10 mg | G |  | $371.45 |  | $49.77
1167 | Epirubicin hcl, 2 mg | J |  | $24.94 |  | $3.34
1171 | Autosuture site marker stple | H |  |  |  |
1172 | Spacemaker dissect ballon | H |  |  |  |
1173 | Cor stntS540,S670,o-wire stn | H |  |  |  |
1174 | Bard brachytx needle | H |  |  |  |
1178 | Busulfan IV, 6 mg | G |  | $26.48 |  | $3.55
1180 | Vigor SR, SC, pmkr | H |  |  |  |
1181 | Meridian SSI, SC, pmkr | H |  |  |  |
1182 | Pulsar SSI, SC, pmkr | H |  |  |  |
1183 | Jade IIS, Sigma 300S,SC, pmkr | H |  |  |  |
1184 | Sigma 200S, SC, pmkr | H |  |  |  |
1188 | I 131, per mCi | G |  | $5.86 |  | $0.75
1200 | TC 99M Sodium Glucoheptonate, per vial | G |  | $113.05 |  | $13.79
1201 | TC 99M succimer, per vial | G |  | $135.66 |  | $16.55
1202 | TC 99M Sulfur Colloid, per dose | G |  | $38.00 |  | $4.64
1203 | Verteporfin for Injection | G |  | $1,458.25 |  | $195.41
1205 | TC 99M Disofenin, per vial | G |  | $427.50 |  | $57.29
1207 | Octreotide acetate depot 1mg | G |  | $135.10 |  | $16.48
1302 | SQ01: lead | H |  |  |  |
1303 | CapSure Fix 6940/4068-110, lead | H |  |  |  |
1304 | Sonicath mdl 37-416,-418 | H |  |  |  |
1305 | Apligraf | G |  | $1,157.81 |  | $163.31
1306 | NeuroCyberneticPros: lead | H |  |  |  |
1311 | Trilogy DR+/DAO pmkr | H |  |  |  |
1312 | Magic WALLSTENT stent-Mini | H |  |  |  |
1313 | Magic medium, Radius 31mm | H |  |  |  |
1314 | Magic WALLSTENT stent-Long | H |  |  |  |
1315 | Vigor DR, Meridian DR pmkr | H |  |  |  |
1316 | Meridian DDD pmkr | H |  |  |  |
1317 | Discovery SR, pmkr | H |  |  |  |
1318 | Meridian SR pmakr | H |  |  |  |
1319 | Wallstent/RP Enteral--60mm | H |  |  |  |
1320 | Wallstent/RP Iliac Del Sys | H |  |  |  |
1325 | Pallidium −103 seed | H |  |  |  |
1326 | Angio-jet rheolytic thromb cath | H |  |  |  |
1328 | ANS Renew NS trnsmtr | H |  |  |  |
1333 | PALMZA Corinthian bill stent | H |  |  |  |
1334 | Crown,Mini-crown,CrossLC | H |  |  |  |
1335 | Mesh, Prolene | H |  |  |  |
1336 | Constant Flow Imp Pump | H |  |  |  |
1337 | IsoMed 8472-20/35/60 | H |  |  |  |
1348 | I 131 per mCi solution | G |  | $146.57 |  | $17.88
1350 | Prosta/OncoSeed, RAPID strand, I-125 | H |  |  |  |
1351 | CapSure(Fix)pacing lead | H |  |  |  |
1352 | Gem II defib | H |  |  |  |
1353 | Itrel Interstm neurostim+ext | H |  |  |  |
1354 | Kappa 400DR,Diamond II 820DR | H |  |  |  |
1355 | Kappa 600DR, Vita DR | H |  |  |  |
1356 | Profile MD V-186HV3 sc defib | H |  |  |  |
1357 | Angstrom MD V-190HV3 sc defib | H |  |  |  |
1358 | Affinity DC 5230R-Pacemaker | H |  |  |  |
1359 | Pulsar,Pulsar Max DR,pmkr | H |  |  |  |
1363 | Gem DR, DC, defib | H |  |  |  |
1364 | Photon DR V-230HV3 DC defib | H |  |  |  |
1365 | Guidewire, Hi-Torque14/18/35 | H |  |  |  |
1366 | Guidewire,PTCA, Hi-Torque | H |  |  |  |
1367 | Guidewire, Hi-Torque CrossIt | H |  |  |  |
1369 | ANS Renew Stim Sys recvr | H |  |  |  |
1370 | Tension-Free Vaginal Tape | H |  |  |  |
1371 | Symp Nitinol Transhep Bil Sys | H |  |  |  |
1372 | Cordis Nitinol bil stent | H |  |  |  |
1375 | Stent, coronary, NIR | H |  |  |  |
1376 | ANS Renew Stim Sys lead | H |  |  |  |
1377 | Specify 3988 neuro lead | H |  |  |  |
1378 | InterStim Tx 3080/3886 lead | H |  |  |  |
1379 | Pisces-Quad 3887 lead | H |  |  |  |
1400 | Diphenhydramine hcl 50mg | G |  | $1.18 |  | $.16
1401 | Prochlorperazine maleate 5mg | G |  | $1.31 |  | $.18
1402 | Promethazine hcl 12.5mg oral | G |  | $.03 |  | $.00
1403 | Chlorpromazine hcl 10mg oral | G |  | $.55 |  | $.07
1404 | Trimethobenzamide hcl 250mg | G |  | $.36 |  | $.05
1405 | Thiethylperazine maleate10mg | G |  | $.69 |  | $.09
1406 | Perphenazine 4mg oral | G |  | $.71 |  | $.10
1407 | Hydroxyzine pamoate 25mg | G |  | $.20 |  | $.03
1409 | Factor viia recombinant, per 1.2 mg | G |  | $1,596.00 |  | $213.86
1410 | Prosorba column | H |  |  |  |
1411 | Herculink,OTW SDS bil stent | H |  |  |  |
1420 | StapleTac2 Bone w/Dermis | H |  |  |  |
1421 | StapleTac2 Bone wo Dermis | H |  |  |  |
1450 | Orthosphere Arthroplasty | H |  |  |  |
1451 | Orthosphere Arthroplasty Kit | H |  |  |  |
1500 | Atherectomy sys, peripheral | H |  |  |  |
1600 | TC 99M sestamibi, per syringe | G |  | $109.25 |  | $13.33
1601 | TC 99M medronate, per dose | G |  | $38.38 |  | $4.68
1602 | TC 99M apcitide, per vial | G |  | $47.50 |  | $5.80
1603 | TL 201, mCi | G |  | $28.50 |  | $3.48
1604 | IN 111 capromab pendetide, per dose | G |  | $1,008.90 |  | $135.19
1605 | Abciximab injection, 10 mg | G |  | $513.02 |  | $68.74
1606 | Anistreplase, 30 u | G |  | $2,693.80 |  | $360.97
1607 | Eptifibatide injection, 5 mg | G |  | $12.57 |  | $1.68
1608 | Etanercept injection, 25 mg | G |  | $134.42 |  | $18.01
1609 | Rho(D) immune globulin h, sd, 100 iu | G |  | $20.55 |  | $2.51
1611 | Hylan G-F 20 injection, 16 mg | G |  | $204.87 |  | $27.45
1612 | Daclizumab, parenteral, 25 mg | G |  | $397.29 |  | $53.24
1613 | Trastuzumab, 10 mg | G |  | $48.85 |  | $6.55
1614 | Valrubicin, 200 mg | G |  | $423.23 |  | $56.71
1615 | Basiliximab, 20 mg | G |  | $1,250.01 |  | $167.50
1616 | Histrelin Acetate, 0.5 mg | G |  | $14.91 |  | $2.00
1617 | Lepirdin, 50 mg | G |  | $124.49 |  | $16.68
1618 | Von Willebrand factor, per iu | G |  | $.95 |  | $.13
1619 | Ga 67, per mCi | G |  | $25.97 |  | $3.17
1620 | TC 99M Bicisate, per vial | G |  | $417.53 |  | $55.95
1621 | Xe 133, per mCi | G |  | $28.50 |  | $3.66
1622 | TC 99M Mertiatide, per vial | G |  | $185.82 |  | $24.90
1623 | TC 99M Gluceptate | G |  | $22.61 |  | $2.76
1624 | P32 sodium, per mCi | G |  | $74.10 |  | $9.04
1625 | IN 111 Pentetreotide, per mCi | G |  | $283.42 |  | $37.98
1626 | TC 99M Oxidronate, per vial | G |  | $38.38 |  | $4.68
1627 | TC-99 labeled red blood cell, per test | G |  | $38.95 |  | $4.75
1628 | P32 phosphate chromic, per mCi | G |  | $137.12 |  | $16.73
1700 | Authen Mick TP brachy needle | H |  |  |  |
1701 | Medtec MT-BT-5201-25 ndl | H |  |  |  |
1702 | WWMT brachytx needle | H |  |  |  |
1703 | Mentor Prostate Brachy | H |  |  |  |
1704 | MT-BT-5001-25/5051-25 | H |  |  |  |
1705 | Best Flexi Brachy Needle | H |  |  |  |
1706 | Indigo Prostate Seeding Ndl | H |  |  |  |
1707 | Varisource Implt Ndl | H |  |  |  |
1708 | UroMed Prostate Seed Ndl | H |  |  |  |
1709 | Remington Brachytx Needle | H |  |  |  |
1710 | US Biopsy Prostate Needle | H |  |  |  |
1711 | MD Tech brachytx needle | H |  |  |  |
1712 | Imagyn brachytx needle | H |  |  |  |
1790 | Iridium 192 HDR | H |  |  |  |
1791 | OncoSeed, Rapid Strand I-125 | H |  |  |  |
1792 | UroMed I-125 Brachy seed | H |  |  |  |
1793 | Bard InterSource P-103 seed | H |  |  |  |
1794 | Bard IsoSeed P-103 seed | H |  |  |  |
1795 | Bard BrachySource I-125 | H |  |  |  |
1796 | SourceTech Med I-125 | H |  |  |  |
1797 | Draximage I-125 seed | H |  |  |  |
1798 | Syncor I-125 PharmaSeed | H |  |  |  |
1799 | I-Plant I-125 Brachytx seed | H |  |  |  |
1800 | Pd-103 brachytx seed | H |  |  |  |
1801 | IoGold I-125 brachytx seed | H |  |  |  |
1802 | Iridium 192 brachytx seeds | H |  |  |  |
1803 | Best Iodine 125 brachytx sds | H |  |  |  |
1804 | Best Palladium 103 seeds | H |  |  |  |
1805 | IsoStar Iodine-125 seeds | H |  |  |  |
1806 | Gold 198 | H |  |  |  |
1810 | D114S Dilatation Cath | H |  |  |  |
1811 | Surgical Dynamics Anchors | H |  |  |  |
1812 | OBL Anchors | H |  |  |  |
1850 | Repliform 14/21 sq cm | H |  |  |  |
1851 | Repliform 24/28 sq cm | H |  |  |  |
1852 | TransCyte, per 247 sq cm | H |  |  |  |
1853 | Suspend, per 8/14 sq cm | H |  |  |  |
1854 | Suspend, per 24/28 sq cm | H |  |  |  |
1855 | Suspend, per 36 sq cm | H |  |  |  |
1856 | Suspend, per 48 sq cm | H |  |  |  |
1857 | Suspend, per 84 sq cm | H |  |  |  |
1858 | DuraDerm, per 8/14 sq cm | H |  |  |  |
1859 | DuraDerm, per 21/24/28 sq cm | H |  |  |  |
1860 | DuraDerm, per 48 sq cm | H |  |  |  |
1861 | DuraDerm, per 36 sq cm | H |  |  |  |
1862 | DuraDerm, per 72 sq cm | H |  |  |  |
1863 | DuraDerm, per 84 sq cm | H |  |  |  |
1864 | SpermaTex, per 13.44 sq cm | H |  |  |  |
1865 | FasLata, per 8/14 sq cm | H |  |  |  |
1866 | FasLata, per 24/28 sq cm | H |  |  |  |
1867 | FasLata, per 36/48 sq cm | H |  |  |  |
1868 | FasLata, per 96 sq cm | H |  |  |  |
1869 | Gore Thyroplasty Dev | H |  |  |  |
1870 | DermMatrix, per 16 sq cm | H |  |  |  |
1871 | DermMatrix, 32 or 64 sq cm | H |  |  |  |
1872 | Dermagraft, per 37.5 sq cm | H |  |  |  |
1873 | Bard 3DMax Mesh | H |  |  |  |
1929 | Maverick PTCA Cath | H |  |  |  |
1930 | Coyote Dil Cath, 20/30/40mm | H |  |  |  |
1931 | Talon Dil Cath | H |  |  |  |
1932 | Scimed Remedy Dil Cath | H |  |  |  |
1933 | Opti-Plast XL/Centurion Cath | H |  |  |  |
1934 | Ultraverse 3.5F Bal Dil Cath | H |  |  |  |
1935 | Workhorse PTA Bal Cath | H |  |  |  |
1936 | Uromax Ultra Bal Dil Cath | H |  |  |  |
1937 | Synergy Balloon Dil Cath | H |  |  |  |
1938 | UroForce Bal Dil Cath | H |  |  |  |
1939 | Raptur, Ninja PTCA Dil Cath | H |  |  |  |
1940 | PowerFlex,OPTA 5/LP Bal Cath | H |  |  |  |
1941 | Jupiter PTA Dil Cath | H |  |  |  |
1942 | Cordis Maxi LD PTA Bal Cath | H |  |  |  |
1943 | RXCrossSail OTW OpenSail | H |  |  |  |
1944 | Rapid Exchange Bil Dil Cath | H |  |  |  |
1945 | Savvy PTA Dil Cath | H |  |  |  |
1946 | R1s Rapid Dil Cath | H |  |  |  |
1947 | Gazelle Bal Dil Cath | H |  |  |  |
1948 | Pursuit Balloon Cath | H |  |  |  |
1949 | Oracle Megasonics Cath | H |  |  |  |
1979 | Visions PV/Avanar US Cath | H |  |  |  |
1980 | Atlantis SR Coronary Cath | H |  |  |  |
1981 | PTCA Catheters | H |  |  |  |
2000 | Orbiter ST Steerable Cath | H |  |  |  |
2001 | Constellation Diag Cath | H |  |  |  |
2002 | Irvine 5F Inquiry Diag EP Cath | H |  |  |  |
2003 | Irvine 6F Inquiry Diag EP Cath | H |  |  |  |
2004 | Biosense EP Cath—Octapolar | H |  |  |  |
2005 | Biosense EP Cath—Hexapolar | H |  |  |  |
2006 | Biosense EP Cath—Decapolar | H |  |  |  |
2007 | Irvine 6F Luma-Cath EP Cath | H |  |  |  |
2008 | 7F Luma-Cath EP Cath 81910-15 | H |  |  |  |
2009 | Irvine 7F Luma-Cath EP Cath | H |  |  |  |
2010 | Fixed Curve EP Cath | H |  |  |  |
2011 | Deflectable Tip Cath—Quad | H |  |  |  |
2012 | Celsius Abln Cath | H |  |  |  |
2013 | Celsius Large Abln Cath | H |  |  |  |
2014 | Celsius II Asym Abln Cath | H |  |  |  |
2015 | Celsius II Sym Abln Cath | H |  |  |  |
2016 | Navi-Star DS, Navi-Star Ther | H |  |  |  |
2017 | Navi-Star Abln Cath | H |  |  |  |
2018 | Polaris T Ablation Cath | H |  |  |  |
2019 | EP Deflectable Cath | H |  |  |  |
2020 | Blazer II XP Abln Cath | H |  |  |  |
2021 | SilverFlex EP Cath | H |  |  |  |
2022 | CP Chilli Cooled Abln Cath | H |  |  |  |
2023 | Chilli Cld AblnCath-std, lg | H |  |  |  |
2100 | CP CS Reference Cath | H |  |  |  |
2101 | CP RV Reference Cath | H |  |  |  |
2102 | CP Radii 7F EP Cath | H |  |  |  |
2103 | CP Radii 7F EP Cath w/Track | H |  |  |  |
2104 | Lasso Deflectable Cath | H |  |  |  |
2151 | Veripath Guiding Cath | H |  |  |  |
2152 | Cordis Vista Brite Tip Cath | H |  |  |  |
2153 | Bard Viking Cath | H |  |  |  |
2200 | Arrow-Trerotola PTD Cath | H |  |  |  |
2300 | Varisource Stnd Catheters | H |  |  |  |
2597 | CliniCath/kit 16/18 sgl/dbl | H |  |  |  |
2598 | CliniCath 18/20/24G-single | H |  |  |  |
2599 | CliniCath 16/18G-double | H |  |  |  |
2601 | Bard DL Ureteral Cath | H |  |  |  |
2602 | Vitesse Laser Cath 1.4/1.7mm | H |  |  |  |
2603 | Vitesse Laser Cath 2.0mm | H |  |  |  |
2604 | Vitesse E Laser Cath 2.0mm | H |  |  |  |
2605 | Extreme Laser Catheter | H |  |  |  |
2606 | SpineCath XL Catheter | H |  |  |  |
2607 | SpineCath Intradiscal Cath | H |  |  |  |
2608 | Scimed 6F Wiseguide Cath | H |  |  |  |
2609 | Flexima Bil Drainage Cath | H |  |  |  |
2610 | FlexTipPlus Intraspinal Cath | H |  |  |  |
2611 | AlgoLine Intraspinal Cath | H |  |  |  |
2612 | InDura Catheter | H |  |  |  |
2700 | MycroPhylax Plus SC defib | H |  |  |  |
2701 | Phylax XM SC defib | H |  |  |  |
2702 | Ventak Prizm 2 VR Defib | H |  |  |  |
2703 | Ventak Prizm VR HE Defib | H |  |  |  |
2704 | Ventak Mini IV+ Defib | H |  |  |  |
2801 | Defender IV DR 612 DC defib | H |  |  |  |
2802 | Phylax AV DC defib | H |  |  |  |
2803 | Ventak Prizm DR HE Defib | H |  |  |  |
2804 | Ventak Prizm 2 DR Defib | H |  |  |  |
2805 | Jewel AF 7250 Defib | H |  |  |  |
2806 | GEM VR 7227 Defib | H |  |  |  |
2807 | Contak CD 1823 | H |  |  |  |
2808 | Contak TR 1241 | H |  |  |  |
3002 | EasyTrak Defib Lead | H |  |  |  |
3001 | Kainox SL/RV defib lead | H |  |  |  |
3003 | Endotak SQ Array XP lead | H |  |  |  |
3004 | Intervene Defib Lead | H |  |  |  |
3400 | Siltex Spectrum, Contour Prof | H |  |  |  |
3401 | Saline-Filled Spectrum | H |  |  |  |
3500 | Mentor Alpha I Inf Penile Pros | H |  |  |  |
3510 | AMS 800 Urinary Pros | H |  |  |  |
3551 | Choice/PT Graphix/Luge/Trooper | H |  |  |  |
3552 | Hi-Torque Whisper | H |  |  |  |
3553 | Cordis guidewires | H |  |  |  |
3554 | Jindo guidewire | H |  |  |  |
3555 | Wholey Hi-Torque Plus GW | H |  |  |  |
3556 | Wave/FlowWire Guidewire | H |  |  |  |
3557 | HyTek guidewire | H |  |  |  |
3800 | SynchroMed EL infusion pump | H |  |  |  |
3801 | Arrow/MicroJect PCA Sys | H |  |  |  |
3851 | Elastic UV IOL AA-4203T/TF/TL | H |  |  |  |
4000 | Opus G 4621, 4624 SC pmkr | H |  |  |  |
4001 | Opus S 4121/4124 SC pmkr | H |  |  |  |
4002 | Talent 113 SC pmkr | H |  |  |  |
4003 | Kairos SR SC pmkr | H |  |  |  |
4004 | Actros SR, Actros SLR SC pmkr | H |  |  |  |
4005 | Philos SR/SR-B SC pmkr | H |  |  |  |
4006 | Pulsar Max II SR pmkr | H |  |  |  |
4007 | Marathon SR pmkr | H |  |  |  |
4008 | Discovery II SSI pmkr | H |  |  |  |
4009 | Discovery II SR pmkr | H |  |  |  |
4300 | Integrity AFx DR 5342 pmkr | H |  |  |  |
4301 | Integrity AFx DR 5346 pmkr | H |  |  |  |
4302 | Affinity VDR 5430 pmkr | H |  |  |  |
4303 | Brio 112 DC pmkr | H |  |  |  |
4304 | Brio 212, Talent 213/223 DC pmkr | H |  |  |  |
4305 | Brio 222 DC pmkr | H |  |  |  |
4306 | Brio 220 DC pmkr | H |  |  |  |
4307 | Kairos DR DC pmkr | H |  |  |  |
4308 | Inos2, Inos2+ DC pmkr | H |  |  |  |
4309 | Actros DR,D,DR-A,SLR DC pmkr | H |  |  |  |
4310 | Actros DR-B DC pmkr | H |  |  |  |
4311 | Philos DR/DR-B/SLR DC pmkr | H |  |  |  |
4312 | Pulsar Max II DR pmkr | H |  |  |  |
4313 | Marathon DR pmkr | H |  |  |  |
4314 | Momentum DR pmkr | H |  |  |  |
4315 | Selection AFm pmkr | H |  |  |  |
4316 | Discovery II DR | H |  |  |  |
4317 | Discovery II DDD | H |  |  |  |
4600 | Snynox,Polyrox,Elox,Retrox | H |  |  |  |
4602 | Tendril SDX, 1488K pmkr lead | H |  |  |  |
4603 | Oscor/Flexion pmkr lead | H |  |  |  |
4604 | CrystallineActFix,CapsureFix | H |  |  |  |
4605 | CapSure Epi pmkr lead | H |  |  |  |
4606 | Flextend pmkr lead | H |  |  |  |
4607 | FinelineII/EZ, ThinlineII/EZ | H |  |  |  |
5000 | BX Velocity w/Hepacoat | H |  |  |  |
5001 | Memotherm Bil Stent, sm, med | H |  |  |  |
5002 | Memotherm Bil Stent, large | H |  |  |  |
5003 | Memotherm Bil Stent, x-large | H |  |  |  |
5004 | PalmazCorinthian IQ Bil Stent | H |  |  |  |
5005 | PalmazCorinthian IQ Trans/Bil | H |  |  |  |
5006 | PalmazTrans Bil Stent Sys-Med | H |  |  |  |
5007 | PalmazTrans XL Bil Stent--40mm | H |  |  |  |
5008 | PalmazTrans XL Bil Stent--50mm | H |  |  |  |
5009 | VistaFlex Biliary Stent | H |  |  |  |
5010 | Rapid Exchange Bil Stent Sys | H |  |  |  |
5011 | IntraStent, IntraStent LP | H |  |  |  |
5012 | IntraStent DoubleStrut LD | H |  |  |  |
5013 | IntraStent DoubleStrut, XS | H |  |  |  |
5014 | AVE Bridge Stent Sys-10/17/28 | H |  |  |  |
5015 | AVE/X3 Bridge Sys, 40-100 | H |  |  |  |
5016 | Biliary stent single use cov | H |  |  |  |
5017 | WallstentRP Bil--20/40/60/68mm | H |  |  |  |
5018 | WallstentRP Bil--80/94mm | H |  |  |  |
5019 | Flexima Bil Stent Sys | H |  |  |  |
5020 | Smart Nitinol Stent--20mm | H |  |  |  |
5021 | Smart Nitinol Stent--40/60mm | H |  |  |  |
5022 | Smart Nitinol Stent--80mm | H |  |  |  |
5023 | BX Velocity Stent--8/13mm | H |  |  |  |
5024 | BX Velocity Stent--18mm | H |  |  |  |
5025 | BX Velocity Stent--23mm | H |  |  |  |
5026 | BX Velocity Stent--28/33mm | H |  |  |  |
5027 | BX Velocity w/Hep--8/13mm | H |  |  |  |
5028 | BX Velocity w/Hep--18mm | H |  |  |  |
5029 | BX Velocity w/Hep--23mm | H |  |  |  |
5030 | Stent, coronary, S660 9/12mm | H |  |  |  |
5031 | Stent,coronary, S660 15/18mm | H |  |  |  |
5032 | Stent,coronary, S660 24/30mm | H |  |  |  |
5033 | Niroyal Stent Sys, 9mm | H |  |  |  |
5034 | Niroyal Stent Sys, 12/15mm | H |  |  |  |
5035 | Niroyal Stent Sys, 18mm | H |  |  |  |
5036 | Niroyal Stent Sys, 25mm | H |  |  |  |
5037 | Niroyal Stent Sys, 31mm | H |  |  |  |
5038 | BX Velocity Stent w/Raptor | H |  |  |  |
5039 | IntraCoil Periph Stent--40mm | H |  |  |  |
5040 | IntraCoil Periph Stent--60mm | H |  |  |  |
5041 | BeStent Over-the-Wire 24/30mm | H |  |  |  |
5042 | BeStent Over-the-Wire 18mm | H |  |  |  |
5043 | BeStent Over-the-Wire 15mm | H |  |  |  |
5044 | BeStent Over-the-Wire 9/12mm | H |  |  |  |
5045 | Multilink Tetra Cor Stent Sys | H |  |  |  |
5046 | Radius 20mm cor stent | H |  |  |  |
5047 | Niroyal Elite Cor Stent Sys | H |  |  |  |
5048 | GR II Coronary Stent | H |  |  |  |
5130 | Wilson-Cook Colonic Z-Stent | H |  |  |  |
5131 | Bard Colorectal Stent-60mm | H |  |  |  |
5132 | Bard Colorectal Stent-80mm | H |  |  |  |
5133 | Bard Colorectal Stent-100mm | H |  |  |  |
5134 | Enteral Wallstent—90mm | H |  |  |  |
5279 | Contour/Percuflex Stent | H |  |  |  |
5280 | Inlay Dbl Ureteral Stent | H |  |  |  |
5281 | Wallgraft Trach Sys 70mm | H |  |  |  |
5282 | Wallgraft Trach Sys 20/30/50 | H |  |  |  |
5283 | Wallstent/RP TIPS—80mm | H |  |  |  |
5284 | Wallstent TrachUltraFlex | H |  |  |  |
5600 | Closure dev, VasoSeal ES | H |  |  |  |
5601 | VasoSeal Model 1000 | H |  |  |  |
6001 | Composix Mesh 8/21 in | H |  |  |  |
6002 | Composix Mesh 32 in | H |  |  |  |
6003 | Composix Mesh 48 in | H |  |  |  |
6004 | Composix Mesh 80 in | H |  |  |  |
6005 | Composix Mesh 140 in | H |  |  |  |
6006 | Composix Mesh 144 in | H |  |  |  |
6012 | Pelvicol Collagen 8/14 sq cm | H |  |  |  |
6013 | Pelvicol Collagen 21/24/28 sq cm | H |  |  |  |
6014 | Pelvicol Collagen 36 sq cm | H |  |  |  |
6015 | Pelvicol Collagen 48 sq cm | H |  |  |  |
6016 | Pelvicol Collagen 96 sq cm | H |  |  |  |
6017 | Gore-Tex DualMesh 75/96 sq cm | H |  |  |  |
6018 | Gore-Tex DualMesh 150 sq cm | H |  |  |  |
6019 | Gore-Tex DualMesh 285 sq cm | H |  |  |  |
6020 | Gore-Tex DualMesh 432 sq cm | H |  |  |  |
6021 | Gore-Tex DualMesh 600 sq cm | H |  |  |  |
6022 | Gore-Tex DualMesh 884 sq cm | H |  |  |  |
6023 | Gore-TexPlus 1mm, 75/96sq cm | H |  |  |  |
6024 | Gore-TexPlus 1mm, 150sq cm | H |  |  |  |
6025 | Gore-TexPlus 1mm, 285sq cm | H |  |  |  |
6026 | Gore-TexPlus 1mm, 432sq cm | H |  |  |  |
6027 | Gore-TexPlus 1mm, 600sq cm | H |  |  |  |
6028 | Gore-TexPlus 1mm, 884 sq cm | H |  |  |  |
6029 | Gore-TexPlus 2mm, 150 sq cm | H |  |  |  |
6030 | Gore-TexPlus 2mm, 285 sq cm | H |  |  |  |
6031 | Gore-TexPlus 2mm, 432 sq cm | H |  |  |  |
6032 | Gore-TexPlus 2mm, 600 sq cm | H |  |  |  |
6033 | Gore-TexPlus 2mm, 884 sq cm | H |  |  |  |
6034 | Bard ePTFE: 150 sq cm--2mm | H |  |  |  |
6035 | Bard ePTFE 150 sqcm-1mm,75-2mm | H |  |  |  |
6036 | Bard ePTFE: 50/75 sqcm-1,2mm | H |  |  |  |
6037 | Bard ePTFE: 300 sq cm-1,2mm | H |  |  |  |
6038 | Bard ePTFE: 600 sq cm-1mm | H |  |  |  |
6039 | Bard ePTFE: 884 sq cm-1mm | H |  |  |  |
6040 | Bard ePTFE: 600 sq cm-2mm | H |  |  |  |
6041 | Bard ePTFE: 884 sq cm-2mm | H |  |  |  |
6050 | Female Sling Sys w/wo Matrl | H |  |  |  |
6051 | Stratasis Sling, 20/40 cm | H |  |  |  |
6052 | Stratasis Sling, 60 cm | H |  |  |  |
6053 | Surgisis Soft Graft | H |  |  |  |
6054 | Surgisis Enhanced Graft | H |  |  |  |
6055 | Surgisis Enhanced Tissue | H |  |  |  |
6056 | Surgisis Soft Tissue Graft | H |  |  |  |
6057 | Surgisis Hernia Graft | H |  |  |  |
6058 | SurgiPro Hernia Plug, med/lg | H |  |  |  |
6080 | Male Sling Sys w/wo Matrl | H |  |  |  |
6200 | Exxcel Sft ePTFE vas graft | H |  |  |  |
6201 | Impra Venaflo--10/20cm | H |  |  |  |
6202 | Impra Venaflo-30/40cm | H |  |  |  |
6203 | Impra Venaflo-50cm,vt45 | H |  |  |  |
6204 | Impra Venaflo-stepped | H |  |  |  |
6205 | Impra Carboflo—10cm | H |  |  |  |
6206 | Impra Carboflo—20cm | H |  |  |  |
6207 | Impra Carboflo—30/35/40cm | H |  |  |  |
6208 | Impra Carboflo—40/50cm | H |  |  |  |
6209 | Impra Carboflo—ctrflex | H |  |  |  |
6210 | Exxcel ePTFE vas graft | H |  |  |  |
6300 | Vanguard III Endovas Graft | H |  |  |  |
6500 | Preface Guiding Sheath | H |  |  |  |
6501 | Soft Tip Sheaths | H |  |  |  |
6502 | Perry Exchange Dilator | H |  |  |  |
6525 | Spectranetics Laser Sheath | H |  |  |  |
6600 | Micro Litho Flex Probes | H |  |  |  |
6650 | Fast-Cath Guiding Introducer | H |  |  |  |
6651 | Seal-AwayGuiding Introducer | H |  |  |  |
6652 | Bard Excalibur Introducer | H |  |  |  |
6700 | Focal Seal-L | H |  |  |  |
7000 | Amifostine, 500 mg | G |  | $350.31 |  | $46.94
7001 | Amphotericin B lipid complex, 50 mg | G |  | $95.00 |  | $12.73
7003 | Epoprostenol injection 0.5 mg | G |  | $16.53 |  | $2.22
7004 | Immune globulin 5 gms | G |  | $272.80 |  | $33.28
7005 | Gonadorelin hydroch, 100 mcg | G |  | $14.80 |  | $1.98
7007 | Milrinone lactate, per 5 ml, inj | K | 0.47 | $23.31 |  | $4.66
7010 | Morphine sulfate (preservative free) 10 mg | G |  | $7.41 |  | $.99
7011 | Oprelvekin injection, 5 mg | G |  | $236.31 |  | $31.67
7014 | Fentanyl citrate inj up 2 ml | G |  | $0.98 |  | $0.13
7015 | Busulfan, oral, 2 mg | G |  | $1.73 |  | $0.23
7019 | Aprotinin, 10,000 kiu | G |  | $196.35 |  | $26.31
7022 | Elliot's B solution, per ml | G |  | $14.25 |  | $1.91
7023 | Treatment for bladder calculi, per 500 ml | G |  | $23.54 |  | $3.15
7024 | Corticorelin ovine triflutate, per 0.1 mg | G |  | $353.88 |  | $45.77
7025 | Digoxin immune FAB (Ovine), 40 mg vial | G |  | $530.44 |  | $64.71
7026 | Ethanolamine oleate, 100 mg | G |  | $27.21 |  | $3.65
7027 | Fomepizole, 1.5 mg | G |  | $728.33 |  | $97.60
7028 | Fosphenytoin, 50 mg | G |  | $8.55 |  | $1.15
7029 | Glatiramer acetate, 20 mg | G |  | $27.40 |  | $3.67
7030 | Hemin, 1 mg | G |  | $0.90 |  | $0.12
7031 | Octreotide acetate injection 1mg | G |  | $115.34 |  | $15.46
7032 | Sermorelin acetate, 0.5 mg | G |  | $15.78 |  | $2.11
7033 | Somatrem, 5 mg | G |  | $199.50 |  | $26.73
7034 | Somatropin, 1 mg (any derivation) | G |  | $39.90 |  | $5.35
7035 | Teniposide, 50 mg | G |  | $195.28 |  | $26.17
7036 | Urokinase, inj, IV, 250,000 I.U. | K | 6.78 | $336.29 |  | $67.26
7037 | Urofollitropin, 75 I.U. | G |  | $69.73 |  | $9.34
7038 | Muromonab-CD3, 5 mg | G |  | $741.00 |  | $99.29
7039 | Pegademase bovine inj 25 I.U | G |  | $139.33 |  | $18.67
7040 | Pentastarch 10% inj, 100 ml | G |  | $15.11 |  | $2.04
7041 | Tirofiban hydrochloride 12.5 mg | G |  | $399.00 |  | $53.47
7042 | Capecitabine, oral, 150 mg | G |  | $1.94 |  | $0.26
7043 | Infliximab injection 10 mg | G |  | $58.08 |  | $7.78
7045 | Trimetrexate glucoronate 25 mg | G |  | $69.83 |  | $9.36
7046 | Doxorubicin hcl liposome inj 10 mg | G |  | $311.72 |  | $41.77
7047 | Droperidol/fentanyl inj | G |  | $7.02 |  | $0.90
7048 | Alteplase, 1 mg | K | 0.38 | $18.70 |  | $3.74
7049 | Filgrastim 480 mcg injection | G |  | $273.03 |  | $35.06
7315 | Sodium hyaluronate, 20 mg | G |  | $125.59 |  | $16.83
8099 | Spectranetics Lead Lock Dev | H |  |  |  |
8100 | Adhesion barrier, ADCON-L | H |  |  |  |
8102 | SurgiVision Esoph Coil | H |  |  |  |
9000 | Na chromate Cr51, per 0.25mCi | G |  | $259.36 |  | $34.75
9001 | Linezolid inj, 200mg | J |  | $34.14 |  | $4.57
9002 | Tenecteplase, 50mg/vial | J |  | $2,612.50 |  | $350.08
9003 | Palivizumab, per 50mg | J |  | $664.49 |  | $89.04
9004 | Gemtuzumab ozogamicin inj,5mg | J |  | $1,929.69 |  | $258.58
9005 | Reteplase inj, half-kit, 18.8 mg/vial | G |  | $1,306.25 |  | $175.04
9006 | Tacrolimus inj, per 5mg (1 amp) | J |  | $109.83 |  | $14.72
9007 | Baclofen Intrathecal kit-1amp | G |  | $79.80 |  | $10.69
9008 | Baclofen Refill Kit—500mcg | G |  | $222.30 |  | $29.79
9009 | Baclofen Refill Kit—2000mcg | G |  | $467.40 |  | $62.63
9010 | Baclofen Refill Kit—4000mcg | G |  | $820.80 |  | $109.99
9011 | Caffeine Citrate, inj, 1ml | G |  | $12.22 |  | $1.57
9100 | Iodinated I-131 Albumin | G |  | $246.05 |  | $30.02
9102 | 51 Na chromate, 50mCi | G |  | $216.60 |  | $26.43
9103 | Na Iothalamate I-125, 10uCi | G |  | $12.27 |  | $1.50
9104 | Anti-thymocyte globulin,25mg | G |  | $251.75 |  | $33.73
9105 | Hep B imm glob, per 1 ml | G |  | $152.00 |  | $20.37
9106 | Sirolimus 1mg/ml | J |  | $6.51 |  | $.87
9107 | Tinzaparin sodium, 2ml vial | J |  | $159.60 |  | $20.50
9108 | Thyrotropin Alfa,1.1 mg | G |  | $494.00 |  | $70.72
9109 | Tirofiban hydrochloride 6.25 mg | G |  | $199.50 |  | $28.56
9217 | Leuprolide acetate for depot suspension, 7.5 mg | G |  | $592.60 |  | $79.40
9500 | Platelets, irrad, ea unit | K | 1.77 | $87.97 |  | $17.59
9501 | Platelets, pheresis, ea unit | K | 9.69 | $480.75 |  | $96.15
9502 | Platelets, pher/irrad, ea unit | K | 10.52 | $521.66 |  | $104.33
9503 | Fresh frozen plasma, ea unit | K | 1.65 | $81.83 |  | $16.37
9504 | RBC, deglycerolized, ea unit | K | 4.35 | $215.83 |  | $43.17
9505 | RBC, irradiated, ea unit | K | 2.58 | $127.86 |  | $25.57
9998 | Enoxaparin | G |  | $5.53 |  | $0.79

——————————

CPT codes and descriptions only are copyright American Medical Association. All Rights Reserved. Applicable FARS/DFARS Apply.

Copyright American Dental Association. All rights reserved.

* Code is new in 2001.

Addendum B.—Hospital Outpatient Department (HOPD) Payment Status by HCPCS Code and Related Information
CPT/ HCPCS | HOPD Status Indicator | Description | APC | Relative Weight | Payment Rate | National Unadjusted Coinsurance | Minimum Unadjusted Coinsurance
00100 | N | Anesth, salivary gland |  |  |  |  |
00102 | N | Anesth, repair of cleft lip |  |  |  |  |
00103 | N | Anesth, blepharoplasty |  |  |  |  |
00104 | N | Anesth, electroshock |  |  |  |  |
00120 | N | Anesth, ear surgery |  |  |  |  |
00124 | N | Anesth, ear exam |  |  |  |  |
00126 | N | Anesth, tympanotomy |  |  |  |  |
00140 | N | Anesth, procedures on eye |  |  |  |  |
00142 | N | Anesth, lens surgery |  |  |  |  |
00144 | N | Anesth, corneal transplant |  |  |  |  |
00145 | N | Anesth, vitrectomy |  |  |  |  |
00147 | N | Anesth, iridectomy |  |  |  |  |
00148 | N | Anesth, eye exam |  |  |  |  |
00160 | N | Anesth, nose/sinus surgery |  |  |  |  |
00162 | N | Anesth, nose/sinus surgery |  |  |  |  |
00164 | N | Anesth, biopsy of nose |  |  |  |  |
00170 | N | Anesth, procedure on mouth |  |  |  |  |
00172 | N | Anesth, cleft palate repair |  |  |  |  |
00174 | N | Anesth, pharyngeal surgery |  |  |  |  |
00176 | N | Anesth, pharyngeal surgery |  |  |  |  |
00190 | N | Anesth, facial bone surgery |  |  |  |  |
00192 | N | Anesth, facial bone surgery |  |  |  |  |
00210 | N | Anesth, open head surgery |  |  |  |  |
00212 | N | Anesth, skull drainage |  |  |  |  |
00214 | N | Anesth, skull drainage |  |  |  |  |
00215 | N | Anesth, skull fracture |  |  |  |  |
00216 | N | Anesth, head vessel surgery |  |  |  |  |
00218 | N | Anesth, special head surgery |  |  |  |  |
00220 | N | Anesth, spinal fluid shunt |  |  |  |  |
00222 | N | Anesth, head nerve surgery |  |  |  |  |
00300 | N | Anesth, head/neck/ptrunk |  |  |  |  |
00320 | N | Anesth, neck organ surgery |  |  |  |  |
00322 | N | Anesth, biopsy of thyroid |  |  |  |  |
00350 | N | Anesth, neck vessel surgery |  |  |  |  |
00352 | N | Anesth, neck vessel surgery |  |  |  |  |
00400 | N | Anesth, skin, ext/per/atrunk |  |  |  |  |
00402 | N | Anesth, surgery of breast |  |  |  |  |
00404 | N | Anesth, surgery of breast |  |  |  |  |
00406 | N | Anesth, surgery of breast |  |  |  |  |
00410 | N | Anesth, correct heart rhythm |  |  |  |  |
00420 | N | Anesth, skin surgery, back |  |  |  |  |
00450 | N | Anesth, surgery of shoulder |  |  |  |  |
00452 | N | Anesth, surgery of shoulder |  |  |  |  |
00454 | N | Anesth, collar bone biopsy |  |  |  |  |
00470 | N | Anesth, removal of rib |  |  |  |  |
00472 | N | Anesth, chest wall repair |  |  |  |  |
00474 | N | Anesth, surgery of rib(s) |  |  |  |  |
00500 | N | Anesth, esophageal surgery |  |  |  |  |
00520 | N | Anesth, chest procedure |  |  |  |  |
00522 | N | Anesth, chest lining biopsy |  |  |  |  |
00524 | N | Anesth, chest drainage |  |  |  |  |
00528 | N | Anesth, chest partition view |  |  |  |  |
00530 | N | Anesth, pacemaker insertion |  |  |  |  |
00532 | N | Anesth, vascular access |  |  |  |  |
00534 | N | Anesth, cardioverter/defib |  |  |  |  |
*00537 | N | Anesth, cardiac electrophys |  |  |  |  |
00540 | N | Anesth, chest surgery |  |  |  |  |
00542 | N | Anesth, release of lung |  |  |  |  |
00544 | N | Anesth, chest lining removal |  |  |  |  |
00546 | N | Anesth, lung,chest wall surg |  |  |  |  |
00548 | N | Anesth, trachea,bronchi surg |  |  |  |  |
*00550 | N | Anesth, sternal debridement |  |  |  |  |
00560 | N | Anesth, open heart surgery |  |  |  |  |
00562 | N | Anesth, open heart surgery |  |  |  |  |
*00563 | N | Anesth, openproc w/pump |  |  |  |  |
*00566 | N | Anesth CABG w/o pump |  |  |  |  |
00580 | N | Anesth heart/lung transplant |  |  |  |  |
00600 | N | Anesth, spine, cord surgery |  |  |  |  |
00604 | N | Anesth, surgery of vertebra |  |  |  |  |
00620 | N | Anesth, spine, cord surgery |  |  |  |  |
00622 | N | Anesth, removal of nerves |  |  |  |  |
00630 | N | Anesth, spine, cord surgery |  |  |  |  |
00632 | N | Anesth, removal of nerves |  |  |  |  |
00634 | N | Anesth for chemonucleolysis |  |  |  |  |
*00635 | N | Anesth, lumbar puncture |  |  |  |  |
00670 | N | Anesth, spine, cord surgery |  |  |  |  |
00700 | N | Anesth, abdominal wall surg |  |  |  |  |
00702 | N | Anesth, for liver biopsy |  |  |  |  |
00730 | N | Anesth, abdominal wall surg |  |  |  |  |
00740 | N | Anesth, upper gi visualize |  |  |  |  |
00750 | N | Anesth, repair of hernia |  |  |  |  |
00752 | N | Anesth, repair of hernia |  |  |  |  |
00754 | N | Anesth, repair of hernia |  |  |  |  |
00756 | N | Anesth, repair of hernia |  |  |  |  |
00770 | N | Anesth, blood vessel repair |  |  |  |  |
00790 | N | Anesth, surg upper abdomen |  |  |  |  |
00792 | N | Anesth, part liver removal |  |  |  |  |
00794 | N | Anesth, pancreas removal |  |  |  |  |
00796 | N | Anesth, for liver transplant |  |  |  |  |
00800 | N | Anesth, abdominal wall surg |  |  |  |  |
00802 | N | Anesth, fat layer removal |  |  |  |  |
00810 | N | Anesth, low intestine scope |  |  |  |  |
00820 | N | Anesth, abdominal wall surg |  |  |  |  |
00830 | N | Anesth, repair of hernia |  |  |  |  |
00832 | N | Anesth, repair of hernia |  |  |  |  |
00840 | N | Anesth, surg lower abdomen |  |  |  |  |
00842 | N | Anesth, amniocentesis |  |  |  |  |
00844 | N | Anesth, pelvis surgery |  |  |  |  |
00846 | N | Anesth, hysterectomy |  |  |  |  |
00848 | N | Anesth, pelvic organ surg |  |  |  |  |
00850 | N | Anesth, cesarean section |  |  |  |  |
00855 | N | Anesth, hysterectomy |  |  |  |  |
00857 | N | Analgesia, labor & c-section |  |  |  |  |
00860 | N | Anesth, surgery of abdomen |  |  |  |  |
00862 | N | Anesth, kidney/ureter surg |  |  |  |  |
00864 | N | Anesth, removal of bladder |  |  |  |  |
00865 | N | Anesth, removal of prostate |  |  |  |  |
00866 | N | Anesth, removal of adrenal |  |  |  |  |
00868 | N | Anesth, kidney transplant |  |  |  |  |
00870 | N | Anesth, bladder stone surg |  |  |  |  |
00872 | N | Anesth kidney stone destruct |  |  |  |  |
00873 | N | Anesth kidney stone destruct |  |  |  |  |
00880 | N | Anesth, abdomen vessel surg |  |  |  |  |
00882 | N | Anesth, major vein ligation |  |  |  |  |
00884 | N | Anesth, major vein revision |  |  |  |  |
00900D | N | Anesth, perineal procedure |  |  |  |  |
00902 | N | Anesth, anorectal surgery |  |  |  |  |
00904 | N | Anesth, perineal surgery |  |  |  |  |
00906 | N | Anesth, removal of vulva |  |  |  |  |
00908 | N | Anesth, removal of prostate |  |  |  |  |
00910 | N | Anesth, bladder surgery |  |  |  |  |
00912 | N | Anesth, bladder tumor surg |  |  |  |  |
00914 | N | Anesth, removal of prostate |  |  |  |  |
00916 | N | Anesth, bleeding control |  |  |  |  |
00918 | N | Anesth, stone removal |  |  |  |  |
00920 | N | Anesth, genitalia surgery |  |  |  |  |
00922 | N | Anesth, sperm duct surgery |  |  |  |  |
27280 | C | Fusion of sacroiliac joint |  |  |  |  |
27282 | C | Fusion of pubic bones |  |  |  |  |
27284 | C | Fusion of hip joint |  |  |  |  |
27286 | C | Fusion of hip joint |  |  |  |  |
27290 | C | Amputation of leg at hip |  |  |  |  |
27295 | C | Amputation of leg at hip |  |  |  |  |
27299 | T | Pelvis/hip joint surgery | 0043 | 1.64 | $81.34 | $25.46 | $16.27
27301 | T | Drain thigh/knee lesion | 0008 | 6.15 | $305.02 | $113.67 | $61.00
27303 | C | Drainage of bone lesion |  |  |  |  |
27305 | T | Incise thigh tendon & fascia | 0049 | 15.04 | $745.93 | $356.95 | $149.19
27306 | T | Incision of thigh tendon | 0049 | 15.04 | $745.93 | $356.95 | $149.19
27307 | T | Incision of thigh tendons | 0049 | 15.04 | $745.93 | $356.95 | $149.19
27310 | T | Exploration of knee joint | 0050 | 21.13 | $1,047.96 | $513.86 | $209.59
27315 | T | Partial removal, thigh nerve | 0220 | 13.96 | $692.36 | $326.21 | $138.47
27320 | T | Partial removal, thigh nerve | 0220 | 13.96 | $692.36 | $326.21 | $138.47
27323 | T | Biopsy, thigh soft tissues | 0021 | 10.49 | $520.26 | $236.51 | $104.05
27324 | T | Biopsy, thigh soft tissues | 0022 | 12.49 | $619.45 | $292.94 | $123.89
27327 | T | Removal of thigh lesion | 0022 | 12.49 | $619.45 | $292.94 | $123.89
27328 | T | Removal of thigh lesion | 0022 | 12.49 | $619.45 | $292.94 | $123.89
27329 | T | Remove tumor, thigh/knee | 0022 | 12.49 | $619.45 | $292.94 | $123.89
27330 | T | Biopsy, knee joint lining | 0050 | 21.13 | $1,047.96 | $513.86 | $209.59
27331 | T | Explore/treat knee joint | 0050 | 21.13 | $1,047.96 | $513.86 | $209.59
27332 | T | Removal of knee cartilage | 0050 | 21.13 | $1,047.96 | $513.86 | $209.59
27333 | T | Removal of knee cartilage | 0050 | 21.13 | $1,047.96 | $513.86 | $209.59
27334 | T | Remove knee joint lining | 0050 | 21.13 | $1,047.96 | $513.86 | $209.59
27335 | T | Remove knee joint lining | 0050 | 21.13 | $1,047.96 | $513.86 | $209.59
27340 | T | Removal of kneecap bursa | 0049 | 15.04 | $745.93 | $356.95 | $149.19
27345 | T | Removal of knee cyst | 0049 | 15.04 | $745.93 | $356.95 | $149.19
27347 | T | Remove knee cyst | 0049 | 15.04 | $745.93 | $356.95 | $149.19
27350 | T | Removal of kneecap | 0050 | 21.13 | $1,047.96 | $513.86 | $209.59
27355 | T | Remove femur lesion | 0050 | 21.13 | $1,047.96 | $513.86 | $209.59
27356 | T | Remove femur lesion/graft | 0050 | 21.13 | $1,047.96 | $513.86 | $209.59
27357 | T | Remove femur lesion/graft | 0050 | 21.13 | $1,047.96 | $513.86 | $209.59
27358 | T | Remove femur lesion/fixation | 0050 | 21.13 | $1,047.96 | $513.86 | $209.59
27360 | T | Partial removal, leg bone(s) | 0050 | 21.13 | $1,047.96 | $513.86 | $209.59
27365 | C | Extensive leg surgery |  |  |  |  |
27370 | N | Injection for knee x-ray |  |  |  |  |
27372 | T | Removal of foreign body | 0022 | 12.49 | $619.45 | $292.94 | $123.89
27380 | T | Repair of kneecap tendon | 0049 | 15.04 | $745.93 | $356.95 | $149.19
27381 | T | Repair/graft kneecap tendon | 0049 | 15.04 | $745.93 | $356.95 | $149.19
27385 | T | Repair of thigh muscle | 0049 | 15.04 | $745.93 | $356.95 | $149.19
27386 | T | Repair/graft of thigh muscle | 0049 | 15.04 | $745.93 | $356.95 | $149.19
27390 | T | Incision of thigh tendon | 0049 | 15.04 | $745.93 | $356.95 | $149.19
27391 | T | Incision of thigh tendons | 0049 | 15.04 | $745.93 | $356.95 | $149.19
27392 | T | Incision of thigh tendons | 0049 | 15.04 | $745.93 | $356.95 | $149.19
27393 | T | Lengthening of thigh tendon | 0050 | 21.13 | $1,047.96 | $513.86 | $209.59
27394 | T | Lengthening of thigh tendons | 0050 | 21.13 | $1,047.96 | $513.86 | $209.59
27395 | T | Lengthening of thigh tendons | 0051 | 27.76 | $1,376.79 | $675.24 | $275.36
27396 | T | Transplant of thigh tendon | 0050 | 21.13 | $1,047.96 | $513.86 | $209.59
27397 | T | Transplants of thigh tendons | 0051 | 27.76 | $1,376.79 | $675.24 | $275.36
27400 | T | Revise thigh muscles/tendons | 0051 | 27.76 | $1,376.79 | $675.24 | $275.36
27403 | T | Repair of knee cartilage | 0050 | 21.13 | $1,047.96 | $513.86 | $209.59
27405 | T | Repair of knee ligament | 0051 | 27.76 | $1,376.79 | $675.24 | $275.36
27407 | T | Repair of knee ligament | 0051 | 27.76 | $1,376.79 | $675.24 | $275.36
27409 | T | Repair of knee ligaments | 0051 | 27.76 | $1,376.79 | $675.24 | $275.36
27418 | T | Repair degenerated kneecap | 0051 | 27.76 | $1,376.79 | $675.24 | $275.36
27420 | T | Revision of unstable kneecap | 0051 | 27.76 | $1,376.79 | $675.24 | $275.36
27422 | T | Revision of unstable kneecap | 0051 | 27.76 | $1,376.79 | $675.24 | $275.36
27424 | T | Revision/removal of kneecap | 0051 | 27.76 | $1,376.79 | $675.24 | $275.36
27425 | T | Lateral retinacular release | 0050 | 21.13 | $1,047.96 | $513.86 | $209.59
27427 | T | Reconstruction, knee | 0052 | 36.16 | $1,793.39 | $930.91 | $358.68
27428 | T | Reconstruction, knee | 0052 | 36.16 | $1,793.39 | $930.91 | $358.68
27429 | T | Reconstruction, knee | 0052 | 36.16 | $1,793.39 | $930.91 | $358.68
27430 | T | Revision of thigh muscles | 0051 | 27.76 | $1,376.79 | $675.24 | $275.36
27435 | T | Incision of knee joint | 0051 | 27.76 | $1,376.79 | $675.24 | $275.36
27437 | T | Revise kneecap | 0047 | 22.09 | $1,095.58 | $537.03 | $219.12
27438 | T | Revise kneecap with implant | 0048 | 29.06 | $1,441.26 | $725.94 | $288.25
27440 | T | Revision of knee joint | 0047 | 22.09 | $1,095.58 | $537.03 | $219.12
27441 | T | Revision of knee joint | 0047 | 22.09 | $1,095.58 | $537.03 | $219.12
27442 | T | Revision of knee joint | 0047 | 22.09 | $1,095.58 | $537.03 | $219.12
27443 | T | Revision of knee joint | 0047 | 22.09 | $1,095.58 | $537.03 | $219.12
27445 | C | Revision of knee joint |  |  |  |  |
27446 | C | Revision of knee joint |  |  |  |  |
27447 | C | Total knee replacement |  |  |  |  |
27448 | C | Incision of thigh |  |  |  |  |
27450 | C | Incision of thigh |  |  |  |  |
27454 | C | Realignment of thigh bone |  |  |  |  |
27455 | C | Realignment of knee |  |  |  |  |
27457 | C | Realignment of knee |  |  |  |  |
27465 | C | Shortening of thigh bone |  |  |  |  |
27466 | C | Lengthening of thigh bone |  |  |  |  |
27468 | C | Shorten/lengthen thighs |  |  |  |  |
27470 | C | Repair of thigh |  |  |  |  |
27472 | C | Repair/graft of thigh |  |  |  |  |
27475 | C | Surgery to stop leg growth |  |  |  |  |
27477 | C | Surgery to stop leg growth |  |  |  |  |
27479 | C | Surgery to stop leg growth |  |  |  |  |
27485 | C | Surgery to stop leg growth |  |  |  |  |
27486 | C | Revise/replace knee joint |  |  |  |  |
27487 | C | Revise/replace knee joint |  |  |  |  |
27488 | C | Removal of knee prosthesis |  |  |  |  |
27495 | C | Reinforce thigh |  |  |  |  |
27496 | T | Decompression of thigh/knee | 0049 | 15.04 | $745.93 | $356.95 | $149.19
27497 | T | Decompression of thigh/knee | 0049 | 15.04 | $745.93 | $356.95 | $149.19
27498 | T | Decompression of thigh/knee | 0049 | 15.04 | $745.93 | $356.95 | $149.19
27499 | T | Decompression of thigh/knee | 0049 | 15.04 | $745.93 | $356.95 | $149.19
27500 | T | Treatment of thigh fracture | 0044 | 2.17 | $107.63 | $38.08 | $21.53
27501 | T | Treatment of thigh fracture | 0044 | 2.17 | $107.63 | $38.08 | $21.53
27502 | T | Treatment of thigh fracture | 0044 | 2.17 | $107.63 | $38.08 | $21.53
27503 | T | Treatment of thigh fracture | 0044 | 2.17 | $107.63 | $38.08 | $21.53
27506 | C | Treatment of thigh fracture |  |  |  |  |
27507 | C | Treatment of thigh fracture |  |  |  |  |
27508 | T | Treatment of thigh fracture | 0044 | 2.17 | $107.63 | $38.08 | $21.53
27509 | T | Treatment of thigh fracture | 0046 | 22.29 | $1,105.50 | $535.76 | $221.10
27510 | T | Treatment of thigh fracture | 0044 | 2.17 | $107.63 | $38.08 | $21.53
27511 | C | Treatment of thigh fracture |  |  |  |  |
27513 | C | Treatment of thigh fracture |  |  |  |  |
27514 | C | Treatment of thigh fracture |  |  |  |  |
27516 | T | Treat thigh fx growth plate | 0044 | 2.17 | $107.63 | $38.08 | $21.53
27517 | T | Treat thigh fx growth plate | 0044 | 2.17 | $107.63 | $38.08 | $21.53
27519 | C | Treat thigh fx growth plate |  |  |  |  |
27520 | T | Treat kneecap fracture | 0044 | 2.17 | $107.63 | $38.08 | $21.53
27524 | T | Treat kneecap fracture | 0046 | 22.29 | $1,105.50 | $535.76 | $221.10
27530 | T | Treat knee fracture | 0044 | 2.17 | $107.63 | $38.08 | $21.53
27532 | T | Treat knee fracture | 0044 | 2.17 | $107.63 | $38.08 | $21.53
27535 | C | Treat knee fracture |  |  |  |  |
27536 | C | Treat knee fracture |  |  |  |  |
27538 | T | Treat knee fracture(s) | 0044 | 2.17 | $107.63 | $38.08 | $21.53
27540 | C | Treat knee fracture |  |  |  |  |
27550 | T | Treat knee dislocation | 0044 | 2.17 | $107.63 | $38.08 | $21.53
27552 | T | Treat knee dislocation | 0045 | 11.02 | $546.55 | $277.12 | $109.31
27556 | C | Treat knee dislocation |  |  |  |  |
27557 | C | Treat knee dislocation |  |  |  |  |
27558 | C | Treat knee dislocation |  |  |  |  |
27560 | T | Treat kneecap dislocation | 0044 | 2.17 | $107.63 | $38.08 | $21.53
27562 | T | Treat kneecap dislocation | 0045 | 11.02 | $546.55 | $277.12 | $109.31
27566 | T | Treat kneecap dislocation | 0046 | 22.29 | $1,105.50 | $535.76 | $221.10
27570 | T | Fixation of knee joint | 0045 | 11.02 | $546.55 | $277.12 | $109.31
27580 | C | Fusion of knee |  |  |  |  |
27590 | C | Amputate leg at thigh |  |  |  |  |
27591 | C | Amputate leg at thigh |  |  |  |  |
27592 | C | Amputate leg at thigh |  |  |  |  |
27594 | T | Amputation follow-up surgery | 0049 | 15.04 | $745.93 | $356.95 | $149.19
27596 | C | Amputation follow-up surgery |  |  |  |  |
27598 | C | Amputate lower leg at knee |  |  |  |  |
27599 | T | Leg surgery procedure | 0044 | 2.17 | $107.63 | $38.08 | $21.53
27600 | T | Decompression of lower leg | 0049 | 15.04 | $745.93 | $356.95 | $149.19
27601 | T | Decompression of lower leg | 0049 | 15.04 | $745.93 | $356.95 | $149.19
27602 | T | Decompression of lower leg | 0049 | 15.04 | $745.93 | $356.95 | $149.19
27603 | T | Drain lower leg lesion | 0008 | 6.15 | $305.02 | $113.67 | $61.00
27604 | T | Drain lower leg bursa | 0049 | 15.04 | $745.93 | $356.95 | $149.19
27605 | T | Incision of achilles tendon | 0055 | 15.47 | $767.26 | $355.34 | $153.45
00924 | N | Anesth, testis exploration |  |  |  |  |
00926 | N | Anesth, removal of testis |  |  |  |  |
00928 | N | Anesth, removal of testis |  |  |  |  |
00930 | N | Anesth, testis suspension |  |  |  |  |
00932 | N | Anesth, amputation of penis |  |  |  |  |
00934 | N | Anesth, penis, nodes removal |  |  |  |  |
00936 | N | Anesth, penis, nodes removal |  |  |  |  |
00938 | N | Anesth, insert penis device |  |  |  |  |
00940 | N | Anesth, vaginal procedures |  |  |  |  |
00942 | N | Anesth, surgery on vagina |  |  |  |  |
00944 | N | Anesth, vaginal hysterectomy |  |  |  |  |
00946 | N | Anesth, vaginal delivery |  |  |  |  |
00948 | N | Anesth, repair of cervix |  |  |  |  |
00950 | N | Anesth, vaginal endoscopy |  |  |  |  |
00952 | N | Anesth, hysteroscope/graph |  |  |  |  |
00955 | N | Analgesia, vaginal delivery |  |  |  |  |
01000 | N | Anesth, skin surgery, pelvis |  |  |  |  |
01110 | N | Anesth, skin surgery, pelvis |  |  |  |  |
*01112 | N | Anesth, bone aspirate/bx |  |  |  |  |
01120 | N | Anesth, pelvis surgery |  |  |  |  |
01130 | N | Anesth, body cast procedure |  |  |  |  |
01140 | N | Anesth, amputation at pelvis |  |  |  |  |
01150 | N | Anesth, pelvic tumor surgery |  |  |  |  |
01160 | N | Anesth, pelvis procedure |  |  |  |  |
01170 | N | Anesth, pelvis surgery |  |  |  |  |
01180 | N | Anesth, pelvis nerve removal |  |  |  |  |
01190 | N | Anesth, pelvis nerve removal |  |  |  |  |
01200 | N | Anesth, hip joint procedure |  |  |  |  |
01202 | N | Anesth, arthroscopy of hip |  |  |  |  |
01210 | N | Anesth, hip joint surgery |  |  |  |  |
01212 | N | Anesth, hip disarticulation |  |  |  |  |
01214 | N | Anesth, replacement of hip |  |  |  |  |
*01215 | N | Anesth, revise hip repair |  |  |  |  |
01220 | N | Anesth, procedure on femur |  |  |  |  |
01230 | N | Anesth, surgery of femur |  |  |  |  |
01232 | N | Anesth, amputation of femur |  |  |  |  |
01234 | N | Anesth, radical femur surg |  |  |  |  |
01240 | N | Anesth, upper leg skin surg |  |  |  |  |
01250 | N | Anesth, upper leg surgery |  |  |  |  |
01260 | N | Anesth, upper leg veins surg |  |  |  |  |
01270 | N | Anesth, thigh arteries surg |  |  |  |  |
01272 | N | Anesth, femoral artery surg |  |  |  |  |
01274 | N | Anesth, femoral embolectomy |  |  |  |  |
01300 | N | Anesth, skin surgery, knee |  |  |  |  |
01320 | N | Anesth, knee area surgery |  |  |  |  |
01340 | N | Anesth, knee area procedure |  |  |  |  |
01360 | N | Anesth, knee area surgery |  |  |  |  |
01380 | N | Anesth, knee joint procedure |  |  |  |  |
01382 | N | Anesth, knee arthroscopy |  |  |  |  |
01390 | N | Anesth, knee area procedure |  |  |  |  |
01392 | N | Anesth, knee area surgery |  |  |  |  |
01400 | N | Anesth, knee joint surgery |  |  |  |  |
01402 | N | Anesth, replacement of knee |  |  |  |  |
01404 | N | Anesth, amputation at knee |  |  |  |  |
01420 | N | Anesth, knee joint casting |  |  |  |  |
01430 | N | Anesth, knee veins surgery |  |  |  |  |
01432 | N | Anesth, knee vessel surg |  |  |  |  |
01440 | N | Anesth, knee arteries surg |  |  |  |  |
01442 | N | Anesth, knee artery surg |  |  |  |  |
01444 | N | Anesth, knee artery repair |  |  |  |  |
01460 | N | Anesth, lower leg skin surg |  |  |  |  |
01462 | N | Anesth, lower leg procedure |  |  |  |  |
01464 | N | Anesth, ankle arthroscopy |  |  |  |  |
01470 | N | Anesth, lower leg surgery |  |  |  |  |
01472 | N | Anesth, achilles tendon surg |  |  |  |  |
01474 | N | Anesth, lower leg surgery |  |  |  |  |
01480 | N | Anesth, lower leg bone surg |  |  |  |  |
01482 | N | Anesth, radical leg surgery |  |  |  |  |
01484 | N | Anesth, lower leg revision |  |  |  |  |
01486 | N | Anesth, ankle replacement |  |  |  |  |
01490 | N | Anesth, lower leg casting |  |  |  |  |
01500 | N | Anesth, leg arteries surg |  |  |  |  |
01502 | N | Anesth, lwr leg embolectomy |  |  |  |  |
01520 | N | Anesth, lower leg vein surg |  |  |  |  |
01522 | N | Anesth, lower leg vein surg |  |  |  |  |
01600 | N | Anesth, shoulder skin surg |  |  |  |  |
01610 | N | Anesth, surgery of shoulder |  |  |  |  |
01620 | N | Anesth, shoulder procedure |  |  |  |  |
01622 | N | Anesth, shoulder arthroscopy |  |  |  |  |
01630 | N | Anesth, surgery of shoulder |  |  |  |  |
01632 | N | Anesth, surgery of shoulder |  |  |  |  |
01634 | N | Anesth, shoulder joint amput |  |  |  |  |
01636 | N | Anesth, forequarter amput |  |  |  |  |
01638 | N | Anesth, shoulder replacement |  |  |  |  |
01650 | N | Anesth, shoulder artery surg |  |  |  |  |
01652 | N | Anesth, shoulder vessel surg |  |  |  |  |
01654 | N | Anesth, shoulder vessel surg |  |  |  |  |
01656 | N | Anesth, arm-leg vessel surg |  |  |  |  |
01670 | N | Anesth, shoulder vein surg |  |  |  |  |
01680 | N | Anesth, shoulder casting |  |  |  |  |
01682 | N | Anesth, airplane cast |  |  |  |  |
01700 | N | Anesth, elbow area skin surg |  |  |  |  |
01710 | N | Anesth, elbow area surgery |  |  |  |  |
01712 | N | Anesth, uppr arm tendon surg |  |  |  |  |
01714 | N | Anesth, uppr arm tendon surg |  |  |  |  |
01716 | N | Anesth, biceps tendon repair |  |  |  |  |
01730 | N | Anesth, uppr arm procedure |  |  |  |  |
01732 | N | Anesth, elbow arthroscopy |  |  |  |  |
01740 | N | Anesth, upper arm surgery |  |  |  |  |
01742 | N | Anesth, humerus surgery |  |  |  |  |
01744 | N | Anesth, humerus repair |  |  |  |  |
01756 | N | Anesth, radical humerus surg |  |  |  |  |
01758 | N | Anesth, humeral lesion surg |  |  |  |  |
01760 | N | Anesth, elbow replacement |  |  |  |  |
01770 | N | Anesth, uppr arm artery surg |  |  |  |  |
01772 | N | Anesth, uppr arm embolectomy |  |  |  |  |
01780 | N | Anesth, upper arm vein surg |  |  |  |  |
01782 | N | Anesth, uppr arm vein repair |  |  |  |  |
01784D | N | Anesth, av fistula repair |  |  |  |  |
01800 | N | Anesth, lower arm skin surg |  |  |  |  |
01810 | N | Anesth, lower arm surgery |  |  |  |  |
01820 | N | Anesth, lower arm procedure |  |  |  |  |
01830 | N | Anesth, lower arm surgery |  |  |  |  |
01832 | N | Anesth, wrist replacement |  |  |  |  |
01840 | N | Anesth, lwr arm artery surg |  |  |  |  |
01842 | N | Anesth, lwr arm embolectomy |  |  |  |  |
01844 | N | Anesth, vascular shunt surg |  |  |  |  |
01850 | N | Anesth, lower arm vein surg |  |  |  |  |
01852 | N | Anesth, lwr arm vein repair |  |  |  |  |
01860 | N | Anesth, lower arm casting |  |  |  |  |
01900 | N | Anesth, uterus/tube inject |  |  |  |  |
01902 | N | Anesth, burr holes, skull |  |  |  |  |
01904 | N | Anesth, skull x-ray inject |  |  |  |  |
01906 | N | Anesth, lumbar myelography |  |  |  |  |
01908 | N | Anesth, cervical myelography |  |  |  |  |
01910 | N | Anesth, skull myelography |  |  |  |  |
01912 | N | Anesth, lumbar diskography |  |  |  |  |
01914 | N | Anesth, cervical diskography |  |  |  |  |
01916 | N | Anesth, head arteriogram |  |  |  |  |
01918 | N | Anesth, limb arteriogram |  |  |  |  |
01920 | N | Anesth, catheterize heart |  |  |  |  |
01921 | N | Anesth, vessel surgery |  |  |  |  |
01922 | N | Anesth, cat or MRI scan |  |  |  |  |
*01951 | N | Anesth, burn, less 1 percent |  |  |  |  |
*01952 | N | Anesth, burn, 1-9 percent |  |  |  |  |
*01953 | N | Anesth, burn, each 9 percent |  |  |  |  |
01990 | N | Support for organ donor |  |  |  |  |
01995 | N | Regional anesthesia, limb |  |  |  |  |
01996 | N | Manage daily drug therapy |  |  |  |  |
01999 | N | Unlisted anesth procedure |  |  |  |  |
10040 | T | Acne surgery of skin abscess | 0006 | 2.00 | $99.19 | $33.95 | $19.84
10060 | T | Drainage of skin abscess | 0006 | 2.00 | $99.19 | $33.95 | $19.84
10061 | T | Drainage of skin abscess | 0006 | 2.00 | $99.19 | $33.95 | $19.84
10080 | T | Drainage of pilonidal cyst | 0006 | 2.00 | $99.19 | $33.95 | $19.84
10081 | T | Drainage of pilonidal cyst | 0007 | 3.68 | $182.51 | $72.03 | $36.50
10120 | T | Remove foreign body | 0006 | 2.00 | $99.19 | $33.95 | $19.84
10121 | T | Remove foreign body | 0020 | 6.51 | $322.87 | $130.53 | $64.57
10140 | T | Drainage of hematoma/fluid | 0007 | 3.68 | $182.51 | $72.03 | $36.50
10160 | T | Puncture drainage of lesion | 0006 | 2.00 | $99.19 | $33.95 | $19.84
10180 | T | Complex drainage, wound | 0007 | 3.68 | $182.51 | $72.03 | $36.50
11000 | T | Debride infected skin | 0015 | 1.77 | $87.78 | $31.20 | $17.56
11001 | T | Debride infected skin add-on | 0015 | 1.77 | $87.78 | $31.20 | $17.56
11010 | T | Debride skin, fx | 0022 | 12.49 | $619.45 | $292.94 | $123.89
11011 | T | Debride skin/muscle, fx | 0022 | 12.49 | $619.45 | $292.94 | $123.89
11012 | T | Debride skin/muscle/bone, fx | 0022 | 12.49 | $619.45 | $292.94 | $123.89
11040 | T | Debride skin, partial | 0015 | 1.77 | $87.78 | $31.20 | $17.56
11041 | T | Debride skin, full | 0015 | 1.77 | $87.78 | $31.20 | $17.56
11042 | T | Debride skin/tissue | 0016 | 3.53 | $175.07 | $74.67 | $35.01
11043 | T | Debride tissue/muscle | 0016 | 3.53 | $175.07 | $74.67 | $35.01
11044 | T | Debride tissue/muscle/bone | 0017 | 12.45 | $617.47 | $289.16 | $123.49
11055 | T | Trim skin lesion | 0015 | 1.77 | $87.78 | $31.20 | $17.56
11056 | T | Trim skin lesions, 2 to 4 | 0015 | 1.77 | $87.78 | $31.20 | $17.56
11057 | T | Trim skin lesions, over 4 | 0015 | 1.77 | $87.78 | $31.20 | $17.56
11100 | T | Biopsy of skin lesion | 0018 | 0.94 | $46.62 | $17.66 | $9.32
11101 | T | Biopsy, skin add-on | 0018 | 0.94 | $46.62 | $17.66 | $9.32
11200 | T | Removal of skin tags | 0015 | 1.77 | $87.78 | $31.20 | $17.56
11201 | T | Remove skin tags add-on | 0015 | 1.77 | $87.78 | $31.20 | $17.56
11300 | T | Shave skin lesion | 0013 | 0.91 | $45.13 | $17.66 | $9.03
11301 | T | Shave skin lesion | 0013 | 0.91 | $45.13 | $17.66 | $9.03
11302 | T | Shave skin lesion | 0014 | 1.50 | $74.39 | $24.55 | $14.88
11303 | T | Shave skin lesion | 0015 | 1.77 | $87.78 | $31.20 | $17.56
11305 | T | Shave skin lesion | 0013 | 0.91 | $45.13 | $17.66 | $9.03
11306 | T | Shave skin lesion | 0013 | 0.91 | $45.13 | $17.66 | $9.03
11307 | T | Shave skin lesion | 0014 | 1.50 | $74.39 | $24.55 | $14.88
11308 | T | Shave skin lesion | 0015 | 1.77 | $87.78 | $31.20 | $17.56
11310 | T | Shave skin lesion | 0013 | 0.91 | $45.13 | $17.66 | $9.03
11311 | T | Shave skin lesion | 0013 | 0.91 | $45.13 | $17.66 | $9.03
11312 | T | Shave skin lesion | 0015 | 1.77 | $87.78 | $31.20 | $17.56
11313 | T | Shave skin lesion | 0016 | 3.53 | $175.07 | $74.67 | $35.01
11400 | T | Removal of skin lesion | 0019 | 4.00 | $198.39 | $78.91 | $39.68
11401 | T | Removal of skin lesion | 0019 | 4.00 | $198.39 | $78.91 | $39.68
11402 | T | Removal of skin lesion | 0019 | 4.00 | $198.39 | $78.91 | $39.68
11403 | T | Removal of skin lesion | 0020 | 6.51 | $322.87 | $130.53 | $64.57
11404 | T | Removal of skin lesion | 0020 | 6.51 | $322.87 | $130.53 | $64.57
11406 | T | Removal of skin lesion | 0020 | 6.51 | $322.87 | $130.53 | $64.57
11420 | T | Removal of skin lesion | 0019 | 4.00 | $198.39 | $78.91 | $39.68
11421 | T | Removal of skin lesion | 0019 | 4.00 | $198.39 | $78.91 | $39.68
11422 | T | Removal of skin lesion | 0019 | 4.00 | $198.39 | $78.91 | $39.68
11423 | T | Removal of skin lesion | 0020 | 6.51 | $322.87 | $130.53 | $64.57
11424 | T | Removal of skin lesion | 0020 | 6.51 | $322.87 | $130.53 | $64.57
11426 | T | Removal of skin lesion | 0022 | 12.49 | $619.45 | $292.94 | $123.89
11440 | T | Removal of skin lesion | 0019 | 4.00 | $198.39 | $78.91 | $39.68
11441 | T | Removal of skin lesion | 0019 | 4.00 | $198.39 | $78.91 | $39.68
11442 | T | Removal of skin lesion | 0019 | 4.00 | $198.39 | $78.91 | $39.68
11443 | T | Removal of skin lesion | 0020 | 6.51 | $322.87 | $130.53 | $64.57
11444 | T | Removal of skin lesion | 0020 | 6.51 | $322.87 | $130.53 | $64.57
11446 | T | Removal of skin lesion | 0022 | 12.49 | $619.45 | $292.94 | $123.89
11450 | T | Removal, sweat gland lesion | 0022 | 12.49 | $619.45 | $292.94 | $123.89
11451 | T | Removal, sweat gland lesion | 0022 | 12.49 | $619.45 | $292.94 | $123.89
11462 | T | Removal, sweat gland lesion | 0022 | 12.49 | $619.45 | $292.94 | $123.89
11463 | T | Removal, sweat gland lesion | 0022 | 12.49 | $619.45 | $292.94 | $123.89
11470 | T | Removal, sweat gland lesion | 0022 | 12.49 | $619.45 | $292.94 | $123.89
11471 | T | Removal, sweat gland lesion | 0022 | 12.49 | $619.45 | $292.94 | $123.89
11600 | T | Removal of skin lesion | 0019 | 4.00 | $198.39 | $78.91 | $39.68
11601 | T | Removal of skin lesion | 0019 | 4.00 | $198.39 | $78.91 | $39.68
11602 | T | Removal of skin lesion | 0019 | 4.00 | $198.39 | $78.91 | $39.68
11603 | T | Removal of skin lesion | 0020 | 6.51 | $322.87 | $130.53 | $64.57
11604 | T | Removal of skin lesion | 0020 | 6.51 | $322.87 | $130.53 | $64.57
11606 | T | Removal of skin lesion | 0021 | 10.49 | $520.26 | $236.51 | $104.05
11620 | T | Removal of skin lesion | 0019 | 4.00 | $198.39 | $78.91 | $39.68
11621 | T | Removal of skin lesion | 0019 | 4.00 | $198.39 | $78.91 | $39.68
11622 | T | Removal of skin lesion | 0019 | 4.00 | $198.39 | $78.91 | $39.68
11623 | T | Removal of skin lesion | 0020 | 6.51 | $322.87 | $130.53 | $64.57
11624 | T | Removal of skin lesion | 0020 | 6.51 | $322.87 | $130.53 | $64.57
11626 | T | Removal of skin lesion | 0022 | 12.49 | $619.45 | $292.94 | $123.89
11640 | T | Removal of skin lesion | 0019 | 4.00 | $198.39 | $78.91 | $39.68
11641 | T | Removal of skin lesion | 0019 | 4.00 | $198.39 | $78.91 | $39.68
11642 | T | Removal of skin lesion | 0019 | 4.00 | $198.39 | $78.91 | $39.68
11643 | T | Removal of skin lesion | 0020 | 6.51 | $322.87 | $130.53 | $64.57
11644 | T | Removal of skin lesion | 0020 | 6.51 | $322.87 | $130.53 | $64.57
11646 | T | Removal of skin lesion | 0022 | 12.49 | $619.45 | $292.94 | $123.89
11719 | T | Trim nail(s) | 0009 | 0.74 | $36.70 | $9.63 | $7.34
11720 | T | Debride nail, 1-5 | 0009 | 0.74 | $36.70 | $9.63 | $7.34
11721 | T | Debride nail, 6 or more | 0009 | 0.74 | $36.70 | $9.63 | $7.34
11730 | T | Removal of nail plate | 0013 | 0.91 | $45.13 | $17.66 | $9.03
11732 | T | Remove nail plate, add-on | 0012 | 0.53 | $26.29 | $9.18 | $5.26
11740 | T | Drain blood from under nail | 0009 | 0.74 | $36.70 | $9.63 | $7.34
11750 | T | Removal of nail bed | 0019 | 4.00 | $198.39 | $78.91 | $39.68
11752 | T | Remove nail bed/finger tip | 0022 | 12.49 | $619.45 | $292.94 | $123.89
11755 | T | Biopsy, nail unit | 0019 | 4.00 | $198.39 | $78.91 | $39.68
11760 | T | Repair of nail bed | 0024 | 2.43 | $120.51 | $44.50 | $24.10
11762 | T | Reconstruction of nail bed | 0024 | 2.43 | $120.51 | $44.50 | $24.10
11765 | T | Excision of nail fold, toe | 0015 | 1.77 | $87.78 | $31.20 | $17.56
11770 | T | Removal of pilonidal lesion | 0021 | 10.49 | $520.26 | $236.51 | $104.05
11771 | T | Removal of pilonidal lesion | 0022 | 12.49 | $619.45 | $292.94 | $123.89
11772 | T | Removal of pilonidal lesion | 0022 | 12.49 | $619.45 | $292.94 | $123.89
11900 | T | Injection into skin lesions | 0012 | 0.53 | $26.29 | $9.18 | $5.26
11901 | T | Added skin lesions injection | 0013 | 0.91 | $45.13 | $17.66 | $9.03
11920 | T | Correct skin color defects | 0024 | 2.43 | $120.51 | $44.50 | $24.10
11921 | T | Correct skin color defects | 0024 | 2.43 | $120.51 | $44.50 | $24.10
11922 | T | Correct skin color defects | 0024 | 2.43 | $120.51 | $44.50 | $24.10
11950 | T | Therapy for contour defects | 0024 | 2.43 | $120.51 | $44.50 | $24.10
11951 | T | Therapy for contour defects | 0024 | 2.43 | $120.51 | $44.50 | $24.10
11952 | T | Therapy for contour defects | 0024 | 2.43 | $120.51 | $44.50 | $24.10
11954 | T | Therapy for contour defects | 0024 | 2.43 | $120.51 | $44.50 | $24.10
11960 | T | Insert tissue expander(s) | 0026 | 12.11 | $600.61 | $277.92 | $120.12
11970 | T | Replace tissue expander | 0026 | 12.11 | $600.61 | $277.92 | $120.12
11971 | T | Remove tissue expander(s) | 0022 | 12.49 | $619.45 | $292.94 | $123.89
11975 | E | Insert contraceptive cap |  |  |  |  |
11976 | T | Removal of contraceptive cap | 0019 | 4.00 | $198.39 | $78.91 | $39.68
11977 | E | Removal/reinsert contra cap |  |  |  |  |
11980 | X | Implant hormone pellet(s) | 0340 | 1.04 | $51.58 | $12.85 | $10.32
12001 | T | Repair superficial wound(s) | 0024 | 2.43 | $120.51 | $44.50 | $24.10
12002 | T | Repair superficial wound(s) | 0024 | 2.43 | $120.51 | $44.50 | $24.10
12004 | T | Repair superficial wound(s) | 0024 | 2.43 | $120.51 | $44.50 | $24.10
12005 | T | Repair superficial wound(s) | 0024 | 2.43 | $120.51 | $44.50 | $24.10
12006 | T | Repair superficial wound(s) | 0024 | 2.43 | $120.51 | $44.50 | $24.10
12007 | T | Repair superficial wound(s) | 0024 | 2.43 | $120.51 | $44.50 | $24.10
12011 | T | Repair superficial wound(s) | 0024 | 2.43 | $120.51 | $44.50 | $24.10
12013 | T | Repair superficial wound(s) | 0024 | 2.43 | $120.51 | $44.50 | $24.10
12014 | T | Repair superficial wound(s) | 0024 | 2.43 | $120.51 | $44.50 | $24.10
12015 | T | Repair superficial wound(s) | 0024 | 2.43 | $120.51 | $44.50 | $24.10
12016 | T | Repair superficial wound(s) | 0024 | 2.43 | $120.51 | $44.50 | $24.10
12017 | T | Repair superficial wound(s) | 0024 | 2.43 | $120.51 | $44.50 | $24.10
12018 | T | Repair superficial wound(s) | 0024 | 2.43 | $120.51 | $44.50 | $24.10
12020 | T | Closure of split wound | 0024 | 2.43 | $120.51 | $44.50 | $24.10
12021 | T | Closure of split wound | 0024 | 2.43 | $120.51 | $44.50 | $24.10
12031 | T | Layer closure of wound(s) | 0024 | 2.43 | $120.51 | $44.50 | $24.10
12032 | T | Layer closure of wound(s) | 0024 | 2.43 | $120.51 | $44.50 | $24.10
12034 | T | Layer closure of wound(s) | 0024 | 2.43 | $120.51 | $44.50 | $24.10
12035 | T | Layer closure of wound(s) | 0024 | 2.43 | $120.51 | $44.50 | $24.10
12036 | T | Layer closure of wound(s) | 0024 | 2.43 | $120.51 | $44.50 | $24.10
12037 | T | Layer closure of wound(s) | 0026 | 12.11 | $600.61 | $277.92 | $120.12
12041 | T | Layer closure of wound(s) | 0024 | 2.43 | $120.51 | $44.50 | $24.10
12042 | T | Layer closure of wound(s) | 0024 | 2.43 | $120.51 | $44.50 | $24.10
12044 | T | Layer closure of wound(s) | 0024 | 2.43 | $120.51 | $44.50 | $24.10
12045 | T | Layer closure of wound(s) | 0024 | 2.43 | $120.51 | $44.50 | $24.10
12046 | T | Layer closure of wound(s) | 0024 | 2.43 | $120.51 | $44.50 | $24.10
12047 | T | Layer closure of wound(s) | 0026 | 12.11 | $600.61 | $277.92 | $120.12
12051 | T | Layer closure of wound(s) | 0024 | 2.43 | $120.51 | $44.50 | $24.10
12052 | T | Layer closure of wound(s) | 0024 | 2.43 | $120.51 | $44.50 | $24.10
12053 | T | Layer closure of wound(s) | 0024 | 2.43 | $120.51 | $44.50 | $24.10
12054 | T | Layer closure of wound(s) | 0024 | 2.43 | $120.51 | $44.50 | $24.10
12055 | T | Layer closure of wound(s) | 0024 | 2.43 | $120.51 | $44.50 | $24.10
12056 | T | Layer closure of wound(s) | 0024 | 2.43 | $120.51 | $44.50 | $24.10
12057 | T | Layer closure of wound(s) | 0026 | 12.11 | $600.61 | $277.92 | $120.12
13100 | T | Repair of wound or lesion | 0025 | 3.74 | $185.49 | $70.66 | $37.10
13101 | T | Repair of wound or lesion | 0025 | 3.74 | $185.49 | $70.66 | $37.10
13102 | T | Repair wound/lesion add-on | 0025 | 3.74 | $185.49 | $70.66 | $37.10
13120 | T | Repair of wound or lesion | 0025 | 3.74 | $185.49 | $70.66 | $37.10
13121 | T | Repair of wound or lesion | 0025 | 3.74 | $185.49 | $70.66 | $37.10
13122 | T | Repair wound/lesion add-on | 0025 | 3.74 | $185.49 | $70.66 | $37.10
13131 | T | Repair of wound or lesion | 0025 | 3.74 | $185.49 | $70.66 | $37.10
13132 | T | Repair of wound or lesion | 0025 | 3.74 | $185.49 | $70.66 | $37.10
13133 | T | Repair wound/lesion add-on | 0025 | 3.74 | $185.49 | $70.66 | $37.10
13150 | T | Repair of wound or lesion | 0026 | 12.11 | $600.61 | $277.92 | $120.12
13151 | T | Repair of wound or lesion | 0025 | 3.74 | $185.49 | $70.66 | $37.10
13152 | T | Repair of wound or lesion | 0025 | 3.74 | $185.49 | $70.66 | $37.10
13153 | T | Repair wound/lesion add-on | 0025 | 3.74 | $185.49 | $70.66 | $37.10
13160 | T | Late closure of wound | 0026 | 12.11 | $600.61 | $277.92 | $120.12
14000 | T | Skin tissue rearrangement | 0026 | 12.11 | $600.61 | $277.92 | $120.12
14001 | T | Skin tissue rearrangement | 0026 | 12.11 | $600.61 | $277.92 | $120.12
14020 | T | Skin tissue rearrangement | 0026 | 12.11 | $600.61 | $277.92 | $120.12
14021 | T | Skin tissue rearrangement | 0026 | 12.11 | $600.61 | $277.92 | $120.12
14040 | T | Skin tissue rearrangement | 0026 | 12.11 | $600.61 | $277.92 | $120.12
14041 | T | Skin tissue rearrangement | 0026 | 12.11 | $600.61 | $277.92 | $120.12
14060 | T | Skin tissue rearrangement | 0026 | 12.11 | $600.61 | $277.92 | $120.12
14061 | T | Skin tissue rearrangement | 0026 | 12.11 | $600.61 | $277.92 | $120.12
14300 | T | Skin tissue rearrangement | 0026 | 12.11 | $600.61 | $277.92 | $120.12
14350 | T | Skin tissue rearrangement | 0026 | 12.11 | $600.61 | $277.92 | $120.12
15000 | T | Skin graft | 0026 | 12.11 | $600.61 | $277.92 | $120.12
15001 | T | Skin graft add-on | 0026 | 12.11 | $600.61 | $277.92 | $120.12
15050 | T | Skin pinch graft | 0026 | 12.11 | $600.61 | $277.92 | $120.12
15100 | T | Skin split graft | 0026 | 12.11 | $600.61 | $277.92 | $120.12
15101 | T | Skin split graft add-on | 0026 | 12.11 | $600.61 | $277.92 | $120.12
15120 | T | Skin split graft | 0026 | 12.11 | $600.61 | $277.92 | $120.12
15121 | T | Skin split graft add-on | 0026 | 12.11 | $600.61 | $277.92 | $120.12
15200 | T | Skin full graft | 0026 | 12.11 | $600.61 | $277.92 | $120.12
15201 | T | Skin full graft add-on | 0026 | 12.11 | $600.61 | $277.92 | $120.12
15220 | T | Skin full graft | 0026 | 12.11 | $600.61 | $277.92 | $120.12
15221 | T | Skin full graft add-on | 0026 | 12.11 | $600.61 | $277.92 | $120.12
15240 | T | Skin full graft | 0026 | 12.11 | $600.61 | $277.92 | $120.12
15241 | T | Skin full graft add-on | 0026 | 12.11 | $600.61 | $277.92 | $120.12
15260 | T | Skin full graft | 0026 | 12.11 | $600.61 | $277.92 | $120.12
15261 | T | Skin full graft add-on | 0026 | 12.11 | $600.61 | $277.92 | $120.12
*15342 | T | Cultured skin graft, 25 cm | 0025 | 3.74 | $185.49 | $70.66 | $37.10
*15343 | T | Culture skin graft addl 25 cm | 0025 | 3.74 | $185.49 | $70.66 | $37.10
15350 | T | Skin homograft | 0026 | 12.11 | $600.61 | $277.92 | $120.12
15351 | T | Skin homograft add-on | 0026 | 12.11 | $600.61 | $277.92 | $120.12
15400 | T | Skin heterograft | 0026 | 12.11 | $600.61 | $277.92 | $120.12
15401 | T | Skin heterograft add-on | 0026 | 12.11 | $600.61 | $277.92 | $120.12
15570 | T | Form skin pedicle flap | 0026 | 12.11 | $600.61 | $277.92 | $120.12
15572 | T | Form skin pedicle flap | 0026 | 12.11 | $600.61 | $277.92 | $120.12
15574 | T | Form skin pedicle flap | 0026 | 12.11 | $600.61 | $277.92 | $120.12
15576 | T | Form skin pedicle flap | 0026 | 12.11 | $600.61 | $277.92 | $120.12
15600 | T | Skin graft | 0026 | 12.11 | $600.61 | $277.92 | $120.12
15610 | T | Skin graft | 0026 | 12.11 | $600.61 | $277.92 | $120.12
15620 | T | Skin graft | 0026 | 12.11 | $600.61 | $277.92 | $120.12
15630 | T | Skin graft | 0026 | 12.11 | $600.61 | $277.92 | $120.12
15650 | T | Transfer skin pedicle flap | 0026 | 12.11 | $600.61 | $277.92 | $120.12
15732 | T | Muscle-skin graft, head/neck | 0027 | 15.80 | $783.62 | $383.10 | $156.72
15734 | T | Muscle-skin graft, trunk | 0027 | 15.80 | $783.62 | $383.10 | $156.72
15736 | T | Muscle-skin graft, arm | 0027 | 15.80 | $783.62 | $383.10 | $156.72
15738 | T | Muscle-skin graft, leg | 0027 | 15.80 | $783.62 | $383.10 | $156.72
15740 | T | Island pedicle flap graft | 0027 | 15.80 | $783.62 | $383.10 | $156.72
15750 | T | Neurovascular pedicle graft | 0027 | 15.80 | $783.62 | $383.10 | $156.72
15756 | C | Free muscle flap, microvasc |  |  |  |  |
15757 | C | Free skin flap, microvasc |  |  |  |  |
15758 | C | Free fascial flap, microvasc |  |  |  |  |
15760 | T | Composite skin graft | 0027 | 15.80 | $783.62 | $383.10 | $156.72
15770 | T | Derma-fat-fascia graft | 0027 | 15.80 | $783.62 | $383.10 | $156.72
15775 | T | Hair transplant punch grafts | 0026 | 12.11 | $600.61 | $277.92 | $120.12
15776 | T | Hair transplant punch grafts | 0026 | 12.11 | $600.61 | $277.92 | $120.12
15780 | T | Abrasion treatment of skin | 0022 | 12.49 | $619.45 | $292.94 | $123.89
15781 | T | Abrasion treatment of skin | 0022 | 12.49 | $619.45 | $292.94 | $123.89
15782 | T | Abrasion treatment of skin | 0022 | 12.49 | $619.45 | $292.94 | $123.89
15783 | T | Abrasion treatment of skin | 0015 | 1.77 | $87.78 | $31.20 | $17.56
15786 | T | Abrasion, lesion, single | 0013 | 0.91 | $45.13 | $17.66 | $9.03
15787 | T | Abrasion, lesions, add-on | 0016 | 3.53 | $175.07 | $74.67 | $35.01
15788 | T | Chemical peel, face, epiderm | 0013 | 0.91 | $45.13 | $17.66 | $9.03
15789 | T | Chemical peel, face, dermal | 0015 | 1.77 | $87.78 | $31.20 | $17.56
15792 | T | Chemical peel, nonfacial | 0016 | 3.53 | $175.07 | $74.67 | $35.01
15793 | T | Chemical peel, nonfacial | 0016 | 3.53 | $175.07 | $74.67 | $35.01
15810 | T | Salabrasion | 0016 | 3.53 | $175.07 | $74.67 | $35.01
15811 | T | Salabrasion | 0022 | 12.49 | $619.45 | $292.94 | $123.89
15819 | T | Plastic surgery, neck | 0026 | 12.11 | $600.61 | $277.92 | $120.12
15820 | T | Revision of lower eyelid | 0026 | 12.11 | $600.61 | $277.92 | $120.12
15821 | T | Revision of lower eyelid | 0026 | 12.11 | $600.61 | $277.92 | $120.12
15822 | T | Revision of upper eyelid | 0026 | 12.11 | $600.61 | $277.92 | $120.12
15823 | T | Revision of upper eyelid | 0026 | 12.11 | $600.61 | $277.92 | $120.12
15824 | T | Removal of forehead wrinkles | 0027 | 15.80 | $783.62 | $383.10 | $156.72
15825 | T | Removal of neck wrinkles | 0026 | 12.11 | $600.61 | $277.92 | $120.12
15826 | T | Removal of brow wrinkles | 0027 | 15.80 | $783.62 | $383.10 | $156.72
15828 | T | Removal of face wrinkles | 0027 | 15.80 | $783.62 | $383.10 | $156.72
15829 | T | Removal of skin wrinkles | 0026 | 12.11 | $600.61 | $277.92 | $120.12
15831 | T | Excise excessive skin tissue | 0027 | 15.80 | $783.62 | $383.10 | $156.72
15832 | T | Excise excessive skin tissue | 0027 | 15.80 | $783.62 | $383.10 | $156.72
15833 | T | Excise excessive skin tissue | 0027 | 15.80 | $783.62 | $383.10 | $156.72
15834 | T | Excise excessive skin tissue | 0027 | 15.80 | $783.62 | $383.10 | $156.72
15835 | T | Excise excessive skin tissue | 0026 | 12.11 | $600.61 | $277.92 | $120.12
15836 | T | Excise excessive skin tissue | 0027 | 15.80 | $783.62 | $383.10 | $156.72
15837 | T | Excise excessive skin tissue | 0027 | 15.80 | $783.62 | $383.10 | $156.72
15838 | T | Excise excessive skin tissue | 0022 | 12.49 | $619.45 | $292.94 | $123.89
15839 | T | Excise excessive skin tissue | 0027 | 15.80 | $783.62 | $383.10 | $156.72
15840 | T | Graft for face nerve palsy | 0027 | 15.80 | $783.62 | $383.10 | $156.72
15841 | T | Graft for face nerve palsy | 0027 | 15.80 | $783.62 | $383.10 | $156.72
15842 | T | Graft for face nerve palsy | 0027 | 15.80 | $783.62 | $383.10 | $156.72
15845 | T | Skin and muscle repair, face | 0027 | 15.80 | $783.62 | $383.10 | $156.72
15850 | T | Removal of sutures | 0013 | 0.91 | $45.13 | $17.66 | $9.03
15851 | T | Removal of sutures | 0013 | 0.91 | $45.13 | $17.66 | $9.03
15852 | T | Dressing change,not for burn | 0012 | 0.53 | $26.29 | $9.18 | $5.26
15860 | N | Test for blood flow in graft |  |  |  |  |
15876 | T | Suction assisted lipectomy | 0027 | 15.80 | $783.62 | $383.10 | $156.72
15877 | T | Suction assisted lipectomy | 0027 | 15.80 | $783.62 | $383.10 | $156.72
15878 | T | Suction assisted lipectomy | 0027 | 15.80 | $783.62 | $383.10 | $156.72
15879 | T | Suction assisted lipectomy | 0027 | 15.80 | $783.62 | $383.10 | $156.72
15920 | T | Removal of tail bone ulcer | 0022 | 12.49 | $619.45 | $292.94 | $123.89
15922 | T | Removal of tail bone ulcer | 0027 | 15.80 | $783.62 | $383.10 | $156.72
15931 | T | Remove sacrum pressure sore | 0022 | 12.49 | $619.45 | $292.94 | $123.89
15933 | T | Remove sacrum pressure sore | 0022 | 12.49 | $619.45 | $292.94 | $123.89
15934 | T | Remove sacrum pressure sore | 0027 | 15.80 | $783.62 | $383.10 | $156.72
15935 | T | Remove sacrum pressure sore | 0027 | 15.80 | $783.62 | $383.10 | $156.72
15936 | T | Remove sacrum pressure sore | 0027 | 15.80 | $783.62 | $383.10 | $156.72
15937 | T | Remove sacrum pressure sore | 0027 | 15.80 | $783.62 | $383.10 | $156.72
15940 | T | Remove hip pressure sore | 0022 | 12.49 | $619.45 | $292.94 | $123.89
15941 | T | Remove hip pressure sore | 0022 | 12.49 | $619.45 | $292.94 | $123.89
15944 | T | Remove hip pressure sore | 0027 | 15.80 | $783.62 | $383.10 | $156.72
15945 | T | Remove hip pressure sore | 0027 | 15.80 | $783.62 | $383.10 | $156.72
15946 | T | Remove hip pressure sore | 0027 | 15.80 | $783.62 | $383.10 | $156.72
15950 | T | Remove thigh pressure sore | 0022 | 12.49 | $619.45 | $292.94 | $123.89
15951 | T | Remove thigh pressure sore | 0022 | 12.49 | $619.45 | $292.94 | $123.89
15952 | T | Remove thigh pressure sore | 0027 | 15.80 | $783.62 | $383.10 | $156.72
15953 | T | Remove thigh pressure sore | 0027 | 15.80 | $783.62 | $383.10 | $156.72
15956 | T | Remove thigh pressure sore | 0027 | 15.80 | $783.62 | $383.10 | $156.72
15958 | T | Remove thigh pressure sore | 0027 | 15.80 | $783.62 | $383.10 | $156.72
15999 | T | Removal of pressure sore | 0022 | 12.49 | $619.45 | $292.94 | $123.89
16000 | T | Initial treatment of burn(s) | 0015 | 1.77 | $87.78 | $31.20 | $17.56
16010 | T | Treatment of burn(s) | 0015 | 1.77 | $87.78 | $31.20 | $17.56
16015 | T | Treatment of burn(s) | 0017 | 12.45 | $617.47 | $289.16 | $123.49
16020 | T | Treatment of burn(s) | 0015 | 1.77 | $87.78 | $31.20 | $17.56
16025 | T | Treatment of burn(s) | 0014 | 1.50 | $74.39 | $24.55 | $14.88
16030 | T | Treatment of burn(s) | 0015 | 1.77 | $87.78 | $31.20 | $17.56
16035 | C | Incision of burn scab, initl |  |  |  |  |
*16036 | C | Incise burn scab, addl incis |  |  |  |  |
17000 | T | Destroy benign/premal lesion | 0010 | 0.55 | $27.28 | $9.86 | $5.46
17003 | T | Destroy lesions, 2-14 | 0010 | 0.55 | $27.28 | $9.86 | $5.46
17004 | T | Destroy lesions, 15 or more | 0011 | 2.72 | $134.90 | $50.01 | $26.98
17106 | T | Destruction of skin lesions | 0011 | 2.72 | $134.90 | $50.01 | $26.98
17107 | T | Destruction of skin lesions | 0011 | 2.72 | $134.90 | $50.01 | $26.98
17108 | T | Destruction of skin lesions | 0011 | 2.72 | $134.90 | $50.01 | $26.98
17110 | T | Destruct lesion, 1-14 | 0010 | 0.55 | $27.28 | $9.86 | $5.46
17111 | T | Destruct lesion, 15 or more | 0011 | 2.72 | $134.90 | $50.01 | $26.98
17250 | T | Chemical cautery, tissue | 0014 | 1.50 | $74.39 | $24.55 | $14.88
17260 | T | Destruction of skin lesions | 0013 | 0.91 | $45.13 | $17.66 | $9.03
17261 | T | Destruction of skin lesions | 0013 | 0.91 | $45.13 | $17.66 | $9.03
17262 | T | Destruction of skin lesions | 0013 | 0.91 | $45.13 | $17.66 | $9.03
17263 | T | Destruction of skin lesions | 0013 | 0.91 | $45.13 | $17.66 | $9.03
17264 | T | Destruction of skin lesions | 0015 | 1.77 | $87.78 | $31.20 | $17.56
17266 | T | Destruction of skin lesions | 0016 | 3.53 | $175.07 | $74.67 | $35.01
17270 | T | Destruction of skin lesions | 0015 | 1.77 | $87.78 | $31.20 | $17.56
17271 | T | Destruction of skin lesions | 0013 | 0.91 | $45.13 | $17.66 | $9.03
17272 | T | Destruction of skin lesions | 0013 | 0.91 | $45.13 | $17.66 | $9.03
17273 | T | Destruction of skin lesions | 0015 | 1.77 | $87.78 | $31.20 | $17.56
17274 | T | Destruction of skin lesions | 0015 | 1.77 | $87.78 | $31.20 | $17.56
17276 | T | Destruction of skin lesions | 0015 | 1.77 | $87.78 | $31.20 | $17.56
17280 | T | Destruction of skin lesions | 0015 | 1.77 | $87.78 | $31.20 | $17.56
17281 | T | Destruction of skin lesions | 0015 | 1.77 | $87.78 | $31.20 | $17.56
17282 | T | Destruction of skin lesions | 0015 | 1.77 | $87.78 | $31.20 | $17.56
17283 | T | Destruction of skin lesions | 0015 | 1.77 | $87.78 | $31.20 | $17.56
17284 | T | Destruction of skin lesions | 0016 | 3.53 | $175.07 | $74.67 | $35.01
17286 | T | Destruction of skin lesions | 0016 | 3.53 | $175.07 | $74.67 | $35.01
17304 | T | Chemosurgery of skin lesion | 0020 | 6.51 | $322.87 | $130.53 | $64.57
17305 | T | 2nd stage chemosurgery | 0020 | 6.51 | $322.87 | $130.53 | $64.57
17306 | T | 3rd stage chemosurgery | 0020 | 6.51 | $322.87 | $130.53 | $64.57
17307 | T | Followup skin lesion therapy | 0020 | 6.51 | $322.87 | $130.53 | $64.57
17310 | T | Extensive skin chemosurgery | 0020 | 6.51 | $322.87 | $130.53 | $64.57
17340 | T | Cryotherapy of skin | 0012 | 0.53 | $26.29 | $9.18 | $5.26
17360 | T | Skin peel therapy | 0016 | 3.53 | $175.07 | $74.67 | $35.01
17380 | T | Hair removal by electrolysis | 0016 | 3.53 | $175.07 | $74.67 | $35.01
17999 | T | Skin tissue procedure | 0004 | 1.84 | $91.26 | $32.57 | $18.25
19000 | T | Drainage of breast lesion | 0004 | 1.84 | $91.26 | $32.57 | $18.25
19001 | T | Drain breast lesion add-on | 0004 | 1.84 | $91.26 | $32.57 | $18.25
19020 | T | Incision of breast lesion | 0008 | 6.15 | $305.02 | $113.67 | $61.00
19030 | N | Injection for breast x-ray |  |  |  |  |
19100 | T | Bx breast percut w/o image | 0005 | 5.41 | $268.32 | $119.75 | $53.66
19101 | T | Biopsy of breast, open | 0028 | 12.37 | $613.52 | $303.74 | $122.70
*19102 | T | Bx breast percut w/ image | 0005 | 5.41 | $268.32 | $119.75 | $53.66
*19103 | S | Bx breast percut w/device | 0974 | 8.25 | $409.17 |  | $81.83
19110 | T | Nipple exploration | 0028 | 12.37 | $613.52 | $303.74 | $122.70
19112 | T | Excise breast duct fistula | 0028 | 12.37 | $613.52 | $303.74 | $122.70
19120 | T | Removal of breast lesion | 0028 | 12.37 | $613.52 | $303.74 | $122.70
19125 | T | Excision, breast lesion | 0028 | 12.37 | $613.52 | $303.74 | $122.70
19126 | T | Excision, addl breast lesion | 0028 | 12.37 | $613.52 | $303.74 | $122.70
19140 | T | Removal of breast tissue | 0028 | 12.37 | $613.52 | $303.74 | $122.70
19160 | T | Removal of breast tissue | 0028 | 12.37 | $613.52 | $303.74 | $122.70
19162 | T | Remove breast tissue, nodes | 0029 | 31.39 | $1,557.05 | $820.79 | $311.41
19180 | T | Removal of breast | 0029 | 31.39 | $1,557.05 | $820.79 | $311.41
19182 | T | Removal of breast | 0028 | 12.37 | $613.52 | $303.74 | $122.70
19200 | C | Removal of breast |  |  |  |  |
19220 | C | Removal of breast |  |  |  |  |
19240 | T | Removal of breast | 0029 | 31.39 | $1,557.05 | $820.79 | $311.41
19260 | T | Removal of chest wall lesion | 0021 | 10.49 | $520.26 | $236.51 | $104.05
19271 | C | Revision of chest wall |  |  |  |  |
19272 | C | Extensive chest wall surgery |  |  |  |  |
19290 | T | Place needle wire, breast | 0028 | 12.37 | $613.52 | $303.74 | $122.70
19291 | T | Place needle wire, breast | 0028 | 12.37 | $613.52 | $303.74 | $122.70
*19295 | S | Place breast clip, percut | 0971 | 1.55 | $76.88 |  | $15.38
19316 | T | Suspension of breast | 0029 | 31.39 | $1,557.05 | $820.79 | $311.41
19318 | T | Reduction of large breast | 0029 | 31.39 | $1,557.05 | $820.79 | $311.41
19324 | T | Enlarge breast | 0029 | 31.39 | $1,557.05 | $820.79 | $311.41
19325 | T | Enlarge breast with implant | 0030 | 31.11 | $1,543.16 | $763.55 | $308.63
19328 | T | Removal of breast implant | 0028 | 12.37 | $613.52 | $303.74 | $122.70
19330 | T | Removal of implant material | 0028 | 12.37 | $613.52 | $303.74 | $122.70
19340 | T | Immediate breast prosthesis | 0030 | 31.11 | $1,543.16 | $763.55 | $308.63
19342 | T | Delayed breast prosthesis | 0030 | 31.11 | $1,543.16 | $763.55 | $308.63
19350 | T | Breast reconstruction | 0028 | 12.37 | $613.52 | $303.74 | $122.70
19355 | T | Correct inverted nipple(s) | 0028 | 12.37 | $613.52 | $303.74 | $122.70
19357 | T | Breast reconstruction | 0030 | 31.11 | $1,543.16 | $763.55 | $308.63
19361 | C | Breast reconstruction |  |  |  |  |
19364 | C | Breast reconstruction |  |  |  |  |
19366 | T | Breast reconstruction | 0029 | 31.39 | $1,557.05 | $820.79 | $311.41
19367 | C | Breast reconstruction |  |  |  |  |
19368 | C | Breast reconstruction |  |  |  |  |
19369 | C | Breast reconstruction |  |  |  |  |
19370 | T | Surgery of breast capsule | 0028 | 12.37 | $613.52 | $303.74 | $122.70
19371 | T | Removal of breast capsule | 0029 | 31.39 | $1,557.05 | $820.79 | $311.41
19380 | T | Revise breast reconstruction | 0029 | 31.39 | $1,557.05 | $820.79 | $311.41
19396 | T | Design custom breast implant | 0028 | 12.37 | $613.52 | $303.74 | $122.70
19499 | T | Breast surgery procedure | 0004 | 1.84 | $91.26 | $32.57 | $18.25
20000 | T | Incision of abscess | 0006 | 2.00 | $99.19 | $33.95 | $19.84
20005 | T | Incision of deep abscess | 0049 | 15.04 | $745.93 | $356.95 | $149.19
20100 | T | Explore wound, neck | 0023 | 1.98 | $98.20 | $40.37 | $19.64
20101 | T | Explore wound, chest | 0026 | 12.11 | $600.61 | $277.92 | $120.12
20102 | T | Explore wound, abdomen | 0026 | 12.11 | $600.61 | $277.92 | $120.12
20103 | T | Explore wound, extremity | 0023 | 1.98 | $98.20 | $40.37 | $19.64
20150 | T | Excise epiphyseal bar | 0051 | 27.76 | $1,376.79 | $675.24 | $275.36
20200 | T | Muscle biopsy | 0020 | 6.51 | $322.87 | $130.53 | $64.57
20205 | T | Deep muscle biopsy | 0021 | 10.49 | $520.26 | $236.51 | $104.05
20206 | T | Needle biopsy, muscle | 0005 | 5.41 | $268.32 | $119.75 | $53.66
20220 | T | Bone biopsy, trocar/needle | 0019 | 4.00 | $198.39 | $78.91 | $39.68
20225 | T | Bone biopsy, trocar/needle | 0020 | 6.51 | $322.87 | $130.53 | $64.57
20240 | T | Bone biopsy, excisional | 0022 | 12.49 | $619.45 | $292.94 | $123.89
20245 | T | Bone biopsy, excisional | 0022 | 12.49 | $619.45 | $292.94 | $123.89
20250 | T | Open bone biopsy | 0049 | 15.04 | $745.93 | $356.95 | $149.19
20251 | T | Open bone biopsy | 0049 | 15.04 | $745.93 | $356.95 | $149.19
20500 | T | Injection of sinus tract | 0252 | 5.18 | $256.90 | $114.24 | $51.38
20501 | N | Inject sinus tract for x-ray |  |  |  |  |
20520 | T | Removal of foreign body | 0019 | 4.00 | $198.39 | $78.91 | $39.68
20525 | T | Removal of foreign body | 0022 | 12.49 | $619.45 | $292.94 | $123.89
20550 | T | Inject tendon/ligament/cyst | 0040 | 2.11 | $104.65 | $40.60 | $20.93
20600 | T | Drain/inject, joint/bursa | 0040 | 2.11 | $104.65 | $40.60 | $20.93
20605 | T | Drain/inject, joint/bursa | 0040 | 2.11 | $104.65 | $40.60 | $20.93
20610 | T | Drain/inject, joint/bursa | 0040 | 2.11 | $104.65 | $40.60 | $20.93
20615 | T | Treatment of bone cyst | 0004 | 1.84 | $91.26 | $32.57 | $18.25
20650 | T | Insert and remove bone pin | 0049 | 15.04 | $745.93 | $356.95 | $149.19
20660 | C | Apply,remove fixation device |  |  |  |  |
20661 | C | Application of head brace |  |  |  |  |
20662 | C | Application of pelvis brace |  |  |  |  |
20663 | C | Application of thigh brace |  |  |  |  |
20664 | C | Halo brace application |  |  |  |  |
20665 | N | Removal of fixation device |  |  |  |  |
20670 | T | Removal of support implant | 0021 | 10.49 | $520.26 | $236.51 | $104.05
20680 | T | Removal of support implant | 0022 | 12.49 | $619.45 | $292.94 | $123.89
20690 | T | Apply bone fixation device | 0050 | 21.13 | $1,047.96 | $513.86 | $209.59
20692 | T | Apply bone fixation device | 0050 | 21.13 | $1,047.96 | $513.86 | $209.59
20693 | T | Adjust bone fixation device | 0049 | 15.04 | $745.93 | $356.95 | $149.19
20694 | T | Remove bone fixation device | 0049 | 15.04 | $745.93 | $356.95 | $149.19
20802 | C | Replantation, arm, complete |  |  |  |  |
20805 | C | Replant, forearm, complete |  |  |  |  |
20808 | C | Replantation hand, complete |  |  |  |  |
20816 | C | Replantation digit, complete |  |  |  |  |
20822 | C | Replantation digit, complete |  |  |  |  |
20824 | C | Replantation thumb, complete |  |  |  |  |
20827 | C | Replantation thumb, complete |  |  |  |  |
20838 | C | Replantation foot, complete |  |  |  |  |
20900 | T | Removal of bone for graft | 0050 | 21.13 | $1,047.96 | $513.86 | $209.59
20902 | T | Removal of bone for graft | 0050 | 21.13 | $1,047.96 | $513.86 | $209.59
20910 | T | Remove cartilage for graft | 0026 | 12.11 | $600.61 | $277.92 | $120.12
20912 | T | Remove cartilage for graft | 0026 | 12.11 | $600.61 | $277.92 | $120.12
20920 | T | Removal of fascia for graft | 0026 | 12.11 | $600.61 | $277.92 | $120.12
20922 | T | Removal of fascia for graft | 0026 | 12.11 | $600.61 | $277.92 | $120.12
20924 | T | Removal of tendon for graft | 0050 | 21.13 | $1,047.96 | $513.86 | $209.59
20926 | T | Removal of tissue for graft | 0026 | 12.11 | $600.61 | $277.92 | $120.12
20930 | C | Spinal bone allograft |  |  |  |  |
20931 | C | Spinal bone allograft |  |  |  |  |
20936 | C | Spinal bone autograft |  |  |  |  |
20937 | C | Spinal bone autograft |  |  |  |  |
20938 | C | Spinal bone autograft |  |  |  |  |
20950 | T | Fluid pressure, muscle | 0008 | 6.15 | $305.02 | $113.67 | $61.00
20955 | C | Fibula bone graft, microvasc |  |  |  |  |
20956 | C | Iliac bone graft, microvasc |  |  |  |  |
20957 | C | Mt bone graft, microvasc |  |  |  |  |
20962 | C | Other bone graft, microvasc |  |  |  |  |
20969 | C | Bone/skin graft, microvasc |  |  |  |  |
20970 | C | Bone/skin graft, iliac crest |  |  |  |  |
20972 | C | Bone/skin graft, metatarsal |  |  |  |  |
20973 | C | Bone/skin graft, great toe |  |  |  |  |
20974 | A | Electrical bone stimulation |  |  |  |  |
20975 | T | Electrical bone stimulation | 0049 | 15.04 | $745.93 | $356.95 | $149.19
20979 | E | Us bone stimulation |  |  |  |  |
20999 | N | Musculoskeletal surgery |  |  |  |  |
21010 | T | Incision of jaw joint | 0254 | 12.45 | $617.47 | $272.41 | $123.49
21015 | T | Resection of facial tumor | 0254 | 12.45 | $617.47 | $272.41 | $123.49
21025 | T | Excision of bone, lower jaw | 0256 | 25.40 | $1,259.74 | $623.05 | $251.95
21026 | T | Excision of facial bone(s) | 0256 | 25.40 | $1,259.74 | $623.05 | $251.95
21029 | T | Contour of face bone lesion | 0256 | 25.40 | $1,259.74 | $623.05 | $251.95
21030 | T | Removal of face bone lesion | 0254 | 12.45 | $617.47 | $272.41 | $123.49
21031 | T | Remove exostosis, mandible | 0253 | 12.02 | $596.14 | $284.00 | $119.23
21032 | T | Remove exostosis, maxilla | 0253 | 12.02 | $596.14 | $284.00 | $119.23
21034 | T | Removal of face bone lesion | 0256 | 25.40 | $1,259.74 | $623.05 | $251.95
21040 | T | Removal of jaw bone lesion | 0253 | 12.02 | $596.14 | $284.00 | $119.23
21041 | T | Removal of jaw bone lesion | 0256 | 25.40 | $1,259.74 | $623.05 | $251.95
21044 | T | Removal of jaw bone lesion | 0256 | 25.40 | $1,259.74 | $623.05 | $251.95
21045 | C | Extensive jaw surgery |  |  |  |  |
21050 | T | Removal of jaw joint | 0256 | 25.40 | $1,259.74 | $623.05 | $251.95
21060 | T | Remove jaw joint cartilage | 0256 | 25.40 | $1,259.74 | $623.05 | $251.95
21070 | T | Remove coronoid process | 0256 | 25.40 | $1,259.74 | $623.05 | $251.95
21076 | T | Prepare face/oral prosthesis | 0254 | 12.45 | $617.47 | $272.41 | $123.49
21077 | T | Prepare face/oral prosthesis | 0256 | 25.40 | $1,259.74 | $623.05 | $251.95
21079 | T | Prepare face/oral prosthesis | 0256 | 25.40 | $1,259.74 | $623.05 | $251.95
21080 | T | Prepare face/oral prosthesis | 0256 | 25.40 | $1,259.74 | $623.05 | $251.95
21081 | T | Prepare face/oral prosthesis | 0256 | 25.40 | $1,259.74 | $623.05 | $251.95
21082 | T | Prepare face/oral prosthesis | 0256 | 25.40 | $1,259.74 | $623.05 | $251.95
21083 | T | Prepare face/oral prosthesis | 0256 | 25.40 | $1,259.74 | $623.05 | $251.95
21084 | T | Prepare face/oral prosthesis | 0256 | 25.40 | $1,259.74 | $623.05 | $251.95
21085 | T | Prepare face/oral prosthesis | 0253 | 12.02 | $596.14 | $284.00 | $119.23
21086 | T | Prepare face/oral prosthesis | 0256 | 25.40 | $1,259.74 | $623.05 | $251.95
21087 | T | Prepare face/oral prosthesis | 0256 | 25.40 | $1,259.74 | $623.05 | $251.95
21088 | T | Prepare face/oral prosthesis | 0256 | 25.40 | $1,259.74 | $623.05 | $251.95
21089 | T | Prepare face/oral prosthesis | 0253 | 12.02 | $596.14 | $284.00 | $119.23
21100 | T | Maxillofacial fixation | 0256 | 25.40 | $1,259.74 | $623.05 | $251.95
21110 | T | Interdental fixation | 0254 | 12.45 | $617.47 | $272.41 | $123.49
21116 | N | Injection, jaw joint x-ray |  |  |  |  |
21120 | T | Reconstruction of chin | 0254 | 12.45 | $617.47 | $272.41 | $123.49
21121 | T | Reconstruction of chin | 0254 | 12.45 | $617.47 | $272.41 | $123.49
21122 | T | Reconstruction of chin | 0254 | 12.45 | $617.47 | $272.41 | $123.49
21123 | T | Reconstruction of chin | 0254 | 12.45 | $617.47 | $272.41 | $123.49
21125 | T | Augmentation, lower jaw bone | 0254 | 12.45 | $617.47 | $272.41 | $123.49
21127 | T | Augmentation, lower jaw bone | 0256 | 25.40 | $1,259.74 | $623.05 | $251.95
21137 | T | Reduction of forehead | 0254 | 12.45 | $617.47 | $272.41 | $123.49
21138 | T | Reduction of forehead | 0256 | 25.40 | $1,259.74 | $623.05 | $251.95
21139 | T | Reduction of forehead | 0256 | 25.40 | $1,259.74 | $623.05 | $251.95
21141 | C | Reconstruct midface, lefort |  |  |  |  |
21142 | C | Reconstruct midface, lefort |  |  |  |  |
21143 | C | Reconstruct midface, lefort |  |  |  |  |
21145 | C | Reconstruct midface, lefort |  |  |  |  |
21146 | C | Reconstruct midface, lefort |  |  |  |  |
21147 | C | Reconstruct midface, lefort |  |  |  |  |
21150 | C | Reconstruct midface, lefort |  |  |  |  |
21151 | C | Reconstruct midface, lefort |  |  |  |  |
21154 | C | Reconstruct midface, lefort |  |  |  |  |
21155 | C | Reconstruct midface, lefort |  |  |  |  |
21159 | C | Reconstruct midface, lefort |  |  |  |  |
21160 | C | Reconstruct midface, lefort |  |  |  |  |
21172 | C | Reconstruct orbit/forehead |  |  |  |  |
21175 | C | Reconstruct orbit/forehead |  |  |  |  |
21179 | C | Reconstruct entire forehead |  |  |  |  |
21180 | C | Reconstruct entire forehead |  |  |  |  |
21181 | T | Contour cranial bone lesion | 0254 | 12.45 | $617.47 | $272.41 | $123.49
21182 | C | Reconstruct cranial bone |  |  |  |  |
21183 | C | Reconstruct cranial bone |  |  |  |  |
21184 | C | Reconstruct cranial bone |  |  |  |  |
21188 | C | Reconstruction of midface |  |  |  |  |
21193 | C | Reconst lwr jaw w/o graft |  |  |  |  |
21194 | C | Reconst lwr jaw w/ graft |  |  |  |  |
21195 | C | Reconst lwr jaw w/o fixation |  |  |  |  |
21196 | C | Reconst lwr jaw w/fixation |  |  |  |  |
21198 | T | Reconst lwr jaw segment | 0256 | 25.40 | $1,259.74 | $623.05 | $251.95
*21199 | T | Reconst lwr jaw w/advance | 0256 | 25.40 | $1,259.74 | $623.05 | $251.95
21206 | T | Reconstruct upper jaw bone | 0256 | 25.40 | $1,259.74 | $623.05 | $251.95
21208 | T | Augmentation of facial bones | 0256 | 25.40 | $1,259.74 | $623.05 | $251.95
21209 | T | Reduction of facial bones | 0256 | 25.40 | $1,259.74 | $623.05 | $251.95
21210 | T | Face bone graft | 0256 | 25.40 | $1,259.74 | $623.05 | $251.95
21215 | T | Lower jaw bone graft | 0256 | 25.40 | $1,259.74 | $623.05 | $251.95
21230 | T | Rib cartilage graft | 0256 | 25.40 | $1,259.74 | $623.05 | $251.95
21235 | T | Ear cartilage graft | 0254 | 12.45 | $617.47 | $272.41 | $123.49
21240 | T | Reconstruction of jaw joint | 0256 | 25.40 | $1,259.74 | $623.05 | $251.95
21242 | T | Reconstruction of jaw joint | 0256 | 25.40 | $1,259.74 | $623.05 | $251.95
21243 | T | Reconstruction of jaw joint | 0256 | 25.40 | $1,259.74 | $623.05 | $251.95
21244 | T | Reconstruction of lower jaw | 0256 | 25.40 | $1,259.74 | $623.05 | $251.95
21245 | T | Reconstruction of jaw | 0256 | 25.40 | $1,259.74 | $623.05 | $251.95
21246 | T | Reconstruction of jaw | 0256 | 25.40 | $1,259.74 | $623.05 | $251.95
21247 | C | Reconstruct lower jaw bone |  |  |  |  |
21248 | T | Reconstruction of jaw | 0256 | 25.40 | $1,259.74 | $623.05 | $251.95
21249 | T | Reconstruction of jaw | 0256 | 25.40 | $1,259.74 | $623.05 | $251.95
21255 | C | Reconstruct lower jaw bone |  |  |  |  |
21256 | C | Reconstruction of orbit |  |  |  |  |
21260 | T | Revise eye sockets | 0256 | 25.40 | $1,259.74 | $623.05 | $251.95
21261 | T | Revise eye sockets | 0256 | 25.40 | $1,259.74 | $623.05 | $251.95
21263 | T | Revise eye sockets | 0256 | 25.40 | $1,259.74 | $623.05 | $251.95
21267 | T | Revise eye sockets | 0256 | 25.40 | $1,259.74 | $623.05 | $251.95
21268 | C | Revise eye sockets |  |  |  |  |
21270 | T | Augmentation, cheek bone | 0256 | 25.40 | $1,259.74 | $623.05 | $251.95
21275 | T | Revision, orbitofacial bones | 0256 | 25.40 | $1,259.74 | $623.05 | $251.95
21280 | T | Revision of eyelid | 0256 | 25.40 | $1,259.74 | $623.05 | $251.95
21282 | T | Revision of eyelid | 0253 | 12.02 | $596.14 | $284.00 | $119.23
21295 | T | Revision of jaw muscle/bone | 0253 | 12.02 | $596.14 | $284.00 | $119.23
21296 | T | Revision of jaw muscle/bone | 0254 | 12.45 | $617.47 | $272.41 | $123.49
21299 | T | Cranio/maxillofacial surgery | 0253 | 12.02 | $596.14 | $284.00 | $119.23
21300 | T | Treatment of skull fracture | 0253 | 12.02 | $596.14 | $284.00 | $119.23
21310 | T | Treatment of nose fracture | 0253 | 12.02 | $596.14 | $284.00 | $119.23
21315 | T | Treatment of nose fracture | 0253 | 12.02 | $596.14 | $284.00 | $119.23
21320 | T | Treatment of nose fracture | 0253 | 12.02 | $596.14 | $284.00 | $119.23
21325 | T | Treatment of nose fracture | 0253 | 12.02 | $596.14 | $284.00 | $119.23
21330 | T | Treatment of nose fracture | 0254 | 12.45 | $617.47 | $272.41 | $123.49
21335 | T | Treatment of nose fracture | 0254 | 12.45 | $617.47 | $272.41 | $123.49
21336 | T | Treat nasal septal fracture | 0046 | 22.29 | $1,105.50 | $535.76 | $221.10
21337 | T | Treat nasal septal fracture | 0253 | 12.02 | $596.14 | $284.00 | $119.23
21338 | T | Treat nasoethmoid fracture | 0254 | 12.45 | $617.47 | $272.41 | $123.49
21339 | T | Treat nasoethmoid fracture | 0254 | 12.45 | $617.47 | $272.41 | $123.49
21340 | T | Treatment of nose fracture | 0256 | 25.40 | $1,259.74 | $623.05 | $251.95
21343 | C | Treatment of sinus fracture |  |  |  |  |
21344 | C | Treatment of sinus fracture |  |  |  |  |
21345 | T | Treat nose/jaw fracture | 0254 | 12.45 | $617.47 | $272.41 | $123.49
21346 | C | Treat nose/jaw fracture |  |  |  |  |
21347 | C | Treat nose/jaw fracture |  |  |  |  |
21348 | C | Treat nose/jaw fracture |  |  |  |  |
21355 | T | Treat cheek bone fracture | 0256 | 25.40 | $1,259.74 | $623.05 | $251.95
21356 | C | Treat cheek bone fracture |  |  |  |  |
21360 | C | Treat cheek bone fracture |  |  |  |  |
21365 | C | Treat cheek bone fracture |  |  |  |  |
21366 | C | Treat cheek bone fracture |  |  |  |  |
21385 | C | Treat eye socket fracture |  |  |  |  |
21386 | C | Treat eye socket fracture |  |  |  |  |
21387 | C | Treat eye socket fracture |  |  |  |  |
21390 | C | Treat eye socket fracture |  |  |  |  |
21395 | C | Treat eye socket fracture |  |  |  |  |
21400 | T | Treat eye socket fracture | 0252 | 5.18 | $256.90 | $114.24 | $51.38
21401 | T | Treat eye socket fracture | 0253 | 12.02 | $596.14 | $284.00 | $119.23
21406 | T | Treat eye socket fracture | 0256 | 25.40 | $1,259.74 | $623.05 | $251.95
21407 | T | Treat eye socket fracture | 0256 | 25.40 | $1,259.74 | $623.05 | $251.95
21408 | C | Treat eye socket fracture |  |  |  |  |
21421 | T | Treat mouth roof fracture | 0254 | 12.45 | $617.47 | $272.41 | $123.49
21422 | C | Treat mouth roof fracture |  |  |  |  |
21423 | C | Treat mouth roof fracture |  |  |  |  |
21431 | C | Treat craniofacial fracture |  |  |  |  |
21432 | C | Treat craniofacial fracture |  |  |  |  |
21433 | C | Treat craniofacial fracture |  |  |  |  |
21435 | C | Treat craniofacial fracture |  |  |  |  |
21436 | C | Treat craniofacial fracture |  |  |  |  |
21440 | T | Treat dental ridge fracture | 0253 | 12.02 | $596.14 | $284.00 | $119.23
21445 | T | Treat dental ridge fracture | 0254 | 12.45 | $617.47 | $272.41 | $123.49
21450 | T | Treat lower jaw fracture | 0251 | 1.68 | $83.32 | $27.99 | $16.66
21451 | T | Treat lower jaw fracture | 0254 | 12.45 | $617.47 | $272.41 | $123.49
21452 | T | Treat lower jaw fracture | 0253 | 12.02 | $596.14 | $284.00 | $119.23
21453 | T | Treat lower jaw fracture | 0256 | 25.40 | $1,259.74 | $623.05 | $251.95
21454 | T | Treat lower jaw fracture | 0254 | 12.45 | $617.47 | $272.41 | $123.49
21461 | T | Treat lower jaw fracture | 0256 | 25.40 | $1,259.74 | $623.05 | $251.95
21462 | T | Treat lower jaw fracture | 0256 | 25.40 | $1,259.74 | $623.05 | $251.95
21465 | T | Treat lower jaw fracture | 0256 | 25.40 | $1,259.74 | $623.05 | $251.95
21470 | T | Treat lower jaw fracture | 0256 | 25.40 | $1,259.74 | $623.05 | $251.95
21480 | T | Reset dislocated jaw | 0251 | 1.68 | $83.32 | $27.99 | $16.66
21485 | T | Reset dislocated jaw | 0253 | 12.02 | $596.14 | $284.00 | $119.23
21490 | T | Repair dislocated jaw | 0256 | 25.40 | $1,259.74 | $623.05 | $251.95
21493 | T | Treat hyoid bone fracture | 0252 | 5.18 | $256.90 | $114.24 | $51.38
21494 | T | Treat hyoid bone fracture | 0252 | 5.18 | $256.90 | $114.24 | $51.38
21495 | C | Treat hyoid bone fracture |  |  |  |  |
21497 | T | Interdental wiring | 0253 | 12.02 | $596.14 | $284.00 | $119.23
21499 | T | Head surgery procedure | 0253 | 12.02 | $596.14 | $284.00 | $119.23
21501 | T | Drain neck/chest lesion | 0008 | 6.15 | $305.02 | $113.67 | $61.00
21502 | T | Drain chest lesion | 0050 | 21.13 | $1,047.96 | $513.86 | $209.59
21510 | C | Drainage of bone lesion |  |  |  |  |
21550 | T | Biopsy of neck/chest | 0019 | 4.00 | $198.39 | $78.91 | $39.68
21555 | T | Remove lesion, neck/chest | 0022 | 12.49 | $619.45 | $292.94 | $123.89
21556 | T | Remove lesion, neck/chest | 0022 | 12.49 | $619.45 | $292.94 | $123.89
21557 | C | Remove tumor, neck/chest |  |  |  |  |
21600 | T | Partial removal of rib | 0050 | 21.13 | $1,047.96 | $513.86 | $209.59
21610 | T | Partial removal of rib | 0050 | 21.13 | $1,047.96 | $513.86 | $209.59
21615 | C | Removal of rib |  |  |  |  |
21616 | C | Removal of rib and nerves |  |  |  |  |
21620 | C | Partial removal of sternum |  |  |  |  |
21627 | C | Sternal debridement |  |  |  |  |
21630 | C | Extensive sternum surgery |  |  |  |  |
21632 | C | Extensive sternum surgery |  |  |  |  |
21700 | T | Revision of neck muscle | 0008 | 6.15 | $305.02 | $113.67 | $61.00
21705 | C | Revision of neck muscle/rib |  |  |  |  |
21720 | T | Revision of neck muscle | 0008 | 6.15 | $305.02 | $113.67 | $61.00
21725 | T | Revision of neck muscle | 0008 | 6.15 | $305.02 | $113.67 | $61.00
21740 | C | Reconstruction of sternum |  |  |  |  |
21750 | C | Repair of sternum separation |  |  |  |  |
21800 | T | Treatment of rib fracture | 0043 | 1.64 | $81.34 | $25.46 | $16.27
21805 | T | Treatment of rib fracture | 0046 | 22.29 | $1,105.50 | $535.76 | $221.10
21810 | C | Treatment of rib fracture(s) |  |  |  |  |
21820 | T | Treat sternum fracture | 0043 | 1.64 | $81.34 | $25.46 | $16.27
21825 | C | Treat sternum fracture |  |  |  |  |
21899 | T | Neck/chest surgery procedure | 0252 | 5.18 | $256.90 | $114.24 | $51.38
21920 | T | Biopsy soft tissue of back | 0020 | 6.51 | $322.87 | $130.53 | $64.57
21925 | T | Biopsy soft tissue of back | 0022 | 12.49 | $619.45 | $292.94 | $123.89
21930 | T | Remove lesion, back or flank | 0022 | 12.49 | $619.45 | $292.94 | $123.89
21935 | T | Remove tumor, back | 0022 | 12.49 | $619.45 | $292.94 | $123.89
22100 | C | Remove part of neck vertebra |  |  |  |  |
22101 | C | Remove part, thorax vertebra |  |  |  |  |
22102 | C | Remove part, lumbar vertebra |  |  |  |  |
22103 | C | Remove extra spine segment |  |  |  |  |
22110 | C | Remove part of neck vertebra |  |  |  |  |
22112 | C | Remove part, thorax vertebra |  |  |  |  |
22114 | C | Remove part, lumbar vertebra |  |  |  |  |
22116 | C | Remove extra spine segment |  |  |  |  |
22210 | C | Revision of neck spine |  |  |  |  |
22212 | C | Revision of thorax spine |  |  |  |  |
22214 | C | Revision of lumbar spine |  |  |  |  |
22216 | C | Revise, extra spine segment |  |  |  |  |
22220 | C | Revision of neck spine |  |  |  |  |
22222 | C | Revision of thorax spine |  |  |  |  |
22224 | C | Revision of lumbar spine |  |  |  |  |
22226 | C | Revise, extra spine segment |  |  |  |  |
22305 | T | Treat spine process fracture | 0043 | 1.64 | $81.34 | $25.46 | $16.27
22310 | T | Treat spine fracture | 0043 | 1.64 | $81.34 | $25.46 | $16.27
22315 | T | Treat spine fracture | 0043 | 1.64 | $81.34 | $25.46 | $16.27
22318 | C | Treat odontoid fx w/o graft |  |  |  |  |
22319 | C | Treat odontoid fx w/graft |  |  |  |  |
22325 | C | Treat spine fracture |  |  |  |  |
22326 | C | Treat neck spine fracture |  |  |  |  |
22327 | C | Treat thorax spine fracture |  |  |  |  |
22328 | C | Treat each add spine fx |  |  |  |  |
22505 | T | Manipulation of spine | 0045 | 11.02 | $546.55 | $277.12 | $109.31
*22520 | T | Percut vertebroplasty thor | 0049 | 15.04 | $745.93 | $356.95 | $149.19
*22521 | T | Percut vertebroplasty lumb | 0049 | 15.04 | $745.93 | $356.95 | $149.19
*22522 | T | Percut vertebroplasty addl | 0049 | 15.04 | $745.93 | $356.95 | $149.19
22548 | C | Neck spine fusion |  |  |  |  |
22554 | C | Neck spine fusion |  |  |  |  |
22556 | C | Thorax spine fusion |  |  |  |  |
22558 | C | Lumbar spine fusion |  |  |  |  |
22585 | C | Additional spinal fusion |  |  |  |  |
22590 | C | Spine & skull spinal fusion |  |  |  |  |
22595 | C | Neck spinal fusion |  |  |  |  |
22600 | C | Neck spine fusion |  |  |  |  |
22610 | C | Thorax spine fusion |  |  |  |  |
22612 | C | Lumbar spine fusion |  |  |  |  |
22614 | C | Spine fusion, extra segment |  |  |  |  |
22630 | C | Lumbar spine fusion |  |  |  |  |
22632 | C | Spine fusion, extra segment |  |  |  |  |
22800 | C | Fusion of spine |  |  |  |  |
22802 | C | Fusion of spine |  |  |  |  |
22804 | C | Fusion of spine |  |  |  |  |
22808 | C | Fusion of spine |  |  |  |  |
22810 | C | Fusion of spine |  |  |  |  |
22812 | C | Fusion of spine |  |  |  |  |
22818 | C | Kyphectomy, 1-2 segments |  |  |  |  |
22819 | C | Kyphectomy, 3 or more |  |  |  |  |
22830 | C | Exploration of spinal fusion |  |  |  |  |
22840 | C | Insert spine fixation device |  |  |  |  |
22841 | C | Insert spine fixation device |  |  |  |  |
22842 | C | Insert spine fixation device |  |  |  |  |
22843 | C | Insert spine fixation device |  |  |  |  |
22844 | C | Insert spine fixation device |  |  |  |  |
22845 | C | Insert spine fixation device |  |  |  |  |
22846 | C | Insert spine fixation device |  |  |  |  |
22847 | C | Insert spine fixation device |  |  |  |  |
22848 | C | Insert pelv fixation device |  |  |  |  |
22849 | C | Reinsert spinal fixation |  |  |  |  |
22850 | C | Remove spine fixation device |  |  |  |  |
22851 | C | Apply spine prosth device |  |  |  |  |
22852 | C | Remove spine fixation device |  |  |  |  |
22855 | C | Remove spine fixation device |  |  |  |  |
22899 | T | Spine surgery procedure | 0043 | 1.64 | $81.34 | $25.46 | $16.27
22900 | T | Remove abdominal wall lesion | 0022 | 12.49 | $619.45 | $292.94 | $123.89
22999 | T | Abdomen surgery procedure | 0022 | 12.49 | $619.45 | $292.94 | $123.89
23000 | T | Removal of calcium deposits | 0021 | 10.49 | $520.26 | $236.51 | $104.05
23020 | T | Release shoulder joint | 0051 | 27.76 | $1,376.79 | $675.24 | $275.36
23030 | T | Drain shoulder lesion | 0008 | 6.15 | $305.02 | $113.67 | $61.00
23031 | T | Drain shoulder bursa | 0008 | 6.15 | $305.02 | $113.67 | $61.00
23035 | C | Drain shoulder bone lesion |  |  |  |  |
23040 | T | Exploratory shoulder surgery | 0050 | 21.13 | $1,047.96 | $513.86 | $209.59
23044 | T | Exploratory shoulder surgery | 0050 | 21.13 | $1,047.96 | $513.86 | $209.59
23065 | T | Biopsy shoulder tissues | 0021 | 10.49 | $520.26 | $236.51 | $104.05
23066 | T | Biopsy shoulder tissues | 0022 | 12.49 | $619.45 | $292.94 | $123.89
23075 | T | Removal of shoulder lesion | 0021 | 10.49 | $520.26 | $236.51 | $104.05
23076 | T | Removal of shoulder lesion | 0022 | 12.49 | $619.45 | $292.94 | $123.89
23077 | T | Remove tumor of shoulder | 0022 | 12.49 | $619.45 | $292.94 | $123.89
23100 | T | Biopsy of shoulder joint | 0049 | 15.04 | $745.93 | $356.95 | $149.19
23101 | T | Shoulder joint surgery | 0050 | 21.13 | $1,047.96 | $513.86 | $209.59
23105 | T | Remove shoulder joint lining | 0050 | 21.13 | $1,047.96 | $513.86 | $209.59
23106 | T | Incision of collarbone joint | 0050 | 21.13 | $1,047.96 | $513.86 | $209.59
23107 | T | Explore treat shoulder joint | 0050 | 21.13 | $1,047.96 | $513.86 | $209.59
23120 | T | Partial removal, collar bone | 0051 | 27.76 | $1,376.79 | $675.24 | $275.36
23125 | C | Removal of collar bone |  |  |  |  |
23130 | T | Remove shoulder bone, part | 0051 | 27.76 | $1,376.79 | $675.24 | $275.36
23140 | T | Removal of bone lesion | 0049 | 15.04 | $745.93 | $356.95 | $149.19
23145 | T | Removal of bone lesion | 0050 | 21.13 | $1,047.96 | $513.86 | $209.59
23146 | T | Removal of bone lesion | 0050 | 21.13 | $1,047.96 | $513.86 | $209.59
23150 | T | Removal of humerus lesion | 0050 | 21.13 | $1,047.96 | $513.86 | $209.59
23155 | T | Removal of humerus lesion | 0050 | 21.13 | $1,047.96 | $513.86 | $209.59
23156 | T | Removal of humerus lesion | 0050 | 21.13 | $1,047.96 | $513.86 | $209.59
23170 | T | Remove collar bone lesion | 0050 | 21.13 | $1,047.96 | $513.86 | $209.59
23172 | T | Remove shoulder blade lesion | 0050 | 21.13 | $1,047.96 | $513.86 | $209.59
23174 | T | Remove humerus lesion | 0050 | 21.13 | $1,047.96 | $513.86 | $209.59
23180 | T | Remove collar bone lesion | 0050 | 21.13 | $1,047.96 | $513.86 | $209.59
23182 | T | Remove shoulder blade lesion | 0050 | 21.13 | $1,047.96 | $513.86 | $209.59
23184 | T | Remove humerus lesion | 0050 | 21.13 | $1,047.96 | $513.86 | $209.59
23190 | T | Partial removal of scapula | 0050 | 21.13 | $1,047.96 | $513.86 | $209.59
23195 | C | Removal of head of humerus |  |  |  |  |
23200 | C | Removal of collar bone |  |  |  |  |
23210 | C | Removal of shoulder blade |  |  |  |  |
23220 | C | Partial removal of humerus |  |  |  |  |
23221 | C | Partial removal of humerus |  |  |  |  |
23222 | C | Partial removal of humerus |  |  |  |  |
23330 | T | Remove shoulder foreign body | 0019 | 4.00 | $198.39 | $78.91 | $39.68
23331 | T | Remove shoulder foreign body | 0022 | 12.49 | $619.45 | $292.94 | $123.89
23332 | C | Remove shoulder foreign body |  |  |  |  |
23350 | N | Injection for shoulder x-ray |  |  |  |  |
23395 | C | Muscle transfer,shoulder/arm |  |  |  |  |
23397 | C | Muscle transfers |  |  |  |  |
23400 | C | Fixation of shoulder blade |  |  |  |  |
23405 | T | Incision of tendon & muscle | 0050 | 21.13 | $1,047.96 | $513.86 | $209.59
23406 | T | Incise tendon(s) & muscle(s) | 0050 | 21.13 | $1,047.96 | $513.86 | $209.59
23410 | T | Repair of tendon(s) | 0052 | 36.16 | $1,793.39 | $930.91 | $358.68
23412 | T | Repair of tendon(s) | 0052 | 36.16 | $1,793.39 | $930.91 | $358.68
23415 | T | Release of shoulder ligament | 0051 | 27.76 | $1,376.79 | $675.24 | $275.36
23420 | T | Repair of shoulder | 0052 | 36.16 | $1,793.39 | $930.91 | $358.68
23430 | T | Repair biceps tendon | 0052 | 36.16 | $1,793.39 | $930.91 | $358.68
23440 | C | Remove/transplant tendon |  |  |  |  |
23450 | T | Repair shoulder capsule | 0052 | 36.16 | $1,793.39 | $930.91 | $358.68
23455 | T | Repair shoulder capsule | 0052 | 36.16 | $1,793.39 | $930.91 | $358.68
23460 | T | Repair shoulder capsule | 0052 | 36.16 | $1,793.39 | $930.91 | $358.68
23462 | T | Repair shoulder capsule | 0052 | 36.16 | $1,793.39 | $930.91 | $358.68
23465 | T | Repair shoulder capsule | 0052 | 36.16 | $1,793.39 | $930.91 | $358.68
23466 | T | Repair shoulder capsule | 0052 | 36.16 | $1,793.39 | $930.91 | $358.68
23470 | C | Reconstruct shoulder joint |  |  |  |  |
23472 | C | Reconstruct shoulder joint |  |  |  |  |
23480 | T | Revision of collar bone | 0051 | 27.76 | $1,376.79 | $675.24 | $275.36
23485 | T | Revision of collar bone | 0051 | 27.76 | $1,376.79 | $675.24 | $275.36
23490 | T | Reinforce clavicle | 0051 | 27.76 | $1,376.79 | $675.24 | $275.36
23491 | T | Reinforce shoulder bones | 0051 | 27.76 | $1,376.79 | $675.24 | $275.36
23500 | T | Treat clavicle fracture | 0043 | 1.64 | $81.34 | $25.46 | $16.27
23505 | T | Treat clavicle fracture | 0043 | 1.64 | $81.34 | $25.46 | $16.27
23515 | T | Treat clavicle fracture | 0046 | 22.29 | $1,105.50 | $535.76 | $221.10
23520 | T | Treat clavicle dislocation | 0043 | 1.64 | $81.34 | $25.46 | $16.27
23525 | T | Treat clavicle dislocation | 0043 | 1.64 | $81.34 | $25.46 | $16.27
23530 | T | Treat clavicle dislocation | 0046 | 22.29 | $1,105.50 | $535.76 | $221.10
23532 | T | Treat clavicle dislocation | 0046 | 22.29 | $1,105.50 | $535.76 | $221.10
23540 | T | Treat clavicle dislocation | 0043 | 1.64 | $81.34 | $25.46 | $16.27
23545 | T | Treat clavicle dislocation | 0043 | 1.64 | $81.34 | $25.46 | $16.27
23550 | T | Treat clavicle dislocation | 0046 | 22.29 | $1,105.50 | $535.76 | $221.10
23552 | T | Treat clavicle dislocation | 0046 | 22.29 | $1,105.50 | $535.76 | $221.10
23570 | T | Treat shoulder blade fx | 0043 | 1.64 | $81.34 | $25.46 | $16.27
23575 | T | Treat shoulder blade fx | 0043 | 1.64 | $81.34 | $25.46 | $16.27
23585 | T | Treat scapula fracture | 0046 | 22.29 | $1,105.50 | $535.76 | $221.10
23600 | T | Treat humerus fracture | 0044 | 2.17 | $107.63 | $38.08 | $21.53
23605 | T | Treat humerus fracture | 0044 | 2.17 | $107.63 | $38.08 | $21.53
23615 | T | Treat humerus fracture | 0046 | 22.29 | $1,105.50 | $535.76 | $221.10
23616 | T | Treat humerus fracture | 0046 | 22.29 | $1,105.50 | $535.76 | $221.10
23620 | T | Treat humerus fracture | 0044 | 2.17 | $107.63 | $38.08 | $21.53
23625 | T | Treat humerus fracture | 0044 | 2.17 | $107.63 | $38.08 | $21.53
23630 | T | Treat humerus fracture | 0046 | 22.29 | $1,105.50 | $535.76 | $221.10
23650 | T | Treat shoulder dislocation | 0043 | 1.64 | $81.34 | $25.46 | $16.27
23655 | T | Treat shoulder dislocation | 0045 | 11.02 | $546.55 | $277.12 | $109.31
23660 | T | Treat shoulder dislocation | 0046 | 22.29 | $1,105.50 | $535.76 | $221.10
23665 | T | Treat dislocation/fracture | 0044 | 2.17 | $107.63 | $38.08 | $21.53
23670 | T | Treat dislocation/fracture | 0046 | 22.29 | $1,105.50 | $535.76 | $221.10
23675 | T | Treat dislocation/fracture | 0044 | 2.17 | $107.63 | $38.08 | $21.53
23680 | T | Treat dislocation/fracture | 0046 | 22.29 | $1,105.50 | $535.76 | $221.10
23700 | T | Fixation of shoulder | 0045 | 11.02 | $546.55 | $277.12 | $109.31
23800 | T | Fusion of shoulder joint | 0051 | 27.76 | $1,376.79 | $675.24 | $275.36
23802 | T | Fusion of shoulder joint | 0051 | 27.76 | $1,376.79 | $675.24 | $275.36
23900 | C | Amputation of arm & girdle |  |  |  |  |
23920 | C | Amputation at shoulder joint |  |  |  |  |
23921 | T | Amputation follow-up surgery | 0026 | 12.11 | $600.61 | $277.92 | $120.12
23929 | T | Shoulder surgery procedure | 0043 | 1.64 | $81.34 | $25.46 | $16.27
23930 | T | Drainage of arm lesion | 0008 | 6.15 | $305.02 | $113.67 | $61.00
23931 | T | Drainage of arm bursa | 0008 | 6.15 | $305.02 | $113.67 | $61.00
23935 | T | Drain arm/elbow bone lesion | 0049 | 15.04 | $745.93 | $356.95 | $149.19
24000 | T | Exploratory elbow surgery | 0050 | 21.13 | $1,047.96 | $513.86 | $209.59
24006 | T | Release elbow joint | 0050 | 21.13 | $1,047.96 | $513.86 | $209.59
24065 | T | Biopsy arm/elbow soft tissue | 0020 | 6.51 | $322.87 | $130.53 | $64.57
24066 | T | Biopsy arm/elbow soft tissue | 0020 | 6.51 | $322.87 | $130.53 | $64.57
24075 | T | Remove arm/elbow lesion | 0021 | 10.49 | $520.26 | $236.51 | $104.05
24076 | T | Remove arm/elbow lesion | 0022 | 12.49 | $619.45 | $292.94 | $123.89
24077 | T | Remove tumor of arm/elbow | 0022 | 12.49 | $619.45 | $292.94 | $123.89
24100 | T | Biopsy elbow joint lining | 0049 | 15.04 | $745.93 | $356.95 | $149.19
24101 | T | Explore/treat elbow joint | 0050 | 21.13 | $1,047.96 | $513.86 | $209.59
24102 | T | Remove elbow joint lining | 0050 | 21.13 | $1,047.96 | $513.86 | $209.59
24105 | T | Removal of elbow bursa | 0049 | 15.04 | $745.93 | $356.95 | $149.19
24110 | T | Remove humerus lesion | 0049 | 15.04 | $745.93 | $356.95 | $149.19
24115 | T | Remove/graft bone lesion | 0050 | 21.13 | $1,047.96 | $513.86 | $209.59
24116 | T | Remove/graft bone lesion | 0050 | 21.13 | $1,047.96 | $513.86 | $209.59
24120 | T | Remove elbow lesion | 0049 | 15.04 | $745.93 | $356.95 | $149.19
24125 | T | Remove/graft bone lesion | 0050 | 21.13 | $1,047.96 | $513.86 | $209.59
24126 | T | Remove/graft bone lesion | 0050 | 21.13 | $1,047.96 | $513.86 | $209.59
24130 | T | Removal of head of radius | 0050 | 21.13 | $1,047.96 | $513.86 | $209.59
24134 | T | Removal of arm bone lesion | 0050 | 21.13 | $1,047.96 | $513.86 | $209.59
24136 | T | Remove radius bone lesion | 0050 | 21.13 | $1,047.96 | $513.86 | $209.59
24138 | T | Remove elbow bone lesion | 0050 | 21.13 | $1,047.96 | $513.86 | $209.59
24140 | T | Partial removal of arm bone | 0050 | 21.13 | $1,047.96 | $513.86 | $209.59
24145 | T | Partial removal of radius | 0050 | 21.13 | $1,047.96 | $513.86 | $209.59
24147 | T | Partial removal of elbow | 0050 | 21.13 | $1,047.96 | $513.86 | $209.59
24149 | C | Radical resection of elbow |  |  |  |  |
24150 | C | Extensive humerus surgery |  |  |  |  |
24151 | C | Extensive humerus surgery |  |  |  |  |
24152 | C | Extensive radius surgery |  |  |  |  |
24153 | C | Extensive radius surgery |  |  |  |  |
24155 | T | Removal of elbow joint | 0051 | 27.76 | $1,376.79 | $675.24 | $275.36
24160 | T | Remove elbow joint implant | 0050 | 21.13 | $1,047.96 | $513.86 | $209.59
24164 | T | Remove radius head implant | 0050 | 21.13 | $1,047.96 | $513.86 | $209.59
24200 | T | Removal of arm foreign body | 0019 | 4.00 | $198.39 | $78.91 | $39.68
24201 | T | Removal of arm foreign body | 0021 | 10.49 | $520.26 | $236.51 | $104.05
24220 | N | Injection for elbow x-ray |  |  |  |  |
24301 | T | Muscle/tendon transfer | 0050 | 21.13 | $1,047.96 | $513.86 | $209.59
24305 | T | Arm tendon lengthening | 0050 | 21.13 | $1,047.96 | $513.86 | $209.59
24310 | T | Revision of arm tendon | 0049 | 15.04 | $745.93 | $356.95 | $149.19
24320 | T | Repair of arm tendon | 0051 | 27.76 | $1,376.79 | $675.24 | $275.36
24330 | T | Revision of arm muscles | 0051 | 27.76 | $1,376.79 | $675.24 | $275.36
24331 | T | Revision of arm muscles | 0051 | 27.76 | $1,376.79 | $675.24 | $275.36
24340 | T | Repair of biceps tendon | 0051 | 27.76 | $1,376.79 | $675.24 | $275.36
24341 | T | Repair arm tendon/muscle | 0051 | 27.76 | $1,376.79 | $675.24 | $275.36
24342 | T | Repair of ruptured tendon | 0051 | 27.76 | $1,376.79 | $675.24 | $275.36
24350 | T | Repair of tennis elbow | 0050 | 21.13 | $1,047.96 | $513.86 | $209.59
24351 | T | Repair of tennis elbow | 0050 | 21.13 | $1,047.96 | $513.86 | $209.59
24352 | T | Repair of tennis elbow | 0050 | 21.13 | $1,047.96 | $513.86 | $209.59
24354 | T | Repair of tennis elbow | 0050 | 21.13 | $1,047.96 | $513.86 | $209.59
24356 | T | Revision of tennis elbow | 0050 | 21.13 | $1,047.96 | $513.86 | $209.59
24360 | T | Reconstruct elbow joint | 0047 | 22.09 | $1,095.58 | $537.03 | $219.12
24361 | T | Reconstruct elbow joint | 0048 | 29.06 | $1,441.26 | $725.94 | $288.25
24362 | T | Reconstruct elbow joint | 0048 | 29.06 | $1,441.26 | $725.94 | $288.25
24363 | T | Replace elbow joint | 0048 | 29.06 | $1,441.26 | $725.94 | $288.25
24365 | T | Reconstruct head of radius | 0047 | 22.09 | $1,095.58 | $537.03 | $219.12
24366 | T | Reconstruct head of radius | 0048 | 29.06 | $1,441.26 | $725.94 | $288.25
24400 | T | Revision of humerus | 0050 | 21.13 | $1,047.96 | $513.86 | $209.59
24410 | T | Revision of humerus | 0050 | 21.13 | $1,047.96 | $513.86 | $209.59
24420 | T | Revision of humerus | 0051 | 27.76 | $1,376.79 | $675.24 | $275.36
24430 | T | Repair of humerus | 0051 | 27.76 | $1,376.79 | $675.24 | $275.36
24435 | T | Repair humerus with graft | 0051 | 27.76 | $1,376.79 | $675.24 | $275.36
24470 | T | Revision of elbow joint | 0051 | 27.76 | $1,376.79 | $675.24 | $275.36
24495 | T | Decompression of forearm | 0050 | 21.13 | $1,047.96 | $513.86 | $209.59
24498 | T | Reinforce humerus | 0051 | 27.76 | $1,376.79 | $675.24 | $275.36
24500 | T | Treat humerus fracture | 0044 | 2.17 | $107.63 | $38.08 | $21.53
24505 | T | Treat humerus fracture | 0044 | 2.17 | $107.63 | $38.08 | $21.53
24515 | T | Treat humerus fracture | 0046 | 22.29 | $1,105.50 | $535.76 | $221.10
24516 | T | Treat humerus fracture | 0046 | 22.29 | $1,105.50 | $535.76 | $221.10
24530 | T | Treat humerus fracture | 0044 | 2.17 | $107.63 | $38.08 | $21.53
24535 | T | Treat humerus fracture | 0044 | 2.17 | $107.63 | $38.08 | $21.53
24538 | T | Treat humerus fracture | 0046 | 22.29 | $1,105.50 | $535.76 | $221.10
24545 | T | Treat humerus fracture | 0046 | 22.29 | $1,105.50 | $535.76 | $221.10
24546 | T | Treat humerus fracture | 0046 | 22.29 | $1,105.50 | $535.76 | $221.10
24560 | T | Treat humerus fracture | 0044 | 2.17 | $107.63 | $38.08 | $21.53
24565 | T | Treat humerus fracture | 0044 | 2.17 | $107.63 | $38.08 | $21.53
24566 | T | Treat humerus fracture | 0046 | 22.29 | $1,105.50 | $535.76 | $221.10
24575 | T | Treat humerus fracture | 0046 | 22.29 | $1,105.50 | $535.76 | $221.10
24576 | T | Treat humerus fracture | 0044 | 2.17 | $107.63 | $38.08 | $21.53
24577 | T | Treat humerus fracture | 0044 | 2.17 | $107.63 | $38.08 | $21.53
24579 | T | Treat humerus fracture | 0046 | 22.29 | $1,105.50 | $535.76 | $221.10
24582 | T | Treat humerus fracture | 0046 | 22.29 | $1,105.50 | $535.76 | $221.10
24586 | T | Treat elbow fracture | 0046 | 22.29 | $1,105.50 | $535.76 | $221.10
24587 | T | Treat elbow fracture | 0046 | 22.29 | $1,105.50 | $535.76 | $221.10
24600 | T | Treat elbow dislocation | 0044 | 2.17 | $107.63 | $38.08 | $21.53
24605 | T | Treat elbow dislocation | 0045 | 11.02 | $546.55 | $277.12 | $109.31
24615 | T | Treat elbow dislocation | 0046 | 22.29 | $1,105.50 | $535.76 | $221.10
24620 | T | Treat elbow fracture | 0044 | 2.17 | $107.63 | $38.08 | $21.53
24635 | T | Treat elbow fracture | 0046 | 22.29 | $1,105.50 | $535.76 | $221.10
24640 | T | Treat elbow dislocation | 0044 | 2.17 | $107.63 | $38.08 | $21.53
24650 | T | Treat radius fracture | 0044 | 2.17 | $107.63 | $38.08 | $21.53
24655 | T | Treat radius fracture | 0044 | 2.17 | $107.63 | $38.08 | $21.53
24665 | T | Treat radius fracture | 0046 | 22.29 | $1,105.50 | $535.76 | $221.10
24666 | T | Treat radius fracture | 0046 | 22.29 | $1,105.50 | $535.76 | $221.10
24670 | T | Treat ulnar fracture | 0044 | 2.17 | $107.63 | $38.08 | $21.53
24675 | T | Treat ulnar fracture | 0044 | 2.17 | $107.63 | $38.08 | $21.53
24685 | T | Treat ulnar fracture | 0046 | 22.29 | $1,105.50 | $535.76 | $221.10
24800 | T | Fusion of elbow joint | 0051 | 27.76 | $1,376.79 | $675.24 | $275.36
24802 | T | Fusion/graft of elbow joint | 0051 | 27.76 | $1,376.79 | $675.24 | $275.36
24900 | C | Amputation of upper arm |  |  |  |  |
24920 | C | Amputation of upper arm |  |  |  |  |
24925 | T | Amputation follow-up surgery | 0049 | 15.04 | $745.93 | $356.95 | $149.19
24930 | C | Amputation follow-up surgery |  |  |  |  |
24931 | C | Amputate upper arm & implant |  |  |  |  |
24935 | T | Revision of amputation | 0052 | 36.16 | $1,793.39 | $930.91 | $358.68
24940 | C | Revision of upper arm |  |  |  |  |
24999 | T | Upper arm/elbow surgery | 0044 | 2.17 | $107.63 | $38.08 | $21.53
25000 | T | Incision of tendon sheath | 0049 | 15.04 | $745.93 | $356.95 | $149.19
25020 | T | Decompression of forearm | 0049 | 15.04 | $745.93 | $356.95 | $149.19
25023 | T | Decompression of forearm | 0050 | 21.13 | $1,047.96 | $513.86 | $209.59
25028 | T | Drainage of forearm lesion | 0049 | 15.04 | $745.93 | $356.95 | $149.19
25031 | T | Drainage of forearm bursa | 0049 | 15.04 | $745.93 | $356.95 | $149.19
25035 | T | Treat forearm bone lesion | 0049 | 15.04 | $745.93 | $356.95 | $149.19
25040 | T | Explore/treat wrist joint | 0050 | 21.13 | $1,047.96 | $513.86 | $209.59
25065 | T | Biopsy forearm soft tissues | 0020 | 6.51 | $322.87 | $130.53 | $64.57
25066 | T | Biopsy forearm soft tissues | 0022 | 12.49 | $619.45 | $292.94 | $123.89
25075 | T | Removal of forearm lesion | 0020 | 6.51 | $322.87 | $130.53 | $64.57
25076 | T | Removal of forearm lesion | 0022 | 12.49 | $619.45 | $292.94 | $123.89
25077 | T | Remove tumor, forearm/wrist | 0022 | 12.49 | $619.45 | $292.94 | $123.89
25085 | T | Incision of wrist capsule | 0049 | 15.04 | $745.93 | $356.95 | $149.19
25100 | T | Biopsy of wrist joint | 0049 | 15.04 | $745.93 | $356.95 | $149.19
25101 | T | Explore/treat wrist joint | 0050 | 21.13 | $1,047.96 | $513.86 | $209.59
25105 | T | Remove wrist joint lining | 0050 | 21.13 | $1,047.96 | $513.86 | $209.59
25107 | T | Remove wrist joint cartilage | 0050 | 21.13 | $1,047.96 | $513.86 | $209.59
25110 | T | Remove wrist tendon lesion | 0049 | 15.04 | $745.93 | $356.95 | $149.19
25111 | T | Remove wrist tendon lesion | 0053 | 11.32 | $561.42 | $253.49 | $112.28
25112 | T | Reremove wrist tendon lesion | 0053 | 11.32 | $561.42 | $253.49 | $112.28
25115 | T | Remove wrist/forearm lesion | 0049 | 15.04 | $745.93 | $356.95 | $149.19
25116 | T | Remove wrist/forearm lesion | 0049 | 15.04 | $745.93 | $356.95 | $149.19
25118 | T | Excise wrist tendon sheath | 0050 | 21.13 | $1,047.96 | $513.86 | $209.59
25119 | T | Partial removal of ulna | 0050 | 21.13 | $1,047.96 | $513.86 | $209.59
25120 | T | Removal of forearm lesion | 0050 | 21.13 | $1,047.96 | $513.86 | $209.59
25125 | T | Remove/graft forearm lesion | 0050 | 21.13 | $1,047.96 | $513.86 | $209.59
25126 | T | Remove/graft forearm lesion | 0050 | 21.13 | $1,047.96 | $513.86 | $209.59
25130 | T | Removal of wrist lesion | 0050 | 21.13 | $1,047.96 | $513.86 | $209.59
25135 | T | Remove & graft wrist lesion | 0050 | 21.13 | $1,047.96 | $513.86 | $209.59
25136 | T | Remove & graft wrist lesion | 0050 | 21.13 | $1,047.96 | $513.86 | $209.59
25145 | T | Remove forearm bone lesion | 0050 | 21.13 | $1,047.96 | $513.86 | $209.59
25150 | T | Partial removal of ulna | 0050 | 21.13 | $1,047.96 | $513.86 | $209.59
25151 | T | Partial removal of radius | 0050 | 21.13 | $1,047.96 | $513.86 | $209.59
25170 | C | Extensive forearm surgery |  |  |  |  |
25210 | T | Removal of wrist bone | 0054 | 19.66 | $975.06 | $472.33 | $195.01
25215 | T | Removal of wrist bones | 0054 | 19.66 | $975.06 | $472.33 | $195.01
25230 | T | Partial removal of radius | 0050 | 21.13 | $1,047.96 | $513.86 | $209.59
25240 | T | Partial removal of ulna | 0050 | 21.13 | $1,047.96 | $513.86 | $209.59
25246 | N | Injection for wrist x-ray |  |  |  |  |
25248 | T | Remove forearm foreign body | 0049 | 15.04 | $745.93 | $356.95 | $149.19
25250 | T | Removal of wrist prosthesis | 0050 | 21.13 | $1,047.96 | $513.86 | $209.59
25251 | T | Removal of wrist prosthesis | 0050 | 21.13 | $1,047.96 | $513.86 | $209.59
25260 | T | Repair forearm tendon/muscle | 0050 | 21.13 | $1,047.96 | $513.86 | $209.59
25263 | T | Repair forearm tendon/muscle | 0050 | 21.13 | $1,047.96 | $513.86 | $209.59
25265 | T | Repair forearm tendon/muscle | 0050 | 21.13 | $1,047.96 | $513.86 | $209.59
25270 | T | Repair forearm tendon/muscle | 0050 | 21.13 | $1,047.96 | $513.86 | $209.59
25272 | T | Repair forearm tendon/muscle | 0050 | 21.13 | $1,047.96 | $513.86 | $209.59
25274 | T | Repair forearm tendon/muscle | 0050 | 21.13 | $1,047.96 | $513.86 | $209.59
25280 | T | Revise wrist/forearm tendon | 0050 | 21.13 | $1,047.96 | $513.86 | $209.59
25290 | T | Incise wrist/forearm tendon | 0050 | 21.13 | $1,047.96 | $513.86 | $209.59
25295 | T | Release wrist/forearm tendon | 0049 | 15.04 | $745.93 | $356.95 | $149.19
25300 | T | Fusion of tendons at wrist | 0050 | 21.13 | $1,047.96 | $513.86 | $209.59
25301 | T | Fusion of tendons at wrist | 0050 | 21.13 | $1,047.96 | $513.86 | $209.59
27606 | T | Incision of achilles tendon | 0049 | 15.04 | $745.93 | $356.95 | $149.19
27607 | T | Treat lower leg bone lesion | 0049 | 15.04 | $745.93 | $356.95 | $149.19
27610 | T | Explore/treat ankle joint | 0050 | 21.13 | $1,047.96 | $513.86 | $209.59
27612 | T | Exploration of ankle joint | 0050 | 21.13 | $1,047.96 | $513.86 | $209.59
27613 | T | Biopsy lower leg soft tissue | 0020 | 6.51 | $322.87 | $130.53 | $64.57
27614 | T | Biopsy lower leg soft tissue | 0022 | 12.49 | $619.45 | $292.94 | $123.89
27615 | T | Remove tumor, lower leg | 0046 | 22.29 | $1,105.50 | $535.76 | $221.10
27618 | T | Remove lower leg lesion | 0021 | 10.49 | $520.26 | $236.51 | $104.05
27619 | T | Remove lower leg lesion | 0022 | 12.49 | $619.45 | $292.94 | $123.89
27620 | T | Explore/treat ankle joint | 0050 | 21.13 | $1,047.96 | $513.86 | $209.59
27625 | T | Remove ankle joint lining | 0050 | 21.13 | $1,047.96 | $513.86 | $209.59
27626 | T | Remove ankle joint lining | 0050 | 21.13 | $1,047.96 | $513.86 | $209.59
27630 | T | Removal of tendon lesion | 0049 | 15.04 | $745.93 | $356.95 | $149.19
27635 | T | Remove lower leg bone lesion | 0050 | 21.13 | $1,047.96 | $513.86 | $209.59
27637 | T | Remove/graft leg bone lesion | 0050 | 21.13 | $1,047.96 | $513.86 | $209.59
27638 | T | Remove/graft leg bone lesion | 0050 | 21.13 | $1,047.96 | $513.86 | $209.59
27640 | T | Partial removal of tibia | 0051 | 27.76 | $1,376.79 | $675.24 | $275.36
27641 | T | Partial removal of fibula | 0050 | 21.13 | $1,047.96 | $513.86 | $209.59
27645 | C | Extensive lower leg surgery |  |  |  |  |
27646 | C | Extensive lower leg surgery |  |  |  |  |
27647 | T | Extensive ankle/heel surgery | 0051 | 27.76 | $1,376.79 | $675.24 | $275.36
27648 | N | Injection for ankle x-ray |  |  |  |  |
27650 | T | Repair achilles tendon | 0051 | 27.76 | $1,376.79 | $675.24 | $275.36
27652 | T | Repair/graft achilles tendon | 0051 | 27.76 | $1,376.79 | $675.24 | $275.36
27654 | T | Repair of achilles tendon | 0051 | 27.76 | $1,376.79 | $675.24 | $275.36
27656 | T | Repair leg fascia defect | 0049 | 15.04 | $745.93 | $356.95 | $149.19
27658 | T | Repair of leg tendon, each | 0049 | 15.04 | $745.93 | $356.95 | $149.19
27659 | T | Repair of leg tendon, each | 0049 | 15.04 | $745.93 | $356.95 | $149.19
27664 | T | Repair of leg tendon, each | 0049 | 15.04 | $745.93 | $356.95 | $149.19
27665 | T | Repair of leg tendon, each | 0050 | 21.13 | $1,047.96 | $513.86 | $209.59
27675 | T | Repair lower leg tendons | 0049 | 15.04 | $745.93 | $356.95 | $149.19
27676 | T | Repair lower leg tendons | 0050 | 21.13 | $1,047.96 | $513.86 | $209.59
27680 | T | Release of lower leg tendon | 0050 | 21.13 | $1,047.96 | $513.86 | $209.59
27681 | T | Release of lower leg tendons | 0050 | 21.13 | $1,047.96 | $513.86 | $209.59
27685 | T | Revision of lower leg tendon | 0050 | 21.13 | $1,047.96 | $513.86 | $209.59
27686 | T | Revise lower leg tendons | 0050 | 21.13 | $1,047.96 | $513.86 | $209.59
27687 | T | Revision of calf tendon | 0050 | 21.13 | $1,047.96 | $513.86 | $209.59
27690 | T | Revise lower leg tendon | 0051 | 27.76 | $1,376.79 | $675.24 | $275.36
27691 | T | Revise lower leg tendon | 0051 | 27.76 | $1,376.79 | $675.24 | $275.36
27692 | T | Revise additional leg tendon | 0051 | 27.76 | $1,376.79 | $675.24 | $275.36
27695 | T | Repair of ankle ligament | 0050 | 21.13 | $1,047.96 | $513.86 | $209.59
27696 | T | Repair of ankle ligaments | 0050 | 21.13 | $1,047.96 | $513.86 | $209.59
27698 | T | Repair of ankle ligament | 0050 | 21.13 | $1,047.96 | $513.86 | $209.59
27700 | T | Revision of ankle joint | 0047 | 22.09 | $1,095.58 | $537.03 | $219.12
27702 | C | Reconstruct ankle joint |  |  |  |  |
27703 | C | Reconstruction, ankle joint |  |  |  |  |
27704 | T | Removal of ankle implant | 0049 | 15.04 | $745.93 | $356.95 | $149.19
27705 | T | Incision of tibia | 0051 | 27.76 | $1,376.79 | $675.24 | $275.36
27707 | T | Incision of fibula | 0049 | 15.04 | $745.93 | $356.95 | $149.19
27709 | T | Incision of tibia & fibula | 0050 | 21.13 | $1,047.96 | $513.86 | $209.59
27712 | C | Realignment of lower leg |  |  |  |  |
27715 | C | Revision of lower leg |  |  |  |  |
27720 | C | Repair of tibia |  |  |  |  |
27722 | C | Repair/graft of tibia |  |  |  |  |
27724 | C | Repair/graft of tibia |  |  |  |  |
27725 | C | Repair of lower leg |  |  |  |  |
27727 | C | Repair of lower leg |  |  |  |  |
27730 | T | Repair of tibia epiphysis | 0050 | 21.13 | $1,047.96 | $513.86 | $209.59
27732 | T | Repair of fibula epiphysis | 0050 | 21.13 | $1,047.96 | $513.86 | $209.59
27734 | T | Repair lower leg epiphyses | 0050 | 21.13 | $1,047.96 | $513.86 | $209.59
27740 | T | Repair of leg epiphyses | 0050 | 21.13 | $1,047.96 | $513.86 | $209.59
27742 | T | Repair of leg epiphyses | 0051 | 27.76 | $1,376.79 | $675.24 | $275.36
27745 | T | Reinforce tibia | 0051 | 27.76 | $1,376.79 | $675.24 | $275.36
27750 | T | Treatment of tibia fracture | 0044 | 2.17 | $107.63 | $38.08 | $21.53
27752 | T | Treatment of tibia fracture | 0044 | 2.17 | $107.63 | $38.08 | $21.53
27756 | T | Treatment of tibia fracture | 0046 | 22.29 | $1,105.50 | $535.76 | $221.10
27758 | T | Treatment of tibia fracture | 0046 | 22.29 | $1,105.50 | $535.76 | $221.10
27759 | T | Treatment of tibia fracture | 0046 | 22.29 | $1,105.50 | $535.76 | $221.10
27760 | T | Treatment of ankle fracture | 0044 | 2.17 | $107.63 | $38.08 | $21.53
27762 | T | Treatment of ankle fracture | 0044 | 2.17 | $107.63 | $38.08 | $21.53
27766 | T | Treatment of ankle fracture | 0046 | 22.29 | $1,105.50 | $535.76 | $221.10
27780 | T | Treatment of fibula fracture | 0044 | 2.17 | $107.63 | $38.08 | $21.53
27781 | T | Treatment of fibula fracture | 0044 | 2.17 | $107.63 | $38.08 | $21.53
27784 | T | Treatment of fibula fracture | 0046 | 22.29 | $1,105.50 | $535.76 | $221.10
27786 | T | Treatment of ankle fracture | 0044 | 2.17 | $107.63 | $38.08 | $21.53
27788 | T | Treatment of ankle fracture | 0044 | 2.17 | $107.63 | $38.08 | $21.53
27792 | T | Treatment of ankle fracture | 0046 | 22.29 | $1,105.50 | $535.76 | $221.10
27808 | T | Treatment of ankle fracture | 0044 | 2.17 | $107.63 | $38.08 | $21.53
27810 | T | Treatment of ankle fracture | 0044 | 2.17 | $107.63 | $38.08 | $21.53
27814 | T | Treatment of ankle fracture | 0046 | 22.29 | $1,105.50 | $535.76 | $221.10
27816 | T | Treatment of ankle fracture | 0044 | 2.17 | $107.63 | $38.08 | $21.53
27818 | T | Treatment of ankle fracture | 0044 | 2.17 | $107.63 | $38.08 | $21.53
27822 | T | Treatment of ankle fracture | 0046 | 22.29 | $1,105.50 | $535.76 | $221.10
27823 | T | Treatment of ankle fracture | 0046 | 22.29 | $1,105.50 | $535.76 | $221.10
27824 | T | Treat lower leg fracture | 0044 | 2.17 | $107.63 | $38.08 | $21.53
27825 | T | Treat lower leg fracture | 0044 | 2.17 | $107.63 | $38.08 | $21.53
27826 | T | Treat lower leg fracture | 0046 | 22.29 | $1,105.50 | $535.76 | $221.10
27827 | T | Treat lower leg fracture | 0046 | 22.29 | $1,105.50 | $535.76 | $221.10
27828 | T | Treat lower leg fracture | 0046 | 22.29 | $1,105.50 | $535.76 | $221.10
27829 | T | Treat lower leg joint | 0046 | 22.29 | $1,105.50 | $535.76 | $221.10
27830 | T | Treat lower leg dislocation | 0044 | 2.17 | $107.63 | $38.08 | $21.53
27831 | T | Treat lower leg dislocation | 0045 | 11.02 | $546.55 | $277.12 | $109.31
27832 | T | Treat lower leg dislocation | 0046 | 22.29 | $1,105.50 | $535.76 | $221.10
27840 | T | Treat ankle dislocation | 0044 | 2.17 | $107.63 | $38.08 | $21.53
27842 | T | Treat ankle dislocation | 0045 | 11.02 | $546.55 | $277.12 | $109.31
27846 | T | Treat ankle dislocation | 0046 | 22.29 | $1,105.50 | $535.76 | $221.10
27848 | T | Treat ankle dislocation | 0046 | 22.29 | $1,105.50 | $535.76 | $221.10
27860 | T | Fixation of ankle joint | 0045 | 11.02 | $546.55 | $277.12 | $109.31
27870 | T | Fusion of ankle joint | 0051 | 27.76 | $1,376.79 | $675.24 | $275.36
27871 | T | Fusion of tibiofibular joint | 0051 | 27.76 | $1,376.79 | $675.24 | $275.36
27880 | C | Amputation of lower leg |  |  |  |  |
27881 | C | Amputation of lower leg |  |  |  |  |
27882 | C | Amputation of lower leg |  |  |  |  |
27884 | T | Amputation follow-up surgery | 0049 | 15.04 | $745.93 | $356.95 | $149.19
27886 | C | Amputation follow-up surgery |  |  |  |  |
27888 | C | Amputation of foot at ankle |  |  |  |  |
27889 | T | Amputation of foot at ankle | 0050 | 21.13 | $1,047.96 | $513.86 | $209.59
27892 | T | Decompression of leg | 0049 | 15.04 | $745.93 | $356.95 | $149.19
27893 | T | Decompression of leg | 0049 | 15.04 | $745.93 | $356.95 | $149.19
27894 | T | Decompression of leg | 0049 | 15.04 | $745.93 | $356.95 | $149.19
27899 | T | Leg/ankle surgery procedure | 0044 | 2.17 | $107.63 | $38.08 | $21.53
28001 | T | Drainage of bursa of foot | 0008 | 6.15 | $305.02 | $113.67 | $61.00
28002 | T | Treatment of foot infection | 0049 | 15.04 | $745.93 | $356.95 | $149.19
28003 | T | Treatment of foot infection | 0049 | 15.04 | $745.93 | $356.95 | $149.19
28005 | T | Treat foot bone lesion | 0055 | 15.47 | $767.26 | $355.34 | $153.45
28008 | T | Incision of foot fascia | 0055 | 15.47 | $767.26 | $355.34 | $153.45
28010 | T | Incision of toe tendon | 0055 | 15.47 | $767.26 | $355.34 | $153.45
28011 | T | Incision of toe tendons | 0055 | 15.47 | $767.26 | $355.34 | $153.45
28020 | T | Exploration of foot joint | 0055 | 15.47 | $767.26 | $355.34 | $153.45
28022 | T | Exploration of foot joint | 0055 | 15.47 | $767.26 | $355.34 | $153.45
28024 | T | Exploration of toe joint | 0055 | 15.47 | $767.26 | $355.34 | $153.45
28030 | T | Removal of foot nerve | 0220 | 13.96 | $692.36 | $326.21 | $138.47
28035 | T | Decompression of tibia nerve | 0220 | 13.96 | $692.36 | $326.21 | $138.47
28043 | T | Excision of foot lesion | 0021 | 10.49 | $520.26 | $236.51 | $104.05
28045 | T | Excision of foot lesion | 0055 | 15.47 | $767.26 | $355.34 | $153.45
28046 | T | Resection of tumor, foot | 0055 | 15.47 | $767.26 | $355.34 | $153.45
28050 | T | Biopsy of foot joint lining | 0055 | 15.47 | $767.26 | $355.34 | $153.45
28052 | T | Biopsy of foot joint lining | 0055 | 15.47 | $767.26 | $355.34 | $153.45
28054 | T | Biopsy of toe joint lining | 0055 | 15.47 | $767.26 | $355.34 | $153.45
28060 | T | Partial removal, foot fascia | 0056 | 17.30 | $858.02 | $405.81 | $171.60
28062 | T | Removal of foot fascia | 0056 | 17.30 | $858.02 | $405.81 | $171.60
28070 | T | Removal of foot joint lining | 0056 | 17.30 | $858.02 | $405.81 | $171.60
28072 | T | Removal of foot joint lining | 0056 | 17.30 | $858.02 | $405.81 | $171.60
28080 | T | Removal of foot lesion | 0055 | 15.47 | $767.26 | $355.34 | $153.45
28086 | T | Excise foot tendon sheath | 0055 | 15.47 | $767.26 | $355.34 | $153.45
28088 | T | Excise foot tendon sheath | 0055 | 15.47 | $767.26 | $355.34 | $153.45
28090 | T | Removal of foot lesion | 0055 | 15.47 | $767.26 | $355.34 | $153.45
28092 | T | Removal of toe lesions | 0055 | 15.47 | $767.26 | $355.34 | $153.45
28100 | T | Removal of ankle/heel lesion | 0055 | 15.47 | $767.26 | $355.34 | $153.45
28102 | T | Remove/graft foot lesion | 0056 | 17.30 | $858.02 | $405.81 | $171.60
28103 | T | Remove/graft foot lesion | 0056 | 17.30 | $858.02 | $405.81 | $171.60
28104 | T | Removal of foot lesion | 0055 | 15.47 | $767.26 | $355.34 | $153.45
28106 | T | Remove/graft foot lesion | 0056 | 17.30 | $858.02 | $405.81 | $171.60
28107 | T | Remove/graft foot lesion | 0056 | 17.30 | $858.02 | $405.81 | $171.60
28108 | T | Removal of toe lesions | 0055 | 15.47 | $767.26 | $355.34 | $153.45
28110 | T | Part removal of metatarsal | 0057 | 21.00 | $1,041.52 | $496.65 | $208.30
28111 | T | Part removal of metatarsal | 0055 | 15.47 | $767.26 | $355.34 | $153.45
28112 | T | Part removal of metatarsal | 0055 | 15.47 | $767.26 | $355.34 | $153.45
28113 | T | Part removal of metatarsal | 0055 | 15.47 | $767.26 | $355.34 | $153.45
28114 | T | Removal of metatarsal heads | 0055 | 15.47 | $767.26 | $355.34 | $153.45
28116 | T | Revision of foot | 0055 | 15.47 | $767.26 | $355.34 | $153.45
28118 | T | Removal of heel bone | 0055 | 15.47 | $767.26 | $355.34 | $153.45
28119 | T | Removal of heel spur | 0055 | 15.47 | $767.26 | $355.34 | $153.45
28120 | T | Part removal of ankle/heel | 0055 | 15.47 | $767.26 | $355.34 | $153.45
28122 | T | Partial removal of foot bone | 0055 | 15.47 | $767.26 | $355.34 | $153.45
28124 | T | Partial removal of toe | 0055 | 15.47 | $767.26 | $355.34 | $153.45
28126 | T | Partial removal of toe | 0055 | 15.47 | $767.26 | $355.34 | $153.45
28130 | T | Removal of ankle bone | 0055 | 15.47 | $767.26 | $355.34 | $153.45
28140 | T | Removal of metatarsal | 0055 | 15.47 | $767.26 | $355.34 | $153.45
28150 | T | Removal of toe | 0055 | 15.47 | $767.26 | $355.34 | $153.45
28153 | T | Partial removal of toe | 0055 | 15.47 | $767.26 | $355.34 | $153.45
28160 | T | Partial removal of toe | 0055 | 15.47 | $767.26 | $355.34 | $153.45
28171 | T | Extensive foot surgery | 0055 | 15.47 | $767.26 | $355.34 | $153.45
28173 | T | Extensive foot surgery | 0055 | 15.47 | $767.26 | $355.34 | $153.45
28175 | T | Extensive foot surgery | 0055 | 15.47 | $767.26 | $355.34 | $153.45
28190 | T | Removal of foot foreign body | 0019 | 4.00 | $198.39 | $78.91 | $39.68
28192 | T | Removal of foot foreign body | 0021 | 10.49 | $520.26 | $236.51 | $104.05
28193 | T | Removal of foot foreign body | 0020 | 6.51 | $322.87 | $130.53 | $64.57
28200 | T | Repair of foot tendon | 0055 | 15.47 | $767.26 | $355.34 | $153.45
28202 | T | Repair/graft of foot tendon | 0056 | 17.30 | $858.02 | $405.81 | $171.60
28208 | T | Repair of foot tendon | 0055 | 15.47 | $767.26 | $355.34 | $153.45
28210 | T | Repair/graft of foot tendon | 0055 | 15.47 | $767.26 | $355.34 | $153.45
28220 | T | Release of foot tendon | 0055 | 15.47 | $767.26 | $355.34 | $153.45
28222 | T | Release of foot tendons | 0055 | 15.47 | $767.26 | $355.34 | $153.45
28225 | T | Release of foot tendon | 0055 | 15.47 | $767.26 | $355.34 | $153.45
28226 | T | Release of foot tendons | 0055 | 15.47 | $767.26 | $355.34 | $153.45
28230 | T | Incision of foot tendon(s) | 0055 | 15.47 | $767.26 | $355.34 | $153.45
28232 | T | Incision of toe tendon | 0055 | 15.47 | $767.26 | $355.34 | $153.45
28234 | T | Incision of foot tendon | 0055 | 15.47 | $767.26 | $355.34 | $153.45
28238 | T | Revision of foot tendon | 0056 | 17.30 | $858.02 | $405.81 | $171.60
28240 | T | Release of big toe | 0055 | 15.47 | $767.26 | $355.34 | $153.45
28250 | T | Revision of foot fascia | 0056 | 17.30 | $858.02 | $405.81 | $171.60
28260 | T | Release of midfoot joint | 0056 | 17.30 | $858.02 | $405.81 | $171.60
28261 | T | Revision of foot tendon | 0056 | 17.30 | $858.02 | $405.81 | $171.60
28262 | T | Revision of foot and ankle | 0056 | 17.30 | $858.02 | $405.81 | $171.60
28264 | T | Release of midfoot joint | 0056 | 17.30 | $858.02 | $405.81 | $171.60
28270 | T | Release of foot contracture | 0055 | 15.47 | $767.26 | $355.34 | $153.45
28272 | T | Release of toe joint, each | 0055 | 15.47 | $767.26 | $355.34 | $153.45
28280 | T | Fusion of toes | 0055 | 15.47 | $767.26 | $355.34 | $153.45
28285 | T | Repair of hammertoe | 0055 | 15.47 | $767.26 | $355.34 | $153.45
28286 | T | Repair of hammertoe | 0055 | 15.47 | $767.26 | $355.34 | $153.45
28288 | T | Partial removal of foot bone | 0056 | 17.30 | $858.02 | $405.81 | $171.60
28289 | T | Repair hallux rigidus | 0056 | 17.30 | $858.02 | $405.81 | $171.60
28290 | T | Correction of bunion | 0057 | 21.00 | $1,041.52 | $496.65 | $208.30
28292 | T | Correction of bunion | 0057 | 21.00 | $1,041.52 | $496.65 | $208.30
28293 | T | Correction of bunion | 0057 | 21.00 | $1,041.52 | $496.65 | $208.30
28294 | T | Correction of bunion | 0057 | 21.00 | $1,041.52 | $496.65 | $208.30
28296 | T | Correction of bunion | 0057 | 21.00 | $1,041.52 | $496.65 | $208.30
28297 | T | Correction of bunion | 0057 | 21.00 | $1,041.52 | $496.65 | $208.30
28298 | T | Correction of bunion | 0057 | 21.00 | $1,041.52 | $496.65 | $208.30
28299 | T | Correction of bunion | 0057 | 21.00 | $1,041.52 | $496.65 | $208.30
28300 | T | Incision of heel bone | 0056 | 17.30 | $858.02 | $405.81 | $171.60
28302 | T | Incision of ankle bone | 0056 | 17.30 | $858.02 | $405.81 | $171.60
28304 | T | Incision of midfoot bones | 0056 | 17.30 | $858.02 | $405.81 | $171.60
28305 | T | Incise/graft midfoot bones | 0056 | 17.30 | $858.02 | $405.81 | $171.60
28306 | T | Incision of metatarsal | 0056 | 17.30 | $858.02 | $405.81 | $171.60
28307 | T | Incision of metatarsal | 0056 | 17.30 | $858.02 | $405.81 | $171.60
28308 | T | Incision of metatarsal | 0056 | 17.30 | $858.02 | $405.81 | $171.60
28309 | T | Incision of metatarsals | 0056 | 17.30 | $858.02 | $405.81 | $171.60
28310 | T | Revision of big toe | 0055 | 15.47 | $767.26 | $355.34 | $153.45
28312 | T | Revision of toe | 0055 | 15.47 | $767.26 | $355.34 | $153.45
28313 | T | Repair deformity of toe | 0055 | 15.47 | $767.26 | $355.34 | $153.45
28315 | T | Removal of sesamoid bone | 0055 | 15.47 | $767.26 | $355.34 | $153.45
28320 | T | Repair of foot bones | 0056 | 17.30 | $858.02 | $405.81 | $171.60
28322 | T | Repair of metatarsals | 0056 | 17.30 | $858.02 | $405.81 | $171.60
28340 | T | Resect enlarged toe tissue | 0055 | 15.47 | $767.26 | $355.34 | $153.45
28341 | T | Resect enlarged toe | 0055 | 15.47 | $767.26 | $355.34 | $153.45
28344 | T | Repair extra toe(s) | 0056 | 17.30 | $858.02 | $405.81 | $171.60
28345 | T | Repair webbed toe(s) | 0056 | 17.30 | $858.02 | $405.81 | $171.60
28360 | T | Reconstruct cleft foot | 0056 | 17.30 | $858.02 | $405.81 | $171.60
28400 | T | Treatment of heel fracture | 0044 | 2.17 | $107.63 | $38.08 | $21.53
28405 | T | Treatment of heel fracture | 0044 | 2.17 | $107.63 | $38.08 | $21.53
28406 | T | Treatment of heel fracture | 0046 | 22.29 | $1,105.50 | $535.76 | $221.10
28415 | T | Treat heel fracture | 0046 | 22.29 | $1,105.50 | $535.76 | $221.10
28420 | T | Treat/graft heel fracture | 0046 | 22.29 | $1,105.50 | $535.76 | $221.10
28430 | T | Treatment of ankle fracture | 0044 | 2.17 | $107.63 | $38.08 | $21.53
28435 | T | Treatment of ankle fracture | 0044 | 2.17 | $107.63 | $38.08 | $21.53
28436 | T | Treatment of ankle fracture | 0046 | 22.29 | $1,105.50 | $535.76 | $221.10
28445 | T | Treat ankle fracture | 0046 | 22.29 | $1,105.50 | $535.76 | $221.10
28450 | T | Treat midfoot fracture, each | 0044 | 2.17 | $107.63 | $38.08 | $21.53
28455 | T | Treat midfoot fracture, each | 0044 | 2.17 | $107.63 | $38.08 | $21.53
28456 | T | Treat midfoot fracture | 0046 | 22.29 | $1,105.50 | $535.76 | $221.10
28465 | T | Treat midfoot fracture, each | 0046 | 22.29 | $1,105.50 | $535.76 | $221.10
28470 | T | Treat metatarsal fracture | 0044 | 2.17 | $107.63 | $38.08 | $21.53
28475 | T | Treat metatarsal fracture | 0044 | 2.17 | $107.63 | $38.08 | $21.53
28476 | T | Treat metatarsal fracture | 0046 | 22.29 | $1,105.50 | $535.76 | $221.10
28485 | T | Treat metatarsal fracture | 0046 | 22.29 | $1,105.50 | $535.76 | $221.10
28490 | T | Treat big toe fracture | 0043 | 1.64 | $81.34 | $25.46 | $16.27
28495 | T | Treat big toe fracture | 0043 | 1.64 | $81.34 | $25.46 | $16.27
28496 | T | Treat big toe fracture | 0046 | 22.29 | $1,105.50 | $535.76 | $221.10
28505 | T | Treat big toe fracture | 0046 | 22.29 | $1,105.50 | $535.76 | $221.10
28510 | T | Treatment of toe fracture | 0043 | 1.64 | $81.34 | $25.46 | $16.27
28515 | T | Treatment of toe fracture | 0043 | 1.64 | $81.34 | $25.46 | $16.27
28525 | T | Treat toe fracture | 0046 | 22.29 | $1,105.50 | $535.76 | $221.10
28530 | T | Treat sesamoid bone fracture | 0044 | 2.17 | $107.63 | $38.08 | $21.53
28531 | T | Treat sesamoid bone fracture | 0046 | 22.29 | $1,105.50 | $535.76 | $221.10
28540 | T | Treat foot dislocation | 0044 | 2.17 | $107.63 | $38.08 | $21.53
28545 | T | Treat foot dislocation | 0045 | 11.02 | $546.55 | $277.12 | $109.31
28546 | T | Treat foot dislocation | 0046 | 22.29 | $1,105.50 | $535.76 | $221.10
28555 | T | Repair foot dislocation | 0046 | 22.29 | $1,105.50 | $535.76 | $221.10
28570 | T | Treat foot dislocation | 0044 | 2.17 | $107.63 | $38.08 | $21.53
28575 | T | Treat foot dislocation | 0045 | 11.02 | $546.55 | $277.12 | $109.31
28576 | T | Treat foot dislocation | 0046 | 22.29 | $1,105.50 | $535.76 | $221.10
28585 | T | Repair foot dislocation | 0046 | 22.29 | $1,105.50 | $535.76 | $221.10
28600 | T | Treat foot dislocation | 0044 | 2.17 | $107.63 | $38.08 | $21.53
28605 | T | Treat foot dislocation | 0045 | 11.02 | $546.55 | $277.12 | $109.31
28606 | T | Treat foot dislocation | 0046 | 22.29 | $1,105.50 | $535.76 | $221.10
28615 | T | Repair foot dislocation | 0046 | 22.29 | $1,105.50 | $535.76 | $221.10
28630 | T | Treat toe dislocation | 0043 | 1.64 | $81.34 | $25.46 | $16.27
28635 | T | Treat toe dislocation | 0045 | 11.02 | $546.55 | $277.12 | $109.31
28636 | T | Treat toe dislocation | 0046 | 22.29 | $1,105.50 | $535.76 | $221.10
28645 | T | Repair toe dislocation | 0046 | 22.29 | $1,105.50 | $535.76 | $221.10
28660 | T | Treat toe dislocation | 0043 | 1.64 | $81.34 | $25.46 | $16.27
28665 | T | Treat toe dislocation | 0045 | 11.02 | $546.55 | $277.12 | $109.31
28666 | T | Treat toe dislocation | 0046 | 22.29 | $1,105.50 | $535.76 | $221.10
28675 | T | Repair of toe dislocation | 0046 | 22.29 | $1,105.50 | $535.76 | $221.10
28705 | T | Fusion of foot bones | 0056 | 17.30 | $858.02 | $405.81 | $171.60
28715 | T | Fusion of foot bones | 0056 | 17.30 | $858.02 | $405.81 | $171.60
28725 | T | Fusion of foot bones | 0056 | 17.30 | $858.02 | $405.81 | $171.60
28730 | T | Fusion of foot bones | 0056 | 17.30 | $858.02 | $405.81 | $171.60
28735 | T | Fusion of foot bones | 0056 | 17.30 | $858.02 | $405.81 | $171.60
28737 | T | Revision of foot bones | 0055 | 15.47 | $767.26 | $355.34 | $153.45
28740 | T | Fusion of foot bones | 0056 | 17.30 | $858.02 | $405.81 | $171.60
28750 | T | Fusion of big toe joint | 0055 | 15.47 | $767.26 | $355.34 | $153.45
28755 | T | Fusion of big toe joint | 0055 | 15.47 | $767.26 | $355.34 | $153.45
28760 | T | Fusion of big toe joint | 0056 | 17.30 | $858.02 | $405.81 | $171.60
28800 | C | Amputation of midfoot |  |  |  |  |
28805 | C | Amputation thru metatarsal |  |  |  |  |
28810 | T | Amputation toe & metatarsal | 0055 | 15.47 | $767.26 | $355.34 | $153.45
28820 | T | Amputation of toe | 0055 | 15.47 | $767.26 | $355.34 | $153.45
28825 | T | Partial amputation of toe | 0055 | 15.47 | $767.26 | $355.34 | $153.45
28899 | T | Foot/toes surgery procedure | 0043 | 1.64 | $81.34 | $25.46 | $16.27
29000 | S | Application of body cast | 0059 | 1.74 | $86.30 | $29.59 | $17.26
29010 | S | Application of body cast | 0059 | 1.74 | $86.30 | $29.59 | $17.26
29015 | S | Application of body cast | 0059 | 1.74 | $86.30 | $29.59 | $17.26
29020 | S | Application of body cast | 0059 | 1.74 | $86.30 | $29.59 | $17.26
29025 | S | Application of body cast | 0059 | 1.74 | $86.30 | $29.59 | $17.26
29035 | S | Application of body cast | 0059 | 1.74 | $86.30 | $29.59 | $17.26
29040 | S | Application of body cast | 0059 | 1.74 | $86.30 | $29.59 | $17.26
29044 | S | Application of body cast | 0059 | 1.74 | $86.30 | $29.59 | $17.26
29046 | S | Application of body cast | 0059 | 1.74 | $86.30 | $29.59 | $17.26
29049 | S | Application of figure eight | 0059 | 1.74 | $86.30 | $29.59 | $17.26
29055 | S | Application of shoulder cast | 0059 | 1.74 | $86.30 | $29.59 | $17.26
29058 | S | Application of shoulder cast | 0059 | 1.74 | $86.30 | $29.59 | $17.26
29065 | S | Application of long arm cast | 0059 | 1.74 | $86.30 | $29.59 | $17.26
29075 | S | Application of forearm cast | 0059 | 1.74 | $86.30 | $29.59 | $17.26
29085 | S | Apply hand/wrist cast | 0059 | 1.74 | $86.30 | $29.59 | $17.26
29105 | S | Apply long arm splint | 0059 | 1.74 | $86.30 | $29.59 | $17.26
29125 | S | Apply forearm splint | 0059 | 1.74 | $86.30 | $29.59 | $17.26
29126 | S | Apply forearm splint | 0059 | 1.74 | $86.30 | $29.59 | $17.26
29130 | S | Application of finger splint | 0059 | 1.74 | $86.30 | $29.59 | $17.26
29131 | S | Application of finger splint | 0059 | 1.74 | $86.30 | $29.59 | $17.26
29200 | S | Strapping of chest | 0059 | 1.74 | $86.30 | $29.59 | $17.26
29220 | S | Strapping of low back | 0059 | 1.74 | $86.30 | $29.59 | $17.26
29240 | S | Strapping of shoulder | 0059 | 1.74 | $86.30 | $29.59 | $17.26
29260 | S | Strapping of elbow or wrist | 0059 | 1.74 | $86.30 | $29.59 | $17.26
29280 | S | Strapping of hand or finger | 0059 | 1.74 | $86.30 | $29.59 | $17.26
29305 | S | Application of hip cast | 0059 | 1.74 | $86.30 | $29.59 | $17.26
29325 | S | Application of hip casts | 0059 | 1.74 | $86.30 | $29.59 | $17.26
29345 | S | Application of long leg cast | 0059 | 1.74 | $86.30 | $29.59 | $17.26
29355 | S | Application of long leg cast | 0059 | 1.74 | $86.30 | $29.59 | $17.26
29358 | S | Apply long leg cast brace | 0059 | 1.74 | $86.30 | $29.59 | $17.26
29365 | S | Application of long leg cast | 0059 | 1.74 | $86.30 | $29.59 | $17.26
29405 | S | Apply short leg cast | 0059 | 1.74 | $86.30 | $29.59 | $17.26
29425 | S | Apply short leg cast | 0059 | 1.74 | $86.30 | $29.59 | $17.26
29435 | S | Apply short leg cast | 0059 | 1.74 | $86.30 | $29.59 | $17.26
29440 | S | Addition of walker to cast | 0059 | 1.74 | $86.30 | $29.59 | $17.26
29445 | S | Apply rigid leg cast | 0059 | 1.74 | $86.30 | $29.59 | $17.26
29450 | S | Application of leg cast | 0059 | 1.74 | $86.30 | $29.59 | $17.26
29505 | S | Application, long leg splint | 0058 | 1.09 | $54.06 | $19.27 | $10.81
29515 | S | Application lower leg splint | 0058 | 1.09 | $54.06 | $19.27 | $10.81
29520 | S | Strapping of hip | 0058 | 1.09 | $54.06 | $19.27 | $10.81
29530 | S | Strapping of knee | 0058 | 1.09 | $54.06 | $19.27 | $10.81
29540 | S | Strapping of ankle | 0058 | 1.09 | $54.06 | $19.27 | $10.81
29550 | S | Strapping of toes | 0058 | 1.09 | $54.06 | $19.27 | $10.81
29580 | S | Application of paste boot | 0058 | 1.09 | $54.06 | $19.27 | $10.81
29590 | S | Application of foot splint | 0058 | 1.09 | $54.06 | $19.27 | $10.81
29700 | S | Removal/revision of cast | 0058 | 1.09 | $54.06 | $19.27 | $10.81
29705 | S | Removal/revision of cast | 0058 | 1.09 | $54.06 | $19.27 | $10.81
29710 | S | Removal/revision of cast | 0058 | 1.09 | $54.06 | $19.27 | $10.81
29715 | S | Removal/revision of cast | 0058 | 1.09 | $54.06 | $19.27 | $10.81
29720 | S | Repair of body cast | 0058 | 1.09 | $54.06 | $19.27 | $10.81
29730 | S | Windowing of cast | 0058 | 1.09 | $54.06 | $19.27 | $10.81
29740 | S | Wedging of cast | 0058 | 1.09 | $54.06 | $19.27 | $10.81
29750 | S | Wedging of clubfoot cast | 0058 | 1.09 | $54.06 | $19.27 | $10.81
29799 | S | Casting/strapping procedure | 0058 | 1.09 | $54.06 | $19.27 | $10.81
29800 | T | Jaw arthroscopy/surgery | 0041 | 24.57 | $1,218.58 | $592.08 | $243.72
29804 | T | Jaw arthroscopy/surgery | 0041 | 24.57 | $1,218.58 | $592.08 | $243.72
29815 | T | Shoulder arthroscopy | 0041 | 24.57 | $1,218.58 | $592.08 | $243.72
29819 | T | Shoulder arthroscopy/surgery | 0041 | 24.57 | $1,218.58 | $592.08 | $243.72
29820 | T | Shoulder arthroscopy/surgery | 0041 | 24.57 | $1,218.58 | $592.08 | $243.72
29821 | T | Shoulder arthroscopy/surgery | 0041 | 24.57 | $1,218.58 | $592.08 | $243.72
29822 | T | Shoulder arthroscopy/surgery | 0041 | 24.57 | $1,218.58 | $592.08 | $243.72
29823 | T | Shoulder arthroscopy/surgery | 0041 | 24.57 | $1,218.58 | $592.08 | $243.72
29825 | T | Shoulder arthroscopy/surgery | 0041 | 24.57 | $1,218.58 | $592.08 | $243.72
29826 | T | Shoulder arthroscopy/surgery | 0041 | 24.57 | $1,218.58 | $592.08 | $243.72
29830 | T | Elbow arthroscopy | 0041 | 24.57 | $1,218.58 | $592.08 | $243.72
29834 | T | Elbow arthroscopy/surgery | 0041 | 24.57 | $1,218.58 | $592.08 | $243.72
29835 | T | Elbow arthroscopy/surgery | 0041 | 24.57 | $1,218.58 | $592.08 | $243.72
29836 | T | Elbow arthroscopy/surgery | 0041 | 24.57 | $1,218.58 | $592.08 | $243.72
29837 | T | Elbow arthroscopy/surgery | 0041 | 24.57 | $1,218.58 | $592.08 | $243.72
29838 | T | Elbow arthroscopy/surgery | 0041 | 24.57 | $1,218.58 | $592.08 | $243.72
29840 | T | Wrist arthroscopy | 0041 | 24.57 | $1,218.58 | $592.08 | $243.72
29843 | T | Wrist arthroscopy/surgery | 0041 | 24.57 | $1,218.58 | $592.08 | $243.72
29844 | T | Wrist arthroscopy/surgery | 0041 | 24.57 | $1,218.58 | $592.08 | $243.72
29845 | T | Wrist arthroscopy/surgery | 0041 | 24.57 | $1,218.58 | $592.08 | $243.72
29846 | T | Wrist arthroscopy/surgery | 0041 | 24.57 | $1,218.58 | $592.08 | $243.72
29847 | T | Wrist arthroscopy/surgery | 0041 | 24.57 | $1,218.58 | $592.08 | $243.72
29848 | T | Wrist endoscopy/surgery | 0041 | 24.57 | $1,218.58 | $592.08 | $243.72
29850 | T | Knee arthroscopy/surgery | 0042 | 29.22 | $1,449.19 | $804.74 | $289.84
29851 | T | Knee arthroscopy/surgery | 0042 | 29.22 | $1,449.19 | $804.74 | $289.84
29855 | T | Tibial arthroscopy/surgery | 0042 | 29.22 | $1,449.19 | $804.74 | $289.84
29856 | T | Tibial arthroscopy/surgery | 0042 | 29.22 | $1,449.19 | $804.74 | $289.84
29860 | T | Hip arthroscopy, dx | 0041 | 24.57 | $1,218.58 | $592.08 | $243.72
29861 | T | Hip arthroscopy/surgery | 0041 | 24.57 | $1,218.58 | $592.08 | $243.72
29862 | T | Hip arthroscopy/surgery | 0041 | 24.57 | $1,218.58 | $592.08 | $243.72
29863 | T | Hip arthroscopy/surgery | 0041 | 24.57 | $1,218.58 | $592.08 | $243.72
29870 | T | Knee arthroscopy, dx | 0041 | 24.57 | $1,218.58 | $592.08 | $243.72
29871 | T | Knee arthroscopy/drainage | 0041 | 24.57 | $1,218.58 | $592.08 | $243.72
29874 | T | Knee arthroscopy/surgery | 0041 | 24.57 | $1,218.58 | $592.08 | $243.72
29875 | T | Knee arthroscopy/surgery | 0041 | 24.57 | $1,218.58 | $592.08 | $243.72
29876 | T | Knee arthroscopy/surgery | 0041 | 24.57 | $1,218.58 | $592.08 | $243.72
29877 | T | Knee arthroscopy/surgery | 0041 | 24.57 | $1,218.58 | $592.08 | $243.72
29879 | T | Knee arthroscopy/surgery | 0041 | 24.57 | $1,218.58 | $592.08 | $243.72
29880 | T | Knee arthroscopy/surgery | 0041 | 24.57 | $1,218.58 | $592.08 | $243.72
29881 | T | Knee arthroscopy/surgery | 0041 | 24.57 | $1,218.58 | $592.08 | $243.72
29882 | T | Knee arthroscopy/surgery | 0041 | 24.57 | $1,218.58 | $592.08 | $243.72
29883 | T | Knee arthroscopy/surgery | 0041 | 24.57 | $1,218.58 | $592.08 | $243.72
29884 | T | Knee arthroscopy/surgery | 0041 | 24.57 | $1,218.58 | $592.08 | $243.72
29885 | T | Knee arthroscopy/surgery | 0042 | 29.22 | $1,449.19 | $804.74 | $289.84
29886 | T | Knee arthroscopy/surgery | 0041 | 24.57 | $1,218.58 | $592.08 | $243.72
29887 | T | Knee arthroscopy/surgery | 0041 | 24.57 | $1,218.58 | $592.08 | $243.72
29888 | T | Knee arthroscopy/surgery | 0042 | 29.22 | $1,449.19 | $804.74 | $289.84
29889 | T | Knee arthroscopy/surgery | 0042 | 29.22 | $1,449.19 | $804.74 | $289.84
29891 | T | Ankle arthroscopy/surgery | 0041 | 24.57 | $1,218.58 | $592.08 | $243.72
29892 | T | Ankle arthroscopy/surgery | 0042 | 29.22 | $1,449.19 | $804.74 | $289.84
29893 | T | Scope, plantar fasciotomy | 0055 | 15.47 | $767.26 | $355.34 | $153.45
29894 | T | Ankle arthroscopy/surgery | 0041 | 24.57 | $1,218.58 | $592.08 | $243.72
29895 | T | Ankle arthroscopy/surgery | 0041 | 24.57 | $1,218.58 | $592.08 | $243.72
29897 | T | Ankle arthroscopy/surgery | 0041 | 24.57 | $1,218.58 | $592.08 | $243.72
29898 | T | Ankle arthroscopy/surgery | 0041 | 24.57 | $1,218.58 | $592.08 | $243.72
29909 | T | Arthroscopy of joint | 0041 | 24.57 | $1,218.58 | $592.08 | $243.72
30000 | T | Drainage of nose lesion | 0251 | 1.68 | $83.32 | $27.99 | $16.66
30020 | T | Drainage of nose lesion | 0251 | 1.68 | $83.32 | $27.99 | $16.66
30100 | T | Intranasal biopsy | 0252 | 5.18 | $256.90 | $114.24 | $51.38
30110 | T | Removal of nose polyp(s) | 0253 | 12.02 | $596.14 | $284.00 | $119.23
30115 | T | Removal of nose polyp(s) | 0253 | 12.02 | $596.14 | $284.00 | $119.23
30117 | T | Removal of intranasal lesion | 0253 | 12.02 | $596.14 | $284.00 | $119.23
30118 | T | Removal of intranasal lesion | 0254 | 12.45 | $617.47 | $272.41 | $123.49
30120 | T | Revision of nose | 0253 | 12.02 | $596.14 | $284.00 | $119.23
30124 | T | Removal of nose lesion | 0252 | 5.18 | $256.90 | $114.24 | $51.38
30125 | T | Removal of nose lesion | 0256 | 25.40 | $1,259.74 | $623.05 | $251.95
30130 | T | Removal of turbinate bones | 0253 | 12.02 | $596.14 | $284.00 | $119.23
30140 | T | Removal of turbinate bones | 0253 | 12.02 | $596.14 | $284.00 | $119.23
30150 | T | Partial removal of nose | 0256 | 25.40 | $1,259.74 | $623.05 | $251.95
30160 | T | Removal of nose | 0256 | 25.40 | $1,259.74 | $623.05 | $251.95
30200 | T | Injection treatment of nose | 0253 | 12.02 | $596.14 | $284.00 | $119.23
30210 | T | Nasal sinus therapy | 0252 | 5.18 | $256.90 | $114.24 | $51.38
30220 | T | Insert nasal septal button | 0252 | 5.18 | $256.90 | $114.24 | $51.38
30300 | T | Remove nasal foreign body | 0251 | 1.68 | $83.32 | $27.99 | $16.66
30310 | T | Remove nasal foreign body | 0253 | 12.02 | $596.14 | $284.00 | $119.23
30320 | T | Remove nasal foreign body | 0253 | 12.02 | $596.14 | $284.00 | $119.23
30400 | T | Reconstruction of nose | 0256 | 25.40 | $1,259.74 | $623.05 | $251.95
30410 | T | Reconstruction of nose | 0256 | 25.40 | $1,259.74 | $623.05 | $251.95
30420 | T | Reconstruction of nose | 0256 | 25.40 | $1,259.74 | $623.05 | $251.95
30430 | T | Revision of nose | 0254 | 12.45 | $617.47 | $272.41 | $123.49
30435 | T | Revision of nose | 0256 | 25.40 | $1,259.74 | $623.05 | $251.95
30450 | T | Revision of nose | 0256 | 25.40 | $1,259.74 | $623.05 | $251.95
30460 | T | Revision of nose | 0256 | 25.40 | $1,259.74 | $623.05 | $251.95
30462 | T | Revision of nose | 0256 | 25.40 | $1,259.74 | $623.05 | $251.95
*30465 | T | Repair nasal stenosis | 0256 | 25.40 | $1,259.74 | $623.05 | $251.95
30520 | T | Repair of nasal septum | 0256 | 25.40 | $1,259.74 | $623.05 | $251.95
30540 | T | Repair nasal defect | 0256 | 25.40 | $1,259.74 | $623.05 | $251.95
30545 | T | Repair nasal defect | 0256 | 25.40 | $1,259.74 | $623.05 | $251.95
30560 | T | Release of nasal adhesions | 0251 | 1.68 | $83.32 | $27.99 | $16.66
30580 | T | Repair upper jaw fistula | 0256 | 25.40 | $1,259.74 | $623.05 | $251.95
30600 | T | Repair mouth/nose fistula | 0256 | 25.40 | $1,259.74 | $623.05 | $251.95
30620 | T | Intranasal reconstruction | 0256 | 25.40 | $1,259.74 | $623.05 | $251.95
30630 | T | Repair nasal septum defect | 0254 | 12.45 | $617.47 | $272.41 | $123.49
30801 | T | Cauterization, inner nose | 0252 | 5.18 | $256.90 | $114.24 | $51.38
30802 | T | Cauterization, inner nose | 0253 | 12.02 | $596.14 | $284.00 | $119.23
30901 | T | Control of nosebleed | 0250 | 2.21 | $109.61 | $38.54 | $21.92
30903 | T | Control of nosebleed | 0250 | 2.21 | $109.61 | $38.54 | $21.92
30905 | T | Control of nosebleed | 0250 | 2.21 | $109.61 | $38.54 | $21.92
30906 | T | Repeat control of nosebleed | 0250 | 2.21 | $109.61 | $38.54 | $21.92
30915 | T | Ligation, nasal sinus artery | 0091 | 14.79 | $733.52 | $348.23 | $146.70
30920 | T | Ligation, upper jaw artery | 0092 | 20.21 | $1,002.34 | $505.37 | $200.47
30930 | T | Therapy, fracture of nose | 0253 | 12.02 | $596.14 | $284.00 | $119.23
30999 | T | Nasal surgery procedure | 0251 | 1.68 | $83.32 | $27.99 | $16.66
31000 | T | Irrigation, maxillary sinus | 0251 | 1.68 | $83.32 | $27.99 | $16.66
31002 | T | Irrigation, sphenoid sinus | 0252 | 5.18 | $256.90 | $114.24 | $51.38
31020 | T | Exploration, maxillary sinus | 0253 | 12.02 | $596.14 | $284.00 | $119.23
31030 | T | Exploration, maxillary sinus | 0256 | 25.40 | $1,259.74 | $623.05 | $251.95
31032 | T | Explore sinus,remove polyps | 0256 | 25.40 | $1,259.74 | $623.05 | $251.95
31040 | T | Exploration behind upper jaw | 0254 | 12.45 | $617.47 | $272.41 | $123.49
31050 | T | Exploration, sphenoid sinus | 0256 | 25.40 | $1,259.74 | $623.05 | $251.95
31051 | T | Sphenoid sinus surgery | 0256 | 25.40 | $1,259.74 | $623.05 | $251.95
31070 | T | Exploration of frontal sinus | 0254 | 12.45 | $617.47 | $272.41 | $123.49
31075 | T | Exploration of frontal sinus | 0256 | 25.40 | $1,259.74 | $623.05 | $251.95
31080 | T | Removal of frontal sinus | 0256 | 25.40 | $1,259.74 | $623.05 | $251.95
31081 | T | Removal of frontal sinus | 0256 | 25.40 | $1,259.74 | $623.05 | $251.95
31084 | T | Removal of frontal sinus | 0256 | 25.40 | $1,259.74 | $623.05 | $251.95
31085 | T | Removal of frontal sinus | 0256 | 25.40 | $1,259.74 | $623.05 | $251.95
31086 | T | Removal of frontal sinus | 0256 | 25.40 | $1,259.74 | $623.05 | $251.95
31087 | T | Removal of frontal sinus | 0256 | 25.40 | $1,259.74 | $623.05 | $251.95
31090 | T | Exploration of sinuses | 0256 | 25.40 | $1,259.74 | $623.05 | $251.95
31200 | T | Removal of ethmoid sinus | 0256 | 25.40 | $1,259.74 | $623.05 | $251.95
31201 | T | Removal of ethmoid sinus | 0256 | 25.40 | $1,259.74 | $623.05 | $251.95
31205 | T | Removal of ethmoid sinus | 0256 | 25.40 | $1,259.74 | $623.05 | $251.95
31225 | C | Removal of upper jaw |  |  |  |  |
31230 | C | Removal of upper jaw |  |  |  |  |
31231 | T | Nasal endoscopy, dx | 0071 | 0.55 | $27.28 | $14.22 | $5.46
31233 | T | Nasal/sinus endoscopy, dx | 0072 | 1.26 | $62.49 | $41.52 | $12.50
31235 | T | Nasal/sinus endoscopy, dx | 0074 | 13.61 | $675.00 | $347.54 | $135.00
31237 | T | Nasal/sinus endoscopy, surg | 0074 | 13.61 | $675.00 | $347.54 | $135.00
31238 | T | Nasal/sinus endoscopy, surg | 0074 | 13.61 | $675.00 | $347.54 | $135.00
31239 | T | Nasal/sinus endoscopy, surg | 0075 | 18.55 | $920.01 | $467.29 | $184.00
31240 | T | Nasal/sinus endoscopy, surg | 0074 | 13.61 | $675.00 | $347.54 | $135.00
31254 | T | Revision of ethmoid sinus | 0075 | 18.55 | $920.01 | $467.29 | $184.00
31255 | T | Removal of ethmoid sinus | 0075 | 18.55 | $920.01 | $467.29 | $184.00
31256 | T | Exploration maxillary sinus | 0075 | 18.55 | $920.01 | $467.29 | $184.00
31267 | T | Endoscopy, maxillary sinus | 0075 | 18.55 | $920.01 | $467.29 | $184.00
31276 | T | Sinus endoscopy, surgical | 0075 | 18.55 | $920.01 | $467.29 | $184.00
31287 | T | Nasal/sinus endoscopy, surg | 0075 | 18.55 | $920.01 | $467.29 | $184.00
31288 | T | Nasal/sinus endoscopy, surg | 0075 | 18.55 | $920.01 | $467.29 | $184.00
31290 | C | Nasal/sinus endoscopy, surg |  |  |  |  |
31291 | C | Nasal/sinus endoscopy, surg |  |  |  |  |
31292 | C | Nasal/sinus endoscopy, surg |  |  |  |  |
31293 | C | Nasal/sinus endoscopy, surg |  |  |  |  |
31294 | C | Nasal/sinus endoscopy, surg |  |  |  |  |
31299 | T | Sinus surgery procedure | 0252 | 5.18 | $256.90 | $114.24 | $51.38
31300 | T | Removal of larynx lesion | 0256 | 25.40 | $1,259.74 | $623.05 | $251.95
31320 | T | Diagnostic incision, larynx | 0256 | 25.40 | $1,259.74 | $623.05 | $251.95
31360 | C | Removal of larynx |  |  |  |  |
31365 | C | Removal of larynx |  |  |  |  |
31367 | C | Partial removal of larynx |  |  |  |  |
31368 | C | Partial removal of larynx |  |  |  |  |
31370 | C | Partial removal of larynx |  |  |  |  |
31375 | C | Partial removal of larynx |  |  |  |  |
31380 | C | Partial removal of larynx |  |  |  |  |
31382 | C | Partial removal of larynx |  |  |  |  |
31390 | C | Removal of larynx & pharynx |  |  |  |  |
31395 | C | Reconstruct larynx & pharynx |  |  |  |  |
31400 | T | Revision of larynx | 0256 | 25.40 | $1,259.74 | $623.05 | $251.95
31420 | T | Removal of epiglottis | 0256 | 25.40 | $1,259.74 | $623.05 | $251.95
31500 | S | Insert emergency airway | 0094 | 4.51 | $223.68 | $105.29 | $44.74
31502 | T | Change of windpipe airway | 0121 | 2.36 | $117.05 | $52.53 | $23.41
31505 | T | Diagnostic laryngoscopy | 0072 | 1.26 | $62.49 | $41.52 | $12.50
31510 | T | Laryngoscopy with biopsy | 0074 | 13.61 | $675.00 | $347.54 | $135.00
31511 | T | Remove foreign body, larynx | 0072 | 1.26 | $62.49 | $41.52 | $12.50
31512 | T | Removal of larynx lesion | 0074 | 13.61 | $675.00 | $347.54 | $135.00
31513 | T | Injection into vocal cord | 0073 | 4.11 | $203.84 | $91.07 | $40.77
31515 | T | Laryngoscopy for aspiration | 0074 | 13.61 | $675.00 | $347.54 | $135.00
31520 | T | Diagnostic laryngoscopy | 0072 | 1.26 | $62.49 | $41.52 | $12.50
31525 | T | Diagnostic laryngoscopy | 0074 | 13.61 | $675.00 | $347.54 | $135.00
31526 | T | Diagnostic laryngoscopy | 0074 | 13.61 | $675.00 | $347.54 | $135.00
31527 | T | Laryngoscopy for treatment | 0075 | 18.55 | $920.01 | $467.29 | $184.00
31528 | T | Laryngoscopy and dilatation | 0074 | 13.61 | $675.00 | $347.54 | $135.00
31529 | T | Laryngoscopy and dilatation | 0074 | 13.61 | $675.00 | $347.54 | $135.00
31530 | T | Operative laryngoscopy | 0075 | 18.55 | $920.01 | $467.29 | $184.00
31531 | T | Operative laryngoscopy | 0075 | 18.55 | $920.01 | $467.29 | $184.00
31535 | T | Operative laryngoscopy | 0075 | 18.55 | $920.01 | $467.29 | $184.00
31536 | T | Operative laryngoscopy | 0075 | 18.55 | $920.01 | $467.29 | $184.00
31540 | T | Operative laryngoscopy | 0075 | 18.55 | $920.01 | $467.29 | $184.00
31541 | T | Operative laryngoscopy | 0075 | 18.55 | $920.01 | $467.29 | $184.00
31560 | T | Operative laryngoscopy | 0075 | 18.55 | $920.01 | $467.29 | $184.00
31561 | T | Operative laryngoscopy | 0075 | 18.55 | $920.01 | $467.29 | $184.00
31570 | T | Laryngoscopy with injection | 0075 | 18.55 | $920.01 | $467.29 | $184.00
31571 | T | Laryngoscopy with injection | 0075 | 18.55 | $920.01 | $467.29 | $184.00
31575 | T | Diagnostic laryngoscopy | 0071 | 0.55 | $27.28 | $14.22 | $5.46
31576 | T | Laryngoscopy with biopsy | 0074 | 13.61 | $675.00 | $347.54 | $135.00
31577 | T | Remove foreign body, larynx | 0073 | 4.11 | $203.84 | $91.07 | $40.77
31578 | T | Removal of larynx lesion | 0074 | 13.61 | $675.00 | $347.54 | $135.00
31579 | T | Diagnostic laryngoscopy | 0073 | 4.11 | $203.84 | $91.07 | $40.77
31580 | T | Revision of larynx | 0256 | 25.40 | $1,259.74 | $623.05 | $251.95
31582 | C | Revision of larynx |  |  |  |  |
31584 | C | Treat larynx fracture |  |  |  |  |
31585 | T | Treat larynx fracture | 0253 | 12.02 | $596.14 | $284.00 | $119.23
31586 | T | Treat larynx fracture | 0256 | 25.40 | $1,259.74 | $623.05 | $251.95
31587 | C | Revision of larynx |  |  |  |  |
31588 | T | Revision of larynx | 0256 | 25.40 | $1,259.74 | $623.05 | $251.95
31590 | T | Reinnervate larynx | 0256 | 25.40 | $1,259.74 | $623.05 | $251.95
31595 | T | Larynx nerve surgery | 0256 | 25.40 | $1,259.74 | $623.05 | $251.95
31599 | T | Larynx surgery procedure | 0253 | 12.02 | $596.14 | $284.00 | $119.23
31600 | T | Incision of windpipe | 0254 | 12.45 | $617.47 | $272.41 | $123.49
31601 | T | Incision of windpipe | 0254 | 12.45 | $617.47 | $272.41 | $123.49
31603 | T | Incision of windpipe | 0254 | 12.45 | $617.47 | $272.41 | $123.49
31605 | T | Incision of windpipe | 0254 | 12.45 | $617.47 | $272.41 | $123.49
31610 | T | Incision of windpipe | 0254 | 12.45 | $617.47 | $272.41 | $123.49
31611 | T | Surgery/speech prosthesis | 0254 | 12.45 | $617.47 | $272.41 | $123.49
31612 | T | Puncture/clear windpipe | 0253 | 12.02 | $596.14 | $284.00 | $119.23
31613 | T | Repair windpipe opening | 0254 | 12.45 | $617.47 | $272.41 | $123.49
31614 | T | Repair windpipe opening | 0256 | 25.40 | $1,259.74 | $623.05 | $251.95
31615 | T | Visualization of windpipe | 0076 | 8.06 | $399.75 | $197.05 | $79.95
31622 | T | Dx bronchoscope/wash | 0076 | 8.06 | $399.75 | $197.05 | $79.95
31623 | T | Dx bronchoscope/brush | 0076 | 8.06 | $399.75 | $197.05 | $79.95
31624 | T | Dx bronchoscope/lavage | 0076 | 8.06 | $399.75 | $197.05 | $79.95
31625 | T | Bronchoscopy with biopsy | 0076 | 8.06 | $399.75 | $197.05 | $79.95
31628 | T | Bronchoscopy with biopsy | 0076 | 8.06 | $399.75 | $197.05 | $79.95
31629 | T | Bronchoscopy with biopsy | 0076 | 8.06 | $399.75 | $197.05 | $79.95
31630 | T | Bronchoscopy with repair | 0076 | 8.06 | $399.75 | $197.05 | $79.95
31631 | T | Bronchoscopy with dilation | 0076 | 8.06 | $399.75 | $197.05 | $79.95
31635 | T | Remove foreign body, airway | 0076 | 8.06 | $399.75 | $197.05 | $79.95
31640 | T | Bronchoscopy & remove lesion | 0076 | 8.06 | $399.75 | $197.05 | $79.95
31641 | T | Bronchoscopy, treat blockage | 0076 | 8.06 | $399.75 | $197.05 | $79.95
31643 | T | Diag bronchoscope/catheter | 0076 | 8.06 | $399.75 | $197.05 | $79.95
31645 | T | Bronchoscopy, clear airways | 0076 | 8.06 | $399.75 | $197.05 | $79.95
31646 | T | Bronchoscopy, reclear airway | 0076 | 8.06 | $399.75 | $197.05 | $79.95
31656 | T | Bronchoscopy, inj for xray | 0076 | 8.06 | $399.75 | $197.05 | $79.95
31700 | T | Insertion of airway catheter | 0072 | 1.26 | $62.49 | $41.52 | $12.50
31708 | N | Instill airway contrast dye |  |  |  |  |
31710 | N | Insertion of airway catheter |  |  |  |  |
31715 | N | Injection for bronchus x-ray |  |  |  |  |
31717 | T | Bronchial brush biopsy | 0073 | 4.11 | $203.84 | $91.07 | $40.77
31720 | T | Clearance of airways | 0072 | 1.26 | $62.49 | $41.52 | $12.50
31725 | C | Clearance of airways |  |  |  |  |
31730 | T | Intro, windpipe wire/tube | 0073 | 4.11 | $203.84 | $91.07 | $40.77
31750 | T | Repair of windpipe | 0256 | 25.40 | $1,259.74 | $623.05 | $251.95
31755 | T | Repair of windpipe | 0256 | 25.40 | $1,259.74 | $623.05 | $251.95
31760 | C | Repair of windpipe |  |  |  |  |
31766 | C | Reconstruction of windpipe |  |  |  |  |
31770 | C | Repair/graft of bronchus |  |  |  |  |
31775 | C | Reconstruct bronchus |  |  |  |  |
31780 | C | Reconstruct windpipe |  |  |  |  |
31781 | C | Reconstruct windpipe |  |  |  |  |
31785 | C | Remove windpipe lesion |  |  |  |  |
31786 | C | Remove windpipe lesion |  |  |  |  |
31800 | C | Repair of windpipe injury |  |  |  |  |
31805 | C | Repair of windpipe injury |  |  |  |  |
31820 | T | Closure of windpipe lesion | 0253 | 12.02 | $596.14 | $284.00 | $119.23
31825 | T | Repair of windpipe defect | 0254 | 12.45 | $617.47 | $272.41 | $123.49
31830 | T | Revise windpipe scar | 0254 | 12.45 | $617.47 | $272.41 | $123.49
31899 | T | Airways surgical procedure | 0076 | 8.06 | $399.75 | $197.05 | $79.95
32000 | T | Drainage of chest | 0070 | 3.64 | $180.53 | $79.60 | $36.11
32002 | T | Treatment of collapsed lung | 0070 | 3.64 | $180.53 | $79.60 | $36.11
32005 | T | Treat lung lining chemically | 0070 | 3.64 | $180.53 | $79.60 | $36.11
32020 | T | Insertion of chest tube | 0070 | 3.64 | $180.53 | $79.60 | $36.11
32035 | C | Exploration of chest |  |  |  |  |
32036 | C | Exploration of chest |  |  |  |  |
32095 | C | Biopsy through chest wall |  |  |  |  |
32100 | C | Exploration/biopsy of chest |  |  |  |  |
32110 | C | Explore/repair chest |  |  |  |  |
32120 | C | Re-exploration of chest |  |  |  |  |
32124 | C | Explore chest free adhesions |  |  |  |  |
32140 | C | Removal of lung lesion(s) |  |  |  |  |
32141 | C | Remove/treat lung lesions |  |  |  |  |
32150 | C | Removal of lung lesion(s) |  |  |  |  |
32151 | C | Remove lung foreign body |  |  |  |  |
32160 | C | Open chest heart massage |  |  |  |  |
32200 | C | Drain, open, lung lesion |  |  |  |  |
32201 | C | Drain, percut, lung lesion |  |  |  |  |
32215 | C | Treat chest lining |  |  |  |  |
32220 | C | Release of lung |  |  |  |  |
32225 | C | Partial release of lung |  |  |  |  |
32310 | C | Removal of chest lining |  |  |  |  |
32320 | C | Free/remove chest lining |  |  |  |  |
32400 | T | Needle biopsy chest lining | 0005 | 5.41 | $268.32 | $119.75 | $53.66
32402 | C | Open biopsy chest lining |  |  |  |  |
32405 | T | Biopsy, lung or mediastinum | 0005 | 5.41 | $268.32 | $119.75 | $53.66
32420 | T | Puncture/clear lung | 0070 | 3.64 | $180.53 | $79.60 | $36.11
32440 | C | Removal of lung |  |  |  |  |
32442 | C | Sleeve pneumonectomy |  |  |  |  |
32445 | C | Removal of lung |  |  |  |  |
32480 | C | Partial removal of lung |  |  |  |  |
32482 | C | Bilobectomy |  |  |  |  |
32484 | C | Segmentectomy |  |  |  |  |
32486 | C | Sleeve lobectomy |  |  |  |  |
32488 | C | Completion pneumonectomy |  |  |  |  |
32491 | C | Lung volume reduction |  |  |  |  |
32500 | C | Partial removal of lung |  |  |  |  |
32501 | C | Repair bronchus add-on |  |  |  |  |
32520 | C | Remove lung & revise chest |  |  |  |  |
32522 | C | Remove lung & revise chest |  |  |  |  |
32525 | C | Remove lung & revise chest |  |  |  |  |
32540 | C | Removal of lung lesion |  |  |  |  |
32601 | T | Thoracoscopy, diagnostic | 0076 | 8.06 | $399.75 | $197.05 | $79.95
32602 | T | Thoracoscopy, diagnostic | 0076 | 8.06 | $399.75 | $197.05 | $79.95
32603 | T | Thoracoscopy, diagnostic | 0076 | 8.06 | $399.75 | $197.05 | $79.95
32604 | T | Thoracoscopy, diagnostic | 0076 | 8.06 | $399.75 | $197.05 | $79.95
32605 | T | Thoracoscopy, diagnostic | 0076 | 8.06 | $399.75 | $197.05 | $79.95
32606 | T | Thoracoscopy, diagnostic | 0076 | 8.06 | $399.75 | $197.05 | $79.95
32650 | C | Thoracoscopy, surgical |  |  |  |  |
32651 | C | Thoracoscopy, surgical |  |  |  |  |
32652 | C | Thoracoscopy, surgical |  |  |  |  |
32653 | C | Thoracoscopy, surgical |  |  |  |  |
32654 | C | Thoracoscopy, surgical |  |  |  |  |
32655 | C | Thoracoscopy, surgical |  |  |  |  |
32656 | C | Thoracoscopy, surgical |  |  |  |  |
32657 | C | Thoracoscopy, surgical |  |  |  |  |
32658 | C | Thoracoscopy, surgical |  |  |  |  |
32659 | C | Thoracoscopy, surgical |  |  |  |  |
32660 | C | Thoracoscopy, surgical |  |  |  |  |
32661 | C | Thoracoscopy, surgical |  |  |  |  |
32662 | C | Thoracoscopy, surgical |  |  |  |  |
32663 | C | Thoracoscopy, surgical |  |  |  |  |
32664 | C | Thoracoscopy, surgical |  |  |  |  |
32665 | C | Thoracoscopy, surgical |  |  |  |  |
32800 | C | Repair lung hernia |  |  |  |  |
32810 | C | Close chest after drainage |  |  |  |  |
32815 | C | Close bronchial fistula |  |  |  |  |
32820 | C | Reconstruct injured chest |  |  |  |  |
32850 | C | Donor pneumonectomy |  |  |  |  |
32851 | C | Lung transplant, single |  |  |  |  |
32852 | C | Lung transplant with bypass |  |  |  |  |
32853 | C | Lung transplant, double |  |  |  |  |
32854 | C | Lung transplant with bypass |  |  |  |  |
32900 | C | Removal of rib(s) |  |  |  |  |
32905 | C | Revise & repair chest wall |  |  |  |  |
32906 | C | Revise & repair chest wall |  |  |  |  |
32940 | C | Revision of lung |  |  |  |  |
32960 | T | Therapeutic pneumothorax | 0070 | 3.64 | $180.53 | $79.60 | $36.11
32997 | C | Total lung lavage |  |  |  |  |
32999 | T | Chest surgery procedure | 0070 | 3.64 | $180.53 | $79.60 | $36.11
33010 | T | Drainage of heart sac | 0070 | 3.64 | $180.53 | $79.60 | $36.11
33011 | T | Repeat drainage of heart sac | 0070 | 3.64 | $180.53 | $79.60 | $36.11
33015 | C | Incision of heart sac |  |  |  |  |
33020 | C | Incision of heart sac |  |  |  |  |
33025 | C | Incision of heart sac |  |  |  |  |
33030 | C | Partial removal of heart sac |  |  |  |  |
33031 | C | Partial removal of heart sac |  |  |  |  |
33050 | C | Removal of heart sac lesion |  |  |  |  |
33120 | C | Removal of heart lesion |  |  |  |  |
33130 | C | Removal of heart lesion |  |  |  |  |
33140 | C | Heart revascularize (tmr) |  |  |  |  |
*33141 | C | Heart TMR w/ other procedure |  |  |  |  |
33200 | C | Insertion of heart pacemaker |  |  |  |  |
33201 | C | Insertion of heart pacemaker |  |  |  |  |
33206 | T | Insertion of heart pacemaker | 0089 | 78.45 | $3,890.81 | $2,275.19 | $778.16
33207 | T | Insertion of heart pacemaker | 0089 | 78.45 | $3,890.81 | $2,275.19 | $778.16
33208 | T | Insertion of heart pacemaker | 0089 | 78.45 | $3,890.81 | $2,275.19 | $778.16
33210 | T | Insertion of heart electrode | 0106 | 18.96 | $940.34 | $503.07 | $188.07
33211 | T | Insertion of heart electrode | 0106 | 18.96 | $940.34 | $503.07 | $188.07
33212 | T | Insertion of pulse generator | 0090 | 78.28 | $3,882.37 | $2,133.88 | $776.47
33213 | T | Insertion of pulse generator | 0090 | 78.28 | $3,882.37 | $2,133.88 | $776.47
33214 | T | Upgrade of pacemaker system | 0089 | 78.45 | $3,890.81 | $2,275.19 | $778.16
33216 | T | Revise eltrd pacing-defib | 0106 | 18.96 | $940.34 | $503.07 | $188.07
33217 | T | Revise eltrd pacing-defib | 0106 | 18.96 | $940.34 | $503.07 | $188.07
33218 | T | Revise eltrd pacing-defib | 0106 | 18.96 | $940.34 | $503.07 | $188.07
33220 | T | Revise eltrd pacing-defib | 0106 | 18.96 | $940.34 | $503.07 | $188.07
33222 | T | Revise pocket, pacemaker | 0026 | 12.11 | $600.61 | $277.92 | $120.12
33223 | T | Revise pocket, pacing-defib | 0026 | 12.11 | $600.61 | $277.92 | $120.12
33233 | T | Removal of pacemaker system | 0105 | 15.06 | $746.92 | $372.32 | $149.38
33234 | T | Removal of pacemaker system | 0105 | 15.06 | $746.92 | $372.32 | $149.38
33235 | T | Removal pacemaker electrode | 0105 | 15.06 | $746.92 | $372.32 | $149.38
33236 | C | Remove electrode/thoracotomy |  |  |  |  |
33237 | C | Remove electrode/thoracotomy |  |  |  |  |
33238 | C | Remove electrode/thoracotomy |  |  |  |  |
33240 | T | Insert pulse generator | 0107 | 147.51 | $7,315.91 | $5,086.37 | $1,463.18
33241 | T | Remove pulse generator | 0105 | 15.06 | $746.92 | $372.32 | $149.38
33243 | C | Remove eltrd/thoracotomy |  |  |  |  |
33244 | T | Remove eltrd, transven | 0105 | 15.06 | $746.92 | $372.32 | $149.38
33245 | C | Insert epic eltrd pace-defib |  |  |  |  |
33246 | C | Insert epic eltrd/generator |  |  |  |  |
33249 | T | Eltrd/insert pace-defib | 0108 | 210.84 | $10,456.84 | $5,484.72 | $2,091.37
33250 | C | Ablate heart dysrhythm focus |  |  |  |  |
33251 | C | Ablate heart dysrhythm focus |  |  |  |  |
33253 | C | Reconstruct atria |  |  |  |  |
33261 | C | Ablate heart dysrhythm focus |  |  |  |  |
33282 | S | Implant pat-active ht record | 0974 | 8.25 | $409.17 |  | $81.83
33284 | T | Remove pat-active ht record | 0109 | 6.53 | $323.86 | $133.51 | $64.77
33300 | C | Repair of heart wound |  |  |  |  |
33305 | C | Repair of heart wound |  |  |  |  |
33310 | C | Exploratory heart surgery |  |  |  |  |
33315 | C | Exploratory heart surgery |  |  |  |  |
33320 | C | Repair major blood vessel(s) |  |  |  |  |
33321 | C | Repair major vessel |  |  |  |  |
33322 | C | Repair major blood vessel(s) |  |  |  |  |
33330 | C | Insert major vessel graft |  |  |  |  |
33332 | C | Insert major vessel graft |  |  |  |  |
33335 | C | Insert major vessel graft |  |  |  |  |
33400 | C | Repair of aortic valve |  |  |  |  |
33401 | C | Valvuloplasty, open |  |  |  |  |
33403 | C | Valvuloplasty, w/cp bypass |  |  |  |  |
33404 | C | Prepare heart-aorta conduit |  |  |  |  |
33405 | C | Replacement of aortic valve |  |  |  |  |
33406 | C | Replacement of aortic valve |  |  |  |  |
33410 | C | Replacement of aortic valve |  |  |  |  |
33411 | C | Replacement of aortic valve |  |  |  |  |
33412 | C | Replacement of aortic valve |  |  |  |  |
33413 | C | Replacement of aortic valve |  |  |  |  |
33414 | C | Repair of aortic valve |  |  |  |  |
33415 | C | Revision, subvalvular tissue |  |  |  |  |
33416 | C | Revise ventricle muscle |  |  |  |  |
33417 | C | Repair of aortic valve |  |  |  |  |
33420 | C | Revision of mitral valve |  |  |  |  |
33422 | C | Revision of mitral valve |  |  |  |  |
33425 | C | Repair of mitral valve |  |  |  |  |
33426 | C | Repair of mitral valve |  |  |  |  |
33427 | C | Repair of mitral valve |  |  |  |  |
33430 | C | Replacement of mitral valve |  |  |  |  |
33460 | C | Revision of tricuspid valve |  |  |  |  |
33463 | C | Valvuloplasty, tricuspid |  |  |  |  |
33464 | C | Valvuloplasty, tricuspid |  |  |  |  |
33465 | C | Replace tricuspid valve |  |  |  |  |
33468 | C | Revision of tricuspid valve |  |  |  |  |
33470 | C | Revision of pulmonary valve |  |  |  |  |
33471 | C | Valvotomy, pulmonary valve |  |  |  |  |
33472 | C | Revision of pulmonary valve |  |  |  |  |
33474 | C | Revision of pulmonary valve |  |  |  |  |
33475 | C | Replacement, pulmonary valve |  |  |  |  |
33476 | C | Revision of heart chamber |  |  |  |  |
33478 | C | Revision of heart chamber |  |  |  |  |
33496 | C | Repair, prosth valve clot |  |  |  |  |
33500 | C | Repair heart vessel fistula |  |  |  |  |
33501 | C | Repair heart vessel fistula |  |  |  |  |
33502 | C | Coronary artery correction |  |  |  |  |
33503 | C | Coronary artery graft |  |  |  |  |
33504 | C | Coronary artery graft |  |  |  |  |
33505 | C | Repair artery w/tunnel |  |  |  |  |
33506 | C | Repair artery, translocation |  |  |  |  |
33510 | C | CABG, vein, single |  |  |  |  |
33511 | C | CABG, vein, two |  |  |  |  |
33512 | C | CABG, vein, three |  |  |  |  |
33513 | C | CABG, vein, four |  |  |  |  |
33514 | C | CABG, vein, five |  |  |  |  |
33516 | C | Cabg, vein, six or more |  |  |  |  |
33517 | C | CABG, artery-vein, single |  |  |  |  |
33518 | C | CABG, artery-vein, two |  |  |  |  |
33519 | C | CABG, artery-vein, three |  |  |  |  |
33521 | C | CABG, artery-vein, four |  |  |  |  |
33522 | C | CABG, artery-vein, five |  |  |  |  |
33523 | C | Cabg, art-vein, six or more |  |  |  |  |
33530 | C | Coronary artery, bypass/reop |  |  |  |  |
33533 | C | CABG, arterial, single |  |  |  |  |
33534 | C | CABG, arterial, two |  |  |  |  |
33535 | C | CABG, arterial, three |  |  |  |  |
33536 | C | Cabg, arterial, four or more |  |  |  |  |
33542 | C | Removal of heart lesion |  |  |  |  |
33545 | C | Repair of heart damage |  |  |  |  |
33572 | C | Open coronary endarterectomy |  |  |  |  |
33600 | C | Closure of valve |  |  |  |  |
33602 | C | Closure of valve |  |  |  |  |
33606 | C | Anastomosis/artery-aorta |  |  |  |  |
33608 | C | Repair anomaly w/conduit |  |  |  |  |
33610 | C | Repair by enlargement |  |  |  |  |
33611 | C | Repair double ventricle |  |  |  |  |
33612 | C | Repair double ventricle |  |  |  |  |
33615 | C | Repair, simple fontan |  |  |  |  |
33617 | C | Repair, modified fontan |  |  |  |  |
33619 | C | Repair single ventricle |  |  |  |  |
33641 | C | Repair heart septum defect |  |  |  |  |
33645 | C | Revision of heart veins |  |  |  |  |
33647 | C | Repair heart septum defects |  |  |  |  |
33660 | C | Repair of heart defects |  |  |  |  |
33665 | C | Repair of heart defects |  |  |  |  |
33670 | C | Repair of heart chambers |  |  |  |  |
33681 | C | Repair heart septum defect |  |  |  |  |
33684 | C | Repair heart septum defect |  |  |  |  |
33688 | C | Repair heart septum defect |  |  |  |  |
33690 | C | Reinforce pulmonary artery |  |  |  |  |
33692 | C | Repair of heart defects |  |  |  |  |
33694 | C | Repair of heart defects |  |  |  |  |
33697 | C | Repair of heart defects |  |  |  |  |
33702 | C | Repair of heart defects |  |  |  |  |
33710 | C | Repair of heart defects |  |  |  |  |
33720 | C | Repair of heart defect |  |  |  |  |
33722 | C | Repair of heart defect |  |  |  |  |
33730 | C | Repair heart-vein defect(s) |  |  |  |  |
33732 | C | Repair heart-vein defect |  |  |  |  |
33735 | C | Revision of heart chamber |  |  |  |  |
33736 | C | Revision of heart chamber |  |  |  |  |
33737 | C | Revision of heart chamber |  |  |  |  |
33750 | C | Major vessel shunt |  |  |  |  |
33755 | C | Major vessel shunt |  |  |  |  |
33762 | C | Major vessel shunt |  |  |  |  |
33764 | C | Major vessel shunt & graft |  |  |  |  |
33766 | C | Major vessel shunt |  |  |  |  |
33767 | C | Major vessel shunt |  |  |  |  |
33770 | C | Repair great vessels defect |  |  |  |  |
33771 | C | Repair great vessels defect |  |  |  |  |
33774 | C | Repair great vessels defect |  |  |  |  |
33775 | C | Repair great vessels defect |  |  |  |  |
33776 | C | Repair great vessels defect |  |  |  |  |
33777 | C | Repair great vessels defect |  |  |  |  |
33778 | C | Repair great vessels defect |  |  |  |  |
33779 | C | Repair great vessels defect |  |  |  |  |
33780 | C | Repair great vessels defect |  |  |  |  |
33781 | C | Repair great vessels defect |  |  |  |  |
33786 | C | Repair arterial trunk |  |  |  |  |
33788 | C | Revision of pulmonary artery |  |  |  |  |
33800 | C | Aortic suspension |  |  |  |  |
33802 | C | Repair vessel defect |  |  |  |  |
33803 | C | Repair vessel defect |  |  |  |  |
33813 | C | Repair septal defect |  |  |  |  |
33814 | C | Repair septal defect |  |  |  |  |
33820 | C | Revise major vessel |  |  |  |  |
33822 | C | Revise major vessel |  |  |  |  |
33824 | C | Revise major vessel |  |  |  |  |
33840 | C | Remove aorta constriction |  |  |  |  |
33845 | C | Remove aorta constriction |  |  |  |  |
33851 | C | Remove aorta constriction |  |  |  |  |
33852 | C | Repair septal defect |  |  |  |  |
33853 | C | Repair septal defect |  |  |  |  |
33860 | C | Ascending aortic graft |  |  |  |  |
33861 | C | Ascending aortic graft |  |  |  |  |
33863 | C | Ascending aortic graft |  |  |  |  |
33870 | C | Transverse aortic arch graft |  |  |  |  |
33875 | C | Thoracic aortic graft |  |  |  |  |
33877 | C | Thoracoabdominal graft |  |  |  |  |
33910 | C | Remove lung artery emboli |  |  |  |  |
33915 | C | Remove lung artery emboli |  |  |  |  |
33916 | C | Surgery of great vessel |  |  |  |  |
33917 | C | Repair pulmonary artery |  |  |  |  |
33918 | C | Repair pulmonary atresia |  |  |  |  |
33919 | C | Repair pulmonary atresia |  |  |  |  |
33920 | C | Repair pulmonary atresia |  |  |  |  |
33922 | C | Transect pulmonary artery |  |  |  |  |
33924 | C | Remove pulmonary shunt |  |  |  |  |
33930 | C | Removal of donor heart/lung |  |  |  |  |
33935 | C | Transplantation, heart/lung |  |  |  |  |
33940 | C | Removal of donor heart |  |  |  |  |
33945 | C | Transplantation of heart |  |  |  |  |
33960 | C | External circulation assist |  |  |  |  |
33961 | C | External circulation assist |  |  |  |  |
33968 | C | Remove aortic assist device |  |  |  |  |
33970 | C | Aortic circulation assist |  |  |  |  |
33971 | C | Aortic circulation assist |  |  |  |  |
33973 | C | Insert balloon device |  |  |  |  |
33974 | C | Remove intra-aortic balloon |  |  |  |  |
33975 | C | Implant ventricular device |  |  |  |  |
33976 | C | Implant ventricular device |  |  |  |  |
33977 | C | Remove ventricular device |  |  |  |  |
33978 | C | Remove ventricular device |  |  |  |  |
33999 | T | Cardiac surgery procedure | 0070 | 3.64 | $180.53 | $79.60 | $36.11
34001 | C | Removal of artery clot |  |  |  |  |
34051 | C | Removal of artery clot |  |  |  |  |
34101 | T | Removal of artery clot | 0088 | 26.49 | $1,313.80 | $678.68 | $262.76
34111 | T | Removal of arm artery clot | 0088 | 26.49 | $1,313.80 | $678.68 | $262.76
34151 | C | Removal of artery clot |  |  |  |  |
34201 | T | Removal of artery clot | 0088 | 26.49 | $1,313.80 | $678.68 | $262.76
34203 | T | Removal of leg artery clot | 0088 | 26.49 | $1,313.80 | $678.68 | $262.76
34401 | C | Removal of vein clot |  |  |  |  |
34421 | T | Removal of vein clot | 0088 | 26.49 | $1,313.80 | $678.68 | $262.76
34451 | C | Removal of vein clot |  |  |  |  |
34471 | T | Removal of vein clot | 0088 | 26.49 | $1,313.80 | $678.68 | $262.76
34490 | T | Removal of vein clot | 0088 | 26.49 | $1,313.80 | $678.68 | $262.76
34501 | T | Repair valve, femoral vein | 0088 | 26.49 | $1,313.80 | $678.68 | $262.76
34502 | C | Reconstruct vena cava |  |  |  |  |
34510 | T | Transposition of vein valve | 0088 | 26.49 | $1,313.80 | $678.68 | $262.76
34520 | T | Cross-over vein graft | 0088 | 26.49 | $1,313.80 | $678.68 | $262.76
34530 | T | Leg vein fusion | 0088 | 26.49 | $1,313.80 | $678.68 | $262.76
*34800 | C | Endovasc abdo repair w/tube |  |  |  |  |
*34802 | C | Endovasc abdo repr w/device |  |  |  |  |
*34804 | C | Endovasc abdo repr w/device |  |  |  |  |
*34808 | C | Endovasc abdo occlud device |  |  |  |  |
*34812 | C | xpose for endoprosth, aortic |  |  |  |  |
*34813 | C | xpose for endoprosth, femoral |  |  |  |  |
*34820 | C | xpose for endoprosth, iliac |  |  |  |  |
*34825 | C | endovasc extend prosth, init |  |  |  |  |
*34826 | C | endovasc extend prosth,addl |  |  |  |  |
*34830 | C | open aortic tube prosth repr |  |  |  |  |
*34831 | C | open aortoiliac prosth repr |  |  |  |  |
*34832 | C | open aortofemor prosth repr |  |  |  |  |
35001 | C | Repair defect of artery |  |  |  |  |
35002 | C | Repair artery rupture, neck |  |  |  |  |
35005 | C | Repair defect of artery |  |  |  |  |
35011 | T | Repair defect of artery | 0093 | 12.82 | $635.82 | $277.34 | $127.16
35013 | C | Repair artery rupture, arm |  |  |  |  |
35021 | C | Repair defect of artery |  |  |  |  |
35022 | C | Repair artery rupture, chest |  |  |  |  |
35045 | C | Repair defect of arm artery |  |  |  |  |
35081 | C | Repair defect of artery |  |  |  |  |
35082 | C | Repair artery rupture, aorta |  |  |  |  |
35091 | C | Repair defect of artery |  |  |  |  |
35092 | C | Repair artery rupture, aorta |  |  |  |  |
35102 | C | Repair defect of artery |  |  |  |  |
35103 | C | Repair artery rupture, groin |  |  |  |  |
35111 | C | Repair defect of artery |  |  |  |  |
35112 | C | Repair artery rupture,spleen |  |  |  |  |
35121 | C | Repair defect of artery |  |  |  |  |
35122 | C | Repair artery rupture, belly |  |  |  |  |
35131 | C | Repair defect of artery |  |  |  |  |
35132 | C | Repair artery rupture, groin |  |  |  |  |
35141 | C | Repair defect of artery |  |  |  |  |
35142 | C | Repair artery rupture, thigh |  |  |  |  |
35151 | C | Repair defect of artery |  |  |  |  |
35152 | C | Repair artery rupture, knee |  |  |  |  |
35161 | C | Repair defect of artery |  |  |  |  |
35162 | C | Repair artery rupture |  |  |  |  |
35180 | T | Repair blood vessel lesion | 0093 | 12.82 | $635.82 | $277.34 | $127.16
35182 | C | Repair blood vessel lesion |  |  |  |  |
35184 | T | Repair blood vessel lesion | 0093 | 12.82 | $635.82 | $277.34 | $127.16
35188 | T | Repair blood vessel lesion | 0088 | 26.49 | $1,313.80 | $678.68 | $262.76
35189 | C | Repair blood vessel lesion |  |  |  |  |
35190 | T | Repair blood vessel lesion | 0093 | 12.82 | $635.82 | $277.34 | $127.16
35201 | T | Repair blood vessel lesion | 0093 | 12.82 | $635.82 | $277.34 | $127.16
35206 | T | Repair blood vessel lesion | 0093 | 12.82 | $635.82 | $277.34 | $127.16
35207 | T | Repair blood vessel lesion | 0088 | 26.49 | $1,313.80 | $678.68 | $262.76
35211 | C | Repair blood vessel lesion |  |  |  |  |
35216 | C | Repair blood vessel lesion |  |  |  |  |
35221 | C | Repair blood vessel lesion |  |  |  |  |
35226 | T | Repair blood vessel lesion | 0093 | 12.82 | $635.82 | $277.34 | $127.16
35231 | T | Repair blood vessel lesion | 0093 | 12.82 | $635.82 | $277.34 | $127.16
35236 | T | Repair blood vessel lesion | 0093 | 12.82 | $635.82 | $277.34 | $127.16
35241 | C | Repair blood vessel lesion |  |  |  |  |
35246 | C | Repair blood vessel lesion |  |  |  |  |
35251 | C | Repair blood vessel lesion |  |  |  |  |
35256 | T | Repair blood vessel lesion | 0093 | 12.82 | $635.82 | $277.34 | $127.16
35261 | T | Repair blood vessel lesion | 0093 | 12.82 | $635.82 | $277.34 | $127.16
35266 | T | Repair blood vessel lesion | 0093 | 12.82 | $635.82 | $277.34 | $127.16
35271 | C | Repair blood vessel lesion |  |  |  |  |
35276 | C | Repair blood vessel lesion |  |  |  |  |
35281 | C | Repair blood vessel lesion |  |  |  |  |
35286 | T | Repair blood vessel lesion | 0093 | 12.82 | $635.82 | $277.34 | $127.16
35301 | C | Rechanneling of artery |  |  |  |  |
35311 | C | Rechanneling of artery |  |  |  |  |
35321 | T | Rechanneling of artery | 0093 | 12.82 | $635.82 | $277.34 | $127.16
35331 | C | Rechanneling of artery |  |  |  |  |
35341 | C | Rechanneling of artery |  |  |  |  |
35351 | C | Rechanneling of artery |  |  |  |  |
35355 | C | Rechanneling of artery |  |  |  |  |
35361 | C | Rechanneling of artery |  |  |  |  |
35363 | C | Rechanneling of artery |  |  |  |  |
35371 | C | Rechanneling of artery |  |  |  |  |
35372 | C | Rechanneling of artery |  |  |  |  |
35381 | C | Rechanneling of artery |  |  |  |  |
35390 | C | Reoperation, carotid add-on |  |  |  |  |
35400 | C | Angioscopy |  |  |  |  |
35450 | C | Repair arterial blockage |  |  |  |  |
35452 | C | Repair arterial blockage |  |  |  |  |
35454 | C | Repair arterial blockage |  |  |  |  |
35456 | C | Repair arterial blockage |  |  |  |  |
35458 | T | Repair arterial blockage | 0081 | 28.81 | $1,428.86 | $710.91 | $285.77
35459 | T | Repair arterial blockage | 0081 | 28.81 | $1,428.86 | $710.91 | $285.77
35460 | T | Repair venous blockage | 0081 | 28.81 | $1,428.86 | $710.91 | $285.77
35470 | T | Repair arterial blockage | 0081 | 28.81 | $1,428.86 | $710.91 | $285.77
35471 | T | Repair arterial blockage | 0081 | 28.81 | $1,428.86 | $710.91 | $285.77
35472 | T | Repair arterial blockage | 0081 | 28.81 | $1,428.86 | $710.91 | $285.77
35473 | T | Repair arterial blockage | 0081 | 28.81 | $1,428.86 | $710.91 | $285.77
35474 | T | Repair arterial blockage | 0081 | 28.81 | $1,428.86 | $710.91 | $285.77
35475 | T | Repair arterial blockage | 0081 | 28.81 | $1,428.86 | $710.91 | $285.77
35476 | T | Repair venous blockage | 0081 | 28.81 | $1,428.86 | $710.91 | $285.77
35480 | C | Atherectomy, open |  |  |  |  |
35481 | T | Atherectomy, open | 0081 | 28.81 | $1,428.86 | $710.91 | $285.77
35482 | C | Atherectomy, open |  |  |  |  |
35483 | C | Atherectomy, open |  |  |  |  |
35484 | T | Atherectomy, open | 0081 | 28.81 | $1,428.86 | $710.91 | $285.77
35485 | T | Atherectomy, open | 0081 | 28.81 | $1,428.86 | $710.91 | $285.77
35490 | T | Atherectomy, percutaneous | 0081 | 28.81 | $1,428.86 | $710.91 | $285.77
35491 | T | Atherectomy, percutaneous | 0081 | 28.81 | $1,428.86 | $710.91 | $285.77
35492 | T | Atherectomy, percutaneous | 0081 | 28.81 | $1,428.86 | $710.91 | $285.77
35493 | T | Atherectomy, percutaneous | 0081 | 28.81 | $1,428.86 | $710.91 | $285.77
35494 | T | Atherectomy, percutaneous | 0081 | 28.81 | $1,428.86 | $710.91 | $285.77
35495 | T | Atherectomy, percutaneous | 0081 | 28.81 | $1,428.86 | $710.91 | $285.77
35500 | T | Harvest vein for bypass | 0091 | 14.79 | $733.52 | $348.23 | $146.70
35501 | C | Artery bypass graft |  |  |  |  |
35506 | C | Artery bypass graft |  |  |  |  |
35507 | C | Artery bypass graft |  |  |  |  |
35508 | C | Artery bypass graft |  |  |  |  |
35509 | C | Artery bypass graft |  |  |  |  |
35511 | C | Artery bypass graft |  |  |  |  |
35515 | C | Artery bypass graft |  |  |  |  |
35516 | C | Artery bypass graft |  |  |  |  |
35518 | C | Artery bypass graft |  |  |  |  |
35521 | C | Artery bypass graft |  |  |  |  |
35526 | C | Artery bypass graft |  |  |  |  |
35531 | C | Artery bypass graft |  |  |  |  |
35533 | C | Artery bypass graft |  |  |  |  |
35536 | C | Artery bypass graft |  |  |  |  |
35541 | C | Artery bypass graft |  |  |  |  |
35546 | C | Artery bypass graft |  |  |  |  |
35548 | C | Artery bypass graft |  |  |  |  |
35549 | C | Artery bypass graft |  |  |  |  |
35551 | C | Artery bypass graft |  |  |  |  |
35556 | C | Artery bypass graft |  |  |  |  |
35558 | C | Artery bypass graft |  |  |  |  |
35560 | C | Artery bypass graft |  |  |  |  |
35563 | C | Artery bypass graft |  |  |  |  |
35565 | C | Artery bypass graft |  |  |  |  |
35566 | C | Artery bypass graft |  |  |  |  |
35571 | C | Artery bypass graft |  |  |  |  |
35582 | C | Vein bypass graft |  |  |  |  |
35583 | C | Vein bypass graft |  |  |  |  |
35585 | C | Vein bypass graft |  |  |  |  |
35587 | C | Vein bypass graft |  |  |  |  |
*35600 | C | Harvest artery for CABG |  |  |  |  |
35601 | C | Artery bypass graft |  |  |  |  |
35606 | C | Artery bypass graft |  |  |  |  |
35612 | C | Artery bypass graft |  |  |  |  |
35616 | C | Artery bypass graft |  |  |  |  |
35621 | C | Artery bypass graft |  |  |  |  |
35623 | C | Bypass graft, not vein |  |  |  |  |
35626 | C | Artery bypass graft |  |  |  |  |
35631 | C | Artery bypass graft |  |  |  |  |
35636 | C | Artery bypass graft |  |  |  |  |
35641 | C | Artery bypass graft |  |  |  |  |
35642 | C | Artery bypass graft |  |  |  |  |
35645 | C | Artery bypass graft |  |  |  |  |
35646 | C | Artery bypass graft |  |  |  |  |
35650 | C | Artery bypass graft |  |  |  |  |
35651 | C | Artery bypass graft |  |  |  |  |
35654 | C | Artery bypass graft |  |  |  |  |
35656 | C | Artery bypass graft |  |  |  |  |
35661 | C | Artery bypass graft |  |  |  |  |
35663 | C | Artery bypass graft |  |  |  |  |
35665 | C | Artery bypass graft |  |  |  |  |
35666 | C | Artery bypass graft |  |  |  |  |
35671 | C | Artery bypass graft |  |  |  |  |
35681 | C | Composite bypass graft |  |  |  |  |
35682 | C | Composite bypass graft |  |  |  |  |
35683 | C | Composite bypass graft |  |  |  |  |
35691 | C | Arterial transposition |  |  |  |  |
35693 | C | Arterial transposition |  |  |  |  |
35694 | C | Arterial transposition |  |  |  |  |
35695 | C | Arterial transposition |  |  |  |  |
35700 | C | Reoperation, bypass graft |  |  |  |  |
35701 | C | Exploration, carotid artery |  |  |  |  |
35721 | C | Exploration, femoral artery |  |  |  |  |
35741 | C | Exploration popliteal artery |  |  |  |  |
35761 | T | Exploration of artery/vein | 0115 | 19.34 | $959.19 | $506.74 | $191.84
35800 | C | Explore neck vessels |  |  |  |  |
35820 | C | Explore chest vessels |  |  |  |  |
35840 | C | Explore abdominal vessels |  |  |  |  |
35860 | T | Explore limb vessels | 0115 | 19.34 | $959.19 | $506.74 | $191.84
35870 | C | Repair vessel graft defect |  |  |  |  |
35875 | T | Removal of clot in graft | 0088 | 26.49 | $1,313.80 | $678.68 | $262.76
35876 | T | Removal of clot in graft | 0088 | 26.49 | $1,313.80 | $678.68 | $262.76
35879 | T | Revise graft w/vein | 0088 | 26.49 | $1,313.80 | $678.68 | $262.76
35881 | T | Revise graft w/vein | 0088 | 26.49 | $1,313.80 | $678.68 | $262.76
35901 | C | Excision, graft, neck |  |  |  |  |
35903 | T | Excision, graft, extremity | 0115 | 19.34 | $959.19 | $506.74 | $191.84
35905 | C | Excision, graft, thorax |  |  |  |  |
35907 | C | Excision, graft, abdomen |  |  |  |  |
36000 | N | Place needle in vein |  |  |  |  |
36005 | N | Injection, venography |  |  |  |  |
36010 | N | Place catheter in vein |  |  |  |  |
36011 | N | Place catheter in vein |  |  |  |  |
36012 | N | Place catheter in vein |  |  |  |  |
36013 | N | Place catheter in artery |  |  |  |  |
36014 | N | Place catheter in artery |  |  |  |  |
36015 | N | Place catheter in artery |  |  |  |  |
36100 | N | Establish access to artery |  |  |  |  |
36120 | N | Establish access to artery |  |  |  |  |
36140 | N | Establish access to artery |  |  |  |  |
36145 | N | Artery to vein shunt |  |  |  |  |
36160 | N | Establish access to aorta |  |  |  |  |
36200 | N | Place catheter in aorta |  |  |  |  |
36215 | N | Place catheter in artery |  |  |  |  |
36216 | N | Place catheter in artery |  |  |  |  |
36217 | N | Place catheter in artery |  |  |  |  |
36218 | N | Place catheter in artery |  |  |  |  |
36245 | N | Place catheter in artery |  |  |  |  |
36246 | N | Place catheter in artery |  |  |  |  |
36247 | N | Place catheter in artery |  |  |  |  |
36248 | N | Place catheter in artery |  |  |  |  |
36260 | T | Insertion of infusion pump | 0119 | 9.87 | $489.59 | $161.50 | $97.92
36261 | T | Revision of infusion pump | 0124 | 2.55 | $126.64 | $81.36 | $25.33
36262 | T | Removal of infusion pump | 0109 | 6.53 | $323.86 | $133.51 | $64.77
36299 | T | Vessel injection procedure | 0089 | 78.45 | $3,890.81 | $2,275.19 | $778.16
36400 | N | Drawing blood |  |  |  |  |
36405 | N | Drawing blood |  |  |  |  |
36406 | N | Drawing blood |  |  |  |  |
36410 | N | Drawing blood |  |  |  |  |
36415 | E | Drawing blood |  |  |  |  |
36420 | T | Establish access to vein | 0032 | 5.40 | $267.82 | $119.52 | $53.56
36425 | T | Establish access to vein | 0032 | 5.40 | $267.82 | $119.52 | $53.56
36430 | S | Blood transfusion service | 0110 | 5.83 | $289.15 | $122.73 | $57.83
36440 | S | Blood transfusion service | 0110 | 5.83 | $289.15 | $122.73 | $57.83
36450 | S | Exchange transfusion service | 0110 | 5.83 | $289.15 | $122.73 | $57.83
36455 | S | Exchange transfusion service | 0110 | 5.83 | $289.15 | $122.73 | $57.83
36460 | S | Transfusion service, fetal | 0110 | 5.83 | $289.15 | $122.73 | $57.83
36468 | T | Injection(s), spider veins | 0098 | 1.19 | $59.02 | $20.88 | $11.80
36469 | T | Injection(s), spider veins | 0098 | 1.19 | $59.02 | $20.88 | $11.80
36470 | T | Injection therapy of vein | 0098 | 1.19 | $59.02 | $20.88 | $11.80
36471 | T | Injection therapy of veins | 0098 | 1.19 | $59.02 | $20.88 | $11.80
36481 | N | Insertion of catheter, vein |  |  |  |  |
36488 | T | Insertion of catheter, vein | 0032 | 5.40 | $267.82 | $119.52 | $53.56
36489 | T | Insertion of catheter, vein | 0032 | 5.40 | $267.82 | $119.52 | $53.56
36490 | T | Insertion of catheter, vein | 0032 | 5.40 | $267.82 | $119.52 | $53.56
36491 | T | Insertion of catheter, vein | 0032 | 5.40 | $267.82 | $119.52 | $53.56
36493 | T | Repositioning of cvc | 0032 | 5.40 | $267.82 | $119.52 | $53.56
36500 | N | Insertion of catheter, vein |  |  |  |  |
36510 | C | Insertion of catheter, vein |  |  |  |  |
36520 | S | Plasma and/or cell exchange | 0111 | 14.17 | $702.77 | $300.74 | $140.55
36521 | S | Apheresis w/ adsorp/reinfuse | 0111 | 14.17 | $702.77 | $300.74 | $140.55
36522 | S | Photopheresis | 0112 | 39.60 | $1,964.01 | $663.65 | $392.80
36530 | T | Insertion of infusion pump | 0119 | 9.87 | $489.59 | $161.50 | $97.92
36531 | T | Revision of infusion pump | 0124 | 2.55 | $126.64 | $81.36 | $25.33
36532 | T | Removal of infusion pump | 0109 | 6.53 | $323.86 | $133.51 | $64.77
36533 | T | Insertion of access device | 0115 | 19.34 | $959.19 | $506.74 | $191.84
36534 | T | Revision of access device | 0103 | 13.09 | $649.21 | $295.70 | $129.84
36535 | T | Removal of access device | 0109 | 6.53 | $323.86 | $133.51 | $64.77
*36540 | N | Collect blood venous device |  |  |  |  |
36550 | T | Declot vascular device | 0970 | 0.52 | $25.79 |  | $5.16
36600 | N | Withdrawal of arterial blood |  |  |  |  |
36620 | N | Insertion catheter, artery |  |  |  |  |
36625 | N | Insertion catheter, artery |  |  |  |  |
36640 | T | Insertion catheter, artery | 0032 | 5.40 | $267.82 | $119.52 | $53.56
36660 | C | Insertion catheter, artery |  |  |  |  |
36680 | T | Insert needle, bone cavity | 0120 | 1.66 | $82.33 | $42.67 | $16.47
36800 | T | Insertion of cannula | 0115 | 19.34 | $959.19 | $506.74 | $191.84
36810 | T | Insertion of cannula | 0115 | 19.34 | $959.19 | $506.74 | $191.84
36815 | T | Insertion of cannula | 0115 | 19.34 | $959.19 | $506.74 | $191.84
36819 | T | Av fusion by basilic vein | 0093 | 12.82 | $635.82 | $277.34 | $127.16
36821 | T | Av fusion direct any site | 0088 | 26.49 | $1,313.80 | $678.68 | $262.76
36822 | C | Insertion of cannula(s) |  |  |  |  |
36823 | C | Insertion of cannula(s) |  |  |  |  |
36825 | T | Artery-vein graft | 0088 | 26.49 | $1,313.80 | $678.68 | $262.76
36830 | T | Artery-vein graft | 0088 | 26.49 | $1,313.80 | $678.68 | $262.76
36831 | T | Av fistula excision | 0088 | 26.49 | $1,313.80 | $678.68 | $262.76
36832 | T | Av fistula revision | 0088 | 26.49 | $1,313.80 | $678.68 | $262.76
36833 | T | Av fistula revision | 0088 | 26.49 | $1,313.80 | $678.68 | $262.76
36834 | T | Repair A-V aneurysm | 0093 | 12.82 | $635.82 | $277.34 | $127.16
36835 | T | Artery to vein shunt | 0115 | 19.34 | $959.19 | $506.74 | $191.84
36860 | T | External cannula declotting | 0115 | 19.34 | $959.19 | $506.74 | $191.84
36861 | T | Cannula declotting | 0115 | 19.34 | $959.19 | $506.74 | $191.84
*36870 | T | AV fistula revision, open | 0093 | 12.82 | $635.82 | $277.34 | $127.16
37140 | C | Revision of circulation |  |  |  |  |
37145 | C | Revision of circulation |  |  |  |  |
37160 | C | Revision of circulation |  |  |  |  |
37180 | C | Revision of circulation |  |  |  |  |
37181 | C | Splice spleen/kidney veins |  |  |  |  |
37195 | C | Thrombolytic therapy, stroke |  |  |  |  |
37200 | T | Transcatheter biopsy | 0005 | 5.41 | $268.32 | $119.75 | $53.66
37201 | T | Transcatheter therapy infuse | 0120 | 1.66 | $82.33 | $42.67 | $16.47
37202 | T | Transcatheter therapy infuse | 0120 | 1.66 | $82.33 | $42.67 | $16.47
37203 | T | Transcatheter retrieval | 0103 | 13.09 | $649.21 | $295.70 | $129.84
37204 | T | Transcatheter occlusion | 0103 | 13.09 | $649.21 | $295.70 | $129.84
37205 | T | Transcatheter stent | 0229 | 34.81 | $1,726.44 | $1,030.12 | $345.29
37206 | T | Transcatheter stent add-on | 0229 | 34.81 | $1,726.44 | $1,030.12 | $345.29
37207 | T | Transcatheter stent | 0229 | 34.81 | $1,726.44 | $1,030.12 | $345.29
37208 | T | Transcatheter stent add-on | 0229 | 34.81 | $1,726.44 | $1,030.12 | $345.29
37209 | T | Exchange arterial catheter | 0103 | 13.09 | $649.21 | $295.70 | $129.84
37250 | T | Iv us first vessel add-on | 0103 | 13.09 | $649.21 | $295.70 | $129.84
37251 | T | Iv us each add vessel add-on | 0103 | 13.09 | $649.21 | $295.70 | $129.84
37565 | T | Ligation of neck vein | 0093 | 12.82 | $635.82 | $277.34 | $127.16
37600 | T | Ligation of neck artery | 0093 | 12.82 | $635.82 | $277.34 | $127.16
37605 | T | Ligation of neck artery | 0091 | 14.79 | $733.52 | $348.23 | $146.70
37606 | T | Ligation of neck artery | 0091 | 14.79 | $733.52 | $348.23 | $146.70
37607 | T | Ligation of a-v fistula | 0092 | 20.21 | $1,002.34 | $505.37 | $200.47
37609 | T | Temporal artery procedure | 0020 | 6.51 | $322.87 | $130.53 | $64.57
37615 | T | Ligation of neck artery | 0091 | 14.79 | $733.52 | $348.23 | $146.70
37616 | C | Ligation of chest artery |  |  |  |  |
37617 | C | Ligation of abdomen artery |  |  |  |  |
37618 | C | Ligation of extremity artery |  |  |  |  |
37620 | T | Revision of major vein | 0091 | 14.79 | $733.52 | $348.23 | $146.70
37650 | T | Revision of major vein | 0091 | 14.79 | $733.52 | $348.23 | $146.70
37660 | C | Revision of major vein |  |  |  |  |
37700 | T | Revise leg vein | 0091 | 14.79 | $733.52 | $348.23 | $146.70
37720 | T | Removal of leg vein | 0092 | 20.21 | $1,002.34 | $505.37 | $200.47
37730 | T | Removal of leg veins | 0092 | 20.21 | $1,002.34 | $505.37 | $200.47
37735 | T | Removal of leg veins/lesion | 0092 | 20.21 | $1,002.34 | $505.37 | $200.47
37760 | T | Revision of leg veins | 0091 | 14.79 | $733.52 | $348.23 | $146.70
37780 | T | Revision of leg vein | 0091 | 14.79 | $733.52 | $348.23 | $146.70
37785 | T | Revise secondary varicosity | 0091 | 14.79 | $733.52 | $348.23 | $146.70
37788 | C | Revascularization, penis |  |  |  |  |
37790 | T | Penile venous occlusion | 0181 | 32.37 | $1,605.43 | $906.36 | $321.09
37799 | T | Vascular surgery procedure | 0020 | 6.51 | $322.87 | $130.53 | $64.57
38100 | C | Removal of spleen, total |  |  |  |  |
38101 | C | Removal of spleen, partial |  |  |  |  |
38102 | C | Removal of spleen, total |  |  |  |  |
38115 | C | Repair of ruptured spleen |  |  |  |  |
38120 | T | Laparoscopy, splenectomy | 0131 | 41.81 | $2,073.61 | $1,089.88 | $414.72
38129 | T | Laparoscope proc, spleen | 0130 | 25.36 | $1,257.75 | $659.53 | $251.55
38200 | N | Injection for spleen x-ray |  |  |  |  |
38230 | S | Bone marrow collection | 0123 | 4.13 | $204.83 | $40.97 | $40.97
38231 | S | Stem cell collection | 0111 | 14.17 | $702.77 | $300.74 | $140.55
38240 | S | Bone marrow/stem transplant | 0123 | 4.13 | $204.83 | $40.97 | $40.97
38241 | S | Bone marrow/stem transplant | 0123 | 4.13 | $204.83 | $40.97 | $40.97
38300 | T | Drainage, lymph node lesion | 0008 | 6.15 | $305.02 | $113.67 | $61.00
38305 | T | Drainage, lymph node lesion | 0008 | 6.15 | $305.02 | $113.67 | $61.00
38308 | T | Incision of lymph channels | 0113 | 13.89 | $688.89 | $326.55 | $137.78
38380 | C | Thoracic duct procedure |  |  |  |  |
38381 | C | Thoracic duct procedure |  |  |  |  |
38382 | C | Thoracic duct procedure |  |  |  |  |
38500 | T | Biopsy/removal, lymph nodes | 0113 | 13.89 | $688.89 | $326.55 | $137.78
38505 | T | Needle biopsy, lymph nodes | 0005 | 5.41 | $268.32 | $119.75 | $53.66
38510 | T | Biopsy/removal, lymph nodes | 0113 | 13.89 | $688.89 | $326.55 | $137.78
38520 | T | Biopsy/removal, lymph nodes | 0113 | 13.89 | $688.89 | $326.55 | $137.78
38525 | T | Biopsy/removal, lymph nodes | 0113 | 13.89 | $688.89 | $326.55 | $137.78
38530 | T | Biopsy/removal, lymph nodes | 0113 | 13.89 | $688.89 | $326.55 | $137.78
38542 | T | Explore deep node(s), neck | 0114 | 19.56 | $970.10 | $493.78 | $194.02
38550 | T | Removal, neck/armpit lesion | 0113 | 13.89 | $688.89 | $326.55 | $137.78
38555 | T | Removal, neck/armpit lesion | 0114 | 19.56 | $970.10 | $493.78 | $194.02
38562 | C | Removal, pelvic lymph nodes |  |  |  |  |
38564 | C | Removal, abdomen lymph nodes |  |  |  |  |
38570 | T | Laparoscopy, lymph node biop | 0131 | 41.81 | $2,073.61 | $1,089.88 | $414.72
38571 | T | Laparoscopy, lymphadenectomy | 0132 | 48.91 | $2,425.74 | $1,239.22 | $485.15
38572 | T | Laparoscopy, lymphadenectomy | 0131 | 41.81 | $2,073.61 | $1,089.88 | $414.72
38589 | T | Laparoscope proc, lymphatic | 0130 | 25.36 | $1,257.75 | $659.53 | $251.55
38700 | C | Removal of lymph nodes, neck |  |  |  |  |
38720 | T | Removal of lymph nodes, neck | 0114 | 19.56 | $970.10 | $493.78 | $194.02
38724 | C | Removal of lymph nodes, neck |  |  |  |  |
38740 | T | Remove armpit lymph nodes | 0114 | 19.56 | $970.10 | $493.78 | $194.02
38745 | T | Remove armpit lymph nodes | 0114 | 19.56 | $970.10 | $493.78 | $194.02
38746 | C | Remove thoracic lymph nodes |  |  |  |  |
38747 | C | Remove abdominal lymph nodes |  |  |  |  |
38760 | T | Remove groin lymph nodes | 0114 | 19.56 | $970.10 | $493.78 | $194.02
38765 | C | Remove groin lymph nodes |  |  |  |  |
38770 | C | Remove pelvis lymph nodes |  |  |  |  |
38780 | C | Remove abdomen lymph nodes |  |  |  |  |
38790 | N | Inject for lymphatic x-ray |  |  |  |  |
38792 | N | Identify sentinel node |  |  |  |  |
38794 | N | Access thoracic lymph duct |  |  |  |  |
38999 | T | Blood/lymph system procedure | 0008 | 6.15 | $305.02 | $113.67 | $61.00
39000 | C | Exploration of chest |  |  |  |  |
39010 | C | Exploration of chest |  |  |  |  |
39200 | C | Removal chest lesion |  |  |  |  |
39220 | C | Removal chest lesion |  |  |  |  |
39400 | T | Visualization of chest | 0076 | 8.06 | $399.75 | $197.05 | $79.95
39499 | C | Chest procedure |  |  |  |  |
39501 | C | Repair diaphragm laceration |  |  |  |  |
39502 | C | Repair paraesophageal hernia |  |  |  |  |
39503 | C | Repair of diaphragm hernia |  |  |  |  |
39520 | C | Repair of diaphragm hernia |  |  |  |  |
39530 | C | Repair of diaphragm hernia |  |  |  |  |
39531 | C | Repair of diaphragm hernia |  |  |  |  |
39540 | C | Repair of diaphragm hernia |  |  |  |  |
39541 | C | Repair of diaphragm hernia |  |  |  |  |
39545 | C | Revision of diaphragm |  |  |  |  |
39560 | C | Resect diaphragm, simple |  |  |  |  |
39561 | C | Resect diaphragm, complex |  |  |  |  |
39599 | C | Diaphragm surgery procedure |  |  |  |  |
40490 | T | Biopsy of lip | 0252 | 5.18 | $256.90 | $114.24 | $51.38
40500 | T | Partial excision of lip | 0253 | 12.02 | $596.14 | $284.00 | $119.23
40510 | T | Partial excision of lip | 0254 | 12.45 | $617.47 | $272.41 | $123.49
40520 | T | Partial excision of lip | 0253 | 12.02 | $596.14 | $284.00 | $119.23
40525 | T | Reconstruct lip with flap | 0254 | 12.45 | $617.47 | $272.41 | $123.49
40527 | T | Reconstruct lip with flap | 0254 | 12.45 | $617.47 | $272.41 | $123.49
40530 | T | Partial removal of lip | 0254 | 12.45 | $617.47 | $272.41 | $123.49
40650 | T | Repair lip | 0253 | 12.02 | $596.14 | $284.00 | $119.23
40652 | T | Repair lip | 0253 | 12.02 | $596.14 | $284.00 | $119.23
40654 | T | Repair lip | 0254 | 12.45 | $617.47 | $272.41 | $123.49
40700 | T | Repair cleft lip/nasal | 0256 | 25.40 | $1,259.74 | $623.05 | $251.95
40701 | T | Repair cleft lip/nasal | 0256 | 25.40 | $1,259.74 | $623.05 | $251.95
40702 | T | Repair cleft lip/nasal | 0256 | 25.40 | $1,259.74 | $623.05 | $251.95
40720 | T | Repair cleft lip/nasal | 0256 | 25.40 | $1,259.74 | $623.05 | $251.95
40761 | T | Repair cleft lip/nasal | 0256 | 25.40 | $1,259.74 | $623.05 | $251.95
40799 | T | Lip surgery procedure | 0253 | 12.02 | $596.14 | $284.00 | $119.23
40800 | T | Drainage of mouth lesion | 0251 | 1.68 | $83.32 | $27.99 | $16.66
40801 | T | Drainage of mouth lesion | 0252 | 5.18 | $256.90 | $114.24 | $51.38
40804 | T | Removal, foreign body, mouth | 0251 | 1.68 | $83.32 | $27.99 | $16.66
40805 | T | Removal, foreign body, mouth | 0252 | 5.18 | $256.90 | $114.24 | $51.38
40806 | T | Incision of lip fold | 0251 | 1.68 | $83.32 | $27.99 | $16.66
40808 | T | Biopsy of mouth lesion | 0251 | 1.68 | $83.32 | $27.99 | $16.66
40810 | T | Excision of mouth lesion | 0253 | 12.02 | $596.14 | $284.00 | $119.23
40812 | T | Excise/repair mouth lesion | 0252 | 5.18 | $256.90 | $114.24 | $51.38
40814 | T | Excise/repair mouth lesion | 0253 | 12.02 | $596.14 | $284.00 | $119.23
40816 | T | Excision of mouth lesion | 0253 | 12.02 | $596.14 | $284.00 | $119.23
40818 | T | Excise oral mucosa for graft | 0251 | 1.68 | $83.32 | $27.99 | $16.66
40819 | T | Excise lip or cheek fold | 0252 | 5.18 | $256.90 | $114.24 | $51.38
40820 | T | Treatment of mouth lesion | 0253 | 12.02 | $596.14 | $284.00 | $119.23
40830 | T | Repair mouth laceration | 0251 | 1.68 | $83.32 | $27.99 | $16.66
40831 | T | Repair mouth laceration | 0253 | 12.02 | $596.14 | $284.00 | $119.23
40840 | T | Reconstruction of mouth | 0254 | 12.45 | $617.47 | $272.41 | $123.49
40842 | T | Reconstruction of mouth | 0254 | 12.45 | $617.47 | $272.41 | $123.49
40843 | T | Reconstruction of mouth | 0254 | 12.45 | $617.47 | $272.41 | $123.49
40844 | T | Reconstruction of mouth | 0256 | 25.40 | $1,259.74 | $623.05 | $251.95
40845 | T | Reconstruction of mouth | 0256 | 25.40 | $1,259.74 | $623.05 | $251.95
40899 | T | Mouth surgery procedure | 0252 | 5.18 | $256.90 | $114.24 | $51.38
41000 | T | Drainage of mouth lesion | 0253 | 12.02 | $596.14 | $284.00 | $119.23
41005 | T | Drainage of mouth lesion | 0251 | 1.68 | $83.32 | $27.99 | $16.66
41006 | T | Drainage of mouth lesion | 0253 | 12.02 | $596.14 | $284.00 | $119.23
41007 | T | Drainage of mouth lesion | 0253 | 12.02 | $596.14 | $284.00 | $119.23
41008 | T | Drainage of mouth lesion | 0253 | 12.02 | $596.14 | $284.00 | $119.23
41009 | T | Drainage of mouth lesion | 0251 | 1.68 | $83.32 | $27.99 | $16.66
41010 | T | Incision of tongue fold | 0253 | 12.02 | $596.14 | $284.00 | $119.23
41015 | T | Drainage of mouth lesion | 0252 | 5.18 | $256.90 | $114.24 | $51.38
41016 | T | Drainage of mouth lesion | 0253 | 12.02 | $596.14 | $284.00 | $119.23
41017 | T | Drainage of mouth lesion | 0253 | 12.02 | $596.14 | $284.00 | $119.23
41018 | T | Drainage of mouth lesion | 0253 | 12.02 | $596.14 | $284.00 | $119.23
41100 | T | Biopsy of tongue | 0252 | 5.18 | $256.90 | $114.24 | $51.38
41105 | T | Biopsy of tongue | 0253 | 12.02 | $596.14 | $284.00 | $119.23
41108 | T | Biopsy of floor of mouth | 0252 | 5.18 | $256.90 | $114.24 | $51.38
41110 | T | Excision of tongue lesion | 0253 | 12.02 | $596.14 | $284.00 | $119.23
41112 | T | Excision of tongue lesion | 0253 | 12.02 | $596.14 | $284.00 | $119.23
41113 | T | Excision of tongue lesion | 0253 | 12.02 | $596.14 | $284.00 | $119.23
41114 | T | Excision of tongue lesion | 0254 | 12.45 | $617.47 | $272.41 | $123.49
41115 | T | Excision of tongue fold | 0253 | 12.02 | $596.14 | $284.00 | $119.23
41116 | T | Excision of mouth lesion | 0253 | 12.02 | $596.14 | $284.00 | $119.23
41120 | T | Partial removal of tongue | 0256 | 25.40 | $1,259.74 | $623.05 | $251.95
41130 | C | Partial removal of tongue |  |  |  |  |
41135 | C | Tongue and neck surgery |  |  |  |  |
41140 | C | Removal of tongue |  |  |  |  |
41145 | C | Tongue removal, neck surgery |  |  |  |  |
41150 | C | Tongue, mouth, jaw surgery |  |  |  |  |
41153 | C | Tongue, mouth, neck surgery |  |  |  |  |
41155 | C | Tongue, jaw, & neck surgery |  |  |  |  |
41250 | T | Repair tongue laceration | 0251 | 1.68 | $83.32 | $27.99 | $16.66
41251 | T | Repair tongue laceration | 0253 | 12.02 | $596.14 | $284.00 | $119.23
41252 | T | Repair tongue laceration | 0253 | 12.02 | $596.14 | $284.00 | $119.23
41500 | T | Fixation of tongue | 0253 | 12.02 | $596.14 | $284.00 | $119.23
41510 | T | Tongue to lip surgery | 0253 | 12.02 | $596.14 | $284.00 | $119.23
41520 | T | Reconstruction, tongue fold | 0253 | 12.02 | $596.14 | $284.00 | $119.23
41599 | T | Tongue and mouth surgery | 0251 | 1.68 | $83.32 | $27.99 | $16.66
41800 | T | Drainage of gum lesion | 0251 | 1.68 | $83.32 | $27.99 | $16.66
41805 | T | Removal foreign body, gum | 0253 | 12.02 | $596.14 | $284.00 | $119.23
41806 | T | Removal foreign body,jawbone | 0253 | 12.02 | $596.14 | $284.00 | $119.23
41820 | T | Excision, gum, each quadrant | 0252 | 5.18 | $256.90 | $114.24 | $51.38
41821 | T | Excision of gum flap | 0252 | 5.18 | $256.90 | $114.24 | $51.38
41822 | T | Excision of gum lesion | 0253 | 12.02 | $596.14 | $284.00 | $119.23
41823 | T | Excision of gum lesion | 0253 | 12.02 | $596.14 | $284.00 | $119.23
41825 | T | Excision of gum lesion | 0253 | 12.02 | $596.14 | $284.00 | $119.23
41826 | T | Excision of gum lesion | 0253 | 12.02 | $596.14 | $284.00 | $119.23
41827 | T | Excision of gum lesion | 0253 | 12.02 | $596.14 | $284.00 | $119.23
41828 | T | Excision of gum lesion | 0253 | 12.02 | $596.14 | $284.00 | $119.23
41830 | T | Removal of gum tissue | 0253 | 12.02 | $596.14 | $284.00 | $119.23
41850 | T | Treatment of gum lesion | 0253 | 12.02 | $596.14 | $284.00 | $119.23
41870 | T | Gum graft | 0253 | 12.02 | $596.14 | $284.00 | $119.23
41872 | T | Repair gum | 0253 | 12.02 | $596.14 | $284.00 | $119.23
41874 | T | Repair tooth socket | 0253 | 12.02 | $596.14 | $284.00 | $119.23
41899 | T | Dental surgery procedure | 0253 | 12.02 | $596.14 | $284.00 | $119.23
42000 | T | Drainage mouth roof lesion | 0251 | 1.68 | $83.32 | $27.99 | $16.66
42100 | T | Biopsy roof of mouth | 0252 | 5.18 | $256.90 | $114.24 | $51.38
42104 | T | Excision lesion, mouth roof | 0253 | 12.02 | $596.14 | $284.00 | $119.23
42106 | T | Excision lesion, mouth roof | 0253 | 12.02 | $596.14 | $284.00 | $119.23
42107 | T | Excision lesion, mouth roof | 0254 | 12.45 | $617.47 | $272.41 | $123.49
42120 | T | Remove palate/lesion | 0256 | 25.40 | $1,259.74 | $623.05 | $251.95
42140 | T | Excision of uvula | 0252 | 5.18 | $256.90 | $114.24 | $51.38
42145 | T | Repair palate, pharynx/uvula | 0254 | 12.45 | $617.47 | $272.41 | $123.49
42160 | T | Treatment mouth roof lesion | 0253 | 12.02 | $596.14 | $284.00 | $119.23
42180 | T | Repair palate | 0251 | 1.68 | $83.32 | $27.99 | $16.66
42182 | T | Repair palate | 0256 | 25.40 | $1,259.74 | $623.05 | $251.95
42200 | T | Reconstruct cleft palate | 0256 | 25.40 | $1,259.74 | $623.05 | $251.95
42205 | T | Reconstruct cleft palate | 0256 | 25.40 | $1,259.74 | $623.05 | $251.95
42210 | T | Reconstruct cleft palate | 0256 | 25.40 | $1,259.74 | $623.05 | $251.95
42215 | T | Reconstruct cleft palate | 0256 | 25.40 | $1,259.74 | $623.05 | $251.95
42220 | T | Reconstruct cleft palate | 0256 | 25.40 | $1,259.74 | $623.05 | $251.95
42225 | T | Reconstruct cleft palate | 0256 | 25.40 | $1,259.74 | $623.05 | $251.95
42226 | T | Lengthening of palate | 0256 | 25.40 | $1,259.74 | $623.05 | $251.95
42227 | T | Lengthening of palate | 0256 | 25.40 | $1,259.74 | $623.05 | $251.95
42235 | T | Repair palate | 0254 | 12.45 | $617.47 | $272.41 | $123.49
42260 | T | Repair nose to lip fistula | 0253 | 12.02 | $596.14 | $284.00 | $119.23
42280 | T | Preparation, palate mold | 0251 | 1.68 | $83.32 | $27.99 | $16.66
42281 | T | Insertion, palate prosthesis | 0253 | 12.02 | $596.14 | $284.00 | $119.23
42299 | T | Palate/uvula surgery | 0251 | 1.68 | $83.32 | $27.99 | $16.66
42300 | T | Drainage of salivary gland | 0253 | 12.02 | $596.14 | $284.00 | $119.23
42305 | T | Drainage of salivary gland | 0253 | 12.02 | $596.14 | $284.00 | $119.23
42310 | T | Drainage of salivary gland | 0251 | 1.68 | $83.32 | $27.99 | $16.66
42320 | T | Drainage of salivary gland | 0251 | 1.68 | $83.32 | $27.99 | $16.66
42325 | T | Create salivary cyst drain | 0252 | 5.18 | $256.90 | $114.24 | $51.38
42326 | T | Create salivary cyst drain | 0252 | 5.18 | $256.90 | $114.24 | $51.38
42330 | T | Removal of salivary stone | 0252 | 5.18 | $256.90 | $114.24 | $51.38
42335 | T | Removal of salivary stone | 0253 | 12.02 | $596.14 | $284.00 | $119.23
42340 | T | Removal of salivary stone | 0253 | 12.02 | $596.14 | $284.00 | $119.23
42400 | T | Biopsy of salivary gland | 0004 | 1.84 | $91.26 | $32.57 | $18.25
42405 | T | Biopsy of salivary gland | 0253 | 12.02 | $596.14 | $284.00 | $119.23
42408 | T | Excision of salivary cyst | 0253 | 12.02 | $596.14 | $284.00 | $119.23
42409 | T | Drainage of salivary cyst | 0253 | 12.02 | $596.14 | $284.00 | $119.23
42410 | T | Excise parotid gland/lesion | 0256 | 25.40 | $1,259.74 | $623.05 | $251.95
42415 | T | Excise parotid gland/lesion | 0256 | 25.40 | $1,259.74 | $623.05 | $251.95
42420 | T | Excise parotid gland/lesion | 0256 | 25.40 | $1,259.74 | $623.05 | $251.95
42425 | T | Excise parotid gland/lesion | 0256 | 25.40 | $1,259.74 | $623.05 | $251.95
42426 | C | Excise parotid gland/lesion |  |  |  |  |
42440 | T | Excise submaxillary gland | 0256 | 25.40 | $1,259.74 | $623.05 | $251.95
42450 | T | Excise sublingual gland | 0253 | 12.02 | $596.14 | $284.00 | $119.23
42500 | T | Repair salivary duct | 0254 | 12.45 | $617.47 | $272.41 | $123.49
42505 | T | Repair salivary duct | 0256 | 25.40 | $1,259.74 | $623.05 | $251.95
42507 | T | Parotid duct diversion | 0256 | 25.40 | $1,259.74 | $623.05 | $251.95
42508 | T | Parotid duct diversion | 0256 | 25.40 | $1,259.74 | $623.05 | $251.95
42509 | T | Parotid duct diversion | 0256 | 25.40 | $1,259.74 | $623.05 | $251.95
42510 | T | Parotid duct diversion | 0256 | 25.40 | $1,259.74 | $623.05 | $251.95
42550 | N | Injection for salivary x-ray |  |  |  |  |
42600 | T | Closure of salivary fistula | 0253 | 12.02 | $596.14 | $284.00 | $119.23
42650 | T | Dilation of salivary duct | 0252 | 5.18 | $256.90 | $114.24 | $51.38
42660 | T | Dilation of salivary duct | 0252 | 5.18 | $256.90 | $114.24 | $51.38
42665 | T | Ligation of salivary duct | 0253 | 12.02 | $596.14 | $284.00 | $119.23
42699 | T | Salivary surgery procedure | 0253 | 12.02 | $596.14 | $284.00 | $119.23
42700 | T | Drainage of tonsil abscess | 0251 | 1.68 | $83.32 | $27.99 | $16.66
42720 | T | Drainage of throat abscess | 0253 | 12.02 | $596.14 | $284.00 | $119.23
42725 | T | Drainage of throat abscess | 0256 | 25.40 | $1,259.74 | $623.05 | $251.95
42800 | T | Biopsy of throat | 0252 | 5.18 | $256.90 | $114.24 | $51.38
42802 | T | Biopsy of throat | 0253 | 12.02 | $596.14 | $284.00 | $119.23
42804 | T | Biopsy of upper nose/throat | 0253 | 12.02 | $596.14 | $284.00 | $119.23
42806 | T | Biopsy of upper nose/throat | 0253 | 12.02 | $596.14 | $284.00 | $119.23
42808 | T | Excise pharynx lesion | 0253 | 12.02 | $596.14 | $284.00 | $119.23
42809 | T | Remove pharynx foreign body | 0251 | 1.68 | $83.32 | $27.99 | $16.66
42810 | T | Excision of neck cyst | 0253 | 12.02 | $596.14 | $284.00 | $119.23
42815 | T | Excision of neck cyst | 0256 | 25.40 | $1,259.74 | $623.05 | $251.95
42820 | T | Remove tonsils and adenoids | 0258 | 18.62 | $923.48 | $462.81 | $184.70
42821 | T | Remove tonsils and adenoids | 0258 | 18.62 | $923.48 | $462.81 | $184.70
42825 | T | Removal of tonsils | 0258 | 18.62 | $923.48 | $462.81 | $184.70
42826 | T | Removal of tonsils | 0258 | 18.62 | $923.48 | $462.81 | $184.70
42830 | T | Removal of adenoids | 0258 | 18.62 | $923.48 | $462.81 | $184.70
42831 | T | Removal of adenoids | 0258 | 18.62 | $923.48 | $462.81 | $184.70
42835 | T | Removal of adenoids | 0258 | 18.62 | $923.48 | $462.81 | $184.70
42836 | T | Removal of adenoids | 0258 | 18.62 | $923.48 | $462.81 | $184.70
42842 | C | Extensive surgery of throat |  |  |  |  |
42844 | T | Extensive surgery of throat | 0256 | 25.40 | $1,259.74 | $623.05 | $251.95
42845 | C | Extensive surgery of throat |  |  |  |  |
42860 | T | Excision of tonsil tags | 0258 | 18.62 | $923.48 | $462.81 | $184.70
42870 | T | Excision of lingual tonsil | 0258 | 18.62 | $923.48 | $462.81 | $184.70
42890 | T | Partial removal of pharynx | 0256 | 25.40 | $1,259.74 | $623.05 | $251.95
42892 | T | Revision of pharyngeal walls | 0256 | 25.40 | $1,259.74 | $623.05 | $251.95
42894 | C | Revision of pharyngeal walls |  |  |  |  |
42900 | T | Repair throat wound | 0253 | 12.02 | $596.14 | $284.00 | $119.23
42950 | T | Reconstruction of throat | 0254 | 12.45 | $617.47 | $272.41 | $123.49
42953 | C | Repair throat, esophagus |  |  |  |  |
42955 | T | Surgical opening of throat | 0254 | 12.45 | $617.47 | $272.41 | $123.49
42960 | T | Control throat bleeding | 0250 | 2.21 | $109.61 | $38.54 | $21.92
42961 | C | Control throat bleeding |  |  |  |  |
42962 | T | Control throat bleeding | 0256 | 25.40 | $1,259.74 | $623.05 | $251.95
42970 | T | Control nose/throat bleeding | 0250 | 2.21 | $109.61 | $38.54 | $21.92
42971 | C | Control nose/throat bleeding |  |  |  |  |
42972 | T | Control nose/throat bleeding | 0253 | 12.02 | $596.14 | $284.00 | $119.23
42999 | T | Throat surgery procedure | 0252 | 5.18 | $256.90 | $114.24 | $51.38
43020 | T | Incision of esophagus | 0254 | 12.45 | $617.47 | $272.41 | $123.49
43030 | C | Throat muscle surgery |  |  |  |  |
43045 | C | Incision of esophagus |  |  |  |  |
43100 | C | Excision of esophagus lesion |  |  |  |  |
43101 | C | Excision of esophagus lesion |  |  |  |  |
43107 | C | Removal of esophagus |  |  |  |  |
43108 | C | Removal of esophagus |  |  |  |  |
43112 | C | Removal of esophagus |  |  |  |  |
43113 | C | Removal of esophagus |  |  |  |  |
43116 | C | Partial removal of esophagus |  |  |  |  |
43117 | C | Partial removal of esophagus |  |  |  |  |
43118 | C | Partial removal of esophagus |  |  |  |  |
43121 | C | Partial removal of esophagus |  |  |  |  |
43122 | C | Parital removal of esophagus |  |  |  |  |
43123 | C | Partial removal of esophagus |  |  |  |  |
43124 | C | Removal of esophagus |  |  |  |  |
43130 | T | Removal of esophagus pouch | 0254 | 12.45 | $617.47 | $272.41 | $123.49
43135 | C | Removal of esophagus pouch |  |  |  |  |
43200 | T | Esophagus endoscopy | 0141 | 7.15 | $354.61 | $184.67 | $70.92
43202 | T | Esophagus endoscopy, biopsy | 0141 | 7.15 | $354.61 | $184.67 | $70.92
43204 | T | Esophagus endoscopy & inject | 0141 | 7.15 | $354.61 | $184.67 | $70.92
43205 | T | Esophagus endoscopy/ligation | 0141 | 7.15 | $354.61 | $184.67 | $70.92
43215 | T | Esophagus endoscopy | 0141 | 7.15 | $354.61 | $184.67 | $70.92
43216 | T | Esophagus endoscopy/lesion | 0141 | 7.15 | $354.61 | $184.67 | $70.92
43217 | T | Esophagus endoscopy | 0141 | 7.15 | $354.61 | $184.67 | $70.92
43219 | T | Esophagus endoscopy | 0141 | 7.15 | $354.61 | $184.67 | $70.92
43220 | T | Esoph endoscopy, dilation | 0141 | 7.15 | $354.61 | $184.67 | $70.92
43226 | T | Esoph endoscopy, dilation | 0141 | 7.15 | $354.61 | $184.67 | $70.92
43227 | T | Esoph endoscopy, repair | 0141 | 7.15 | $354.61 | $184.67 | $70.92
43228 | T | Esoph endoscopy, ablation | 0141 | 7.15 | $354.61 | $184.67 | $70.92
*43231 | T | Esoph endoscopy w/ US exam | 0141 | 7.15 | $354.61 | $184.67 | $70.92
*43232 | T | Esoph endoscopy w/ US fn bx | 0141 | 7.15 | $354.61 | $184.67 | $70.92
43234 | T | Upper GI endoscopy, exam | 0141 | 7.15 | $354.61 | $184.67 | $70.92
43235 | T | Uppr gi endoscopy, diagnosis | 0141 | 7.15 | $354.61 | $184.67 | $70.92
43239 | T | Upper GI endoscopy, biopsy | 0141 | 7.15 | $354.61 | $184.67 | $70.92
*43240 | T | Esoph endoscopy w/ drain cyst | 0141 | 7.15 | $354.61 | $184.67 | $70.92
43241 | T | Upper GI endoscopy with tube | 0141 | 7.15 | $354.61 | $184.67 | $70.92
*43242 | T | Uppr GI endoscopy w/ US fn bx | 0141 | 7.15 | $354.61 | $184.67 | $70.92
43243 | T | Upper GI endoscopy & inject | 0141 | 7.15 | $354.61 | $184.67 | $70.92
43244 | T | Upper GI endoscopy/ligation | 0141 | 7.15 | $354.61 | $184.67 | $70.92
43245 | T | Operative upper GI endoscopy | 0141 | 7.15 | $354.61 | $184.67 | $70.92
43246 | T | Place gastrostomy tube | 0141 | 7.15 | $354.61 | $184.67 | $70.92
43247 | T | Operative upper GI endoscopy | 0141 | 7.15 | $354.61 | $184.67 | $70.92
43248 | T | Uppr gi endoscopy/guide wire | 0141 | 7.15 | $354.61 | $184.67 | $70.92
43249 | T | Esoph endoscopy, dilation | 0141 | 7.15 | $354.61 | $184.67 | $70.92
43250 | T | Upper GI endoscopy/tumor | 0141 | 7.15 | $354.61 | $184.67 | $70.92
43251 | T | Operative upper GI endoscopy | 0141 | 7.15 | $354.61 | $184.67 | $70.92
43255 | T | Operative upper GI endoscopy | 0141 | 7.15 | $354.61 | $184.67 | $70.92
*43256 | T | Uppr GI endoscopy w/ stent | 0141 | 7.15 | $354.61 | $184.67 | $70.92
43258 | T | Operative upper GI endoscopy | 0141 | 7.15 | $354.61 | $184.67 | $70.92
43259 | T | Endoscopic ultrasound exam | 0141 | 7.15 | $354.61 | $184.67 | $70.92
43260 | T | Endo cholangiopancreatograph | 0151 | 10.53 | $522.25 | $245.46 | $104.45
43261 | T | Endo cholangiopancreatograph | 0151 | 10.53 | $522.25 | $245.46 | $104.45
43262 | T | Endo cholangiopancreatograph | 0151 | 10.53 | $522.25 | $245.46 | $104.45
43263 | T | Endo cholangiopancreatograph | 0151 | 10.53 | $522.25 | $245.46 | $104.45
43264 | T | Endo cholangiopancreatograph | 0151 | 10.53 | $522.25 | $245.46 | $104.45
43265 | T | Endo cholangiopancreatograph | 0151 | 10.53 | $522.25 | $245.46 | $104.45
43267 | T | Endo cholangiopancreatograph | 0151 | 10.53 | $522.25 | $245.46 | $104.45
43268 | T | Endo cholangiopancreatograph | 0151 | 10.53 | $522.25 | $245.46 | $104.45
43269 | T | Endo cholangiopancreatograph | 0151 | 10.53 | $522.25 | $245.46 | $104.45
43271 | T | Endo cholangiopancreatograph | 0151 | 10.53 | $522.25 | $245.46 | $104.45
43272 | T | Endo cholangiopancreatograph | 0151 | 10.53 | $522.25 | $245.46 | $104.45
43280 | T | Laparoscopy, fundoplasty | 0132 | 48.91 | $2,425.74 | $1,239.22 | $485.15
43289 | T | Laparoscope proc, esoph | 0130 | 25.36 | $1,257.75 | $659.53 | $251.55
43300 | C | Repair of esophagus |  |  |  |  |
43305 | C | Repair esophagus and fistula |  |  |  |  |
43310 | C | Repair of esophagus |  |  |  |  |
43312 | C | Repair esophagus and fistula |  |  |  |  |
43320 | C | Fuse esophagus & stomach |  |  |  |  |
43324 | C | Revise esophagus & stomach |  |  |  |  |
43325 | C | Revise esophagus & stomach |  |  |  |  |
43326 | C | Revise esophagus & stomach |  |  |  |  |
43330 | C | Repair of esophagus |  |  |  |  |
43331 | C | Repair of esophagus |  |  |  |  |
43340 | C | Fuse esophagus & intestine |  |  |  |  |
43341 | C | Fuse esophagus & intestine |  |  |  |  |
43350 | C | Surgical opening, esophagus |  |  |  |  |
43351 | C | Surgical opening, esophagus |  |  |  |  |
43352 | C | Surgical opening, esophagus |  |  |  |  |
43360 | C | Gastrointestinal repair |  |  |  |  |
43361 | C | Gastrointestinal repair |  |  |  |  |
*44383 | T | Ileoscopy through stoma w/stent | 0142 | 7.45 | $369.49 | $162.42 | $73.90
43400 | C | Ligate esophagus veins |  |  |  |  |
43401 | C | Esophagus surgery for veins |  |  |  |  |
43405 | C | Ligate/staple esophagus |  |  |  |  |
43410 | C | Repair esophagus wound |  |  |  |  |
43415 | C | Repair esophagus wound |  |  |  |  |
43420 | C | Repair esophagus opening |  |  |  |  |
43425 | C | Repair esophagus opening |  |  |  |  |
43450 | T | Dilate esophagus | 0140 | 4.74 | $235.09 | $107.24 | $47.02
43453 | T | Dilate esophagus | 0140 | 4.74 | $235.09 | $107.24 | $47.02
43456 | T | Dilate esophagus | 0140 | 4.74 | $235.09 | $107.24 | $47.02
43458 | T | Dilate esophagus | 0140 | 4.74 | $235.09 | $107.24 | $47.02
43460 | C | Pressure treatment esophagus |  |  |  |  |
43496 | C | Free jejunum flap, microvasc |  |  |  |  |
43499 | T | Esophagus surgery procedure | 0140 | 4.74 | $235.09 | $107.24 | $47.02
43500 | C | Surgical opening of stomach |  |  |  |  |
43501 | C | Surgical repair of stomach |  |  |  |  |
43502 | C | Surgical repair of stomach |  |  |  |  |
43510 | C | Surgical opening of stomach |  |  |  |  |
43520 | C | Incision of pyloric muscle |  |  |  |  |
43600 | T | Biopsy of stomach | 0141 | 7.15 | $354.61 | $184.67 | $70.92
43605 | C | Biopsy of stomach |  |  |  |  |
43610 | C | Excision of stomach lesion |  |  |  |  |
43611 | C | Excision of stomach lesion |  |  |  |  |
43620 | C | Removal of stomach |  |  |  |  |
43621 | C | Removal of stomach |  |  |  |  |
43622 | C | Removal of stomach |  |  |  |  |
43631 | C | Removal of stomach, partial |  |  |  |  |
43632 | C | Removal of stomach, partial |  |  |  |  |
43633 | C | Removal of stomach, partial |  |  |  |  |
43634 | C | Removal of stomach, partial |  |  |  |  |
43635 | C | Removal of stomach, partial |  |  |  |  |
43638 | C | Removal of stomach, partial |  |  |  |  |
43639 | C | Removal of stomach, partial |  |  |  |  |
43640 | C | Vagotomy & pylorus repair |  |  |  |  |
43641 | C | Vagotomy & pylorus repair |  |  |  |  |
43651 | T | Laparoscopy, vagus nerve | 0132 | 48.91 | $2,425.74 | $1,239.22 | $485.15
43652 | T | Laparoscopy, vagus nerve | 0132 | 48.91 | $2,425.74 | $1,239.22 | $485.15
43653 | T | Laparoscopy, gastrostomy | 0131 | 41.81 | $2,073.61 | $1,089.88 | $414.72
43659 | T | Laparoscope proc, stom | 0130 | 25.36 | $1,257.75 | $659.53 | $251.55
*43752 | E | Nasal/orogastric w/stent |  |  |  |  |
43750 | T | Place gastrostomy tube | 0141 | 7.15 | $354.61 | $184.67 | $70.92
43760 | T | Change gastrostomy tube | 0121 | 2.36 | $117.05 | $52.53 | $23.41
43761 | T | Reposition gastrostomy tube | 0121 | 2.36 | $117.05 | $52.53 | $23.41
43800 | C | Reconstruction of pylorus |  |  |  |  |
43810 | C | Fusion of stomach and bowel |  |  |  |  |
43820 | C | Fusion of stomach and bowel |  |  |  |  |
43825 | C | Fusion of stomach and bowel |  |  |  |  |
43830 | T | Place gastrostomy tube | 0141 | 7.15 | $354.61 | $184.67 | $70.92
43831 | T | Place gastrostomy tube | 0141 | 7.15 | $354.61 | $184.67 | $70.92
43832 | C | Place gastrostomy tube |  |  |  |  |
43840 | C | Repair of stomach lesion |  |  |  |  |
43842 | C | Gastroplasty for obesity |  |  |  |  |
43843 | C | Gastroplasty for obesity |  |  |  |  |
43846 | C | Gastric bypass for obesity |  |  |  |  |
43847 | C | Gastric bypass for obesity |  |  |  |  |
43848 | C | Revision gastroplasty |  |  |  |  |
43850 | C | Revise stomach-bowel fusion |  |  |  |  |
43855 | C | Revise stomach-bowel fusion |  |  |  |  |
43860 | C | Revise stomach-bowel fusion |  |  |  |  |
43865 | C | Revise stomach-bowel fusion |  |  |  |  |
43870 | T | Repair stomach opening | 0025 | 3.74 | $185.49 | $70.66 | $37.10
43880 | C | Repair stomach-bowel fistula |  |  |  |  |
43999 | T | Stomach surgery procedure | 0121 | 2.36 | $117.05 | $52.53 | $23.41
44005 | C | Freeing of bowel adhesion |  |  |  |  |
44010 | C | Incision of small bowel |  |  |  |  |
44015 | C | Insert needle cath bowel |  |  |  |  |
44020 | C | Exploration of small bowel |  |  |  |  |
44021 | C | Decompress small bowel |  |  |  |  |
44025 | C | Incision of large bowel |  |  |  |  |
44050 | C | Reduce bowel obstruction |  |  |  |  |
44055 | C | Correct malrotation of bowel |  |  |  |  |
44100 | T | Biopsy of bowel | 0141 | 7.15 | $354.61 | $184.67 | $70.92
44110 | C | Excision of bowel lesion(s) |  |  |  |  |
44111 | C | Excision of bowel lesion(s) |  |  |  |  |
44120 | C | Removal of small intestine |  |  |  |  |
44121 | C | Removal of small intestine |  |  |  |  |
44125 | C | Removal of small intestine |  |  |  |  |
44130 | C | Bowel to bowel fusion |  |  |  |  |
*44132 | C | Enterectomy, cadaver donor |  |  |  |  |
*44133 | C | Enterectomy, live donor |  |  |  |  |
*44135 | C | Intestine transplnt, cadaver |  |  |  |  |
*44136 | C | Intestine transplnt, live |  |  |  |  |
44139 | C | Mobilization of colon |  |  |  |  |
44140 | C | Partial removal of colon |  |  |  |  |
44141 | C | Partial removal of colon |  |  |  |  |
44143 | C | Partial removal of colon |  |  |  |  |
44144 | C | Partial removal of colon |  |  |  |  |
44145 | C | Partial removal of colon |  |  |  |  |
44146 | C | Partial removal of colon |  |  |  |  |
44147 | C | Partial removal of colon |  |  |  |  |
44150 | C | Removal of colon |  |  |  |  |
44151 | C | Removal of colon/ileostomy |  |  |  |  |
44152 | C | Removal of colon/ileostomy |  |  |  |  |
44153 | C | Removal of colon/ileostomy |  |  |  |  |
44155 | C | Removal of colon/ileostomy |  |  |  |  |
44156 | C | Removal of colon/ileostomy |  |  |  |  |
44160 | C | Removal of colon |  |  |  |  |
44200 | T | Laparoscopy, enterolysis | 0131 | 41.81 | $2,073.61 | $1,089.88 | $414.72
44201 | T | Laparoscopy, jejunostomy | 0131 | 41.81 | $2,073.61 | $1,089.88 | $414.72
44202 | C | Laparo, resect intestine |  |  |  |  |
44209 | T | Laparoscope proc, intestine | 0130 | 25.36 | $1,257.75 | $659.53 | $251.55
44300 | C | Open bowel to skin |  |  |  |  |
44310 | C | Ileostomy/jejunostomy |  |  |  |  |
44312 | T | Revision of ileostomy | 0026 | 12.11 | $600.61 | $277.92 | $120.12
44314 | C | Revision of ileostomy |  |  |  |  |
44316 | C | Devise bowel pouch |  |  |  |  |
44320 | C | Colostomy |  |  |  |  |
44322 | C | Colostomy with biopsies |  |  |  |  |
44340 | T | Revision of colostomy | 0026 | 12.11 | $600.61 | $277.92 | $120.12
44345 | C | Revision of colostomy |  |  |  |  |
44346 | C | Revision of colostomy |  |  |  |  |
44360 | T | Small bowel endoscopy | 0142 | 7.45 | $369.49 | $162.42 | $73.90
44361 | T | Small bowel endoscopy/biopsy | 0142 | 7.45 | $369.49 | $162.42 | $73.90
44363 | T | Small bowel endoscopy | 0142 | 7.45 | $369.49 | $162.42 | $73.90
44364 | T | Small bowel endoscopy | 0142 | 7.45 | $369.49 | $162.42 | $73.90
44365 | T | Small bowel endoscopy | 0142 | 7.45 | $369.49 | $162.42 | $73.90
44366 | T | Small bowel endoscopy | 0142 | 7.45 | $369.49 | $162.42 | $73.90
44369 | T | Small bowel endoscopy | 0142 | 7.45 | $369.49 | $162.42 | $73.90
*44370 | T | Small bowel endoscopy/stent | 0142 | 7.45 | $369.49 | $162.42 | $73.90
44372 | T | Small bowel endoscopy | 0142 | 7.45 | $369.49 | $162.42 | $73.90
44373 | T | Small bowel endoscopy | 0142 | 7.45 | $369.49 | $162.42 | $73.90
44376 | T | Small bowel endoscopy | 0142 | 7.45 | $369.49 | $162.42 | $73.90
44377 | T | Small bowel endoscopy/biopsy | 0142 | 7.45 | $369.49 | $162.42 | $73.90
44378 | T | Small bowel endoscopy | 0142 | 7.45 | $369.49 | $162.42 | $73.90
*44379 | T | Small bowel endoscopy/stent | 0142 | 7.45 | $369.49 | $162.42 | $73.90
44380 | T | Small bowel endoscopy | 0142 | 7.45 | $369.49 | $162.42 | $73.90
44382 | T | Small bowel endoscopy | 0142 | 7.45 | $369.49 | $162.42 | $73.90
44385 | T | Endoscopy of bowel pouch | 0143 | 7.98 | $395.78 | $199.12 | $79.16
44386 | T | Endoscopy, bowel pouch/biop | 0143 | 7.98 | $395.78 | $199.12 | $79.16
44388 | T | Colon endoscopy | 0143 | 7.98 | $395.78 | $199.12 | $79.16
44389 | T | Colonoscopy with biopsy | 0143 | 7.98 | $395.78 | $199.12 | $79.16
44390 | T | Colonoscopy for foreign body | 0143 | 7.98 | $395.78 | $199.12 | $79.16
44391 | T | Colonoscopy for bleeding | 0143 | 7.98 | $395.78 | $199.12 | $79.16
44392 | T | Colonoscopy & polypectomy | 0143 | 7.98 | $395.78 | $199.12 | $79.16
44393 | T | Colonoscopy, lesion removal | 0143 | 7.98 | $395.78 | $199.12 | $79.16
44394 | T | Colonoscopy w/snare | 0143 | 7.98 | $395.78 | $199.12 | $79.16
*44397 | T | Colonoscopy w/stent | 0143 | 7.98 | $395.78 | $199.12 | $79.16
44500 | T | Intro, gastrointestinal tube | 0121 | 2.36 | $117.05 | $52.53 | $23.41
44602 | C | Suture, small intestine |  |  |  |  |
44603 | C | Suture, small intestine |  |  |  |  |
44604 | C | Suture, large intestine |  |  |  |  |
44605 | C | Repair of bowel lesion |  |  |  |  |
44615 | C | Intestinal stricturoplasty |  |  |  |  |
44620 | C | Repair bowel opening |  |  |  |  |
44625 | C | Repair bowel opening |  |  |  |  |
44626 | C | Repair bowel opening |  |  |  |  |
44640 | C | Repair bowel-skin fistula |  |  |  |  |
44650 | C | Repair bowel fistula |  |  |  |  |
44660 | C | Repair bowel-bladder fistula |  |  |  |  |
44661 | C | Repair bowel-bladder fistula |  |  |  |  |
44680 | C | Surgical revision, intestine |  |  |  |  |
44700 | C | Suspend bowel w/prosthesis |  |  |  |  |
44799 | T | Intestine surgery procedure | 0142 | 7.45 | $369.49 | $162.42 | $73.90
44800 | C | Excision of bowel pouch |  |  |  |  |
44820 | C | Excision of mesentery lesion |  |  |  |  |
44850 | C | Repair of mesentery |  |  |  |  |
44899 | C | Bowel surgery procedure |  |  |  |  |
44900 | C | Drain app abscess, open |  |  |  |  |
44901 | C | Drain app abscess, percut |  |  |  |  |
44950 | C | Appendectomy |  |  |  |  |
44955 | C | Appendectomy add-on |  |  |  |  |
44960 | C | Appendectomy |  |  |  |  |
44970 | T | Laparoscopy, appendectomy | 0130 | 25.36 | $1,257.75 | $659.53 | $251.55
44979 | T | Laparoscope proc, app | 0130 | 25.36 | $1,257.75 | $659.53 | $251.55
45000 | T | Drainage of pelvic abscess | 0149 | 12.86 | $637.80 | $293.06 | $127.56
45005 | T | Drainage of rectal abscess | 0148 | 2.34 | $116.06 | $43.59 | $23.21
45020 | T | Drainage of rectal abscess | 0149 | 12.86 | $637.80 | $293.06 | $127.56
45100 | T | Biopsy of rectum | 0149 | 12.86 | $637.80 | $293.06 | $127.56
45108 | T | Removal of anorectal lesion | 0150 | 17.68 | $876.86 | $437.12 | $175.37
45110 | C | Removal of rectum |  |  |  |  |
45111 | C | Partial removal of rectum |  |  |  |  |
45112 | C | Removal of rectum |  |  |  |  |
45113 | C | Partial proctectomy |  |  |  |  |
45114 | C | Partial removal of rectum |  |  |  |  |
45116 | C | Partial removal of rectum |  |  |  |  |
45119 | C | Remove rectum w/reservoir |  |  |  |  |
45120 | C | Removal of rectum |  |  |  |  |
45121 | C | Removal of rectum and colon |  |  |  |  |
45123 | C | Partial proctectomy |  |  |  |  |
45126 | C | Pelvic exenteration |  |  |  |  |
45130 | C | Excision of rectal prolapse |  |  |  |  |
45135 | C | Excision of rectal prolapse |  |  |  |  |
45150 | T | Excision of rectal stricture | 0150 | 17.68 | $876.86 | $437.12 | $175.37
45160 | T | Excision of rectal lesion | 0150 | 17.68 | $876.86 | $437.12 | $175.37
45170 | T | Excision of rectal lesion | 0150 | 17.68 | $876.86 | $437.12 | $175.37
45190 | T | Destruction, rectal tumor | 0150 | 17.68 | $876.86 | $437.12 | $175.37
45300 | T | Proctosigmoidoscopy | 0146 | 2.83 | $140.36 | $65.15 | $28.07
45303 | T | Proctosigmoidoscopy | 0146 | 2.83 | $140.36 | $65.15 | $28.07
45305 | T | Proctosigmoidoscopy & biopsy | 0146 | 2.83 | $140.36 | $65.15 | $28.07
45307 | T | Proctosigmoidoscopy | 0146 | 2.83 | $140.36 | $65.15 | $28.07
45308 | T | Proctosigmoidoscopy | 0147 | 6.26 | $310.47 | $149.11 | $62.09
45309 | T | Proctosigmoidoscopy | 0147 | 6.26 | $310.47 | $149.11 | $62.09
45315 | T | Proctosigmoidoscopy | 0147 | 6.26 | $310.47 | $149.11 | $62.09
45317 | T | Proctosigmoidoscopy | 0146 | 2.83 | $140.36 | $65.15 | $28.07
45320 | T | Proctosigmoidoscopy | 0147 | 6.26 | $310.47 | $149.11 | $62.09
45321 | T | Proctosigmoidoscopy | 0147 | 6.26 | $310.47 | $149.11 | $62.09
*45327 | T | Proctosigmoidoscopy w/stent | 0147 | 6.26 | $310.47 | $149.11 | $62.09
45330 | T | Diagnostic sigmoidoscopy | 0146 | 2.83 | $140.36 | $65.15 | $28.07
45331 | T | Sigmoidoscopy and biopsy | 0146 | 2.83 | $140.36 | $65.15 | $28.07
45332 | T | Sigmoidoscopy w/fb removal | 0146 | 2.83 | $140.36 | $65.15 | $28.07
45333 | T | Sigmoidoscopy & polypectomy | 0147 | 6.26 | $310.47 | $149.11 | $62.09
45334 | T | Sigmoidoscopy for bleeding | 0147 | 6.26 | $310.47 | $149.11 | $62.09
45337 | T | Sigmoidoscopy & decompress | 0147 | 6.26 | $310.47 | $149.11 | $62.09
45338 | T | Sigmoidoscopy w/tumr remove | 0147 | 6.26 | $310.47 | $149.11 | $62.09
45339 | T | Sigmoidoscopy w/ablate tumr | 0147 | 6.26 | $310.47 | $149.11 | $62.09
*45341 | T | Sigmoidoscopy w/ultrasound | 0147 | 6.26 | $310.47 | $149.11 | $62.09
*45342 | T | Sigmoidoscopy w/ US guide bx | 0147 | 6.26 | $310.47 | $149.11 | $62.09
*45345 | T | Sigmoidoscopy w/stent | 0147 | 6.26 | $310.47 | $149.11 | $62.09
45355 | T | Surgical colonoscopy | 0143 | 7.98 | $395.78 | $199.12 | $79.16
45378 | T | Diagnostic colonoscopy | 0143 | 7.98 | $395.78 | $199.12 | $79.16
45379 | T | Colonoscopy | 0143 | 7.98 | $395.78 | $199.12 | $79.16
45380 | T | Colonoscopy and biopsy | 0143 | 7.98 | $395.78 | $199.12 | $79.16
45382 | T | Colonoscopy/control bleeding | 0143 | 7.98 | $395.78 | $199.12 | $79.16
45383 | T | Lesion removal colonoscopy | 0143 | 7.98 | $395.78 | $199.12 | $79.16
45384 | T | Colonoscopy | 0143 | 7.98 | $395.78 | $199.12 | $79.16
45385 | T | Lesion removal colonoscopy | 0143 | 7.98 | $395.78 | $199.12 | $79.16
*45387 | T | Colonoscopy w/stent | 0143 | 7.98 | $395.78 | $199.12 | $79.16
45500 | T | Repair of rectum | 0150 | 17.68 | $876.86 | $437.12 | $175.37
45505 | T | Repair of rectum | 0150 | 17.68 | $876.86 | $437.12 | $175.37
45520 | T | Treatment of rectal prolapse | 0098 | 1.19 | $59.02 | $20.88 | $11.80
45540 | C | Correct rectal prolapse |  |  |  |  |
45541 | C | Correct rectal prolapse |  |  |  |  |
45550 | C | Repair rectum/remove sigmoid |  |  |  |  |
45560 | T | Repair of rectocele | 0150 | 17.68 | $876.86 | $437.12 | $175.37
45562 | C | Exploration/repair of rectum |  |  |  |  |
45563 | C | Exploration/repair of rectum |  |  |  |  |
45800 | C | Repair rect/bladder fistula |  |  |  |  |
45805 | C | Repair fistula w/colostomy |  |  |  |  |
45820 | C | Repair rectourethral fistula |  |  |  |  |
45825 | C | Repair fistula w/colostomy |  |  |  |  |
45900 | T | Reduction of rectal prolapse | 0148 | 2.34 | $116.06 | $43.59 | $23.21
45905 | T | Dilation of anal sphincter | 0149 | 12.86 | $637.80 | $293.06 | $127.56
45910 | T | Dilation of rectal narrowing | 0149 | 12.86 | $637.80 | $293.06 | $127.56
45915 | T | Remove rectal obstruction | 0148 | 2.34 | $116.06 | $43.59 | $23.21
45999 | T | Rectum surgery procedure | 0148 | 2.34 | $116.06 | $43.59 | $23.21
46030 | T | Removal of rectal marker | 0149 | 12.86 | $637.80 | $293.06 | $127.56
46040 | T | Incision of rectal abscess | 0148 | 2.34 | $116.06 | $43.59 | $23.21
46045 | T | Incision of rectal abscess | 0150 | 17.68 | $876.86 | $437.12 | $175.37
46050 | T | Incision of anal abscess | 0148 | 2.34 | $116.06 | $43.59 | $23.21
46060 | T | Incision of rectal abscess | 0150 | 17.68 | $876.86 | $437.12 | $175.37
46070 | T | Incision of anal septum | 0148 | 2.34 | $116.06 | $43.59 | $23.21
46080 | T | Incision of anal sphincter | 0149 | 12.86 | $637.80 | $293.06 | $127.56
46083 | T | Incise external hemorrhoid | 0148 | 2.34 | $116.06 | $43.59 | $23.21
46200 | T | Removal of anal fissure | 0150 | 17.68 | $876.86 | $437.12 | $175.37
46210 | T | Removal of anal crypt | 0149 | 12.86 | $637.80 | $293.06 | $127.56
46211 | T | Removal of anal crypts | 0150 | 17.68 | $876.86 | $437.12 | $175.37
46220 | T | Removal of anal tab | 0149 | 12.86 | $637.80 | $293.06 | $127.56
46221 | T | Ligation of hemorrhoid(s) | 0148 | 2.34 | $116.06 | $43.59 | $23.21
46230 | T | Removal of anal tabs | 0149 | 12.86 | $637.80 | $293.06 | $127.56
46250 | T | Hemorrhoidectomy | 0150 | 17.68 | $876.86 | $437.12 | $175.37
46255 | T | Hemorrhoidectomy | 0150 | 17.68 | $876.86 | $437.12 | $175.37
46257 | T | Remove hemorrhoids & fissure | 0150 | 17.68 | $876.86 | $437.12 | $175.37
46258 | T | Remove hemorrhoids & fistula | 0150 | 17.68 | $876.86 | $437.12 | $175.37
46260 | T | Hemorrhoidectomy | 0150 | 17.68 | $876.86 | $437.12 | $175.37
46261 | T | Remove hemorrhoids & fissure | 0150 | 17.68 | $876.86 | $437.12 | $175.37
46262 | T | Remove hemorrhoids & fistula | 0150 | 17.68 | $876.86 | $437.12 | $175.37
46270 | T | Removal of anal fistula | 0150 | 17.68 | $876.86 | $437.12 | $175.37
46275 | T | Removal of anal fistula | 0150 | 17.68 | $876.86 | $437.12 | $175.37
46280 | T | Removal of anal fistula | 0150 | 17.68 | $876.86 | $437.12 | $175.37
46285 | T | Removal of anal fistula | 0150 | 17.68 | $876.86 | $437.12 | $175.37
46288 | T | Repair anal fistula | 0150 | 17.68 | $876.86 | $437.12 | $175.37
46320 | T | Removal of hemorrhoid clot | 0148 | 2.34 | $116.06 | $43.59 | $23.21
46500 | T | Injection into hemorrhoids | 0148 | 2.34 | $116.06 | $43.59 | $23.21
46600 | N | Diagnostic anoscopy |  |  |  |  |
46604 | T | Anoscopy and dilation | 0144 | 2.23 | $110.60 | $49.32 | $22.12
46606 | T | Anoscopy and biopsy | 0145 | 7.46 | $369.98 | $179.39 | $74.00
46608 | T | Anoscopy/ remove for body | 0144 | 2.23 | $110.60 | $49.32 | $22.12
46610 | T | Anoscopy/remove lesion | 0145 | 7.46 | $369.98 | $179.39 | $74.00
46611 | T | Anoscopy | 0145 | 7.46 | $369.98 | $179.39 | $74.00
46612 | T | Anoscopy/ remove lesions | 0145 | 7.46 | $369.98 | $179.39 | $74.00
46614 | T | Anoscopy/control bleeding | 0145 | 7.46 | $369.98 | $179.39 | $74.00
46615 | T | Anoscopy | 0145 | 7.46 | $369.98 | $179.39 | $74.00
46700 | T | Repair of anal stricture | 0150 | 17.68 | $876.86 | $437.12 | $175.37
46705 | C | Repair of anal stricture |  |  |  |  |
46715 | C | Repair of anovaginal fistula |  |  |  |  |
46716 | C | Repair of anovaginal fistula |  |  |  |  |
46730 | C | Construction of absent anus |  |  |  |  |
46735 | C | Construction of absent anus |  |  |  |  |
46740 | C | Construction of absent anus |  |  |  |  |
46742 | C | Repair of imperforated anus |  |  |  |  |
46744 | C | Repair of cloacal anomaly |  |  |  |  |
46746 | C | Repair of cloacal anomaly |  |  |  |  |
46748 | C | Repair of cloacal anomaly |  |  |  |  |
46750 | T | Repair of anal sphincter | 0150 | 17.68 | $876.86 | $437.12 | $175.37
46751 | C | Repair of anal sphincter |  |  |  |  |
46753 | T | Reconstruction of anus | 0150 | 17.68 | $876.86 | $437.12 | $175.37
46754 | T | Removal of suture from anus | 0149 | 12.86 | $637.80 | $293.06 | $127.56
46760 | T | Repair of anal sphincter | 0150 | 17.68 | $876.86 | $437.12 | $175.37
46761 | T | Repair of anal sphincter | 0150 | 17.68 | $876.86 | $437.12 | $175.37
46762 | T | Implant artificial sphincter | 0150 | 17.68 | $876.86 | $437.12 | $175.37
46900 | T | Destruction, anal lesion(s) | 0016 | 3.53 | $175.07 | $74.67 | $35.01
46910 | T | Destruction, anal lesion(s) | 0016 | 3.53 | $175.07 | $74.67 | $35.01
46916 | T | Cryosurgery, anal lesion(s) | 0016 | 3.53 | $175.07 | $74.67 | $35.01
46917 | T | Laser surgery, anal lesions | 0014 | 1.50 | $74.39 | $24.55 | $14.88
46922 | T | Excision of anal lesion(s) | 0017 | 12.45 | $617.47 | $289.16 | $123.49
46924 | T | Destruction, anal lesion(s) | 0017 | 12.45 | $617.47 | $289.16 | $123.49
46934 | T | Destruction of hemorrhoids | 0148 | 2.34 | $116.06 | $43.59 | $23.21
46935 | T | Destruction of hemorrhoids | 0148 | 2.34 | $116.06 | $43.59 | $23.21
46936 | T | Destruction of hemorrhoids | 0149 | 12.86 | $637.80 | $293.06 | $127.56
46937 | T | Cryotherapy of rectal lesion | 0150 | 17.68 | $876.86 | $437.12 | $175.37
46938 | T | Cryotherapy of rectal lesion | 0150 | 17.68 | $876.86 | $437.12 | $175.37
46940 | T | Treatment of anal fissure | 0149 | 12.86 | $637.80 | $293.06 | $127.56
46942 | T | Treatment of anal fissure | 0149 | 12.86 | $637.80 | $293.06 | $127.56
46945 | T | Ligation of hemorrhoids | 0148 | 2.34 | $116.06 | $43.59 | $23.21
46946 | T | Ligation of hemorrhoids | 0148 | 2.34 | $116.06 | $43.59 | $23.21
46999 | T | Anus surgery procedure | 0149 | 12.86 | $637.80 | $293.06 | $127.56
47000 | T | Needle biopsy of liver | 0005 | 5.41 | $268.32 | $119.75 | $53.66
47001 | C | Needle biopsy, liver add-on |  |  |  |  |
47010 | C | Open drainage, liver lesion |  |  |  |  |
47011 | C | Percut drain, liver lesion |  |  |  |  |
47015 | C | Inject/aspirate liver cyst |  |  |  |  |
47100 | C | Wedge biopsy of liver |  |  |  |  |
47120 | C | Partial removal of liver |  |  |  |  |
47122 | C | Extensive removal of liver |  |  |  |  |
47125 | C | Partial removal of liver |  |  |  |  |
47130 | C | Partial removal of liver |  |  |  |  |
47133 | C | Removal of donor liver |  |  |  |  |
47134 | C | Partial removal, donor liver |  |  |  |  |
47135 | C | Transplantation of liver |  |  |  |  |
47136 | C | Transplantation of liver |  |  |  |  |
47300 | C | Surgery for liver lesion |  |  |  |  |
47350 | C | Repair liver wound |  |  |  |  |
47360 | C | Repair liver wound |  |  |  |  |
47361 | C | Repair liver wound |  |  |  |  |
47362 | C | Repair liver wound |  |  |  |  |
*47379 | T | Laparoscope procedure, liver | 0130 | 25.36 | $1,257.75 | $659.53 | $251.55
47399 | T | Liver surgery procedure | 0005 | 5.41 | $268.32 | $119.75 | $53.66
47400 | C | Incision of liver duct |  |  |  |  |
47420 | C | Incision of bile duct |  |  |  |  |
47425 | C | Incision of bile duct |  |  |  |  |
47460 | C | Incise bile duct sphincter |  |  |  |  |
47480 | C | Incision of gallbladder |  |  |  |  |
47490 | C | Incision of gallbladder |  |  |  |  |
47500 | N | Injection for liver x-rays |  |  |  |  |
47505 | N | Injection for liver x-rays |  |  |  |  |
47510 | T | Insert catheter, bile duct | 0152 | 8.22 | $407.68 | $207.38 | $81.54
47511 | T | Insert bile duct drain | 0152 | 8.22 | $407.68 | $207.38 | $81.54
47525 | T | Change bile duct catheter | 0122 | 5.04 | $249.96 | $114.93 | $49.99
47530 | T | Revise/reinsert bile tube | 0121 | 2.36 | $117.05 | $52.53 | $23.41
47550 | C | Bile duct endoscopy add-on |  |  |  |  |
47552 | T | Biliary endoscopy thru skin | 0152 | 8.22 | $407.68 | $207.38 | $81.54
47553 | T | Biliary endoscopy thru skin | 0152 | 8.22 | $407.68 | $207.38 | $81.54
47554 | T | Biliary endoscopy thru skin | 0152 | 8.22 | $407.68 | $207.38 | $81.54
47555 | T | Biliary endoscopy thru skin | 0152 | 8.22 | $407.68 | $207.38 | $81.54
47556 | T | Biliary endoscopy thru skin | 0152 | 8.22 | $407.68 | $207.38 | $81.54
47560 | T | Laparoscopy w/cholangio | 0130 | 25.36 | $1,257.75 | $659.53 | $251.55
47561 | T | Laparo w/cholangio/biopsy | 0130 | 25.36 | $1,257.75 | $659.53 | $251.55
47562 | T | Laparoscopic cholecystectomy | 0131 | 41.81 | $2,073.61 | $1,089.88 | $414.72
47563 | T | Laparo cholecystectomy/graph | 0131 | 41.81 | $2,073.61 | $1,089.88 | $414.72
47564 | T | Laparo cholecystectomy/explr | 0131 | 41.81 | $2,073.61 | $1,089.88 | $414.72
47570 | C | Laparo cholecystoenterostomy |  |  |  |  |
47579 | T | Laparoscope proc, biliary | 0130 | 25.36 | $1,257.75 | $659.53 | $251.55
47600 | C | Removal of gallbladder |  |  |  |  |
47605 | C | Removal of gallbladder |  |  |  |  |
47610 | C | Removal of gallbladder |  |  |  |  |
47612 | C | Removal of gallbladder |  |  |  |  |
47620 | C | Removal of gallbladder |  |  |  |  |
47630 | T | Remove bile duct stone | 0152 | 8.22 | $407.68 | $207.38 | $81.54
47700 | C | Exploration of bile ducts |  |  |  |  |
47701 | C | Bile duct revision |  |  |  |  |
47711 | C | Excision of bile duct tumor |  |  |  |  |
47712 | C | Excision of bile duct tumor |  |  |  |  |
47715 | C | Excision of bile duct cyst |  |  |  |  |
47716 | C | Fusion of bile duct cyst |  |  |  |  |
47720 | C | Fuse gallbladder & bowel |  |  |  |  |
47721 | C | Fuse upper gi structures |  |  |  |  |
47740 | C | Fuse gallbladder & bowel |  |  |  |  |
47741 | C | Fuse gallbladder & bowel |  |  |  |  |
47760 | C | Fuse bile ducts and bowel |  |  |  |  |
47765 | C | Fuse liver ducts & bowel |  |  |  |  |
47780 | C | Fuse bile ducts and bowel |  |  |  |  |
47785 | C | Fuse bile ducts and bowel |  |  |  |  |
47800 | C | Reconstruction of bile ducts |  |  |  |  |
47801 | C | Placement, bile duct support |  |  |  |  |
47802 | C | Fuse liver duct & intestine |  |  |  |  |
47900 | C | Suture bile duct injury |  |  |  |  |
47999 | T | Bile tract surgery procedure | 0121 | 2.36 | $117.05 | $52.53 | $23.41
48000 | C | Drainage of abdomen |  |  |  |  |
48001 | C | Placement of drain, pancreas |  |  |  |  |
48005 | C | Resect/debride pancreas |  |  |  |  |
48020 | C | Removal of pancreatic stone |  |  |  |  |
48100 | C | Biopsy of pancreas |  |  |  |  |
48102 | T | Needle biopsy, pancreas | 0005 | 5.41 | $268.32 | $119.75 | $53.66
48120 | C | Removal of pancreas lesion |  |  |  |  |
48140 | C | Partial removal of pancreas |  |  |  |  |
48145 | C | Partial removal of pancreas |  |  |  |  |
48146 | C | Pancreatectomy |  |  |  |  |
48148 | C | Removal of pancreatic duct |  |  |  |  |
48150 | C | Partial removal of pancreas |  |  |  |  |
48152 | C | Pancreatectomy |  |  |  |  |
48153 | C | Pancreatectomy |  |  |  |  |
48154 | C | Pancreatectomy |  |  |  |  |
48155 | C | Removal of pancreas |  |  |  |  |
48160 | E | Pancreas removal/transplant |  |  |  |  |
48180 | C | Fuse pancreas and bowel |  |  |  |  |
48400 | C | Injection, intraop add-on |  |  |  |  |
48500 | C | Surgery of pancreas cyst |  |  |  |  |
48510 | C | Drain pancreatic pseudocyst |  |  |  |  |
48511 | C | Drain pancreatic pseudocyst |  |  |  |  |
48520 | C | Fuse pancreas cyst and bowel |  |  |  |  |
48540 | C | Fuse pancreas cyst and bowel |  |  |  |  |
48545 | C | Pancreatorrhaphy |  |  |  |  |
48547 | C | Duodenal exclusion |  |  |  |  |
48550 | E | Donor pancreatectomy |  |  |  |  |
48554 | E | Transpl allograft pancreas |  |  |  |  |
48556 | C | Removal, allograft pancreas |  |  |  |  |
48999 | T | Pancreas surgery procedure | 0005 | 5.41 | $268.32 | $119.75 | $53.66
49000 | C | Exploration of abdomen |  |  |  |  |
49002 | C | Reopening of abdomen |  |  |  |  |
49010 | C | Exploration behind abdomen |  |  |  |  |
49020 | C | Drain abdominal abscess |  |  |  |  |
49021 | C | Drain abdominal abscess |  |  |  |  |
49040 | C | Drain, open, abdom abscess |  |  |  |  |
49041 | C | Drain, percut, abdom abscess |  |  |  |  |
49060 | C | Drain, open, retrop abscess |  |  |  |  |
49061 | C | Drain, percut, retroper absc |  |  |  |  |
49062 | C | Drain to peritoneal cavity |  |  |  |  |
49080 | T | Puncture, peritoneal cavity | 0070 | 3.64 | $180.53 | $79.60 | $36.11
49081 | T | Removal of abdominal fluid | 0070 | 3.64 | $180.53 | $79.60 | $36.11
49085 | T | Remove abdomen foreign body | 0153 | 19.62 | $973.08 | $496.31 | $194.62
49180 | T | Biopsy, abdominal mass | 0005 | 5.41 | $268.32 | $119.75 | $53.66
49200 | C | Removal of abdominal lesion |  |  |  |  |
49201 | C | Removal of abdominal lesion |  |  |  |  |
49215 | C | Excise sacral spine tumor |  |  |  |  |
49220 | C | Multiple surgery, abdomen |  |  |  |  |
49250 | T | Excision of umbilicus | 0153 | 19.62 | $973.08 | $496.31 | $194.62
49255 | C | Removal of omentum |  |  |  |  |
49320 | T | Diag laparo separate proc | 0130 | 25.36 | $1,257.75 | $659.53 | $251.55
49321 | T | Laparoscopy, biopsy | 0130 | 25.36 | $1,257.75 | $659.53 | $251.55
49322 | T | Laparoscopy, aspiration | 0130 | 25.36 | $1,257.75 | $659.53 | $251.55
49323 | T | Laparo drain lymphocele | 0130 | 25.36 | $1,257.75 | $659.53 | $251.55
49329 | T | Laparo proc, abdm/per/oment | 0130 | 25.36 | $1,257.75 | $659.53 | $251.55
49400 | N | Air injection into abdomen |  |  |  |  |
49420 | T | Insert abdominal drain | 0153 | 19.62 | $973.08 | $496.31 | $194.62
49421 | T | Insert abdominal drain | 0153 | 19.62 | $973.08 | $496.31 | $194.62
49422 | T | Remove perm cannula/catheter | 0105 | 15.06 | $746.92 | $372.32 | $149.38
49423 | T | Exchange drainage catheter | 0153 | 19.62 | $973.08 | $496.31 | $194.62
49424 | N | Assess cyst, contrast inject |  |  |  |  |
49425 | C | Insert abdomen-venous drain |  |  |  |  |
49426 | T | Revise abdomen-venous shunt | 0153 | 19.62 | $973.08 | $496.31 | $194.62
49427 | N | Injection, abdominal shunt |  |  |  |  |
49428 | C | Ligation of shunt |  |  |  |  |
49429 | T | Removal of shunt | 0105 | 15.06 | $746.92 | $372.32 | $149.38
49495 | T | Repair inguinal hernia, init | 0154 | 22.43 | $1,112.45 | $556.98 | $222.49
49496 | T | Repair inguinal hernia, init | 0154 | 22.43 | $1,112.45 | $556.98 | $222.49
49500 | T | Repair inguinal hernia | 0154 | 22.43 | $1,112.45 | $556.98 | $222.49
49501 | T | Repair inguinal hernia, init | 0154 | 22.43 | $1,112.45 | $556.98 | $222.49
49505 | T | Repair inguinal hernia | 0154 | 22.43 | $1,112.45 | $556.98 | $222.49
49507 | T | Repair inguinal hernia | 0154 | 22.43 | $1,112.45 | $556.98 | $222.49
49520 | T | Rerepair inguinal hernia | 0154 | 22.43 | $1,112.45 | $556.98 | $222.49
49521 | T | Repair inguinal hernia, rec | 0154 | 22.43 | $1,112.45 | $556.98 | $222.49
49525 | T | Repair inguinal hernia | 0154 | 22.43 | $1,112.45 | $556.98 | $222.49
49540 | T | Repair lumbar hernia | 0154 | 22.43 | $1,112.45 | $556.98 | $222.49
49550 | T | Repair femoral hernia | 0154 | 22.43 | $1,112.45 | $556.98 | $222.49
49553 | T | Repair femoral hernia, init | 0154 | 22.43 | $1,112.45 | $556.98 | $222.49
49555 | T | Repair femoral hernia | 0154 | 22.43 | $1,112.45 | $556.98 | $222.49
49557 | T | Repair femoral hernia, recur | 0154 | 22.43 | $1,112.45 | $556.98 | $222.49
49560 | T | Repair abdominal hernia | 0154 | 22.43 | $1,112.45 | $556.98 | $222.49
49561 | T | Repair incisional hernia | 0154 | 22.43 | $1,112.45 | $556.98 | $222.49
49565 | T | Rerepair abdominal hernia | 0154 | 22.43 | $1,112.45 | $556.98 | $222.49
49566 | T | Repair incisional hernia | 0154 | 22.43 | $1,112.45 | $556.98 | $222.49
49568 | T | Hernia repair w/mesh | 0154 | 22.43 | $1,112.45 | $556.98 | $222.49
49570 | T | Repair epigastric hernia | 0154 | 22.43 | $1,112.45 | $556.98 | $222.49
49572 | T | Repair epigastric hernia | 0154 | 22.43 | $1,112.45 | $556.98 | $222.49
49580 | T | Repair umbilical hernia | 0154 | 22.43 | $1,112.45 | $556.98 | $222.49
49582 | T | Repair umbilical hernia | 0154 | 22.43 | $1,112.45 | $556.98 | $222.49
49585 | T | Repair umbilical hernia | 0154 | 22.43 | $1,112.45 | $556.98 | $222.49
49587 | T | Repair umbilical hernia | 0154 | 22.43 | $1,112.45 | $556.98 | $222.49
49590 | T | Repair abdominal hernia | 0154 | 22.43 | $1,112.45 | $556.98 | $222.49
49600 | T | Repair umbilical lesion | 0154 | 22.43 | $1,112.45 | $556.98 | $222.49
49605 | C | Repair umbilical lesion |  |  |  |  |
49606 | C | Repair umbilical lesion |  |  |  |  |
49610 | C | Repair umbilical lesion |  |  |  |  |
49611 | C | Repair umbilical lesion |  |  |  |  |
49650 | T | Laparo hernia repair initial | 0131 | 41.81 | $2,073.61 | $1,089.88 | $414.72
49651 | T | Laparo hernia repair recur | 0131 | 41.81 | $2,073.61 | $1,089.88 | $414.72
49659 | T | Laparo proc, hernia repair | 0131 | 41.81 | $2,073.61 | $1,089.88 | $414.72
49900 | C | Repair of abdominal wall |  |  |  |  |
49905 | C | Omental flap |  |  |  |  |
49906 | C | Free omental flap, microvasc |  |  |  |  |
49999 | T | Abdomen surgery procedure | 0121 | 2.36 | $117.05 | $52.53 | $23.41
50010 | C | Exploration of kidney |  |  |  |  |
50020 | C | Renal abscess, open drain |  |  |  |  |
50021 | C | Renal abscess, percut drain |  |  |  |  |
50040 | C | Drainage of kidney |  |  |  |  |
50045 | C | Exploration of kidney |  |  |  |  |
50060 | C | Removal of kidney stone |  |  |  |  |
50065 | C | Incision of kidney |  |  |  |  |
50070 | C | Incision of kidney |  |  |  |  |
50075 | C | Removal of kidney stone |  |  |  |  |
50080 | T | Removal of kidney stone | 0163 | 28.98 | $1,437.30 | $792.58 | $287.46
50081 | T | Removal of kidney stone | 0163 | 28.98 | $1,437.30 | $792.58 | $287.46
50100 | C | Revise kidney blood vessels |  |  |  |  |
50120 | C | Exploration of kidney |  |  |  |  |
50125 | C | Explore and drain kidney |  |  |  |  |
50130 | C | Removal of kidney stone |  |  |  |  |
50135 | C | Exploration of kidney |  |  |  |  |
50200 | T | Biopsy of kidney | 0005 | 5.41 | $268.32 | $119.75 | $53.66
50205 | C | Biopsy of kidney |  |  |  |  |
50220 | C | Removal of kidney |  |  |  |  |
50225 | C | Removal of kidney |  |  |  |  |
50230 | C | Removal of kidney |  |  |  |  |
50234 | C | Removal of kidney & ureter |  |  |  |  |
50236 | C | Removal of kidney & ureter |  |  |  |  |
50240 | C | Partial removal of kidney |  |  |  |  |
50280 | C | Removal of kidney lesion |  |  |  |  |
50290 | C | Removal of kidney lesion |  |  |  |  |
50300 | C | Removal of donor kidney |  |  |  |  |
50320 | C | Removal of donor kidney |  |  |  |  |
50340 | C | Removal of kidney |  |  |  |  |
50360 | C | Transplantation of kidney |  |  |  |  |
50365 | C | Transplantation of kidney |  |  |  |  |
50370 | C | Remove transplanted kidney |  |  |  |  |
50380 | C | Reimplantation of kidney |  |  |  |  |
50390 | T | Drainage of kidney lesion | 0005 | 5.41 | $268.32 | $119.75 | $53.66
50392 | T | Insert kidney drain | 0160 | 5.43 | $269.30 | $110.11 | $53.86
50393 | T | Insert ureteral tube | 0160 | 5.43 | $269.30 | $110.11 | $53.86
50394 | N | Injection for kidney x-ray |  |  |  |  |
50395 | T | Create passage to kidney | 0160 | 5.43 | $269.30 | $110.11 | $53.86
50396 | T | Measure kidney pressure | 0165 | 3.89 | $192.92 | $91.76 | $38.58
50398 | T | Change kidney tube | 0122 | 5.04 | $249.96 | $114.93 | $49.99
50400 | C | Revision of kidney/ureter |  |  |  |  |
50405 | C | Revision of kidney/ureter |  |  |  |  |
50500 | C | Repair of kidney wound |  |  |  |  |
50520 | C | Close kidney-skin fistula |  |  |  |  |
50525 | C | Repair renal-abdomen fistula |  |  |  |  |
50526 | C | Repair renal-abdomen fistula |  |  |  |  |
50540 | C | Revision of horseshoe kidney |  |  |  |  |
50541 | T | Laparo ablate renal cyst | 0131 | 41.81 | $2,073.61 | $1,089.88 | $414.72
50544 | T | Laparoscopy, pyeloplasty | 0131 | 41.81 | $2,073.61 | $1,089.88 | $414.72
*50545 | C | Laparo radical nephrectomy |  |  |  |  |
50546 | C | Laparoscopic nephrectomy |  |  |  |  |
50547 | C | Laparo removal donor kidney |  |  |  |  |
50548 | C | Laparo-asst remove k/ureter |  |  |  |  |
50549 | T | Laparoscope proc, renal | 0130 | 25.36 | $1,257.75 | $659.53 | $251.55
50551 | T | Kidney endoscopy | 0161 | 10.94 | $542.58 | $249.36 | $108.52
50553 | T | Kidney endoscopy | 0161 | 10.94 | $542.58 | $249.36 | $108.52
50555 | T | Kidney endoscopy & biopsy | 0161 | 10.94 | $542.58 | $249.36 | $108.52
50557 | T | Kidney endoscopy & treatment | 0161 | 10.94 | $542.58 | $249.36 | $108.52
50559 | T | Renal endoscopy/radiotracer | 0161 | 10.94 | $542.58 | $249.36 | $108.52
50561 | T | Kidney endoscopy & treatment | 0161 | 10.94 | $542.58 | $249.36 | $108.52
50570 | C | Kidney endoscopy |  |  |  |  |
50572 | C | Kidney endoscopy |  |  |  |  |
50574 | C | Kidney endoscopy & biopsy |  |  |  |  |
50575 | C | Kidney endoscopy |  |  |  |  |
50576 | C | Kidney endoscopy & treatment |  |  |  |  |
50578 | C | Renal endoscopy/radiotracer |  |  |  |  |
50580 | C | Kidney endoscopy & treatment |  |  |  |  |
50590 | T | Fragmenting of kidney stone | 0169 | 46.72 | $2,317.13 | $1,384.20 | $463.43
50600 | C | Exploration of ureter |  |  |  |  |
50605 | C | Insert ureteral support |  |  |  |  |
50610 | C | Removal of ureter stone |  |  |  |  |
50620 | C | Removal of ureter stone |  |  |  |  |
50630 | C | Removal of ureter stone |  |  |  |  |
50650 | C | Removal of ureter |  |  |  |  |
50660 | C | Removal of ureter |  |  |  |  |
50684 | N | Injection for ureter x-ray |  |  |  |  |
50686 | T | Measure ureter pressure | 0165 | 3.89 | $192.92 | $91.76 | $38.58
50688 | T | Change of ureter tube | 0121 | 2.36 | $117.05 | $52.53 | $23.41
50690 | N | Injection for ureter x-ray |  |  |  |  |
50700 | C | Revision of ureter |  |  |  |  |
50715 | C | Release of ureter |  |  |  |  |
50722 | C | Release of ureter |  |  |  |  |
50725 | C | Release/revise ureter |  |  |  |  |
50727 | C | Revise ureter |  |  |  |  |
50728 | C | Revise ureter |  |  |  |  |
50740 | C | Fusion of ureter & kidney |  |  |  |  |
50750 | C | Fusion of ureter & kidney |  |  |  |  |
50760 | C | Fusion of ureters |  |  |  |  |
50770 | C | Splicing of ureters |  |  |  |  |
50780 | C | Reimplant ureter in bladder |  |  |  |  |
50782 | C | Reimplant ureter in bladder |  |  |  |  |
50783 | C | Reimplant ureter in bladder |  |  |  |  |
50785 | C | Reimplant ureter in bladder |  |  |  |  |
50800 | C | Implant ureter in bowel |  |  |  |  |
50810 | C | Fusion of ureter & bowel |  |  |  |  |
50815 | C | Urine shunt to bowel |  |  |  |  |
50820 | C | Construct bowel bladder |  |  |  |  |
50825 | C | Construct bowel bladder |  |  |  |  |
50830 | C | Revise urine flow |  |  |  |  |
50840 | C | Replace ureter by bowel |  |  |  |  |
50845 | C | Appendico-vesicostomy |  |  |  |  |
50860 | C | Transplant ureter to skin |  |  |  |  |
50900 | C | Repair of ureter |  |  |  |  |
50920 | C | Closure ureter/skin fistula |  |  |  |  |
50930 | C | Closure ureter/bowel fistula |  |  |  |  |
50940 | C | Release of ureter |  |  |  |  |
50945 | T | Laparoscopy ureterolithotomy | 0131 | 41.81 | $2,073.61 | $1,089.88 | $414.72
*50947 | T | Laparoscopy new ureter/bladder | 0130 | 25.36 | $1,257.75 | $659.53 | $251.55
*50948 | T | Laparoscopy new ureter/bladder | 0130 | 25.36 | $1,257.75 | $659.53 | $251.55
*50949 | T | Laparoscope proc, ureter | 0130 | 25.36 | $1,257.75 | $659.53 | $251.55
50951 | T | Endoscopy of ureter | 0162 | 17.49 | $867.44 | $427.49 | $173.49
50953 | T | Endoscopy of ureter | 0162 | 17.49 | $867.44 | $427.49 | $173.49
50955 | T | Ureter endoscopy & biopsy | 0162 | 17.49 | $867.44 | $427.49 | $173.49
50957 | T | Ureter endoscopy & treatment | 0162 | 17.49 | $867.44 | $427.49 | $173.49
50959 | T | Ureter endoscopy & tracer | 0162 | 17.49 | $867.44 | $427.49 | $173.49
50961 | T | Ureter endoscopy & treatment | 0162 | 17.49 | $867.44 | $427.49 | $173.49
50970 | T | Ureter endoscopy | 0162 | 17.49 | $867.44 | $427.49 | $173.49
50972 | T | Ureter endoscopy & catheter | 0162 | 17.49 | $867.44 | $427.49 | $173.49
50974 | T | Ureter endoscopy & biopsy | 0162 | 17.49 | $867.44 | $427.49 | $173.49
50976 | T | Ureter endoscopy & treatment | 0162 | 17.49 | $867.44 | $427.49 | $173.49
50978 | T | Ureter endoscopy & tracer | 0162 | 17.49 | $867.44 | $427.49 | $173.49
50980 | T | Ureter endoscopy & treatment | 0162 | 17.49 | $867.44 | $427.49 | $173.49
51000 | T | Drainage of bladder | 0165 | 3.89 | $192.92 | $91.76 | $38.58
51005 | T | Drainage of bladder | 0164 | 2.17 | $107.64 | $33.03 | $21.53
51010 | T | Drainage of bladder | 0165 | 3.89 | $192.92 | $91.76 | $38.58
51020 | T | Incise & treat bladder | 0162 | 17.49 | $867.44 | $427.49 | $173.49
51030 | T | Incise & treat bladder | 0162 | 17.49 | $867.44 | $427.49 | $173.49
51040 | T | Incise & drain bladder | 0162 | 17.49 | $867.44 | $427.49 | $173.49
51045 | T | Incise bladder/drain ureter | 0162 | 17.49 | $867.44 | $427.49 | $173.49
51050 | T | Removal of bladder stone | 0162 | 17.49 | $867.44 | $427.49 | $173.49
51060 | C | Removal of ureter stone |  |  |  |  |
51065 | T | Removal of ureter stone | 0162 | 17.49 | $867.44 | $427.49 | $173.49
51080 | T | Drainage of bladder abscess | 0008 | 6.15 | $305.02 | $113.67 | $61.00
51500 | T | Removal of bladder cyst | 0154 | 22.43 | $1,112.45 | $556.98 | $222.49
51520 | T | Removal of bladder lesion | 0162 | 17.49 | $867.44 | $427.49 | $173.49
51525 | C | Removal of bladder lesion |  |  |  |  |
51530 | C | Removal of bladder lesion |  |  |  |  |
51535 | C | Repair of ureter lesion |  |  |  |  |
51550 | C | Partial removal of bladder |  |  |  |  |
51555 | C | Partial removal of bladder |  |  |  |  |
51565 | C | Revise bladder & ureter(s) |  |  |  |  |
51570 | C | Removal of bladder |  |  |  |  |
51575 | C | Removal of bladder & nodes |  |  |  |  |
51580 | C | Remove bladder/revise tract |  |  |  |  |
51585 | C | Removal of bladder & nodes |  |  |  |  |
51590 | C | Remove bladder/revise tract |  |  |  |  |
51595 | C | Remove bladder/revise tract |  |  |  |  |
51596 | C | Remove bladder/create pouch |  |  |  |  |
51597 | C | Removal of pelvic structures |  |  |  |  |
51600 | N | Injection for bladder x-ray |  |  |  |  |
51605 | N | Preparation for bladder xray |  |  |  |  |
51610 | N | Injection for bladder x-ray |  |  |  |  |
51700 | T | Irrigation of bladder | 0164 | 2.17 | $107.64 | $33.03 | $21.53
51705 | T | Change of bladder tube | 0121 | 2.36 | $117.05 | $52.53 | $23.41
51710 | T | Change of bladder tube | 0121 | 2.36 | $117.05 | $52.53 | $23.41
51715 | T | Endoscopic injection/implant | 0167 | 21.06 | $1,044.50 | $555.84 | $208.90
51720 | T | Treatment of bladder lesion | 0165 | 3.89 | $192.92 | $91.76 | $38.58
51725 | T | Simple cystometrogram | 0165 | 3.89 | $192.92 | $91.76 | $38.58
51726 | T | Complex cystometrogram | 0165 | 3.89 | $192.92 | $91.76 | $38.58
51736 | T | Urine flow measurement | 0164 | 2.17 | $107.64 | $33.03 | $21.53
51741 | T | Electro-uroflowmetry, first | 0164 | 2.17 | $107.64 | $33.03 | $21.53
51772 | T | Urethra pressure profile | 0165 | 3.89 | $192.92 | $91.76 | $38.58
51784 | T | Anal/urinary muscle study | 0164 | 2.17 | $107.64 | $33.03 | $21.53
51785 | T | Anal/urinary muscle study | 0164 | 2.17 | $107.64 | $33.03 | $21.53
51792 | T | Urinary reflex study | 0165 | 3.89 | $192.92 | $91.76 | $38.58
51795 | T | Urine voiding pressure study | 0164 | 2.17 | $107.64 | $33.03 | $21.53
51797 | T | Intraabdominal pressure test | 0164 | 2.17 | $107.64 | $33.03 | $21.53
51800 | C | Revision of bladder/urethra |  |  |  |  |
51820 | C | Revision of urinary tract |  |  |  |  |
51840 | C | Attach bladder/urethra |  |  |  |  |
51841 | C | Attach bladder/urethra |  |  |  |  |
51845 | C | Repair bladder neck |  |  |  |  |
51860 | C | Repair of bladder wound |  |  |  |  |
51865 | C | Repair of bladder wound |  |  |  |  |
51880 | T | Repair of bladder opening | 0162 | 17.49 | $867.44 | $427.49 | $173.49
51900 | C | Repair bladder/vagina lesion |  |  |  |  |
51920 | C | Close bladder-uterus fistula |  |  |  |  |
51925 | C | Hysterectomy/bladder repair |  |  |  |  |
51940 | C | Correction of bladder defect |  |  |  |  |
51960 | C | Revision of bladder & bowel |  |  |  |  |
51980 | C | Construct bladder opening |  |  |  |  |
51990 | T | Laparo urethral suspension | 0131 | 41.81 | $2,073.61 | $1,089.88 | $414.72
51992 | T | Laparo sling operation | 0132 | 48.91 | $2,425.74 | $1,239.22 | $485.15
52000 | T | Cystoscopy | 0160 | 5.43 | $269.30 | $110.11 | $53.86
52005 | T | Cystoscopy & ureter catheter | 0161 | 10.94 | $542.58 | $249.36 | $108.52
52007 | T | Cystoscopy and biopsy | 0161 | 10.94 | $542.58 | $249.36 | $108.52
52010 | T | Cystoscopy & duct catheter | 0161 | 10.94 | $542.58 | $249.36 | $108.52
52204 | T | Cystoscopy | 0161 | 10.94 | $542.58 | $249.36 | $108.52
52214 | T | Cystoscopy and treatment | 0161 | 10.94 | $542.58 | $249.36 | $108.52
52224 | T | Cystoscopy and treatment | 0161 | 10.94 | $542.58 | $249.36 | $108.52
52234 | T | Cystoscopy and treatment | 0162 | 17.49 | $867.44 | $427.49 | $173.49
52235 | T | Cystoscopy and treatment | 0162 | 17.49 | $867.44 | $427.49 | $173.49
52240 | T | Cystoscopy and treatment | 0163 | 28.98 | $1,437.30 | $792.58 | $287.46
52250 | T | Cystoscopy and radiotracer | 0162 | 17.49 | $867.44 | $427.49 | $173.49
52260 | T | Cystoscopy and treatment | 0161 | 10.94 | $542.58 | $249.36 | $108.52
52265 | T | Cystoscopy and treatment | 0160 | 5.43 | $269.30 | $110.11 | $53.86
52270 | T | Cystoscopy & revise urethra | 0161 | 10.94 | $542.58 | $249.36 | $108.52
52275 | T | Cystoscopy & revise urethra | 0161 | 10.94 | $542.58 | $249.36 | $108.52
52276 | T | Cystoscopy and treatment | 0161 | 10.94 | $542.58 | $249.36 | $108.52
52277 | T | Cystoscopy and treatment | 0162 | 17.49 | $867.44 | $427.49 | $173.49
52281 | T | Cystoscopy and treatment | 0161 | 10.94 | $542.58 | $249.36 | $108.52
52282 | T | Cystoscopy, implant stent | 0162 | 17.49 | $867.44 | $427.49 | $173.49
52283 | T | Cystoscopy and treatment | 0161 | 10.94 | $542.58 | $249.36 | $108.52
52285 | T | Cystoscopy and treatment | 0161 | 10.94 | $542.58 | $249.36 | $108.52
52290 | T | Cystoscopy and treatment | 0161 | 10.94 | $542.58 | $249.36 | $108.52
52300 | T | Cystoscopy and treatment | 0161 | 10.94 | $542.58 | $249.36 | $108.52
52301 | T | Cystoscopy and treatment | 0161 | 10.94 | $542.58 | $249.36 | $108.52
52305 | T | Cystoscopy and treatment | 0161 | 10.94 | $542.58 | $249.36 | $108.52
52310 | T | Cystoscopy and treatment | 0161 | 10.94 | $542.58 | $249.36 | $108.52
52315 | T | Cystoscopy and treatment | 0161 | 10.94 | $542.58 | $249.36 | $108.52
52317 | T | Remove bladder stone | 0162 | 17.49 | $867.44 | $427.49 | $173.49
52318 | T | Remove bladder stone | 0162 | 17.49 | $867.44 | $427.49 | $173.49
52320 | T | Cystoscopy and treatment | 0162 | 17.49 | $867.44 | $427.49 | $173.49
52325 | T | Cystoscopy, stone removal | 0162 | 17.49 | $867.44 | $427.49 | $173.49
52327 | T | Cystoscopy, inject material | 0161 | 10.94 | $542.58 | $249.36 | $108.52
52330 | T | Cystoscopy and treatment | 0162 | 17.49 | $867.44 | $427.49 | $173.49
52332 | T | Cystoscopy and treatment | 0162 | 17.49 | $867.44 | $427.49 | $173.49
52334 | T | Create passage to kidney | 0162 | 17.49 | $867.44 | $427.49 | $173.49
52335D | T | Endoscopy of urinary tract | 0162 | 17.49 | $867.44 | $427.49 | $173.49
52336D | T | Cystoscopy, stone removal | 0162 | 17.49 | $867.44 | $427.49 | $173.49
52337D | T | Cystoscopy, stone removal | 0162 | 17.49 | $867.44 | $427.49 | $173.49
52338D | T | Cystoscopy and treatment | 0162 | 17.49 | $867.44 | $427.49 | $173.49
52339D | T | Cystoscopy and treatment | 0162 | 17.49 | $867.44 | $427.49 | $173.49
52340D | T | Cystoscopy and treatment | 0162 | 17.49 | $867.44 | $427.49 | $173.49
*52341 | T | Cysto w/ureter stricture treatment | 0162 | 17.49 | $867.44 | $427.49 | $173.49
*52342 | T | Cysto w/up stricture treatment | 0162 | 17.49 | $867.44 | $427.49 | $173.49
*52343 | T | Cysto w/renal stricture treatment | 0162 | 17.49 | $867.44 | $427.49 | $173.49
*52344 | T | Cysto/uretero, stone removal | 0162 | 17.49 | $867.44 | $427.49 | $173.49
*52345 | T | Cysto/uretero w/up stricture | 0162 | 17.49 | $867.44 | $427.49 | $173.49
*52346 | T | Cystouretero w/renal strict | 0162 | 17.49 | $867.44 | $427.49 | $173.49
*52351 | T | Cystouretero &/or pyeloscope | 0161 | 10.94 | $542.58 | $249.36 | $108.52
*52352 | T | Cystouretero w/stone removal | 0162 | 17.49 | $867.44 | $427.49 | $173.49
*52353 | T | Cystouretero w/lithotripsy | 0162 | 17.49 | $867.44 | $427.49 | $173.49
*52354 | T | Cystouretero w/biopsy | 0162 | 17.49 | $867.44 | $427.49 | $173.49
*52355 | T | Cystouretero w/excise tumor | 0162 | 17.49 | $867.44 | $427.49 | $173.49
*52400 | T | Cystouretero w/congen repr | 0162 | 17.49 | $867.44 | $427.49 | $173.49
52450 | T | Incision of prostate | 0162 | 17.49 | $867.44 | $427.49 | $173.49
52500 | T | Revision of bladder neck | 0162 | 17.49 | $867.44 | $427.49 | $173.49
52510 | T | Dilation prostatic urethra | 0161 | 10.94 | $542.58 | $249.36 | $108.52
52601 | T | Prostatectomy (TURP) | 0163 | 28.98 | $1,437.30 | $792.58 | $287.46
52606 | T | Control postop bleeding | 0162 | 17.49 | $867.44 | $427.49 | $173.49
52612 | T | Prostatectomy, first stage | 0163 | 28.98 | $1,437.30 | $792.58 | $287.46
52614 | T | Prostatectomy, second stage | 0163 | 28.98 | $1,437.30 | $792.58 | $287.46
52620 | T | Remove residual prostate | 0163 | 28.98 | $1,437.30 | $792.58 | $287.46
52630 | T | Remove prostate regrowth | 0163 | 28.98 | $1,437.30 | $792.58 | $287.46
52640 | T | Relieve bladder contracture | 0162 | 17.49 | $867.44 | $427.49 | $173.49
52647 | T | Laser surgery of prostate | 0163 | 28.98 | $1,437.30 | $792.58 | $287.46
52648 | T | Laser surgery of prostate | 0163 | 28.98 | $1,437.30 | $792.58 | $287.46
52700 | T | Drainage of prostate abscess | 0162 | 17.49 | $867.44 | $427.49 | $173.49
53000 | T | Incision of urethra | 0166 | 10.17 | $504.39 | $218.73 | $100.88
53010 | T | Incision of urethra | 0166 | 10.17 | $504.39 | $218.73 | $100.88
53020 | T | Incision of urethra | 0166 | 10.17 | $504.39 | $218.73 | $100.88
53025 | T | Incision of urethra | 0166 | 10.17 | $504.39 | $218.73 | $100.88
53040 | T | Drainage of urethra abscess | 0166 | 10.17 | $504.39 | $218.73 | $100.88
53060 | T | Drainage of urethra abscess | 0166 | 10.17 | $504.39 | $218.73 | $100.88
53080 | T | Drainage of urinary leakage | 0166 | 10.17 | $504.39 | $218.73 | $100.88
53085 | C | Drainage of urinary leakage |  |  |  |  |
53200 | T | Biopsy of urethra | 0166 | 10.17 | $504.39 | $218.73 | $100.88
53210 | T | Removal of urethra | 0168 | 24.94 | $1,236.93 | $536.11 | $247.39
53215 | T | Removal of urethra | 0168 | 24.94 | $1,236.93 | $536.11 | $247.39
53220 | T | Treatment of urethra lesion | 0168 | 24.94 | $1,236.93 | $536.11 | $247.39
53230 | T | Removal of urethra lesion | 0168 | 24.94 | $1,236.93 | $536.11 | $247.39
53235 | T | Removal of urethra lesion | 0168 | 24.94 | $1,236.93 | $536.11 | $247.39
53240 | T | Surgery for urethra pouch | 0168 | 24.94 | $1,236.93 | $536.11 | $247.39
53250 | T | Removal of urethra gland | 0166 | 10.17 | $504.39 | $218.73 | $100.88
53260 | T | Treatment of urethra lesion | 0166 | 10.17 | $504.39 | $218.73 | $100.88
53265 | T | Treatment of urethra lesion | 0166 | 10.17 | $504.39 | $218.73 | $100.88
53270 | T | Removal of urethra gland | 0167 | 21.06 | $1,044.50 | $555.84 | $208.90
53275 | T | Repair of urethra defect | 0166 | 10.17 | $504.39 | $218.73 | $100.88
53400 | T | Revise urethra, stage 1 | 0168 | 24.94 | $1,236.93 | $536.11 | $247.39
53405 | T | Revise urethra, stage 2 | 0168 | 24.94 | $1,236.93 | $536.11 | $247.39
53410 | T | Reconstruction of urethra | 0168 | 24.94 | $1,236.93 | $536.11 | $247.39
53415 | C | Reconstruction of urethra |  |  |  |  |
53420 | T | Reconstruct urethra, stage 1 | 0168 | 24.94 | $1,236.93 | $536.11 | $247.39
53425 | T | Reconstruct urethra, stage 2 | 0168 | 24.94 | $1,236.93 | $536.11 | $247.39
53430 | T | Reconstruction of urethra | 0168 | 24.94 | $1,236.93 | $536.11 | $247.39
53440 | T | Correct bladder function | 0182 | 52.11 | $2,584.45 | $1,525.05 | $516.89
53442 | T | Remove perineal prosthesis | 0166 | 10.17 | $504.39 | $218.73 | $100.88
53443 | C | Reconstruction of urethra |  |  |  |  |
53445 | T | Correct urine flow control | 0182 | 52.11 | $2,584.45 | $1,525.05 | $516.89
53447 | T | Remove artificial sphincter | 0168 | 24.94 | $1,236.93 | $536.11 | $247.39
53449 | T | Correct artificial sphincter | 0168 | 24.94 | $1,236.93 | $536.11 | $247.39
53450 | T | Revision of urethra | 0168 | 24.94 | $1,236.93 | $536.11 | $247.39
53460 | T | Revision of urethra | 0168 | 24.94 | $1,236.93 | $536.11 | $247.39
53502 | T | Repair of urethra injury | 0166 | 10.17 | $504.39 | $218.73 | $100.88
53505 | T | Repair of urethra injury | 0167 | 21.06 | $1,044.50 | $555.84 | $208.90
53510 | T | Repair of urethra injury | 0166 | 10.17 | $504.39 | $218.73 | $100.88
53515 | T | Repair of urethra injury | 0168 | 24.94 | $1,236.93 | $536.11 | $247.39
53520 | T | Repair of urethra defect | 0168 | 24.94 | $1,236.93 | $536.11 | $247.39
53600 | T | Dilate urethra stricture | 0164 | 2.17 | $107.64 | $33.03 | $21.53
53601 | T | Dilate urethra stricture | 0164 | 2.17 | $107.64 | $33.03 | $21.53
53605 | T | Dilate urethra stricture | 0161 | 10.94 | $542.58 | $249.36 | $108.52
53620 | T | Dilate urethra stricture | 0165 | 3.89 | $192.92 | $91.76 | $38.58
53621 | T | Dilate urethra stricture | 0164 | 2.17 | $107.64 | $33.03 | $21.53
53660 | T | Dilation of urethra | 0164 | 2.17 | $107.64 | $33.03 | $21.53
53661 | T | Dilation of urethra | 0164 | 2.17 | $107.64 | $33.03 | $21.53
53665 | T | Dilation of urethra | 0166 | 10.17 | $504.39 | $218.73 | $100.88
53670 | N | Insert urinary catheter |  |  |  |  |
53675 | T | Insert urinary catheter | 0164 | 2.17 | $107.64 | $33.03 | $21.53
53850 | T | Prostatic microwave thermotx | 0980 | 38.67 | $1,917.89 |  | $383.58
53852 | T | Prostatic rf thermotx | 0980 | 38.67 | $1,917.89 |  | $383.58
53899 | T | Urology surgery procedure | 0165 | 3.89 | $192.92 | $91.76 | $38.58
54000 | T | Slitting of prepuce | 0166 | 10.17 | $504.39 | $218.73 | $100.88
54001 | T | Slitting of prepuce | 0166 | 10.17 | $504.39 | $218.73 | $100.88
54015 | T | Drain penis lesion | 0008 | 6.15 | $305.02 | $113.67 | $61.00
54050 | T | Destruction, penis lesion(s) | 0013 | 0.91 | $45.13 | $17.66 | $9.03
54055 | T | Destruction, penis lesion(s) | 0016 | 3.53 | $175.07 | $74.67 | $35.01
54056 | T | Cryosurgery, penis lesion(s) | 0013 | 0.91 | $45.13 | $17.66 | $9.03
54057 | T | Laser surg, penis lesion(s) | 0017 | 12.45 | $617.47 | $289.16 | $123.49
54060 | T | Excision of penis lesion(s) | 0017 | 12.45 | $617.47 | $289.16 | $123.49
54065 | T | Destruction, penis lesion(s) | 0017 | 12.45 | $617.47 | $289.16 | $123.49
54100 | T | Biopsy of penis | 0020 | 6.51 | $322.87 | $130.53 | $64.57
54105 | T | Biopsy of penis | 0021 | 10.49 | $520.26 | $236.51 | $104.05
54110 | T | Treatment of penis lesion | 0181 | 32.37 | $1,605.43 | $906.36 | $321.09
54111 | T | Treat penis lesion, graft | 0181 | 32.37 | $1,605.43 | $906.36 | $321.09
54112 | T | Treat penis lesion, graft | 0181 | 32.37 | $1,605.43 | $906.36 | $321.09
54115 | T | Treatment of penis lesion | 0008 | 6.15 | $305.02 | $113.67 | $61.00
54120 | T | Partial removal of penis | 0181 | 32.37 | $1,605.43 | $906.36 | $321.09
54125 | C | Removal of penis |  |  |  |  |
54130 | C | Remove penis & nodes |  |  |  |  |
54135 | C | Remove penis & nodes |  |  |  |  |
54150 | T | Circumcision | 0180 | 13.62 | $675.49 | $304.87 | $135.10
54152 | T | Circumcision | 0180 | 13.62 | $675.49 | $304.87 | $135.10
54160 | T | Circumcision | 0180 | 13.62 | $675.49 | $304.87 | $135.10
54161 | T | Circumcision | 0180 | 13.62 | $675.49 | $304.87 | $135.10
54200 | T | Treatment of penis lesion | 0165 | 3.89 | $192.92 | $91.76 | $38.58
54205 | T | Treatment of penis lesion | 0181 | 32.37 | $1,605.43 | $906.36 | $321.09
54220 | T | Treatment of penis lesion | 0165 | 3.89 | $192.92 | $91.76 | $38.58
54230 | N | Prepare penis study |  |  |  |  |
54231 | T | Dynamic cavernosometry | 0165 | 3.89 | $192.92 | $91.76 | $38.58
54235 | T | Penile injection | 0164 | 2.17 | $107.64 | $33.03 | $21.53
54240 | T | Penis study | 0164 | 2.17 | $107.64 | $33.03 | $21.53
54250 | T | Penis study | 0165 | 3.89 | $192.92 | $91.76 | $38.58
54300 | T | Revision of penis | 0181 | 32.37 | $1,605.43 | $906.36 | $321.09
54304 | T | Revision of penis | 0181 | 32.37 | $1,605.43 | $906.36 | $321.09
54308 | T | Reconstruction of urethra | 0181 | 32.37 | $1,605.43 | $906.36 | $321.09
54312 | T | Reconstruction of urethra | 0181 | 32.37 | $1,605.43 | $906.36 | $321.09
54316 | T | Reconstruction of urethra | 0181 | 32.37 | $1,605.43 | $906.36 | $321.09
54318 | T | Reconstruction of urethra | 0181 | 32.37 | $1,605.43 | $906.36 | $321.09
54322 | T | Reconstruction of urethra | 0181 | 32.37 | $1,605.43 | $906.36 | $321.09
54324 | T | Reconstruction of urethra | 0181 | 32.37 | $1,605.43 | $906.36 | $321.09
54326 | T | Reconstruction of urethra | 0181 | 32.37 | $1,605.43 | $906.36 | $321.09
54328 | T | Revise penis/urethra | 0181 | 32.37 | $1,605.43 | $906.36 | $321.09
54332 | C | Revise penis/urethra |  |  |  |  |
54336 | C | Revise penis/urethra |  |  |  |  |
54340 | T | Secondary urethral surgery | 0181 | 32.37 | $1,605.43 | $906.36 | $321.09
54344 | T | Secondary urethral surgery | 0181 | 32.37 | $1,605.43 | $906.36 | $321.09
54348 | T | Secondary urethral surgery | 0181 | 32.37 | $1,605.43 | $906.36 | $321.09
54352 | T | Reconstruct urethra/penis | 0181 | 32.37 | $1,605.43 | $906.36 | $321.09
54360 | T | Penis plastic surgery | 0181 | 32.37 | $1,605.43 | $906.36 | $321.09
54380 | T | Repair penis | 0181 | 32.37 | $1,605.43 | $906.36 | $321.09
54385 | T | Repair penis | 0181 | 32.37 | $1,605.43 | $906.36 | $321.09
54390 | C | Repair penis and bladder |  |  |  |  |
54400 | T | Insert semi-rigid prosthesis | 0182 | 52.11 | $2,584.45 | $1,525.05 | $516.89
54401 | T | Insert self-contd prosthesis | 0182 | 52.11 | $2,584.45 | $1,525.05 | $516.89
54402 | T | Remove penis prosthesis | 0185 | 32.37 | $1,605.43 | $906.36 | $321.09
54405 | T | Insert multi-comp prosthesis | 0182 | 52.11 | $2,584.45 | $1,525.05 | $516.89
54407 | T | Remove multi-comp prosthesis | 0185 | 32.37 | $1,605.43 | $906.36 | $321.09
54409 | T | Revise penis prosthesis | 0185 | 32.37 | $1,605.43 | $906.36 | $321.09
54420 | T | Revision of penis | 0181 | 32.37 | $1,605.43 | $906.36 | $321.09
54430 | C | Revision of penis |  |  |  |  |
54435 | T | Revision of penis | 0181 | 32.37 | $1,605.43 | $906.36 | $321.09
54440 | T | Repair of penis | 0181 | 32.37 | $1,605.43 | $906.36 | $321.09
54450 | T | Preputial stretching | 0165 | 3.89 | $192.92 | $91.76 | $38.58
54500 | T | Biopsy of testis | 0005 | 5.41 | $268.32 | $119.75 | $53.66
54505 | T | Biopsy of testis | 0183 | 18.26 | $905.62 | $448.94 | $181.12
54510 | T | Removal of testis lesion | 0183 | 18.26 | $905.62 | $448.94 | $181.12
*54512 | T | Excise lesion testis | 0183 | 18.26 | $905.62 | $448.94 | $181.12
54520 | T | Removal of testis | 0183 | 18.26 | $905.62 | $448.94 | $181.12
*54522 | T | Orchiectomy, partial | 0183 | 18.26 | $905.62 | $448.94 | $181.12
54530 | T | Removal of testis | 0154 | 22.43 | $1,112.45 | $556.98 | $222.49
54535 | C | Extensive testis surgery |  |  |  |  |
54550 | T | Exploration for testis | 0154 | 22.43 | $1,112.45 | $556.98 | $222.49
54560 | C | Exploration for testis |  |  |  |  |
54600 | T | Reduce testis torsion | 0183 | 18.26 | $905.62 | $448.94 | $181.12
54620 | T | Suspension of testis | 0183 | 18.26 | $905.62 | $448.94 | $181.12
54640 | T | Suspension of testis | 0154 | 22.43 | $1,112.45 | $556.98 | $222.49
54650 | C | Orchiopexy (Fowler-Stephens) |  |  |  |  |
54660 | T | Revision of testis | 0183 | 18.26 | $905.62 | $448.94 | $181.12
54670 | T | Repair testis injury | 0183 | 18.26 | $905.62 | $448.94 | $181.12
54680 | T | Relocation of testis(es) | 0183 | 18.26 | $905.62 | $448.94 | $181.12
54690 | T | Laparoscopy, orchiectomy | 0131 | 41.81 | $2,073.61 | $1,089.88 | $414.72
54692 | T | Laparoscopy, orchiopexy | 0132 | 48.91 | $2,425.74 | $1,239.22 | $485.15
54699 | T | Laparoscope proc, testis | 0130 | 25.36 | $1,257.75 | $659.53 | $251.55
54700 | T | Drainage of scrotum | 0183 | 18.26 | $905.62 | $448.94 | $181.12
54800 | T | Biopsy of epididymis | 0004 | 1.84 | $91.26 | $32.57 | $18.25
54820 | T | Exploration of epididymis | 0183 | 18.26 | $905.62 | $448.94 | $181.12
54830 | T | Remove epididymis lesion | 0183 | 18.26 | $905.62 | $448.94 | $181.12
54840 | T | Remove epididymis lesion | 0183 | 18.26 | $905.62 | $448.94 | $181.12
54860 | T | Removal of epididymis | 0183 | 18.26 | $905.62 | $448.94 | $181.12
54861 | T | Removal of epididymis | 0183 | 18.26 | $905.62 | $448.94 | $181.12
54900 | T | Fusion of spermatic ducts | 0183 | 18.26 | $905.62 | $448.94 | $181.12
54901 | T | Fusion of spermatic ducts | 0183 | 18.26 | $905.62 | $448.94 | $181.12
55000 | T | Drainage of hydrocele | 0004 | 1.84 | $91.26 | $32.57 | $18.25
55040 | T | Removal of hydrocele | 0154 | 22.43 | $1,112.45 | $556.98 | $222.49
55041 | T | Removal of hydroceles | 0154 | 22.43 | $1,112.45 | $556.98 | $222.49
55060 | T | Repair of hydrocele | 0183 | 18.26 | $905.62 | $448.94 | $181.12
55100 | T | Drainage of scrotum abscess | 0008 | 6.15 | $305.02 | $113.67 | $61.00
55110 | T | Explore scrotum | 0183 | 18.26 | $905.62 | $448.94 | $181.12
55120 | T | Removal of scrotum lesion | 0183 | 18.26 | $905.62 | $448.94 | $181.12
55150 | T | Removal of scrotum | 0183 | 18.26 | $905.62 | $448.94 | $181.12
55175 | T | Revision of scrotum | 0183 | 18.26 | $905.62 | $448.94 | $181.12
55180 | T | Revision of scrotum | 0183 | 18.26 | $905.62 | $448.94 | $181.12
55200 | T | Incision of sperm duct | 0183 | 18.26 | $905.62 | $448.94 | $181.12
55250 | T | Removal of sperm duct(s) | 0183 | 18.26 | $905.62 | $448.94 | $181.12
55300 | N | Prepare, sperm duct x-ray |  |  |  |  |
55400 | T | Repair of sperm duct | 0183 | 18.26 | $905.62 | $448.94 | $181.12
55450 | T | Ligation of sperm duct | 0183 | 18.26 | $905.62 | $448.94 | $181.12
55500 | T | Removal of hydrocele | 0183 | 18.26 | $905.62 | $448.94 | $181.12
55520 | T | Removal of sperm cord lesion | 0183 | 18.26 | $905.62 | $448.94 | $181.12
55530 | T | Revise spermatic cord veins | 0183 | 18.26 | $905.62 | $448.94 | $181.12
55535 | T | Revise spermatic cord veins | 0154 | 22.43 | $1,112.45 | $556.98 | $222.49
55540 | T | Revise hernia & sperm veins | 0154 | 22.43 | $1,112.45 | $556.98 | $222.49
55550 | T | Laparo ligate spermatic vein | 0131 | 41.81 | $2,073.61 | $1,089.88 | $414.72
55559 | T | Laparo proc, spermatic cord | 0130 | 25.36 | $1,257.75 | $659.53 | $251.55
55600 | C | Incise sperm duct pouch |  |  |  |  |
55605 | C | Incise sperm duct pouch |  |  |  |  |
55650 | C | Remove sperm duct pouch |  |  |  |  |
55680 | T | Remove sperm pouch lesion | 0183 | 18.26 | $905.62 | $448.94 | $181.12
55700 | T | Biopsy of prostate | 0184 | 4.94 | $245.01 | $122.96 | $49.00
55705 | T | Biopsy of prostate | 0184 | 4.94 | $245.01 | $122.96 | $49.00
55720 | T | Drainage of prostate abscess | 0162 | 17.49 | $867.44 | $427.49 | $173.49
55725 | T | Drainage of prostate abscess | 0162 | 17.49 | $867.44 | $427.49 | $173.49
55801 | C | Removal of prostate |  |  |  |  |
55810 | C | Extensive prostate surgery |  |  |  |  |
55812 | C | Extensive prostate surgery |  |  |  |  |
55815 | C | Extensive prostate surgery |  |  |  |  |
55821 | C | Removal of prostate |  |  |  |  |
55831 | C | Removal of prostate |  |  |  |  |
55840 | C | Extensive prostate surgery |  |  |  |  |
55842 | C | Extensive prostate surgery |  |  |  |  |
55845 | C | Extensive prostate surgery |  |  |  |  |
55859 | T | Percut/needle insert, pros | 0162 | 17.49 | $867.44 | $427.49 | $173.49
55860 | T | Surgical exposure, prostate | 0165 | 3.89 | $192.92 | $91.76 | $38.58
55862 | C | Extensive prostate surgery |  |  |  |  |
55865 | C | Extensive prostate surgery |  |  |  |  |
55870 | T | Electroejaculation | 0197 | 2.40 | $119.03 | $49.55 | $23.81
*55873 | T | Cryoablate prostate | 0980 | 38.67 | $1,917.89 |  | $383.58
55899 | T | Genital surgery procedure | 0164 | 2.17 | $107.64 | $33.03 | $21.53
55970 | E | Sex transformation, M to F |  |  |  |  |
55980 | E | Sex transformation, F to M |  |  |  |  |
56405 | T | I & D of vulva/perineum | 0192 | 2.38 | $118.04 | $35.33 | $23.61
56420 | T | Drainage of gland abscess | 0192 | 2.38 | $118.04 | $35.33 | $23.61
56440 | T | Surgery for vulva lesion | 0194 | 16.21 | $803.96 | $395.94 | $160.79
56441 | T | Lysis of labial lesion(s) | 0193 | 8.93 | $442.89 | $171.13 | $88.58
56501 | T | Destruction, vulva lesion(s) | 0016 | 3.53 | $175.07 | $74.67 | $35.01
56515 | T | Destruction, vulva lesion(s) | 0017 | 12.45 | $617.47 | $289.16 | $123.49
56605 | T | Biopsy of vulva/perineum | 0019 | 4.00 | $198.39 | $78.91 | $39.68
56606 | T | Biopsy of vulva/perineum | 0019 | 4.00 | $198.39 | $78.91 | $39.68
56620 | T | Partial removal of vulva | 0195 | 18.68 | $926.46 | $483.80 | $185.29
56625 | T | Complete removal of vulva | 0195 | 18.68 | $926.46 | $483.80 | $185.29
56630 | C | Extensive vulva surgery |  |  |  |  |
56631 | C | Extensive vulva surgery |  |  |  |  |
56632 | C | Extensive vulva surgery |  |  |  |  |
56633 | C | Extensive vulva surgery |  |  |  |  |
56634 | C | Extensive vulva surgery |  |  |  |  |
56637 | C | Extensive vulva surgery |  |  |  |  |
56640 | C | Extensive vulva surgery |  |  |  |  |
56700 | T | Partial removal of hymen | 0194 | 16.21 | $803.96 | $395.94 | $160.79
56720 | T | Incision of hymen | 0193 | 8.93 | $442.89 | $171.13 | $88.58
56740 | T | Remove vagina gland lesion | 0194 | 16.21 | $803.96 | $395.94 | $160.79
56800 | T | Repair of vagina | 0194 | 16.21 | $803.96 | $395.94 | $160.79
56805 | T | Repair clitoris | 0194 | 16.21 | $803.96 | $395.94 | $160.79
56810 | T | Repair of perineum | 0194 | 16.21 | $803.96 | $395.94 | $160.79
57000 | T | Exploration of vagina | 0194 | 16.21 | $803.96 | $395.94 | $160.79
57010 | T | Drainage of pelvic abscess | 0194 | 16.21 | $803.96 | $395.94 | $160.79
57020 | T | Drainage of pelvic fluid | 0193 | 8.93 | $442.89 | $171.13 | $88.58
*57022 | T | I & D vaginal hematoma, OB | 0007 | 3.68 | $182.51 | $72.03 | $36.50
*57023 | T | I & D vaginal hematoma, trauma | 0007 | 3.68 | $182.51 | $72.03 | $36.50
57061 | T | Destruction vagina lesion(s) | 0194 | 16.21 | $803.96 | $395.94 | $160.79
57065 | T | Destruction vagina lesion(s) | 0194 | 16.21 | $803.96 | $395.94 | $160.79
57100 | T | Biopsy of vagina | 0192 | 2.38 | $118.04 | $35.33 | $23.61
57105 | T | Biopsy of vagina | 0194 | 16.21 | $803.96 | $395.94 | $160.79
57106 | T | Remove vagina wall, partial | 0194 | 16.21 | $803.96 | $395.94 | $160.79
57107 | T | Remove vagina tissue, part | 0194 | 16.21 | $803.96 | $395.94 | $160.79
57109 | T | Vaginectomy partial w/nodes | 0194 | 16.21 | $803.96 | $395.94 | $160.79
57110 | C | Remove vagina wall, complete |  |  |  |  |
57111 | C | Remove vagina tissue, compl |  |  |  |  |
57112 | C | Vaginectomy w/nodes, compl |  |  |  |  |
57120 | T | Closure of vagina | 0194 | 16.21 | $803.96 | $395.94 | $160.79
57130 | T | Remove vagina lesion | 0194 | 16.21 | $803.96 | $395.94 | $160.79
57135 | T | Remove vagina lesion | 0194 | 16.21 | $803.96 | $395.94 | $160.79
57150 | T | Treat vagina infection | 0192 | 2.38 | $118.04 | $35.33 | $23.61
57160 | T | Insert pessary/other device | 0191 | 1.19 | $59.02 | $17.43 | $11.80
57170 | T | Fitting of diaphragm/cap | 0191 | 1.19 | $59.02 | $17.43 | $11.80
57180 | T | Treat vaginal bleeding | 0192 | 2.38 | $118.04 | $35.33 | $23.61
57200 | T | Repair of vagina | 0194 | 16.21 | $803.96 | $395.94 | $160.79
57210 | T | Repair vagina/perineum | 0194 | 16.21 | $803.96 | $395.94 | $160.79
57220 | T | Revision of urethra | 0195 | 18.68 | $926.46 | $483.80 | $185.29
57230 | T | Repair of urethral lesion | 0194 | 16.21 | $803.96 | $395.94 | $160.79
57240 | T | Repair bladder & vagina | 0195 | 18.68 | $926.46 | $483.80 | $185.29
57250 | T | Repair rectum & vagina | 0195 | 18.68 | $926.46 | $483.80 | $185.29
57260 | T | Repair of vagina | 0195 | 18.68 | $926.46 | $483.80 | $185.29
57265 | T | Extensive repair of vagina | 0195 | 18.68 | $926.46 | $483.80 | $185.29
57268 | T | Repair of bowel bulge | 0195 | 18.68 | $926.46 | $483.80 | $185.29
57270 | C | Repair of bowel pouch |  |  |  |  |
57280 | C | Suspension of vagina |  |  |  |  |
57282 | C | Repair of vaginal prolapse |  |  |  |  |
57284 | T | Repair paravaginal defect | 0195 | 18.68 | $926.46 | $483.80 | $185.29
*57287 | T | Revise/remove sling repair | 0195 | 18.68 | $926.46 | $483.80 | $185.29
57288 | T | Repair bladder defect | 0195 | 18.68 | $926.46 | $483.80 | $185.29
57289 | T | Repair bladder & vagina | 0195 | 18.68 | $926.46 | $483.80 | $185.29
57291 | T | Construction of vagina | 0195 | 18.68 | $926.46 | $483.80 | $185.29
57292 | C | Construct vagina with graft |  |  |  |  |
57300 | T | Repair rectum-vagina fistula | 0195 | 18.68 | $926.46 | $483.80 | $185.29
57305 | C | Repair rectum-vagina fistula |  |  |  |  |
57307 | C | Fistula repair & colostomy |  |  |  |  |
57308 | C | Fistula repair, transperine |  |  |  |  |
57310 | T | Repair urethrovaginal lesion | 0195 | 18.68 | $926.46 | $483.80 | $185.29
57311 | C | Repair urethrovaginal lesion |  |  |  |  |
57320 | T | Repair bladder-vagina lesion | 0195 | 18.68 | $926.46 | $483.80 | $185.29
57330 | T | Repair bladder-vagina lesion | 0195 | 18.68 | $926.46 | $483.80 | $185.29
57335 | C | Repair vagina |  |  |  |  |
57400 | T | Dilation of vagina | 0194 | 16.21 | $803.96 | $395.94 | $160.79
57410 | T | Pelvic examination | 0194 | 16.21 | $803.96 | $395.94 | $160.79
57415 | T | Remove vaginal foreign body | 0194 | 16.21 | $803.96 | $395.94 | $160.79
57452 | T | Examination of vagina | 0191 | 1.19 | $59.02 | $17.43 | $11.80
57454 | T | Vagina examination & biopsy | 0192 | 2.38 | $118.04 | $35.33 | $23.61
57460 | T | Cervix excision | 0193 | 8.93 | $442.89 | $171.13 | $88.58
57500 | T | Biopsy of cervix | 0193 | 8.93 | $442.89 | $171.13 | $88.58
57505 | T | Endocervical curettage | 0192 | 2.38 | $118.04 | $35.33 | $23.61
57510 | T | Cauterization of cervix | 0193 | 8.93 | $442.89 | $171.13 | $88.58
57511 | T | Cryocautery of cervix | 0192 | 2.38 | $118.04 | $35.33 | $23.61
57513 | T | Laser surgery of cervix | 0193 | 8.93 | $442.89 | $171.13 | $88.58
57520 | T | Conization of cervix | 0194 | 16.21 | $803.96 | $395.94 | $160.79
57522 | T | Conization of cervix | 0195 | 18.68 | $926.46 | $483.80 | $185.29
57530 | T | Removal of cervix | 0195 | 18.68 | $926.46 | $483.80 | $185.29
57531 | C | Removal of cervix, radical |  |  |  |  |
57540 | C | Removal of residual cervix |  |  |  |  |
57545 | C | Remove cervix/repair pelvis |  |  |  |  |
57550 | T | Removal of residual cervix | 0195 | 18.68 | $926.46 | $483.80 | $185.29
57555 | T | Remove cervix/repair vagina | 0195 | 18.68 | $926.46 | $483.80 | $185.29
57556 | T | Remove cervix, repair bowel | 0195 | 18.68 | $926.46 | $483.80 | $185.29
57700 | T | Revision of cervix | 0194 | 16.21 | $803.96 | $395.94 | $160.79
57720 | T | Revision of cervix | 0194 | 16.21 | $803.96 | $395.94 | $160.79
57800 | T | Dilation of cervical canal | 0193 | 8.93 | $442.89 | $171.13 | $88.58
57820 | T | D & c of residual cervix | 0196 | 14.47 | $717.66 | $357.98 | $143.53
58100 | T | Biopsy of uterus lining | 0191 | 1.19 | $59.02 | $17.43 | $11.80
58120 | T | Dilation and curettage | 0196 | 14.47 | $717.66 | $357.98 | $143.53
58140 | C | Removal of uterus lesion |  |  |  |  |
58145 | T | Removal of uterus lesion | 0195 | 18.68 | $926.46 | $483.80 | $185.29
58150 | C | Total hysterectomy |  |  |  |  |
58152 | C | Total hysterectomy |  |  |  |  |
58180 | C | Partial hysterectomy |  |  |  |  |
58200 | C | Extensive hysterectomy |  |  |  |  |
58210 | C | Extensive hysterectomy |  |  |  |  |
58240 | C | Removal of pelvis contents |  |  |  |  |
58260 | C | Vaginal hysterectomy |  |  |  |  |
58262 | C | Vaginal hysterectomy |  |  |  |  |
58263 | C | Vaginal hysterectomy |  |  |  |  |
58267 | C | Hysterectomy & vagina repair |  |  |  |  |
58270 | C | Hysterectomy & vagina repair |  |  |  |  |
58275 | C | Hysterectomy/revise vagina |  |  |  |  |
58280 | C | Hysterectomy/revise vagina |  |  |  |  |
58285 | C | Extensive hysterectomy |  |  |  |  |
58300 | E | Insert intrauterine device |  |  |  |  |
58301 | T | Remove intrauterine device | 0191 | 1.19 | $59.02 | $17.43 | $11.80
58321 | T | Artificial insemination | 0197 | 2.40 | $119.03 | $49.55 | $23.81
58322 | T | Artificial insemination | 0197 | 2.40 | $119.03 | $49.55 | $23.81
58323 | T | Sperm washing | 0197 | 2.40 | $119.03 | $49.55 | $23.81
58340 | N | Catheter for hysterography |  |  |  |  |
58345 | T | Reopen fallopian tube | 0194 | 16.21 | $803.96 | $395.94 | $160.79
58350 | T | Reopen fallopian tube | 0194 | 16.21 | $803.96 | $395.94 | $160.79
*58353 | T | Endometr ablate, thermal | 0193 | 8.93 | $442.89 | $171.13 | $88.58
58400 | C | Suspension of uterus |  |  |  |  |
58410 | C | Suspension of uterus |  |  |  |  |
58520 | C | Repair of ruptured uterus |  |  |  |  |
58540 | C | Revision of uterus |  |  |  |  |
58550 | T | Laparo-asst vag hysterectomy | 0132 | 48.91 | $2,425.74 | $1,239.22 | $485.15
58551 | T | Laparoscopy, remove myoma | 0131 | 41.81 | $2,073.61 | $1,089.88 | $414.72
58555 | T | Hysteroscopy, dx, sep proc | 0191 | 1.19 | $59.02 | $17.43 | $11.80
58558 | T | Hysteroscopy, biopsy | 0190 | 17.85 | $885.29 | $443.89 | $177.06
58559 | T | Hysteroscopy, lysis | 0190 | 17.85 | $885.29 | $443.89 | $177.06
58560 | T | Hysteroscopy, resect septum | 0190 | 17.85 | $885.29 | $443.89 | $177.06
58561 | T | Hysteroscopy, remove myoma | 0190 | 17.85 | $885.29 | $443.89 | $177.06
58562 | T | Hysteroscopy, remove fb | 0190 | 17.85 | $885.29 | $443.89 | $177.06
58563 | T | Hysteroscopy, ablation | 0190 | 17.85 | $885.29 | $443.89 | $177.06
58578 | T | Laparo proc, uterus | 0190 | 17.85 | $885.29 | $443.89 | $177.06
58579 | T | Hysteroscope procedure | 0190 | 17.85 | $885.29 | $443.89 | $177.06
58600 | T | Division of fallopian tube | 0194 | 16.21 | $803.96 | $395.94 | $160.79
58605 | C | Division of fallopian tube |  |  |  |  |
58611 | C | Ligate oviduct(s) add-on |  |  |  |  |
58615 | T | Occlude fallopian tube(s) | 0194 | 16.21 | $803.96 | $395.94 | $160.79
58660 | T | Laparoscopy, lysis | 0131 | 41.81 | $2,073.61 | $1,089.88 | $414.72
58661 | T | Laparoscopy, remove adnexa | 0131 | 41.81 | $2,073.61 | $1,089.88 | $414.72
58662 | T | Laparoscopy, excise lesions | 0131 | 41.81 | $2,073.61 | $1,089.88 | $414.72
58670 | T | Laparoscopy, tubal cautery | 0131 | 41.81 | $2,073.61 | $1,089.88 | $414.72
58671 | T | Laparoscopy, tubal block | 0131 | 41.81 | $2,073.61 | $1,089.88 | $414.72
58672 | T | Laparoscopy, fimbrioplasty | 0131 | 41.81 | $2,073.61 | $1,089.88 | $414.72
58673 | T | Laparoscopy, salpingostomy | 0131 | 41.81 | $2,073.61 | $1,089.88 | $414.72
58679 | T | Laparo proc, oviduct-ovary | 0130 | 25.36 | $1,257.75 | $659.53 | $251.55
58700 | C | Removal of fallopian tube |  |  |  |  |
58720 | C | Removal of ovary/tube(s) |  |  |  |  |
58740 | C | Revise fallopian tube(s) |  |  |  |  |
58750 | C | Repair oviduct |  |  |  |  |
58752 | C | Revise ovarian tube(s) |  |  |  |  |
58760 | C | Remove tubal obstruction |  |  |  |  |
58770 | C | Create new tubal opening |  |  |  |  |
58800 | T | Drainage of ovarian cyst(s) | 0195 | 18.68 | $926.46 | $483.80 | $185.29
58805 | C | Drainage of ovarian cyst(s) |  |  |  |  |
58820 | T | Drain ovary abscess, open | 0195 | 18.68 | $926.46 | $483.80 | $185.29
58822 | C | Drain ovary abscess, percut |  |  |  |  |
58823 | C | Drain pelvic abscess, percut |  |  |  |  |
58825 | C | Transposition, ovary(s) |  |  |  |  |
58900 | T | Biopsy of ovary(s) | 0195 | 18.68 | $926.46 | $483.80 | $185.29
58920 | T | Partial removal of ovary(s) | 0195 | 18.68 | $926.46 | $483.80 | $185.29
58925 | T | Removal of ovarian cyst(s) | 0195 | 18.68 | $926.46 | $483.80 | $185.29
58940 | C | Removal of ovary(s) |  |  |  |  |
58943 | C | Removal of ovary(s) |  |  |  |  |
58950 | C | Resect ovarian malignancy |  |  |  |  |
58951 | C | Resect ovarian malignancy |  |  |  |  |
58952 | C | Resect ovarian malignancy |  |  |  |  |
58960 | C | Exploration of abdomen |  |  |  |  |
58970 | T | Retrieval of oocyte | 0194 | 16.21 | $803.96 | $395.94 | $160.79
58974 | T | Transfer of embryo | 0197 | 2.40 | $119.03 | $49.55 | $23.81
58976 | T | Transfer of embryo | 0197 | 2.40 | $119.03 | $49.55 | $23.81
58999 | T | Genital surgery procedure | 0019 | 4.00 | $198.39 | $78.91 | $39.68
59000 | T | Amniocentesis | 0198 | 1.34 | $66.46 | $33.03 | $13.29
59012 | T | Fetal cord puncture,prenatal | 0198 | 1.34 | $66.46 | $33.03 | $13.29
59015 | T | Chorion biopsy | 0198 | 1.34 | $66.46 | $33.03 | $13.29
59020 | T | Fetal contract stress test | 0198 | 1.34 | $66.46 | $33.03 | $13.29
59025 | T | Fetal non-stress test | 0198 | 1.34 | $66.46 | $33.03 | $13.29
59030 | T | Fetal scalp blood sample | 0198 | 1.34 | $66.46 | $33.03 | $13.29
59050 | T | Fetal monitor w/report | 0198 | 1.34 | $66.46 | $33.03 | $13.29
59051 | E | Fetal monitor/interpret only |  |  |  |  |
59100 | C | Remove uterus lesion |  |  |  |  |
59120 | C | Treat ectopic pregnancy |  |  |  |  |
59121 | C | Treat ectopic pregnancy |  |  |  |  |
59130 | C | Treat ectopic pregnancy |  |  |  |  |
59135 | C | Treat ectopic pregnancy |  |  |  |  |
59136 | C | Treat ectopic pregnancy |  |  |  |  |
59140 | C | Treat ectopic pregnancy |  |  |  |  |
59150 | T | Treat ectopic pregnancy | 0131 | 41.81 | $2,073.61 | $1,089.88 | $414.72
59151 | T | Treat ectopic pregnancy | 0131 | 41.81 | $2,073.61 | $1,089.88 | $414.72
59160 | T | D & c after delivery | 0196 | 14.47 | $717.66 | $357.98 | $143.53
59200 | T | Insert cervical dilator | 0191 | 1.19 | $59.02 | $17.43 | $11.80
59300 | T | Episiotomy or vaginal repair | 0194 | 16.21 | $803.96 | $395.94 | $160.79
59320 | T | Revision of cervix | 0194 | 16.21 | $803.96 | $395.94 | $160.79
59325 | C | Revision of cervix |  |  |  |  |
59350 | C | Repair of uterus |  |  |  |  |
59400 | E | Obstetrical care |  |  |  |  |
59409 | T | Obstetrical care | 0199 | 11.20 | $555.48 | $157.83 | $111.10
59410 | E | Obstetrical care |  |  |  |  |
59412 | T | Antepartum manipulation | 0199 | 11.20 | $555.48 | $157.83 | $111.10
59414 | T | Deliver placenta | 0199 | 11.20 | $555.48 | $157.83 | $111.10
59425 | E | Antepartum care only |  |  |  |  |
59426 | E | Antepartum care only |  |  |  |  |
59430 | E | Care after delivery |  |  |  |  |
59510 | E | Cesarean delivery |  |  |  |  |
59514 | C | Cesarean delivery only |  |  |  |  |
59515 | E | Cesarean delivery |  |  |  |  |
59525 | C | Remove uterus after cesarean |  |  |  |  |
59610 | E | Vbac delivery |  |  |  |  |
59612 | T | Vbac delivery only | 0199 | 11.20 | $555.48 | $157.83 | $111.10
59614 | E | Vbac care after delivery |  |  |  |  |
59618 | E | Attempted vbac delivery |  |  |  |  |
59620 | C | Attempted vbac delivery only |  |  |  |  |
59622 | E | Attempted vbac after care |  |  |  |  |
59812 | T | Treatment of miscarriage | 0201 | 13.00 | $644.75 | $329.65 | $128.95
59820 | T | Care of miscarriage | 0201 | 13.00 | $644.75 | $329.65 | $128.95
59821 | T | Treatment of miscarriage | 0201 | 13.00 | $644.75 | $329.65 | $128.95
59830 | C | Treat uterus infection |  |  |  |  |
59840 | T | Abortion | 0200 | 13.89 | $688.89 | $373.23 | $137.78
59841 | T | Abortion | 0200 | 13.89 | $688.89 | $373.23 | $137.78
59850 | C | Abortion |  |  |  |  |
59851 | C | Abortion |  |  |  |  |
59852 | C | Abortion |  |  |  |  |
59855 | C | Abortion |  |  |  |  |
59856 | C | Abortion |  |  |  |  |
59857 | C | Abortion |  |  |  |  |
59866 | T | Abortion (mpr) | 0198 | 1.34 | $66.46 | $33.03 | $13.29
59870 | T | Evacuate mole of uterus | 0201 | 13.00 | $644.75 | $329.65 | $128.95
59871 | T | Remove cerclage suture | 0194 | 16.21 | $803.96 | $395.94 | $160.79
59898 | T | Laparo proc, ob care/deliver | 0130 | 25.36 | $1,257.75 | $659.53 | $251.55
59899 | T | Maternity care procedure | 0198 | 1.34 | $66.46 | $33.03 | $13.29
60000 | T | Drain thyroid/tongue cyst | 0253 | 12.02 | $596.14 | $284.00 | $119.23
60001 | T | Aspirate/inject thyriod cyst | 0002 | 0.62 | $30.75 | $17.66 | $6.15
60100 | T | Biopsy of thyroid | 0004 | 1.84 | $91.26 | $32.57 | $18.25
60200 | T | Remove thyroid lesion | 0114 | 19.56 | $970.10 | $493.78 | $194.02
60210 | T | Partial thyroid excision | 0114 | 19.56 | $970.10 | $493.78 | $194.02
60212 | T | Parital thyroid excision | 0114 | 19.56 | $970.10 | $493.78 | $194.02
60220 | T | Partial removal of thyroid | 0114 | 19.56 | $970.10 | $493.78 | $194.02
60225 | T | Partial removal of thyroid | 0114 | 19.56 | $970.10 | $493.78 | $194.02
60240 | T | Removal of thyroid | 0114 | 19.56 | $970.10 | $493.78 | $194.02
60252 | T | Removal of thyroid | 0256 | 25.40 | $1,259.74 | $623.05 | $251.95
60254 | C | Extensive thyroid surgery |  |  |  |  |
60260 | T | Repeat thyroid surgery | 0256 | 25.40 | $1,259.74 | $623.05 | $251.95
60270 | C | Removal of thyroid |  |  |  |  |
60271 | C | Removal of thyroid |  |  |  |  |
60280 | T | Remove thyroid duct lesion | 0114 | 19.56 | $970.10 | $493.78 | $194.02
60281 | T | Remove thyroid duct lesion | 0114 | 19.56 | $970.10 | $493.78 | $194.02
60500 | T | Explore parathyroid glands | 0256 | 25.40 | $1,259.74 | $623.05 | $251.95
60502 | C | Re-explore parathyroids |  |  |  |  |
60505 | C | Explore parathyroid glands |  |  |  |  |
60512 | T | Autotransplant parathyroid | 0020 | 6.51 | $322.87 | $130.53 | $64.57
60520 | C | Removal of thymus gland |  |  |  |  |
60521 | C | Removal of thymus gland |  |  |  |  |
60522 | C | Removal of thymus gland |  |  |  |  |
60540 | C | Explore adrenal gland |  |  |  |  |
60545 | C | Explore adrenal gland |  |  |  |  |
60600 | C | Remove carotid body lesion |  |  |  |  |
60605 | C | Remove carotid body lesion |  |  |  |  |
60650 | C | Laparoscopy adrenalectomy |  |  |  |  |
60659 | T | Laparo proc, endocrine | 0130 | 25.36 | $1,257.75 | $659.53 | $251.55
60699 | T | Endocrine surgery procedure | 0004 | 1.84 | $91.26 | $32.57 | $18.25
61000 | T | Remove cranial cavity fluid | 0212 | 3.64 | $180.53 | $88.78 | $36.11
61001 | T | Remove cranial cavity fluid | 0212 | 3.64 | $180.53 | $88.78 | $36.11
61020 | T | Remove brain cavity fluid | 0212 | 3.64 | $180.53 | $88.78 | $36.11
61026 | T | Injection into brain canal | 0212 | 3.64 | $180.53 | $88.78 | $36.11
61050 | T | Remove brain canal fluid | 0212 | 3.64 | $180.53 | $88.78 | $36.11
61055 | T | Injection into brain canal | 0212 | 3.64 | $180.53 | $88.78 | $36.11
61070 | T | Brain canal shunt procedure | 0212 | 3.64 | $180.53 | $88.78 | $36.11
61105 | C | Twist drill hole |  |  |  |  |
61107 | C | Drill skull for implantation |  |  |  |  |
61108 | C | Drill skull for drainage |  |  |  |  |
61120 | C | Burr hole for puncture |  |  |  |  |
61140 | C | Pierce skull for biopsy |  |  |  |  |
61150 | C | Pierce skull for drainage |  |  |  |  |
61151 | C | Pierce skull for drainage |  |  |  |  |
61154 | C | Pierce skull & remove clot |  |  |  |  |
61156 | C | Pierce skull for drainage |  |  |  |  |
61210 | C | Pierce skull, implant device |  |  |  |  |
61215 | T | Insert brain-fluid device | 0224 | 17.89 | $887.27 | $453.41 | $177.45
61250 | C | Pierce skull & explore |  |  |  |  |
61253 | C | Pierce skull & explore |  |  |  |  |
61304 | C | Open skull for exploration |  |  |  |  |
61305 | C | Open skull for exploration |  |  |  |  |
61312 | C | Open skull for drainage |  |  |  |  |
61313 | C | Open skull for drainage |  |  |  |  |
61314 | C | Open skull for drainage |  |  |  |  |
61315 | C | Open skull for drainage |  |  |  |  |
61320 | C | Open skull for drainage |  |  |  |  |
61321 | C | Open skull for drainage |  |  |  |  |
61330 | T | Decompress eye socket | 0256 | 25.40 | $1,259.74 | $623.05 | $251.95
61332 | C | Explore/biopsy eye socket |  |  |  |  |
61333 | C | Explore orbit/remove lesion |  |  |  |  |
61334 | C | Explore orbit/remove object |  |  |  |  |
61340 | C | Relieve cranial pressure |  |  |  |  |
61343 | C | Incise skull (press relief) |  |  |  |  |
61345 | C | Relieve cranial pressure |  |  |  |  |
61440 | C | Incise skull for surgery |  |  |  |  |
61450 | C | Incise skull for surgery |  |  |  |  |
61458 | C | Incise skull for brain wound |  |  |  |  |
61460 | C | Incise skull for surgery |  |  |  |  |
61470 | C | Incise skull for surgery |  |  |  |  |
61480 | C | Incise skull for surgery |  |  |  |  |
61490 | C | Incise skull for surgery |  |  |  |  |
61500 | C | Removal of skull lesion |  |  |  |  |
61501 | C | Remove infected skull bone |  |  |  |  |
61510 | C | Removal of brain lesion |  |  |  |  |
61512 | C | Remove brain lining lesion |  |  |  |  |
61514 | C | Removal of brain abscess |  |  |  |  |
61516 | C | Removal of brain lesion |  |  |  |  |
61518 | C | Removal of brain lesion |  |  |  |  |
61519 | C | Remove brain lining lesion |  |  |  |  |
61520 | C | Removal of brain lesion |  |  |  |  |
61521 | C | Removal of brain lesion |  |  |  |  |
61522 | C | Removal of brain abscess |  |  |  |  |
61524 | C | Removal of brain lesion |  |  |  |  |
61526 | C | Removal of brain lesion |  |  |  |  |
61530 | C | Removal of brain lesion |  |  |  |  |
61531 | C | Implant brain electrodes |  |  |  |  |
61533 | C | Implant brain electrodes |  |  |  |  |
61534 | C | Removal of brain lesion |  |  |  |  |
61535 | C | Remove brain electrodes |  |  |  |  |
61536 | C | Removal of brain lesion |  |  |  |  |
61538 | C | Removal of brain tissue |  |  |  |  |
61539 | C | Removal of brain tissue |  |  |  |  |
61541 | C | Incision of brain tissue |  |  |  |  |
61542 | C | Removal of brain tissue |  |  |  |  |
61543 | C | Removal of brain tissue |  |  |  |  |
61544 | C | Remove & treat brain lesion |  |  |  |  |
61545 | C | Excision of brain tumor |  |  |  |  |
61546 | C | Removal of pituitary gland |  |  |  |  |
61548 | C | Removal of pituitary gland |  |  |  |  |
61550 | C | Release of skull seams |  |  |  |  |
61552 | C | Release of skull seams |  |  |  |  |
61556 | C | Incise skull/sutures |  |  |  |  |
61557 | C | Incise skull/sutures |  |  |  |  |
61558 | C | Excision of skull/sutures |  |  |  |  |
61559 | C | Excision of skull/sutures |  |  |  |  |
61563 | C | Excision of skull tumor |  |  |  |  |
61564 | C | Excision of skull tumor |  |  |  |  |
61570 | C | Remove foreign body, brain |  |  |  |  |
61571 | C | Incise skull for brain wound |  |  |  |  |
61575 | C | Skull base/brainstem surgery |  |  |  |  |
61576 | C | Skull base/brainstem surgery |  |  |  |  |
61580 | C | Craniofacial approach, skull |  |  |  |  |
61581 | C | Craniofacial approach, skull |  |  |  |  |
61582 | C | Craniofacial approach, skull |  |  |  |  |
61583 | C | Craniofacial approach, skull |  |  |  |  |
61584 | C | Orbitocranial approach/skull |  |  |  |  |
61585 | C | Orbitocranial approach/skull |  |  |  |  |
61586 | C | Resect nasopharynx, skull |  |  |  |  |
61590 | C | Infratemporal approach/skull |  |  |  |  |
61591 | C | Infratemporal approach/skull |  |  |  |  |
61592 | C | Orbitocranial approach/skull |  |  |  |  |
61595 | C | Transtemporal approach/skull |  |  |  |  |
61596 | C | Transcochlear approach/skull |  |  |  |  |
61597 | C | Transcondylar approach/skull |  |  |  |  |
61598 | C | Transpetrosal approach/skull |  |  |  |  |
61600 | C | Resect/excise cranial lesion |  |  |  |  |
61601 | C | Resect/excise cranial lesion |  |  |  |  |
61605 | C | Resect/excise cranial lesion |  |  |  |  |
61606 | C | Resect/excise cranial lesion |  |  |  |  |
61607 | C | Resect/excise cranial lesion |  |  |  |  |
61608 | C | Resect/excise cranial lesion |  |  |  |  |
61609 | C | Transect artery, sinus |  |  |  |  |
61610 | C | Transect artery, sinus |  |  |  |  |
61611 | C | Transect artery, sinus |  |  |  |  |
61612 | C | Transect artery, sinus |  |  |  |  |
61613 | C | Remove aneurysm, sinus |  |  |  |  |
61615 | C | Resect/excise lesion, skull |  |  |  |  |
61616 | C | Resect/excise lesion, skull |  |  |  |  |
61618 | C | Repair dura |  |  |  |  |
61619 | C | Repair dura |  |  |  |  |
61624 | C | Occlusion/embolization cath |  |  |  |  |
61626 | C | Occlusion/embolization cath |  |  |  |  |
61680 | C | Intracranial vessel surgery |  |  |  |  |
61682 | C | Intracranial vessel surgery |  |  |  |  |
61684 | C | Intracranial vessel surgery |  |  |  |  |
61686 | C | Intracranial vessel surgery |  |  |  |  |
61690 | C | Intracranial vessel surgery |  |  |  |  |
61692 | C | Intracranial vessel surgery |  |  |  |  |
*61697 | C | Brain aneurysm repair, complex |  |  |  |  |
*61698 | C | Brain aneurysm repair, complex |  |  |  |  |
61700 | C | Inner skull vessel surgery |  |  |  |  |
61702 | C | Inner skull vessel surgery |  |  |  |  |
61703 | C | Clamp neck artery |  |  |  |  |
61705 | C | Revise circulation to head |  |  |  |  |
61708 | C | Revise circulation to head |  |  |  |  |
61710 | C | Revise circulation to head |  |  |  |  |
61711 | C | Fusion of skull arteries |  |  |  |  |
61720 | C | Incise skull/brain surgery |  |  |  |  |
61735 | C | Incise skull/brain surgery |  |  |  |  |
61750 | C | Incise skull/brain biopsy |  |  |  |  |
61751 | C | Brain biopsy w/ ct/mr guide |  |  |  |  |
61760 | C | Implant brain electrodes |  |  |  |  |
61770 | C | Incise skull for treatment |  |  |  |  |
61790 | T | Treat trigeminal nerve | 0220 | 13.96 | $692.36 | $326.21 | $138.47
61791 | C | Treat trigeminal tract |  |  |  |  |
61793 | E | Focus radiation beam |  |  |  |  |
61795 | S | Brain surgery using computer | 0302 | 8.21 | $407.18 | $216.55 | $81.44
61850 | C | Implant neuroelectrodes |  |  |  |  |
61860 | C | Implant neuroelectrodes |  |  |  |  |
61862 | C | Implant neurostimul, subcort |  |  |  |  |
61870 | C | Implant neuroelectrodes |  |  |  |  |
61875 | C | Implant neuroelectrodes |  |  |  |  |
61880 | T | Revise/remove neuroelectrode | 0105 | 15.06 | $746.92 | $372.32 | $149.38
61885 | T | Implant neurostim one array | 0222 | 124.43 | $6,171.23 | $2,955.13 | $1,234.25
61886 | T | Implant neurostim arrays | 0222 | 124.43 | $6,171.23 | $2,955.13 | $1,234.25
61888 | T | Revise/remove neuroreceiver | 0105 | 15.06 | $746.92 | $372.32 | $149.38
62000 | C | Treat skull fracture |  |  |  |  |
62005 | C | Treat skull fracture |  |  |  |  |
62010 | C | Treatment of head injury |  |  |  |  |
62100 | C | Repair brain fluid leakage |  |  |  |  |
62115 | C | Reduction of skull defect |  |  |  |  |
62116 | C | Reduction of skull defect |  |  |  |  |
62117 | C | Reduction of skull defect |  |  |  |  |
62120 | C | Repair skull cavity lesion |  |  |  |  |
62121 | C | Incise skull repair |  |  |  |  |
62140 | C | Repair of skull defect |  |  |  |  |
62141 | C | Repair of skull defect |  |  |  |  |
62142 | C | Remove skull plate/flap |  |  |  |  |
62143 | C | Replace skull plate/flap |  |  |  |  |
62145 | C | Repair of skull & brain |  |  |  |  |
62146 | C | Repair of skull with graft |  |  |  |  |
62147 | C | Repair of skull with graft |  |  |  |  |
62180 | C | Establish brain cavity shunt |  |  |  |  |
62190 | C | Establish brain cavity shunt |  |  |  |  |
62192 | C | Establish brain cavity shunt |  |  |  |  |
62194 | T | Replace/irrigate catheter | 0121 | 2.36 | $117.05 | $52.53 | $23.41
62200 | C | Establish brain cavity shunt |  |  |  |  |
62201 | C | Establish brain cavity shunt |  |  |  |  |
62220 | C | Establish brain cavity shunt |  |  |  |  |
62223 | C | Establish brain cavity shunt |  |  |  |  |
62225 | T | Replace/irrigate catheter | 0121 | 2.36 | $117.05 | $52.53 | $23.41
62230 | T | Replace/revise brain shunt | 0224 | 17.89 | $887.27 | $453.41 | $177.45
*62252 | S | CSF shunt reprogram | 0102 | 0.45 | $22.32 | $12.62 | $4.46
62256 | C | Remove brain cavity shunt |  |  |  |  |
62258 | C | Replace brain cavity shunt |  |  |  |  |
62263 | T | Lysis epidural adhesions | 0212 | 3.64 | $180.53 | $88.78 | $36.11
62268 | T | Drain spinal cord cyst | 0212 | 3.64 | $180.53 | $88.78 | $36.11
62269 | T | Needle biopsy, spinal cord | 0005 | 5.41 | $268.32 | $119.75 | $53.66
62270 | T | Spinal fluid tap, diagnostic | 0210 | 3.00 | $148.79 | $62.40 | $29.76
62272 | T | Drain spinal fluid | 0210 | 3.00 | $148.79 | $62.40 | $29.76
62273 | T | Treat epidural spine lesion | 0212 | 3.64 | $180.53 | $88.78 | $36.11
62280 | T | Treat spinal cord lesion | 0212 | 3.64 | $180.53 | $88.78 | $36.11
62281 | T | Treat spinal cord lesion | 0212 | 3.64 | $180.53 | $88.78 | $36.11
62282 | T | Treat spinal canal lesion | 0212 | 3.64 | $180.53 | $88.78 | $36.11
62284 | N | Injection for myelogram |  |  |  |  |
62287 | T | Percutaneous diskectomy | 0220 | 13.96 | $692.36 | $326.21 | $138.47
62290 | N | Inject for spine disk x-ray |  |  |  |  |
62291 | N | Inject for spine disk x-ray |  |  |  |  |
62292 | T | Injection into disk lesion | 0212 | 3.64 | $180.53 | $88.78 | $36.11
62294 | T | Injection into spinal artery | 0212 | 3.64 | $180.53 | $88.78 | $36.11
62310 | T | Inject spine c/t | 0212 | 3.64 | $180.53 | $88.78 | $36.11
62311 | T | Inject spine l/s (cd) | 0212 | 3.64 | $180.53 | $88.78 | $36.11
62318 | T | Inject spine w/cath, c/t | 0212 | 3.64 | $180.53 | $88.78 | $36.11
62319 | T | Inject spine w/cath l/s (cd) | 0212 | 3.64 | $180.53 | $88.78 | $36.11
62350 | T | Implant spinal canal cath | 0223 | 7.05 | $349.65 | $154.27 | $69.93
62351 | C | Implant spinal canal cath |  |  |  |  |
62355 | T | Remove spinal canal catheter | 0105 | 15.06 | $746.92 | $372.32 | $149.38
62360 | T | Insert spine infusion device | 0226 | 5.62 | $278.73 | $109.42 | $55.75
62361 | T | Implant spine infusion pump | 0227 | 11.17 | $553.99 | $330.11 | $110.80
62362 | T | Implant spine infusion pump | 0227 | 11.17 | $553.99 | $330.11 | $110.80
62365 | T | Remove spine infusion device | 0105 | 15.06 | $746.92 | $372.32 | $149.38
62367 | S | Analyze spine infusion pump | 0102 | 0.45 | $22.32 | $12.62 | $4.46
62368 | S | Analyze spine infusion pump | 0102 | 0.45 | $22.32 | $12.62 | $4.46
63001 | C | Removal of spinal lamina |  |  |  |  |
63003 | C | Removal of spinal lamina |  |  |  |  |
63005 | C | Removal of spinal lamina |  |  |  |  |
63011 | C | Removal of spinal lamina |  |  |  |  |
63012 | C | Removal of spinal lamina |  |  |  |  |
63015 | C | Removal of spinal lamina |  |  |  |  |
63016 | C | Removal of spinal lamina |  |  |  |  |
63017 | C | Removal of spinal lamina |  |  |  |  |
63020 | C | Neck spine disk surgery |  |  |  |  |
63030 | C | Low back disk surgery |  |  |  |  |
63035 | C | Spinal disk surgery add-on |  |  |  |  |
63040 | C | Neck spine disk surgery |  |  |  |  |
63042 | C | Low back disk surgery |  |  |  |  |
*63043 | C | Laminotomy, addl cervical |  |  |  |  |
*63044 | C | Laminotomy, addl lumbar |  |  |  |  |
63045 | C | Removal of spinal lamina |  |  |  |  |
63046 | C | Removal of spinal lamina |  |  |  |  |
63047 | C | Removal of spinal lamina |  |  |  |  |
63048 | C | Remove spinal lamina add-on |  |  |  |  |
63055 | C | Decompress spinal cord |  |  |  |  |
63056 | C | Decompress spinal cord |  |  |  |  |
63057 | C | Decompress spine cord add-on |  |  |  |  |
63064 | C | Decompress spinal cord |  |  |  |  |
63066 | C | Decompress spine cord add-on |  |  |  |  |
63075 | C | Neck spine disk surgery |  |  |  |  |
63076 | C | Neck spine disk surgery |  |  |  |  |
63077 | C | Spine disk surgery, thorax |  |  |  |  |
63078 | C | Spine disk surgery, thorax |  |  |  |  |
63081 | C | Removal of vertebral body |  |  |  |  |
63082 | C | Remove vertebral body add-on |  |  |  |  |
63085 | C | Removal of vertebral body |  |  |  |  |
63086 | C | Remove vertebral body add-on |  |  |  |  |
63087 | C | Removal of vertebral body |  |  |  |  |
63088 | C | Remove vertebral body add-on |  |  |  |  |
63090 | C | Removal of vertebral body |  |  |  |  |
63091 | C | Remove vertebral body add-on |  |  |  |  |
63170 | C | Incise spinal cord tract(s) |  |  |  |  |
63172 | C | Drainage of spinal cyst |  |  |  |  |
63173 | C | Drainage of spinal cyst |  |  |  |  |
63180 | C | Revise spinal cord ligaments |  |  |  |  |
63182 | C | Revise spinal cord ligaments |  |  |  |  |
63185 | C | Incise spinal column/nerves |  |  |  |  |
63190 | C | Incise spinal column/nerves |  |  |  |  |
63191 | C | Incise spinal column/nerves |  |  |  |  |
63194 | C | Incise spinal column & cord |  |  |  |  |
63195 | C | Incise spinal column & cord |  |  |  |  |
63196 | C | Incise spinal column & cord |  |  |  |  |
63197 | C | Incise spinal column & cord |  |  |  |  |
63198 | C | Incise spinal column & cord |  |  |  |  |
63199 | C | Incise spinal column & cord |  |  |  |  |
63200 | C | Release of spinal cord |  |  |  |  |
63250 | C | Revise spinal cord vessels |  |  |  |  |
63251 | C | Revise spinal cord vessels |  |  |  |  |
63252 | C | Revise spinal cord vessels |  |  |  |  |
63265 | C | Excise intraspinal lesion |  |  |  |  |
63266 | C | Excise intraspinal lesion |  |  |  |  |
63267 | C | Excise intraspinal lesion |  |  |  |  |
63268 | C | Excise intraspinal lesion |  |  |  |  |
63270 | C | Excise intraspinal lesion |  |  |  |  |
63271 | C | Excise intraspinal lesion |  |  |  |  |
63272 | C | Excise intraspinal lesion |  |  |  |  |
63273 | C | Excise intraspinal lesion |  |  |  |  |
63275 | C | Biopsy/excise spinal tumor |  |  |  |  |
63276 | C | Biopsy/excise spinal tumor |  |  |  |  |
63277 | C | Biopsy/excise spinal tumor |  |  |  |  |
63278 | C | Biopsy/excise spinal tumor |  |  |  |  |
63280 | C | Biopsy/excise spinal tumor |  |  |  |  |
63281 | C | Biopsy/excise spinal tumor |  |  |  |  |
63282 | C | Biopsy/excise spinal tumor |  |  |  |  |
63283 | C | Biopsy/excise spinal tumor |  |  |  |  |
63285 | C | Biopsy/excise spinal tumor |  |  |  |  |
63286 | C | Biopsy/excise spinal tumor |  |  |  |  |
63287 | C | Biopsy/excise spinal tumor |  |  |  |  |
63290 | C | Biopsy/excise spinal tumor |  |  |  |  |
63300 | C | Removal of vertebral body |  |  |  |  |
63301 | C | Removal of vertebral body |  |  |  |  |
63302 | C | Removal of vertebral body |  |  |  |  |
63303 | C | Removal of vertebral body |  |  |  |  |
63304 | C | Removal of vertebral body |  |  |  |  |
63305 | C | Removal of vertebral body |  |  |  |  |
63306 | C | Removal of vertebral body |  |  |  |  |
63307 | C | Removal of vertebral body |  |  |  |  |
63308 | C | Remove vertebral body add-on |  |  |  |  |
63600 | T | Remove spinal cord lesion | 0220 | 13.96 | $692.36 | $326.21 | $138.47
63610 | T | Stimulation of spinal cord | 0220 | 13.96 | $692.36 | $326.21 | $138.47
63615 | T | Remove lesion of spinal cord | 0220 | 13.96 | $692.36 | $326.21 | $138.47
63650 | T | Implant neuroelectrodes | 0225 | 17.72 | $878.84 | $408.33 | $175.77
63655 | C | Implant neuroelectrodes |  |  |  |  |
63660 | T | Revise/remove neuroelectrode | 0105 | 15.06 | $746.92 | $372.32 | $149.38
63685 | T | Implant neuroreceiver | 0222 | 124.43 | $6,171.23 | $2,955.13 | $1,234.25
63688 | T | Revise/remove neuroreceiver | 0105 | 15.06 | $746.92 | $372.32 | $149.38
63700 | C | Repair of spinal herniation |  |  |  |  |
63702 | C | Repair of spinal herniation |  |  |  |  |
63704 | C | Repair of spinal herniation |  |  |  |  |
63706 | C | Repair of spinal herniation |  |  |  |  |
63707 | C | Repair spinal fluid leakage |  |  |  |  |
63709 | C | Repair spinal fluid leakage |  |  |  |  |
63710 | C | Graft repair of spine defect |  |  |  |  |
63740 | C | Install spinal shunt |  |  |  |  |
63741 | T | Install spinal shunt | 0228 | 25.06 | $1,242.88 | $696.46 | $248.58
63744 | T | Revision of spinal shunt | 0228 | 25.06 | $1,242.88 | $696.46 | $248.58
63746 | T | Removal of spinal shunt | 0109 | 6.53 | $323.86 | $133.51 | $64.77
64400 | T | Injection for nerve block | 0211 | 3.32 | $164.66 | $74.78 | $32.93
64402 | T | Injection for nerve block | 0211 | 3.32 | $164.66 | $74.78 | $32.93
64405 | T | Injection for nerve block | 0211 | 3.32 | $164.66 | $74.78 | $32.93
64408 | T | Injection for nerve block | 0211 | 3.32 | $164.66 | $74.78 | $32.93
64410 | T | Injection for nerve block | 0211 | 3.32 | $164.66 | $74.78 | $32.93
64412 | T | Injection for nerve block | 0211 | 3.32 | $164.66 | $74.78 | $32.93
64413 | T | Injection for nerve block | 0211 | 3.32 | $164.66 | $74.78 | $32.93
64415 | T | Injection for nerve block | 0211 | 3.32 | $164.66 | $74.78 | $32.93
64417 | T | Injection for nerve block | 0211 | 3.32 | $164.66 | $74.78 | $32.93
64418 | T | Injection for nerve block | 0211 | 3.32 | $164.66 | $74.78 | $32.93
64420 | T | Injection for nerve block | 0211 | 3.32 | $164.66 | $74.78 | $32.93
64421 | T | Injection for nerve block | 0211 | 3.32 | $164.66 | $74.78 | $32.93
64425 | T | Injection for nerve block | 0211 | 3.32 | $164.66 | $74.78 | $32.93
64430 | T | Injection for nerve block | 0211 | 3.32 | $164.66 | $74.78 | $32.93
64435 | T | Injection for nerve block | 0211 | 3.32 | $164.66 | $74.78 | $32.93
64445 | T | Injection for nerve block | 0211 | 3.32 | $164.66 | $74.78 | $32.93
64450 | T | Injection for nerve block | 0211 | 3.32 | $164.66 | $74.78 | $32.93
64470 | T | Inj paravertebral c/t | 0211 | 3.32 | $164.66 | $74.78 | $32.93
64472 | T | Inj paravertebral c/t add-on | 0211 | 3.32 | $164.66 | $74.78 | $32.93
64475 | T | Inj paravertebral l/s | 0211 | 3.32 | $164.66 | $74.78 | $32.93
64476 | T | Inj paravertebral l/s add-on | 0211 | 3.32 | $164.66 | $74.78 | $32.93
64479 | T | Inj foramen epidural c/t | 0211 | 3.32 | $164.66 | $74.78 | $32.93
64480 | T | Inj foramen epidural add-on | 0211 | 3.32 | $164.66 | $74.78 | $32.93
64483 | T | Inj foramen epidural l/s | 0211 | 3.32 | $164.66 | $74.78 | $32.93
64484 | T | Inj foramen epidural add-on | 0211 | 3.32 | $164.66 | $74.78 | $32.93
64505 | T | Injection for nerve block | 0211 | 3.32 | $164.66 | $74.78 | $32.93
64508 | T | Injection for nerve block | 0211 | 3.32 | $164.66 | $74.78 | $32.93
64510 | T | Injection for nerve block | 0211 | 3.32 | $164.66 | $74.78 | $32.93
64520 | T | Injection for nerve block | 0211 | 3.32 | $164.66 | $74.78 | $32.93
64530 | T | Injection for nerve block | 0211 | 3.32 | $164.66 | $74.78 | $32.93
64550 | A | Apply neurostimulator |  |  |  |  |
64553 | T | Implant neuroelectrodes | 0225 | 17.72 | $878.84 | $408.33 | $175.77
64555 | T | Implant neuroelectrodes | 0225 | 17.72 | $878.84 | $408.33 | $175.77
64560 | T | Implant neuroelectrodes | 0225 | 17.72 | $878.84 | $408.33 | $175.77
64565 | T | Implant neuroelectrodes | 0225 | 17.72 | $878.84 | $408.33 | $175.77
64573 | T | Implant neuroelectrodes | 0225 | 17.72 | $878.84 | $408.33 | $175.77
64575 | T | Implant neuroelectrodes | 0225 | 17.72 | $878.84 | $408.33 | $175.77
64577 | T | Implant neuroelectrodes | 0225 | 17.72 | $878.84 | $408.33 | $175.77
64580 | T | Implant neuroelectrodes | 0225 | 17.72 | $878.84 | $408.33 | $175.77
64585 | T | Revise/remove neuroelectrode | 0105 | 15.06 | $746.92 | $372.32 | $149.38
64590 | T | Implant neuroreceiver | 0222 | 124.43 | $6,171.23 | $2,955.13 | $1,234.25
64595 | T | Revise/remove neuroreceiver | 0105 | 15.06 | $746.92 | $372.32 | $149.38
64600 | T | Injection treatment of nerve | 0211 | 3.32 | $164.66 | $74.78 | $32.93
64605 | T | Injection treatment of nerve | 0211 | 3.32 | $164.66 | $74.78 | $32.93
64610 | T | Injection treatment of nerve | 0211 | 3.32 | $164.66 | $74.78 | $32.93
64612 | T | Destroy nerve, face muscle | 0211 | 3.32 | $164.66 | $74.78 | $32.93
64613 | T | Destroy nerve, spine muscle | 0211 | 3.32 | $164.66 | $74.78 | $32.93
*64614 | S | Desrtoy nerve, extrem musc | 0971 | 1.55 | $76.88 |  | $15.38
64620 | T | Injection treatment of nerve | 0211 | 3.32 | $164.66 | $74.78 | $32.93
64622 | T | Destr paravertebrl nerve l/s | 0211 | 3.32 | $164.66 | $74.78 | $32.93
64623 | T | Destr paravertebral n add-on | 0211 | 3.32 | $164.66 | $74.78 | $32.93
64626 | T | Destr paravertebrl nerve c/t | 0211 | 3.32 | $164.66 | $74.78 | $32.93
64627 | T | Destr paravertebral n add-on | 0211 | 3.32 | $164.66 | $74.78 | $32.93
64630 | T | Injection treatment of nerve | 0211 | 3.32 | $164.66 | $74.78 | $32.93
64640 | T | Injection treatment of nerve | 0211 | 3.32 | $164.66 | $74.78 | $32.93
64680 | T | Injection treatment of nerve | 0211 | 3.32 | $164.66 | $74.78 | $32.93
64702 | T | Revise finger/toe nerve | 0220 | 13.96 | $692.36 | $326.21 | $138.47
64704 | T | Revise hand/foot nerve | 0220 | 13.96 | $692.36 | $326.21 | $138.47
64708 | T | Revise arm/leg nerve | 0220 | 13.96 | $692.36 | $326.21 | $138.47
64712 | T | Revision of sciatic nerve | 0220 | 13.96 | $692.36 | $326.21 | $138.47
64713 | T | Revision of arm nerve(s) | 0220 | 13.96 | $692.36 | $326.21 | $138.47
64714 | T | Revise low back nerve(s) | 0220 | 13.96 | $692.36 | $326.21 | $138.47
64716 | T | Revision of cranial nerve | 0220 | 13.96 | $692.36 | $326.21 | $138.47
64718 | T | Revise ulnar nerve at elbow | 0220 | 13.96 | $692.36 | $326.21 | $138.47
64719 | T | Revise ulnar nerve at wrist | 0220 | 13.96 | $692.36 | $326.21 | $138.47
64721 | T | Carpal tunnel surgery | 0220 | 13.96 | $692.36 | $326.21 | $138.47
64722 | T | Relieve pressure on nerve(s) | 0220 | 13.96 | $692.36 | $326.21 | $138.47
64726 | T | Release foot/toe nerve | 0220 | 13.96 | $692.36 | $326.21 | $138.47
64727 | T | Internal nerve revision | 0220 | 13.96 | $692.36 | $326.21 | $138.47
64732 | T | Incision of brow nerve | 0220 | 13.96 | $692.36 | $326.21 | $138.47
64734 | T | Incision of cheek nerve | 0220 | 13.96 | $692.36 | $326.21 | $138.47
64736 | T | Incision of chin nerve | 0220 | 13.96 | $692.36 | $326.21 | $138.47
64738 | T | Incision of jaw nerve | 0220 | 13.96 | $692.36 | $326.21 | $138.47
64740 | T | Incision of tongue nerve | 0220 | 13.96 | $692.36 | $326.21 | $138.47
64742 | T | Incision of facial nerve | 0220 | 13.96 | $692.36 | $326.21 | $138.47
64744 | T | Incise nerve, back of head | 0220 | 13.96 | $692.36 | $326.21 | $138.47
64746 | T | Incise diaphragm nerve | 0220 | 13.96 | $692.36 | $326.21 | $138.47
64752 | C | Incision of vagus nerve |  |  |  |  |
64755 | C | Incision of stomach nerves |  |  |  |  |
64760 | C | Incision of vagus nerve |  |  |  |  |
64761 | T | Incision of pelvis nerve | 0220 | 13.96 | $692.36 | $326.21 | $138.47
64763 | C | Incise hip/thigh nerve |  |  |  |  |
64766 | C | Incise hip/thigh nerve |  |  |  |  |
64771 | T | Sever cranial nerve | 0220 | 13.96 | $692.36 | $326.21 | $138.47
64772 | T | Incision of spinal nerve | 0220 | 13.96 | $692.36 | $326.21 | $138.47
64774 | T | Remove skin nerve lesion | 0220 | 13.96 | $692.36 | $326.21 | $138.47
64776 | T | Remove digit nerve lesion | 0220 | 13.96 | $692.36 | $326.21 | $138.47
64778 | T | Digit nerve surgery add-on | 0220 | 13.96 | $692.36 | $326.21 | $138.47
64782 | T | Remove limb nerve lesion | 0220 | 13.96 | $692.36 | $326.21 | $138.47
64783 | T | Limb nerve surgery add-on | 0220 | 13.96 | $692.36 | $326.21 | $138.47
64784 | T | Remove nerve lesion | 0220 | 13.96 | $692.36 | $326.21 | $138.47
64786 | T | Remove sciatic nerve lesion | 0221 | 18.36 | $910.58 | $463.62 | $182.12
64787 | T | Implant nerve end | 0220 | 13.96 | $692.36 | $326.21 | $138.47
64788 | T | Remove skin nerve lesion | 0220 | 13.96 | $692.36 | $326.21 | $138.47
64790 | T | Removal of nerve lesion | 0220 | 13.96 | $692.36 | $326.21 | $138.47
64792 | T | Removal of nerve lesion | 0221 | 18.36 | $910.58 | $463.62 | $182.12
64795 | T | Biopsy of nerve | 0220 | 13.96 | $692.36 | $326.21 | $138.47
64802 | C | Remove sympathetic nerves |  |  |  |  |
64804 | C | Remove sympathetic nerves |  |  |  |  |
64809 | C | Remove sympathetic nerves |  |  |  |  |
64818 | C | Remove sympathetic nerves |  |  |  |  |
64820 | C | Remove sympathetic nerves |  |  |  |  |
64831 | T | Repair of digit nerve | 0221 | 18.36 | $910.58 | $463.62 | $182.12
64832 | T | Repair nerve add-on | 0221 | 18.36 | $910.58 | $463.62 | $182.12
64834 | T | Repair of hand or foot nerve | 0221 | 18.36 | $910.58 | $463.62 | $182.12
64835 | T | Repair of hand or foot nerve | 0221 | 18.36 | $910.58 | $463.62 | $182.12
64836 | T | Repair of hand or foot nerve | 0221 | 18.36 | $910.58 | $463.62 | $182.12
64837 | T | Repair nerve add-on | 0221 | 18.36 | $910.58 | $463.62 | $182.12
64840 | T | Repair of leg nerve | 0221 | 18.36 | $910.58 | $463.62 | $182.12
64856 | T | Repair/transpose nerve | 0221 | 18.36 | $910.58 | $463.62 | $182.12
64857 | T | Repair arm/leg nerve | 0221 | 18.36 | $910.58 | $463.62 | $182.12
64858 | T | Repair sciatic nerve | 0221 | 18.36 | $910.58 | $463.62 | $182.12
64859 | T | Nerve surgery | 0221 | 18.36 | $910.58 | $463.62 | $182.12
64861 | T | Repair of arm nerves | 0221 | 18.36 | $910.58 | $463.62 | $182.12
64862 | T | Repair of low back nerves | 0221 | 18.36 | $910.58 | $463.62 | $182.12
64864 | T | Repair of facial nerve | 0221 | 18.36 | $910.58 | $463.62 | $182.12
64865 | T | Repair of facial nerve | 0221 | 18.36 | $910.58 | $463.62 | $182.12
64866 | C | Fusion of facial/other nerve |  |  |  |  |
64868 | C | Fusion of facial/other nerve |  |  |  |  |
64870 | T | Fusion of facial/other nerve | 0221 | 18.36 | $910.58 | $463.62 | $182.12
64872 | T | Subsequent repair of nerve | 0221 | 18.36 | $910.58 | $463.62 | $182.12
64874 | T | Repair & revise nerve add-on | 0221 | 18.36 | $910.58 | $463.62 | $182.12
64876 | T | Repair nerve/shorten bone | 0221 | 18.36 | $910.58 | $463.62 | $182.12
64885 | T | Nerve graft, head or neck | 0221 | 18.36 | $910.58 | $463.62 | $182.12
64886 | T | Nerve graft, head or neck | 0221 | 18.36 | $910.58 | $463.62 | $182.12
64890 | T | Nerve graft, hand or foot | 0221 | 18.36 | $910.58 | $463.62 | $182.12
64891 | T | Nerve graft, hand or foot | 0221 | 18.36 | $910.58 | $463.62 | $182.12
64892 | T | Nerve graft, arm or leg | 0221 | 18.36 | $910.58 | $463.62 | $182.12
64893 | T | Nerve graft, arm or leg | 0221 | 18.36 | $910.58 | $463.62 | $182.12
64895 | T | Nerve graft, hand or foot | 0221 | 18.36 | $910.58 | $463.62 | $182.12
64896 | T | Nerve graft, hand or foot | 0221 | 18.36 | $910.58 | $463.62 | $182.12
64897 | T | Nerve graft, arm or leg | 0221 | 18.36 | $910.58 | $463.62 | $182.12
64898 | T | Nerve graft, arm or leg | 0221 | 18.36 | $910.58 | $463.62 | $182.12
64901 | T | Nerve graft add-on | 0221 | 18.36 | $910.58 | $463.62 | $182.12
64902 | T | Nerve graft add-on | 0221 | 18.36 | $910.58 | $463.62 | $182.12
64905 | T | Nerve pedicle transfer | 0221 | 18.36 | $910.58 | $463.62 | $182.12
64907 | T | Nerve pedicle transfer | 0221 | 18.36 | $910.58 | $463.62 | $182.12
64999 | T | Nervous system surgery | 0211 | 3.32 | $164.66 | $74.78 | $32.93
65091 | T | Revise eye | 0242 | 23.70 | $1,175.42 | $597.36 | $235.08
65093 | T | Revise eye with implant | 0241 | 16.60 | $823.30 | $384.47 | $164.66
65101 | T | Removal of eye | 0242 | 23.70 | $1,175.42 | $597.36 | $235.08
65103 | T | Remove eye/insert implant | 0242 | 23.70 | $1,175.42 | $597.36 | $235.08
65105 | T | Remove eye/attach implant | 0242 | 23.70 | $1,175.42 | $597.36 | $235.08
65110 | T | Removal of eye | 0242 | 23.70 | $1,175.42 | $597.36 | $235.08
65112 | T | Remove eye/revise socket | 0242 | 23.70 | $1,175.42 | $597.36 | $235.08
65114 | T | Remove eye/revise socket | 0242 | 23.70 | $1,175.42 | $597.36 | $235.08
65125 | T | Revise ocular implant | 0240 | 13.47 | $668.06 | $315.31 | $133.61
65130 | T | Insert ocular implant | 0241 | 16.60 | $823.30 | $384.47 | $164.66
65135 | T | Insert ocular implant | 0241 | 16.60 | $823.30 | $384.47 | $164.66
65140 | T | Attach ocular implant | 0242 | 23.70 | $1,175.42 | $597.36 | $235.08
65150 | T | Revise ocular implant | 0241 | 16.60 | $823.30 | $384.47 | $164.66
65155 | T | Reinsert ocular implant | 0242 | 23.70 | $1,175.42 | $597.36 | $235.08
65175 | T | Removal of ocular implant | 0240 | 13.47 | $668.06 | $315.31 | $133.61
65205 | S | Remove foreign body from eye | 0231 | 2.64 | $130.94 | $59.87 | $26.19
65210 | S | Remove foreign body from eye | 0231 | 2.64 | $130.94 | $59.87 | $26.19
65220 | S | Remove foreign body from eye | 0231 | 2.64 | $130.94 | $59.87 | $26.19
65222 | S | Remove foreign body from eye | 0231 | 2.64 | $130.94 | $59.87 | $26.19
65235 | T | Remove foreign body from eye | 0232 | 6.04 | $299.56 | $134.66 | $59.91
65260 | T | Remove foreign body from eye | 0237 | 33.96 | $1,684.28 | $852.68 | $336.86
65265 | T | Remove foreign body from eye | 0237 | 33.96 | $1,684.28 | $852.68 | $336.86
65270 | T | Repair of eye wound | 0240 | 13.47 | $668.06 | $315.31 | $133.61
65272 | T | Repair of eye wound | 0232 | 6.04 | $299.56 | $134.66 | $59.91
65273 | C | Repair of eye wound |  |  |  |  |
65275 | T | Repair of eye wound | 0233 | 13.79 | $683.93 | $331.60 | $136.79
65280 | T | Repair of eye wound | 0233 | 13.79 | $683.93 | $331.60 | $136.79
65285 | T | Repair of eye wound | 0234 | 20.64 | $1,023.66 | $502.16 | $204.73
65286 | T | Repair of eye wound | 0232 | 6.04 | $299.56 | $134.66 | $59.91
65290 | T | Repair of eye socket wound | 0243 | 17.99 | $892.23 | $431.39 | $178.45
65400 | T | Removal of eye lesion | 0232 | 6.04 | $299.56 | $134.66 | $59.91
65410 | T | Biopsy of cornea | 0233 | 13.79 | $683.93 | $331.60 | $136.79
65420 | T | Removal of eye lesion | 0233 | 13.79 | $683.93 | $331.60 | $136.79
65426 | T | Removal of eye lesion | 0233 | 13.79 | $683.93 | $331.60 | $136.79
65430 | S | Corneal smear | 0231 | 2.64 | $130.94 | $59.87 | $26.19
65435 | T | Curette/treat cornea | 0239 | 6.26 | $310.47 | $123.42 | $62.09
65436 | T | Curette/treat cornea | 0232 | 6.04 | $299.56 | $134.66 | $59.91
65450 | T | Treatment of corneal lesion | 0232 | 6.04 | $299.56 | $134.66 | $59.91
65600 | T | Revision of cornea | 0240 | 13.47 | $668.06 | $315.31 | $133.61
65710 | T | Corneal transplant | 0244 | 32.88 | $1,630.72 | $851.42 | $326.14
65730 | T | Corneal transplant | 0244 | 32.88 | $1,630.72 | $851.42 | $326.14
65750 | T | Corneal transplant | 0244 | 32.88 | $1,630.72 | $851.42 | $326.14
65755 | T | Corneal transplant | 0244 | 32.88 | $1,630.72 | $851.42 | $326.14
65760 | E | Revision of cornea |  |  |  |  |
65765 | E | Revision of cornea |  |  |  |  |
65767 | E | Corneal tissue transplant |  |  |  |  |
65770 | T | Revise cornea with implant | 0244 | 32.88 | $1,630.72 | $851.42 | $326.14
65771 | E | Radial keratotomy |  |  |  |  |
65772 | T | Correction of astigmatism | 0232 | 6.04 | $299.56 | $134.66 | $59.91
65775 | T | Correction of astigmatism | 0233 | 13.79 | $683.93 | $331.60 | $136.79
65800 | T | Drainage of eye | 0232 | 6.04 | $299.56 | $134.66 | $59.91
65805 | T | Drainage of eye | 0233 | 13.79 | $683.93 | $331.60 | $136.79
65810 | T | Drainage of eye | 0233 | 13.79 | $683.93 | $331.60 | $136.79
65815 | T | Drainage of eye | 0233 | 13.79 | $683.93 | $331.60 | $136.79
65820 | T | Relieve inner eye pressure | 0232 | 6.04 | $299.56 | $134.66 | $59.91
65850 | T | Incision of eye | 0234 | 20.64 | $1,023.66 | $502.16 | $204.73
65855 | T | Laser surgery of eye | 0247 | 4.89 | $242.52 | $112.86 | $48.50
65860 | T | Incise inner eye adhesions | 0247 | 4.89 | $242.52 | $112.86 | $48.50
65865 | T | Incise inner eye adhesions | 0233 | 13.79 | $683.93 | $331.60 | $136.79
65870 | T | Incise inner eye adhesions | 0233 | 13.79 | $683.93 | $331.60 | $136.79
65875 | T | Incise inner eye adhesions | 0233 | 13.79 | $683.93 | $331.60 | $136.79
65880 | T | Incise inner eye adhesions | 0232 | 6.04 | $299.56 | $134.66 | $59.91
65900 | T | Remove eye lesion | 0232 | 6.04 | $299.56 | $134.66 | $59.91
65920 | T | Remove implant from eye | 0233 | 13.79 | $683.93 | $331.60 | $136.79
65930 | T | Remove blood clot from eye | 0233 | 13.79 | $683.93 | $331.60 | $136.79
66020 | T | Injection treatment of eye | 0232 | 6.04 | $299.56 | $134.66 | $59.91
66030 | T | Injection treatment of eye | 0232 | 6.04 | $299.56 | $134.66 | $59.91
66130 | T | Remove eye lesion | 0233 | 13.79 | $683.93 | $331.60 | $136.79
66150 | T | Glaucoma surgery | 0233 | 13.79 | $683.93 | $331.60 | $136.79
66155 | T | Glaucoma surgery | 0234 | 20.64 | $1,023.66 | $502.16 | $204.73
66160 | T | Glaucoma surgery | 0234 | 20.64 | $1,023.66 | $502.16 | $204.73
66165 | T | Glaucoma surgery | 0234 | 20.64 | $1,023.66 | $502.16 | $204.73
66170 | T | Glaucoma surgery | 0234 | 20.64 | $1,023.66 | $502.16 | $204.73
66172 | T | Incision of eye | 0234 | 20.64 | $1,023.66 | $502.16 | $204.73
66180 | T | Implant eye shunt | 0234 | 20.64 | $1,023.66 | $502.16 | $204.73
66185 | T | Revise eye shunt | 0234 | 20.64 | $1,023.66 | $502.16 | $204.73
66220 | T | Repair eye lesion | 0236 | 6.70 | $332.29 | $147.96 | $66.46
66225 | T | Repair/graft eye lesion | 0234 | 20.64 | $1,023.66 | $502.16 | $204.73
66250 | T | Follow-up surgery of eye | 0233 | 13.79 | $683.93 | $331.60 | $136.79
66500 | T | Incision of iris | 0232 | 6.04 | $299.56 | $134.66 | $59.91
66505 | T | Incision of iris | 0232 | 6.04 | $299.56 | $134.66 | $59.91
66600 | T | Remove iris and lesion | 0233 | 13.79 | $683.93 | $331.60 | $136.79
66605 | T | Removal of iris | 0233 | 13.79 | $683.93 | $331.60 | $136.79
66625 | T | Removal of iris | 0232 | 6.04 | $299.56 | $134.66 | $59.91
66630 | T | Removal of iris | 0233 | 13.79 | $683.93 | $331.60 | $136.79
66635 | T | Removal of iris | 0233 | 13.79 | $683.93 | $331.60 | $136.79
66680 | T | Repair iris & ciliary body | 0233 | 13.79 | $683.93 | $331.60 | $136.79
66682 | T | Repair iris & ciliary body | 0233 | 13.79 | $683.93 | $331.60 | $136.79
66700 | T | Destruction, ciliary body | 0232 | 6.04 | $299.56 | $134.66 | $59.91
66710 | T | Destruction, ciliary body | 0232 | 6.04 | $299.56 | $134.66 | $59.91
66720 | T | Destruction, ciliary body | 0232 | 6.04 | $299.56 | $134.66 | $59.91
66740 | T | Destruction, ciliary body | 0233 | 13.79 | $683.93 | $331.60 | $136.79
66761 | T | Revision of iris | 0247 | 4.89 | $242.52 | $112.86 | $48.50
66762 | T | Revision of iris | 0247 | 4.89 | $242.52 | $112.86 | $48.50
66770 | T | Removal of inner eye lesion | 0247 | 4.89 | $242.52 | $112.86 | $48.50
66820 | T | Incision, secondary cataract | 0232 | 6.04 | $299.56 | $134.66 | $59.91
66821 | T | After cataract laser surgery | 0247 | 4.89 | $242.52 | $112.86 | $48.50
66825 | T | Reposition intraocular lens | 0233 | 13.79 | $683.93 | $331.60 | $136.79
66830 | T | Removal of lens lesion | 0232 | 6.04 | $299.56 | $134.66 | $59.91
66840 | T | Removal of lens material | 0245 | 26.55 | $1,316.77 | $623.85 | $263.35
66850 | T | Removal of lens material | 0245 | 26.55 | $1,316.77 | $623.85 | $263.35
66852 | T | Removal of lens material | 0245 | 26.55 | $1,316.77 | $623.85 | $263.35
66920 | T | Extraction of lens | 0245 | 26.55 | $1,316.77 | $623.85 | $263.35
66930 | T | Extraction of lens | 0245 | 26.55 | $1,316.77 | $623.85 | $263.35
66940 | T | Extraction of lens | 0245 | 26.55 | $1,316.77 | $623.85 | $263.35
*66982 | T | Cataract surgery, complex | 0246 | 26.55 | $1,316.77 | $623.85 | $263.35
66983 | T | Remove cataract/insert lens | 0246 | 26.55 | $1,316.77 | $623.85 | $263.35
66984 | T | Remove cataract/insert lens | 0246 | 26.55 | $1,316.77 | $623.85 | $263.35
66985 | T | Insert lens prosthesis | 0246 | 26.55 | $1,316.77 | $623.85 | $263.35
66986 | T | Exchange lens prosthesis | 0246 | 26.55 | $1,316.77 | $623.85 | $263.35
66999 | T | Eye surgery procedure | 0247 | 4.89 | $242.52 | $112.86 | $48.50
67005 | T | Partial removal of eye fluid | 0237 | 33.96 | $1,684.28 | $852.68 | $336.86
67010 | T | Partial removal of eye fluid | 0237 | 33.96 | $1,684.28 | $852.68 | $336.86
67015 | T | Release of eye fluid | 0237 | 33.96 | $1,684.28 | $852.68 | $336.86
67025 | T | Replace eye fluid | 0237 | 33.96 | $1,684.28 | $852.68 | $336.86
67027 | T | Implant eye drug system | 0237 | 33.96 | $1,684.28 | $852.68 | $336.86
67028 | T | Injection eye drug | 0236 | 6.70 | $332.29 | $147.96 | $66.46
67030 | T | Incise inner eye strands | 0236 | 6.70 | $332.29 | $147.96 | $66.46
67031 | T | Laser surgery, eye strands | 0247 | 4.89 | $242.52 | $112.86 | $48.50
67036 | T | Removal of inner eye fluid | 0237 | 33.96 | $1,684.28 | $852.68 | $336.86
67038 | T | Strip retinal membrane | 0237 | 33.96 | $1,684.28 | $852.68 | $336.86
67039 | T | Laser treatment of retina | 0237 | 33.96 | $1,684.28 | $852.68 | $336.86
67040 | T | Laser treatment of retina | 0237 | 33.96 | $1,684.28 | $852.68 | $336.86
67101 | T | Repair detached retina | 0236 | 6.70 | $332.29 | $147.96 | $66.46
67105 | T | Repair detached retina | 0248 | 4.19 | $207.81 | $94.05 | $41.56
67107 | T | Repair detached retina | 0237 | 33.96 | $1,684.28 | $852.68 | $336.86
67108 | T | Repair detached retina | 0237 | 33.96 | $1,684.28 | $852.68 | $336.86
67110 | T | Repair detached retina | 0236 | 6.70 | $332.29 | $147.96 | $66.46
67112 | T | Rerepair detached retina | 0237 | 33.96 | $1,684.28 | $852.68 | $336.86
67115 | T | Release encircling material | 0236 | 6.70 | $332.29 | $147.96 | $66.46
67120 | T | Remove eye implant material | 0236 | 6.70 | $332.29 | $147.96 | $66.46
67121 | T | Remove eye implant material | 0237 | 33.96 | $1,684.28 | $852.68 | $336.86
67141 | T | Treatment of retina | 0235 | 2.94 | $145.81 | $78.91 | $29.16
67145 | T | Treatment of retina | 0248 | 4.19 | $207.81 | $94.05 | $41.56
67208 | T | Treatment of retinal lesion | 0235 | 2.94 | $145.81 | $78.91 | $29.16
67210 | T | Treatment of retinal lesion | 0248 | 4.19 | $207.81 | $94.05 | $41.56
67218 | T | Treatment of retinal lesion | 0237 | 33.96 | $1,684.28 | $852.68 | $336.86
67220 | T | Treatment of choroid lesion | 0237 | 33.96 | $1,684.28 | $852.68 | $336.86
*67221 | T | Treatment of choroid lesion | 0235 | 2.94 | $145.81 | $78.91 | $29.16
67227 | T | Treatment of retinal lesion | 0235 | 2.94 | $145.81 | $78.91 | $29.16
67228 | T | Treatment of retinal lesion | 0248 | 4.19 | $207.81 | $94.05 | $41.56
67250 | T | Reinforce eye wall | 0240 | 13.47 | $668.06 | $315.31 | $133.61
67255 | T | Reinforce/graft eye wall | 0237 | 33.96 | $1,684.28 | $852.68 | $336.86
67299 | T | Eye surgery procedure | 0248 | 4.19 | $207.81 | $94.05 | $41.56
67311 | T | Revise eye muscle | 0243 | 17.99 | $892.23 | $431.39 | $178.45
67312 | T | Revise two eye muscles | 0243 | 17.99 | $892.23 | $431.39 | $178.45
67314 | T | Revise eye muscle | 0243 | 17.99 | $892.23 | $431.39 | $178.45
67316 | T | Revise two eye muscles | 0243 | 17.99 | $892.23 | $431.39 | $178.45
67318 | T | Revise eye muscle(s) | 0243 | 17.99 | $892.23 | $431.39 | $178.45
67320 | T | Revise eye muscle(s) add-on | 0243 | 17.99 | $892.23 | $431.39 | $178.45
67331 | T | Eye surgery follow-up add-on | 0243 | 17.99 | $892.23 | $431.39 | $178.45
67332 | T | Rerevise eye muscles add-on | 0243 | 17.99 | $892.23 | $431.39 | $178.45
67334 | T | Revise eye muscle w/suture | 0243 | 17.99 | $892.23 | $431.39 | $178.45
67335 | T | Eye suture during surgery | 0243 | 17.99 | $892.23 | $431.39 | $178.45
67340 | T | Revise eye muscle add-on | 0243 | 17.99 | $892.23 | $431.39 | $178.45
67343 | T | Release eye tissue | 0243 | 17.99 | $892.23 | $431.39 | $178.45
67345 | T | Destroy nerve of eye muscle | 0238 | 2.80 | $138.87 | $58.96 | $27.77
67350 | S | Biopsy eye muscle | 0231 | 2.64 | $130.94 | $59.87 | $26.19
67399 | T | Eye muscle surgery procedure | 0243 | 17.99 | $892.23 | $431.39 | $178.45
67400 | T | Explore/biopsy eye socket | 0241 | 16.60 | $823.30 | $384.47 | $164.66
67405 | T | Explore/drain eye socket | 0241 | 16.60 | $823.30 | $384.47 | $164.66
67412 | T | Explore/treat eye socket | 0241 | 16.60 | $823.30 | $384.47 | $164.66
67413 | T | Explore/treat eye socket | 0241 | 16.60 | $823.30 | $384.47 | $164.66
67414 | T | Explr/decompress eye socket | 0242 | 23.70 | $1,175.42 | $597.36 | $235.08
67415 | T | Aspiration, orbital contents | 0239 | 6.26 | $310.47 | $123.42 | $62.09
67420 | T | Explore/treat eye socket | 0242 | 23.70 | $1,175.42 | $597.36 | $235.08
67430 | T | Explore/treat eye socket | 0242 | 23.70 | $1,175.42 | $597.36 | $235.08
67440 | T | Explore/drain eye socket | 0242 | 23.70 | $1,175.42 | $597.36 | $235.08
67445 | T | Explr/decompress eye socket | 0242 | 23.70 | $1,175.42 | $597.36 | $235.08
67450 | T | Explore/biopsy eye socket | 0242 | 23.70 | $1,175.42 | $597.36 | $235.08
67500 | S | Inject/treat eye socket | 0231 | 2.64 | $130.94 | $59.87 | $26.19
67505 | T | Inject/treat eye socket | 0238 | 2.80 | $138.87 | $58.96 | $27.77
67515 | T | Inject/treat eye socket | 0239 | 6.26 | $310.47 | $123.42 | $62.09
67550 | T | Insert eye socket implant | 0242 | 23.70 | $1,175.42 | $597.36 | $235.08
67560 | T | Revise eye socket implant | 0241 | 16.60 | $823.30 | $384.47 | $164.66
67570 | T | Decompress optic nerve | 0242 | 23.70 | $1,175.42 | $597.36 | $235.08
67599 | T | Orbit surgery procedure | 0239 | 6.26 | $310.47 | $123.42 | $62.09
67700 | T | Drainage of eyelid abscess | 0238 | 2.80 | $138.87 | $58.96 | $27.77
67710 | T | Incision of eyelid | 0239 | 6.26 | $310.47 | $123.42 | $62.09
67715 | T | Incision of eyelid fold | 0240 | 13.47 | $668.06 | $315.31 | $133.61
67800 | T | Remove eyelid lesion | 0238 | 2.80 | $138.87 | $58.96 | $27.77
67801 | T | Remove eyelid lesions | 0239 | 6.26 | $310.47 | $123.42 | $62.09
67805 | T | Remove eyelid lesions | 0238 | 2.80 | $138.87 | $58.96 | $27.77
67808 | T | Remove eyelid lesion(s) | 0240 | 13.47 | $668.06 | $315.31 | $133.61
67810 | T | Biopsy of eyelid | 0238 | 2.80 | $138.87 | $58.96 | $27.77
67820 | T | Revise eyelashes | 0238 | 2.80 | $138.87 | $58.96 | $27.77
67825 | T | Revise eyelashes | 0238 | 2.80 | $138.87 | $58.96 | $27.77
67830 | T | Revise eyelashes | 0239 | 6.26 | $310.47 | $123.42 | $62.09
67835 | T | Revise eyelashes | 0240 | 13.47 | $668.06 | $315.31 | $133.61
67840 | T | Remove eyelid lesion | 0239 | 6.26 | $310.47 | $123.42 | $62.09
67850 | T | Treat eyelid lesion | 0239 | 6.26 | $310.47 | $123.42 | $62.09
67875 | T | Closure of eyelid by suture | 0239 | 6.26 | $310.47 | $123.42 | $62.09
67880 | T | Revision of eyelid | 0232 | 6.04 | $299.56 | $134.66 | $59.91
67882 | T | Revision of eyelid | 0240 | 13.47 | $668.06 | $315.31 | $133.61
67900 | T | Repair brow defect | 0240 | 13.47 | $668.06 | $315.31 | $133.61
67901 | T | Repair eyelid defect | 0240 | 13.47 | $668.06 | $315.31 | $133.61
67902 | T | Repair eyelid defect | 0240 | 13.47 | $668.06 | $315.31 | $133.61
67903 | T | Repair eyelid defect | 0240 | 13.47 | $668.06 | $315.31 | $133.61
67904 | T | Repair eyelid defect | 0240 | 13.47 | $668.06 | $315.31 | $133.61
67906 | T | Repair eyelid defect | 0240 | 13.47 | $668.06 | $315.31 | $133.61
67908 | T | Repair eyelid defect | 0240 | 13.47 | $668.06 | $315.31 | $133.61
67909 | T | Revise eyelid defect | 0240 | 13.47 | $668.06 | $315.31 | $133.61
67911 | T | Revise eyelid defect | 0240 | 13.47 | $668.06 | $315.31 | $133.61
67914 | T | Repair eyelid defect | 0240 | 13.47 | $668.06 | $315.31 | $133.61
67915 | T | Repair eyelid defect | 0239 | 6.26 | $310.47 | $123.42 | $62.09
67916 | T | Repair eyelid defect | 0240 | 13.47 | $668.06 | $315.31 | $133.61
67917 | T | Repair eyelid defect | 0240 | 13.47 | $668.06 | $315.31 | $133.61
67921 | T | Repair eyelid defect | 0240 | 13.47 | $668.06 | $315.31 | $133.61
67922 | T | Repair eyelid defect | 0239 | 6.26 | $310.47 | $123.42 | $62.09
67923 | T | Repair eyelid defect | 0240 | 13.47 | $668.06 | $315.31 | $133.61
67924 | T | Repair eyelid defect | 0240 | 13.47 | $668.06 | $315.31 | $133.61
67930 | T | Repair eyelid wound | 0240 | 13.47 | $668.06 | $315.31 | $133.61
67935 | T | Repair eyelid wound | 0240 | 13.47 | $668.06 | $315.31 | $133.61
67938 | T | Remove eyelid foreign body | 0238 | 2.80 | $138.87 | $58.96 | $27.77
67950 | T | Revision of eyelid | 0240 | 13.47 | $668.06 | $315.31 | $133.61
67961 | T | Revision of eyelid | 0240 | 13.47 | $668.06 | $315.31 | $133.61
67966 | T | Revision of eyelid | 0240 | 13.47 | $668.06 | $315.31 | $133.61
67971 | T | Reconstruction of eyelid | 0241 | 16.60 | $823.30 | $384.47 | $164.66
67973 | T | Reconstruction of eyelid | 0241 | 16.60 | $823.30 | $384.47 | $164.66
67974 | T | Reconstruction of eyelid | 0241 | 16.60 | $823.30 | $384.47 | $164.66
67975 | T | Reconstruction of eyelid | 0240 | 13.47 | $668.06 | $315.31 | $133.61
67999 | T | Revision of eyelid | 0240 | 13.47 | $668.06 | $315.31 | $133.61
68020 | T | Incise/drain eyelid lining | 0240 | 13.47 | $668.06 | $315.31 | $133.61
68040 | T | Treatment of eyelid lesions | 0239 | 6.26 | $310.47 | $123.42 | $62.09
68100 | T | Biopsy of eyelid lining | 0232 | 6.04 | $299.56 | $134.66 | $59.91
68110 | S | Remove eyelid lining lesion | 0231 | 2.64 | $130.94 | $59.87 | $26.19
68115 | T | Remove eyelid lining lesion | 0239 | 6.26 | $310.47 | $123.42 | $62.09
68130 | T | Remove eyelid lining lesion | 0233 | 13.79 | $683.93 | $331.60 | $136.79
68135 | T | Remove eyelid lining lesion | 0239 | 6.26 | $310.47 | $123.42 | $62.09
68200 | S | Treat eyelid by injection | 0230 | 0.98 | $48.61 | $22.48 | $9.72
68320 | T | Revise/graft eyelid lining | 0240 | 13.47 | $668.06 | $315.31 | $133.61
68325 | T | Revise/graft eyelid lining | 0242 | 23.70 | $1,175.42 | $597.36 | $235.08
68326 | T | Revise/graft eyelid lining | 0241 | 16.60 | $823.30 | $384.47 | $164.66
68328 | T | Revise/graft eyelid lining | 0241 | 16.60 | $823.30 | $384.47 | $164.66
68330 | T | Revise eyelid lining | 0233 | 13.79 | $683.93 | $331.60 | $136.79
68335 | T | Revise/graft eyelid lining | 0241 | 16.60 | $823.30 | $384.47 | $164.66
68340 | T | Separate eyelid adhesions | 0240 | 13.47 | $668.06 | $315.31 | $133.61
68360 | T | Revise eyelid lining | 0234 | 20.64 | $1,023.66 | $502.16 | $204.73
68362 | T | Revise eyelid lining | 0234 | 20.64 | $1,023.66 | $502.16 | $204.73
68399 | T | Eyelid lining surgery | 0239 | 6.26 | $310.47 | $123.42 | $62.09
68400 | T | Incise/drain tear gland | 0238 | 2.80 | $138.87 | $58.96 | $27.77
68420 | T | Incise/drain tear sac | 0240 | 13.47 | $668.06 | $315.31 | $133.61
68440 | T | Incise tear duct opening | 0238 | 2.80 | $138.87 | $58.96 | $27.77
68500 | T | Removal of tear gland | 0241 | 16.60 | $823.30 | $384.47 | $164.66
68505 | T | Partial removal, tear gland | 0241 | 16.60 | $823.30 | $384.47 | $164.66
68510 | T | Biopsy of tear gland | 0240 | 13.47 | $668.06 | $315.31 | $133.61
68520 | T | Removal of tear sac | 0241 | 16.60 | $823.30 | $384.47 | $164.66
68525 | T | Biopsy of tear sac | 0240 | 13.47 | $668.06 | $315.31 | $133.61
68530 | T | Clearance of tear duct | 0240 | 13.47 | $668.06 | $315.31 | $133.61
68540 | T | Remove tear gland lesion | 0241 | 16.60 | $823.30 | $384.47 | $164.66
68550 | T | Remove tear gland lesion | 0242 | 23.70 | $1,175.42 | $597.36 | $235.08
68700 | T | Repair tear ducts | 0241 | 16.60 | $823.30 | $384.47 | $164.66
68705 | T | Revise tear duct opening | 0238 | 2.80 | $138.87 | $58.96 | $27.77
68720 | T | Create tear sac drain | 0242 | 23.70 | $1,175.42 | $597.36 | $235.08
68745 | T | Create tear duct drain | 0241 | 16.60 | $823.30 | $384.47 | $164.66
68750 | T | Create tear duct drain | 0242 | 23.70 | $1,175.42 | $597.36 | $235.08
68760 | T | Close tear duct opening | 0238 | 2.80 | $138.87 | $58.96 | $27.77
68761 | S | Close tear duct opening | 0231 | 2.64 | $130.94 | $59.87 | $26.19
68770 | T | Close tear system fistula | 0240 | 13.47 | $668.06 | $315.31 | $133.61
68801 | S | Dilate tear duct opening | 0231 | 2.64 | $130.94 | $59.87 | $26.19
68810 | S | Probe nasolacrimal duct | 0231 | 2.64 | $130.94 | $59.87 | $26.19
68811 | T | Probe nasolacrimal duct | 0240 | 13.47 | $668.06 | $315.31 | $133.61
68815 | T | Probe nasolacrimal duct | 0240 | 13.47 | $668.06 | $315.31 | $133.61
68840 | S | Explore/irrigate tear ducts | 0231 | 2.64 | $130.94 | $59.87 | $26.19
68850 | N | Injection for tear sac x-ray |  |  |  |  |
68899 | S | Tear duct system surgery | 0231 | 2.64 | $130.94 | $59.87 | $26.19
69000 | T | Drain external ear lesion | 0006 | 2.00 | $99.19 | $33.95 | $19.84
69005 | T | Drain external ear lesion | 0007 | 3.68 | $182.51 | $72.03 | $36.50
69020 | T | Drain outer ear canal lesion | 0006 | 2.00 | $99.19 | $33.95 | $19.84
69090 | E | Pierce earlobes |  |  |  |  |
69100 | T | Biopsy of external ear | 0019 | 4.00 | $198.39 | $78.91 | $39.68
69105 | T | Biopsy of external ear canal | 0253 | 12.02 | $596.14 | $284.00 | $119.23
69110 | T | Remove external ear, partial | 0020 | 6.51 | $322.87 | $130.53 | $64.57
69120 | T | Removal of external ear | 0253 | 12.02 | $596.14 | $284.00 | $119.23
69140 | T | Remove ear canal lesion(s) | 0254 | 12.45 | $617.47 | $272.41 | $123.49
69145 | T | Remove ear canal lesion(s) | 0020 | 6.51 | $322.87 | $130.53 | $64.57
69150 | C | Extensive ear canal surgery |  |  |  |  |
69155 | C | Extensive ear/neck surgery |  |  |  |  |
69200 | X | Clear outer ear canal | 0340 | 1.04 | $51.58 | $12.85 | $10.32
69205 | T | Clear outer ear canal | 0022 | 12.49 | $619.45 | $292.94 | $123.89
69210 | X | Remove impacted ear wax | 0340 | 1.04 | $51.58 | $12.85 | $10.32
69220 | T | Clean out mastoid cavity | 0012 | 0.53 | $26.29 | $9.18 | $5.26
69222 | T | Clean out mastoid cavity | 0253 | 12.02 | $596.14 | $284.00 | $119.23
69300 | T | Revise external ear | 0254 | 12.45 | $617.47 | $272.41 | $123.49
69310 | T | Rebuild outer ear canal | 0256 | 25.40 | $1,259.74 | $623.05 | $251.95
69320 | T | Rebuild outer ear canal | 0256 | 25.40 | $1,259.74 | $623.05 | $251.95
69399 | T | Outer ear surgery procedure | 0252 | 5.18 | $256.90 | $114.24 | $51.38
69400 | T | Inflate middle ear canal | 0251 | 1.68 | $83.32 | $27.99 | $16.66
69401 | N | Inflate middle ear canal |  |  |  |  |
69405 | T | Catheterize middle ear canal | 0252 | 5.18 | $256.90 | $114.24 | $51.38
69410 | T | Inset middle ear (baffle) | 0252 | 5.18 | $256.90 | $114.24 | $51.38
69420 | T | Incision of eardrum | 0252 | 5.18 | $256.90 | $114.24 | $51.38
69421 | T | Incision of eardrum | 0253 | 12.02 | $596.14 | $284.00 | $119.23
69424 | T | Remove ventilating tube | 0252 | 5.18 | $256.90 | $114.24 | $51.38
69433 | T | Create eardrum opening | 0252 | 5.18 | $256.90 | $114.24 | $51.38
69436 | T | Create eardrum opening | 0253 | 12.02 | $596.14 | $284.00 | $119.23
69440 | T | Exploration of middle ear | 0253 | 12.02 | $596.14 | $284.00 | $119.23
69450 | T | Eardrum revision | 0256 | 25.40 | $1,259.74 | $623.05 | $251.95
69501 | T | Mastoidectomy | 0256 | 25.40 | $1,259.74 | $623.05 | $251.95
69502 | C | Mastoidectomy |  |  |  |  |
69505 | T | Remove mastoid structures | 0256 | 25.40 | $1,259.74 | $623.05 | $251.95
69511 | T | Extensive mastoid surgery | 0256 | 25.40 | $1,259.74 | $623.05 | $251.95
69530 | T | Extensive mastoid surgery | 0256 | 25.40 | $1,259.74 | $623.05 | $251.95
69535 | C | Remove part of temporal bone |  |  |  |  |
69540 | T | Remove ear lesion | 0253 | 12.02 | $596.14 | $284.00 | $119.23
69550 | T | Remove ear lesion | 0256 | 25.40 | $1,259.74 | $623.05 | $251.95
69552 | T | Remove ear lesion | 0256 | 25.40 | $1,259.74 | $623.05 | $251.95
69554 | C | Remove ear lesion |  |  |  |  |
69601 | T | Mastoid surgery revision | 0256 | 25.40 | $1,259.74 | $623.05 | $251.95
69602 | T | Mastoid surgery revision | 0256 | 25.40 | $1,259.74 | $623.05 | $251.95
69603 | T | Mastoid surgery revision | 0256 | 25.40 | $1,259.74 | $623.05 | $251.95
69604 | T | Mastoid surgery revision | 0256 | 25.40 | $1,259.74 | $623.05 | $251.95
69605 | T | Mastoid surgery revision | 0256 | 25.40 | $1,259.74 | $623.05 | $251.95
69610 | T | Repair of eardrum | 0253 | 12.02 | $596.14 | $284.00 | $119.23
69620 | T | Repair of eardrum | 0253 | 12.02 | $596.14 | $284.00 | $119.23
69631 | T | Repair eardrum structures | 0256 | 25.40 | $1,259.74 | $623.05 | $251.95
69632 | T | Rebuild eardrum structures | 0256 | 25.40 | $1,259.74 | $623.05 | $251.95
69633 | T | Rebuild eardrum structures | 0256 | 25.40 | $1,259.74 | $623.05 | $251.95
69635 | T | Repair eardrum structures | 0256 | 25.40 | $1,259.74 | $623.05 | $251.95
69636 | T | Rebuild eardrum structures | 0256 | 25.40 | $1,259.74 | $623.05 | $251.95
69637 | T | Rebuild eardrum structures | 0256 | 25.40 | $1,259.74 | $623.05 | $251.95
69641 | T | Revise middle ear & mastoid | 0256 | 25.40 | $1,259.74 | $623.05 | $251.95
69642 | T | Revise middle ear & mastoid | 0256 | 25.40 | $1,259.74 | $623.05 | $251.95
69643 | T | Revise middle ear & mastoid | 0256 | 25.40 | $1,259.74 | $623.05 | $251.95
69644 | T | Revise middle ear & mastoid | 0256 | 25.40 | $1,259.74 | $623.05 | $251.95
69645 | T | Revise middle ear & mastoid | 0256 | 25.40 | $1,259.74 | $623.05 | $251.95
69646 | T | Revise middle ear & mastoid | 0256 | 25.40 | $1,259.74 | $623.05 | $251.95
69650 | T | Release middle ear bone | 0254 | 12.45 | $617.47 | $272.41 | $123.49
69660 | T | Revise middle ear bone | 0256 | 25.40 | $1,259.74 | $623.05 | $251.95
69661 | T | Revise middle ear bone | 0256 | 25.40 | $1,259.74 | $623.05 | $251.95
69662 | T | Revise middle ear bone | 0256 | 25.40 | $1,259.74 | $623.05 | $251.95
69666 | T | Repair middle ear structures | 0256 | 25.40 | $1,259.74 | $623.05 | $251.95
69667 | T | Repair middle ear structures | 0256 | 25.40 | $1,259.74 | $623.05 | $251.95
69670 | T | Remove mastoid air cells | 0256 | 25.40 | $1,259.74 | $623.05 | $251.95
69676 | T | Remove middle ear nerve | 0256 | 25.40 | $1,259.74 | $623.05 | $251.95
69700 | T | Close mastoid fistula | 0256 | 25.40 | $1,259.74 | $623.05 | $251.95
69710 | E | Implant/replace hearing aid |  |  |  |  |
69711 | T | Remove/repair hearing aid | 0256 | 25.40 | $1,259.74 | $623.05 | $251.95
*69714 | T | Implant temple bone w/stimul | 0256 | 25.40 | $1,259.74 | $623.05 | $251.95
*69715 | T | Temple bne implnt w/stimulat | 0256 | 25.40 | $1,259.74 | $623.05 | $251.95
*69717 | T | Temple bone implant revision | 0256 | 25.40 | $1,259.74 | $623.05 | $251.95
*69718 | T | Revise temple bone implant | 0256 | 25.40 | $1,259.74 | $623.05 | $251.95
69720 | T | Release facial nerve | 0256 | 25.40 | $1,259.74 | $623.05 | $251.95
69725 | T | Release facial nerve | 0256 | 25.40 | $1,259.74 | $623.05 | $251.95
69740 | T | Repair facial nerve | 0256 | 25.40 | $1,259.74 | $623.05 | $251.95
69745 | T | Repair facial nerve | 0256 | 25.40 | $1,259.74 | $623.05 | $251.95
69799 | T | Middle ear surgery procedure | 0253 | 12.02 | $596.14 | $284.00 | $119.23
69801 | T | Incise inner ear | 0256 | 25.40 | $1,259.74 | $623.05 | $251.95
69802 | T | Incise inner ear | 0256 | 25.40 | $1,259.74 | $623.05 | $251.95
69805 | T | Explore inner ear | 0256 | 25.40 | $1,259.74 | $623.05 | $251.95
69806 | T | Explore inner ear | 0256 | 25.40 | $1,259.74 | $623.05 | $251.95
69820 | T | Establish inner ear window | 0256 | 25.40 | $1,259.74 | $623.05 | $251.95
69840 | T | Revise inner ear window | 0256 | 25.40 | $1,259.74 | $623.05 | $251.95
69905 | T | Remove inner ear | 0256 | 25.40 | $1,259.74 | $623.05 | $251.95
69910 | T | Remove inner ear & mastoid | 0256 | 25.40 | $1,259.74 | $623.05 | $251.95
69915 | T | Incise inner ear nerve | 0256 | 25.40 | $1,259.74 | $623.05 | $251.95
69930 | T | Implant cochlear device | 0256 | 25.40 | $1,259.74 | $623.05 | $251.95
69949 | T | Inner ear surgery procedure | 0253 | 12.02 | $596.14 | $284.00 | $119.23
69950 | C | Incise inner ear nerve |  |  |  |  |
69955 | T | Release facial nerve | 0256 | 25.40 | $1,259.74 | $623.05 | $251.95
69960 | T | Release inner ear canal | 0256 | 25.40 | $1,259.74 | $623.05 | $251.95
69970 | C | Remove inner ear lesion |  |  |  |  |
69979 | T | Temporal bone surgery | 0252 | 5.18 | $256.90 | $114.24 | $51.38
69990 | N | Microsurgery add-on |  |  |  |  |
70010 | S | Contrast x-ray of brain | 0274 | 4.83 | $239.55 | $128.12 | $47.91
70015 | S | Contrast x-ray of brain | 0274 | 4.83 | $239.55 | $128.12 | $47.91
70030 | X | X-ray eye for foreign body | 0260 | 0.79 | $39.18 | $22.02 | $7.84
70100 | X | X-ray exam of jaw | 0260 | 0.79 | $39.18 | $22.02 | $7.84
70110 | X | X-ray exam of jaw | 0260 | 0.79 | $39.18 | $22.02 | $7.84
70120 | X | X-ray exam of mastoids | 0260 | 0.79 | $39.18 | $22.02 | $7.84
70130 | X | X-ray exam of mastoids | 0260 | 0.79 | $39.18 | $22.02 | $7.84
70134 | X | X-ray exam of middle ear | 0261 | 1.38 | $68.44 | $38.77 | $13.69
70140 | X | X-ray exam of facial bones | 0260 | 0.79 | $39.18 | $22.02 | $7.84
70150 | X | X-ray exam of facial bones | 0260 | 0.79 | $39.18 | $22.02 | $7.84
70160 | X | X-ray exam of nasal bones | 0260 | 0.79 | $39.18 | $22.02 | $7.84
70170 | X | X-ray exam of tear duct | 0263 | 1.68 | $83.32 | $45.88 | $16.66
70190 | X | X-ray exam of eye sockets | 0260 | 0.79 | $39.18 | $22.02 | $7.84
70200 | X | X-ray exam of eye sockets | 0260 | 0.79 | $39.18 | $22.02 | $7.84
70210 | X | X-ray exam of sinuses | 0260 | 0.79 | $39.18 | $22.02 | $7.84
70220 | X | X-ray exam of sinuses | 0260 | 0.79 | $39.18 | $22.02 | $7.84
70240 | X | X-ray exam, pituitary saddle | 0260 | 0.79 | $39.18 | $22.02 | $7.84
70250 | X | X-ray exam of skull | 0260 | 0.79 | $39.18 | $22.02 | $7.84
70260 | X | X-ray exam of skull | 0261 | 1.38 | $68.44 | $38.77 | $13.69
70300 | X | X-ray exam of teeth | 0262 | 0.40 | $19.83 | $10.90 | $3.97
70310 | X | X-ray exam of teeth | 0262 | 0.40 | $19.83 | $10.90 | $3.97
70320 | X | Full mouth x-ray of teeth | 0262 | 0.40 | $19.83 | $10.90 | $3.97
70328 | X | X-ray exam of jaw joint | 0260 | 0.79 | $39.18 | $22.02 | $7.84
70330 | X | X-ray exam of jaw joints | 0260 | 0.79 | $39.18 | $22.02 | $7.84
70332 | S | X-ray exam of jaw joint | 0275 | 2.74 | $135.89 | $72.26 | $27.18
70336 | S | Magnetic image, jaw joint | 0284 | 8.02 | $397.76 | $257.39 | $79.55
70350 | X | X-ray head for orthodontia | 0260 | 0.79 | $39.18 | $22.02 | $7.84
70355 | X | Panoramic x-ray of jaws | 0260 | 0.79 | $39.18 | $22.02 | $7.84
70360 | X | X-ray exam of neck | 0260 | 0.79 | $39.18 | $22.02 | $7.84
70370 | X | Throat x-ray & fluoroscopy | 0273 | 2.49 | $123.49 | $61.02 | $24.70
70371 | X | Speech evaluation, complex | 0272 | 1.40 | $69.43 | $39.00 | $13.89
70373 | X | Contrast x-ray of larynx | 0263 | 1.68 | $83.32 | $45.88 | $16.66
70380 | X | X-ray exam of salivary gland | 0260 | 0.79 | $39.18 | $22.02 | $7.84
70390 | X | X-ray exam of salivary duct | 0263 | 1.68 | $83.32 | $45.88 | $16.66
70450 | S | CAT scan of head or brain | 0283 | 4.89 | $242.52 | $179.39 | $48.50
70460 | S | Contrast CAT scan of head | 0283 | 4.89 | $242.52 | $179.39 | $48.50
70470 | S | Contrast CAT scans of head | 0283 | 4.89 | $242.52 | $179.39 | $48.50
70480 | S | CAT scan of skull | 0283 | 4.89 | $242.52 | $179.39 | $48.50
70481 | S | Contrast CAT scan of skull | 0283 | 4.89 | $242.52 | $179.39 | $48.50
70482 | S | Contrast CAT scans of skull | 0283 | 4.89 | $242.52 | $179.39 | $48.50
70486 | S | Cat scan of face/jaw | 0282 | 2.38 | $118.04 | $94.51 | $23.61
70487 | S | Contrast CAT scan, face/jaw | 0283 | 4.89 | $242.52 | $179.39 | $48.50
70488 | S | Contrast cat scans, face/jaw | 0283 | 4.89 | $242.52 | $179.39 | $48.50
70490 | S | CAT scan of neck tissue | 0283 | 4.89 | $242.52 | $179.39 | $48.50
70491 | S | Contrast CAT of neck tissue | 0283 | 4.89 | $242.52 | $179.39 | $48.50
70492 | S | Contrast CAT of neck tissue | 0283 | 4.89 | $242.52 | $179.39 | $48.50
*70496 | S | Ct angiography, head | 0283 | 4.89 | $242.52 | $179.39 | $48.50
*70498 | S | Ct angiography, neck | 0283 | 4.89 | $242.52 | $179.39 | $48.50
70540 | S | Magnetic image, face/neck | 0284 | 8.02 | $397.76 | $257.39 | $79.55
70541D | S | MR angiography | 0284 | 8.02 | $397.76 | $257.39 | $79.55
*70542 | S | MR (eg, proton) imaging | 0284 | 8.02 | $397.76 | $257.39 | $79.55
*70543 | S | MR (eg, proton) imaging | 0284 | 8.02 | $397.76 | $257.39 | $79.55
*70544 | S | MR angiography | 0284 | 8.02 | $397.76 | $257.39 | $79.55
*70545 | S | MR angiography | 0284 | 8.02 | $397.76 | $257.39 | $79.55
*70546 | S | MR angiography | 0284 | 8.02 | $397.76 | $257.39 | $79.55
*70547 | S | MR angiography | 0284 | 8.02 | $397.76 | $257.39 | $79.55
*70548 | S | MR angiography | 0284 | 8.02 | $397.76 | $257.39 | $79.55
*70549 | S | MR angiography | 0284 | 8.02 | $397.76 | $257.39 | $79.55
70551 | S | Magnetic image, brain (MRI) | 0284 | 8.02 | $397.76 | $257.39 | $79.55
70552 | S | Magnetic image, brain (MRI) | 0284 | 8.02 | $397.76 | $257.39 | $79.55
70553 | S | Magnetic image, brain (mri) | 0284 | 8.02 | $397.76 | $257.39 | $79.55
71010 | X | Chest x-ray | 0260 | 0.79 | $39.18 | $22.02 | $7.84
71015 | X | Chest x-ray | 0260 | 0.79 | $39.18 | $22.02 | $7.84
71020 | X | Chest x-ray | 0260 | 0.79 | $39.18 | $22.02 | $7.84
71021 | X | Chest x-ray | 0260 | 0.79 | $39.18 | $22.02 | $7.84
71022 | X | Chest x-ray | 0260 | 0.79 | $39.18 | $22.02 | $7.84
71023 | X | Chest x-ray and fluoroscopy | 0272 | 1.40 | $69.43 | $39.00 | $13.89
71030 | X | Chest x-ray | 0260 | 0.79 | $39.18 | $22.02 | $7.84
71034 | X | Chest x-ray and fluoroscopy | 0272 | 1.40 | $69.43 | $39.00 | $13.89
71035 | X | Chest x-ray | 0260 | 0.79 | $39.18 | $22.02 | $7.84
71036D | X | X-ray guidance for biopsy | 0273 | 2.49 | $123.49 | $61.02 | $24.70
71040 | X | Contrast x-ray of bronchi | 0263 | 1.68 | $83.32 | $45.88 | $16.66
71060 | X | Contrast x-ray of bronchi | 0263 | 1.68 | $83.32 | $45.88 | $16.66
71090 | X | X-ray & pacemaker insertion | 0273 | 2.49 | $123.49 | $61.02 | $24.70
71100 | X | X-ray exam of ribs | 0260 | 0.79 | $39.18 | $22.02 | $7.84
71101 | X | X-ray exam of ribs/chest | 0260 | 0.79 | $39.18 | $22.02 | $7.84
71110 | X | X-ray exam of ribs | 0260 | 0.79 | $39.18 | $22.02 | $7.84
71111 | X | X-ray exam of ribs/ chest | 0261 | 1.38 | $68.44 | $38.77 | $13.69
71120 | X | X-ray exam of breastbone | 0260 | 0.79 | $39.18 | $22.02 | $7.84
71130 | X | X-ray exam of breastbone | 0260 | 0.79 | $39.18 | $22.02 | $7.84
71250 | S | Cat scan of chest | 0283 | 4.89 | $242.52 | $179.39 | $48.50
71260 | S | Contrast CAT scan of chest | 0283 | 4.89 | $242.52 | $179.39 | $48.50
71270 | S | Contrast CAT scans of chest | 0283 | 4.89 | $242.52 | $179.39 | $48.50
*71275 | S | CT angiography, chest | 0283 | 4.89 | $242.52 | $179.39 | $48.50
71550 | S | Magnetic image, chest (mri) | 0284 | 8.02 | $397.76 | $257.39 | $79.55
*71551 | S | MRI chest w/ dye | 0284 | 8.02 | $397.76 | $257.39 | $79.55
*71552 | S | MRI chest w/o dye | 0284 | 8.02 | $397.76 | $257.39 | $79.55
71555 | S | Magnetic image, chest (mra) | 0284 | 8.02 | $397.76 | $257.39 | $79.55
72010 | X | X-ray exam of spine | 0261 | 1.38 | $68.44 | $38.77 | $13.69
72020 | X | X-ray exam of spine | 0260 | 0.79 | $39.18 | $22.02 | $7.84
72040 | X | X-ray exam of neck spine | 0260 | 0.79 | $39.18 | $22.02 | $7.84
72050 | X | X-ray exam of neck spine | 0261 | 1.38 | $68.44 | $38.77 | $13.69
72052 | X | X-ray exam of neck spine | 0261 | 1.38 | $68.44 | $38.77 | $13.69
72069 | X | X-ray exam of trunk spine | 0260 | 0.79 | $39.18 | $22.02 | $7.84
72070 | X | X-ray exam of thoracic spine | 0260 | 0.79 | $39.18 | $22.02 | $7.84
72072 | X | X-ray exam of thoracic spine | 0260 | 0.79 | $39.18 | $22.02 | $7.84
72074 | X | X-ray exam of thoracic spine | 0260 | 0.79 | $39.18 | $22.02 | $7.84
72080 | X | X-ray exam of trunk spine | 0260 | 0.79 | $39.18 | $22.02 | $7.84
72090 | X | X-ray exam of trunk spine | 0260 | 0.79 | $39.18 | $22.02 | $7.84
72100 | X | X-ray exam of lower spine | 0260 | 0.79 | $39.18 | $22.02 | $7.84
72110 | X | X-ray exam of lower spine | 0261 | 1.38 | $68.44 | $38.77 | $13.69
72114 | X | X-ray exam of lower spine | 0261 | 1.38 | $68.44 | $38.77 | $13.69
72120 | X | X-ray exam of lower spine | 0260 | 0.79 | $39.18 | $22.02 | $7.84
72125 | S | CAT scan of neck spine | 0283 | 4.89 | $242.52 | $179.39 | $48.50
72126 | S | Contrast CAT scan of neck | 0283 | 4.89 | $242.52 | $179.39 | $48.50
72127 | S | Contrast CAT scans of neck | 0283 | 4.89 | $242.52 | $179.39 | $48.50
72128 | S | CAT scan of thorax spine | 0283 | 4.89 | $242.52 | $179.39 | $48.50
72129 | S | Contrast CAT scan of thorax | 0283 | 4.89 | $242.52 | $179.39 | $48.50
72130 | S | Contrast CAT scans of thorax | 0283 | 4.89 | $242.52 | $179.39 | $48.50
72131 | S | CAT scan of lower spine | 0283 | 4.89 | $242.52 | $179.39 | $48.50
72132 | S | Contrast CAT of lower spine | 0283 | 4.89 | $242.52 | $179.39 | $48.50
72133 | S | Contrst cat scans, low spine | 0283 | 4.89 | $242.52 | $179.39 | $48.50
72141 | S | Magnetic image, neck spine | 0284 | 8.02 | $397.76 | $257.39 | $79.55
72142 | S | Magnetic image, neck spine | 0284 | 8.02 | $397.76 | $257.39 | $79.55
72146 | S | Magnetic image, chest spine | 0284 | 8.02 | $397.76 | $257.39 | $79.55
72147 | S | Magnetic image, chest spine | 0284 | 8.02 | $397.76 | $257.39 | $79.55
72148 | S | Magnetic image, lumbar spine | 0284 | 8.02 | $397.76 | $257.39 | $79.55
72149 | S | Magnetic image, lumbar spine | 0284 | 8.02 | $397.76 | $257.39 | $79.55
72156 | S | Magnetic image, neck spine | 0284 | 8.02 | $397.76 | $257.39 | $79.55
72157 | S | Magnetic image, chest spine | 0284 | 8.02 | $397.76 | $257.39 | $79.55
72158 | S | Magnetic image, lumbar spine | 0284 | 8.02 | $397.76 | $257.39 | $79.55
72159 | E | Magnetic image, spine (mra) |  |  |  |  |
72170 | X | X-ray exam of pelvis | 0260 | 0.79 | $39.18 | $22.02 | $7.84
72190 | X | X-ray exam of pelvis | 0260 | 0.79 | $39.18 | $22.02 | $7.84
*72191 | S | CT angiograph pelv w/o & w/ dye | 0283 | 4.89 | $242.52 | $179.39 | $48.50
72192 | S | CAT scan of pelvis | 0283 | 4.89 | $242.52 | $179.39 | $48.50
72193 | S | Contrast CAT scan of pelvis | 0283 | 4.89 | $242.52 | $179.39 | $48.50
72194 | S | Contrast CAT scans of pelvis | 0283 | 4.89 | $242.52 | $179.39 | $48.50
*72195 | S | MRI pelvis w/o dye | 0284 | 8.02 | $397.76 | $257.39 | $79.55
72196 | S | Magnetic image, pelvis | 0284 | 8.02 | $397.76 | $257.39 | $79.55
*72197 | S | MRI pelvis w/o & w/ dye | 0284 | 8.02 | $397.76 | $257.39 | $79.55
72198 | E | Magnetic image, pelvis (mra) |  |  |  |  |
72200 | X | X-ray exam sacroiliac joints | 0260 | 0.79 | $39.18 | $22.02 | $7.84
72202 | X | X-ray exam sacroiliac joints | 0260 | 0.79 | $39.18 | $22.02 | $7.84
72220 | X | X-ray exam of tailbone | 0260 | 0.79 | $39.18 | $22.02 | $7.84
72240 | S | Contrast x-ray of neck spine | 0274 | 4.83 | $239.55 | $128.12 | $47.91
72255 | S | Contrast x-ray, thorax spine | 0274 | 4.83 | $239.55 | $128.12 | $47.91
72265 | S | Contrast x-ray, lower spine | 0274 | 4.83 | $239.55 | $128.12 | $47.91
72270 | S | Contrast x-ray of spine | 0274 | 4.83 | $239.55 | $128.12 | $47.91
72275 | S | Epidurography | 0274 | 4.83 | $239.55 | $128.12 | $47.91
72285 | S | X-ray c/t spine disk | 0274 | 4.83 | $239.55 | $128.12 | $47.91
72295 | S | X-ray of lower spine disk | 0274 | 4.83 | $239.55 | $128.12 | $47.91
73000 | X | X-ray exam of collar bone | 0260 | 0.79 | $39.18 | $22.02 | $7.84
73010 | X | X-ray exam of shoulder blade | 0260 | 0.79 | $39.18 | $22.02 | $7.84
73020 | X | X-ray exam of shoulder | 0260 | 0.79 | $39.18 | $22.02 | $7.84
73030 | X | X-ray exam of shoulder | 0260 | 0.79 | $39.18 | $22.02 | $7.84
73040 | S | Contrast x-ray of shoulder | 0275 | 2.74 | $135.89 | $72.26 | $27.18
73050 | X | X-ray exam of shoulders | 0260 | 0.79 | $39.18 | $22.02 | $7.84
73060 | X | X-ray exam of humerus | 0260 | 0.79 | $39.18 | $22.02 | $7.84
73070 | X | X-ray exam of elbow | 0260 | 0.79 | $39.18 | $22.02 | $7.84
73080 | X | X-ray exam of elbow | 0260 | 0.79 | $39.18 | $22.02 | $7.84
73085 | S | Contrast x-ray of elbow | 0275 | 2.74 | $135.89 | $72.26 | $27.18
73090 | X | X-ray exam of forearm | 0260 | 0.79 | $39.18 | $22.02 | $7.84
73092 | X | X-ray exam of arm, infant | 0260 | 0.79 | $39.18 | $22.02 | $7.84
73100 | X | X-ray exam of wrist | 0260 | 0.79 | $39.18 | $22.02 | $7.84
73110 | X | X-ray exam of wrist | 0260 | 0.79 | $39.18 | $22.02 | $7.84
73115 | S | Contrast x-ray of wrist | 0275 | 2.74 | $135.89 | $72.26 | $27.18
73120 | X | X-ray exam of hand | 0260 | 0.79 | $39.18 | $22.02 | $7.84
73130 | X | X-ray exam of hand | 0260 | 0.79 | $39.18 | $22.02 | $7.84
73140 | X | X-ray exam of finger(s) | 0260 | 0.79 | $39.18 | $22.02 | $7.84
73200 | S | CAT scan of arm | 0283 | 4.89 | $242.52 | $179.39 | $48.50
73201 | S | Contrast CAT scan of arm | 0283 | 4.89 | $242.52 | $179.39 | $48.50
73202 | S | Contrast CAT scans of arm | 0283 | 4.89 | $242.52 | $179.39 | $48.50
*73206 | S | CT angio upr extrm w/o & w/ dye | 0283 | 4.89 | $242.52 | $179.39 | $48.50
*73218 | S | MRI upper extrm w/o dye | 0284 | 8.02 | $397.76 | $257.39 | $79.55
*73219 | S | MRI upper extrm w/ dye | 0284 | 8.02 | $397.76 | $257.39 | $79.55
73220 | S | Magnetic image, arm/hand | 0284 | 8.02 | $397.76 | $257.39 | $79.55
73221 | S | Magnetic image, joint of arm | 0284 | 8.02 | $397.76 | $257.39 | $79.55
*73222 | S | MRI joint upr extrm w/ dye | 0284 | 8.02 | $397.76 | $257.39 | $79.55
*73223 | S | MRI joint upr extrm w/o & w/ dye | 0284 | 8.02 | $397.76 | $257.39 | $79.55
73225 | E | Magnetic image, upper (mra) |  |  |  |  |
73500 | X | X-ray exam of hip | 0260 | 0.79 | $39.18 | $22.02 | $7.84
73510 | X | X-ray exam of hip | 0260 | 0.79 | $39.18 | $22.02 | $7.84
73520 | X | X-ray exam of hips | 0260 | 0.79 | $39.18 | $22.02 | $7.84
73525 | S | Contrast x-ray of hip | 0275 | 2.74 | $135.89 | $72.26 | $27.18
73530 | X | X-ray exam of hip | 0261 | 1.38 | $68.44 | $38.77 | $13.69
73540 | X | X-ray exam of pelvis & hips | 0260 | 0.79 | $39.18 | $22.02 | $7.84
73542 | S | X-ray exam, sacroiliac joint | 0275 | 2.74 | $135.89 | $72.26 | $27.18
73550 | X | X-ray exam of thigh | 0260 | 0.79 | $39.18 | $22.02 | $7.84
73560 | X | X-ray exam of knee, 1 or 2 | 0260 | 0.79 | $39.18 | $22.02 | $7.84
73562 | X | X-ray exam of knee, 3 | 0260 | 0.79 | $39.18 | $22.02 | $7.84
73564 | X | X-ray exam, knee, 4 or more | 0260 | 0.79 | $39.18 | $22.02 | $7.84
73565 | X | X-ray exam of knees | 0260 | 0.79 | $39.18 | $22.02 | $7.84
73580 | S | Contrast x-ray of knee joint | 0275 | 2.74 | $135.89 | $72.26 | $27.18
73590 | X | X-ray exam of lower leg | 0260 | 0.79 | $39.18 | $22.02 | $7.84
73592 | X | X-ray exam of leg, infant | 0261 | 1.38 | $68.44 | $38.77 | $13.69
73600 | X | X-ray exam of ankle | 0260 | 0.79 | $39.18 | $22.02 | $7.84
73610 | X | X-ray exam of ankle | 0260 | 0.79 | $39.18 | $22.02 | $7.84
73615 | S | Contrast x-ray of ankle | 0275 | 2.74 | $135.89 | $72.26 | $27.18
73620 | X | X-ray exam of foot | 0260 | 0.79 | $39.18 | $22.02 | $7.84
73630 | X | X-ray exam of foot | 0260 | 0.79 | $39.18 | $22.02 | $7.84
73650 | X | X-ray exam of heel | 0260 | 0.79 | $39.18 | $22.02 | $7.84
73660 | X | X-ray exam of toe(s) | 0260 | 0.79 | $39.18 | $22.02 | $7.84
73700 | S | CAT scan of leg | 0283 | 4.89 | $242.52 | $179.39 | $48.50
73701 | S | Contrast CAT scan of leg | 0283 | 4.89 | $242.52 | $179.39 | $48.50
73702 | S | Contrast CAT scans of leg | 0283 | 4.89 | $242.52 | $179.39 | $48.50
*73706 | S | CT angio lwr extr w/o & w/ dye | 0283 | 4.89 | $242.52 | $179.39 | $48.50
*73718 | S | MRI lower extrem w/o dye | 0284 | 8.02 | $397.76 | $257.39 | $79.55
*73719 | S | MRI lower extrem w/ dye | 0284 | 8.02 | $397.76 | $257.39 | $79.55
73720 | S | Magnetic image, leg/foot | 0284 | 8.02 | $397.76 | $257.39 | $79.55
73721 | S | Magnetic image, joint of leg | 0284 | 8.02 | $397.76 | $257.39 | $79.55
*73722 | S | MRI joint lwr extrm w/ dye | 0284 | 8.02 | $397.76 | $257.39 | $79.55
*73723 | S | MRI joint lwr extrm w/o & w/ dye | 0284 | 8.02 | $397.76 | $257.39 | $79.55
73725 | S | Magnetic image/lower (mra) | 0284 | 8.02 | $397.76 | $257.39 | $79.55
74000 | X | X-ray exam of abdomen | 0260 | 0.79 | $39.18 | $22.02 | $7.84
74010 | X | X-ray exam of abdomen | 0260 | 0.79 | $39.18 | $22.02 | $7.84
74020 | X | X-ray exam of abdomen | 0260 | 0.79 | $39.18 | $22.02 | $7.84
74022 | X | X-ray exam series, abdomen | 0261 | 1.38 | $68.44 | $38.77 | $13.69
74150 | S | CAT scan of abdomen | 0283 | 4.89 | $242.52 | $179.39 | $48.50
74160 | S | Contrast CAT scan of abdomen | 0283 | 4.89 | $242.52 | $179.39 | $48.50
74170 | S | Contrast CAT scans, abdomen | 0283 | 4.89 | $242.52 | $179.39 | $48.50
*74175 | S | CT angio abdom w/o & w/ dye | 0283 | 4.89 | $242.52 | $179.39 | $48.50
74181 | S | Magnetic image/abdomen (mri) | 0284 | 8.02 | $397.76 | $257.39 | $79.55
*74182 | S | MRI abdomen w/ dye | 0284 | 8.02 | $397.76 | $257.39 | $79.55
*74183 | S | MRI abdomen w/o & w/ dye | 0284 | 8.02 | $397.76 | $257.39 | $79.55
74185 | S | Magnetic image/abdomen (MRA) | 0284 | 8.02 | $397.76 | $257.39 | $79.55
74190 | X | X-ray exam of peritoneum | 0263 | 1.68 | $83.32 | $45.88 | $16.66
74210 | S | Contrst x-ray exam of throat | 0276 | 1.79 | $88.78 | $49.78 | $17.76
74220 | S | Contrast x-ray, esophagus | 0276 | 1.79 | $88.78 | $49.78 | $17.76
74230 | S | Cinema x-ray, throat/esoph | 0276 | 1.79 | $88.78 | $49.78 | $17.76
74235 | S | Remove esophagus obstruction | 0296 | 3.57 | $177.06 | $100.25 | $35.41
74240 | S | X-ray exam, upper gi tract | 0276 | 1.79 | $88.78 | $49.78 | $17.76
74241 | S | X-ray exam, upper gi tract | 0276 | 1.79 | $88.78 | $49.78 | $17.76
74245 | S | X-ray exam, upper gi tract | 0277 | 2.47 | $122.50 | $69.28 | $24.50
74246 | S | Contrst x-ray uppr gi tract | 0276 | 1.79 | $88.78 | $49.78 | $17.76
74247 | S | Contrst x-ray uppr gi tract | 0276 | 1.79 | $88.78 | $49.78 | $17.76
74249 | S | Contrst x-ray uppr gi tract | 0277 | 2.47 | $122.50 | $69.28 | $24.50
74250 | S | X-ray exam of small bowel | 0276 | 1.79 | $88.78 | $49.78 | $17.76
74251 | S | X-ray exam of small bowel | 0277 | 2.47 | $122.50 | $69.28 | $24.50
74260 | S | X-ray exam of small bowel | 0277 | 2.47 | $122.50 | $69.28 | $24.50
74270 | S | Contrast x-ray exam of colon | 0276 | 1.79 | $88.78 | $49.78 | $17.76
74280 | S | Contrast x-ray exam of colon | 0277 | 2.47 | $122.50 | $69.28 | $24.50
74283 | S | Contrast x-ray exam of colon | 0276 | 1.79 | $88.78 | $49.78 | $17.76
74290 | S | Contrast x-ray, gallbladder | 0276 | 1.79 | $88.78 | $49.78 | $17.76
74291 | S | Contrast x-rays, gallbladder | 0276 | 1.79 | $88.78 | $49.78 | $17.76
74300 | X | X-ray bile ducts/pancreas | 0263 | 1.68 | $83.32 | $45.88 | $16.66
74301 | X | X-rays at surgery add-on | 0263 | 1.68 | $83.32 | $45.88 | $16.66
74305 | X | X-ray bile ducts/pancreas | 0263 | 1.68 | $83.32 | $45.88 | $16.66
74320 | X | Contrast x-ray of bile ducts | 0264 | 3.83 | $189.96 | $108.97 | $37.99
74327 | S | X-ray bile stone removal | 0296 | 3.57 | $177.06 | $100.25 | $35.41
74328 | X | Xray bile duct endoscopy | 0264 | 3.83 | $189.96 | $108.97 | $37.99
74329 | X | X-ray for pancreas endoscopy | 0264 | 3.83 | $189.96 | $108.97 | $37.99
74330 | X | X-ray bile/panc endoscopy | 0264 | 3.83 | $189.96 | $108.97 | $37.99
74340 | X | X-ray guide for GI tube | 0272 | 1.40 | $69.43 | $39.00 | $13.89
74350 | X | X-ray guide, stomach tube | 0264 | 3.83 | $189.96 | $108.97 | $37.99
74355 | X | X-ray guide, intestinal tube | 0264 | 3.83 | $189.96 | $108.97 | $37.99
74360 | S | X-ray guide, GI dilation | 0296 | 3.57 | $177.06 | $100.25 | $35.41
74363 | S | X-ray, bile duct dilation | 0297 | 6.13 | $304.03 | $172.51 | $60.81
74400 | S | Contrst x-ray, urinary tract | 0278 | 2.85 | $141.35 | $81.67 | $28.27
74410 | S | Contrst x-ray, urinary tract | 0278 | 2.85 | $141.35 | $81.67 | $28.27
74415 | S | Contrst x-ray, urinary tract | 0278 | 2.85 | $141.35 | $81.67 | $28.27
74420 | S | Contrst x-ray, urinary tract | 0278 | 2.85 | $141.35 | $81.67 | $28.27
74425 | S | Contrst x-ray, urinary tract | 0278 | 2.85 | $141.35 | $81.67 | $28.27
74430 | S | Contrast x-ray, bladder | 0278 | 2.85 | $141.35 | $81.67 | $28.27
74440 | S | X-ray, male genital tract | 0278 | 2.85 | $141.35 | $81.67 | $28.27
74445 | S | X-ray exam of penis | 0278 | 2.85 | $141.35 | $81.67 | $28.27
74450 | S | X-ray, urethra/bladder | 0278 | 2.85 | $141.35 | $81.67 | $28.27
74455 | S | X-ray, urethra/bladder | 0278 | 2.85 | $141.35 | $81.67 | $28.27
74470 | X | X-ray exam of kidney lesion | 0264 | 3.83 | $189.96 | $108.97 | $37.99
74475 | S | X-ray control, cath insert | 0297 | 6.13 | $304.03 | $172.51 | $60.81
74480 | S | X-ray control, cath insert | 0297 | 6.13 | $304.03 | $172.51 | $60.81
74485 | S | X-ray guide, GU dilation | 0296 | 3.57 | $177.06 | $100.25 | $35.41
74710 | X | X-ray measurement of pelvis | 0260 | 0.79 | $39.18 | $22.02 | $7.84
74740 | X | X-ray, female genital tract | 0264 | 3.83 | $189.96 | $108.97 | $37.99
74742 | X | X-ray, fallopian tube | 0264 | 3.83 | $189.96 | $108.97 | $37.99
74775 | S | X-ray exam of perineum | 0278 | 2.85 | $141.35 | $81.67 | $28.27
75552 | S | Magnetic image, myocardium | 0284 | 8.02 | $397.76 | $257.39 | $79.55
75553 | S | Magnetic image, myocardium | 0284 | 8.02 | $397.76 | $257.39 | $79.55
75554 | S | Cardiac MRI/function | 0284 | 8.02 | $397.76 | $257.39 | $79.55
75555 | S | Cardiac MRI/limited study | 0284 | 8.02 | $397.76 | $257.39 | $79.55
75556 | E | Cardiac MRI/flow mapping |  |  |  |  |
75600 | S | Contrast x-ray exam of aorta | 0280 | 14.98 | $742.95 | $380.12 | $148.59
75605 | S | Contrast x-ray exam of aorta | 0280 | 14.98 | $742.95 | $380.12 | $148.59
75625 | S | Contrast x-ray exam of aorta | 0280 | 14.98 | $742.95 | $380.12 | $148.59
75630 | S | X-ray aorta, leg arteries | 0280 | 14.98 | $742.95 | $380.12 | $148.59
*75635 | S | CT angio abdominal arteries | 0283 | 4.89 | $242.52 | $179.39 | $48.50
75650 | S | Artery x-rays, head & neck | 0280 | 14.98 | $742.95 | $380.12 | $148.59
75658 | S | Artery x-rays, arm | 0280 | 14.98 | $742.95 | $380.12 | $148.59
75660 | S | Artery x-rays, head & neck | 0279 | 6.30 | $312.46 | $174.57 | $62.49
75662 | S | Artery x-rays, head & neck | 0279 | 6.30 | $312.46 | $174.57 | $62.49
75665 | S | Artery x-rays, head & neck | 0280 | 14.98 | $742.95 | $380.12 | $148.59
75671 | S | Artery x-rays, head & neck | 0280 | 14.98 | $742.95 | $380.12 | $148.59
75676 | S | Artery x-rays, neck | 0280 | 14.98 | $742.95 | $380.12 | $148.59
75680 | S | Artery x-rays, neck | 0280 | 14.98 | $742.95 | $380.12 | $148.59
75685 | S | Artery x-rays, spine | 0279 | 6.30 | $312.46 | $174.57 | $62.49
75705 | S | Artery x-rays, spine | 0279 | 6.30 | $312.46 | $174.57 | $62.49
75710 | S | Artery x-rays, arm/leg | 0280 | 14.98 | $742.95 | $380.12 | $148.59
75716 | S | Artery x-rays, arms/legs | 0280 | 14.98 | $742.95 | $380.12 | $148.59
75722 | S | Artery x-rays, kidney | 0280 | 14.98 | $742.95 | $380.12 | $148.59
75724 | S | Artery x-rays, kidneys | 0280 | 14.98 | $742.95 | $380.12 | $148.59
75726 | S | Artery x-rays, abdomen | 0280 | 14.98 | $742.95 | $380.12 | $148.59
75731 | S | Artery x-rays, adrenal gland | 0280 | 14.98 | $742.95 | $380.12 | $148.59
75733 | S | Artery x-rays, adrenals | 0280 | 14.98 | $742.95 | $380.12 | $148.59
75736 | S | Artery x-rays, pelvis | 0280 | 14.98 | $742.95 | $380.12 | $148.59
75741 | S | Artery x-rays, lung | 0279 | 6.30 | $312.46 | $174.57 | $62.49
75743 | S | Artery x-rays, lungs | 0280 | 14.98 | $742.95 | $380.12 | $148.59
75746 | S | Artery x-rays, lung | 0279 | 6.30 | $312.46 | $174.57 | $62.49
75756 | S | Artery x-rays, chest | 0279 | 6.30 | $312.46 | $174.57 | $62.49
75774 | S | Artery x-ray, each vessel | 0280 | 14.98 | $742.95 | $380.12 | $148.59
75790 | S | Visualize A-V shunt | 0281 | 4.40 | $218.22 | $115.16 | $43.64
75801 | X | Lymph vessel x-ray, arm/leg | 0264 | 3.83 | $189.96 | $108.97 | $37.99
75803 | X | Lymph vessel x-ray,arms/legs | 0264 | 3.83 | $189.96 | $108.97 | $37.99
75805 | X | Lymph vessel x-ray, trunk | 0264 | 3.83 | $189.96 | $108.97 | $37.99
75807 | X | Lymph vessel x-ray, trunk | 0264 | 3.83 | $189.96 | $108.97 | $37.99
75809 | X | Nonvascular shunt, x-ray | 0264 | 3.83 | $189.96 | $108.97 | $37.99
75810 | S | Vein x-ray, spleen/liver | 0279 | 6.30 | $312.46 | $174.57 | $62.49
75820 | S | Vein x-ray, arm/leg | 0281 | 4.40 | $218.22 | $115.16 | $43.64
75822 | S | Vein x-ray, arms/legs | 0281 | 4.40 | $218.22 | $115.16 | $43.64
75825 | S | Vein x-ray, trunk | 0279 | 6.30 | $312.46 | $174.57 | $62.49
75827 | S | Vein x-ray, chest | 0279 | 6.30 | $312.46 | $174.57 | $62.49
75831 | S | Vein x-ray, kidney | 0279 | 6.30 | $312.46 | $174.57 | $62.49
75833 | S | Vein x-ray, kidneys | 0279 | 6.30 | $312.46 | $174.57 | $62.49
75840 | S | Vein x-ray, adrenal gland | 0279 | 6.30 | $312.46 | $174.57 | $62.49
75842 | S | Vein x-ray, adrenal glands | 0279 | 6.30 | $312.46 | $174.57 | $62.49
75860 | S | Vein x-ray, neck | 0279 | 6.30 | $312.46 | $174.57 | $62.49
75870 | S | Vein x-ray, skull | 0279 | 6.30 | $312.46 | $174.57 | $62.49
75872 | S | Vein x-ray, skull | 0279 | 6.30 | $312.46 | $174.57 | $62.49
75880 | S | Vein x-ray, eye socket | 0279 | 6.30 | $312.46 | $174.57 | $62.49
75885 | S | Vein x-ray, liver | 0279 | 6.30 | $312.46 | $174.57 | $62.49
75887 | S | Vein x-ray, liver | 0280 | 14.98 | $742.95 | $380.12 | $148.59
75889 | S | Vein x-ray, liver | 0279 | 6.30 | $312.46 | $174.57 | $62.49
75891 | S | Vein x-ray, liver | 0279 | 6.30 | $312.46 | $174.57 | $62.49
75893 | N | Venous sampling by catheter |  |  |  |  |
75894 | S | X-rays, transcath therapy | 0297 | 6.13 | $304.03 | $172.51 | $60.81
75896 | S | X-rays, transcath therapy | 0297 | 6.13 | $304.03 | $172.51 | $60.81
75898 | X | Follow-up angiogram | 0264 | 3.83 | $189.96 | $108.97 | $37.99
75900 | C | Arterial catheter exchange |  |  |  |  |
75940 | X | X-ray placement, vein filter | 0264 | 3.83 | $189.96 | $108.97 | $37.99
75945 | S | Intravascular us | 0267 | 2.72 | $134.90 | $80.06 | $26.98
75946 | S | Intravascular us add-on | 0267 | 2.72 | $134.90 | $80.06 | $26.98
*75952 | C | Abdom aneurysm endovas repr |  |  |  |  |
*75953 | C | Abdom aneurysm endovas repr |  |  |  |  |
75960 | S | Transcatheter intro, stent | 0279 | 6.30 | $312.46 | $174.57 | $62.49
75961 | S | Retrieval, broken catheter | 0279 | 6.30 | $312.46 | $174.57 | $62.49
75962 | S | Repair arterial blockage | 0280 | 14.98 | $742.95 | $380.12 | $148.59
75964 | S | Repair artery blockage, each | 0279 | 6.30 | $312.46 | $174.57 | $62.49
75966 | S | Repair arterial blockage | 0280 | 14.98 | $742.95 | $380.12 | $148.59
75968 | S | Repair artery blockage, each | 0279 | 6.30 | $312.46 | $174.57 | $62.49
75970 | S | Vascular biopsy | 0279 | 6.30 | $312.46 | $174.57 | $62.49
75978 | S | Repair venous blockage | 0279 | 6.30 | $312.46 | $174.57 | $62.49
75980 | S | Contrast xray exam bile duct | 0297 | 6.13 | $304.03 | $172.51 | $60.81
75982 | S | Contrast xray exam bile duct | 0297 | 6.13 | $304.03 | $172.51 | $60.81
75984 | S | Xray control catheter change | 0296 | 3.57 | $177.06 | $100.25 | $35.41
75989 | X | Abscess drainage under x-ray | 0273 | 2.49 | $123.49 | $61.02 | $24.70
75992 | S | Atherectomy, x-ray exam | 0279 | 6.30 | $312.46 | $174.57 | $62.49
75993 | T | Atherectomy, x-ray exam | 0081 | 28.81 | $1,428.86 | $710.91 | $285.77
75994 | T | Atherectomy, x-ray exam | 0081 | 28.81 | $1,428.86 | $710.91 | $285.77
75995 | S | Atherectomy, x-ray exam | 0279 | 6.30 | $312.46 | $174.57 | $62.49
75996 | T | Atherectomy, x-ray exam | 0081 | 28.81 | $1,428.86 | $710.91 | $285.77
76000 | X | Fluoroscope examination | 0272 | 1.40 | $69.43 | $39.00 | $13.89
76001 | X | Fluoroscope exam, extensive | 0273 | 2.49 | $123.49 | $61.02 | $24.70
76003 | X | Needle localization by x-ray | 0272 | 1.40 | $69.43 | $39.00 | $13.89
76005 | X | Fluoroguide for spine inject | 0273 | 2.49 | $123.49 | $61.02 | $24.70
76006 | X | X-ray stress view | 0261 | 1.38 | $68.44 | $38.77 | $13.69
76010 | X | X-ray, nose to rectum | 0260 | 0.79 | $39.18 | $22.02 | $7.84
*76012 | S | Percut vertebroplasty fluor | 0274 | 4.83 | $239.55 | $128.12 | $47.91
*76013 | S | Percut vertebroplasty CT | 0274 | 4.83 | $239.55 | $128.12 | $47.91
76020 | X | X-rays for bone age | 0261 | 1.38 | $68.44 | $38.77 | $13.69
76040 | X | X-rays, bone evaluation | 0260 | 0.79 | $39.18 | $22.02 | $7.84
76061 | X | X-rays, bone survey | 0261 | 1.38 | $68.44 | $38.77 | $13.69
76062 | X | X-rays, bone survey | 0261 | 1.38 | $68.44 | $38.77 | $13.69
76065 | X | X-rays, bone evaluation | 0261 | 1.38 | $68.44 | $38.77 | $13.69
76066 | X | Joint(s) survey, single film | 0260 | 0.79 | $39.18 | $22.02 | $7.84
76070 | E | CT scan, bone density study |  |  |  |  |
76075 | S | Dual energy x-ray study | 0971 | 1.55 | $76.88 |  | $15.38
76076 | T | Dual energy x-ray study | 0970 | 0.52 | $25.79 |  | $5.16
76078 | X | Photodensitometry | 0261 | 1.38 | $68.44 | $38.77 | $13.69
76080 | X | X-ray exam of fistula | 0263 | 1.68 | $83.32 | $45.88 | $16.66
76086 | X | X-ray of mammary duct | 0263 | 1.68 | $83.32 | $45.88 | $16.66
76088 | X | X-ray of mammary ducts | 0263 | 1.68 | $83.32 | $45.88 | $16.66
76090 | S | Mammogram, one breast | 0271 | 0.70 | $34.72 | $19.50 | $6.94
76091 | S | Mammogram, both breasts | 0271 | 0.70 | $34.72 | $19.50 | $6.94
76092 | A | Mammogram, screening |  |  |  |  |
76093 | S | Magnetic image, breast | 0284 | 8.02 | $397.76 | $257.39 | $79.55
76094 | S | Magnetic image, both breasts | 0284 | 8.02 | $397.76 | $257.39 | $79.55
76095 | X | Stereotactic breast biopsy | 0264 | 3.83 | $189.96 | $108.97 | $37.99
76096 | X | X-ray of needle wire, breast | 0263 | 1.68 | $83.32 | $45.88 | $16.66
76098 | X | X-ray exam, breast specimen | 0260 | 0.79 | $39.18 | $22.02 | $7.84
76100 | X | X-ray exam of body section | 0261 | 1.38 | $68.44 | $38.77 | $13.69
76101 | X | Complex body section x-ray | 0263 | 1.68 | $83.32 | $45.88 | $16.66
76102 | X | Complex body section x-rays | 0264 | 3.83 | $189.96 | $108.97 | $37.99
76120 | X | Cinematic x-rays | 0261 | 1.38 | $68.44 | $38.77 | $13.69
76125 | X | Cinematic x-rays add-on | 0261 | 1.38 | $68.44 | $38.77 | $13.69
76140 | E | X-ray consultation |  |  |  |  |
76150 | X | X-ray exam, dry process | 0260 | 0.79 | $39.18 | $22.02 | $7.84
76350 | N | Special x-ray contrast study |  |  |  |  |
76355 | S | CAT scan for localization | 0283 | 4.89 | $242.52 | $179.39 | $48.50
76360 | S | CAT scan for needle biopsy | 0283 | 4.89 | $242.52 | $179.39 | $48.50
76365D | S | CAT scan for cyst aspiration | 0283 | 4.89 | $242.52 | $179.39 | $48.50
76370 | S | CAT scan for therapy guide | 0282 | 2.38 | $118.04 | $94.51 | $23.61
76375 | S | 3d/holograph reconstr add-on | 0282 | 2.38 | $118.04 | $94.51 | $23.61
76380 | S | CAT scan follow-up study | 0282 | 2.38 | $118.04 | $94.51 | $23.61
76390 | S | Mr spectroscopy | 0284 | 8.02 | $397.76 | $257.39 | $79.55
*76393 | X | MR guidance for needle place | 0273 | 2.49 | $123.49 | $61.02 | $24.70
76400 | S | Magnetic image, bone marrow | 0284 | 8.02 | $397.76 | $257.39 | $79.55
76499 | X | Radiographic procedure | 0260 | 0.79 | $39.18 | $22.02 | $7.84
76506 | S | Echo exam of head | 0266 | 1.79 | $88.78 | $57.35 | $17.76
76511 | S | Echo exam of eye | 0266 | 1.79 | $88.78 | $57.35 | $17.76
76512 | S | Echo exam of eye | 0266 | 1.79 | $88.78 | $57.35 | $17.76
76513 | S | Echo exam of eye, water bath | 0265 | 1.17 | $58.03 | $38.08 | $11.61
76516 | S | Echo exam of eye | 0266 | 1.79 | $88.78 | $57.35 | $17.76
76519 | S | Echo exam of eye | 0266 | 1.79 | $88.78 | $57.35 | $17.76
76529 | S | Echo exam of eye | 0265 | 1.17 | $58.03 | $38.08 | $11.61
76536 | S | Echo exam of head and neck | 0265 | 1.17 | $58.03 | $38.08 | $11.61
76604 | S | Echo exam of chest | 0266 | 1.79 | $88.78 | $57.35 | $17.76
76645 | S | Echo exam of breast(s) | 0265 | 1.17 | $58.03 | $38.08 | $11.61
76700 | S | Echo exam of abdomen | 0266 | 1.79 | $88.78 | $57.35 | $17.76
76705 | S | Echo exam of abdomen | 0266 | 1.79 | $88.78 | $57.35 | $17.76
76770 | S | Echo exam abdomen back wall | 0266 | 1.79 | $88.78 | $57.35 | $17.76
76775 | S | Echo exam abdomen back wall | 0266 | 1.79 | $88.78 | $57.35 | $17.76
76778 | S | Echo exam kidney transplant | 0266 | 1.79 | $88.78 | $57.35 | $17.76
76800 | S | Echo exam spinal canal | 0266 | 1.79 | $88.78 | $57.35 | $17.76
76805 | S | Echo exam of pregnant uterus | 0266 | 1.79 | $88.78 | $57.35 | $17.76
76810 | S | Echo exam of pregnant uterus | 0265 | 1.17 | $58.03 | $38.08 | $11.61
76815 | S | Echo exam of pregnant uterus | 0265 | 1.17 | $58.03 | $38.08 | $11.61
76816 | S | Echo exam follow-up/repeat | 0265 | 1.17 | $58.03 | $38.08 | $11.61
76818 | S | Fetal biophysical profile | 0266 | 1.79 | $88.78 | $57.35 | $17.76
*76819 | S | Fetl biophys profil w/o stress | 0266 | 1.79 | $88.78 | $57.35 | $17.76
76825 | S | Echo exam of fetal heart | 0269 | 4.40 | $218.22 | $114.01 | $43.64
76826 | S | Echo exam of fetal heart | 0269 | 4.40 | $218.22 | $114.01 | $43.64
76827 | S | Echo exam of fetal heart | 0269 | 4.40 | $218.22 | $114.01 | $43.64
76828 | S | Echo exam of fetal heart | 0269 | 4.40 | $218.22 | $114.01 | $43.64
76830 | S | Echo exam, transvaginal | 0266 | 1.79 | $88.78 | $57.35 | $17.76
76831 | S | Echo exam, uterus | 0266 | 1.79 | $88.78 | $57.35 | $17.76
76856 | S | Echo exam of pelvis | 0266 | 1.79 | $88.78 | $57.35 | $17.76
76857 | S | Echo exam of pelvis | 0265 | 1.17 | $58.03 | $38.08 | $11.61
76870 | S | Echo exam of scrotum | 0266 | 1.79 | $88.78 | $57.35 | $17.76
76872 | S | Echo exam, transrectal | 0266 | 1.79 | $88.78 | $57.35 | $17.76
76873 | S | Echograp trans r, pros study | 0266 | 1.79 | $88.78 | $57.35 | $17.76
76880 | S | Echo exam of extremity | 0266 | 1.79 | $88.78 | $57.35 | $17.76
76885 | S | Echo exam, infant hips | 0266 | 1.79 | $88.78 | $57.35 | $17.76
76886 | S | Echo exam, infant hips | 0266 | 1.79 | $88.78 | $57.35 | $17.76
76930 | X | Echo guide for heart sac tap | 0268 | 2.23 | $110.60 | $69.51 | $22.12
76932 | X | Echo guide for heart biopsy | 0268 | 2.23 | $110.60 | $69.51 | $22.12
76934D | X | Echo guide for chest tap | 0268 | 2.23 | $110.60 | $69.51 | $22.12
76936 | X | Echo guide for artery repair | 0268 | 2.23 | $110.60 | $69.51 | $22.12
76938D | X | Echo exam for drainage | 0268 | 2.23 | $110.60 | $69.51 | $22.12
76941 | X | Echo guide for transfusion | 0268 | 2.23 | $110.60 | $69.51 | $22.12
76942 | X | Echo guide for biopsy | 0268 | 2.23 | $110.60 | $69.51 | $22.12
76945 | X | Echo guide, villus sampling | 0268 | 2.23 | $110.60 | $69.51 | $22.12
76946 | X | Echo guide for amniocentesis | 0268 | 2.23 | $110.60 | $69.51 | $22.12
76948 | X | Echo guide, ova aspiration | 0268 | 2.23 | $110.60 | $69.51 | $22.12
76950 | X | Echo guidance radiotherapy | 0268 | 2.23 | $110.60 | $69.51 | $22.12
76960D | X | Echo guidance radiotherapy | 0268 | 2.23 | $110.60 | $69.51 | $22.12
76965 | X | Echo guidance radiotherapy | 0268 | 2.23 | $110.60 | $69.51 | $22.12
76970 | S | Ultrasound exam follow-up | 0265 | 1.17 | $58.03 | $38.08 | $11.61
76975 | S | GI endoscopic ultrasound | 0266 | 1.79 | $88.78 | $57.35 | $17.76
76977 | S | Us bone density measure | 0265 | 1.17 | $58.03 | $38.08 | $11.61
76986 | S | Echo exam at surgery | 0266 | 1.79 | $88.78 | $57.35 | $17.76
76999 | S | Echo examination procedure | 0266 | 1.79 | $88.78 | $57.35 | $17.76
77261 | E | Radiation therapy planning |  |  |  |  |
77262 | E | Radiation therapy planning |  |  |  |  |
77263 | E | Radiation therapy planning |  |  |  |  |
77280 | X | Set radiation therapy field | 0304 | 1.49 | $73.90 | $41.52 | $14.78
77285 | X | Set radiation therapy field | 0305 | 4.06 | $201.36 | $97.50 | $40.27
77290 | X | Set radiation therapy field | 0305 | 4.06 | $201.36 | $97.50 | $40.27
77295 | X | Set radiation therapy field | 0310 | 13.98 | $693.35 | $339.05 | $138.67
77299 | E | Radiation therapy planning |  |  |  |  |
77300 | X | Radiation therapy dose plan | 0304 | 1.49 | $73.90 | $41.52 | $14.78
77305 | X | Radiation therapy dose plan | 0304 | 1.49 | $73.90 | $41.52 | $14.78
77310 | X | Radiation therapy dose plan | 0304 | 1.49 | $73.90 | $41.52 | $14.78
77315 | X | Radiation therapy dose plan | 0305 | 4.06 | $201.36 | $97.50 | $40.27
77321 | X | Radiation therapy port plan | 0305 | 4.06 | $201.36 | $97.50 | $40.27
77326 | X | Radiation therapy dose plan | 0305 | 4.06 | $201.36 | $97.50 | $40.27
77327 | X | Radiation therapy dose plan | 0305 | 4.06 | $201.36 | $97.50 | $40.27
77328 | X | Radiation therapy dose plan | 0305 | 4.06 | $201.36 | $97.50 | $40.27
77331 | X | Special radiation dosimetry | 0304 | 1.49 | $73.90 | $41.52 | $14.78
77332 | X | Radiation treatment aid(s) | 0303 | 2.83 | $140.36 | $69.28 | $28.07
77333 | X | Radiation treatment aid(s) | 0303 | 2.83 | $140.36 | $69.28 | $28.07
77334 | X | Radiation treatment aid(s) | 0303 | 2.83 | $140.36 | $69.28 | $28.07
77336 | X | Radiation physics consult | 0311 | 1.32 | $65.46 | $31.66 | $13.09
77370 | X | Radiation physics consult | 0311 | 1.32 | $65.46 | $31.66 | $13.09
77399 | X | External radiation dosimetry | 0311 | 1.32 | $65.46 | $31.66 | $13.09
77401 | S | Radiation treatment delivery | 0300 | 1.98 | $98.20 | $47.72 | $19.64
77402 | S | Radiation treatment delivery | 0300 | 1.98 | $98.20 | $47.72 | $19.64
77403 | S | Radiation treatment delivery | 0300 | 1.98 | $98.20 | $47.72 | $19.64
77404 | S | Radiation treatment delivery | 0300 | 1.98 | $98.20 | $47.72 | $19.64
77406 | S | Radiation treatment delivery | 0300 | 1.98 | $98.20 | $47.72 | $19.64
77407 | S | Radiation treatment delivery | 0300 | 1.98 | $98.20 | $47.72 | $19.64
77408 | S | Radiation treatment delivery | 0300 | 1.98 | $98.20 | $47.72 | $19.64
77409 | S | Radiation treatment delivery | 0300 | 1.98 | $98.20 | $47.72 | $19.64
77411 | S | Radiation treatment delivery | 0301 | 2.21 | $109.61 | $52.53 | $21.92
77412 | S | Radiation treatment delivery | 0301 | 2.21 | $109.61 | $52.53 | $21.92
77413 | S | Radiation treatment delivery | 0301 | 2.21 | $109.61 | $52.53 | $21.92
77414 | S | Radiation treatment delivery | 0300 | 1.98 | $98.20 | $47.72 | $19.64
77416 | S | Radiation treatment delivery | 0301 | 2.21 | $109.61 | $52.53 | $21.92
77417 | X | Radiology port film(s) | 0260 | 0.79 | $39.18 | $22.02 | $7.84
77427 | E | Radiation tx management, x5 |  |  |  |  |
77431 | E | Radiation therapy management |  |  |  |  |
77432 | E | Stereotactic radiation trmt |  |  |  |  |
77470 | S | Special radiation treatment | 0302 | 8.21 | $407.18 | $216.55 | $81.44
77499 | E | Radiation therapy management |  |  |  |  |
77520 | S | Proton beam delivery | 0974 | 8.25 | $409.17 |  | $81.83
*77522 | S | Proton trmt, simple w/ comp | 0974 | 8.25 | $409.17 |  | $81.83
77523 | S | Proton beam delivery | 0976 | 18.05 | $895.21 |  | $179.04
*77525 | S | Proton treatment, complex | 0976 | 18.05 | $895.21 |  | $179.04
77600 | S | Hyperthermia treatment | 0314 | 5.88 | $291.62 | $150.95 | $58.32
77605 | S | Hyperthermia treatment | 0314 | 5.88 | $291.62 | $150.95 | $58.32
77610 | S | Hyperthermia treatment | 0314 | 5.88 | $291.62 | $150.95 | $58.32
77615 | S | Hyperthermia treatment | 0314 | 5.88 | $291.62 | $150.95 | $58.32
77620 | S | Hyperthermia treatment | 0314 | 5.88 | $291.62 | $150.95 | $58.32
77750 | S | Infuse radioactive materials | 0301 | 2.21 | $109.61 | $52.53 | $21.92
77761 | S | Radioelement application | 0312 | 4.09 | $202.85 | $109.65 | $40.57
77762 | S | Radioelement application | 0312 | 4.09 | $202.85 | $109.65 | $40.57
77763 | S | Radioelement application | 0312 | 4.09 | $202.85 | $109.65 | $40.57
77776 | S | Radioelement application | 0312 | 4.09 | $202.85 | $109.65 | $40.57
77777 | S | Radioelement application | 0312 | 4.09 | $202.85 | $109.65 | $40.57
77778 | S | Radioelement application | 0312 | 4.09 | $202.85 | $109.65 | $40.57
77781 | S | High intensity brachytherapy | 0313 | 7.89 | $391.31 | $164.02 | $78.26
77782 | S | High intensity brachytherapy | 0313 | 7.89 | $391.31 | $164.02 | $78.26
77783 | S | High intensity brachytherapy | 0313 | 7.89 | $391.31 | $164.02 | $78.26
77784 | S | High intensity brachytherapy | 0313 | 7.89 | $391.31 | $164.02 | $78.26
77789 | S | Radioelement application | 0300 | 1.98 | $98.20 | $47.72 | $19.64
77790 | N | Radioelement handling |  |  |  |  |
77799 | S | Radium/radioisotope therapy | 0313 | 7.89 | $391.31 | $164.02 | $78.26
78000 | S | Thyroid, single uptake | 0290 | 1.94 | $96.21 | $55.51 | $19.24
78001 | S | Thyroid, multiple uptakes | 0290 | 1.94 | $96.21 | $55.51 | $19.24
78003 | S | Thyroid suppress/stimul | 0290 | 1.94 | $96.21 | $55.51 | $19.24
78006 | S | Thyroid imaging with uptake | 0291 | 3.15 | $156.22 | $93.14 | $31.24
78007 | S | Thyroid image, mult uptakes | 0291 | 3.15 | $156.22 | $93.14 | $31.24
78010 | S | Thyroid imaging | 0290 | 1.94 | $96.21 | $55.51 | $19.24
78011 | S | Thyroid imaging with flow | 0290 | 1.94 | $96.21 | $55.51 | $19.24
78015 | S | Thyroid met imaging | 0291 | 3.15 | $156.22 | $93.14 | $31.24
78016 | S | Thyroid met imaging/studies | 0292 | 4.36 | $216.24 | $126.63 | $43.25
78018 | S | Thyroid met imaging, body | 0292 | 4.36 | $216.24 | $126.63 | $43.25
78020 | S | Thyroid met uptake | 0292 | 4.36 | $216.24 | $126.63 | $43.25
78070 | S | Parathyroid nuclear imaging | 0292 | 4.36 | $216.24 | $126.63 | $43.25
78075 | S | Adrenal nuclear imaging | 0292 | 4.36 | $216.24 | $126.63 | $43.25
78099 | S | Endocrine nuclear procedure | 0290 | 1.94 | $96.21 | $55.51 | $19.24
78102 | S | Bone marrow imaging, ltd | 0291 | 3.15 | $156.22 | $93.14 | $31.24
78103 | S | Bone marrow imaging, mult | 0292 | 4.36 | $216.24 | $126.63 | $43.25
78104 | S | Bone marrow imaging, body | 0292 | 4.36 | $216.24 | $126.63 | $43.25
78110 | S | Plasma volume, single | 0291 | 3.15 | $156.22 | $93.14 | $31.24
78111 | S | Plasma volume, multiple | 0291 | 3.15 | $156.22 | $93.14 | $31.24
78120 | S | Red cell mass, single | 0291 | 3.15 | $156.22 | $93.14 | $31.24
78121 | S | Red cell mass, multiple | 0291 | 3.15 | $156.22 | $93.14 | $31.24
78122 | S | Blood volume | 0292 | 4.36 | $216.24 | $126.63 | $43.25
78130 | S | Red cell survival study | 0292 | 4.36 | $216.24 | $126.63 | $43.25
78135 | S | Red cell survival kinetics | 0292 | 4.36 | $216.24 | $126.63 | $43.25
78140 | S | Red cell sequestration | 0292 | 4.36 | $216.24 | $126.63 | $43.25
78160 | S | Plasma iron turnover | 0292 | 4.36 | $216.24 | $126.63 | $43.25
78162 | S | Iron absorption exam | 0292 | 4.36 | $216.24 | $126.63 | $43.25
78170 | S | Red cell iron utilization | 0292 | 4.36 | $216.24 | $126.63 | $43.25
78172 | S | Total body iron estimation | 0292 | 4.36 | $216.24 | $126.63 | $43.25
78185 | S | Spleen imaging | 0291 | 3.15 | $156.22 | $93.14 | $31.24
78190 | S | Platelet survival, kinetics | 0291 | 3.15 | $156.22 | $93.14 | $31.24
78191 | S | Platelet survival | 0291 | 3.15 | $156.22 | $93.14 | $31.24
78195 | S | Lymph system imaging | 0292 | 4.36 | $216.24 | $126.63 | $43.25
78199 | S | Blood/lymph nuclear exam | 0290 | 1.94 | $96.21 | $55.51 | $19.24
78201 | S | Liver imaging | 0291 | 3.15 | $156.22 | $93.14 | $31.24
78202 | S | Liver imaging with flow | 0291 | 3.15 | $156.22 | $93.14 | $31.24
78205 | S | Liver imaging (3D) | 0292 | 4.36 | $216.24 | $126.63 | $43.25
78206 | S | Liver image (3d) w/flow | 0292 | 4.36 | $216.24 | $126.63 | $43.25
78215 | S | Liver and spleen imaging | 0291 | 3.15 | $156.22 | $93.14 | $31.24
78216 | S | Liver & spleen image/flow | 0291 | 3.15 | $156.22 | $93.14 | $31.24
78220 | S | Liver function study | 0292 | 4.36 | $216.24 | $126.63 | $43.25
78223 | S | Hepatobiliary imaging | 0292 | 4.36 | $216.24 | $126.63 | $43.25
78230 | S | Salivary gland imaging | 0291 | 3.15 | $156.22 | $93.14 | $31.24
78231 | S | Serial salivary imaging | 0291 | 3.15 | $156.22 | $93.14 | $31.24
78232 | S | Salivary gland function exam | 0291 | 3.15 | $156.22 | $93.14 | $31.24
78258 | S | Esophageal motility study | 0291 | 3.15 | $156.22 | $93.14 | $31.24
78261 | S | Gastric mucosa imaging | 0291 | 3.15 | $156.22 | $93.14 | $31.24
78262 | S | Gastroesophageal reflux exam | 0291 | 3.15 | $156.22 | $93.14 | $31.24
78264 | S | Gastric emptying study | 0292 | 4.36 | $216.24 | $126.63 | $43.25
78267 | A | Breath tst attain/anal c-14 |  |  |  |  |
78268 | A | Breath test analysis, c-14 |  |  |  |  |
78270 | S | Vit B-12 absorption exam | 0290 | 1.94 | $96.21 | $55.51 | $19.24
78271 | S | Vit B-12 absorp exam, IF | 0290 | 1.94 | $96.21 | $55.51 | $19.24
78272 | S | Vit B-12 absorp, combined | 0291 | 3.15 | $156.22 | $93.14 | $31.24
78278 | S | Acute GI blood loss imaging | 0292 | 4.36 | $216.24 | $126.63 | $43.25
78282 | S | GI protein loss exam | 0290 | 1.94 | $96.21 | $55.51 | $19.24
78290 | S | Meckel's divert exam | 0291 | 3.15 | $156.22 | $93.14 | $31.24
78291 | S | Leveen/shunt patency exam | 0292 | 4.36 | $216.24 | $126.63 | $43.25
78299 | S | GI nuclear procedure | 0290 | 1.94 | $96.21 | $55.51 | $19.24
78300 | S | Bone imaging, limited area | 0291 | 3.15 | $156.22 | $93.14 | $31.24
78305 | S | Bone imaging, multiple areas | 0292 | 4.36 | $216.24 | $126.63 | $43.25
78306 | S | Bone imaging, whole body | 0292 | 4.36 | $216.24 | $126.63 | $43.25
78315 | S | Bone imaging, 3 phase | 0292 | 4.36 | $216.24 | $126.63 | $43.25
78320 | S | Bone imaging (3D) | 0292 | 4.36 | $216.24 | $126.63 | $43.25
78350 | X | Bone mineral, single photon | 0261 | 1.38 | $68.44 | $38.77 | $13.69
78351 | E | Bone mineral, dual photon |  |  |  |  |
78399 | S | Musculoskeletal nuclear exam | 0290 | 1.94 | $96.21 | $55.51 | $19.24
78414 | S | Non-imaging heart function | 0292 | 4.36 | $216.24 | $126.63 | $43.25
78428 | S | Cardiac shunt imaging | 0292 | 4.36 | $216.24 | $126.63 | $43.25
78445 | S | Vascular flow imaging | 0291 | 3.15 | $156.22 | $93.14 | $31.24
78455 | S | Venous thrombosis study | 0291 | 3.15 | $156.22 | $93.14 | $31.24
78456 | S | Acute venous thrombus image | 0291 | 3.15 | $156.22 | $93.14 | $31.24
78457 | S | Venous thrombosis imaging | 0291 | 3.15 | $156.22 | $93.14 | $31.24
78458 | S | Ven thrombosis images, bilat | 0291 | 3.15 | $156.22 | $93.14 | $31.24
78459 | E | Heart muscle imaging (PET) |  |  |  |  |
78460 | S | Heart muscle blood, single | 0286 | 7.28 | $361.06 | $200.04 | $72.21
78461 | S | Heart muscle blood, multiple | 0286 | 7.28 | $361.06 | $200.04 | $72.21
78464 | S | Heart image (3d), single | 0286 | 7.28 | $361.06 | $200.04 | $72.21
78465 | S | Heart image (3d), multiple | 0286 | 7.28 | $361.06 | $200.04 | $72.21
78466 | S | Heart infarct image | 0292 | 4.36 | $216.24 | $126.63 | $43.25
78468 | S | Heart infarct image (ef) | 0292 | 4.36 | $216.24 | $126.63 | $43.25
78469 | S | Heart infarct image (3D) | 0292 | 4.36 | $216.24 | $126.63 | $43.25
78472 | S | Gated heart, planar, single | 0286 | 7.28 | $361.06 | $200.04 | $72.21
78473 | S | Gated heart, multiple | 0286 | 7.28 | $361.06 | $200.04 | $72.21
78478 | S | Heart wall motion add-on | 0286 | 7.28 | $361.06 | $200.04 | $72.21
78480 | S | Heart function add-on | 0286 | 7.28 | $361.06 | $200.04 | $72.21
78481 | S | Heart first pass, single | 0286 | 7.28 | $361.06 | $200.04 | $72.21
78483 | S | Heart first pass, multiple | 0286 | 7.28 | $361.06 | $200.04 | $72.21
78491 | E | Heart image (pet), single |  |  |  |  |
78492 | E | Heart image (pet), multiple |  |  |  |  |
78494 | S | Heart image, spect | 0296 | 3.57 | $177.06 | $100.25 | $35.41
78496 | S | Heart first pass add-on | 0296 | 3.57 | $177.06 | $100.25 | $35.41
78499 | S | Cardiovascular nuclear exam | 0292 | 4.36 | $216.24 | $126.63 | $43.25
78580 | S | Lung perfusion imaging | 0291 | 3.15 | $156.22 | $93.14 | $31.24
78584 | S | Lung V/Q image single breath | 0292 | 4.36 | $216.24 | $126.63 | $43.25
78585 | S | Lung V/Q imaging | 0292 | 4.36 | $216.24 | $126.63 | $43.25
78586 | S | Aerosol lung image, single | 0292 | 4.36 | $216.24 | $126.63 | $43.25
78587 | S | Aerosol lung image, multiple | 0292 | 4.36 | $216.24 | $126.63 | $43.25
78588 | S | Perfusion lung image | 0292 | 4.36 | $216.24 | $126.63 | $43.25
78591 | S | Vent image, 1 breath, 1 proj | 0291 | 3.15 | $156.22 | $93.14 | $31.24
78593 | S | Vent image, 1 proj, gas | 0292 | 4.36 | $216.24 | $126.63 | $43.25
78594 | S | Vent image, mult proj, gas | 0292 | 4.36 | $216.24 | $126.63 | $43.25
78596 | S | Lung differential function | 0292 | 4.36 | $216.24 | $126.63 | $43.25
78599 | S | Respiratory nuclear exam | 0291 | 3.15 | $156.22 | $93.14 | $31.24
78600 | S | Brain imaging, ltd static | 0292 | 4.36 | $216.24 | $126.63 | $43.25
78601 | S | Brain imaging, ltd w/ flow | 0292 | 4.36 | $216.24 | $126.63 | $43.25
78605 | S | Brain imaging, complete | 0291 | 3.15 | $156.22 | $93.14 | $31.24
78606 | S | Brain imaging, compl w/flow | 0292 | 4.36 | $216.24 | $126.63 | $43.25
78607 | S | Brain imaging (3D) | 0292 | 4.36 | $216.24 | $126.63 | $43.25
78608 | E | Brain imaging (PET) |  |  |  |  |
78609 | E | Brain imaging (PET) |  |  |  |  |
78610 | S | Brain flow imaging only | 0291 | 3.15 | $156.22 | $93.14 | $31.24
78615 | S | Cerebral blood flow imaging | 0292 | 4.36 | $216.24 | $126.63 | $43.25
78630 | S | Cerebrospinal fluid scan | 0292 | 4.36 | $216.24 | $126.63 | $43.25
78635 | S | CSF ventriculography | 0292 | 4.36 | $216.24 | $126.63 | $43.25
78645 | S | CSF shunt evaluation | 0292 | 4.36 | $216.24 | $126.63 | $43.25
78647 | S | Cerebrospinal fluid scan | 0292 | 4.36 | $216.24 | $126.63 | $43.25
78650 | S | CSF leakage imaging | 0292 | 4.36 | $216.24 | $126.63 | $43.25
78660 | S | Nuclear exam of tear flow | 0291 | 3.15 | $156.22 | $93.14 | $31.24
78699 | S | Nervous system nuclear exam | 0292 | 4.36 | $216.24 | $126.63 | $43.25
78700 | S | Kidney imaging, static | 0291 | 3.15 | $156.22 | $93.14 | $31.24
78701 | S | Kidney imaging with flow | 0291 | 3.15 | $156.22 | $93.14 | $31.24
78704 | S | Imaging renogram | 0292 | 4.36 | $216.24 | $126.63 | $43.25
78707 | S | Kidney flow/function image | 0292 | 4.36 | $216.24 | $126.63 | $43.25
78708 | S | Kidney flow/function image | 0292 | 4.36 | $216.24 | $126.63 | $43.25
78709 | S | Kidney flow/function image | 0292 | 4.36 | $216.24 | $126.63 | $43.25
78710 | S | Kidney imaging (3D) | 0292 | 4.36 | $216.24 | $126.63 | $43.25
78715 | S | Renal vascular flow exam | 0291 | 3.15 | $156.22 | $93.14 | $31.24
78725 | S | Kidney function study | 0291 | 3.15 | $156.22 | $93.14 | $31.24
78730 | S | Urinary bladder retention | 0291 | 3.15 | $156.22 | $93.14 | $31.24
78740 | S | Ureteral reflux study | 0291 | 3.15 | $156.22 | $93.14 | $31.24
78760 | S | Testicular imaging | 0291 | 3.15 | $156.22 | $93.14 | $31.24
78761 | S | Testicular imaging/flow | 0291 | 3.15 | $156.22 | $93.14 | $31.24
78799 | S | Genitourinary nuclear exam | 0292 | 4.36 | $216.24 | $126.63 | $43.25
78800 | S | Tumor imaging, limited area | 0292 | 4.36 | $216.24 | $126.63 | $43.25
78801 | S | Tumor imaging, mult areas | 0292 | 4.36 | $216.24 | $126.63 | $43.25
78802 | S | Tumor imaging, whole body | 0292 | 4.36 | $216.24 | $126.63 | $43.25
78803 | S | Tumor imaging (3D) | 0292 | 4.36 | $216.24 | $126.63 | $43.25
78805 | S | Abscess imaging, ltd area | 0292 | 4.36 | $216.24 | $126.63 | $43.25
78806 | S | Abscess imaging, whole body | 0292 | 4.36 | $216.24 | $126.63 | $43.25
78807 | S | Nuclear localization/abscess | 0292 | 4.36 | $216.24 | $126.63 | $43.25
78810 | E | Tumor imaging (PET) |  |  |  |  |
78890 | N | Nuclear medicine data proc |  |  |  |  |
78891 | N | Nuclear med data proc |  |  |  |  |
78990 | N | Provide diag radionuclide(s) |  |  |  |  |
78999 | S | Nuclear diagnostic exam | 0291 | 3.15 | $156.22 | $93.14 | $31.24
79000 | S | Init hyperthyroid therapy | 0294 | 5.13 | $254.43 | $144.06 | $50.89
79001 | S | Repeat hyperthyroid therapy | 0294 | 5.13 | $254.43 | $144.06 | $50.89
79020 | S | Thyroid ablation | 0294 | 5.13 | $254.43 | $144.06 | $50.89
79030 | S | Thyroid ablation, carcinoma | 0294 | 5.13 | $254.43 | $144.06 | $50.89
79035 | S | Thyroid metastatic therapy | 0294 | 5.13 | $254.43 | $144.06 | $50.89
79100 | S | Hematopoetic nuclear therapy | 0294 | 5.13 | $254.43 | $144.06 | $50.89
79200 | S | Intracavitary nuclear trmt | 0295 | 19.85 | $984.48 | $609.17 | $196.90
79300 | S | Interstitial nuclear therapy | 0294 | 5.13 | $254.43 | $144.06 | $50.89
79400 | S | Nonhemato nuclear therapy | 0295 | 19.85 | $984.48 | $609.17 | $196.90
79420 | S | Intravascular nuclear ther | 0295 | 19.85 | $984.48 | $609.17 | $196.90
79440 | S | Nuclear joint therapy | 0294 | 5.13 | $254.43 | $144.06 | $50.89
79900 | N | Provide ther radiopharm(s) |  |  |  |  |
79999 | S | Nuclear medicine therapy | 0294 | 5.13 | $254.43 | $144.06 | $50.89
80048 | A | Basic metabolic panel |  |  |  |  |
80050 | A | General health panel |  |  |  |  |
80051 | A | Electrolyte panel |  |  |  |  |
80053 | A | Comprehen metabolic panel |  |  |  |  |
80055 | A | Obstetric panel |  |  |  |  |
80061 | A | Lipid panel |  |  |  |  |
80069 | A | Renal function panel |  |  |  |  |
80072 | A | Arthritis panel |  |  |  |  |
80074 | A | Acute hepatitis panel |  |  |  |  |
80076 | A | Hepatic function panel |  |  |  |  |
80090 | A | Torch antibody panel |  |  |  |  |
80100 | A | Drug screen |  |  |  |  |
80101 | A | Drug screen |  |  |  |  |
80102 | A | Drug confirmation |  |  |  |  |
80103 | N | Drug analysis, tissue prep |  |  |  |  |
80150 | A | Assay of amikacin |  |  |  |  |
80152 | A | Assay of amitriptyline |  |  |  |  |
80154 | A | Assay of benzodiazepines |  |  |  |  |
80156 | A | Assay of carbamazepine |  |  |  |  |
*80157 | A | Assay of carbamazepine, free |  |  |  |  |
80158 | A | Assay of cyclosporine |  |  |  |  |
80160 | A | Assay of desipramine |  |  |  |  |
80162 | A | Assay of digoxin |  |  |  |  |
80164 | A | Assay, dipropylacetic acid |  |  |  |  |
80166 | A | Assay of doxepin |  |  |  |  |
80168 | A | Assay of ethosuximide |  |  |  |  |
80170 | A | Assay of gentamicin |  |  |  |  |
80172 | A | Assay of gold |  |  |  |  |
*80173 | A | Assay of haloperidol |  |  |  |  |
80174 | A | Assay of imipramine |  |  |  |  |
80176 | A | Assay of lidocaine |  |  |  |  |
80178 | A | Assay of lithium |  |  |  |  |
80182 | A | Assay of nortriptyline |  |  |  |  |
80184 | A | Assay of phenobarbital |  |  |  |  |
80185 | A | Assay of phenytoin, total |  |  |  |  |
80186 | A | Assay of phenytoin, free |  |  |  |  |
80188 | A | Assay of primidone |  |  |  |  |
80190 | A | Assay of procainamide |  |  |  |  |
80192 | A | Assay of procainamide |  |  |  |  |
80194 | A | Assay of quinidine |  |  |  |  |
80196 | A | Assay of salicylate |  |  |  |  |
80197 | A | Assay of tacrolimus |  |  |  |  |
80198 | A | Assay of theophylline |  |  |  |  |
80200 | A | Assay of tobramycin |  |  |  |  |
80201 | A | Assay of topiramate |  |  |  |  |
80202 | A | Assay of vancomycin |  |  |  |  |
80299 | A | Quantitative assay, drug |  |  |  |  |
80400 | A | Acth stimulation panel |  |  |  |  |
80402 | A | Acth stimulation panel |  |  |  |  |
80406 | A | Acth stimulation panel |  |  |  |  |
80408 | A | Aldosterone suppression eval |  |  |  |  |
80410 | A | Calcitonin stimul panel |  |  |  |  |
80412 | A | CRH stimulation panel |  |  |  |  |
80414 | A | Testosterone response |  |  |  |  |
80415 | A | Estradiol response panel |  |  |  |  |
80416 | A | Renin stimulation panel |  |  |  |  |
80417 | A | Renin stimulation panel |  |  |  |  |
80418 | A | Pituitary evaluation panel |  |  |  |  |
80420 | A | Dexamethasone panel |  |  |  |  |
80422 | A | Glucagon tolerance panel |  |  |  |  |
80424 | A | Glucagon tolerance panel |  |  |  |  |
80426 | A | Gonadotropin hormone panel |  |  |  |  |
80428 | A | Growth hormone panel |  |  |  |  |
80430 | A | Growth hormone panel |  |  |  |  |
80432 | A | Insulin suppression panel |  |  |  |  |
80434 | A | Insulin tolerance panel |  |  |  |  |
80435 | A | Insulin tolerance panel |  |  |  |  |
80436 | A | Metyrapone panel |  |  |  |  |
80438 | A | TRH stimulation panel |  |  |  |  |
80439 | A | TRH stimulation panel |  |  |  |  |
80440 | A | TRH stimulation panel |  |  |  |  |
80500 | X | Lab pathology consultation | 0343 | 0.45 | $22.32 | $12.16 | $4.46
80502 | X | Lab pathology consultation | 0343 | 0.45 | $22.32 | $12.16 | $4.46
81000 | A | Urinalysis, nonauto w/scope |  |  |  |  |
81001 | A | Urinalysis, auto w/scope |  |  |  |  |
81002 | A | Urinalysis nonauto w/o scope |  |  |  |  |
81003 | A | Urinalysis, auto, w/o scope |  |  |  |  |
81005 | A | Urinalysis |  |  |  |  |
81007 | A | Urine screen for bacteria |  |  |  |  |
81015 | A | Microscopic exam of urine |  |  |  |  |
81020 | A | Urinalysis, glass test |  |  |  |  |
81025 | A | Urine pregnancy test |  |  |  |  |
81050 | A | Urinalysis, volume measure |  |  |  |  |
81099 | X | Urinalysis test procedure | 0349 | 0.48 | $23.65 | $4.73 | $4.73
82000 | A | Assay of blood acetaldehyde |  |  |  |  |
82003 | A | Assay of acetaminophen |  |  |  |  |
82009 | A | Test for acetone/ketones |  |  |  |  |
82010 | A | Acetone assay |  |  |  |  |
82013 | A | Acetylcholinesterase assay |  |  |  |  |
82016 | A | Acylcarnitines, qual |  |  |  |  |
82017 | A | Acylcarnitines, quant |  |  |  |  |
82024 | A | Assay of acth |  |  |  |  |
82030 | A | Assay of adp & amp |  |  |  |  |
82040 | A | Assay of serum albumin |  |  |  |  |
82042 | A | Assay of urine albumin |  |  |  |  |
82043 | A | Microalbumin, quantitative |  |  |  |  |
82044 | A | Microalbumin, semiquant |  |  |  |  |
82055 | A | Assay of ethanol |  |  |  |  |
82075 | A | Assay of breath ethanol |  |  |  |  |
82085 | A | Assay of aldolase |  |  |  |  |
82088 | A | Assay of aldosterone |  |  |  |  |
82101 | A | Assay of urine alkaloids |  |  |  |  |
82103 | A | Alpha-1-antitrypsin, total |  |  |  |  |
82104 | A | Alpha-1-antitrypsin, pheno |  |  |  |  |
82105 | A | Alpha-fetoprotein, serum |  |  |  |  |
82106 | A | Alpha-fetoprotein, amniotic |  |  |  |  |
82108 | A | Assay of aluminum |  |  |  |  |
82120 | A | Amines, vaginal fluid qual |  |  |  |  |
82127 | A | Amino acid, single qual |  |  |  |  |
82128 | A | Amino acids, mult qual |  |  |  |  |
82131 | A | Amino acids, single quant |  |  |  |  |
82135 | A | Assay, aminolevulinic acid |  |  |  |  |
82136 | A | Amino acids, quant, 2-5 |  |  |  |  |
82139 | A | Amino acids, quan, 6 or more |  |  |  |  |
82140 | A | Assay of ammonia |  |  |  |  |
82143 | A | Amniotic fluid scan |  |  |  |  |
82145 | A | Assay of amphetamines |  |  |  |  |
82150 | A | Assay of amylase |  |  |  |  |
82154 | A | Androstanediol glucuronide |  |  |  |  |
82157 | A | Assay of androstenedione |  |  |  |  |
82160 | A | Assay of androsterone |  |  |  |  |
82163 | A | Assay of angiotensin II |  |  |  |  |
82164 | A | Angiotensin I enzyme test |  |  |  |  |
82172 | A | Assay of apolipoprotein |  |  |  |  |
82175 | A | Assay of arsenic |  |  |  |  |
82180 | A | Assay of ascorbic acid |  |  |  |  |
82190 | A | Atomic absorption |  |  |  |  |
82205 | A | Assay of barbiturates |  |  |  |  |
82232 | A | Assay of beta-2 protein |  |  |  |  |
82239 | A | Bile acids, total |  |  |  |  |
82240 | A | Bile acids, cholylglycine |  |  |  |  |
82247 | A | Bilirubin, total |  |  |  |  |
82248 | A | Bilirubin, direct |  |  |  |  |
82251D | A | Assay of bilirubin |  |  |  |  |
82252 | A | Fecal bilirubin test |  |  |  |  |
82261 | A | Assay of biotinidase |  |  |  |  |
82270 | A | Test for blood, feces |  |  |  |  |
82273 | A | Test for blood, other source |  |  |  |  |
82286 | A | Assay of bradykinin |  |  |  |  |
82300 | A | Assay of cadmium |  |  |  |  |
82306 | A | Assay of vitamin D |  |  |  |  |
82307 | A | Assay of vitamin D |  |  |  |  |
82308 | A | Assay of calcitonin |  |  |  |  |
82310 | A | Assay of calcium |  |  |  |  |
82330 | A | Assay of calcium |  |  |  |  |
82331 | A | Calcium infusion test |  |  |  |  |
82340 | A | Assay of calcium in urine |  |  |  |  |
82355 | A | Calculus (stone) analysis |  |  |  |  |
82360 | A | Calculus (stone) assay |  |  |  |  |
82365 | A | Calculus (stone) assay |  |  |  |  |
82370 | A | X-ray assay, calculus |  |  |  |  |
*82373 | A | Carb deficient transferrin |  |  |  |  |
82374 | A | Assay, blood carbon dioxide |  |  |  |  |
82375 | A | Assay, blood carbon monoxide |  |  |  |  |
82376 | A | Test for carbon monoxide |  |  |  |  |
82378 | A | Carcinoembryonic antigen |  |  |  |  |
82379 | A | Assay of carnitine |  |  |  |  |
82380 | A | Assay of carotene |  |  |  |  |
82382 | A | Assay, urine catecholamines |  |  |  |  |
82383 | A | Assay, blood catecholamines |  |  |  |  |
82384 | A | Assay, three catecholamines |  |  |  |  |
82387 | A | Assay of cathepsin-d |  |  |  |  |
82390 | A | Assay of ceruloplasmin |  |  |  |  |
82397 | A | Chemiluminescent assay |  |  |  |  |
82415 | A | Assay of chloramphenicol |  |  |  |  |
82435 | A | Assay of blood chloride |  |  |  |  |
82436 | A | Assay of urine chloride |  |  |  |  |
82438 | A | Assay, other fluid chlorides |  |  |  |  |
82441 | A | Test for chlorohydrocarbons |  |  |  |  |
82465 | A | Assay of serum cholesterol |  |  |  |  |
82480 | A | Assay, serum cholinesterase |  |  |  |  |
82482 | A | Assay, rbc cholinesterase |  |  |  |  |
82485 | A | Assay, chondroitin sulfate |  |  |  |  |
82486 | A | Gas/liquid chromatography |  |  |  |  |
82487 | A | Paper chromatography |  |  |  |  |
82488 | A | Paper chromatography |  |  |  |  |
82489 | A | Thin layer chromatography |  |  |  |  |
82491 | A | Chromotography, quant, sing |  |  |  |  |
82492 | A | Chromotography, quant, mult |  |  |  |  |
82495 | A | Assay of chromium |  |  |  |  |
82507 | A | Assay of citrate |  |  |  |  |
82520 | A | Assay of cocaine |  |  |  |  |
82523 | A | Collagen crosslinks |  |  |  |  |
82525 | A | Assay of copper |  |  |  |  |
82528 | A | Assay of corticosterone |  |  |  |  |
82530 | A | Cortisol, free |  |  |  |  |
82533 | A | Total cortisol |  |  |  |  |
82540 | A | Assay of creatine |  |  |  |  |
82541 | A | Column chromotography, qual |  |  |  |  |
82542 | A | Column chromotography, quant |  |  |  |  |
82543 | A | Column chromotograph/isotope |  |  |  |  |
82544 | A | Column chromotograph/isotope |  |  |  |  |
82550 | A | Assay of ck (cpk) |  |  |  |  |
82552 | A | Assay of cpk in blood |  |  |  |  |
82553 | A | Creatine, MB fraction |  |  |  |  |
82554 | A | Creatine, isoforms |  |  |  |  |
82565 | A | Assay of creatinine |  |  |  |  |
82570 | A | Assay of urine creatinine |  |  |  |  |
82575 | A | Creatinine clearance test |  |  |  |  |
82585 | A | Assay of cryofibrinogen |  |  |  |  |
82595 | A | Assay of cryoglobulin |  |  |  |  |
82600 | A | Assay of cyanide |  |  |  |  |
82607 | A | Vitamin B-12 |  |  |  |  |
82608 | A | B-12 binding capacity |  |  |  |  |
82615 | A | Test for urine cystines |  |  |  |  |
82626 | A | Dehydroepiandrosterone |  |  |  |  |
82627 | A | Dehydroepiandrosterone |  |  |  |  |
82633 | A | Desoxycorticosterone |  |  |  |  |
82634 | A | Deoxycortisol |  |  |  |  |
82638 | A | Assay of dibucaine number |  |  |  |  |
82646 | A | Assay of dihydrocodeinone |  |  |  |  |
82649 | A | Assay of dihydromorphinone |  |  |  |  |
82651 | A | Assay of dihydrotestosterone |  |  |  |  |
82652 | A | Assay of dihydroxyvitamin d |  |  |  |  |
82654 | A | Assay of dimethadione |  |  |  |  |
82657 | A | Enzyme cell activity |  |  |  |  |
82658 | A | Enzyme cell activity, ra |  |  |  |  |
82664 | A | Electrophoretic test |  |  |  |  |
82666 | A | Assay of epiandrosterone |  |  |  |  |
82668 | A | Assay of erythropoietin |  |  |  |  |
82670 | A | Assay of estradiol |  |  |  |  |
82671 | A | Assay of estrogens |  |  |  |  |
82672 | A | Assay of estrogen |  |  |  |  |
82677 | A | Assay of estriol |  |  |  |  |
82679 | A | Assay of estrone |  |  |  |  |
82690 | A | Assay of ethchlorvynol |  |  |  |  |
82693 | A | Assay of ethylene glycol |  |  |  |  |
82696 | A | Assay of etiocholanolone |  |  |  |  |
82705 | A | Fats/lipids, feces, qual |  |  |  |  |
82710 | A | Fats/lipids, feces, quant |  |  |  |  |
82715 | A | Assay of fecal fat |  |  |  |  |
82725 | A | Assay of blood fatty acids |  |  |  |  |
82726 | A | Long chain fatty acids |  |  |  |  |
82728 | A | Assay of ferritin |  |  |  |  |
82731 | A | Assay of fetal fibronectin |  |  |  |  |
82735 | A | Assay of fluoride |  |  |  |  |
82742 | A | Assay of flurazepam |  |  |  |  |
82746 | A | Blood folic acid serum |  |  |  |  |
82747 | A | Assay of folic acid, rbc |  |  |  |  |
82757 | A | Assay of semen fructose |  |  |  |  |
82759 | A | Assay of rbc galactokinase |  |  |  |  |
82760 | A | Assay of galactose |  |  |  |  |
82775 | A | Assay galactose transferase |  |  |  |  |
82776 | A | Galactose transferase test |  |  |  |  |
82784 | A | Assay of gammaglobulin igm |  |  |  |  |
82785 | A | Assay of gammaglobulin ige |  |  |  |  |
82787 | A | Igg 1, 2, 3 and 4 |  |  |  |  |
82800 | A | Blood pH |  |  |  |  |
82803 | A | Blood gases: pH, pO2 & pCO2 |  |  |  |  |
82805 | A | Blood gases W/O2 saturation |  |  |  |  |
82810 | A | Blood gases, O2 sat only |  |  |  |  |
82820 | A | Hemoglobin-oxygen affinity |  |  |  |  |
82926 | A | Assay of gastric acid |  |  |  |  |
82928 | A | Assay of gastric acid |  |  |  |  |
82938 | A | Gastrin test |  |  |  |  |
82941 | A | Assay of gastrin |  |  |  |  |
82943 | A | Assay of glucagon |  |  |  |  |
*82945 | A | Glucose, body fluid other than blood |  |  |  |  |
82946 | A | Glucagon tolerance test |  |  |  |  |
82947 | A | Assay of glucose, quant |  |  |  |  |
82948 | A | Reagent strip/blood glucose |  |  |  |  |
82950 | A | Glucose test |  |  |  |  |
82951 | A | Glucose tolerance test (GTT) |  |  |  |  |
82952 | A | GTT-added samples |  |  |  |  |
82953 | A | Glucose-tolbutamide test |  |  |  |  |
82955 | A | Assay of g6pd enzyme |  |  |  |  |
82960 | A | Test for G6PD enzyme |  |  |  |  |
82962 | A | Glucose blood test |  |  |  |  |
82963 | A | Assay of glucosidase |  |  |  |  |
82965 | A | Assay of gdh enzyme |  |  |  |  |
82975 | A | Assay of glutamine |  |  |  |  |
82977 | A | Assay of GGT |  |  |  |  |
82978 | A | Assay of glutathione |  |  |  |  |
82979 | A | Assay, rbc glutathione |  |  |  |  |
82980 | A | Assay of glutethimide |  |  |  |  |
82985 | A | Glycated protein |  |  |  |  |
83001 | A | Gonadotropin (FSH) |  |  |  |  |
83002 | A | Gonadotropin (LH) |  |  |  |  |
83003 | A | Assay, growth hormone (hgh) |  |  |  |  |
83008 | A | Assay of guanosine |  |  |  |  |
83010 | A | Assay of haptoglobin, quant |  |  |  |  |
83012 | A | Assay of haptoglobins |  |  |  |  |
83013 | A | H pylori breath tst analysis |  |  |  |  |
83014 | A | H pylori drug admin/collect |  |  |  |  |
83015 | A | Heavy metal screen |  |  |  |  |
83018 | A | Quantitative screen, metals |  |  |  |  |
83020 | A | Hemoglobin electrophoresis |  |  |  |  |
83021 | A | Hemoglobin chromotography |  |  |  |  |
83026 | A | Hemoglobin, copper sulfate |  |  |  |  |
83030 | A | Fetal hemoglobin assay |  |  |  |  |
83033 | A | Fetal fecal hemoglobin assay |  |  |  |  |
83036 | A | Glycated hemoglobin test |  |  |  |  |
83045 | A | Blood methemoglobin test |  |  |  |  |
83050 | A | Blood methemoglobin assay |  |  |  |  |
83051 | A | Assay of plasma hemoglobin |  |  |  |  |
83055 | A | Blood sulfhemoglobin test |  |  |  |  |
83060 | A | Blood sulfhemoglobin assay |  |  |  |  |
83065 | A | Assay of hemoglobin heat |  |  |  |  |
83068 | A | Hemoglobin stability screen |  |  |  |  |
83069 | A | Assay of urine hemoglobin |  |  |  |  |
83070 | A | Assay of hemosiderin, qual |  |  |  |  |
83071 | A | Assay of hemosiderin, quant |  |  |  |  |
83080 | A | Assay of b hexosaminidase |  |  |  |  |
83088 | A | Assay of histamine |  |  |  |  |
*83090 | A | Homocystine |  |  |  |  |
83150 | A | Assay of for hva |  |  |  |  |
83491 | A | Assay of corticosteroids |  |  |  |  |
83497 | A | Assay of 5-hiaa |  |  |  |  |
83498 | A | Assay of progesterone |  |  |  |  |
83499 | A | Assay of progesterone |  |  |  |  |
83500 | A | Assay, free hydroxyproline |  |  |  |  |
83505 | A | Assay, total hydroxyproline |  |  |  |  |
83516 | A | Immunoassay, nonantibody |  |  |  |  |
83518 | A | Immunoassay, dipstick |  |  |  |  |
83519 | A | Immunoassay, nonantibody |  |  |  |  |
83520 | A | Immunoassay, RIA |  |  |  |  |
83525 | A | Assay of insulin |  |  |  |  |
83527 | A | Assay of insulin |  |  |  |  |
83528 | A | Assay of intrinsic factor |  |  |  |  |
83540 | A | Assay of iron |  |  |  |  |
83550 | A | Iron binding test |  |  |  |  |
83570 | A | Assay of idh enzyme |  |  |  |  |
83582 | A | Assay of ketogenic steroids |  |  |  |  |
83586 | A | Assay 17- ketosteroids |  |  |  |  |
83593 | A | Fractionation, ketosteroids |  |  |  |  |
83605 | A | Assay of lactic acid |  |  |  |  |
83615 | A | Lactate (LD) (LDH) enzyme |  |  |  |  |
83625 | A | Assay of ldh enzymes |  |  |  |  |
83632 | A | Placental lactogen |  |  |  |  |
83633 | A | Test urine for lactose |  |  |  |  |
83634 | A | Assay of urine for lactose |  |  |  |  |
83655 | A | Assay of lead |  |  |  |  |
83661 | A | Assay of l/s ratio |  |  |  |  |
83662 | A | L/S ratio, foam stability |  |  |  |  |
*83663 | A | Fetal lung maturity, fluor polar |  |  |  |  |
*83664 | A | Fetal lung maturity, lam body dens |  |  |  |  |
83670 | A | Assay of lap enzyme |  |  |  |  |
83690 | A | Assay of lipase |  |  |  |  |
83715 | A | Assay of blood lipoproteins |  |  |  |  |
83716 | A | Assay of blood lipoproteins |  |  |  |  |
83718 | A | Assay of lipoprotein |  |  |  |  |
83719 | A | Assay of blood lipoprotein |  |  |  |  |
83721 | A | Assay of blood lipoprotein |  |  |  |  |
83727 | A | Assay of lrh hormone |  |  |  |  |
83735 | A | Assay of magnesium |  |  |  |  |
83775 | A | Assay of md enzyme |  |  |  |  |
83785 | A | Assay of manganese |  |  |  |  |
83788 | A | Mass spectrometry qual |  |  |  |  |
83789 | A | Mass spectrometry quant |  |  |  |  |
83805 | A | Assay of meprobamate |  |  |  |  |
83825 | A | Assay of mercury |  |  |  |  |
83835 | A | Assay of metanephrines |  |  |  |  |
83840 | A | Assay of methadone |  |  |  |  |
83857 | A | Assay of methemalbumin |  |  |  |  |
83858 | A | Assay of methsuximide |  |  |  |  |
83864 | A | Mucopolysaccharides |  |  |  |  |
83866 | A | Mucopolysaccharides screen |  |  |  |  |
83872 | A | Assay synovial fluid mucin |  |  |  |  |
83873 | A | Assay of csf protein |  |  |  |  |
83874 | A | Assay of myoglobin |  |  |  |  |
83883 | A | Assay, nephelometry not spec |  |  |  |  |
83885 | A | Assay of nickel |  |  |  |  |
83887 | A | Assay of nicotine |  |  |  |  |
83890 | A | Molecule isolate |  |  |  |  |
83891 | A | Molecule isolate nucleic |  |  |  |  |
83892 | A | Molecular diagnostics |  |  |  |  |
83893 | A | Molecule dot/slot/blot |  |  |  |  |
83894 | A | Molecule gel electrophor |  |  |  |  |
83896 | A | Molecular diagnostics |  |  |  |  |
83897 | A | Molecule nucleic transfer |  |  |  |  |
83898 | A | Molecule nucleic ampli |  |  |  |  |
83901 | A | Molecule nucleic ampli |  |  |  |  |
83902 | A | Molecular diagnostics |  |  |  |  |
83903 | A | Molecule mutation scan |  |  |  |  |
83904 | A | Molecule mutation identify |  |  |  |  |
83905 | A | Molecule mutation identify |  |  |  |  |
83906 | A | Molecule mutation identify |  |  |  |  |
83912 | A | Genetic examination |  |  |  |  |
83915 | A | Assay of nucleotidase |  |  |  |  |
83916 | A | Oligoclonal bands |  |  |  |  |
83918 | A | Assay, organic acids quant |  |  |  |  |
83919 | A | Assay, organic acids qual |  |  |  |  |
*83921 | A | Assay, organic acid, single, quant |  |  |  |  |
83925 | A | Assay of opiates |  |  |  |  |
83930 | A | Assay of blood osmolality |  |  |  |  |
83935 | A | Assay of urine osmolality |  |  |  |  |
83937 | A | Assay of osteocalcin |  |  |  |  |
83945 | A | Assay of oxalate |  |  |  |  |
83970 | A | Assay of parathormone |  |  |  |  |
83986 | A | Assay of body fluid acidity |  |  |  |  |
83992 | A | Assay for phencyclidine |  |  |  |  |
84022 | A | Assay of phenothiazine |  |  |  |  |
84030 | A | Assay of blood pku |  |  |  |  |
84035 | A | Assay of phenylketones |  |  |  |  |
84060 | A | Assay acid phosphatase |  |  |  |  |
84061 | A | Phosphatase, forensic exam |  |  |  |  |
84066 | A | Assay prostate phosphatase |  |  |  |  |
84075 | A | Assay alkaline phosphatase |  |  |  |  |
84078 | A | Assay alkaline phosphatase |  |  |  |  |
84080 | A | Assay alkaline phosphatases |  |  |  |  |
84081 | A | Amniotic fluid enzyme test |  |  |  |  |
84085 | A | Assay of rbc pg6d enzyme |  |  |  |  |
84087 | A | Assay phosphohexose enzymes |  |  |  |  |
84100 | A | Assay of phosphorus |  |  |  |  |
84105 | A | Assay of urine phosphorus |  |  |  |  |
84106 | A | Test for porphobilinogen |  |  |  |  |
84110 | A | Assay of porphobilinogen |  |  |  |  |
84119 | A | Test urine for porphyrins |  |  |  |  |
84120 | A | Assay of urine porphyrins |  |  |  |  |
84126 | A | Assay of feces porphyrins |  |  |  |  |
84127 | A | Assay of feces porphyrins |  |  |  |  |
84132 | A | Assay of serum potassium |  |  |  |  |
84133 | A | Assay of urine potassium |  |  |  |  |
84134 | A | Assay of prealbumin |  |  |  |  |
84135 | A | Assay of pregnanediol |  |  |  |  |
84138 | A | Assay of pregnanetriol |  |  |  |  |
84140 | A | Assay of pregnenolone |  |  |  |  |
84143 | A | Assay of 17-hydroxypregneno |  |  |  |  |
84144 | A | Assay of progesterone |  |  |  |  |
84146 | A | Assay of prolactin |  |  |  |  |
84150 | A | Assay of prostaglandin |  |  |  |  |
*84152 | A | PSA, complexed |  |  |  |  |
84153 | A | Assay of psa, total |  |  |  |  |
84154 | A | Assay of psa, free |  |  |  |  |
84155 | A | Assay of protein |  |  |  |  |
84160 | A | Assay of serum protein |  |  |  |  |
84165 | A | Assay of serum proteins |  |  |  |  |
84181 | A | Western blot test |  |  |  |  |
84182 | A | Protein, western blot test |  |  |  |  |
84202 | A | Assay RBC protoporphyrin |  |  |  |  |
84203 | A | Test RBC protoporphyrin |  |  |  |  |
84206 | A | Assay of proinsulin |  |  |  |  |
84207 | A | Assay of vitamin b-6 |  |  |  |  |
84210 | A | Assay of pyruvate |  |  |  |  |
84220 | A | Assay of pyruvate kinase |  |  |  |  |
84228 | A | Assay of quinine |  |  |  |  |
84233 | A | Assay of estrogen |  |  |  |  |
84234 | A | Assay of progesterone |  |  |  |  |
84235 | A | Assay of endocrine hormone |  |  |  |  |
84238 | A | Assay, nonendocrine receptor |  |  |  |  |
84244 | A | Assay of renin |  |  |  |  |
84252 | A | Assay of vitamin b-2 |  |  |  |  |
84255 | A | Assay of selenium |  |  |  |  |
84260 | A | Assay of serotonin |  |  |  |  |
84270 | A | Assay of sex hormone globul |  |  |  |  |
84275 | A | Assay of sialic acid |  |  |  |  |
84285 | A | Assay of silica |  |  |  |  |
84295 | A | Assay of serum sodium |  |  |  |  |
84300 | A | Assay of urine sodium |  |  |  |  |
84305 | A | Assay of somatomedin |  |  |  |  |
84307 | A | Assay of somatostatin |  |  |  |  |
84311 | A | Spectrophotometry |  |  |  |  |
84315 | A | Body fluid specific gravity |  |  |  |  |
84375 | A | Chromatogram assay, sugars |  |  |  |  |
84376 | A | Sugars, single, qual |  |  |  |  |
84377 | A | Sugars, multiple, qual |  |  |  |  |
84378 | A | Sugars single quant |  |  |  |  |
84379 | A | Sugars multiple quant |  |  |  |  |
84392 | A | Assay of urine sulfate |  |  |  |  |
84402 | A | Assay of testosterone |  |  |  |  |
84403 | A | Assay of total testosterone |  |  |  |  |
84425 | A | Assay of vitamin b-1 |  |  |  |  |
84430 | A | Assay of thiocyanate |  |  |  |  |
84432 | A | Assay of thyroglobulin |  |  |  |  |
84436 | A | Assay of total thyroxine |  |  |  |  |
84437 | A | Assay of neonatal thyroxine |  |  |  |  |
84439 | A | Assay of free thyroxine |  |  |  |  |
84442 | A | Assay of thyroid activity |  |  |  |  |
84443 | A | Assay thyroid stim hormone |  |  |  |  |
84445 | A | Assay of tsi |  |  |  |  |
84446 | A | Assay of vitamin e |  |  |  |  |
84449 | A | Assay of transcortin |  |  |  |  |
84450 | A | Transferase (AST) (SGOT) |  |  |  |  |
84460 | A | Alanine amino (ALT) (SGPT) |  |  |  |  |
84466 | A | Assay of transferrin |  |  |  |  |
84478 | A | Assay of triglycerides |  |  |  |  |
84479 | A | Assay of thyroid (t3 or t4) |  |  |  |  |
84480 | A | Assay, triiodothyronine (t3) |  |  |  |  |
84481 | A | Free assay (FT-3) |  |  |  |  |
84482 | A | T3 reverse |  |  |  |  |
84484 | A | Assay of troponin, quant |  |  |  |  |
84485 | A | Assay duodenal fluid trypsin |  |  |  |  |
84488 | A | Test feces for trypsin |  |  |  |  |
84490 | A | Assay of feces for trypsin |  |  |  |  |
84510 | A | Assay of tyrosine |  |  |  |  |
84512 | A | Assay of troponin, qual |  |  |  |  |
84520 | A | Assay of urea nitrogen |  |  |  |  |
84525 | A | Urea nitrogen semi-quant |  |  |  |  |
84540 | A | Assay of urine/urea-n |  |  |  |  |
84545 | A | Urea-N clearance test |  |  |  |  |
84550 | A | Assay of blood/uric acid |  |  |  |  |
84560 | A | Assay of urine/uric acid |  |  |  |  |
84577 | A | Assay of feces/urobilinogen |  |  |  |  |
84578 | A | Test urine urobilinogen |  |  |  |  |
84580 | A | Assay of urine urobilinogen |  |  |  |  |
84583 | A | Assay of urine urobilinogen |  |  |  |  |
84585 | A | Assay of urine vma |  |  |  |  |
84586 | A | Assay of vip |  |  |  |  |
84588 | A | Assay of vasopressin |  |  |  |  |
84590 | A | Assay of vitamin a |  |  |  |  |
*84591 | A | Vitamin, NOS |  |  |  |  |
84597 | A | Assay of vitamin k |  |  |  |  |
84600 | A | Assay of volatiles |  |  |  |  |
84620 | A | Xylose tolerance test |  |  |  |  |
84630 | A | Assay of zinc |  |  |  |  |
84681 | A | Assay of c-peptide |  |  |  |  |
84702 | A | Chorionic gonadotropin test |  |  |  |  |
84703 | A | Chorionic gonadotropin assay |  |  |  |  |
84830 | A | Ovulation tests |  |  |  |  |
84999 | X | Clinical chemistry test | 0349 | 0.48 | $23.65 | $4.73 | $4.73
85002 | A | Bleeding time test |  |  |  |  |
85007 | A | Differential WBC count |  |  |  |  |
85008 | A | Nondifferential WBC count |  |  |  |  |
85009 | A | Differential WBC count |  |  |  |  |
85013 | A | Hematocrit |  |  |  |  |
85014 | A | Hematocrit |  |  |  |  |
85018 | A | Hemoglobin |  |  |  |  |
85021 | A | Automated hemogram |  |  |  |  |
85022 | A | Automated hemogram |  |  |  |  |
85023 | A | Automated hemogram |  |  |  |  |
85024 | A | Automated hemogram |  |  |  |  |
85025 | A | Automated hemogram |  |  |  |  |
85027 | A | Automated hemogram |  |  |  |  |
85031 | A | Manual hemogram, cbc |  |  |  |  |
85041 | A | Red blood cell (RBC) count |  |  |  |  |
85044 | A | Reticulocyte count |  |  |  |  |
85045 | A | Reticulocyte count |  |  |  |  |
85046 | A | Reticyte/hgb concentrate |  |  |  |  |
85048 | A | White blood cell (WBC) count |  |  |  |  |
85060 | X | Blood smear interpretation | 0342 | 0.26 | $12.90 | $8.03 | $2.58
85095 | T | Bone marrow aspiration | 0003 | 0.98 | $48.61 | $27.99 | $9.72
85097 | X | Bone marrow interpretation | 0344 | 0.79 | $39.18 | $23.63 | $7.84
85102 | T | Bone marrow biopsy | 0003 | 0.98 | $48.61 | $27.99 | $9.72
85130 | A | Chromogenic substrate assay |  |  |  |  |
85170 | A | Blood clot retraction |  |  |  |  |
85175 | A | Blood clot lysis time |  |  |  |  |
85210 | A | Blood clot factor II test |  |  |  |  |
85220 | A | Blood clot factor V test |  |  |  |  |
85230 | A | Blood clot factor VII test |  |  |  |  |
85240 | A | Blood clot factor VIII test |  |  |  |  |
85244 | A | Blood clot factor VIII test |  |  |  |  |
85245 | A | Blood clot factor VIII test |  |  |  |  |
85246 | A | Blood clot factor VIII test |  |  |  |  |
85247 | A | Blood clot factor VIII test |  |  |  |  |
85250 | A | Blood clot factor IX test |  |  |  |  |
85260 | A | Blood clot factor X test |  |  |  |  |
85270 | A | Blood clot factor XI test |  |  |  |  |
85280 | A | Blood clot factor XII test |  |  |  |  |
85290 | A | Blood clot factor XIII test |  |  |  |  |
85291 | A | Blood clot factor XIII test |  |  |  |  |
85292 | A | Blood clot factor assay |  |  |  |  |
85293 | A | Blood clot factor assay |  |  |  |  |
85300 | A | Antithrombin III test |  |  |  |  |
85301 | A | Antithrombin III test |  |  |  |  |
85302 | A | Blood clot inhibitor antigen |  |  |  |  |
85303 | A | Blood clot inhibitor test |  |  |  |  |
85305 | A | Blood clot inhibitor assay |  |  |  |  |
85306 | A | Blood clot inhibitor test |  |  |  |  |
*85307 | A | Activated protein C resistance |  |  |  |  |
85335 | A | Factor inhibitor test |  |  |  |  |
85337 | A | Thrombomodulin |  |  |  |  |
85345 | A | Coagulation time |  |  |  |  |
85347 | A | Coagulation time |  |  |  |  |
85348 | A | Coagulation time |  |  |  |  |
85360 | A | Euglobulin lysis |  |  |  |  |
85362 | A | Fibrin degradation products |  |  |  |  |
85366 | A | Fibrinogen test |  |  |  |  |
85370 | A | Fibrinogen test |  |  |  |  |
85378 | A | Fibrin degradation |  |  |  |  |
85379 | A | Fibrin degradation |  |  |  |  |
85384 | A | Fibrinogen |  |  |  |  |
85385 | A | Fibrinogen |  |  |  |  |
85390 | A | Fibrinolysins screen |  |  |  |  |
85400 | A | Fibrinolytic plasmin |  |  |  |  |
85410 | A | Fibrinolytic antiplasmin |  |  |  |  |
85415 | A | Fibrinolytic plasminogen |  |  |  |  |
85420 | A | Fibrinolytic plasminogen |  |  |  |  |
85421 | A | Fibrinolytic plasminogen |  |  |  |  |
85441 | A | Heinz bodies, direct |  |  |  |  |
85445 | A | Heinz bodies, induced |  |  |  |  |
85460 | A | Hemoglobin, fetal |  |  |  |  |
85461 | A | Hemoglobin, fetal |  |  |  |  |
85475 | A | Hemolysin |  |  |  |  |
85520 | A | Heparin assay |  |  |  |  |
85525 | A | Heparin |  |  |  |  |
85530 | A | Heparin-protamine tolerance |  |  |  |  |
85535 | A | Iron stain, blood cells |  |  |  |  |
*85536 | A | Iron stain, peripheral blood |  |  |  |  |
85540 | A | Wbc alkaline phosphatase |  |  |  |  |
85547 | A | RBC mechanical fragility |  |  |  |  |
85549 | A | Muramidase |  |  |  |  |
85555 | A | RBC osmotic fragility |  |  |  |  |
85557 | A | RBC osmotic fragility |  |  |  |  |
85576 | A | Blood platelet aggregation |  |  |  |  |
85585 | A | Blood platelet estimation |  |  |  |  |
85590 | A | Platelet count, manual |  |  |  |  |
85595 | A | Platelet count, automated |  |  |  |  |
85597 | A | Platelet neutralization |  |  |  |  |
85610 | A | Prothrombin time |  |  |  |  |
85611 | A | Prothrombin test |  |  |  |  |
85612 | A | Viper venom prothrombin time |  |  |  |  |
85613 | A | Russell viper venom, diluted |  |  |  |  |
85635 | A | Reptilase test |  |  |  |  |
85651 | A | Rbc sed rate, nonautomated |  |  |  |  |
85652 | A | Rbc sed rate, automated |  |  |  |  |
85660 | A | RBC sickle cell test |  |  |  |  |
85670 | A | Thrombin time, plasma |  |  |  |  |
85675 | A | Thrombin time, titer |  |  |  |  |
85705 | A | Thromboplastin inhibition |  |  |  |  |
85730 | A | Thromboplastin time, partial |  |  |  |  |
85732 | A | Thromboplastin time, partial |  |  |  |  |
85810 | A | Blood viscosity examination |  |  |  |  |
85999 | X | Hematology procedure | 0349 | 0.48 | $23.65 | $4.73 | $4.73
86000 | A | Agglutinins, febrile |  |  |  |  |
*86001 | A | Allergen specific IgE, quant/semiquant |  |  |  |  |
86003 | A | Allergen specific IgE |  |  |  |  |
86005 | A | Allergen specific IgE |  |  |  |  |
86021 | A | WBC antibody identification |  |  |  |  |
86022 | A | Platelet antibodies |  |  |  |  |
86023 | A | Immunoglobulin assay |  |  |  |  |
86038 | A | Antinuclear antibodies |  |  |  |  |
86039 | A | Antinuclear antibodies (ANA) |  |  |  |  |
86060 | A | Antistreptolysin o, titer |  |  |  |  |
86063 | A | Antistreptolysin o, screen |  |  |  |  |
86077 | X | Physician blood bank service | 0343 | 0.45 | $22.32 | $12.16 | $4.46
86078 | X | Physician blood bank service | 0344 | 0.79 | $39.18 | $23.63 | $7.84
86079 | X | Physician blood bank service | 0344 | 0.79 | $39.18 | $23.63 | $7.84
86140 | A | C-reactive protein |  |  |  |  |
*86146 | A | Beta 2 glycoprotein I antibody |  |  |  |  |
86147 | A | Cardiolipin antibody |  |  |  |  |
86148 | A | Phospholipid antibody |  |  |  |  |
86155 | A | Chemotaxis assay |  |  |  |  |
86156 | A | Cold agglutinin, screen |  |  |  |  |
86157 | A | Cold agglutinin, titer |  |  |  |  |
86160 | A | Complement, antigen |  |  |  |  |
86161 | A | Complement/function activity |  |  |  |  |
86162 | A | Complement, total (CH50) |  |  |  |  |
86171 | A | Complement fixation, each |  |  |  |  |
86185 | A | Counterimmunoelectrophoresis |  |  |  |  |
86215 | A | Deoxyribonuclease, antibody |  |  |  |  |
86225 | A | DNA antibody |  |  |  |  |
86226 | A | DNA antibody, single strand |  |  |  |  |
86235 | A | Nuclear antigen antibody |  |  |  |  |
86243 | A | Fc receptor |  |  |  |  |
86255 | A | Fluorescent antibody, screen |  |  |  |  |
86256 | A | Fluorescent antibody, titer |  |  |  |  |
86277 | A | Growth hormone antibody |  |  |  |  |
86280 | A | Hemagglutination inhibition |  |  |  |  |
*86294 | A | Tumor antigen, qual or semiquant |  |  |  |  |
*86300 | A | Tumor antigen, quant; CA 15-3 |  |  |  |  |
*86301 | A | Tumor antigen, quant; CA 19-9 |  |  |  |  |
*86304 | A | Tumor antigen, quant; CA 125 |  |  |  |  |
86308 | A | Heterophile antibodies |  |  |  |  |
86309 | A | Heterophile antibodies |  |  |  |  |
86310 | A | Heterophile antibodies |  |  |  |  |
86316 | A | Immunoassay, tumor antigen |  |  |  |  |
86317 | A | Immunoassay,infectious agent |  |  |  |  |
86318 | A | Immunoassay,infectious agent |  |  |  |  |
86320 | A | Serum immunoelectrophoresis |  |  |  |  |
86325 | A | Other immunoelectrophoresis |  |  |  |  |
86327 | A | Immunoelectrophoresis assay |  |  |  |  |
86329 | A | Immunodiffusion |  |  |  |  |
86331 | A | Immunodiffusion ouchterlony |  |  |  |  |
86332 | A | Immune complex assay |  |  |  |  |
86334 | A | Immunofixation procedure |  |  |  |  |
86337 | A | Insulin antibodies |  |  |  |  |
86340 | A | Intrinsic factor antibody |  |  |  |  |
86341 | A | Islet cell antibody |  |  |  |  |
86343 | A | Leukocyte histamine release |  |  |  |  |
86344 | A | Leukocyte phagocytosis |  |  |  |  |
86353 | A | Lymphocyte transformation |  |  |  |  |
86359 | A | T cells, total count |  |  |  |  |
86360 | A | T cell, absolute count/ratio |  |  |  |  |
86361 | A | T cell, absolute count |  |  |  |  |
86376 | A | Microsomal antibody |  |  |  |  |
86378 | A | Migration inhibitory factor |  |  |  |  |
86382 | A | Neutralization test, viral |  |  |  |  |
86384 | A | Nitroblue tetrazolium dye |  |  |  |  |
86403 | A | Particle agglutination test |  |  |  |  |
86406 | A | Particle agglutination test |  |  |  |  |
86430 | A | Rheumatoid factor test |  |  |  |  |
86431 | A | Rheumatoid factor, quant |  |  |  |  |
86485 | X | Skin test, candida | 0341 | 0.13 | $6.44 | $3.67 | $1.29
86490 | X | Coccidioidomycosis skin test | 0341 | 0.13 | $6.44 | $3.67 | $1.29
86510 | X | Histoplasmosis skin test | 0341 | 0.13 | $6.44 | $3.67 | $1.29
86580 | X | TB intradermal test | 0341 | 0.13 | $6.44 | $3.67 | $1.29
86585 | X | TB tine test | 0341 | 0.13 | $6.44 | $3.67 | $1.29
86586 | X | Skin test, unlisted | 0341 | 0.13 | $6.44 | $3.67 | $1.29
86590 | A | Streptokinase, antibody |  |  |  |  |
86592 | A | Blood serology, qualitative |  |  |  |  |
86593 | A | Blood serology, quantitative |  |  |  |  |
86602 | A | Antinomyces antibody |  |  |  |  |
86603 | A | Adenovirus antibody |  |  |  |  |
86606 | A | Aspergillus antibody |  |  |  |  |
86609 | A | Bacterium antibody |  |  |  |  |
*86611 | A | Bartonella antibody |  |  |  |  |
86612 | A | Blastomyces antibody |  |  |  |  |
86615 | A | Bordetella antibody |  |  |  |  |
86617 | A | Lyme disease antibody |  |  |  |  |
86618 | A | Lyme disease antibody |  |  |  |  |
86619 | A | Borrelia antibody |  |  |  |  |
86622 | A | Brucella antibody |  |  |  |  |
86625 | A | Campylobacter antibody |  |  |  |  |
86628 | A | Candida antibody |  |  |  |  |
86631 | A | Chlamydia antibody |  |  |  |  |
86632 | A | Chlamydia igm antibody |  |  |  |  |
86635 | A | Coccidioides antibody |  |  |  |  |
86638 | A | Q fever antibody |  |  |  |  |
86641 | A | Cryptococcus antibody |  |  |  |  |
86644 | A | CMV antibody |  |  |  |  |
86645 | A | CMV antibody, IgM |  |  |  |  |
86648 | A | Diphtheria antibody |  |  |  |  |
86651 | A | Encephalitis antibody |  |  |  |  |
86652 | A | Encephalitis antibody |  |  |  |  |
86653 | A | Encephalitis antibody |  |  |  |  |
86654 | A | Encephalitis antibody |  |  |  |  |
86658 | A | Enterovirus antibody |  |  |  |  |
86663 | A | Epstein-barr antibody |  |  |  |  |
86664 | A | Epstein-barr antibody |  |  |  |  |
86665 | A | Epstein-barr antibody |  |  |  |  |
*86666 | A | Erlichia antibody |  |  |  |  |
86668 | A | Francisella tularensis |  |  |  |  |
86671 | A | Fungus antibody |  |  |  |  |
86674 | A | Giardia lamblia antibody |  |  |  |  |
86677 | A | Helicobacter pylori |  |  |  |  |
86682 | A | Helminth antibody |  |  |  |  |
*86683 | A | Fecal hgb antibody |  |  |  |  |
86684 | A | Hemophilus influenza |  |  |  |  |
86687 | A | Htlv-i antibody |  |  |  |  |
86688 | A | Htlv-ii antibody |  |  |  |  |
86689 | A | HTLV/HIV confirmatory test |  |  |  |  |
86692 | A | Hepatitis, delta agent |  |  |  |  |
*86696 | A | Herpes simplex type 2 antibody |  |  |  |  |
86694 | A | Herpes simplex test |  |  |  |  |
86695 | A | Herpes simplex test |  |  |  |  |
86698 | A | Histoplasma |  |  |  |  |
86701 | A | HIV-1 |  |  |  |  |
86702 | A | HIV-2 |  |  |  |  |
86703 | A | HIV-1/HIV-2, single assay |  |  |  |  |
86704 | A | Hep b core antibody, igg/igm |  |  |  |  |
86705 | A | Hep b core antibody, igm |  |  |  |  |
86706 | A | Hep b surface antibody |  |  |  |  |
86707 | A | Hep be antibody |  |  |  |  |
86708 | A | Hep a antibody, igg/igm |  |  |  |  |
86709 | A | Hep a antibody, igm |  |  |  |  |
86710 | A | Influenza virus antibody |  |  |  |  |
86713 | A | Legionella antibody |  |  |  |  |
86717 | A | Leishmania antibody |  |  |  |  |
86720 | A | Leptospira antibody |  |  |  |  |
86723 | A | Listeria monocytogenes ab |  |  |  |  |
86727 | A | Lymph choriomeningitis ab |  |  |  |  |
86729 | A | Lympho venereum antibody |  |  |  |  |
86732 | A | Mucormycosis antibody |  |  |  |  |
86735 | A | Mumps antibody |  |  |  |  |
86738 | A | Mycoplasma antibody |  |  |  |  |
86741 | A | Neisseria meningitidis |  |  |  |  |
86744 | A | Nocardia antibody |  |  |  |  |
86747 | A | Parvovirus antibody |  |  |  |  |
86750 | A | Malaria antibody |  |  |  |  |
86753 | A | Protozoa antibody nos |  |  |  |  |
86756 | A | Respiratory virus antibody |  |  |  |  |
*86757 | A | Rickettsia antibody |  |  |  |  |
86759 | A | Rotavirus antibody |  |  |  |  |
86762 | A | Rubella antibody |  |  |  |  |
86765 | A | Rubeola antibody |  |  |  |  |
86768 | A | Salmonella antibody |  |  |  |  |
86771 | A | Shigella antibody |  |  |  |  |
86774 | A | Tetanus antibody |  |  |  |  |
86777 | A | Toxoplasma antibody |  |  |  |  |
86778 | A | Toxoplasma antibody, igm |  |  |  |  |
86781 | A | Treponema pallidum, confirm |  |  |  |  |
86784 | A | Trichinella antibody |  |  |  |  |
86787 | A | Varicella-zoster antibody |  |  |  |  |
86790 | A | Virus antibody nos |  |  |  |  |
86793 | A | Yersinia antibody |  |  |  |  |
86800 | A | Thyroglobulin antibody |  |  |  |  |
86803 | A | Hepatitis c ab test |  |  |  |  |
86804 | A | Hep c ab test, confirm |  |  |  |  |
86805 | A | Lymphocytotoxicity assay |  |  |  |  |
86806 | A | Lymphocytotoxicity assay |  |  |  |  |
86807 | A | Cytotoxic antibody screening |  |  |  |  |
86808 | A | Cytotoxic antibody screening |  |  |  |  |
86812 | A | HLA typing, A, B, or C |  |  |  |  |
86813 | A | HLA typing, A, B, or C |  |  |  |  |
86816 | A | HLA typing, DR/DQ |  |  |  |  |
86817 | A | HLA typing, DR/DQ |  |  |  |  |
86821 | A | Lymphocyte culture, mixed |  |  |  |  |
86822 | A | Lymphocyte culture, primed |  |  |  |  |
86849 | X | Immunology procedure | 0349 | 0.48 | $23.65 | $4.73 | $4.73
86850 | X | RBC antibody screen | 0346 | 0.51 | $25.49 | $12.03 | $5.10
86860 | X | RBC antibody elution | 0345 | 0.22 | $10.92 | $5.37 | $2.18
86870 | X | RBC antibody identification | 0347 | 0.84 | $41.90 | $20.13 | $8.38
86880 | A | Coombs test |  |  |  |  |
86885 | A | Coombs test |  |  |  |  |
86886 | A | Coombs test |  |  |  |  |
86890 | X | Autologous blood process | 0347 | 0.84 | $41.90 | $20.13 | $8.38
86891 | X | Autologous blood, op salvage | 0345 | 0.22 | $10.92 | $5.37 | $2.18
86900 | A | Blood typing, ABO |  |  |  |  |
86901 | X | Blood typing, Rh (D) | 0345 | 0.22 | $10.92 | $5.37 | $2.18
86903 | A | Blood typing, antigen screen |  |  |  |  |
86904 | A | Blood typing, patient serum |  |  |  |  |
86905 | A | Blood typing, RBC antigens |  |  |  |  |
86906 | A | Blood typing, Rh phenotype |  |  |  |  |
86910 | E | Blood typing, paternity test |  |  |  |  |
86911 | E | Blood typing, antigen system |  |  |  |  |
86915 | X | Bone marrow/stem cell prep | 0347 | 0.84 | $41.90 | $20.13 | $8.38
86920 | X | Compatibility test | 0346 | 0.51 | $25.49 | $12.03 | $5.10
86921 | X | Compatibility test | 0346 | 0.51 | $25.49 | $12.03 | $5.10
86922 | X | Compatibility test | 0346 | 0.51 | $25.49 | $12.03 | $5.10
86927 | X | Plasma, fresh frozen | 0347 | 0.84 | $41.90 | $20.13 | $8.38
86930 | X | Frozen blood prep | 0347 | 0.84 | $41.90 | $20.13 | $8.38
86931 | X | Frozen blood thaw | 0347 | 0.84 | $41.90 | $20.13 | $8.38
86932 | X | Frozen blood freeze/thaw | 0347 | 0.84 | $41.90 | $20.13 | $8.38
86940 | A | Hemolysins/agglutinins, auto |  |  |  |  |
86941 | A | Hemolysins/agglutinins |  |  |  |  |
86945 | X | Blood product/irradiation | 0346 | 0.51 | $25.49 | $12.03 | $5.10
86950 | X | Leukacyte transfusion | 0347 | 0.84 | $41.90 | $20.13 | $8.38
86965 | X | Pooling blood platelets | 0346 | 0.51 | $25.49 | $12.03 | $5.10
86970 | X | RBC pretreatment | 0345 | 0.22 | $10.92 | $5.37 | $2.18
86971 | X | RBC pretreatment | 0346 | 0.51 | $25.49 | $12.03 | $5.10
86972 | X | RBC pretreatment | 0345 | 0.22 | $10.92 | $5.37 | $2.18
86975 | X | RBC pretreatment, serum | 0346 | 0.51 | $25.49 | $12.03 | $5.10
86976 | X | RBC pretreatment, serum | 0347 | 0.84 | $41.90 | $20.13 | $8.38
86977 | X | RBC pretreatment, serum | 0346 | 0.51 | $25.49 | $12.03 | $5.10
86978 | X | RBC pretreatment, serum | 0345 | 0.22 | $10.92 | $5.37 | $2.18
86985 | X | Split blood or products | 0347 | 0.84 | $41.90 | $20.13 | $8.38
86999 | X | Transfusion procedure | 0346 | 0.51 | $25.49 | $12.03 | $5.10
87001 | A | Small animal inoculation |  |  |  |  |
87003 | A | Small animal inoculation |  |  |  |  |
87015 | A | Specimen concentration |  |  |  |  |
87040 | A | Blood culture for bacteria |  |  |  |  |
87045 | A | Stool culture for bacteria |  |  |  |  |
*87046 | A | Stool culture for bacteria |  |  |  |  |
87060D | A | Nose/throat culture, bact |  |  |  |  |
87070 | A | Culture specimen, bacteria |  |  |  |  |
*87071 | A | Culture specimen, bacteria |  |  |  |  |
87072D | A | Culture of specimen by kit |  |  |  |  |
*87073 | A | Culture specimen, bacteria |  |  |  |  |
87075 | A | Culture specimen, bacteria |  |  |  |  |
87076 | A | Bacteria identification |  |  |  |  |
*87077 | A | Culture specimen, bacteria |  |  |  |  |
87081 | A | Bacteria culture screen |  |  |  |  |
87082 | A | Culture of specimen by kit |  |  |  |  |
87083D | A | Culture of specimen by kit |  |  |  |  |
87084 | A | Culture of specimen by kit |  |  |  |  |
87085D | A | Culture of specimen by kit |  |  |  |  |
87086 | A | Urine culture/colony count |  |  |  |  |
87087D | A | Urine bacteria culture |  |  |  |  |
87088 | A | Urine bacteria culture |  |  |  |  |
87101 | A | Skin fungus culture |  |  |  |  |
87102 | A | Fungus isolation culture |  |  |  |  |
87103 | A | Blood fungus culture |  |  |  |  |
87106 | A | Fungus identification |  |  |  |  |
*87107 | A | Culture specimen, fungi |  |  |  |  |
87109 | A | Mycoplasma culture |  |  |  |  |
87110 | A | Culture, chlamydia |  |  |  |  |
87116 | A | Mycobacteria culture |  |  |  |  |
87117D | A | Mycobacteria culture |  |  |  |  |
87118 | A | Mycobacteria identification |  |  |  |  |
87140 | A | Culture typing, fluorescent |  |  |  |  |
87143 | A | Culture typing, GLC method |  |  |  |  |
87145D | A | Culture typing, phage method |  |  |  |  |
87147 | A | Culture typing, serologic |  |  |  |  |
*87149 | A | Culture typing |  |  |  |  |
87151D | A | Culture typing, serologic |  |  |  |  |
*87152 | A | Culture typing |  |  |  |  |
87155D | A | Culture typing, precipitin |  |  |  |  |
87158 | A | Culture typing, added method |  |  |  |  |
87163D | A | Special microbiology culture |  |  |  |  |
87164 | A | Dark field examination |  |  |  |  |
87166 | A | Dark field examination |  |  |  |  |
*87168 | A | Macroscopic exam, arthropod |  |  |  |  |
*87169 | A | Macroscopic exam, arthropod |  |  |  |  |
*87172 | A | Pinworm exam |  |  |  |  |
87174D | A | Endotoxin, bacterial |  |  |  |  |
87175D | A | Assay, endotoxin, bacterial |  |  |  |  |
87176 | A | Endotoxin, bacterial |  |  |  |  |
87177 | A | Ova and parasites smears |  |  |  |  |
87181 | A | Antibiotic sensitivity, each |  |  |  |  |
87184 | A | Antibiotic sensitivity, each |  |  |  |  |
*87185 | A | Susceptibility study |  |  |  |  |
87186 | A | Antibiotic sensitivity, MIC |  |  |  |  |
87187 | A | Antibiotic sensitivity, MBC |  |  |  |  |
87188 | A | Antibiotic sensitivity, each |  |  |  |  |
87190 | A | TB antibiotic sensitivity |  |  |  |  |
87192D | A | Antibiotic sensitivity, each |  |  |  |  |
87197 | A | Bactericidal level, serum |  |  |  |  |
87205 | A | Smear, stain & interpret |  |  |  |  |
87206 | A | Smear, stain & interpret |  |  |  |  |
87207 | A | Smear, stain & interpret |  |  |  |  |
87208D | A | Smear, stain & interpret |  |  |  |  |
87210 | A | Smear, stain & interpret |  |  |  |  |
87211D | A | Smear, stain & interpret |  |  |  |  |
87220 | A | Tissue exam for fungi |  |  |  |  |
87230 | A | Assay, toxin or antitoxin |  |  |  |  |
87250 | A | Virus inoculation for test |  |  |  |  |
87252 | A | Virus inoculation for test |  |  |  |  |
87253 | A | Virus inoculation for test |  |  |  |  |
*87254 | A | Virus isolation |  |  |  |  |
87260 | A | Adenovirus ag, dfa |  |  |  |  |
87265 | A | Pertussis ag, dfa |  |  |  |  |
87270 | A | Chylmd trach ag, dfa |  |  |  |  |
87272 | A | Cryptosporidum ag, dfa |  |  |  |  |
*87273 | A | Identify infectious agent |  |  |  |  |
87274 | A | Herpes simplex ag, dfa |  |  |  |  |
*87275 | A | Identify infectious agent |  |  |  |  |
87276 | A | Influenza ag, dfa |  |  |  |  |
*87277 | A | Identify infectious agent |  |  |  |  |
87278 | A | Legion pneumo ag, dfa |  |  |  |  |
*87279 | A | Identify infectious agent |  |  |  |  |
87280 | A | Resp syncytial ag, dfa |  |  |  |  |
*87281 | A | Identify infectious agent |  |  |  |  |
*87283 | A | Identify infectious agent |  |  |  |  |
87285 | A | Trepon pallidum ag, dfa |  |  |  |  |
87290 | A | Varicella ag, dfa |  |  |  |  |
87299 | A | Ag detection nos, dfa |  |  |  |  |
*87300 | A | Identify infectious agent |  |  |  |  |
87301 | A | Adenovirus ag, eia |  |  |  |  |
87320 | A | Chylmd trach ag, eia |  |  |  |  |
87324 | A | Clostridium ag, eia |  |  |  |  |
*87327 | A | Identify infectious agent |  |  |  |  |
87328 | A | Cryptospor ag, eia |  |  |  |  |
87332 | A | Cytomegalovirus ag, eia |  |  |  |  |
87335 | A | E coli 0157 ag, eia |  |  |  |  |
*87336 | A | Identify infectious agent |  |  |  |  |
*87337 | A | Identify infectious agent |  |  |  |  |
87338 | A | Hpylori, stool, eia |  |  |  |  |
*87339 | A | Identify infectious agent |  |  |  |  |
87340 | A | Hepatitis b surface ag, eia |  |  |  |  |
*87341 | A | Identify infectious agent |  |  |  |  |
87350 | A | Hepatitis be ag, eia |  |  |  |  |
87380 | A | Hepatitis delta ag, eia |  |  |  |  |
87385 | A | Histoplasma capsul ag, eia |  |  |  |  |
87390 | A | Hiv-1 ag, eia |  |  |  |  |
87391 | A | Hiv-2 ag, eia |  |  |  |  |
*87400 | A | Identify infectious agent |  |  |  |  |
87420 | A | Resp syncytial ag, eia |  |  |  |  |
87425 | A | Rotavirus ag, eia |  |  |  |  |
*87427 | A | Identify infectious agent |  |  |  |  |
87430 | A | Strep a ag, eia |  |  |  |  |
87449 | A | Ag detect nos, eia, mult |  |  |  |  |
87450 | A | Ag detect nos, eia, single |  |  |  |  |
*87451 | A | Identify infectious agent |  |  |  |  |
87470 | A | Bartonella, dna, dir probe |  |  |  |  |
87471 | A | Bartonella, dna, amp probe |  |  |  |  |
87472 | A | Bartonella, dna, quant |  |  |  |  |
87475 | A | Lyme dis, dna, dir probe |  |  |  |  |
87476 | A | Lyme dis, dna, amp probe |  |  |  |  |
87477 | A | Lyme dis, dna, quant |  |  |  |  |
87480 | A | Candida, dna, dir probe |  |  |  |  |
87481 | A | Candida, dna, amp probe |  |  |  |  |
87482 | A | Candida, dna, quant |  |  |  |  |
87485 | A | Chylmd pneum, dna, dir probe |  |  |  |  |
87486 | A | Chylmd pneum, dna, amp probe |  |  |  |  |
87487 | A | Chylmd pneum, dna, quant |  |  |  |  |
87490 | A | Chylmd trach, dna, dir probe |  |  |  |  |
87491 | A | Chylmd trach, dna, amp probe |  |  |  |  |
87492 | A | Chylmd trach, dna, quant |  |  |  |  |
87495 | A | Cytomeg, dna, dir probe |  |  |  |  |
87496 | A | Cytomeg, dna, amp probe |  |  |  |  |
87497 | A | Cytomeg, dna, quant |  |  |  |  |
87510 | A | Gardner vag, dna, dir probe |  |  |  |  |
87511 | A | Gardner vag, dna, amp probe |  |  |  |  |
87512 | A | Gardner vag, dna, quant |  |  |  |  |
87515 | A | Hepatitis b, dna, dir probe |  |  |  |  |
87516 | A | Hepatitis b , dna, amp probe |  |  |  |  |
87517 | A | Hepatitis b , dna, quant |  |  |  |  |
87520 | A | Hepatitis c , rna, dir probe |  |  |  |  |
87521 | A | Hepatitis c , rna, amp probe |  |  |  |  |
87522 | A | Hepatitis c, rna, quant |  |  |  |  |
87525 | A | Hepatitis g , dna, dir probe |  |  |  |  |
87526 | A | Hepatitis g, dna, amp probe |  |  |  |  |
87527 | A | Hepatitis g, dna, quant |  |  |  |  |
87528 | A | Hsv, dna, dir probe |  |  |  |  |
87529 | A | Hsv, dna, amp probe |  |  |  |  |
87530 | A | Hsv, dna, quant |  |  |  |  |
87531 | A | Hhv-6, dna, dir probe |  |  |  |  |
87532 | A | Hhv-6, dna, amp probe |  |  |  |  |
87533 | A | Hhv-6, dna, quant |  |  |  |  |
87534 | A | Hiv-1, dna, dir probe |  |  |  |  |
87535 | A | Hiv-1, dna, amp probe |  |  |  |  |
87536 | A | Hiv-1, dna, quant |  |  |  |  |
87537 | A | Hiv-2, dna, dir probe |  |  |  |  |
87538 | A | Hiv-2, dna, amp probe |  |  |  |  |
87539 | A | Hiv-2, dna, quant |  |  |  |  |
87540 | A | Legion pneumo, dna, dir prob |  |  |  |  |
87541 | A | Legion pneumo, dna, amp prob |  |  |  |  |
87542 | A | Legion pneumo, dna, quant |  |  |  |  |
87550 | A | Mycobacteria, dna, dir probe |  |  |  |  |
87551 | A | Mycobacteria, dna, amp probe |  |  |  |  |
87552 | A | Mycobacteria, dna, quant |  |  |  |  |
87555 | A | M.tuberculo, dna, dir probe |  |  |  |  |
87556 | A | M.tuberculo, dna, amp probe |  |  |  |  |
87557 | A | M.tuberculo, dna, quant |  |  |  |  |
87560 | A | M.avium-intra, dna, dir prob |  |  |  |  |
87561 | A | M.avium-intra, dna, amp prob |  |  |  |  |
87562 | A | M.avium-intra, dna, quant |  |  |  |  |
87580 | A | M.pneumon, dna, dir probe |  |  |  |  |
87581 | A | M.pneumon, dna, amp probe |  |  |  |  |
87582 | A | M.pneumon, dna, quant |  |  |  |  |
87590 | A | N.gonorrhoeae, dna, dir prob |  |  |  |  |
87591 | A | N.gonorrhoeae, dna, amp prob |  |  |  |  |
87592 | A | N.gonorrhoeae, dna, quant |  |  |  |  |
87620 | A | Hpv, dna, dir probe |  |  |  |  |
87621 | A | Hpv, dna, amp probe |  |  |  |  |
87622 | A | Hpv, dna, quant |  |  |  |  |
87650 | A | Strep a, dna, dir probe |  |  |  |  |
87651 | A | Strep a, dna, amp probe |  |  |  |  |
87652 | A | Strep a, dna, quant |  |  |  |  |
87797 | A | Detect agent nos, dna, dir |  |  |  |  |
87798 | A | Detect agent nos, dna, amp |  |  |  |  |
87799 | A | Detect agent nos, dna, quant |  |  |  |  |
*87800 | A | Identify infectious agent |  |  |  |  |
*87801 | A | Identify infectious agent |  |  |  |  |
87810 | A | Chylmd trach assay w/optic |  |  |  |  |
87850 | A | N. gonorrhoeae assay w/optic |  |  |  |  |
87880 | A | Strep a assay w/optic |  |  |  |  |
87899 | A | Agent nos assay w/optic |  |  |  |  |
*87901 | A | Infectious agent genotype |  |  |  |  |
*87903 | A | Infectious agent phenotype |  |  |  |  |
*87904 | A | Infectious agent phenotype |  |  |  |  |
87999 | X | Microbiology procedure | 0349 | 0.48 | $23.65 | $4.73 | $4.73
88000 | E | Autopsy (necropsy), gross |  |  |  |  |
88005 | E | Autopsy (necropsy), gross |  |  |  |  |
88007 | E | Autopsy (necropsy), gross |  |  |  |  |
88012 | E | Autopsy (necropsy), gross |  |  |  |  |
88014 | E | Autopsy (necropsy), gross |  |  |  |  |
88016 | E | Autopsy (necropsy), gross |  |  |  |  |
88020 | E | Autopsy (necropsy), complete |  |  |  |  |
88025 | E | Autopsy (necropsy), complete |  |  |  |  |
88027 | E | Autopsy (necropsy), complete |  |  |  |  |
88028 | E | Autopsy (necropsy), complete |  |  |  |  |
88029 | E | Autopsy (necropsy), complete |  |  |  |  |
88036 | E | Limited autopsy |  |  |  |  |
88037 | E | Limited autopsy |  |  |  |  |
88040 | E | Forensic autopsy (necropsy) |  |  |  |  |
88045 | E | Coroner's autopsy (necropsy) |  |  |  |  |
88099 | E | Necropsy (autopsy) procedure |  |  |  |  |
88104 | X | Cytopathology, fluids | 0343 | 0.45 | $22.32 | $12.16 | $4.46
88106 | X | Cytopathology, fluids | 0343 | 0.45 | $22.32 | $12.16 | $4.46
88107 | X | Cytopathology, fluids | 0343 | 0.45 | $22.32 | $12.16 | $4.46
88108 | X | Cytopath, concentrate tech | 0343 | 0.45 | $22.32 | $12.16 | $4.46
88125 | X | Forensic cytopathology | 0343 | 0.45 | $22.32 | $12.16 | $4.46
88130 | A | Sex chromatin identification |  |  |  |  |
88140 | A | Sex chromatin identification |  |  |  |  |
88141 | N | Cytopath, c/v, interpret |  |  |  |  |
88142 | A | Cytopath, c/v, thin layer |  |  |  |  |
88143 | A | Cytopath c/v thin layer redo |  |  |  |  |
88144 | A | Cytopath, c/v thin lyr redo |  |  |  |  |
88145 | A | Cytopath, c/v thin lyr sel |  |  |  |  |
88147 | A | Cytopath, c/v, automated |  |  |  |  |
88148 | A | Cytopath, c/v, auto rescreen |  |  |  |  |
88150 | A | Cytopath, c/v, manual |  |  |  |  |
88152 | A | Cytopath, c/v, auto redo |  |  |  |  |
88153 | A | Cytopath, c/v, redo |  |  |  |  |
88154 | A | Cytopath, c/v, select |  |  |  |  |
88155 | A | Cytopath, c/v, index add-on |  |  |  |  |
88160 | X | Cytopath smear, other source | 0342 | 0.26 | $12.90 | $8.03 | $2.58
88161 | X | Cytopath smear, other source | 0343 | 0.45 | $22.32 | $12.16 | $4.46
88162 | X | Cytopath smear, other source | 0343 | 0.45 | $22.32 | $12.16 | $4.46
88164 | A | Cytopath tbs, c/v, manual |  |  |  |  |
88165 | A | Cytopath tbs, c/v, redo |  |  |  |  |
88166 | A | Cytopath tbs, c/v, auto redo |  |  |  |  |
88167 | A | Cytopath tbs, c/v, select |  |  |  |  |
88170 | T | Fine needle aspiration | 0002 | 0.62 | $30.75 | $17.66 | $6.15
88171 | T | Fine needle aspiration | 0002 | 0.62 | $30.75 | $17.66 | $6.15
88172 | X | Evaluation of smear | 0343 | 0.45 | $22.32 | $12.16 | $4.46
88173 | X | Interpretation of smear | 0343 | 0.45 | $22.32 | $12.16 | $4.46
88180 | X | Cell marker study | 0344 | 0.79 | $39.18 | $23.63 | $7.84
88182 | X | Cell marker study | 0344 | 0.79 | $39.18 | $23.63 | $7.84
88199 | X | Cytopathology procedure | 0349 | 0.48 | $23.65 | $4.73 | $4.73
88230 | A | Tissue culture, lymphocyte |  |  |  |  |
88233 | A | Tissue culture, skin/biopsy |  |  |  |  |
88235 | A | Tissue culture, placenta |  |  |  |  |
88237 | A | Tissue culture, bone marrow |  |  |  |  |
88239 | A | Tissue culture, tumor |  |  |  |  |
88240 | A | Cell cryopreserve/storage |  |  |  |  |
88241 | A | Frozen cell preparation |  |  |  |  |
88245 | A | Chromosome analysis, 20-25 |  |  |  |  |
88248 | A | Chromosome analysis, 50-100 |  |  |  |  |
88249 | A | Chromosome analysis, 100 |  |  |  |  |
88261 | A | Chromosome analysis, 5 |  |  |  |  |
88262 | A | Chromosome analysis, 15-20 |  |  |  |  |
88263 | A | Chromosome analysis, 45 |  |  |  |  |
88264 | A | Chromosome analysis, 20-25 |  |  |  |  |
88267 | A | Chromosome analys, placenta |  |  |  |  |
88269 | A | Chromosome analys, amniotic |  |  |  |  |
88271 | A | Cytogenetics, dna probe |  |  |  |  |
88272 | A | Cytogenetics, 3-5 |  |  |  |  |
88273 | A | Cytogenetics, 10-30 |  |  |  |  |
88274 | A | Cytogenetics, 25-99 |  |  |  |  |
88275 | A | Cytogenetics, 100-300 |  |  |  |  |
88280 | A | Chromosome karyotype study |  |  |  |  |
88283 | A | Chromosome banding study |  |  |  |  |
88285 | A | Chromosome count, additional |  |  |  |  |
88289 | A | Chromosome study, additional |  |  |  |  |
88291 | A | Cyto/molecular report |  |  |  |  |
88299 | X | Cytogenetic study | 0342 | 0.26 | $12.90 | $8.03 | $2.58
88300 | X | Surgical path, gross | 0342 | 0.26 | $12.90 | $8.03 | $2.58
88302 | X | Tissue exam by pathologist | 0342 | 0.26 | $12.90 | $8.03 | $2.58
88304 | X | Tissue exam by pathologist | 0343 | 0.45 | $22.32 | $12.16 | $4.46
88305 | X | Tissue exam by pathologist | 0343 | 0.45 | $22.32 | $12.16 | $4.46
88307 | X | Tissue exam by pathologist | 0344 | 0.79 | $39.18 | $23.63 | $7.84
88309 | X | Tissue exam by pathologist | 0344 | 0.79 | $39.18 | $23.63 | $7.84
88311 | X | Decalcify tissue | 0342 | 0.26 | $12.90 | $8.03 | $2.58
88312 | X | Special stains | 0343 | 0.45 | $22.32 | $12.16 | $4.46
88313 | X | Special stains | 0342 | 0.26 | $12.90 | $8.03 | $2.58
88314 | X | Histochemical stain | 0343 | 0.45 | $22.32 | $12.16 | $4.46
88318 | X | Chemical histochemistry | 0343 | 0.45 | $22.32 | $12.16 | $4.46
88319 | X | Enzyme histochemistry | 0342 | 0.26 | $12.90 | $8.03 | $2.58
88321 | X | Microslide consultation | 0342 | 0.26 | $12.90 | $8.03 | $2.58
88323 | X | Microslide consultation | 0343 | 0.45 | $22.32 | $12.16 | $4.46
88325 | X | Comprehensive review of data | 0343 | 0.45 | $22.32 | $12.16 | $4.46
88329 | X | Pathology consult in surgery | 0343 | 0.45 | $22.32 | $12.16 | $4.46
88331 | X | Pathology consult in surgery | 0343 | 0.45 | $22.32 | $12.16 | $4.46
88332 | X | Pathology consult in surgery | 0343 | 0.45 | $22.32 | $12.16 | $4.46
88342 | X | Immunocytochemistry | 0344 | 0.79 | $39.18 | $23.63 | $7.84
88346 | X | Immunofluorescent study | 0343 | 0.45 | $22.32 | $12.16 | $4.46
88347 | X | Immunofluorescent study | 0344 | 0.79 | $39.18 | $23.63 | $7.84
88348 | X | Electron microscopy | 0344 | 0.79 | $39.18 | $23.63 | $7.84
88349 | X | Scanning electron microscopy | 0344 | 0.79 | $39.18 | $23.63 | $7.84
88355 | X | Analysis, skeletal muscle | 0344 | 0.79 | $39.18 | $23.63 | $7.84
88356 | X | Analysis, nerve | 0344 | 0.79 | $39.18 | $23.63 | $7.84
88358 | X | Analysis, tumor | 0344 | 0.79 | $39.18 | $23.63 | $7.84
88362 | X | Nerve teasing preparations | 0343 | 0.45 | $22.32 | $12.16 | $4.46
88365 | X | Tissue hybridization | 0344 | 0.79 | $39.18 | $23.63 | $7.84
88371 | A | Protein, western blot tissue |  |  |  |  |
88372 | A | Protein analysis w/probe |  |  |  |  |
88399 | X | Surgical pathology procedure | 0349 | 0.48 | $23.65 | $4.73 | $4.73
*88400 | A | Bilirubin total, trascutaneous |  |  |  |  |
89050 | A | Body fluid cell count |  |  |  |  |
89051 | A | Body fluid cell count |  |  |  |  |
89060 | A | Exam,synovial fluid crystals |  |  |  |  |
89100 | X | Sample intestinal contents | 0361 | 3.53 | $175.07 | $88.09 | $35.01
89105 | X | Sample intestinal contents | 0360 | 1.38 | $68.44 | $34.75 | $13.69
89125 | A | Specimen fat stain |  |  |  |  |
89130 | X | Sample stomach contents | 0360 | 1.38 | $68.44 | $34.75 | $13.69
89132 | X | Sample stomach contents | 0360 | 1.38 | $68.44 | $34.75 | $13.69
89135 | X | Sample stomach contents | 0360 | 1.38 | $68.44 | $34.75 | $13.69
89136 | X | Sample stomach contents | 0360 | 1.38 | $68.44 | $34.75 | $13.69
89140 | X | Sample stomach contents | 0360 | 1.38 | $68.44 | $34.75 | $13.69
89141 | X | Sample stomach contents | 0361 | 3.53 | $175.07 | $88.09 | $35.01
89160 | A | Exam feces for meat fibers |  |  |  |  |
89190 | A | Nasal smear for eosinophils |  |  |  |  |
89250 | X | Fertilization of oocyte | 0348 | 0.52 | $25.57 | $5.11 | $5.11
89251 | X | Culture oocyte w/embryos | 0348 | 0.52 | $25.57 | $5.11 | $5.11
89252 | X | Assist oocyte fertilization | 0348 | 0.52 | $25.57 | $5.11 | $5.11
89253 | X | Embryo hatching | 0348 | 0.52 | $25.57 | $5.11 | $5.11
89254 | X | Oocyte identification | 0348 | 0.52 | $25.57 | $5.11 | $5.11
89255 | X | Prepare embryo for transfer | 0348 | 0.52 | $25.57 | $5.11 | $5.11
89256 | X | Prepare cryopreserved embryo | 0348 | 0.52 | $25.57 | $5.11 | $5.11
89257 | X | Sperm identification | 0348 | 0.52 | $25.57 | $5.11 | $5.11
89258 | X | Cryopreservation, embryo | 0348 | 0.52 | $25.57 | $5.11 | $5.11
89259 | X | Cryopreservation, sperm | 0348 | 0.52 | $25.57 | $5.11 | $5.11
89260 | X | Sperm isolation, simple | 0348 | 0.52 | $25.57 | $5.11 | $5.11
89261 | X | Sperm isolation, complex | 0348 | 0.52 | $25.57 | $5.11 | $5.11
89264 | X | Identify sperm tissue | 0348 | 0.52 | $25.57 | $5.11 | $5.11
89300 | A | Semen analysis |  |  |  |  |
89310 | A | Semen analysis |  |  |  |  |
89320 | A | Semen analysis |  |  |  |  |
*89321 | A | Semen analysis |  |  |  |  |
89325 | A | Sperm antibody test |  |  |  |  |
89329 | A | Sperm evaluation test |  |  |  |  |
89330 | A | Evaluation, cervical mucus |  |  |  |  |
89350 | X | Sputum specimen collection | 0344 | 0.79 | $39.18 | $23.63 | $7.84
89355 | A | Exam feces for starch |  |  |  |  |
89360 | X | Collect sweat for test | 0344 | 0.79 | $39.18 | $23.63 | $7.84
89365 | A | Water load test |  |  |  |  |
89399 | X | Pathology lab procedure | 0349 | 0.48 | $23.65 | $4.73 | $4.73
90281 | E | Human ig, im |  |  |  |  |
90283 | E | Human ig, iv |  |  |  |  |
90287 | E | Botulinum antitoxin |  |  |  |  |
90288 | E | Botulism ig, iv |  |  |  |  |
90291 | E | Cmv ig, iv |  |  |  |  |
90296 | K | Diphtheria antitoxin | 0356 | 0.36 | $17.86 | $4.82 | $3.57
90371 | K | Hep b ig, im | 0356 | 0.36 | $17.86 | $4.82 | $3.57
90375 | K | Rabies ig, im/sc | 0356 | 0.36 | $17.86 | $4.82 | $3.57
90376 | K | Rabies ig, heat treated | 0356 | 0.36 | $17.86 | $4.82 | $3.57
90378 | K | Rsv ig, im | 0356 | 0.36 | $17.86 | $4.82 | $3.57
90379 | K | Rsv ig, iv | 0356 | 0.36 | $17.86 | $4.82 | $3.57
90384 | E | Rh ig, full-dose, im |  |  |  |  |
90385 | K | Rh ig, minidose, im | 0356 | 0.36 | $17.86 | $4.82 | $3.57
90386 | E | Rh ig, iv |  |  |  |  |
90389 | K | Tetanus ig, im | 0356 | 0.36 | $17.86 | $4.82 | $3.57
90393 | K | Vaccina ig, im | 0356 | 0.36 | $17.86 | $4.82 | $3.57
90396 | K | Varicella-zoster ig, im | 0356 | 0.36 | $17.86 | $4.82 | $3.57
90399 | E | Immune globulin |  |  |  |  |
90471 | N | Immunization admin |  |  |  |  |
90472 | N | Immunization admin, each add |  |  |  |  |
90476 | K | Adenovirus vaccine, type 4 | 0356 | 0.36 | $17.86 | $4.82 | $3.57
90477 | K | Adenovirus vaccine, type 7 | 0356 | 0.36 | $17.86 | $4.82 | $3.57
90581 | K | Anthrax vaccine, sc | 0356 | 0.36 | $17.86 | $4.82 | $3.57
90585 | K | Bcg vaccine, percut | 0356 | 0.36 | $17.86 | $4.82 | $3.57
90586 | K | Bcg vaccine, intravesical | 0356 | 0.36 | $17.86 | $4.82 | $3.57
90632 | K | Hep a vaccine, adult im | 0356 | 0.36 | $17.86 | $4.82 | $3.57
90633 | K | Hep a vacc, ped/adol, 2 dose | 0356 | 0.36 | $17.86 | $4.82 | $3.57
90634 | K | Hep a vacc, ped/adol, 3 dose | 0356 | 0.36 | $17.86 | $4.82 | $3.57
90636 | K | Hep a/hep b vacc, adult im | 0356 | 0.36 | $17.86 | $4.82 | $3.57
90645 | K | Hib vaccine, hboc, im | 0355 | 0.19 | $9.42 | $5.05 | $1.88
90646 | K | Hib vaccine, prp-d, im | 0355 | 0.19 | $9.42 | $5.05 | $1.88
90647 | K | Hib vaccine, prp-omp, im | 0355 | 0.19 | $9.42 | $5.05 | $1.88
90648 | K | Hib vaccine, prp-t, im | 0355 | 0.19 | $9.42 | $5.05 | $1.88
90657 | K | Flu vaccine, 6-35 mo, im | 0354 | 0.13 | $6.33 |  |
90658 | K | Flu vaccine, 3 yrs, im | 0354 | 0.13 | $6.33 |  |
90659 | K | Flu vaccine, whole, im | 0354 | 0.13 | $6.33 |  |
90660 | K | Flu vaccine, nasal | 0354 | 0.13 | $6.33 |  |
90665 | K | Lyme disease vaccine, im | 0356 | 0.36 | $17.86 | $4.82 | $3.57
90669 | K | Pneumococcal vaccine, ped | 0356 | 0.36 | $17.86 | $4.82 | $3.57
90675 | K | Rabies vaccine, im | 0356 | 0.36 | $17.86 | $4.82 | $3.57
90676 | K | Rabies vaccine, id | 0356 | 0.36 | $17.86 | $4.82 | $3.57
90680 | K | Rotovirus vaccine, oral | 0356 | 0.36 | $17.86 | $4.82 | $3.57
90690 | K | Typhoid vaccine, oral | 0356 | 0.36 | $17.86 | $4.82 | $3.57
90691 | K | Typhoid vaccine, im | 0356 | 0.36 | $17.86 | $4.82 | $3.57
90692 | K | Typhoid vaccine, h-p, sc/id | 0356 | 0.36 | $17.86 | $4.82 | $3.57
90693 | K | Typhoid vaccine, akd, sc | 0356 | 0.36 | $17.86 | $4.82 | $3.57
90700 | K | Dtap vaccine, im | 0355 | 0.19 | $9.42 | $5.05 | $1.88
90701 | K | Dtp vaccine, im | 0356 | 0.36 | $17.86 | $4.82 | $3.57
90702 | K | Dt vaccine, im | 0355 | 0.19 | $9.42 | $5.05 | $1.88
90703 | K | Tetanus vaccine, im | 0356 | 0.36 | $17.86 | $4.82 | $3.57
90704 | K | Mumps vaccine, sc | 0355 | 0.19 | $9.42 | $5.05 | $1.88
90705 | K | Measles vaccine, sc | 0356 | 0.36 | $17.86 | $4.82 | $3.57
90706 | K | Rubella vaccine, sc | 0356 | 0.36 | $17.86 | $4.82 | $3.57
90707 | K | Mmr vaccine, sc | 0356 | 0.36 | $17.86 | $4.82 | $3.57
90708 | K | Measles-rubella vaccine, sc | 0356 | 0.36 | $17.86 | $4.82 | $3.57
90709 | K | Rubella & mumps vaccine, sc | 0356 | 0.36 | $17.86 | $4.82 | $3.57
90710 | K | Mmrv vaccine, sc | 0356 | 0.36 | $17.86 | $4.82 | $3.57
90712 | K | Oral poliovirus vaccine | 0356 | 0.36 | $17.86 | $4.82 | $3.57
90713 | K | Poliovirus, ipv, sc | 0355 | 0.19 | $9.42 | $5.05 | $1.88
90716 | K | Chicken pox vaccine, sc | 0355 | 0.19 | $9.42 | $5.05 | $1.88
90717 | K | Yellow fever vaccine, sc | 0356 | 0.36 | $17.86 | $4.82 | $3.57
90718 | K | Td vaccine, im | 0356 | 0.36 | $17.86 | $4.82 | $3.57
90719 | K | Diphtheria vaccine, im | 0356 | 0.36 | $17.86 | $4.82 | $3.57
90720 | K | Dtp/hib vaccine, im | 0355 | 0.19 | $9.42 | $5.05 | $1.88
90721 | K | Dtap/hib vaccine, im | 0355 | 0.19 | $9.42 | $5.05 | $1.88
*90723 | K | DTAP-HepB-IPV vaccine | 0356 | 0.36 | $17.86 | $4.82 | $3.57
90725 | K | Cholera vaccine, injectable | 0356 | 0.36 | $17.86 | $4.82 | $3.57
90727 | K | Plague vaccine, im | 0355 | 0.19 | $9.42 | $5.05 | $1.88
90732 | K | Pneumococcal vaccine, adult | 0354 | 0.13 | $6.33 |  |
90733 | K | Meningococcal vaccine, sc | 0356 | 0.36 | $17.86 | $4.82 | $3.57
90735 | K | Encephalitis vaccine, sc | 0356 | 0.36 | $17.86 | $4.82 | $3.57
*90740 | K | Hep B vaccine, 3 dose sched | 0356 | 0.36 | $17.86 | $4.82 | $3.57
*90743 | K | Hep B vaccine, 2 dose sched | 0356 | 0.36 | $17.86 | $4.82 | $3.57
90744 | K | Hep b vaccine, ped/adol, im | 0356 | 0.36 | $17.86 | $4.82 | $3.57
90746 | K | Hep b vaccine, adult, im | 0356 | 0.36 | $17.86 | $4.82 | $3.57
90747 | K | Hep b vaccine, ill pat, im | 0356 | 0.36 | $17.86 | $4.82 | $3.57
90748 | K | Hep b/hib vaccine, im | 0356 | 0.36 | $17.86 | $4.82 | $3.57
90749 | K | Vaccine toxoid | 0355 | 0.19 | $9.42 | $5.05 | $1.88
90780 | E | IV infusion therapy, 1 hour |  |  |  |  |
90781 | E | IV infusion, additional hour |  |  |  |  |
90782 | X | Injection, sc/im | 0359 | 0.96 | $47.61 | $9.52 | $9.52
90783 | X | Injection, ia | 0359 | 0.96 | $47.61 | $9.52 | $9.52
90784 | X | Injection, iv | 0359 | 0.96 | $47.61 | $9.52 | $9.52
90788 | X | Injection of antibiotic | 0359 | 0.96 | $47.61 | $9.52 | $9.52
90799 | X | Ther/prophylactic/dx inject | 0359 | 0.96 | $47.61 | $9.52 | $9.52
90801 | S | Psy dx interview | 0323 | 1.85 | $91.75 | $22.48 | $18.35
90802 | S | Intac psy dx interview | 0323 | 1.85 | $91.75 | $22.48 | $18.35
90804 | S | Psytx, office, 20-30 min | 0322 | 1.32 | $65.46 | $14.22 | $13.09
90805 | S | Psytx, off, 20-30 min w/e&m | 0322 | 1.32 | $65.46 | $14.22 | $13.09
90806 | S | Psytx, off, 45-50 min | 0323 | 1.85 | $91.75 | $22.48 | $18.35
90807 | S | Psytx, off, 45-50 min w/e&m | 0323 | 1.85 | $91.75 | $22.48 | $18.35
90808 | S | Psytx, office, 75-80 min | 0323 | 1.85 | $91.75 | $22.48 | $18.35
90809 | S | Psytx, off, 75-80, w/e&m | 0323 | 1.85 | $91.75 | $22.48 | $18.35
90810 | S | Intac psytx, off, 20-30 min | 0322 | 1.32 | $65.46 | $14.22 | $13.09
90811 | S | Intac psytx, 20-30, w/e&m | 0322 | 1.32 | $65.46 | $14.22 | $13.09
90812 | S | Intac psytx, off, 45-50 min | 0323 | 1.85 | $91.75 | $22.48 | $18.35
90813 | S | Intac psytx, 45-50 min w/e&m | 0323 | 1.85 | $91.75 | $22.48 | $18.35
90814 | S | Intac psytx, off, 75-80 min | 0323 | 1.85 | $91.75 | $22.48 | $18.35
90815 | S | Intac psytx, 75-80 w/e&m | 0323 | 1.85 | $91.75 | $22.48 | $18.35
90816 | S | Psytx, hosp, 20-30 min | 0322 | 1.32 | $65.46 | $14.22 | $13.09
90817 | S | Psytx, hosp, 20-30 min w/e&m | 0322 | 1.32 | $65.46 | $14.22 | $13.09
90818 | S | Psytx, hosp, 45-50 min | 0323 | 1.85 | $91.75 | $22.48 | $18.35
90819 | S | Psytx, hosp, 45-50 min w/e&m | 0323 | 1.85 | $91.75 | $22.48 | $18.35
90821 | S | Psytx, hosp, 75-80 min | 0323 | 1.85 | $91.75 | $22.48 | $18.35
90822 | S | Psytx, hosp, 75-80 min w/e&m | 0323 | 1.85 | $91.75 | $22.48 | $18.35
90823 | S | Intac psytx, hosp, 20-30 min | 0322 | 1.32 | $65.46 | $14.22 | $13.09
90824 | S | Intac psytx, hsp 20-30 w/e&m | 0322 | 1.32 | $65.46 | $14.22 | $13.09
90826 | S | Intac psytx, hosp, 45-50 min | 0323 | 1.85 | $91.75 | $22.48 | $18.35
90827 | S | Intac psytx, hsp 45-50 w/e&m | 0323 | 1.85 | $91.75 | $22.48 | $18.35
90828 | S | Intac psytx, hosp, 75-80 min | 0323 | 1.85 | $91.75 | $22.48 | $18.35
90829 | S | Intac psytx, hsp 75-80 w/e&m | 0323 | 1.85 | $91.75 | $22.48 | $18.35
90845 | S | Psychoanalysis | 0323 | 1.85 | $91.75 | $22.48 | $18.35
90846 | S | Family psytx w/o patient | 0324 | 1.87 | $92.74 | $20.19 | $18.55
90847 | S | Family psytx w/patient | 0324 | 1.87 | $92.74 | $20.19 | $18.55
90849 | S | Multiple family group psytx | 0325 | 1.55 | $76.88 | $19.96 | $15.38
90853 | S | Group psychotherapy | 0325 | 1.55 | $76.88 | $19.96 | $15.38
90857 | S | Intac group psytx | 0325 | 1.55 | $76.88 | $19.96 | $15.38
90862 | X | Medication management | 0374 | 1.17 | $58.03 | $13.08 | $11.61
90865 | S | Narcosynthesis | 0323 | 1.85 | $91.75 | $22.48 | $18.35
90870 | S | Electroconvulsive therapy | 0320 | 3.68 | $182.51 | $80.06 | $36.50
90871 | S | Electroconvulsive therapy | 0320 | 3.68 | $182.51 | $80.06 | $36.50
90875 | E | Psychophysiological therapy |  |  |  |  |
90876 | E | Psychophysiological therapy |  |  |  |  |
90880 | S | Hypnotherapy | 0323 | 1.85 | $91.75 | $22.48 | $18.35
90882 | E | Environmental manipulation |  |  |  |  |
90885 | N | Psy evaluation of records |  |  |  |  |
90887 | N | Consultation with family |  |  |  |  |
90889 | N | Preparation of report |  |  |  |  |
90899 | S | Psychiatric service/therapy | 0322 | 1.32 | $65.46 | $14.22 | $13.09
90901 | S | Biofeedback train, any meth | 0321 | 1.26 | $62.49 | $29.25 | $12.50
90911 | S | Biofeedback peri/uro/rectal | 0321 | 1.26 | $62.49 | $29.25 | $12.50
90918 | A | ESRD related services, month |  |  |  |  |
90919 | A | ESRD related services, month |  |  |  |  |
90920 | A | ESRD related services, month |  |  |  |  |
90921 | A | ESRD related services, month |  |  |  |  |
90922 | A | ESRD related services, day |  |  |  |  |
90923 | A | Esrd related services, day |  |  |  |  |
90924 | A | Esrd related services, day |  |  |  |  |
90925 | A | Esrd related services, day |  |  |  |  |
90935 | S | Hemodialysis, one evaluation | 0170 | 6.68 | $331.30 | $72.26 | $66.26
90937 | E | Hemodialysis, repeated eval |  |  |  |  |
*90940 | N | Hemodyalysis access study |  |  |  |  |
90945 | S | Dialysis, one evaluation | 0170 | 6.68 | $331.30 | $72.26 | $66.26
90947 | E | Dialysis, repeated eval |  |  |  |  |
90989 | E | Dialysis training, complete |  |  |  |  |
90993 | E | Dialysis training, incompl |  |  |  |  |
90997 | E | Hemoperfusion |  |  |  |  |
90999 | E | Dialysis procedure |  |  |  |  |
91000 | X | Esophageal intubation | 0361 | 3.53 | $175.07 | $88.09 | $35.01
91010 | X | Esophagus motility study | 0361 | 3.53 | $175.07 | $88.09 | $35.01
91011 | X | Esophagus motility study | 0361 | 3.53 | $175.07 | $88.09 | $35.01
91012 | X | Esophagus motility study | 0361 | 3.53 | $175.07 | $88.09 | $35.01
91020 | X | Gastric motility | 0361 | 3.53 | $175.07 | $88.09 | $35.01
91030 | X | Acid perfusion of esophagus | 0360 | 1.38 | $68.44 | $34.75 | $13.69
91032 | X | Esophagus, acid reflux test | 0361 | 3.53 | $175.07 | $88.09 | $35.01
91033 | X | Prolonged acid reflux test | 0361 | 3.53 | $175.07 | $88.09 | $35.01
91052 | X | Gastric analysis test | 0361 | 3.53 | $175.07 | $88.09 | $35.01
91055 | X | Gastric intubation for smear | 0360 | 1.38 | $68.44 | $34.75 | $13.69
91060 | X | Gastric saline load test | 0361 | 3.53 | $175.07 | $88.09 | $35.01
91065 | X | Breath hydrogen test | 0360 | 1.38 | $68.44 | $34.75 | $13.69
91100 | X | Pass intestine bleeding tube | 0360 | 1.38 | $68.44 | $34.75 | $13.69
91105 | X | Gastric intubation treatment | 0360 | 1.38 | $68.44 | $34.75 | $13.69
91122 | T | Anal pressure record | 0165 | 3.89 | $192.92 | $91.76 | $38.58
*91132 | X | Electrogastrography | 0360 | 1.38 | $68.44 | $34.75 | $13.69
*91133 | X | Electrogastrography | 0360 | 1.38 | $68.44 | $34.75 | $13.69
91299 | X | Gastroenterology procedure | 0360 | 1.38 | $68.44 | $34.75 | $13.69
92002 | V | Eye exam, new patient | 0601 | 1.00 | $49.60 | $9.92 | $9.92
92004 | V | Eye exam, new patient | 0602 | 1.66 | $82.33 | $16.47 | $16.47
92012 | V | Eye exam established pat | 0601 | 1.00 | $49.60 | $9.92 | $9.92
92014 | V | Eye exam & treatment | 0602 | 1.66 | $82.33 | $16.47 | $16.47
92015 | E | Refraction |  |  |  |  |
92018 | S | New eye exam & treatment | 0231 | 2.64 | $130.94 | $59.87 | $26.19
92019 | S | Eye exam & treatment | 0231 | 2.64 | $130.94 | $59.87 | $26.19
92020 | S | Special eye evaluation | 0230 | 0.98 | $48.61 | $22.48 | $9.72
92060 | S | Special eye evaluation | 0230 | 0.98 | $48.61 | $22.48 | $9.72
92065 | S | Orthoptic/pleoptic training | 0230 | 0.98 | $48.61 | $22.48 | $9.72
92070 | N | Fitting of contact lens |  |  |  |  |
92081 | S | Visual field examination(s) | 0230 | 0.98 | $48.61 | $22.48 | $9.72
92082 | S | Visual field examination(s) | 0230 | 0.98 | $48.61 | $22.48 | $9.72
92083 | S | Visual field examination(s) | 0230 | 0.98 | $48.61 | $22.48 | $9.72
92100 | N | Serial tonometry exam(s) |  |  |  |  |
92120 | S | Tonography & eye evaluation | 0230 | 0.98 | $48.61 | $22.48 | $9.72
92130 | S | Water provocation tonography | 0230 | 0.98 | $48.61 | $22.48 | $9.72
92135 | S | Opthalmic dx imaging | 0231 | 2.64 | $130.94 | $59.87 | $26.19
92140 | S | Glaucoma provocative tests | 0231 | 2.64 | $130.94 | $59.87 | $26.19
92225 | S | Special eye exam, initial | 0230 | 0.98 | $48.61 | $22.48 | $9.72
92226 | S | Special eye exam, subsequent | 0231 | 2.64 | $130.94 | $59.87 | $26.19
92230 | S | Eye exam with photos | 0231 | 2.64 | $130.94 | $59.87 | $26.19
92235 | S | Eye exam with photos | 0231 | 2.64 | $130.94 | $59.87 | $26.19
92240 | S | Icg angiography | 0231 | 2.64 | $130.94 | $59.87 | $26.19
92250 | S | Eye exam with photos | 0230 | 0.98 | $48.61 | $22.48 | $9.72
92260 | S | Ophthalmoscopy/dynamometry | 0230 | 0.98 | $48.61 | $22.48 | $9.72
92265 | S | Eye muscle evaluation | 0230 | 0.98 | $48.61 | $22.48 | $9.72
92270 | S | Electro-oculography | 0230 | 0.98 | $48.61 | $22.48 | $9.72
92275 | S | Electroretinography | 0216 | 2.87 | $142.34 | $64.69 | $28.47
92283 | S | Color vision examination | 0230 | 0.98 | $48.61 | $22.48 | $9.72
92284 | S | Dark adaptation eye exam | 0231 | 2.64 | $130.94 | $59.87 | $26.19
92285 | S | Eye photography | 0230 | 0.98 | $48.61 | $22.48 | $9.72
92286 | S | Internal eye photography | 0231 | 2.64 | $130.94 | $59.87 | $26.19
92287 | S | Internal eye photography | 0231 | 2.64 | $130.94 | $59.87 | $26.19
92310 | E | Contact lens fitting |  |  |  |  |
92311 | X | Contact lens fitting | 0362 | 0.51 | $25.30 | $9.63 | $5.06
92312 | X | Contact lens fitting | 0362 | 0.51 | $25.30 | $9.63 | $5.06
92313 | X | Contact lens fitting | 0362 | 0.51 | $25.30 | $9.63 | $5.06
92314 | E | Prescription of contact lens |  |  |  |  |
92315 | X | Prescription of contact lens | 0362 | 0.51 | $25.30 | $9.63 | $5.06
92316 | X | Prescription of contact lens | 0362 | 0.51 | $25.30 | $9.63 | $5.06
92317 | X | Prescription of contact lens | 0362 | 0.51 | $25.30 | $9.63 | $5.06
92325 | X | Modification of contact lens | 0362 | 0.51 | $25.30 | $9.63 | $5.06
92326 | X | Replacement of contact lens | 0362 | 0.51 | $25.30 | $9.63 | $5.06
92330 | S | Fitting of artificial eye | 0230 | 0.98 | $48.61 | $22.48 | $9.72
92335 | N | Fitting of artificial eye |  |  |  |  |
92340 | E | Fitting of spectacles |  |  |  |  |
92341 | E | Fitting of spectacles |  |  |  |  |
92342 | E | Fitting of spectacles |  |  |  |  |
92352 | X | Special spectacles fitting | 0362 | 0.51 | $25.30 | $9.63 | $5.06
92353 | X | Special spectacles fitting | 0362 | 0.51 | $25.30 | $9.63 | $5.06
92354 | X | Special spectacles fitting | 0362 | 0.51 | $25.30 | $9.63 | $5.06
92355 | X | Special spectacles fitting | 0362 | 0.51 | $25.30 | $9.63 | $5.06
92358 | X | Eye prosthesis service | 0362 | 0.51 | $25.30 | $9.63 | $5.06
92370 | E | Repair & adjust spectacles |  |  |  |  |
92371 | X | Repair & adjust spectacles | 0362 | 0.51 | $25.30 | $9.63 | $5.06
92390 | E | Supply of spectacles |  |  |  |  |
92391 | E | Supply of contact lenses |  |  |  |  |
92392 | E | Supply of low vision aids |  |  |  |  |
92393 | E | Supply of artificial eye |  |  |  |  |
92395 | E | Supply of spectacles |  |  |  |  |
92396 | E | Supply of contact lenses |  |  |  |  |
92499 | S | Eye service or procedure | 0230 | 0.98 | $48.61 | $22.48 | $9.72
92502 | T | Ear and throat examination | 0251 | 1.68 | $83.32 | $27.99 | $16.66
92504 | N | Ear microscopy examination |  |  |  |  |
92506 | A | Speech/hearing evaluation |  |  |  |  |
92507 | A | Speech/hearing therapy |  |  |  |  |
92508 | A | Speech/hearing therapy |  |  |  |  |
92510 | A | Rehab for ear implant |  |  |  |  |
92511 | T | Nasopharyngoscopy | 0071 | 0.55 | $27.28 | $14.22 | $5.46
92512 | X | Nasal function studies | 0363 | 2.83 | $140.36 | $53.22 | $28.07
92516 | X | Facial nerve function test | 0363 | 2.83 | $140.36 | $53.22 | $28.07
92520 | X | Laryngeal function studies | 0363 | 2.83 | $140.36 | $53.22 | $28.07
92525 | E | Oral function evaluation |  |  |  |  |
92526 | A | Oral function therapy |  |  |  |  |
92531 | N | Spontaneous nystagmus study |  |  |  |  |
92532 | N | Positional nystagmus study |  |  |  |  |
92533 | N | Caloric vestibular test |  |  |  |  |
92534 | N | Optokinetic nystagmus |  |  |  |  |
92541 | X | Spontaneous nystagmus test | 0363 | 2.83 | $140.36 | $53.22 | $28.07
92542 | X | Positional nystagmus test | 0363 | 2.83 | $140.36 | $53.22 | $28.07
92543 | X | Caloric vestibular test | 0363 | 2.83 | $140.36 | $53.22 | $28.07
92544 | X | Optokinetic nystagmus test | 0363 | 2.83 | $140.36 | $53.22 | $28.07
92545 | X | Oscillating tracking test | 0363 | 2.83 | $140.36 | $53.22 | $28.07
92546 | X | Sinusoidal rotational test | 0363 | 2.83 | $140.36 | $53.22 | $28.07
92547 | X | Supplemental electrical test | 0363 | 2.83 | $140.36 | $53.22 | $28.07
92548 | X | Posturography | 0363 | 2.83 | $140.36 | $53.22 | $28.07
92551 | E | Pure tone hearing test, air |  |  |  |  |
92552 | X | Pure tone audiometry, air | 0364 | 0.68 | $33.72 | $13.31 | $6.74
92553 | X | Audiometry, air & bone | 0364 | 0.68 | $33.72 | $13.31 | $6.74
92555 | X | Speech threshold audiometry | 0364 | 0.68 | $33.72 | $13.31 | $6.74
92556 | X | Speech audiometry, complete | 0364 | 0.68 | $33.72 | $13.31 | $6.74
92557 | X | Comprehensive hearing test | 0365 | 1.47 | $72.91 | $22.48 | $14.58
92559 | E | Group audiometric testing |  |  |  |  |
92560 | E | Bekesy audiometry, screen |  |  |  |  |
92561 | X | Bekesy audiometry, diagnosis | 0365 | 1.47 | $72.91 | $22.48 | $14.58
92562 | X | Loudness balance test | 0365 | 1.47 | $72.91 | $22.48 | $14.58
92563 | X | Tone decay hearing test | 0365 | 1.47 | $72.91 | $22.48 | $14.58
92564 | X | Sisi hearing test | 0365 | 1.47 | $72.91 | $22.48 | $14.58
92565 | X | Stenger test, pure tone | 0365 | 1.47 | $72.91 | $22.48 | $14.58
92567 | X | Tympanometry | 0364 | 0.68 | $33.72 | $13.31 | $6.74
92568 | X | Acoustic reflex testing | 0365 | 1.47 | $72.91 | $22.48 | $14.58
92569 | X | Acoustic reflex decay test | 0365 | 1.47 | $72.91 | $22.48 | $14.58
92571 | X | Filtered speech hearing test | 0365 | 1.47 | $72.91 | $22.48 | $14.58
92572 | X | Staggered spondaic word test | 0365 | 1.47 | $72.91 | $22.48 | $14.58
92573 | X | Lombard test | 0365 | 1.47 | $72.91 | $22.48 | $14.58
92575 | X | Sensorineural acuity test | 0365 | 1.47 | $72.91 | $22.48 | $14.58
92576 | X | Synthetic sentence test | 0365 | 1.47 | $72.91 | $22.48 | $14.58
92577 | X | Stenger test, speech | 0365 | 1.47 | $72.91 | $22.48 | $14.58
92579 | X | Visual audiometry (vra) | 0365 | 1.47 | $72.91 | $22.48 | $14.58
92582 | X | Conditioning play audiometry | 0365 | 1.47 | $72.91 | $22.48 | $14.58
92583 | X | Select picture audiometry | 0365 | 1.47 | $72.91 | $22.48 | $14.58
92584 | X | Electrocochleography | 0363 | 2.83 | $140.36 | $53.22 | $28.07
92585 | S | Auditory evoked potential | 0216 | 2.87 | $142.34 | $64.69 | $28.47
*92586 | S | Auditory evoked potentials, ltd | 0971 | 1.55 | $76.88 |  | $15.38
92587 | X | Evoked auditory test | 0363 | 2.83 | $140.36 | $53.22 | $28.07
92588 | X | Evoked auditory test | 0363 | 2.83 | $140.36 | $53.22 | $28.07
92589 | X | Auditory function test(s) | 0365 | 1.47 | $72.91 | $22.48 | $14.58
92590 | E | Hearing aid exam, one ear |  |  |  |  |
92591 | E | Hearing aid exam, both ears |  |  |  |  |
92592 | E | Hearing aid check, one ear |  |  |  |  |
92593 | E | Hearing aid check, both ears |  |  |  |  |
92594 | E | Electro hearng aid test, one |  |  |  |  |
92595 | E | Electro hearng aid tst, both |  |  |  |  |
92596 | X | Ear protector evaluation | 0365 | 1.47 | $72.91 | $22.48 | $14.58
92597D | E | Voice prosthetic evaluation |  |  |  |  |
92598D | E | Voice prosthetic modification |  |  |  |  |
92599 | X | ENT procedure/service | 0364 | 0.68 | $33.72 | $13.31 | $6.74
92950 | S | Heart/lung resuscitation cpr | 0094 | 4.51 | $223.68 | $105.29 | $44.74
92953 | S | Temporary external pacing | 0094 | 4.51 | $223.68 | $105.29 | $44.74
92960 | S | Cardioversion electric, ext | 0094 | 4.51 | $223.68 | $105.29 | $44.74
92961 | S | Cardioversion, electric, int | 0094 | 4.51 | $223.68 | $105.29 | $44.74
92970 | C | Cardioassist, internal |  |  |  |  |
92971 | C | Cardioassist, external |  |  |  |  |
92975 | C | Dissolve clot, heart vessel |  |  |  |  |
92977 | T | Dissolve clot, heart vessel | 0120 | 1.66 | $82.33 | $42.67 | $16.47
92978 | S | Intravasc us, heart add-on | 0267 | 2.72 | $134.90 | $80.06 | $26.98
92979 | S | Intravasc us, heart add-on | 0267 | 2.72 | $134.90 | $80.06 | $26.98
92980 | T | Insert intracoronary stent | 0104 | 14.94 | $740.96 | $339.51 | $148.19
92981 | T | Insert intracoronary stent | 0104 | 14.94 | $740.96 | $339.51 | $148.19
92982 | T | Coronary artery dilation | 0082 | 51.01 | $2,529.89 | $1,351.74 | $505.98
92984 | T | Coronary artery dilation | 0082 | 51.01 | $2,529.89 | $1,351.74 | $505.98
92986 | C | Revision of aortic valve |  |  |  |  |
92987 | C | Revision of mitral valve |  |  |  |  |
92990 | C | Revision of pulmonary valve |  |  |  |  |
92992 | C | Revision of heart chamber |  |  |  |  |
92993 | C | Revision of heart chamber |  |  |  |  |
92995 | T | Coronary atherectomy | 0083 | 29.70 | $1,473.00 | $794.30 | $294.60
92996 | T | Coronary atherectomy add-on | 0083 | 29.70 | $1,473.00 | $794.30 | $294.60
92997 | C | Pul art balloon repr, percut |  |  |  |  |
92998 | C | Pul art balloon repr, percut |  |  |  |  |
93000 | E | Electrocardiogram, complete |  |  |  |  |
93005 | X | Electrocardiogram, tracing | 0099 | 0.38 | $18.85 | $14.68 | $3.77
93010 | E | Electrocardiogram report |  |  |  |  |
93012 | X | Transmission of ecg | 0097 | 1.62 | $80.35 | $62.40 | $16.07
93014 | E | Report on transmitted ecg |  |  |  |  |
93015 | E | Cardiovascular stress test |  |  |  |  |
93016 | E | Cardiovascular stress test |  |  |  |  |
93017 | X | Cardiovascular stress test | 0100 | 1.70 | $84.32 | $71.57 | $16.86
93018 | E | Cardiovascular stress test |  |  |  |  |
93024 | X | Cardiac drug stress test | 0100 | 1.70 | $84.32 | $71.57 | $16.86
93040 | E | Rhythm ECG with report |  |  |  |  |
93041 | X | Rhythm ECG, tracing | 0099 | 0.38 | $18.85 | $14.68 | $3.77
93042 | E | Rhythm ECG, report |  |  |  |  |
93224 | E | ECG monitor/report, 24 hrs |  |  |  |  |
93225 | X | ECG monitor/record, 24 hrs | 0100 | 1.70 | $84.32 | $71.57 | $16.86
93226 | X | ECG monitor/report, 24 hrs | 0100 | 1.70 | $84.32 | $71.57 | $16.86
93227 | E | ECG monitor/review, 24 hrs |  |  |  |  |
93230 | E | ECG monitor/report, 24 hrs |  |  |  |  |
93231 | X | Ecg monitor/record, 24 hrs | 0100 | 1.70 | $84.32 | $71.57 | $16.86
93232 | X | ECG monitor/report, 24 hrs | 0100 | 1.70 | $84.32 | $71.57 | $16.86
93233 | E | ECG monitor/review, 24 hrs |  |  |  |  |
93235 | E | ECG monitor/report, 24 hrs |  |  |  |  |
93236 | X | ECG monitor/report, 24 hrs | 0100 | 1.70 | $84.32 | $71.57 | $16.86
93237 | E | ECG monitor/review, 24 hrs |  |  |  |  |
93268 | E | ECG record/review |  |  |  |  |
93270 | X | ECG recording | 0097 | 1.62 | $80.35 | $62.40 | $16.07
93271 | X | Ecg/monitoring and analysis | 0097 | 1.62 | $80.35 | $62.40 | $16.07
93272 | E | Ecg/review,interpret only |  |  |  |  |
93278 | X | ECG/signal-averaged | 0099 | 0.38 | $18.85 | $14.68 | $3.77
93303 | S | Echo transthoracic | 0269 | 4.40 | $218.22 | $114.01 | $43.64
93304 | S | Echo transthoracic | 0269 | 4.40 | $218.22 | $114.01 | $43.64
93307 | S | Echo exam of heart | 0269 | 4.40 | $218.22 | $114.01 | $43.64
93308 | S | Echo exam of heart | 0269 | 4.40 | $218.22 | $114.01 | $43.64
93312 | S | Echo transesophageal | 0270 | 5.55 | $275.25 | $150.26 | $55.05
93313 | S | Echo transesophageal | 0270 | 5.55 | $275.25 | $150.26 | $55.05
93314 | N | Echo transesophageal |  |  |  |  |
93315 | S | Echo transesophageal | 0270 | 5.55 | $275.25 | $150.26 | $55.05
93316 | S | Echo transesophageal | 0270 | 5.55 | $275.25 | $150.26 | $55.05
93317 | N | Echo transesophageal |  |  |  |  |
*93318 | S | Echo transesophageal | 0270 | 5.55 | $275.25 | $150.26 | $55.05
93320 | S | Doppler echo exam, heart | 0269 | 4.40 | $218.22 | $114.01 | $43.64
93321 | S | Doppler echo exam, heart | 0269 | 4.40 | $218.22 | $114.01 | $43.64
93325 | S | Doppler color flow add-on | 0269 | 4.40 | $218.22 | $114.01 | $43.64
93350 | S | Echo transthoracic | 0269 | 4.40 | $218.22 | $114.01 | $43.64
93501 | T | Right heart catheterization | 0080 | 31.55 | $1,564.75 | $838.92 | $312.95
93503 | T | Insert/place heart catheter | 0103 | 13.09 | $649.21 | $295.70 | $129.84
93505 | T | Biopsy of heart lining | 0103 | 13.09 | $649.21 | $295.70 | $129.84
93508 | N | Cath placement, angiography |  |  |  |  |
93510 | T | Left heart catheterization | 0080 | 31.55 | $1,564.75 | $838.92 | $312.95
93511 | T | Left heart catheterization | 0080 | 31.55 | $1,564.75 | $838.92 | $312.95
93514 | T | Left heart catheterization | 0080 | 31.55 | $1,564.75 | $838.92 | $312.95
93524 | T | Left heart catheterization | 0080 | 31.55 | $1,564.75 | $838.92 | $312.95
93526 | T | Rt & Lt heart catheters | 0080 | 31.55 | $1,564.75 | $838.92 | $312.95
93527 | T | Rt & Lt heart catheters | 0080 | 31.55 | $1,564.75 | $838.92 | $312.95
93528 | T | Rt & Lt heart catheters | 0080 | 31.55 | $1,564.75 | $838.92 | $312.95
93529 | T | Rt, Lt heart catheterization | 0080 | 31.55 | $1,564.75 | $838.92 | $312.95
93530 | T | Rt heart cath, congenital | 0080 | 31.55 | $1,564.75 | $838.92 | $312.95
93531 | T | R & l heart cath, congenital | 0080 | 31.55 | $1,564.75 | $838.92 | $312.95
93532 | T | R & l heart cath, congenital | 0080 | 31.55 | $1,564.75 | $838.92 | $312.95
93533 | T | R & l heart cath, congenital | 0080 | 31.55 | $1,564.75 | $838.92 | $312.95
93536 | T | Insert circulation assi | 0103 | 13.09 | $649.21 | $295.70 | $129.84
93539 | N | Injection, cardiac cath |  |  |  |  |
93540 | N | Injection, cardiac cath |  |  |  |  |
93541 | N | Injection for lung angiogram |  |  |  |  |
93542 | N | Injection for heart x-rays |  |  |  |  |
93543 | N | Injection for heart x-rays |  |  |  |  |
93544 | N | Injection for aortography |  |  |  |  |
93545 | N | Inject for coronary x-rays |  |  |  |  |
93555 | N | Imaging, cardiac cath |  |  |  |  |
93556 | N | Imaging, cardiac cath |  |  |  |  |
93561 | N | Cardiac output measurement |  |  |  |  |
93562 | N | Cardiac output measurement |  |  |  |  |
93571 | N | Heart flow reserve measure |  |  |  |  |
93572 | N | Heart flow reserve measure |  |  |  |  |
93600 | S | Bundle of His recording | 0087 | 9.53 | $472.65 | $214.72 | $94.53
93602 | S | Intra-atrial recording | 0087 | 9.53 | $472.65 | $214.72 | $94.53
93603 | S | Right ventricular recording | 0087 | 9.53 | $472.65 | $214.72 | $94.53
93607 | S | Left ventricular recording | 0087 | 9.53 | $472.65 | $214.72 | $94.53
93609 | S | Mapping of tachycardia | 0087 | 9.53 | $472.65 | $214.72 | $94.53
93610 | S | Intra-atrial pacing | 0087 | 9.53 | $472.65 | $214.72 | $94.53
93612 | S | Intraventricular pacing | 0087 | 9.53 | $472.65 | $214.72 | $94.53
93615 | S | Esophageal recording | 0087 | 9.53 | $472.65 | $214.72 | $94.53
93616 | S | Esophageal recording | 0087 | 9.53 | $472.65 | $214.72 | $94.53
93618 | S | Heart rhythm pacing | 0087 | 9.53 | $472.65 | $214.72 | $94.53
93619 | S | Electrophysiology evaluation | 0085 | 27.06 | $1,342.07 | $654.48 | $268.41
93620 | S | Electrophysiology evaluation | 0085 | 27.06 | $1,342.07 | $654.48 | $268.41
93621 | S | Electrophysiology evaluation | 0085 | 27.06 | $1,342.07 | $654.48 | $268.41
93622 | S | Electrophysiology evaluation | 0085 | 27.06 | $1,342.07 | $654.48 | $268.41
93623 | S | Stimulation, pacing heart | 0087 | 9.53 | $472.65 | $214.72 | $94.53
93624 | S | Electrophysiologic study | 0087 | 9.53 | $472.65 | $214.72 | $94.53
93631 | S | Heart pacing, mapping | 0087 | 9.53 | $472.65 | $214.72 | $94.53
93640 | S | Evaluation heart device | 0084 | 10.70 | $530.68 | $177.79 | $106.14
93641 | S | Electrophysiology evaluation | 0084 | 10.70 | $530.68 | $177.79 | $106.14
93642 | S | Electrophysiology evaluation | 0084 | 10.70 | $530.68 | $177.79 | $106.14
93650 | S | Ablate heart dysrhythm focus | 0086 | 47.62 | $2,361.76 | $1,265.37 | $472.35
93651 | S | Ablate heart dysrhythm focus | 0086 | 47.62 | $2,361.76 | $1,265.37 | $472.35
93652 | S | Ablate heart dysrhythm focus | 0086 | 47.62 | $2,361.76 | $1,265.37 | $472.35
93660 | S | Tilt table evaluation | 0101 | 4.47 | $221.70 | $128.84 | $44.34
*93662 | S | Intracardiac ECG | 0270 | 5.55 | $275.25 | $150.26 | $55.05
*93668 | E | Peripheral vascular rehab |  |  |  |  |
93720 | E | Total body plethysmography |  |  |  |  |
93721 | S | Plethysmography tracing | 0096 | 2.06 | $102.16 | $61.48 | $20.43
93722 | E | Plethysmography report |  |  |  |  |
93724 | S | Analyze pacemaker system | 0102 | 0.45 | $22.32 | $12.62 | $4.46
93727 | S | Analyze ilr system | 0102 | 0.45 | $22.32 | $12.62 | $4.46
93731 | S | Analyze pacemaker system | 0102 | 0.45 | $22.32 | $12.62 | $4.46
93732 | S | Analyze pacemaker system | 0102 | 0.45 | $22.32 | $12.62 | $4.46
93733 | S | Telephone analy, pacemaker | 0102 | 0.45 | $22.32 | $12.62 | $4.46
93734 | S | Analyze pacemaker system | 0102 | 0.45 | $22.32 | $12.62 | $4.46
93735 | S | Analyze pacemaker system | 0102 | 0.45 | $22.32 | $12.62 | $4.46
93736 | S | Telephone analy, pacemaker | 0102 | 0.45 | $22.32 | $12.62 | $4.46
93737 | S | Analyze cardio/defibrillator | 0102 | 0.45 | $22.32 | $12.62 | $4.46
93738 | S | Analyze cardio/defibrillator | 0102 | 0.45 | $22.32 | $12.62 | $4.46
93740 | S | Temperature gradient studies | 0096 | 2.06 | $102.16 | $61.48 | $20.43
93741 | S | Analyze ht pace device sngl | 0102 | 0.45 | $22.32 | $12.62 | $4.46
93742 | S | Analyze ht pace device sngl | 0102 | 0.45 | $22.32 | $12.62 | $4.46
93743 | S | Analyze ht pace device dual | 0102 | 0.45 | $22.32 | $12.62 | $4.46
93744 | S | Analyze ht pace device dual | 0102 | 0.45 | $22.32 | $12.62 | $4.46
93760 | E | Cephalic thermogram |  |  |  |  |
93762 | E | Peripheral thermogram |  |  |  |  |
93770 | N | Measure venous pressure |  |  |  |  |
93784 | E | Ambulatory BP monitoring |  |  |  |  |
93786 | E | Ambulatory BP recording |  |  |  |  |
93788 | E | Ambulatory BP analysis |  |  |  |  |
93790 | E | Review/report BP recording |  |  |  |  |
93797 | S | Cardiac rehab | 0095 | 0.64 | $31.74 | $16.98 | $6.35
93798 | S | Cardiac rehab/monitor | 0095 | 0.64 | $31.74 | $16.98 | $6.35
93799 | S | Cardiovascular procedure | 0096 | 2.06 | $102.16 | $61.48 | $20.43
93875 | S | Extracranial study | 0096 | 2.06 | $102.16 | $61.48 | $20.43
93880 | S | Extracranial study | 0267 | 2.72 | $134.90 | $80.06 | $26.98
93882 | S | Extracranial study | 0267 | 2.72 | $134.90 | $80.06 | $26.98
93886 | S | Intracranial study | 0267 | 2.72 | $134.90 | $80.06 | $26.98
93888 | S | Intracranial study | 0267 | 2.72 | $134.90 | $80.06 | $26.98
93922 | S | Extremity study | 0096 | 2.06 | $102.16 | $61.48 | $20.43
93923 | S | Extremity study | 0096 | 2.06 | $102.16 | $61.48 | $20.43
93924 | S | Extremity study | 0096 | 2.06 | $102.16 | $61.48 | $20.43
93925 | S | Lower extremity study | 0267 | 2.72 | $134.90 | $80.06 | $26.98
93926 | S | Lower extremity study | 0267 | 2.72 | $134.90 | $80.06 | $26.98
93930 | S | Upper extremity study | 0267 | 2.72 | $134.90 | $80.06 | $26.98
93931 | S | Upper extremity study | 0267 | 2.72 | $134.90 | $80.06 | $26.98
93965 | S | Extremity study | 0096 | 2.06 | $102.16 | $61.48 | $20.43
93970 | S | Extremity study | 0267 | 2.72 | $134.90 | $80.06 | $26.98
93971 | S | Extremity study | 0267 | 2.72 | $134.90 | $80.06 | $26.98
93975 | S | Vascular study | 0267 | 2.72 | $134.90 | $80.06 | $26.98
93976 | S | Vascular study | 0267 | 2.72 | $134.90 | $80.06 | $26.98
93978 | S | Vascular study | 0267 | 2.72 | $134.90 | $80.06 | $26.98
93979 | S | Vascular study | 0267 | 2.72 | $134.90 | $80.06 | $26.98
93980 | S | Penile vascular study | 0267 | 2.72 | $134.90 | $80.06 | $26.98
93981 | S | Penile vascular study | 0267 | 2.72 | $134.90 | $80.06 | $26.98
93990 | S | Doppler flow testing | 0267 | 2.72 | $134.90 | $80.06 | $26.98
94010 | X | Breathing capacity test | 0367 | 0.83 | $41.16 | $20.65 | $8.23
94014 | X | Patient recorded spirometry | 0369 | 2.34 | $116.06 | $58.50 | $23.21
94015 | X | Patient recorded spirometry | 0369 | 2.34 | $116.06 | $58.50 | $23.21
94016 | X | Review patient spirometry | 0369 | 2.34 | $116.06 | $58.50 | $23.21
94060 | X | Evaluation of wheezing | 0368 | 1.66 | $82.33 | $42.44 | $16.47
94070 | X | Evaluation of wheezing | 0369 | 2.34 | $116.06 | $58.50 | $23.21
94150 | N | Vital capacity test |  |  |  |  |
94200 | X | Lung function test (MBC/MVV) | 0367 | 0.83 | $41.16 | $20.65 | $8.23
94240 | X | Residual lung capacity | 0368 | 1.66 | $82.33 | $42.44 | $16.47
94250 | X | Expired gas collection | 0367 | 0.83 | $41.16 | $20.65 | $8.23
94260 | X | Thoracic gas volume | 0368 | 1.66 | $82.33 | $42.44 | $16.47
94350 | X | Lung nitrogen washout curve | 0368 | 1.66 | $82.33 | $42.44 | $16.47
94360 | X | Measure airflow resistance | 0368 | 1.66 | $82.33 | $42.44 | $16.47
94370 | X | Breath airway closing volume | 0368 | 1.66 | $82.33 | $42.44 | $16.47
94375 | X | Respiratory flow volume loop | 0367 | 0.83 | $41.16 | $20.65 | $8.23
94400 | X | CO2 breathing response curve | 0367 | 0.83 | $41.16 | $20.65 | $8.23
94450 | X | Hypoxia response curve | 0367 | 0.83 | $41.16 | $20.65 | $8.23
94620 | X | Pulmonary stress test/simple | 0368 | 1.66 | $82.33 | $42.44 | $16.47
94621 | X | Pulm stress test/complex | 0369 | 2.34 | $116.06 | $58.50 | $23.21
94640 | S | Airway inhalation treatment | 0077 | 0.43 | $21.33 | $12.62 | $4.27
94642 | S | Aerosol inhalation treatment | 0078 | 1.34 | $66.46 | $29.13 | $13.29
94650 | S | Pressure breathing (IPPB) | 0077 | 0.43 | $21.33 | $12.62 | $4.27
94651 | S | Pressure breathing (IPPB) | 0077 | 0.43 | $21.33 | $12.62 | $4.27
94652 | C | Pressure breathing (IPPB) |  |  |  |  |
94656 | S | Initial ventilator mgmt | 0079 | 3.18 | $157.72 | $107.70 | $31.54
94657 | S | Continued ventilator mgmt | 0079 | 3.18 | $157.72 | $107.70 | $31.54
94660 | S | Pos airway pressure, CPAP | 0079 | 3.18 | $157.72 | $107.70 | $31.54
94662 | S | Neg press ventilation, cnp | 0079 | 3.18 | $157.72 | $107.70 | $31.54
94664 | S | Aerosol or vapor inhalations | 0077 | 0.43 | $21.33 | $12.62 | $4.27
94665 | S | Aerosol or vapor inhalations | 0077 | 0.43 | $21.33 | $12.62 | $4.27
94667 | S | Chest wall manipulation | 0077 | 0.43 | $21.33 | $12.62 | $4.27
94668 | S | Chest wall manipulation | 0077 | 0.43 | $21.33 | $12.62 | $4.27
94680 | X | Exhaled air analysis, o2 | 0367 | 0.83 | $41.16 | $20.65 | $8.23
94681 | X | Exhaled air analysis, o2/co2 | 0368 | 1.66 | $82.33 | $42.44 | $16.47
94690 | X | Exhaled air analysis | 0367 | 0.83 | $41.16 | $20.65 | $8.23
94720 | X | Monoxide diffusing capacity | 0367 | 0.83 | $41.16 | $20.65 | $8.23
94725 | X | Membrane diffusion capacity | 0368 | 1.66 | $82.33 | $42.44 | $16.47
94750 | X | Pulmonary compliance study | 0368 | 1.66 | $82.33 | $42.44 | $16.47
94760 | N | Measure blood oxygen level |  |  |  |  |
94761 | N | Measure blood oxygen level |  |  |  |  |
94762 | N | Measure blood oxygen level |  |  |  |  |
94770 | X | Exhaled carbon dioxide test | 0367 | 0.83 | $41.16 | $20.65 | $8.23
94772 | X | Breath recording, infant | 0369 | 2.34 | $116.06 | $58.50 | $23.21
94799 | X | Pulmonary service/procedure | 0367 | 0.83 | $41.16 | $20.65 | $8.23
95004 | X | Allergy skin tests | 0370 | 0.57 | $28.27 | $11.81 | $5.65
95010 | X | Sensitivity skin tests | 0370 | 0.57 | $28.27 | $11.81 | $5.65
95015 | X | Sensitivity skin tests | 0370 | 0.57 | $28.27 | $11.81 | $5.65
95024 | X | Allergy skin tests | 0370 | 0.57 | $28.27 | $11.81 | $5.65
95027 | X | Skin end point titration | 0370 | 0.57 | $28.27 | $11.81 | $5.65
95028 | X | Allergy skin tests | 0370 | 0.57 | $28.27 | $11.81 | $5.65
95044 | X | Allergy patch tests | 0370 | 0.57 | $28.27 | $11.81 | $5.65
95052 | X | Photo patch test | 0370 | 0.57 | $28.27 | $11.81 | $5.65
95056 | X | Photosensitivity tests | 0370 | 0.57 | $28.27 | $11.81 | $5.65
95060 | X | Eye allergy tests | 0370 | 0.57 | $28.27 | $11.81 | $5.65
95065 | X | Nose allergy test | 0370 | 0.57 | $28.27 | $11.81 | $5.65
95070 | X | Bronchial allergy tests | 0369 | 2.34 | $116.06 | $58.50 | $23.21
95071 | X | Bronchial allergy tests | 0369 | 2.34 | $116.06 | $58.50 | $23.21
95075 | X | Ingestion challenge test | 0361 | 3.53 | $175.07 | $88.09 | $35.01
95078 | X | Provocative testing | 0370 | 0.57 | $28.27 | $11.81 | $5.65
95115 | X | Immunotherapy, one injection | 0371 | 0.32 | $15.87 | $3.67 | $3.17
95117 | X | Immunotherapy injections | 0371 | 0.32 | $15.87 | $3.67 | $3.17
95120 | E | Immunotherapy, one injection |  |  |  |  |
95125 | E | Immunotherapy, many antigens |  |  |  |  |
95130 | E | Immunotherapy, insect venom |  |  |  |  |
95131 | E | Immunotherapy, insect venoms |  |  |  |  |
95132 | E | Immunotherapy, insect venoms |  |  |  |  |
95133 | E | Immunotherapy, insect venoms |  |  |  |  |
95134 | E | Immunotherapy, insect venoms |  |  |  |  |
95144 | X | Antigen therapy services | 0371 | 0.32 | $15.87 | $3.67 | $3.17
95145 | X | Antigen therapy services | 0371 | 0.32 | $15.87 | $3.67 | $3.17
95146 | X | Antigen therapy services | 0371 | 0.32 | $15.87 | $3.67 | $3.17
95147 | X | Antigen therapy services | 0371 | 0.32 | $15.87 | $3.67 | $3.17
95148 | X | Antigen therapy services | 0371 | 0.32 | $15.87 | $3.67 | $3.17
95149 | X | Antigen therapy services | 0371 | 0.32 | $15.87 | $3.67 | $3.17
95165 | X | Antigen therapy services | 0371 | 0.32 | $15.87 | $3.67 | $3.17
95170 | X | Antigen therapy services | 0371 | 0.32 | $15.87 | $3.67 | $3.17
95180 | X | Rapid desensitization | 0370 | 0.57 | $28.27 | $11.81 | $5.65
95199 | X | Allergy immunology services | 0370 | 0.57 | $28.27 | $11.81 | $5.65
95805 | S | Multiple sleep latency test | 0213 | 11.15 | $553.00 | $290.42 | $110.60
95806 | S | Sleep study, unattended | 0213 | 11.15 | $553.00 | $290.42 | $110.60
95807 | S | Sleep study, attended | 0213 | 11.15 | $553.00 | $290.42 | $110.60
95808 | S | Polysomnography, 1-3 | 0213 | 11.15 | $553.00 | $290.42 | $110.60
95810 | S | Polysomnography, 4 or more | 0213 | 11.15 | $553.00 | $290.42 | $110.60
95811 | S | Polysomnography w/cpap | 0213 | 11.15 | $553.00 | $290.42 | $110.60
95812 | S | Electroencephalogram (EEG) | 0213 | 11.15 | $553.00 | $290.42 | $110.60
95813 | S | Electroencephalogram (EEG) | 0213 | 11.15 | $553.00 | $290.42 | $110.60
95816 | S | Electroencephalogram (EEG) | 0214 | 2.32 | $115.06 | $58.50 | $23.01
95819 | S | Electroencephalogram (EEG) | 0214 | 2.32 | $115.06 | $58.50 | $23.01
95822 | S | Sleep electroencephalogram | 0214 | 2.32 | $115.06 | $58.50 | $23.01
95824 | S | Electroencephalography | 0214 | 2.32 | $115.06 | $58.50 | $23.01
95827 | S | Night electroencephalogram | 0213 | 11.15 | $553.00 | $290.42 | $110.60
95829 | S | Surgery electrocorticogram | 0214 | 2.32 | $115.06 | $58.50 | $23.01
95830 | E | Insert electrodes for EEG |  |  |  |  |
95831 | N | Limb muscle testing, manual |  |  |  |  |
95832 | N | Hand muscle testing, manual |  |  |  |  |
95833 | N | Body muscle testing, manual |  |  |  |  |
95834 | N | Body muscle testing, manual |  |  |  |  |
95851 | N | Range of motion measurements |  |  |  |  |
95852 | N | Range of motion measurements |  |  |  |  |
95857 | S | Tensilon test | 0215 | 1.15 | $57.04 | $30.05 | $11.41
95858 | S | Tensilon test & myogram | 0215 | 1.15 | $57.04 | $30.05 | $11.41
95860 | S | Muscle test, one limb | 0215 | 1.15 | $57.04 | $30.05 | $11.41
95861 | S | Muscle test, two limbs | 0215 | 1.15 | $57.04 | $30.05 | $11.41
95863 | S | Muscle test, 3 limbs | 0216 | 2.87 | $142.34 | $64.69 | $28.47
95864 | S | Muscle test, 4 limbs | 0215 | 1.15 | $57.04 | $30.05 | $11.41
95867 | S | Muscle test, head or neck | 0216 | 2.87 | $142.34 | $64.69 | $28.47
95868 | S | Muscle test, head or neck | 0216 | 2.87 | $142.34 | $64.69 | $28.47
95869 | S | Muscle test, thor paraspinal | 0215 | 1.15 | $57.04 | $30.05 | $11.41
95870 | S | Muscle test, nonparaspinal | 0215 | 1.15 | $57.04 | $30.05 | $11.41
95872 | S | Muscle test, one fiber | 0215 | 1.15 | $57.04 | $30.05 | $11.41
95875 | S | Limb exercise test | 0217 | 5.87 | $291.13 | $156.68 | $58.23
95900 | S | Motor nerve conduction test | 0215 | 1.15 | $57.04 | $30.05 | $11.41
95903 | S | Motor nerve conduction test | 0215 | 1.15 | $57.04 | $30.05 | $11.41
95904 | S | Sense/mixed n conduction tst | 0215 | 1.15 | $57.04 | $30.05 | $11.41
95920 | S | Intraop nerve test add-on | 0216 | 2.87 | $142.34 | $64.69 | $28.47
95921 | S | Autonomic nerv function test | 0216 | 2.87 | $142.34 | $64.69 | $28.47
95922 | S | Autonomic nerv function test | 0216 | 2.87 | $142.34 | $64.69 | $28.47
95923 | S | Autonomic nerv function test | 0216 | 2.87 | $142.34 | $64.69 | $28.47
95925 | S | Somatosensory testing | 0216 | 2.87 | $142.34 | $64.69 | $28.47
95926 | S | Somatosensory testing | 0216 | 2.87 | $142.34 | $64.69 | $28.47
95927 | S | Somatosensory testing | 0216 | 2.87 | $142.34 | $64.69 | $28.47
95930 | S | Visual evoked potential test | 0216 | 2.87 | $142.34 | $64.69 | $28.47
95933 | S | Blink reflex test | 0215 | 1.15 | $57.04 | $30.05 | $11.41
95934 | S | H-reflex test | 0215 | 1.15 | $57.04 | $30.05 | $11.41
95936 | S | H-reflex test | 0216 | 2.87 | $142.34 | $64.69 | $28.47
95937 | S | Neuromuscular junction test | 0215 | 1.15 | $57.04 | $30.05 | $11.41
95950 | S | Ambulatory eeg monitoring | 0217 | 5.87 | $291.13 | $156.68 | $58.23
95951 | S | EEG monitoring/videorecord | 0213 | 11.15 | $553.00 | $290.42 | $110.60
95953 | S | EEG monitoring/computer | 0213 | 11.15 | $553.00 | $290.42 | $110.60
95954 | S | EEG monitoring/giving drugs | 0213 | 11.15 | $553.00 | $290.42 | $110.60
95955 | S | EEG during surgery | 0214 | 2.32 | $115.06 | $58.50 | $23.01
95956 | N | Eeg monitoring, cable/radio |  |  |  |  |
95957 | N | EEG digital analysis |  |  |  |  |
95958 | S | EEG monitoring/function test | 0213 | 11.15 | $553.00 | $290.42 | $110.60
95961 | S | Electrode stimulation, brain | 0216 | 2.87 | $142.34 | $64.69 | $28.47
95962 | S | Electrode stim, brain add-on | 0216 | 2.87 | $142.34 | $64.69 | $28.47
95970 | S | Analyze neurostim, no prog | 0102 | 0.45 | $22.32 | $12.62 | $4.46
95971 | S | Analyze neurostim, simple | 0102 | 0.45 | $22.32 | $12.62 | $4.46
95972 | S | Analyze neurostim, complex | 0102 | 0.45 | $22.32 | $12.62 | $4.46
95973 | S | Analyze neurostim, complex | 0102 | 0.45 | $22.32 | $12.62 | $4.46
95974 | S | Cranial neurostim, complex | 0102 | 0.45 | $22.32 | $12.62 | $4.46
95975 | S | Cranial neurostim, complex | 0102 | 0.45 | $22.32 | $12.62 | $4.46
95999 | N | Neurological procedure |  |  |  |  |
96100 | X | Psychological testing | 0373 | 3.21 | $159.20 | $44.96 | $31.84
96105 | X | Assessment of aphasia | 0373 | 3.21 | $159.20 | $44.96 | $31.84
96110 | X | Developmental test, lim | 0373 | 3.21 | $159.20 | $44.96 | $31.84
96111 | X | Developmental test, extend | 0373 | 3.21 | $159.20 | $44.96 | $31.84
96115 | X | Neurobehavior status exam | 0373 | 3.21 | $159.20 | $44.96 | $31.84
96117 | X | Neuropsych test battery | 0373 | 3.21 | $159.20 | $44.96 | $31.84
96400 | E | Chemotherapy, sc/im |  |  |  |  |
96405 | E | Intralesional chemo admin |  |  |  |  |
96406 | E | Intralesional chemo admin |  |  |  |  |
96408 | E | Chemotherapy, push technique |  |  |  |  |
96410 | E | Chemotherapy,infusion method |  |  |  |  |
96412 | E | Chemo, infuse method add-on |  |  |  |  |
96414 | E | Chemo, infuse method add-on |  |  |  |  |
96420 | E | Chemotherapy, push technique |  |  |  |  |
96422 | E | Chemotherapy,infusion method |  |  |  |  |
96423 | E | Chemo, infuse method add-on |  |  |  |  |
96425 | E | Chemotherapy,infusion method |  |  |  |  |
96440 | E | Chemotherapy, intracavitary |  |  |  |  |
96445 | E | Chemotherapy, intracavitary |  |  |  |  |
96450 | E | Chemotherapy, into CNS |  |  |  |  |
96520 | E | Pump refilling, maintenance |  |  |  |  |
96530 | E | Pump refilling, maintenance |  |  |  |  |
96542 | E | Chemotherapy injection |  |  |  |  |
96545 | E | Provide chemotherapy agent |  |  |  |  |
96549 | E | Chemotherapy, unspecified |  |  |  |  |
96570 | T | Photodynamic tx, 30 min | 0973 | 5.16 | $255.91 |  | $51.18
96571 | T | Photodynamic tx, addl 15 min | 0973 | 5.16 | $255.91 |  | $51.18
96900 | S | Ultraviolet light therapy | 0001 | 0.47 | $23.31 | $8.49 | $4.66
96902 | N | Trichogram |  |  |  |  |
96910 | S | Photochemotherapy with UV-B | 0001 | 0.47 | $23.31 | $8.49 | $4.66
96912 | S | Photochemotherapy with UV-A | 0001 | 0.47 | $23.31 | $8.49 | $4.66
96913 | S | Photochemotherapy, UV-A or B | 0001 | 0.47 | $23.31 | $8.49 | $4.66
96999 | S | Dermatological procedure | 0001 | 0.47 | $23.31 | $8.49 | $4.66
97001 | A | Pt evaluation |  |  |  |  |
97002 | A | Pt re-evaluation |  |  |  |  |
97003 | A | Ot evaluation |  |  |  |  |
97004 | A | Ot re-evaluation |  |  |  |  |
97010 | A | Hot or cold packs therapy |  |  |  |  |
97012 | A | Mechanical traction therapy |  |  |  |  |
97014 | A | Electric stimulation therapy |  |  |  |  |
97016 | A | Vasopneumatic device therapy |  |  |  |  |
97018 | A | Paraffin bath therapy |  |  |  |  |
97020 | A | Microwave therapy |  |  |  |  |
97022 | A | Whirlpool therapy |  |  |  |  |
97024 | A | Diathermy treatment |  |  |  |  |
97026 | A | Infrared therapy |  |  |  |  |
97028 | A | Ultraviolet therapy |  |  |  |  |
97032 | A | Electrical stimulation |  |  |  |  |
97033 | A | Electric current therapy |  |  |  |  |
97034 | A | Contrast bath therapy |  |  |  |  |
97035 | A | Ultrasound therapy |  |  |  |  |
97036 | A | Hydrotherapy |  |  |  |  |
97039 | A | Physical therapy treatment |  |  |  |  |
97110 | A | Therapeutic exercises |  |  |  |  |
97112 | A | Neuromuscular reeducation |  |  |  |  |
97113 | A | Aquatic therapy/exercises |  |  |  |  |
97116 | A | Gait training therapy |  |  |  |  |
97124 | A | Massage therapy |  |  |  |  |
97139 | A | Physical medicine procedure |  |  |  |  |
97140 | A | Manual therapy |  |  |  |  |
97150 | A | Group therapeutic procedures |  |  |  |  |
97504 | A | Orthotic training |  |  |  |  |
97520 | A | Prosthetic training |  |  |  |  |
97530 | A | Therapeutic activities |  |  |  |  |
*97532 | A | Cognitive skills development |  |  |  |  |
*97533 | A | Sensory integration |  |  |  |  |
97535 | A | Self care mngment training |  |  |  |  |
97537 | A | Community/work reintegration |  |  |  |  |
97542 | A | Wheelchair mngment training |  |  |  |  |
97545 | A | Work hardening |  |  |  |  |
97546 | A | Work hardening add-on |  |  |  |  |
*97601 | A | Wound care selective |  |  |  |  |
*97602 | N | Wound care non-selective |  |  |  |  |
97703 | A | Prosthetic checkout |  |  |  |  |
97750 | A | Physical performance test |  |  |  |  |
97770D | A | Cognitive skills development |  |  |  |  |
97780 | E | Acupuncture w/o stimul |  |  |  |  |
97781 | E | Acupuncture w/stimul |  |  |  |  |
97799 | A | Physical medicine procedure |  |  |  |  |
*97802 | E | Medical nutrition |  |  |  |  |
*97803 | E | Medical nutrition |  |  |  |  |
*97804 | E | Medical nutrition |  |  |  |  |
98925 | S | Osteopathic manipulation | 0060 | 0.77 | $38.19 | $7.80 | $7.64
98926 | S | Osteopathic manipulation | 0060 | 0.77 | $38.19 | $7.80 | $7.64
98927 | S | Osteopathic manipulation | 0060 | 0.77 | $38.19 | $7.80 | $7.64
98928 | S | Osteopathic manipulation | 0060 | 0.77 | $38.19 | $7.80 | $7.64
98929 | S | Osteopathic manipulation | 0060 | 0.77 | $38.19 | $7.80 | $7.64
98940 | S | Chiropractic manipulation | 0060 | 0.77 | $38.19 | $7.80 | $7.64
98941 | S | Chiropractic manipulation | 0060 | 0.77 | $38.19 | $7.80 | $7.64
98942 | S | Chiropractic manipulation | 0060 | 0.77 | $38.19 | $7.80 | $7.64
98943 | E | Chiropractic manipulation |  |  |  |  |
99000 | E | Specimen handling |  |  |  |  |
99001 | E | Specimen handling |  |  |  |  |
99002 | E | Device handling |  |  |  |  |
99024 | E | Postop follow-up visit |  |  |  |  |
99025 | E | Initial surgical evaluation |  |  |  |  |
99050 | E | Medical services after hrs |  |  |  |  |
99052 | E | Medical services at night |  |  |  |  |
99054 | E | Medical servcs, unusual hrs |  |  |  |  |
99056 | E | Non-office medical services |  |  |  |  |
99058 | E | Office emergency care |  |  |  |  |
99070 | E | Special supplies |  |  |  |  |
99071 | E | Patient education materials |  |  |  |  |
99075 | E | Medical testimony |  |  |  |  |
99078 | E | Group health education |  |  |  |  |
99080 | E | Special reports or forms |  |  |  |  |
99082 | E | Unusual physician travel |  |  |  |  |
99090 | E | Computer data analysis |  |  |  |  |
99100 | E | Special anesthesia service |  |  |  |  |
99116 | E | Anesthesia with hypothermia |  |  |  |  |
99135 | E | Special anesthesia procedure |  |  |  |  |
99140 | E | Emergency anesthesia |  |  |  |  |
99141 | N | Sedation, iv/im or inhalant |  |  |  |  |
99142 | N | Sedation, oral/rectal/nasal |  |  |  |  |
99170 | T | Anogenital exam, child | 0192 | 2.38 | $118.04 | $35.33 | $23.61
*99172 | E | Visual function screening |  |  |  |  |
99173 | E | Visual screening test |  |  |  |  |
99175 | N | Induction of vomiting |  |  |  |  |
99183 | E | Hyperbaric oxygen therapy |  |  |  |  |
99185 | N | Regional hypothermia |  |  |  |  |
99186 | N | Total body hypothermia |  |  |  |  |
99190 | C | Special pump services |  |  |  |  |
99191 | C | Special pump services |  |  |  |  |
99192 | C | Special pump services |  |  |  |  |
99195 | X | Phlebotomy | 0372 | 0.43 | $21.33 | $10.09 | $4.27
99199 | E | Special service/proc/report |  |  |  |  |
99201 | V | Office/outpatient visit, new | 0600 | 0.98 | $48.61 | $9.72 | $9.72
99202 | V | Office/outpatient visit, new | 0600 | 0.98 | $48.61 | $9.72 | $9.72
99203 | V | Office/outpatient visit, new | 0601 | 1.00 | $49.60 | $9.92 | $9.92
99204 | V | Office/outpatient visit, new | 0602 | 1.66 | $82.33 | $16.47 | $16.47
99205 | V | Office/outpatient visit, new | 0602 | 1.66 | $82.33 | $16.47 | $16.47
99211 | V | Office/outpatient visit, est | 0600 | 0.98 | $48.61 | $9.72 | $9.72
99212 | V | Office/outpatient visit, est | 0600 | 0.98 | $48.61 | $9.72 | $9.72
99213 | V | Office/outpatient visit, est | 0601 | 1.00 | $49.60 | $9.92 | $9.92
99214 | V | Office/outpatient visit, est | 0602 | 1.66 | $82.33 | $16.47 | $16.47
99215 | V | Office/outpatient visit, est | 0602 | 1.66 | $82.33 | $16.47 | $16.47
99217 | N | Observation care discharge |  |  |  |  |
99218 | N | Observation care |  |  |  |  |
99219 | N | Observation care |  |  |  |  |
99220 | N | Observation care |  |  |  |  |
99221 | E | Initial hospital care |  |  |  |  |
99222 | E | Initial hospital care |  |  |  |  |
99223 | E | Initial hospital care |  |  |  |  |
99231 | E | Subsequent hospital care |  |  |  |  |
99232 | E | Subsequent hospital care |  |  |  |  |
99233 | E | Subsequent hospital care |  |  |  |  |
99234 | N | Observ/hosp same date |  |  |  |  |
99235 | N | Observ/hosp same date |  |  |  |  |
99236 | N | Observ/hosp same date |  |  |  |  |
99238 | E | Hospital discharge day |  |  |  |  |
99239 | E | Hospital discharge day |  |  |  |  |
99241 | V | Office consultation | 0600 | 0.98 | $48.61 | $9.72 | $9.72
99242 | V | Office consultation | 0600 | 0.98 | $48.61 | $9.72 | $9.72
99243 | V | Office consultation | 0601 | 1.00 | $49.60 | $9.92 | $9.92
99244 | V | Office consultation | 0602 | 1.66 | $82.33 | $16.47 | $16.47
99245 | V | Office consultation | 0602 | 1.66 | $82.33 | $16.47 | $16.47
99251 | C | Initial inpatient consult |  |  |  |  |
99252 | C | Initial inpatient consult |  |  |  |  |
99253 | C | Initial inpatient consult |  |  |  |  |
99254 | C | Initial inpatient consult |  |  |  |  |
99255 | C | Initial inpatient consult |  |  |  |  |
99261 | C | Follow-up inpatient consult |  |  |  |  |
99262 | C | Follow-up inpatient consult |  |  |  |  |
99263 | C | Follow-up inpatient consult |  |  |  |  |
99271 | V | Confirmatory consultation | 0600 | 0.98 | $48.61 | $9.72 | $9.72
99272 | V | Confirmatory consultation | 0600 | 0.98 | $48.61 | $9.72 | $9.72
99273 | V | Confirmatory consultation | 0601 | 1.00 | $49.60 | $9.92 | $9.92
99274 | V | Confirmatory consultation | 0602 | 1.66 | $82.33 | $16.47 | $16.47
99275 | V | Confirmatory consultation | 0602 | 1.66 | $82.33 | $16.47 | $16.47
99281 | V | Emergency dept visit | 0610 | 1.34 | $66.46 | $20.65 | $13.29
99282 | V | Emergency dept visit | 0610 | 1.34 | $66.46 | $20.65 | $13.29
99283 | V | Emergency dept visit | 0611 | 2.11 | $104.65 | $36.47 | $20.93
99284 | V | Emergency dept visit | 0612 | 3.19 | $158.21 | $54.14 | $31.64
99285 | V | Emergency dept visit | 0612 | 3.19 | $158.21 | $54.14 | $31.64
99288 | E | Direct advanced life support |  |  |  |  |
99291 | S | Critical care, first hour | 0620 | 8.60 | $426.53 | $152.78 | $85.31
99292 | N | Critical care, addl 30 min |  |  |  |  |
99295 | C | Neonatal critical care |  |  |  |  |
99296 | C | Neonatal critical care |  |  |  |  |
99297 | C | Neonatal critical care |  |  |  |  |
99298 | C | Neonatal critical care |  |  |  |  |
99301 | E | Nursing facility care |  |  |  |  |
99302 | E | Nursing facility care |  |  |  |  |
99303 | E | Nursing facility care |  |  |  |  |
99311 | E | Nursing fac care, subseq |  |  |  |  |
99312 | E | Nursing fac care, subseq |  |  |  |  |
99313 | E | Nursing fac care, subseq |  |  |  |  |
99315 | E | Nursing fac discharge day |  |  |  |  |
99316 | E | Nursing fac discharge day |  |  |  |  |
99321 | E | Rest home visit, new patient |  |  |  |  |
99322 | E | Rest home visit, new patient |  |  |  |  |
99323 | E | Rest home visit, new patient |  |  |  |  |
99331 | E | Rest home visit, est pat |  |  |  |  |
99332 | E | Rest home visit, est pat |  |  |  |  |
99333 | E | Rest home visit, est pat |  |  |  |  |
99341 | E | Home visit, new patient |  |  |  |  |
99342 | E | Home visit, new patient |  |  |  |  |
99343 | E | Home visit, new patient |  |  |  |  |
99344 | E | Home visit, new patient |  |  |  |  |
99345 | E | Home visit, new patient |  |  |  |  |
99347 | E | Home visit, est patient |  |  |  |  |
99348 | E | Home visit, est patient |  |  |  |  |
99349 | E | Home visit, est patient |  |  |  |  |
99350 | E | Home visit, est patient |  |  |  |  |
99354 | N | Prolonged service, office |  |  |  |  |
99355 | N | Prolonged service, office |  |  |  |  |
99356 | C | Prolonged service, inpatient |  |  |  |  |
99357 | C | Prolonged service, inpatient |  |  |  |  |
99358 | N | Prolonged serv, w/o contact |  |  |  |  |
99359 | N | Prolonged serv, w/o contact |  |  |  |  |
99360 | E | Physician standby services |  |  |  |  |
99361 | E | Physician/team conference |  |  |  |  |
99362 | E | Physician/team conference |  |  |  |  |
99371 | E | Physician phone consultation |  |  |  |  |
99372 | E | Physician phone consultation |  |  |  |  |
99373 | E | Physician phone consultation |  |  |  |  |
99374 | E | Home health care supervision |  |  |  |  |
99375D | E | Home health care supervision |  |  |  |  |
99377 | E | Hospice care supervision |  |  |  |  |
99378D | E | Hospice care supervision |  |  |  |  |
99379 | E | Nursing fac care supervision |  |  |  |  |
99380 | E | Nursing fac care supervision |  |  |  |  |
99381 | E | Prev visit, new, infant |  |  |  |  |
99382 | E | Prev visit, new, age 1-4 |  |  |  |  |
99383 | E | Prev visit, new, age 5-11 |  |  |  |  |
99384 | E | Prev visit, new, age 12-17 |  |  |  |  |
99385 | E | Prev visit, new, age 18-39 |  |  |  |  |
99386 | E | Prev visit, new, age 40-64 |  |  |  |  |
99387 | E | Prev visit, new, 65 & over |  |  |  |  |
99391 | E | Prev visit, est, infant |  |  |  |  |
99392 | E | Prev visit, est, age 1-4 |  |  |  |  |
99393 | E | Prev visit, est, age 5-11 |  |  |  |  |
99394 | E | Prev visit, est, age 12-17 |  |  |  |  |
99395 | E | Prev visit, est, age 18-39 |  |  |  |  |
99396 | E | Prev visit, est, age 40-64 |  |  |  |  |
99397 | E | Prev visit, est, 65 & over |  |  |  |  |
99401 | E | Preventive counseling, indiv |  |  |  |  |
99402 | E | Preventive counseling, indiv |  |  |  |  |
99403 | E | Preventive counseling, indiv |  |  |  |  |
99404 | E | Preventive counseling, indiv |  |  |  |  |
99411 | E | Preventive counseling, group |  |  |  |  |
99412 | E | Preventive counseling, group |  |  |  |  |
99420 | E | Health risk assessment test |  |  |  |  |
99429 | E | Unlisted preventive service |  |  |  |  |
99431 | N | Initial care, normal newborn |  |  |  |  |
99432 | N | Newborn care, not in hosp |  |  |  |  |
99433 | C | Normal newborn care/hospital |  |  |  |  |
99435 | E | Newborn discharge day hosp |  |  |  |  |
99436 | N | Attendance, birth |  |  |  |  |
99440 | S | Newborn resuscitation | 0094 | 4.51 | $223.68 | $105.29 | $44.74
99450 | E | Life/disability evaluation |  |  |  |  |
99455 | E | Disability examination |  |  |  |  |
99456 | E | Disability examination |  |  |  |  |
99499 | E | Unlisted e&m service |  |  |  |  |
A0021 | E | Outside state ambulance serv |  |  |  |  |
A0030D | A | Air ambulance service |  |  |  |  |
A0040D | A | Helicopter ambulance service |  |  |  |  |
A0050D | A | Water amb service emergency |  |  |  |  |
A0080 | E | Noninterest escort in non er |  |  |  |  |
A0090 | E | Interest escort in non er |  |  |  |  |
A0100 | E | Nonemergency transport taxi |  |  |  |  |
A0110 | E | Nonemergency transport bus |  |  |  |  |
A0120 | E | Noner transport mini-bus |  |  |  |  |
A0130 | E | Noner transport wheelch van |  |  |  |  |
A0140 | E | Nonemergency transport air |  |  |  |  |
A0160 | E | Noner transport case worker |  |  |  |  |
A0170 | E | Noner transport parking fees |  |  |  |  |
A0180 | E | Noner transport lodgng recip |  |  |  |  |
A0190 | E | Noner transport meals recip |  |  |  |  |
A0200 | E | Noner transport lodgng escrt |  |  |  |  |
A0210 | E | Noner transport meals escort |  |  |  |  |
A0225 | A | Neonatal emergency transport |  |  |  |  |
A0300D | A | Ambulance basic non-emer all |  |  |  |  |
A0302D | A | Ambulance basic emergeny all |  |  |  |  |
A0304D | A | Amb adv non-er no serv all |  |  |  |  |
A0306D | A | Amb adv non-er spec serv all |  |  |  |  |
A0308D | A | Amb adv er no spec serv all |  |  |  |  |
A0310D | A | Amb adv er spec serv all |  |  |  |  |
A0320D | A | Amb basic non-er + supplies |  |  |  |  |
A0322D | A | Amb basic emerg + supplies |  |  |  |  |
A0324D | A | Adv non-er serv sep mileage |  |  |  |  |
A0326D | A | Adv non-er no serv sep mile |  |  |  |  |
A0328D | A | Adv er no serv sep mileage |  |  |  |  |
A0330D | A | Adv er spec serv sep mile |  |  |  |  |
A0340D | A | Amb basic non-er + mileage |  |  |  |  |
A0342D | A | Ambul basic emer + mileage |  |  |  |  |
A0344D | A | Amb adv non-er no serv +mile |  |  |  |  |
A0346D | A | Amb adv non-er serv + mile |  |  |  |  |
A0348D | A | Adv emer no spec serv + mile |  |  |  |  |
A0350D | A | Adv emer spec serv + mileage |  |  |  |  |
A0360D | A | Basic non-er sep mile & supp |  |  |  |  |
A0362D | A | Basic emer sep mile & supply |  |  |  |  |
A0364D | A | Adv non-er no serv sep mi&su |  |  |  |  |
A0366D | A | Adv non-er serv sep mil&supp |  |  |  |  |
A0368 | A | Adv er no serv sep mile&supp |  |  |  |  |
A0370D | A | Adv er spec serv sep mi&supp |  |  |  |  |
A0380D | A | Basic life support mileage |  |  |  |  |
A0382 | A | Basic support routine suppls |  |  |  |  |
A0384 | A | Bls defibrillation supplies |  |  |  |  |
A0390D | A | Advanced life support mileag |  |  |  |  |
A0392 | A | Als defibrillation supplies |  |  |  |  |
A0394 | A | Als IV drug therapy supplies |  |  |  |  |
A0396 | A | Als esophageal intub suppls |  |  |  |  |
A0398 | A | Als routine disposble suppls |  |  |  |  |
A0420 | A | Ambulance waiting 1/2 hr |  |  |  |  |
A0422 | A | Ambulance O2 life sustaining |  |  |  |  |
A0424 | A | Extra ambulance attendant |  |  |  |  |
A0425 | A | Ground mileage |  |  |  |  |
A0426 | A | Als 1 |  |  |  |  |
A0427 | A | ALS1-emergency |  |  |  |  |
A0428 | A | bls |  |  |  |  |
A0429 | A | BLS-emergency |  |  |  |  |
A0430 | A | Fixed wing air transport |  |  |  |  |
A0431 | A | Rotary wing air transport |  |  |  |  |
A0432 | A | PI volunteer ambulance co |  |  |  |  |
A0433 | A | als 2 |  |  |  |  |
A0434 | A | Specialty care transport |  |  |  |  |
A0435 | A | Fixed wing air mileage |  |  |  |  |
A0436 | A | Rotary wing air mileage |  |  |  |  |
A0888 | E | Noncovered ambulance mileage |  |  |  |  |
A0999 | A | Unlisted ambulance service |  |  |  |  |
A4206 | E | 1 CC sterile syringe&needle |  |  |  |  |
A4207 | E | 2 CC sterile syringe&needle |  |  |  |  |
A4208 | E | 3 CC sterile syringe&needle |  |  |  |  |
A4209 | E | 5+ CC sterile syringe&needle |  |  |  |  |
A4210 | E | Nonneedle injection device |  |  |  |  |
A4211 | E | Supp for self-adm injections |  |  |  |  |
A4212 | E | Non coring needle or stylet |  |  |  |  |
A4213 | E | 20+ CC syringe only |  |  |  |  |
A4214 | A | 30 CC sterile water/saline |  |  |  |  |
A4215 | E | Sterile needle |  |  |  |  |
A4220 | E | Infusion pump refill kit |  |  |  |  |
A4221 | A | Maint drug infus cath per wk |  |  |  |  |
A4222 | A | Drug infusion pump supplies |  |  |  |  |
A4230 | A | Infus insulin pump non needl |  |  |  |  |
A4231 | A | Infusion insulin pump needle |  |  |  |  |
A4232 | A | Syringe w/needle insulin 3cc |  |  |  |  |
A4244 | E | Alcohol or peroxide per pint |  |  |  |  |
A4245 | E | Alcohol wipes per box |  |  |  |  |
A4246 | E | Betadine/phisohex solution |  |  |  |  |
A4247 | E | Betadine/iodine swabs/wipes |  |  |  |  |
A4250 | E | Urine reagent strips/tablets |  |  |  |  |
A4253 | A | Blood glucose/reagent strips |  |  |  |  |
A4254 | A | Battery for glucose monitor |  |  |  |  |
A4255 | A | Glucose monitor platforms |  |  |  |  |
A4256 | A | Calibrator solution/chips |  |  |  |  |
A4258 | A | Lancet device each |  |  |  |  |
A4259 | A | Lancets per box |  |  |  |  |
A4260 | E | Levonorgestrel implant |  |  |  |  |
A4261 | E | Cervical cap contraceptive |  |  |  |  |
A4262 | N | Temporary tear duct plug |  |  |  |  |
A4263 | N | Permanent tear duct plug |  |  |  |  |
A4265 | A | Paraffin |  |  |  |  |
A4270 | A | Disposable endoscope sheath |  |  |  |  |
A4280 | A | Brst prsths adhsv attchmnt |  |  |  |  |
A4290 | N | Sacral nerve stim test lead |  |  |  |  |
A4300 | A | Cath impl vasc access portal |  |  |  |  |
A4301 | A | Implantable access syst perc |  |  |  |  |
A4305 | A | Drug delivery system >=50 ML |  |  |  |  |
A4306 | A | Drug delivery system <=5 ML |  |  |  |  |
A4310 | A | Insert tray w/o bag/cath |  |  |  |  |
A4311 | A | Catheter w/o bag 2-way latex |  |  |  |  |
A4312 | A | Cath w/o bag 2-way silicone |  |  |  |  |
A4313 | A | Catheter w/bag 3-way |  |  |  |  |
A4314 | A | Cath w/drainage 2-way latex |  |  |  |  |
A4315 | A | Cath w/drainage 2-way silcne |  |  |  |  |
A4316 | A | Cath w/drainage 3-way |  |  |  |  |
A4319 | A | Sterile H2O irrigation solut |  |  |  |  |
A4320 | A | Irrigation tray |  |  |  |  |
A4321 | A | Cath therapeutic irrig agent |  |  |  |  |
A4322 | A | Irrigation syringe |  |  |  |  |
A4323 | A | Saline irrigation solution |  |  |  |  |
A4324 | A | Male ext cath w/adh coating |  |  |  |  |
A4325 | A | Male ext cath w/adh strip |  |  |  |  |
A4326 | A | Male external catheter |  |  |  |  |
A4327 | A | Fem urinary collect dev cup |  |  |  |  |
A4328 | A | Fem urinary collect pouch |  |  |  |  |
A4329 | A | External catheter start set |  |  |  |  |
A4330 | A | Stool collection pouch |  |  |  |  |
A4331 | A | Extension drainage tubing |  |  |  |  |
A4332 | A | Lubricant for cath insertion |  |  |  |  |
A4333 | A | Urinary cath anchor device |  |  |  |  |
A4334 | A | Urinary cath leg strap |  |  |  |  |
A4335 | A | Incontinence supply |  |  |  |  |
A4338 | A | Indwelling catheter latex |  |  |  |  |
A4340 | A | Indwelling catheter special |  |  |  |  |
A4344 | A | Cath indw foley 2 way silicn |  |  |  |  |
A4346 | A | Cath indw foley 3 way |  |  |  |  |
A4347 | A | Male external catheter |  |  |  |  |
A4348 | A | Male ext cath extended wear |  |  |  |  |
A4351 | A | Straight tip urine catheter |  |  |  |  |
A4352 | A | Coude tip urinary catheter |  |  |  |  |
A4353 | A | Intermittent urinary cath |  |  |  |  |
A4354 | A | Cath insertion tray w/bag |  |  |  |  |
A4355 | A | Bladder irrigation tubing |  |  |  |  |
A4356 | A | Ext ureth clmp or compr dvc |  |  |  |  |
A4357 | A | Bedside drainage bag |  |  |  |  |
A4358 | A | Urinary leg bag |  |  |  |  |
A4359 | A | Urinary suspensory w/o leg b |  |  |  |  |
A4361 | A | Ostomy face plate |  |  |  |  |
A4362 | A | Solid skin barrier |  |  |  |  |
A4364 | A | Ostomy/cath adhesive |  |  |  |  |
A4365 | A | Ostomy adhesive remover wipe |  |  |  |  |
A4367 | A | Ostomy belt |  |  |  |  |
A4368 | A | Ostomy filter |  |  |  |  |
A4369 | A | Skin barrier liquid per oz |  |  |  |  |
A4370 | A | Skin barrier paste per oz |  |  |  |  |
A4371 | A | Skin barrier powder per oz |  |  |  |  |
A4372 | A | Skin barrier solid 4x4 equiv |  |  |  |  |
A4373 | A | Skin barrier with flange |  |  |  |  |
A4374 | A | Skin barrier extended wear |  |  |  |  |
A4375 | A | Drainable plastic pch w fcpl |  |  |  |  |
A4376 | A | Drainable rubber pch w fcplt |  |  |  |  |
A4377 | A | Drainable plstic pch w/o fp |  |  |  |  |
A4378 | A | Drainable rubber pch w/o fp |  |  |  |  |
A4379 | A | Urinary plastic pouch w fcpl |  |  |  |  |
A4380 | A | Urinary rubber pouch w fcplt |  |  |  |  |
A4381 | A | Urinary plastic pouch w/o fp |  |  |  |  |
A4382 | A | Urinary hvy plstc pch w/o fp |  |  |  |  |
A4383 | A | Urinary rubber pouch w/o fp |  |  |  |  |
A4384 | A | Ostomy faceplt/silicone ring |  |  |  |  |
A4385 | A | Ost skn barrier sld ext wear |  |  |  |  |
A4386 | A | Ost skn barrier w flng ex wr |  |  |  |  |
A4387 | A | Ost clsd pouch w att st barr |  |  |  |  |
A4388 | A | Drainable pch w ex wear barr |  |  |  |  |
A4389 | A | Drainable pch w st wear barr |  |  |  |  |
A4390 | A | Drainable pch ex wear convex |  |  |  |  |
A4391 | A | Urinary pouch w ex wear barr |  |  |  |  |
A4392 | A | Urinary pouch w st wear barr |  |  |  |  |
A4393 | A | Urine pch w ex wear bar conv |  |  |  |  |
A4394 | A | Ostomy pouch liq deodorant |  |  |  |  |
A4395 | A | Ostomy pouch solid deodorant |  |  |  |  |
A4396 | A | Peristomal hernia supprt blt |  |  |  |  |
A4397 | A | Irrigation supply sleeve |  |  |  |  |
A4398 | A | Ostomy irrigation bag |  |  |  |  |
A4399 | A | Ostomy irrig cone/cath w brs |  |  |  |  |
A4400 | A | Ostomy irrigation set |  |  |  |  |
A4402 | A | Lubricant per ounce |  |  |  |  |
A4404 | A | Ostomy ring each |  |  |  |  |
A4421 | A | Ostomy supply misc |  |  |  |  |
A4454 | A | Tape all types all sizes |  |  |  |  |
A4455 | A | Adhesive remover per ounce |  |  |  |  |
A4460 | A | Elastic compression bandage |  |  |  |  |
A4462 | A | Abdmnl drssng holder/binder |  |  |  |  |
A4464 | A | Joint support device/garment |  |  |  |  |
A4465 | A | Non-elastic extremity binder |  |  |  |  |
A4470 | A | Gravlee jet washer |  |  |  |  |
A4480 | A | Vabra aspirator |  |  |  |  |
A4481 | A | Tracheostoma filter |  |  |  |  |
A4483 | A | Moisture exchanger |  |  |  |  |
A4490 | E | Above knee surgical stocking |  |  |  |  |
A4495 | E | Thigh length surg stocking |  |  |  |  |
A4500 | E | Below knee surgical stocking |  |  |  |  |
A4510 | E | Full length surg stocking |  |  |  |  |
A4550 | E | Surgical trays |  |  |  |  |
A4554 | E | Disposable underpads |  |  |  |  |
A4556 | A | Electrodes, pair |  |  |  |  |
A4557 | A | Lead wires, pair |  |  |  |  |
A4558 | A | Conductive paste or gel |  |  |  |  |
A4560D | A | Pessary |  |  |  |  |
A4561 | N | Pessary rubber, any type |  |  |  |  |
A4562 | N | Pessary, non rubber,any type |  |  |  |  |
A4565 | A | Slings |  |  |  |  |
A4570 | N | Splint |  |  |  |  |
A4572 | A | Rib belt |  |  |  |  |
A4575 | E | Hyperbaric o2 chamber disps |  |  |  |  |
A4580 | N | Cast supplies (plaster) |  |  |  |  |
A4590 | N | Special casting material |  |  |  |  |
A4595 | A | TENS suppl 2 lead per month |  |  |  |  |
A4608 | A | Transtracheal oxygen cath |  |  |  |  |
A4611 | A | Heavy duty battery |  |  |  |  |
A4612 | A | Battery cables |  |  |  |  |
A4613 | A | Battery charger |  |  |  |  |
A4614 | A | Hand-held PEFR meter |  |  |  |  |
A4615 | A | Cannula nasal |  |  |  |  |
A4616 | A | Tubing (oxygen) per foot |  |  |  |  |
A4617 | A | Mouth piece |  |  |  |  |
A4618 | A | Breathing circuits |  |  |  |  |
A4619 | A | Face tent |  |  |  |  |
A4620 | A | Variable concentration mask |  |  |  |  |
A4621 | A | Tracheotomy mask or collar |  |  |  |  |
A4622 | A | Tracheostomy or larngectomy |  |  |  |  |
A4623 | A | Tracheostomy inner cannula |  |  |  |  |
A4624 | A | Tracheal suction tube |  |  |  |  |
A4625 | A | Trach care kit for new trach |  |  |  |  |
A4626 | A | Tracheostomy cleaning brush |  |  |  |  |
A4627 | E | Spacer bag/reservoir |  |  |  |  |
A4628 | A | Oropharyngeal suction cath |  |  |  |  |
A4629 | A | Tracheostomy care kit |  |  |  |  |
A4630 | A | Repl bat t.e.n.s. own by pt |  |  |  |  |
A4631 | A | Wheelchair battery |  |  |  |  |
A4635 | A | Underarm crutch pad |  |  |  |  |
A4636 | A | Handgrip for cane etc |  |  |  |  |
A4637 | A | Repl tip cane/crutch/walker |  |  |  |  |
A4640 | A | Alternating pressure pad |  |  |  |  |
A4641 | N | Diagnostic imaging agent |  |  |  |  |
A4642 | G | Satumomab pendetide per dose | 0704 |  | $712.50 |  | $86.93
A4643 | N | High dose contrast MRI |  |  |  |  |
A4644 | N | Contrast 100-199 MGs iodine |  |  |  |  |
A4645 | N | Contrast 200-299 MGs iodine |  |  |  |  |
A4646 | N | Contrast 300-399 MGs iodine |  |  |  |  |
A4647 | N | Supp- paramagnetic contr mat |  |  |  |  |
A4649 | A | Surgical supplies |  |  |  |  |
A4650 | A | Supp esrd centrifuge |  |  |  |  |
A4655 | A | Esrd syringe/needle |  |  |  |  |
A4660 | A | Esrd blood pressure device |  |  |  |  |
A4663 | A | Esrd blood pressure cuff |  |  |  |  |
A4670 | E | Auto blood pressure monitor |  |  |  |  |
A4680 | A | Activated carbon filters |  |  |  |  |
A4690 | A | Dialyzers |  |  |  |  |
A4700 | A | Standard dialysate solution |  |  |  |  |
A4705 | A | Bicarb dialysate solution |  |  |  |  |
A4712 | A | Sterile water |  |  |  |  |
A4714 | A | Treated water for dialysis |  |  |  |  |
A4730 | A | Fistula cannulation set dial |  |  |  |  |
A4735 | A | Local/topical anesthetics |  |  |  |  |
A4740 | A | Esrd shunt accessory |  |  |  |  |
A4750 | A | Arterial or venous tubing |  |  |  |  |
A4755 | A | Arterial and venous tubing |  |  |  |  |
A4760 | A | Standard testing solution |  |  |  |  |
A4765 | A | Dialysate concentrate |  |  |  |  |
A4770 | A | Blood testing supplies |  |  |  |  |
A4771 | A | Blood clotting time tube |  |  |  |  |
A4772 | A | Dextrostick/glucose strips |  |  |  |  |
A4773 | A | Hemostix |  |  |  |  |
A4774 | A | Ammonia test paper |  |  |  |  |
A4780 | A | Esrd sterilizing agent |  |  |  |  |
A4790 | A | Esrd cleansing agents |  |  |  |  |
A4800 | A | Heparin/antidote dialysis |  |  |  |  |
A4820 | A | Supplies hemodialysis kit |  |  |  |  |
A4850 | A | Rubber tipped hemostats |  |  |  |  |
A4860 | A | Disposable catheter caps |  |  |  |  |
A4870 | A | Plumbing/electrical work |  |  |  |  |
A4880 | A | Water storage tanks |  |  |  |  |
A4890 | A | Contracts/repair/maintenance |  |  |  |  |
A4900 | A | Capd supply kit |  |  |  |  |
A4901 | A | Ccpd supply kit |  |  |  |  |
A4905 | A | Ipd supply kit |  |  |  |  |
A4910 | A | Esrd nonmedical supplies |  |  |  |  |
A4912 | A | Gomco drain bottle |  |  |  |  |
A4913 | A | Esrd supply |  |  |  |  |
A4914 | A | Preparation kit |  |  |  |  |
A4918 | A | Venous pressure clamp |  |  |  |  |
A4919 | A | Supp dialysis dialyzer holde |  |  |  |  |
A4920 | A | Harvard pressure clamp |  |  |  |  |
A4921 | A | Measuring cylinder |  |  |  |  |
A4927 | A | Gloves |  |  |  |  |
A5051 | A | Pouch clsd w barr attached |  |  |  |  |
A5052 | A | Clsd ostomy pouch w/o barr |  |  |  |  |
A5053 | A | Clsd ostomy pouch faceplate |  |  |  |  |
A5054 | A | Clsd ostomy pouch w/flange |  |  |  |  |
A5055 | A | Stoma cap |  |  |  |  |
A5061 | A | Pouch drainable w barrier at |  |  |  |  |
A5062 | A | Drnble ostomy pouch w/o barr |  |  |  |  |
A5063 | A | Drain ostomy pouch w/flange |  |  |  |  |
A5064 | E | Drain ostomy pouch w/fceplte |  |  |  |  |
A5065D | E | Drain ostomy pouch w/fceplte |  |  |  |  |
A5071 | A | Urinary pouch w/barrier |  |  |  |  |
A5072 | A | Urinary pouch w/o barrier |  |  |  |  |
A5073 | A | Urinary pouch on barr w/flng |  |  |  |  |
A5074 | E | Urinary pouch w/faceplate |  |  |  |  |
A5075 | E | Urinary pouch on faceplate |  |  |  |  |
A5081 | A | Continent stoma plug |  |  |  |  |
A5082 | A | Continent stoma catheter |  |  |  |  |
A5093 | A | Ostomy accessory convex inse |  |  |  |  |
A5102 | A | Bedside drain btl w/wo tube |  |  |  |  |
A5105 | A | Urinary suspensory |  |  |  |  |
A5112 | A | Urinary leg bag |  |  |  |  |
A5113 | A | Latex leg strap |  |  |  |  |
A5114 | A | Foam/fabric leg strap |  |  |  |  |
A5119 | A | Skin barrier wipes box pr 50 |  |  |  |  |
A5121 | A | Solid skin barrier 6x6 |  |  |  |  |
A5122 | A | Solid skin barrier 8x8 |  |  |  |  |
A5123 | A | Skin barrier with flange |  |  |  |  |
A5126 | A | Disk/foam pad +or- adhesive |  |  |  |  |
A5131 | A | Appliance cleaner |  |  |  |  |
A5149D | A | Incontinence/ostomy supply |  |  |  |  |
A5200 | A | Percutaneous catheter anchor |  |  |  |  |
A5500 | A | Diab shoe for density insert |  |  |  |  |
A5501 | A | Diabetic custom molded shoe |  |  |  |  |
A5502 | A | Diabetic shoe density insert |  |  |  |  |
A5503 | A | Diabetic shoe w/roller/rockr |  |  |  |  |
A5504 | A | Diabetic shoe with wedge |  |  |  |  |
A5505 | A | Diab shoe w/metatarsal bar |  |  |  |  |
A5506 | A | Diabetic shoe w/off set heel |  |  |  |  |
A5507 | A | Modification diabetic shoe |  |  |  |  |
A5508 | A | Diabetic deluxe shoe |  |  |  |  |
A6020 | A | Collagen wound dressing |  |  |  |  |
A6021 | A | Collagen dressing <=16 sq in |  |  |  |  |
A6022 | A | Collagen drsg>6<=48 sq in |  |  |  |  |
A6023 | A | Collagen dressing >48 sq in |  |  |  |  |
A6024 | A | Collagen dsg wound filler |  |  |  |  |
A6025 | E | Silicone gel sheet, each |  |  |  |  |
A6154 | A | Wound pouch each |  |  |  |  |
A6196 | A | Alginate dressing <=16 sq in |  |  |  |  |
A6197 | A | Alginate drsg >16 <=48 sq in |  |  |  |  |
A6198 | A | alginate dressing > 48 sq in |  |  |  |  |
A6199 | A | Alginate drsg wound filler |  |  |  |  |
A6200 | A | Compos drsg <=16 no border |  |  |  |  |
A6201 | A | Compos drsg >16<=48 no bdr |  |  |  |  |
A6202 | A | Compos drsg >48 no border |  |  |  |  |
A6203 | A | Composite drsg <= 16 sq in |  |  |  |  |
A6204 | A | Composite drsg >16<=48 sq in |  |  |  |  |
A6205 | A | Composite drsg > 48 sq in |  |  |  |  |
A6206 | A | Contact layer <= 16 sq in |  |  |  |  |
A6207 | A | Contact layer >16<= 48 sq in |  |  |  |  |
A6208 | A | Contact layer > 48 sq in |  |  |  |  |
A6209 | A | Foam drsg <=16 sq in w/o bdr |  |  |  |  |
A6210 | A | Foam drg >16<=48 sq in w/o b |  |  |  |  |
A6211 | A | Foam drg > 48 sq in w/o brdr |  |  |  |  |
A6212 | A | Foam drg <=16 sq in w/border |  |  |  |  |
A6213 | A | Foam drg >16<=48 sq in w/bdr |  |  |  |  |
A6214 | A | Foam drg > 48 sq in w/border |  |  |  |  |
A6215 | A | Foam dressing wound filler |  |  |  |  |
A6216 | A | Non-sterile gauze<=16 sq in |  |  |  |  |
A6217 | A | Non-sterile gauze>16<=48 sq |  |  |  |  |
A6218 | A | Non-sterile gauze > 48 sq in |  |  |  |  |
A6219 | A | Gauze <= 16 sq in w/border |  |  |  |  |
A6220 | A | Gauze >16 <=48 sq in w/bordr |  |  |  |  |
A6221 | A | Gauze > 48 sq in w/border |  |  |  |  |
A6222 | A | Gauze <=16 in no w/sal w/o b |  |  |  |  |
A6223 | A | Gauze >16<=48 no w/sal w/o b |  |  |  |  |
A6224 | A | Gauze > 48 in no w/sal w/o b |  |  |  |  |
A6228 | A | Gauze <= 16 sq in water/sal |  |  |  |  |
A6229 | A | Gauze >16<=48 sq in watr/sal |  |  |  |  |
A6230 | A | Gauze > 48 sq in water/salne |  |  |  |  |
A6231 | A | Hydrogel dsg<=16 sq in |  |  |  |  |
A6232 | A | Hydrogel dsg>16<=48 sq in |  |  |  |  |
A6233 | A | Hydrogel dressing >48 sq in |  |  |  |  |
A6234 | A | Hydrocolld drg <=16 w/o bdr |  |  |  |  |
A6235 | A | Hydrocolld drg >16<=48 w/o b |  |  |  |  |
A6236 | A | Hydrocolld drg > 48 in w/o b |  |  |  |  |
A6237 | A | Hydrocolld drg <=16 in w/bdr |  |  |  |  |
A6238 | A | Hydrocolld drg >16<=48 w/bdr |  |  |  |  |
A6239 | A | Hydrocolld drg > 48 in w/bdr |  |  |  |  |
A6240 | A | Hydrocolld drg filler paste |  |  |  |  |
A6241 | A | Hydrocolloid drg filler dry |  |  |  |  |
A6242 | A | Hydrogel drg <=16 in w/o bdr |  |  |  |  |
A6243 | A | Hydrogel drg >16<=48 w/o bdr |  |  |  |  |
A6244 | A | Hydrogel drg >48 in w/o bdr |  |  |  |  |
A6245 | A | Hydrogel drg <= 16 in w/bdr |  |  |  |  |
A6246 | A | Hydrogel drg >16<=48 in w/b |  |  |  |  |
A6247 | A | Hydrogel drg > 48 sq in w/b |  |  |  |  |
A6248 | A | Hydrogel drsg gel filler |  |  |  |  |
A6250 | A | Skin seal protect moisturizr |  |  |  |  |
A6251 | A | Absorpt drg <=16 sq in w/o b |  |  |  |  |
A6252 | A | Absorpt drg >16 <=48 w/o bdr |  |  |  |  |
A6253 | A | Absorpt drg > 48 sq in w/o b |  |  |  |  |
A6254 | A | Absorpt drg <=16 sq in w/bdr |  |  |  |  |
A6255 | A | Absorpt drg >16<=48 in w/bdr |  |  |  |  |
A6256 | A | Absorpt drg > 48 sq in w/bdr |  |  |  |  |
A6257 | A | Transparent film <= 16 sq in |  |  |  |  |
A6258 | A | Transparent film >16<=48 in |  |  |  |  |
A6259 | A | Transparent film > 48 sq in |  |  |  |  |
A6260 | A | Wound cleanser any type/size |  |  |  |  |
A6261 | A | Wound filler gel/paste /oz |  |  |  |  |
A6262 | A | Wound filler dry form / gram |  |  |  |  |
A6263 | A | Non-sterile elastic gauze/yd |  |  |  |  |
A6264 | A | Non-sterile no elastic gauze |  |  |  |  |
A6265 | A | Tape per 18 sq inches |  |  |  |  |
A6266 | A | Impreg gauze no h2O/sal/yard |  |  |  |  |
A6402 | A | Sterile gauze <= 16 sq in |  |  |  |  |
A6403 | A | Sterile gauze>16 <= 48 sq in |  |  |  |  |
A6404 | A | Sterile gauze > 48 sq in |  |  |  |  |
A6405 | A | Sterile elastic gauze /yd |  |  |  |  |
A6406 | A | Sterile non-elastic gauze/yd |  |  |  |  |
A7000 | A | Disposable canister for pump |  |  |  |  |
A7001 | A | Nondisposable pump canister |  |  |  |  |
A7002 | A | Tubing used w suction pump |  |  |  |  |
A7003 | A | Nebulizer administration set |  |  |  |  |
A7004 | A | Disposable nebulizer sml vol |  |  |  |  |
A7005 | A | Nondisposable nebulizer set |  |  |  |  |
A7006 | A | Filtered nebulizer admin set |  |  |  |  |
A7007 | A | Lg vol nebulizer disposable |  |  |  |  |
A7008 | A | Disposable nebulizer prefill |  |  |  |  |
A7009 | A | Nebulizer reservoir bottle |  |  |  |  |
A7010 | A | Disposable corrugated tubing |  |  |  |  |
A7011 | A | Nondispos corrugated tubing |  |  |  |  |
A7012 | A | Nebulizer water collec devic |  |  |  |  |
A7013 | A | Disposable compressor filter |  |  |  |  |
A7014 | A | Compressor nondispos filter |  |  |  |  |
A7015 | A | Aerosol mask used w nebulize |  |  |  |  |
A7016 | A | Nebulizer dome & mouthpiece |  |  |  |  |
A7017 | A | Nebulizer not used w oxygen |  |  |  |  |
A7018 | A | Water distilled w/nebulizer |  |  |  |  |
A7019 | A | Saline solution dispenser |  |  |  |  |
A7020 | A | Sterile H2O or NSS w lgv neb |  |  |  |  |
A7501 | A | Tracheostoma valve w diaphra |  |  |  |  |
A7502 | A | Replacement diaphragm/fplate |  |  |  |  |
A7503 | A | HMES filter holder or cap |  |  |  |  |
A7504 | A | Tracheostoma HMES filter |  |  |  |  |
A7505 | A | HMES or trach valve housing |  |  |  |  |
A7506 | A | HMES/trachvalve adhesivedisk |  |  |  |  |
A7507 | A | Integrated filter & holder |  |  |  |  |
A7508 | A | Housing & Integrated Adhesiv |  |  |  |  |
A7509 | A | Heat & moisture exchange sys |  |  |  |  |
A9150 | E | Misc/exper non-prescript dru |  |  |  |  |
A9160 | E | Podiatrist non-covered servi |  |  |  |  |
A9170 | E | Chiropractor non-covered ser |  |  |  |  |
A9190 | E | Misc/expe personal comfort i |  |  |  |  |
A9270 | E | Non-covered item or service |  |  |  |  |
A9300 | E | Exercise equipment |  |  |  |  |
*A9500 | G | Technetium TC 99m sestamibi | 1600 |  | $109.25 |  | $13.33
A9502 | G | Technetium TC99M tetrofosmin | 0705 |  | $136.80 |  | $16.69
*A9503 | G | Technetium TC 99m medronate | 1601 |  | $38.38 |  | $4.68
*A9504 | G | Technetium tc 99m apcitide | 1602 |  | $47.50 |  | $5.80
*A9505 | G | Thallous chloride TL 201/mci | 1603 |  | $28.50 |  | $3.48
*A9507 | G | Indium/111 capromab pendetid | 1604 |  | $1,008.90 |  | $135.19
A9508 | G | Iobenguane sulfate I-131 | 1045 |  | $1,140.00 |  | $139.08
A9510 | G | Technetium TC99m Disofenin | 1205 |  | $427.50 |  | $57.29
A9600 | G | Strontium-89 chloride | 0701 |  | $783.75 |  | $95.62
A9605 | G | Samarium sm153 lexidronamm | 0702 |  | $942.09 |  | $134.87
A9700 | N | Echocardiography Contrast |  |  |  |  |
A9900 | E | Supply/accessory/service |  |  |  |  |
A9901 | E | Delivery/set up/dispensing |  |  |  |  |
B4034 | A | Enter feed supkit syr by day |  |  |  |  |
B4035 | A | Enteral feed supp pump per d |  |  |  |  |
B4036 | A | Enteral feed sup kit grav by |  |  |  |  |
B4081 | A | Enteral ng tubing w/ stylet |  |  |  |  |
B4082 | A | Enteral ng tubing w/o stylet |  |  |  |  |
B4083 | A | Enteral stomach tube levine |  |  |  |  |
B4084 | A | Gastrostomy/jejunostomy tubi |  |  |  |  |
B4085 | A | Gastrostomy tube w/ring each |  |  |  |  |
B4150 | A | Enteral formulae category i |  |  |  |  |
B4151 | A | Enteral formulae category i- |  |  |  |  |
B4152 | A | Enteral formulae category ii |  |  |  |  |
B4153 | A | Enteral formulae category ii |  |  |  |  |
B4154 | A | Enteral formulae category IV |  |  |  |  |
B4155 | A | Enteral formulae category v |  |  |  |  |
B4156 | A | Enteral formulae category vi |  |  |  |  |
B4164 | A | Parenteral 50% dextrose solu |  |  |  |  |
B4168 | A | Parenteral sol amino acid 3. |  |  |  |  |
B4172 | A | Parenteral sol amino acid 5. |  |  |  |  |
B4176 | A | Parenteral sol amino acid 7- |  |  |  |  |
B4178 | A | Parenteral sol amino acid > |  |  |  |  |
B4180 | A | Parenteral sol carb > 50% |  |  |  |  |
B4184 | A | Parenteral sol lipids 10% |  |  |  |  |
B4186 | A | Parenteral sol lipids 20% |  |  |  |  |
B4189 | A | Parenteral sol amino acid & |  |  |  |  |
B4193 | A | Parenteral sol 52-73 gm prot |  |  |  |  |
B4197 | A | Parenteral sol 74-100 gm pro |  |  |  |  |
B4199 | A | Parenteral sol > 100gm prote |  |  |  |  |
B4216 | A | Parenteral nutrition additiv |  |  |  |  |
B4220 | A | Parenteral supply kit premix |  |  |  |  |
B4222 | A | Parenteral supply kit homemi |  |  |  |  |
B4224 | A | Parenteral administration ki |  |  |  |  |
B5000 | A | Parenteral sol renal-amirosy |  |  |  |  |
B5100 | A | Parenteral sol hepatic-fream |  |  |  |  |
B5200 | A | Parenteral sol stres-brnch c |  |  |  |  |
B9000 | A | Enter infusion pump w/o alrm |  |  |  |  |
B9002 | A | Enteral infusion pump w/ ala |  |  |  |  |
B9004 | A | Parenteral infus pump portab |  |  |  |  |
B9006 | A | Parenteral infus pump statio |  |  |  |  |
B9998 | A | Enteral supp not otherwise c |  |  |  |  |
B9999 | A | Parenteral supp not othrws c |  |  |  |  |
C1000 | H | PerclosClosr ProstarArt Vas | 1000 |  |  |  |
C1001 | H | AcuNav-diagnstic ultrsnd ca | 1001 |  |  |  |
C1003 | H | Cath, ablation, Livewire TC | 1003 |  |  |  |
C1004 | H | Fast-Cath,Swartz,SAFL,CSTA | 1004 |  |  |  |
C1005D | E | Sensar IOL |  |  |  |  |
C1006 | H | ARRAY post chamb IOL | 1006 |  |  |  |
C1007 | H | Ams 700 penile prosthesis | 1007 |  |  |  |
C1008 | H | Urolume-implt uretheral stent | 1008 |  |  |  |
C1009 | K | Plasma, cryoprecipitate-reduced, unit | 1009 | 0.86 | $42.76 |  | $8.55
C1010 | K | Blood, L/R, CMV-neg | 1010 | 2.88 | $142.84 |  | $28.57
C1011 | K | Platelets, L/R, CMV-neg, unit | 1011 | 11.86 | $588.15 |  | $117.63
C1012 | K | Platelet concentrate, L/R, irradiated, unit | 1012 | 1.92 | $95.23 |  | $19.05
C1013 | K | Platelet concentrate, L/R, unit | 1013 | 1.18 | $58.30 |  | $11.66
C1014 | K | Platelets, aph/pher, L/R, unit | 1014 | 8.93 | $443.11 |  | $88.62
C1016 | K | Blood, L/R, froz/deglycerol/washed | 1016 | 7.15 | $354.68 |  | $70.94
C1017 | K | Platelets, aph/pher, L/R, CMV-neg, unit | 1017 | 9.33 | $462.54 |  | $92.51
C1018 | K | Blood, L/R, irradiated | 1018 | 3.13 | $155.48 |  | $31.10
C1019 | K | Platelets, aph/pher, L/R, irradiated, unit | 1019 | 9.64 | $478.09 |  | $95.62
C1024 | J | Quinupristin 150 mg/dalfopriston 350 mg | 1024 |  | $159.60 |  | $20.50
C1025 | H | Marinr CS Cath | 1025 |  |  |  |
C1026 | H | RF Perfrmr cath 5F RF Marinr | 1026 |  |  |  |
C1027 | H | Magic x/short, Radius14mm | 1027 |  |  |  |
C1028 | H | Prcis Twst trnsvg anch sys | 1028 |  |  |  |
C1029 | H | CRE guided balloon dil cath | 1029 |  |  |  |
C1030 | H | Cthtr:Mrshal,Blu Max Utr Dmnd | 1030 |  |  |  |
C1031D | E | MR Comp/mod LeVeen ned elect |  |  |  |  |
C1033 | H | Sonicath mdl 37-410 | 1033 |  |  |  |
C1034 | H | SURPASS, Long30 SURPASS-cath | 1034 |  |  |  |
C1035 | H | Cath, Ultra ICE | 1035 |  |  |  |
C1036 | H | R port/reservoir impl dev | 1036 |  |  |  |
C1037 | H | Vaxcelchronic dialysis cath | 1037 |  |  |  |
C1038 | H | UltraCross Imaging Cath | 1038 |  |  |  |
C1039 | H | Wallstent, tracheobronchial | 1039 |  |  |  |
C1040 | H | WALLSTENT: TIPS (shunt) | 1040 |  |  |  |
C1042 | H | Wallstent, biliary | 1042 |  |  |  |
C1043 | H | Atherectomy sys, coronary | 1043 |  |  |  |
C1045 | G | I-131 MIBG (ioben-sulfate) O.5mCi | 1045 |  | $1,140.00 |  | $139.08
C1047 | H | Noga/Navi-Star cath | 1047 |  |  |  |
C1048 | H | NeuroCyberneticPros: gen | 1048 |  |  |  |
C1050 | H | Prosorba column | 1410 |  |  |  |
C1051 | H | Oasis Thrombectomy Cath | 1051 |  |  |  |
C1053 | H | EnSite 3000 catheter | 1053 |  |  |  |
C1054 | H | Hydrolyser Thromb Cath 6/7F | 1054 |  |  |  |
C1055 | H | Transesoph 210, 210-S Cath | 1055 |  |  |  |
C1056 | H | Thermachoice II Cath | 1056 |  |  |  |
C1057 | H | Micromark Tissue Marker | 1057 |  |  |  |
C1059 | G | Carticel,auto cult-chndr cyte | 1059 |  | $14,250.00 |  | $2,010.00
C1060 | H | ACS multi-link tristor/ultra | 1060 |  |  |  |
*C1061 | H | ACS Viking Guiding cath | 1061 |  |  |  |
*C1063 | H | EndoTak Endurance EZ, RX lead | 1063 |  |  |  |
*C1067 | H | Megalink biliary stent | 1067 |  |  |  |
*C1068 | H | Pulsar DDD pmkr | 1068 |  |  |  |
*C1069 | H | Discovery DR, pmaker | 1069 |  |  |  |
*C1071 | H | Pulsar Max, Pulsar SR pmkr | 1071 |  |  |  |
*C1072 | H | Guidant: blln dil cath | 1072 |  |  |  |
*C1073 | H | Morcellator | 1073 |  |  |  |
*C1074 | H | RX/OTW Viatrac-peri dil cath | 1074 |  |  |  |
*C1075 | H | Guidant: lead | 1075 |  |  |  |
*C1076 | H | Ventak mini sc defib | 1076 |  |  |  |
*C1077 | H | Ventak VR Prizm VR, sc defib | 1077 |  |  |  |
*C1078 | H | Ventak: Prizm, AVIIIDR defib | 1078 |  |  |  |
*C1079 | G | CO 57/58 0.5 mCi | 1079 |  | $264.10 |  | $32.22
*C1084 | G | Denileukin diftitox, 300 mcg | 1084 |  | $942.88 |  | $126.35
*C1086 | G | Temozolomide, 5 mg | 1086 |  | $5.70 |  | $.76
*C1087 | G | I-123 per uCi capsule | 1087 |  | $.84 |  | $.10
*C1088 | T | LaserOptic tx sys | 0980 | 38.67 | $1,917.89 |  | $383.58
*C1089 | G | CO 57, 0.5 mCi | 1089 |  | $91.20 |  | $11.13
*C1090 | G | IN 111 Chloride, per mCi | 1090 |  | $152.00 |  | $18.54
*C1091 | G | IN 111 Oxyquinoline, per 5 mCi | 1091 |  | $508.25 |  | $62.01
*C1092 | G | IN 111 Pentetate, per 1.5 mCi | 1092 |  | $769.50 |  | $93.88
*C1094 | J | TC 99M Albumin aggr, per vial | 1094 |  | $102.05 |  | $13.67
*C1095 | G | TC 99M Depreotide, per vial | 1095 |  | $760.00 |  | $101.84
*C1096 | G | TC 99M Exametazime, per dose | 1096 |  | $34.20 |  | $4.17
*C1097 | G | TC 99M Mebrofenin, per vial | 1097 |  | $445.31 |  | $63.75
*C1098 | G | TC 99M Pentetate, per vial | 1098 |  | $46.76 |  | $5.71
*C1099 | J | TC 99M Pyrophosphate, per vial | 1099 |  | $42.75 |  | $5.22
*C1100 | H | Medtronic AVE GT1 guidewire | 1100 |  |  |  |
*C1101 | H | MedtronicAVE Zuma guidecath | 1101 |  |  |  |
*C1102 | H | Syngergy Neurostim Genrtr | 1102 |  |  |  |
*C1103 | H | Micro Jewel Defibrillator | 1103 |  |  |  |
*C1104 | H | RF Conductor Ablative Cath | 1104 |  |  |  |
*C1105 | H | Sigma 300VDD pacmker | 1105 |  |  |  |
*C1106 | H | SynergyEZ Pt Progrmr | 1106 |  |  |  |
*C1107 | H | Torqr, Solist cath | 1107 |  |  |  |
*C1109 | H | Implantable anchor: Ethicon | 1109 |  |  |  |
*C1110 | H | Stable Mapper, cath electrd | 1110 |  |  |  |
*C1111 | H | AneuRxAort-Uni-Ilicstnt&cath | 1111 |  |  |  |
*C1112 | H | AneuRx Stent graft/del.cath | 1112 |  |  |  |
*C1113 | H | Tlnt Endo Sprng Stnt Grft Sys | 1113 |  |  |  |
*C1114 | H | TalntSprgStnt+Graf endo pros | 1114 |  |  |  |
*C1115 | H | 5038S,5038,5038L pace lead | 1115 |  |  |  |
*C1116 | H | CapSureSP pacing Lead | 1116 |  |  |  |
*C1117 | H | Ancure Endograft Del Sys | 1117 |  |  |  |
*C1118 | H | Sigma300DR LegIIDR,pacemkr | 1118 |  |  |  |
*C1119 | H | Sprint6932,6943 defib lead | 1119 |  |  |  |
*C1120 | H | Sprint6942,6945 defib lead | 1120 |  |  |  |
*C1121 | H | Gem defibrillator | 1121 |  |  |  |
*C1122 | G | TC 99M arcitumomab per dose | 1122 |  | $22.80 |  | $2.78
*C1123 | H | Gem II VR defibrillator | 1123 |  |  |  |
*C1124 | H | InterStim Test Stim Kit | 1124 |  |  |  |
*C1125 | H | Kappa 400SR,Ttopaz II SR pmkr | 1125 |  |  |  |
*C1126 | H | Kappa 700 DR pacemakr | 1126 |  |  |  |
*C1127 | H | Kappa 700SR,pmkr sgl chamber | 1127 |  |  |  |
*C1128 | H | Kappa 700D,Ruby IID pmkr | 1128 |  |  |  |
*C1129 | H | Kappa 700VDD,pacmkr | 1129 |  |  |  |
*C1130 | H | Sigm200D,LGCY IID sc pmkr | 1130 |  |  |  |
*C1131 | H | Sigma 200DR, pmker | 1131 |  |  |  |
*C1132 | H | Sigma300,200SR Leg II:sc pac | 1132 |  |  |  |
*C1133 | H | Sigma SR, Vita SR, pmaker | 1133 |  |  |  |
*C1134 | H | Sigma 300D pmker | 1134 |  |  |  |
*C1135 | H | Entity DR 5326L/R | 1135 |  |  |  |
*C1136 | H | Affinity DR 5330L/R | 1136 |  |  |  |
*C1137 | H | CardioSEAL implant syst | 1137 |  |  |  |
*C1143 | H | AddVent mod 2060BL,VDD | 1143 |  |  |  |
*C1144 | H | Afnty SR 5130,Integrity SR,pmkr | 1144 |  |  |  |
*C1145 | H | Angio-Seal 6fr, 8fr | 1145 |  |  |  |
C1146D | E | VETT tube |  |  |  |  |
*C1147 | H | AV Plus DX 1368: lead | 1147 |  |  |  |
*C1148 | H | Contour MD sc defib | 1148 |  |  |  |
*C1149 | H | Entity DC 5226R, 5226 pmkr | 1149 |  |  |  |
*C1151 | H | Passiveplus DX lead, 10mdls | 1151 |  |  |  |
*C1152 | H | LifeSite Access System | 1152 |  |  |  |
*C1153 | H | Regency SC+ 2402L pmker | 1153 |  |  |  |
*C1154 | H | SPL:SPOI,02,04- defib lead | 1154 |  |  |  |
*C1155 | H | Repliform 8 sq cm | 1155 |  |  |  |
*C1156 | H | Tr 1102TrSR+ 2260L,2264L,5131 | 1156 |  |  |  |
*C1157 | H | Trilogy DCT 2318L pmkr | 1157 |  |  |  |
*C1158 | H | TVL lead SV01,SV02,SV04 | 1158 |  |  |  |
*C1159 | H | TVL RV02,RV06,RV07: lead | 1159 |  |  |  |
*C1160 | H | TVL-ADX 1559: lead | 1160 |  |  |  |
*C1161 | H | Tendril DX, 1388 pacing lead | 1161 |  |  |  |
*C1162 | H | TempoDr, TrilogyDR+DC pmkr | 1162 |  |  |  |
*C1163 | H | Tendril SDX, 1488T pacing lead | 1163 |  |  |  |
*C1164 | H | Iodine-125 brachytx seed | 1164 |  |  |  |
*C1166 | G | Cytarabine liposomal, 10 mg | 1166 |  | $371.45 |  | $49.77
*C1167 | J | Epirubicin hcl, 2 mg | 1167 |  | $24.94 |  | $3.34
C1170D | E | ABBI disp biopsy device |  |  |  |  |
*C1171 | H | Autosuture site marker stple | 1171 |  |  |  |
*C1172 | H | Spacemaker dissect ballon | 1172 |  |  |  |
*C1173 | H | Cor stnt S540, S670, o-wire stn | 1173 |  |  |  |
*C1174 | H | Bard brachytx needle | 1174 |  |  |  |
C1175D | E | Biopsy device, MIBB Device |  |  |  |  |
C1176D | E | Mammotome HH Probe w/Vac Sys |  |  |  |  |
C1177D | E | 11-G Mammotome Probe |  |  |  |  |
*C1178 | G | Busulfan IV, 6 mg | 1178 |  | $26.48 |  | $3.55
C1179D | E | 14-G Mammotome Probe |  |  |  |  |
*C1180 | H | Vigor SR, SC, pmkr | 1180 |  |  |  |
*C1181 | H | Meridian SSI, SC, pmkr | 1181 |  |  |  |
*C1182 | H | Pulsar SSI, SC, pmkr | 1182 |  |  |  |
*C1183 | H | Jade IIS, Sigma 300S,SC, pmkr | 1183 |  |  |  |
*C1184 | H | Sigma 200S, SC, pmkr | 1184 |  |  |  |
*C1188 | G | I 131, per mCi | 1188 |  | $5.86 |  | $.75
*C1200 | G | TC 99M Sodium Glucoheptonate, per vial | 1200 |  | $113.05 |  | $13.79
*C1201 | G | TC 99M succimer, per vial | 1201 |  | $135.66 |  | $16.55
*C1202 | G | TC 99M Sulfur Colloid, per dose | 1202 |  | $38.00 |  | $4.64
*C1203 | G | Verteporfin for Injection | 1203 |  | $1,458.25 |  | $195.41
*C1205 | G | TC 99M Disofenin, per vial | 1205 |  | $427.50 |  | $57.29
*C1207 | G | Octreotide acetate depot 1mg | 1207 |  | $135.10 |  | $16.48
*C1300 | S | Hyperbaric O2 per 30 min under pressure | 0971 | 1.55 | $76.88 |  | $15.38
*C1302 | H | Lead, defibrillator, TVL SQ01 | 1302 |  |  |  |
*C1303 | H | CapSure Fix 6940/4068-110, lead | 1303 |  |  |  |
*C1304 | H | Sonicath mdl 37-416,-418 | 1304 |  |  |  |
*C1305 | G | Apligraf | 1305 |  | $1,157.81 |  | $163.31
*C1306 | H | NeuroCyberneticPros: lead | 1306 |  |  |  |
*C1311 | H | Trilogy DR+/DAO pmkr | 1311 |  |  |  |
*C1312 | H | Magic WALLSTENTstent-Mini | 1312 |  |  |  |
*C1313 | H | Magic medium, Radius 31mm | 1313 |  |  |  |
*C1314 | H | Magic WALLSTENT stent-Long | 1314 |  |  |  |
*C1315 | H | Vigor DR, Meridian DR pmkr | 1315 |  |  |  |
*C1316 | H | Meridian DDD pmkr | 1316 |  |  |  |
*C1317 | H | Discovery SR, pmkr | 1317 |  |  |  |
*C1318 | H | Meridian SR pmakr | 1318 |  |  |  |
*C1319 | H | WALLSTENT: enteral | 1319 |  |  |  |
*C1320 | H | WALLSTENT:iliac | 1320 |  |  |  |
C1321D | E | Palate/Base of Tongue electr |  |  |  |  |
C1322D | E | Turbinate Somnoplasty electr |  |  |  |  |
C1323D | E | VAPR/T disp electrode |  |  |  |  |
C1324D | E | Ligasure disposable electrode |  |  |  |  |
*C1325 | H | Pallidium -103 seed | 1325 |  |  |  |
*C1326 | H | Angio-jet rheolytic thromb cath | 1326 |  |  |  |
*C1328 | H | ANS Renew NS trnsmtr | 1328 |  |  |  |
C1329D | E | Versapoint disp electrode |  |  |  |  |
*C1333 | H | PALMAZ Corinthian bill stent | 1333 |  |  |  |
*C1334 | H | Crown,Mini-crown,CrossLC | 1334 |  |  |  |
*C1335 | H | Mesh, Prolene | 1335 |  |  |  |
*C1336 | H | Constant Flow Imp Pump | 1336 |  |  |  |
*C1337 | H | IsoMed 8472-20/35/60 | 1337 |  |  |  |
*C1348 | G | I 131 per mCi solution | 1348 |  | $146.57 |  | $17.88
*C1350 | H | ProstaSeed, I125, per source | 1350 |  |  |  |
*C1351 | H | CapSure Fix lead | 1351 |  |  |  |
*C1352 | H | Gem II defib | 1352 |  |  |  |
*C1353 | H | Itrel Interstm neurostim+ext | 1353 |  |  |  |
*C1354 | H | Kappa 400DR,Diamond II 820DR | 1354 |  |  |  |
*C1355 | H | Kappa 600DR, Vita DR | 1355 |  |  |  |
*C1356 | H | Profile MD V-186HV3 sc defib | 1356 |  |  |  |
*C1357 | H | Angstrom MD V-190HV3 sc defib | 1357 |  |  |  |
*C1358 | H | Affinity DC 5230R, 5230 pmkr | 1358 |  |  |  |
*C1359 | H | Pulsar,Pulsar Max DR,pmkr | 1359 |  |  |  |
*C1360D | T | Ocular photodynamic therapy | 0235 | 2.94 | $145.81 | $78.91 | $29.16
*C1361 | H | Reveal Cardiac Recorder | 1108 |  |  |  |
*C1362 | H | Herculink,OTW SDS bil stent | 1411 |  |  |  |
*C1363 | H | Gem DR, DC, defib | 1363 |  |  |  |
*C1364 | H | Photon DR V-230HV3 DC defib | 1364 |  |  |  |
*C1365 | H | Guidewire, Hi-Torque14/18/35 | 1365 |  |  |  |
*C1366 | H | Guidewire,PTCA, Hi-Torque | 1366 |  |  |  |
*C1367 | H | Guidewire, Hi-Torque CrossIt | 1367 |  |  |  |
C1368D | E | On-Q Pain Mgt Sys |  |  |  |  |
*C1369 | H | ANS Renew Stim Sys recvr | 1369 |  |  |  |
*C1370 | H | Tension-Free Vaginal Tape | 1370 |  |  |  |
*C1371 | H | Symp Nitinol Transhep Bil Sys | 1371 |  |  |  |
*C1372 | H | Cordis Nitinol bil stent | 1372 |  |  |  |
*C1375 | H | Stent, coronary, NIR | 1375 |  |  |  |
*C1376 | H | ANS Renew Stim Sys lead/ex | 1376 |  |  |  |
*C1377 | H | Specify 3988 neuro lead | 1377 |  |  |  |
*C1378 | H | InterStim Tx 3080/3886 lead | 1378 |  |  |  |
*C1379 | H | Pisces-Quad 3887 lead | 1379 |  |  |  |
*C1420 | H | StapleTac2 Bone w/Dermis | 1420 |  |  |  |
*C1421 | H | StapleTac2 Bone wo Dermis | 1421 |  |  |  |
*C1450 | H | Orthosphere Arthroplasty | 1450 |  |  |  |
*C1451 | H | Orthosphere Arthroplasty Kit | 1451 |  |  |  |
*C1500 | H | Atherectomy sys, peripheral | 1500 |  |  |  |
*C1700 | H | Authen Mick TP brachy needle | 1700 |  |  |  |
*C1701 | H | Medtec MT-BT-5201 -25 ndl | 1701 |  |  |  |
*C1702 | H | WWMT brachytx needle | 1702 |  |  |  |
*C1703 | H | Mentor Prostate Brachy | 1703 |  |  |  |
*C1704 | H | MT-BT-5001-25/5051-25 | 1704 |  |  |  |
*C1705 | H | Best Flexi Brachy Needle | 1705 |  |  |  |
*C1706 | H | Indigo Prostate Seeding Ndl | 1706 |  |  |  |
*C1707 | H | Varisource Implt Ndl | 1707 |  |  |  |
*C1708 | H | UroMed Prostate Seed Ndl | 1708 |  |  |  |
*C1709 | H | Remington Brachytx Needle | 1709 |  |  |  |
*C1710 | H | US Biopsy Prostate Needle | 1710 |  |  |  |
*C1711 | H | MD Tech brachytx needle | 1711 |  |  |  |
*C1712 | H | Imagyn brachytx needle | 1712 |  |  |  |
*C1790 | H | Iridium 192 HDR | 1790 |  |  |  |
*C1791 | H | OncoSeed, Rapid Strand I-125 | 1791 |  |  |  |
*C1792 | H | UroMed I-125 Brachy seed | 1792 |  |  |  |
*C1793 | H | Bard InterSource P-103 seed | 1793 |  |  |  |
*C1794 | H | Bard IsoSeed P-103 seed | 1794 |  |  |  |
*C1795 | H | Bard BrachySource I-125 | 1795 |  |  |  |
*C1796 | H | SourceTech Med I-125 | 1796 |  |  |  |
*C1797 | H | Draximage I-125 seed | 1797 |  |  |  |
*C1798 | H | Syncor I-125 PharmaSeed | 1798 |  |  |  |
*C1799 | H | I-Plant I-125 Brachytx seed | 1799 |  |  |  |
*C1800 | H | Pd-103 brachytx seed | 1800 |  |  |  |
*C1801 | H | IoGold I-125 brachytx seed | 1801 |  |  |  |
*C1802 | H | Brachytherapy seed, Iridium 192 | 1802 |  |  |  |
*C1803 | H | Best Iodine 125 brachytx sds | 1803 |  |  |  |
*C1804 | H | Best Palladium 103 seeds | 1804 |  |  |  |
*C1805 | H | IsoStar Iodine-125 seeds | 1805 |  |  |  |
*C1806 | H | Gold 198 brachy seeds | 1806 |  |  |  |
*C1810 | H | D114S Dilatation Cath | 1810 |  |  |  |
*C1811 | H | Surgical Dynamics Anchors | 1811 |  |  |  |
*C1812 | H | OBL Anchors | 1812 |  |  |  |
*C1850 | H | Repliform 14/21 sq cm | 1850 |  |  |  |
*C1851 | H | Repliform 24/28 sq cm | 1851 |  |  |  |
*C1852 | H | TransCyte, per 247 sq cm | 1852 |  |  |  |
*C1853 | H | Suspend, per 8/14 sq cm | 1853 |  |  |  |
*C1854 | H | Suspend, per 24/28 sq cm | 1854 |  |  |  |
*C1855 | H | Suspend, per 36 sq cm | 1855 |  |  |  |
*C1856 | H | Suspend, per 48 sq cm | 1856 |  |  |  |
*C1857 | H | Suspend, per 84 sq cm | 1857 |  |  |  |
*C1858 | H | DuraDerm, per 8/14 sq cm | 1858 |  |  |  |
*C1859 | H | DuraDerm, per 21/24/28 sq cm | 1859 |  |  |  |
*C1860 | H | DuraDerm, per 48 sq cm | 1860 |  |  |  |
*C1861 | H | DuraDerm, per 36 sq cm | 1861 |  |  |  |
*C1862 | H | DuraDerm, per 72 sq cm | 1862 |  |  |  |
*C1863 | H | DuraDerm, per 84 sq cm | 1863 |  |  |  |
*C1864 | H | SpermaTex,per 13.44 sq cm | 1864 |  |  |  |
*C1865 | H | FasLata, per 8/14 sq cm | 1865 |  |  |  |
*C1866 | H | FasLata, per 24/28 sq cm | 1866 |  |  |  |
*C1867 | H | FasLata, per 36/48 sq cm | 1867 |  |  |  |
*C1868 | H | FasLata, per 96 sq cm | 1868 |  |  |  |
*C1869 | H | Gore Thyroplasty Dev | 1869 |  |  |  |
*C1870 | H | DermMatrix, per 16 sq cm | 1870 |  |  |  |
*C1871 | H | DermMatrix, 32 or 64 sq cm | 1871 |  |  |  |
*C1872 | H | Dermagraft, per 37.5 sq cm | 1872 |  |  |  |
*C1873 | H | Bard 3DMax Mesh | 1873 |  |  |  |
*C1929 | H | Maverick PTCA Cath | 1929 |  |  |  |
*C1930 | H | Coyote Dil Cath,20/30/40mm | 1930 |  |  |  |
*C1931 | H | Talon Dil Cath | 1931 |  |  |  |
*C1932 | H | Scimed Remedy Dil Cath | 1932 |  |  |  |
*C1933 | H | Opti-Plast XL/Centurion Cath | 1933 |  |  |  |
*C1934 | H | Ultraverse 3.5F Bal Dil Cath | 1934 |  |  |  |
*C1935 | H | Workhorse PTA Bal Cath | 1935 |  |  |  |
*C1936 | H | Uromax Ultra Bal Dil Cath | 1936 |  |  |  |
*C1937 | H | Synergy Balloon Dil Cath | 1937 |  |  |  |
*C1938 | H | UroForce Bal Dil Cath | 1938 |  |  |  |
*C1939 | H | Raptor, Ninja PTCA Dil Cath | 1939 |  |  |  |
*C1940 | H | PowerFlex,OPTA 5/LP Bal Cath | 1940 |  |  |  |
*C1941 | H | Jupiter PTA Dil Cath | 1941 |  |  |  |
*C1942 | H | Cordis Maxi LD PTA Bal Cath | 1942 |  |  |  |
*C1943 | H | RXCrossSail OTW OpenSail | 1943 |  |  |  |
*C1944 | H | Rapid Exchange Bil Dil Cath | 1944 |  |  |  |
*C1945 | H | Savvy PTA Dil Cath | 1945 |  |  |  |
*C1946 | H | R1s Rapid Dil Cath | 1946 |  |  |  |
*C1947 | H | Gazelle Bal Dil Cath | 1947 |  |  |  |
*C1948 | H | Pursuit Balloon Cath | 1948 |  |  |  |
*C1949 | H | Oracle Megasonics Cath | 1949 |  |  |  |
*C1979 | H | Visions PV/Avanar US Cath | 1979 |  |  |  |
*C1980 | H | Atlantis SR Coronary Cath | 1980 |  |  |  |
*C1981 | H | PTCA Catheters | 1981 |  |  |  |
*C2000 | H | Orbiter ST Steerable Cath | 2000 |  |  |  |
*C2001 | H | Constellation Diag Cath | 2001 |  |  |  |
*C2002 | H | Irvine 5F Inquiry Diag EP Cath | 2002 |  |  |  |
*C2003 | H | Irvine 6F Inquiry Diag EP Cath | 2003 |  |  |  |
*C2004 | H | Biosense EP Cath--Octapolar | 2004 |  |  |  |
*C2005 | H | Biosense EP Cath--Hexapolar | 2005 |  |  |  |
*C2006 | H | Biosense EP Cath--Decapolar | 2006 |  |  |  |
*C2007 | H | Irvine 6F Luma-Cath EP Cath | 2007 |  |  |  |
*C2008 | H | Luma-Cath EP Cath 81910-15 | 2008 |  |  |  |
*C2009 | H | Irvine 7F Luma-Cath EP Cath | 2009 |  |  |  |
*C2010 | H | Fixed Curve EP Cath | 2010 |  |  |  |
*C2011 | H | Deflectable Tip Cath--Quad | 2011 |  |  |  |
*C2012 | H | Celsius Abln Cath | 2012 |  |  |  |
*C2013 | H | Celsius Large Abln Cath | 2013 |  |  |  |
*C2014 | H | Celsius II Asym Abln Cath | 2014 |  |  |  |
*C2015 | H | Celsius II Sym Abln Cath | 2015 |  |  |  |
*C2016 | H | Navi-Star DS, Navi-Star Ther | 2016 |  |  |  |
*C2017 | H | Navi-Star Abln Cath | 2017 |  |  |  |
*C2018 | H | Polaris T Ablation Cath | 2018 |  |  |  |
*C2019 | H | EP Deflectable Cath | 2019 |  |  |  |
*C2020 | H | Catheter, ablation, Blazer II XP | 2020 |  |  |  |
*C2021 | H | SilverFlex EP Cath | 2021 |  |  |  |
*C2022 | H | CP Chilli Cooled Abln Cath | 2022 |  |  |  |
*C2023 | H | Chilli Cld AblnCath-std, lg | 2023 |  |  |  |
*C2100 | H | CP CS Reference Cath | 2100 |  |  |  |
*C2101 | H | CP RV Reference Cath | 2101 |  |  |  |
*C2102 | H | CP Radii 7F EP Cath | 2102 |  |  |  |
*C2103 | H | CP Radii 7F EP Cath w/Track | 2103 |  |  |  |
*C2104 | H | Lasso Deflectable Cath | 2104 |  |  |  |
*C2151 | H | Veripath Guiding Cath | 2151 |  |  |  |
*C2152 | H | Cordis Vista Brite Tip Cath | 2152 |  |  |  |
*C2153 | H | Bard Viking Cath | 2153 |  |  |  |
*C2200 | H | Arrow-Trerotola PTD Cath | 2200 |  |  |  |
*C2300 | H | Varisource Stnd Catheters | 2300 |  |  |  |
*C2597 | H | CliniCath/kit 16/18 sgl/dbl | 2597 |  |  |  |
*C2598 | H | CliniCath 18/20/24G-single | 2598 |  |  |  |
*C2599 | H | CliniCath 16/18G-double | 2599 |  |  |  |
C2600D | E | Gold Probe Catheter |  |  |  |  |
*C2601 | H | Bard DL Ureteral Cath | 2601 |  |  |  |
*C2602 | H | Vitesse Laser Cath 1.4/1.7mm | 2602 |  |  |  |
*C2603 | H | Vitesse Laser Cath 2.0mm | 2603 |  |  |  |
*C2604 | H | Vitesse E Laser Cath 2.0mm | 2604 |  |  |  |
*C2605 | H | Extreme Laser Catheter | 2605 |  |  |  |
*C2606 | H | SpineCath XL Catheter | 2606 |  |  |  |
*C2607 | H | SpineCath Intradiscal Cath | 2607 |  |  |  |
*C2608 | H | Scimed 6F Wiseguide Cath | 2608 |  |  |  |
*C2609 | H | Flexima Bil Drainage Cath | 2609 |  |  |  |
*C2610 | H | FlexTipPlus Intraspinal Cath | 2610 |  |  |  |
*C2611 | H | AlgoLine Intraspinal Cath | 2611 |  |  |  |
*C2612 | H | InDura Catheter | 2612 |  |  |  |
*C2676 | E | Response CV Catheter |  |  |  |  |
*C2700 | H | MycroPhylax Plus SC defib | 2700 |  |  |  |
*C2701 | H | Phylax XM SC defib | 2701 |  |  |  |
*C2702 | H | Ventak Prizm 2 VR Defib | 2702 |  |  |  |
*C2703 | H | Ventak Prizm VR HE Defib | 2703 |  |  |  |
*C2704 | H | Ventak Mini IV+ Defib | 2704 |  |  |  |
*C2801 | H | Defender IV DR 612 DC defib | 2801 |  |  |  |
*C2802 | H | Phylax AV DC defib | 2802 |  |  |  |
*C2803 | H | Ventak Prizm DR HE Defib | 2803 |  |  |  |
*C2804 | H | Ventak Prizm 2 DR Defib | 2804 |  |  |  |
*C2805 | H | Jewel AF 7250 Defib | 2805 |  |  |  |
*C2806 | H | GEM VR 7227 Defib | 2806 |  |  |  |
*C2807 | H | Contak CD 1823 | 2807 |  |  |  |
*C2808 | H | Contak TR 1241 | 2808 |  |  |  |
*C3001 | H | Kainox SL/RV defib lead | 3001 |  |  |  |
*C3002 | H | EasyTrak Defib Lead | 3002 |  |  |  |
*C3003 | H | Endotak SQ Array XP lead | 3003 |  |  |  |
*C3004 | H | Intervene Defib Lead | 3004 |  |  |  |
*C3400 | H | Siltex Spectrum,Contour Prof | 3400 |  |  |  |
*C3401 | H | Saline-Filled Spectrum | 3401 |  |  |  |
*C3500 | H | Mentor Alpha I Inf Penile Pros | 3500 |  |  |  |
*C3510 | H | AMS 800 Urinary Pros | 3510 |  |  |  |
*C3551 | H | Choice/PT Graphix/Luge/Trooper | 3551 |  |  |  |
*C3552 | H | Hi-Torque Whisper | 3552 |  |  |  |
*C3553 | H | Cordis guidewires | 3553 |  |  |  |
*C3554 | H | Jindo guidewire | 3554 |  |  |  |
*C3555 | H | Wholey Hi-Torque Plus GW | 3555 |  |  |  |
*C3556 | H | Wave/FlowWire Guidewire | 3556 |  |  |  |
*C3557 | H | HyTek guidewire | 3557 |  |  |  |
*C3800 | H | SynchroMed EL infusion pump | 3800 |  |  |  |
*C3801 | H | Arrow/MicroJect PCA Sys | 3801 |  |  |  |
*C3851 | H | Elastic UV IOL AA-4203T/TF/TL | 3851 |  |  |  |
*C4000 | H | Opus G 4621, 4624 SC pmkr | 4000 |  |  |  |
*C4001 | H | Opus S 4121/4124 SC pmkr | 4001 |  |  |  |
*C4002 | H | Talent 113 SC pmkr | 4002 |  |  |  |
*C4003 | H | Kairos SR SC pmkr | 4003 |  |  |  |
*C4004 | H | Actros SR, Actros SLR SC pmkr | 4004 |  |  |  |
*C4005 | H | Philos SR/SR-B SC pmkr | 4005 |  |  |  |
*C4006 | H | Pulsar Max II SR pmkr | 4006 |  |  |  |
*C4007 | H | Marathon SR pmkr | 4007 |  |  |  |
*C4008 | H | Discovery II SSI pmkr | 4008 |  |  |  |
*C4009 | H | Discovery II SR pmkr | 4009 |  |  |  |
*C4300 | H | Integrity AFx DR 5342 pmkr | 4300 |  |  |  |
*C4301 | H | Integrity AFx DR 5346 pmkr | 4301 |  |  |  |
*C4302 | H | Affinity VDR 5430 pmkr | 4302 |  |  |  |
*C4303 | H | Brio 112 DC pmkr | 4303 |  |  |  |
*C4304 | H | Brio 212, Talent 213/223 DC pmkr | 4304 |  |  |  |
*C4305 | H | Brio 222 DC pmkr | 4305 |  |  |  |
*C4306 | H | Brio 220 DC pmkr | 4306 |  |  |  |
*C4307 | H | Kairos DR DC pmkr | 4307 |  |  |  |
*C4308 | H | Inos2, Inos2+ DC pmkr | 4308 |  |  |  |
*C4309 | H | Actros DR,D,DR-A,SLR DC pmkr | 4309 |  |  |  |
*C4310 | H | Actros DR-B DC pmkr | 4310 |  |  |  |
*C4311 | H | Philos DR/DR-B/SLR DC pmkr | 4311 |  |  |  |
*C4312 | H | Pulsar Max II DR pmkr | 4312 |  |  |  |
*C4313 | H | Marathon DR pmkr | 4313 |  |  |  |
*C4314 | H | Momentum DR pmkr | 4314 |  |  |  |
*C4315 | H | Selection AFm pmkr | 4315 |  |  |  |
*C4316 | H | Discovery II DR | 4316 |  |  |  |
*C4317 | H | Discovery II DDD | 4317 |  |  |  |
*C4600 | H | Snynox,Polyrox,Elox,Retrox | 4600 |  |  |  |
*C4601 | E | Aescula LV pmkr lead |  |  |  |  |
*C4602 | H | Tendril SDX, 1488K pmkr lead | 4602 |  |  |  |
*C4603 | H | Oscor/Flexion pmkr lead | 4603 |  |  |  |
*C4604 | H | CrystallineActFix,CapsureFix | 4604 |  |  |  |
*C4605 | H | CapSure Epi pmkr lead | 4605 |  |  |  |
*C4606 | H | Flextend pmkr lead | 4606 |  |  |  |
*C4607 | H | FinelineII/EZ, ThinlineII/EZ | 4607 |  |  |  |
*C5000 | H | BX Velocity w/Hepacoat | 5000 |  |  |  |
*C5001 | H | Memotherm Bil Stent, sm, med | 5001 |  |  |  |
*C5002 | H | Memotherm Bil Stent, large | 5002 |  |  |  |
*C5003 | H | Memotherm Bil Stent, x-large | 5003 |  |  |  |
*C5004 | H | PalmazCorinthian IQ Bil Stent | 5004 |  |  |  |
*C5005 | H | PalmazCorinthian IQ Trans/Bil | 5005 |  |  |  |
*C5006 | H | PalmazTrans Bil Stent Sys-Med | 5006 |  |  |  |
*C5007 | H | PalmazTrans XL Bil Stent--40mm | 5007 |  |  |  |
*C5008 | H | PalmazTrans XL Bil Stent--50mm | 5008 |  |  |  |
*C5009 | H | Stent, biliary, Biliary VistaFlex Stent | 5009 |  |  |  |
*C5010 | H | Rapid Exchange Bil Stent Sys | 5010 |  |  |  |
*C5011 | H | Stent, biliary, IntraStent, IntraStent LP | 5011 |  |  |  |
*C5012 | H | Stent, biliary, IntraStent DoubleStrut LD | 5012 |  |  |  |
*C5013 | H | IntraStent DoubleStrut, XS | 5013 |  |  |  |
*C5014 | H | AVE Bridge Stent Sys-10/17/28 | 5014 |  |  |  |
*C5015 | H | AVE/X3 Bridge Sys, 40-100 | 5015 |  |  |  |
*C5016 | H | Biliary stent single use cov | 5016 |  |  |  |
*C5017 | H | WallstentRP Bil--20/40/60/68mm | 5017 |  |  |  |
*C5018 | H | WallstentRP Bil--80/94mm | 5018 |  |  |  |
*C5019 | H | Flexima Bil Stent Sys | 5019 |  |  |  |
*C5020 | H | Smart Nitinol Stent--20mm | 5020 |  |  |  |
*C5021 | H | Smart Nitinol Stent--40/60mm | 5021 |  |  |  |
*C5022 | H | Smart Nitinol Stent--80mm | 5022 |  |  |  |
*C5023 | H | BX Velocity Stent--8/13mm | 5023 |  |  |  |
*C5024 | H | BX Velocity Stent--18mm | 5024 |  |  |  |
*C5025 | H | BX Velocity Stent--23mm | 5025 |  |  |  |
*C5026 | H | BX Velocity Stent--28/33mm | 5026 |  |  |  |
*C5027 | H | BX Velocity w/Hep--8/13mm | 5027 |  |  |  |
*C5028 | H | BX Velocity w/Hep--18mm | 5028 |  |  |  |
*C5029 | H | BX Velocity w/Hep--23mm | 5029 |  |  |  |
*C5030 | H | Stent, coronary, S660 9/12mm | 5030 |  |  |  |
*C5031 | H | Stent,coronary, S660 15/18mm | 5031 |  |  |  |
*C5032 | H | Stent,coronary, S660 24/30mm | 5032 |  |  |  |
*C5033 | H | Niroyal Stent Sys, 9mm | 5033 |  |  |  |
*C5034 | H | Niroyal Stent Sys, 12/15mm | 5034 |  |  |  |
*C5035 | H | Niroyal Stent Sys, 18mm | 5035 |  |  |  |
*C5036 | H | Niroyal Stent Sys, 25mm | 5036 |  |  |  |
*C5037 | H | Niroyal Stent Sys, 31mm | 5037 |  |  |  |
*C5038 | H | BX Velocity Stent w/Raptor | 5038 |  |  |  |
*C5039 | H | IntraCoil Periph Stent--40mm | 5039 |  |  |  |
*C5040 | H | IntraCoil Periph Stent--60mm | 5040 |  |  |  |
*C5041 | H | BeStent Over-the-Wire 24/30mm | 5041 |  |  |  |
*C5042 | H | BeStent Over-the-Wire 18mm | 5042 |  |  |  |
*C5043 | H | BeStent Over-the-Wire 15mm | 5043 |  |  |  |
*C5044 | H | BeStent Over-the-Wire 9/12mm | 5044 |  |  |  |
*C5045 | H | Multilink Tetra Cor Stent Sys | 5045 |  |  |  |
*C5046 | H | Radius 20mm cor stent | 5046 |  |  |  |
*C5047 | H | Niroyal Elite Cor Stent Sys | 5047 |  |  |  |
*C5048 | H | GR II Coronary Stent | 5048 |  |  |  |
*C5130 | H | Wilson-Cook Colonic Z-Stent | 5130 |  |  |  |
*C5131 | H | Bard Colorectal Stent-60mm | 5131 |  |  |  |
*C5132 | H | Bard Colorectal Stent-80mm | 5132 |  |  |  |
*C5133 | H | Bard Colorectal Stent-100mm | 5133 |  |  |  |
*C5134 | H | Enteral Wallstent--90mm | 5134 |  |  |  |
*C5279 | H | Contour/Percuflex Stent | 5279 |  |  |  |
*C5280 | H | Inlay Dbl Ureteral Stent | 5280 |  |  |  |
*C5281 | H | Wallgraft Trach Sys 70mm | 5281 |  |  |  |
*C5282 | H | Wallgraft Trach Sys 20/30/50 | 5282 |  |  |  |
*C5283 | H | Wallstent/RP TIPS --80mm | 5283 |  |  |  |
*C5284 | H | Wallstent TrachUltraFlex | 5284 |  |  |  |
*C5600 | H | Closure dev, VasoSeal ES | 5600 |  |  |  |
*C5601 | H | VasoSeal Model 1000 | 5601 |  |  |  |
*C6001 | H | Composix Mesh 8/21 in | 6001 |  |  |  |
*C6002 | H | Composix Mesh 32 in | 6002 |  |  |  |
*C6003 | H | Composix Mesh 48 in | 6003 |  |  |  |
*C6004 | H | Composix Mesh 80 in | 6004 |  |  |  |
*C6005 | H | Composix Mesh 140 in | 6005 |  |  |  |
*C6006 | H | Composix Mesh 144 in | 6006 |  |  |  |
*C6012 | H | Pelvicol Collagen 8/14 sq cm | 6012 |  |  |  |
*C6013 | H | Pelvicol Collagen 21/24/28 sq cm | 6013 |  |  |  |
*C6014 | H | Pelvicol Collagen 40sq cm | 6014 |  |  |  |
*C6015 | H | Pelvicol Collagen 48 sq cm | 6015 |  |  |  |
*C6016 | H | Pelvicol Collagen 96 sq cm | 6016 |  |  |  |
*C6017 | H | Gore-Tex DualMesh 75/96 sq cm | 6017 |  |  |  |
*C6018 | H | Gore-Tex DualMesh 150 sq cm | 6018 |  |  |  |
*C6019 | H | Gore-Tex DualMesh 285 sq cm | 6019 |  |  |  |
*C6020 | H | Gore-Tex DualMesh 432 sq cm | 6020 |  |  |  |
*C6021 | H | Gore-Tex DualMesh 600 sq cm | 6021 |  |  |  |
*C6022 | H | Gore-Tex DualMesh 884 sq cm | 6022 |  |  |  |
*C6023 | H | Gore-TexPlus 1mm, 75/96sq cm | 6023 |  |  |  |
*C6024 | H | Gore-TexPlus 1mm, 150sq cm | 6024 |  |  |  |
*C6025 | H | Gore-TexPlus 1mm, 285sq cm | 6025 |  |  |  |
*C6026 | H | Gore-TexPlus 1mm, 432sq cm | 6026 |  |  |  |
*C6027 | H | Gore-TexPlus 1mm, 600sq cm | 6027 |  |  |  |
*C6028 | H | Gore-TexPlus 1mm, 884 sq cm | 6028 |  |  |  |
*C6029 | H | Gore-TexPlus 2mm, 150 sq cm | 6029 |  |  |  |
*C6030 | H | Gore-TexPlus 2mm, 285 sq cm | 6030 |  |  |  |
*C6031 | H | Gore-TexPlus 2mm, 432 sq cm | 6031 |  |  |  |
*C6032 | H | Gore-TexPlus 2mm, 600 sq cm | 6032 |  |  |  |
*C6033 | H | Gore-TexPlus 2mm, 884 sq cm | 6033 |  |  |  |
*C6034 | H | Bard ePTFE: 15 sq cm--2mm | 6034 |  |  |  |
*C6035 | H | Bard ePTFE150sqcm-1mm,75-2mm | 6035 |  |  |  |
*C6036 | H | Bard ePTFE: 50/75sqcm-1,2mm | 6036 |  |  |  |
*C6037 | H | Bard ePTFE: 300sq cm-1,2mm | 6037 |  |  |  |
*C6038 | H | Bard ePTFE: 600sq cm-1mm | 6038 |  |  |  |
*C6039 | H | Bard ePTFE: 884sq cm-1mm | 6039 |  |  |  |
*C6040 | H | Bard ePTFE: 600sq cm-2mm | 6040 |  |  |  |
*C6041 | H | Bard ePTFE: 884sq cm-2mm | 6041 |  |  |  |
*C6050 | H | Female Sling Sys w/wo Matrl | 6050 |  |  |  |
*C6051 | H | Stratasis Urethral Sling, 20/40 cm | 6051 |  |  |  |
*C6052 | H | Stratasis Urethral Sling, 60 cm | 6052 |  |  |  |
*C6053 | H | Surgisis Soft Graft | 6053 |  |  |  |
*C6054 | H | Surgisis Enhanced Graft | 6054 |  |  |  |
*C6055 | H | Surgisis Enhanced Tissue | 6055 |  |  |  |
*C6056 | H | Surgisis Soft Tissue Graft | 6056 |  |  |  |
*C6057 | H | Surgisis Hernia Graft | 6057 |  |  |  |
*C6058 | H | SurgiPro Hernia Plug, med/lg | 6058 |  |  |  |
*C6080 | H | Male Sling Sys w/wo Matrl | 6080 |  |  |  |
*C6200 | H | Exxcel Sft ePTFE vas graft | 6200 |  |  |  |
*C6201 | H | Impra Venaflo--10/20cm | 6201 |  |  |  |
*C6202 | H | Impra Venaflo-30/40cm | 6202 |  |  |  |
*C6203 | H | Impra Venaflo-50cm,vt45 | 6203 |  |  |  |
*C6204 | H | Impra Venaflo-stepped | 6204 |  |  |  |
*C6205 | H | Impra Carboflo--10cm | 6205 |  |  |  |
*C6206 | H | Impra Carboflo--20cm | 6206 |  |  |  |
*C6207 | H | Impra Carboflo--30/35/40cm | 6207 |  |  |  |
*C6208 | H | Impra Carboflo--40/50cm | 6208 |  |  |  |
*C6209 | H | Impra Carboflo--ctrflex | 6209 |  |  |  |
*C6210 | H | Exxcel ePTFE vas graft | 6210 |  |  |  |
*C6300 | H | Vanguard III Endovas Graft | 6300 |  |  |  |
*C6500 | H | Preface Guiding Sheath | 6500 |  |  |  |
*C6501 | H | Sheath, Soft Tip Sheaths | 6501 |  |  |  |
*C6502 | H | Perry Exchange Dilator | 6502 |  |  |  |
*C6525 | H | Spectranetics Laser Sheath | 6525 |  |  |  |
*C6600 | H | Micro Litho Flex Probes | 6600 |  |  |  |
*C6650 | H | Fast-Cath Guiding Introducer | 6650 |  |  |  |
*C6651 | H | Seal-AwayGuiding Introducer | 6651 |  |  |  |
*C6652 | H | Bard Excalibur Introducer | 6652 |  |  |  |
*C6700 | H | Focal Seal-L | 6700 |  |  |  |
*C8099 | H | Spectranetics Lead Lock Dev | 8099 |  |  |  |
C8100 | H | Adhesion barrier, ADCON-L | 8100 |  |  |  |
*C8102 | H | SurgiVision Esoph Coil | 8102 |  |  |  |
C8103D | E | Capio Capturing Dev |  |  |  |  |
*C8500 | X | Atherocath-GTO | 0991 |  | $1,278.59 |  | $255.72
*C8501 | X | Pacemaker, single chamber, Vigor SSI | 0992 |  | $1,790.03 |  | $358.01
*C8502 | X | Livewire Steerable EP Cath | 0988 |  | $383.58 |  | $76.72
*C8503 | X | SyncroMed Vas Cath | 0988 |  | $383.58 |  | $76.72
*C8504 | X | VasoSeal Hemostasis Dev | 0987 |  | $127.86 |  | $25.57
*C8505 | X | SynchroMed Infusion Pump | 0997 |  | $8,182.98 |  | $1,636.60
*C8506 | X | Pmkr leads 4057M,4058M | 0990 |  | $895.01 |  | $179.00
*C8507 | X | 6721L/M/S,6939 lead | 0990 |  | $895.01 |  | $179.00
*C8508 | X | Lead, defibrillator, CapSure 4965 | 0990 |  | $895.01 |  | $179.00
*C8509 | X | Transvene 6933/6937 lead | 0990 |  | $895.01 |  | $179.00
*C8510 | X | Lead, defibrillator, DP-3238 | 0990 |  | $895.01 |  | $179.00
*C8511 | X | Lead, defibrillator, EndoTak DSP | 0996 |  | $6,137.23 |  | $1,227.45
*C8512 | X | On-Point,Pisces-Quad lead | 0990 |  | $895.01 |  | $179.00
*C8513 | X | Pisces,Resume II lead | 0990 |  | $895.01 |  | $179.00
*C8514 | X | Dura II Penile Pros | 0993 |  | $2,557.18 |  | $511.44
*C8515D | X | Alpha 1 narrow base prosthesis | 0995 |  | $4,602.92 |  | $920.58
*C8516 | X | Mentor Acu-Form/Mal Pros | 0992 |  | $1,790.03 |  | $358.01
*C8517D | X | Ambicor prosthesis | 0994 |  | $3,580.05 |  | $716.01
*C8518 | X | Pacemaker, dual chamber, Vigor DDD | 0994 |  | $3,580.05 |  | $716.01
*C8519 | X | Pacemaker, dual chamber, Vista DDD | 0994 |  | $3,580.05 |  | $716.01
*C8520 | X | Pacemaker, single chamber, Legacy II S | 0992 |  | $1,790.03 |  | $358.01
*C8521 | X | Medtronic Mattrix rcvr/trmr | 0997 |  | $8,182.98 |  | $1,636.60
*C8522 | X | Palmaz Bal Stent | 0990 |  | $895.01 |  | $179.00
*C8523 | X | Wallstent Trans Bil | 0991 |  | $1,278.59 |  | $255.72
*C8524 | X | Wallstent Esop | 0991 |  | $1,278.59 |  | $255.72
*C8525 | X | Esoph stent--double | 0992 |  | $1,790.03 |  | $358.01
*C8526 | X | OptiPlast XT 5F PTA Cath | 0987 |  | $127.86 |  | $25.57
*C8528 | X | MS Classique Balloon Dilation Catheter | 0987 |  | $127.86 |  | $25.57
*C8529 | X | Crista Cath II Def 20-Pole | 0990 |  | $895.01 |  | $179.00
*C8530 | X | Gel-Filled/Smooth Mammary Pros | 0989 |  | $639.30 |  | $127.86
*C8531 | X | Wilson-Cook Esoph Z-Stent | 0989 |  | $639.30 |  | $127.86
*C8532 | X | UltraFlex Esoph | 0991 |  | $1,278.59 |  | $255.72
*C8533 | X | SynchroMed Vas Cath 8700A/V | 0988 |  | $383.58 |  | $76.72
*C8534 | X | AMS Malleable 650 Penile Prosthesis | 0992 |  | $1,790.03 |  | $358.01
*C8535 | X | Za/Spiral Z Bil Stent | 0990 |  | $895.01 |  | $179.00
*C8536 | X | Esoph Z Metal Stent | 0991 |  | $1,278.59 |  | $255.72
*C8539 | X | Quantum Dil Balloon | 0987 |  | $127.86 |  | $25.57
*C8540 | X | Flex-EZ Bal Dilator | 0988 |  | $383.58 |  | $76.72
*C8541 | X | Carson/Passprt Dil | 0988 |  | $383.58 |  | $76.72
*C8542 | X | UrethraMax Dil Cath | 0987 |  | $127.86 |  | $25.57
*C8543 | X | Amplatz Renal Dil | 0987 |  | $127.86 |  | $25.57
*C8550 | X | Livewire 5F, 7F EP Cath | 0989 |  | $639.30 |  | $127.86
*C8551 | X | Livewire 7F Duo-Decapolar | 0990 |  | $895.01 |  | $179.00
*C8552 | X | Santuro Fixed Curve Cath | 0989 |  | $639.30 |  | $127.86
*C8597 | X | Wisdom ST guidewire | 0987 |  | $127.86 |  | $25.57
*C8598 | X | SV Guidewire-5/8/14cm | 0987 |  | $127.86 |  | $25.57
*C8599 | X | Stabilizer XS guidewire | 0987 |  | $127.86 |  | $25.57
*C8600 | X | Shinobi Plus guidewire | 0987 |  | $127.86 |  | $25.57
*C8650 | X | XL Check-Flo Introducer | 0987 |  | $127.86 |  | $25.57
*C8724 | X | Octad neuro lead | 0991 |  | $1,278.59 |  | $255.72
*C8725 | X | SymMix neuro lead | 0990 |  | $895.01 |  | $179.00
*C8748 | X | Endotak SQ Patch defib lead | 0990 |  | $895.01 |  | $179.00
*C8749 | X | Endotak SQ Array defib lead | 0993 |  | $2,557.18 |  | $511.44
*C8750 | X | Unity VDDR dc pmkr | 0994 |  | $3,580.05 |  | $716.01
*C8775 | X | 2188 Cor pmkr lead | 0991 |  | $1,278.59 |  | $255.72
*C8776 | X | Innomedica pmkr lead | 0990 |  | $895.01 |  | $179.00
*C8777 | X | Unipass pmkr lead | 0991 |  | $1,278.59 |  | $255.72
*C8800 | X | Lg Palmaz Bil Stent | 0990 |  | $895.01 |  | $179.00
*C8801 | X | Gianturco Bil Z Stent | 0989 |  | $639.30 |  | $127.86
*C8802 | X | Oasis Stent Intro Sys | 0987 |  | $127.86 |  | $25.57
*C8830 | X | Gianturco-Roubin Cor Snt | 0991 |  | $1,278.59 |  | $255.72
*C8890 | X | Perfluoron, per 2ml | 0987 |  | $127.86 |  | $25.57
*C8891 | X | Perfluoron, per 5/7ml | 0988 |  | $383.58 |  | $76.72
C9000 | G | Na chromate Cr51, per 0.25mCi | 9000 |  | $259.36 |  | $34.75
C9001 | J | Linezolid inj, 200mg | 9001 |  | $34.14 |  | $4.57
C9002 | J | Tenecteplase, 50mg/vial | 9002 |  | $2,612.50 |  | $350.08
C9003 | J | Palivizumab, per 50mg | 9003 |  | $664.49 |  | $89.04
C9004 | J | Gemtuzumab ozogamicin inj,5mg | 9004 |  | $1,929.69 |  | $258.58
C9005 | G | reteplase, 18.1 mg (one single-use vial) | 9005 |  | $1,306.25 |  | $175.04
C9006 | J | Tacrolimus inj, per 5mg (1 amp) | 9006 |  | $109.83 |  | $14.72
C9007 | G | Baclofen Intrathecal kit-1amp | 9007 |  | $79.80 |  | $10.69
C9008 | G | Baclofen Refill Kit--500mcg | 9008 |  | $222.30 |  | $29.79
C9009 | G | Baclofen Refill Kit--2000mcg | 9009 |  | $467.40 |  | $62.63
C9010 | G | Baclofen Refill Kit--4000mcg | 9010 |  | $820.80 |  | $109.99
C9011 | G | Caffeine Citrate, inj, 1ml | 9011 |  | $12.22 |  | $1.57
*C9100 | G | Iodinated I-131 Albumin | 9100 |  | $246.05 |  | $30.02
C9102 | G | 51 Na chromate, 50uCi | 9102 |  | $216.60 |  | $26.43
C9103 | G | Na Iothalamate I-125, 10uCi | 9103 |  | $12.27 |  | $1.50
C9104 | G | Anti-thymocyte globulin,25mg | 9104 |  | $251.75 |  | $33.73
C9105 | G | Hep B imm glob, per 1 ml | 9105 |  | $152.00 |  | $20.37
C9106 | J | Sirolimus 1mg/ml | 9106 |  | $6.51 |  | $.87
*C9107 | J | Tinzaparin sodium, 2ml vial | 9107 |  | $159.60 |  | $20.50
C9108 | G | Thyrotropin alfa, 1.1 mg | 9108 |  | $494.00 |  | $70.72
C9109 | G | Tirofiban hcl, 6.25 mg | 9109 |  | $199.50 |  | $28.56
C9500 | K | Platelets, irradiated, each unit | 9500 | 1.77 | $87.97 |  | $17.59
C9501 | K | Platelets, pheresis, each unit | 9501 | 9.69 | $480.75 |  | $96.15
C9502 | K | Platelets, pheresis, irradiated, each unit | 9502 | 10.52 | $521.66 |  | $104.33
C9503 | K | Fresh frzn plasma, donor retested, unit | 9503 | 1.65 | $81.83 |  | $16.37
C9504 | K | Red blood cells, deglycerolized, unit | 9504 | 4.35 | $215.83 |  | $43.17
C9505 | K | Red blood cells, irradiated, each unit | 9505 | 2.58 | $127.86 |  | $25.57
*C9700 | T | Water-induced thermotherapy | 0977 | 23.20 | $1,150.63 |  | $230.13
*C9701 | S | Stretta Procedure | 0976 | 18.05 | $895.21 |  | $179.04
*C9702 | S | Chkmate Intra Brachytx Sys | 0981 | 46.40 | $2,301.26 |  | $460.25
D0120 | E | Periodic oral evaluation |  |  |  |  |
D0140 | E | Limit oral eval problm focus |  |  |  |  |
D0150 | S | Comprehensve oral evaluation | 0330 | 1.51 | $74.89 | $14.98 | $14.98
D0160 | E | Extensv oral eval prob focus |  |  |  |  |
D0170 | E | Re-eval,est pt,problem focus |  |  |  |  |
D0210 | E | Intraor complete film series |  |  |  |  |
D0220 | E | Intraoral periapical first f |  |  |  |  |
D0230 | E | Intraoral periapical ea add |  |  |  |  |
D0240 | S | Intraoral occlusal film | 0330 | 1.51 | $74.89 | $14.98 | $14.98
D0250 | S | Extraoral first film | 0330 | 1.51 | $74.89 | $14.98 | $14.98
D0260 | S | Extraoral ea additional film | 0330 | 1.51 | $74.89 | $14.98 | $14.98
D0270 | S | Dental bitewing single film | 0330 | 1.51 | $74.89 | $14.98 | $14.98
D0272 | S | Dental bitewings two films | 0330 | 1.51 | $74.89 | $14.98 | $14.98
D0274 | S | Dental bitewings four films | 0330 | 1.51 | $74.89 | $14.98 | $14.98
D0277 | S | Vert bitewings-sev to eight | 0330 | 1.51 | $74.89 | $14.98 | $14.98
D0290 | E | Dental film skull/facial bon |  |  |  |  |
D0310 | E | Dental saliography |  |  |  |  |
D0320 | E | Dental tmj arthrogram incl i |  |  |  |  |
D0321 | E | Dental other tmj films |  |  |  |  |
D0322 | E | Dental tomographic survey |  |  |  |  |
D0330 | E | Dental panoramic film |  |  |  |  |
D0340 | E | Dental cephalometric film |  |  |  |  |
D0350 | E | Oral/facial images |  |  |  |  |
D0415 | E | Bacteriologic study |  |  |  |  |
D0425 | E | Caries susceptibility test |  |  |  |  |
D0460 | S | Pulp vitality test | 0330 | 1.51 | $74.89 | $14.98 | $14.98
D0470 | E | Diagnostic casts |  |  |  |  |
D0472 | S | Gross exam, prep & report | 0330 | 1.51 | $74.89 | $14.98 | $14.98
D0473 | S | Micro exam, prep & report | 0330 | 1.51 | $74.89 | $14.98 | $14.98
D0474 | S | Micro w exam of surg margins | 0330 | 1.51 | $74.89 | $14.98 | $14.98
D0480 | S | Cytopath smear prep & report | 0330 | 1.51 | $74.89 | $14.98 | $14.98
D0501 | S | Histopathologic examinations | 0330 | 1.51 | $74.89 | $14.98 | $14.98
D0502 | S | Other oral pathology procedu | 0330 | 1.51 | $74.89 | $14.98 | $14.98
D0999 | S | Unspecified diagnostic proce | 0330 | 1.51 | $74.89 | $14.98 | $14.98
D1110 | E | Dental prophylaxis adult |  |  |  |  |
D1120 | E | Dental prophylaxis child |  |  |  |  |
D1201 | E | Topical fluor w prophy child |  |  |  |  |
D1203 | E | Topical fluor w/o prophy chi |  |  |  |  |
D1204 | E | Topical fluor w/o prophy adu |  |  |  |  |
D1205 | E | Topical fluoride w/ prophy a |  |  |  |  |
D1310 | E | Nutri counsel-control caries |  |  |  |  |
D1320 | E | Tobacco counseling |  |  |  |  |
D1330 | E | Oral hygiene instruction |  |  |  |  |
D1351 | E | Dental sealant per tooth |  |  |  |  |
D1510 | S | Space maintainer fxd unilat | 0330 | 1.51 | $74.89 | $14.98 | $14.98
D1515 | S | Fixed bilat space maintainer | 0330 | 1.51 | $74.89 | $14.98 | $14.98
D1520 | S | Remove unilat space maintain | 0330 | 1.51 | $74.89 | $14.98 | $14.98
D1525 | S | Remove bilat space maintain | 0330 | 1.51 | $74.89 | $14.98 | $14.98
D1550 | S | Recement space maintainer | 0330 | 1.51 | $74.89 | $14.98 | $14.98
D2110 | E | Amalgam one surface primary |  |  |  |  |
D2120 | E | Amalgam two surfaces primary |  |  |  |  |
D2130 | E | Amalgam three surfaces prima |  |  |  |  |
D2131 | E | Amalgam four/more surf prima |  |  |  |  |
D2140 | E | Amalgam one surface permanen |  |  |  |  |
D2150 | E | Amalgam two surfaces permane |  |  |  |  |
D2160 | E | Amalgam three surfaces perma |  |  |  |  |
D2161 | E | Amalgam 4 or > surfaces perm |  |  |  |  |
D2330 | E | Resin one surface-anterior |  |  |  |  |
D2331 | E | Resin two surfaces-anterior |  |  |  |  |
D2332 | E | Resin three surfaces-anterio |  |  |  |  |
D2335 | E | Resin 4/> surf or w incis an |  |  |  |  |
D2336 | E | Composite resin crown |  |  |  |  |
D2337 | E | Compo resin crown ant-perm |  |  |  |  |
D2380 | E | Resin one surf poster primar |  |  |  |  |
D2381 | E | Resin two surf poster primar |  |  |  |  |
D2382 | E | Resin three/more surf post p |  |  |  |  |
D2385 | E | Resin one surf poster perman |  |  |  |  |
D2386 | E | Resin two surf poster perman |  |  |  |  |
D2387 | E | Resin three/more surf post p |  |  |  |  |
D2388 | E | Resin four/more, post perm |  |  |  |  |
D2410 | E | Dental gold foil one surface |  |  |  |  |
D2420 | E | Dental gold foil two surface |  |  |  |  |
D2430 | E | Dental gold foil three surfa |  |  |  |  |
D2510 | E | Dental inlay metalic 1 surf |  |  |  |  |
D2520 | E | Dental inlay metallic 2 surf |  |  |  |  |
D2530 | E | Dental inlay metl 3/more sur |  |  |  |  |
D2542 | E | Dental onlay metallic 2 surf |  |  |  |  |
D2543 | E | Dental onlay metallic 3 surf |  |  |  |  |
D2544 | E | Dental onlay metl 4/more sur |  |  |  |  |
D2610 | E | Inlay porcelain/ceramic 1 su |  |  |  |  |
D2620 | E | Inlay porcelain/ceramic 2 su |  |  |  |  |
D2630 | E | Dental onlay porc 3/more sur |  |  |  |  |
D2642 | E | Dental onlay porcelin 2 surf |  |  |  |  |
D2643 | E | Dental onlay porcelin 3 surf |  |  |  |  |
D2644 | E | Dental onlay porc 4/more sur |  |  |  |  |
D2650 | E | Inlay composite/resin one su |  |  |  |  |
D2651 | E | Inlay composite/resin two su |  |  |  |  |
D2652 | E | Dental inlay resin 3/mre sur |  |  |  |  |
D2662 | E | Dental onlay resin 2 surface |  |  |  |  |
D2663 | E | Dental onlay resin 3 surface |  |  |  |  |
D2664 | E | Dental onlay resin 4/mre sur |  |  |  |  |
D2710 | E | Crown resin laboratory |  |  |  |  |
D2720 | E | Crown resin w/ high noble me |  |  |  |  |
D2721 | E | Crown resin w/ base metal |  |  |  |  |
D2722 | E | Crown resin w/ noble metal |  |  |  |  |
D2740 | E | Crown porcelain/ceramic subs |  |  |  |  |
D2750 | E | Crown porcelain w/ h noble m |  |  |  |  |
D2751 | E | Crown porcelain fused base m |  |  |  |  |
D2752 | E | Crown porcelain w/ noble met |  |  |  |  |
D2780 | E | Crown 3/4 cast hi noble met |  |  |  |  |
D2781 | E | Crown 3/4 cast base metal |  |  |  |  |
D2782 | E | Crown 3/4 cast noble metal |  |  |  |  |
D2783 | E | Crown 3/4 porcelain/ceramic |  |  |  |  |
D2790 | E | Crown full cast high noble m |  |  |  |  |
D2791 | E | Crown full cast base metal |  |  |  |  |
D2792 | E | Crown full cast noble metal |  |  |  |  |
D2799 | E | Provisional crown |  |  |  |  |
D2910 | E | Dental recement inlay |  |  |  |  |
D2920 | E | Dental recement crown |  |  |  |  |
D2930 | E | Prefab stnlss steel crwn pri |  |  |  |  |
D2931 | E | Prefab stnlss steel crown pe |  |  |  |  |
D2932 | E | Prefabricated resin crown |  |  |  |  |
D2933 | E | Prefab stainless steel crown |  |  |  |  |
D2940 | E | Dental sedative filling |  |  |  |  |
D2950 | E | Core build-up incl any pins |  |  |  |  |
D2951 | E | Tooth pin retention |  |  |  |  |
D2952 | E | Post and core cast + crown |  |  |  |  |
D2953 | E | Each addtnl cast post |  |  |  |  |
D2954 | E | Prefab post/core + crown |  |  |  |  |
D2955 | E | Post removal |  |  |  |  |
D2957 | E | Each addtnl prefab post |  |  |  |  |
D2960 | E | Laminate labial veneer |  |  |  |  |
D2961 | E | Lab labial veneer resin |  |  |  |  |
D2962 | E | Lab labial veneer porcelain |  |  |  |  |
D2970 | S | Temporary- fractured tooth | 0330 | 1.51 | $74.89 | $14.98 | $14.98
D2980 | E | Crown repair |  |  |  |  |
D2999 | S | Dental unspec restorative pr | 0330 | 1.51 | $74.89 | $14.98 | $14.98
D3110 | E | Pulp cap direct |  |  |  |  |
D3120 | E | Pulp cap indirect |  |  |  |  |
D3220 | E | Therapeutic pulpotomy |  |  |  |  |
D3221 | E | Gross pulpal debridement |  |  |  |  |
D3230 | E | Pulpal therapy anterior prim |  |  |  |  |
D3240 | E | Pulpal therapy posterior pri |  |  |  |  |
D3310 | E | Anterior |  |  |  |  |
D3320 | E | Root canal therapy 2 canals |  |  |  |  |
D3330 | E | Root canal therapy 3 canals |  |  |  |  |
D3331 | E | Non-surg tx root canal obs |  |  |  |  |
D3332 | E | Incomplete endodontic tx |  |  |  |  |
D3333 | E | Internal root repair |  |  |  |  |
D3346 | E | Retreat root canal anterior |  |  |  |  |
D3347 | E | Retreat root canal bicuspid |  |  |  |  |
D3348 | E | Retreat root canal molar |  |  |  |  |
D3351 | E | Apexification/recalc initial |  |  |  |  |
D3352 | E | Apexification/recalc interim |  |  |  |  |
D3353 | E | Apexification/recalc final |  |  |  |  |
D3410 | E | Apicoect/perirad surg anter |  |  |  |  |
D3421 | E | Root surgery bicuspid |  |  |  |  |
D3425 | E | Root surgery molar |  |  |  |  |
D3426 | E | Root surgery ea add root |  |  |  |  |
D3430 | E | Retrograde filling |  |  |  |  |
D3450 | E | Root amputation |  |  |  |  |
D3460 | S | Endodontic endosseous implan | 0330 | 1.51 | $74.89 | $14.98 | $14.98
D3470 | E | Intentional replantation |  |  |  |  |
D3910 | E | Isolation- tooth w rubb dam |  |  |  |  |
D3920 | E | Tooth splitting |  |  |  |  |
D3950 | E | Canal prep/fitting of dowel |  |  |  |  |
D3999 | S | Endodontic procedure | 0330 | 1.51 | $74.89 | $14.98 | $14.98
D4210 | E | Gingivectomy/plasty per quad |  |  |  |  |
D4211 | E | Gingivectomy/plasty per toot |  |  |  |  |
D4220 | E | Gingival curettage per quadr |  |  |  |  |
D4240 | E | Gingival flap proc w/ planin |  |  |  |  |
D4245 | E | Apically positioned flap |  |  |  |  |
D4249 | E | Crown lengthen hard tissue |  |  |  |  |
D4260 | S | Osseous surgery per quadrant | 0330 | 1.51 | $74.89 | $14.98 | $14.98
D4263 | S | Bone replce graft first site | 0330 | 1.51 | $74.89 | $14.98 | $14.98
D4264 | S | Bone replce graft each add | 0330 | 1.51 | $74.89 | $14.98 | $14.98
D4266 | E | Guided tiss regen resorble |  |  |  |  |
D4267 | E | Guided tiss regen nonresorb |  |  |  |  |
D4268 | S | Surgical revision procedure | 0330 | 1.51 | $74.89 | $14.98 | $14.98
D4270 | S | Pedicle soft tissue graft pr | 0330 | 1.51 | $74.89 | $14.98 | $14.98
D4271 | S | Free soft tissue graft proc | 0330 | 1.51 | $74.89 | $14.98 | $14.98
D4273 | S | Subepithelial tissue graft | 0330 | 1.51 | $74.89 | $14.98 | $14.98
D4274 | E | Distal/proximal wedge proc |  |  |  |  |
D4320 | E | Provision splnt intracoronal |  |  |  |  |
D4321 | E | Provisional splint extracoro |  |  |  |  |
D4341 | E | Periodontal scaling & root |  |  |  |  |
D4355 | S | Full mouth debridement | 0330 | 1.51 | $74.89 | $14.98 | $14.98
D4381 | S | Localized chemo delivery | 0330 | 1.51 | $74.89 | $14.98 | $14.98
D4910 | E | Periodontal maint procedures |  |  |  |  |
D4920 | E | Unscheduled dressing change |  |  |  |  |
D4999 | E | Unspecified periodontal proc |  |  |  |  |
D5110 | E | Dentures complete maxillary |  |  |  |  |
D5120 | E | Dentures complete mandible |  |  |  |  |
D5130 | E | Dentures immediat maxillary |  |  |  |  |
D5140 | E | Dentures immediat mandible |  |  |  |  |
D5211 | E | Dentures maxill part resin |  |  |  |  |
D5212 | E | Dentures mand part resin |  |  |  |  |
D5213 | E | Dentures maxill part metal |  |  |  |  |
D5214 | E | Dentures mandibl part metal |  |  |  |  |
D5281 | E | Removable partial denture |  |  |  |  |
D5410 | E | Dentures adjust cmplt maxil |  |  |  |  |
D5411 | E | Dentures adjust cmplt mand |  |  |  |  |
D5421 | E | Dentures adjust part maxill |  |  |  |  |
D5422 | E | Dentures adjust part mandbl |  |  |  |  |
D5510 | E | Dentur repr broken compl bas |  |  |  |  |
D5520 | E | Replace denture teeth complt |  |  |  |  |
D5610 | E | Dentures repair resin base |  |  |  |  |
D5620 | E | Rep part denture cast frame |  |  |  |  |
D5630 | E | Rep partial denture clasp |  |  |  |  |
D5640 | E | Replace part denture teeth |  |  |  |  |
D5650 | E | Add tooth to partial denture |  |  |  |  |
D5660 | E | Add clasp to partial denture |  |  |  |  |
D5710 | E | Dentures rebase cmplt maxil |  |  |  |  |
D5711 | E | Dentures rebase cmplt mand |  |  |  |  |
D5720 | E | Dentures rebase part maxill |  |  |  |  |
D5721 | E | Dentures rebase part mandbl |  |  |  |  |
D5730 | E | Denture reln cmplt maxil ch |  |  |  |  |
D5731 | E | Denture reln cmplt mand chr |  |  |  |  |
D5740 | E | Denture reln part maxil chr |  |  |  |  |
D5741 | E | Denture reln part mand chr |  |  |  |  |
D5750 | E | Denture reln cmplt max lab |  |  |  |  |
D5751 | E | Denture reln cmplt mand lab |  |  |  |  |
D5760 | E | Denture reln part maxil lab |  |  |  |  |
D5761 | E | Denture reln part mand lab |  |  |  |  |
D5810 | E | Denture interm cmplt maxill |  |  |  |  |
D5811 | E | Denture interm cmplt mandbl |  |  |  |  |
D5820 | E | Denture interm part maxill |  |  |  |  |
D5821 | E | Denture interm part mandbl |  |  |  |  |
D5850 | E | Denture tiss conditn maxill |  |  |  |  |
D5851 | E | Denture tiss condtin mandbl |  |  |  |  |
D5860 | E | Overdenture complete |  |  |  |  |
D5861 | E | Overdenture partial |  |  |  |  |
D5862 | E | Precision attachment |  |  |  |  |
D5867 | E | Replacement of precision att |  |  |  |  |
D5875 | E | Prosthesis modification |  |  |  |  |
D5899 | E | Removable prosthodontic proc |  |  |  |  |
D5911 | S | Facial moulage sectional | 0330 | 1.51 | $74.89 | $14.98 | $14.98
D5912 | S | Facial moulage complete | 0330 | 1.51 | $74.89 | $14.98 | $14.98
D5913 | E | Nasal prosthesis |  |  |  |  |
D5914 | E | Auricular prosthesis |  |  |  |  |
D5915 | E | Orbital prosthesis |  |  |  |  |
D5916 | E | Ocular prosthesis |  |  |  |  |
D5919 | E | Facial prosthesis |  |  |  |  |
D5922 | E | Nasal septal prosthesis |  |  |  |  |
D5923 | E | Ocular prosthesis interim |  |  |  |  |
D5924 | E | Cranial prosthesis |  |  |  |  |
D5925 | E | Facial augmentation implant |  |  |  |  |
D5926 | E | Replacement nasal prosthesis |  |  |  |  |
D5927 | E | Auricular replacement |  |  |  |  |
D5928 | E | Orbital replacement |  |  |  |  |
D5929 | E | Facial replacement |  |  |  |  |
D5931 | E | Surgical obturator |  |  |  |  |
D5932 | E | Postsurgical obturator |  |  |  |  |
D5933 | E | Refitting of obturator |  |  |  |  |
D5934 | E | Mandibular flange prosthesis |  |  |  |  |
D5935 | E | Mandibular denture prosth |  |  |  |  |
D5936 | E | Temp obturator prosthesis |  |  |  |  |
D5937 | E | Trismus appliance |  |  |  |  |
D5951 | E | Feeding aid |  |  |  |  |
D5952 | E | Pediatric speech aid |  |  |  |  |
D5953 | E | Adult speech aid |  |  |  |  |
D5954 | E | Superimposed prosthesis |  |  |  |  |
D5955 | E | Palatal lift prosthesis |  |  |  |  |
D5958 | E | Intraoral con def inter plt |  |  |  |  |
D5959 | E | Intraoral con def mod palat |  |  |  |  |
D5960 | E | Modify speech aid prosthesis |  |  |  |  |
D5982 | E | Surgical stent |  |  |  |  |
D5983 | S | Radiation applicator | 0330 | 1.51 | $74.89 | $14.98 | $14.98
D5984 | S | Radiation shield | 0330 | 1.51 | $74.89 | $14.98 | $14.98
D5985 | S | Radiation cone locator | 0330 | 1.51 | $74.89 | $14.98 | $14.98
D5986 | E | Fluoride applicator |  |  |  |  |
D5987 | S | Commissure splint | 0330 | 1.51 | $74.89 | $14.98 | $14.98
D5988 | E | Surgical splint |  |  |  |  |
D5999 | E | Maxillofacial prosthesis |  |  |  |  |
D6010 | E | Odontics endosteal implant |  |  |  |  |
D6020 | E | Odontics abutment placement |  |  |  |  |
D6040 | E | Odontics eposteal implant |  |  |  |  |
D6050 | E | Odontics transosteal implnt |  |  |  |  |
D6055 | E | Implant connecting bar |  |  |  |  |
D6056 | E | Prefabricated abutment |  |  |  |  |
D6057 | E | Custom abutment |  |  |  |  |
D6058 | E | Abutment supported crown |  |  |  |  |
D6059 | E | Abutment supported mtl crown |  |  |  |  |
D6060 | E | Abutment supported mtl crown |  |  |  |  |
D6061 | E | Abutment supported mtl crown |  |  |  |  |
D6062 | E | Abutment supported mtl crown |  |  |  |  |
D6063 | E | Abutment supported mtl crown |  |  |  |  |
D6064 | E | Abutment supported mtl crown |  |  |  |  |
D6065 | E | Implant supported crown |  |  |  |  |
D6066 | E | Implant supported mtl crown |  |  |  |  |
D6067 | E | Implant supported mtl crown |  |  |  |  |
D6068 | E | Abutment supported retainer |  |  |  |  |
D6069 | E | Abutment supported retainer |  |  |  |  |
D6070 | E | Abutment supported retainer |  |  |  |  |
D6071 | E | Abutment supported retainer |  |  |  |  |
D6072 | E | Abutment supported retainer |  |  |  |  |
D6073 | E | Abutment supported retainer |  |  |  |  |
D6074 | E | Abutment supported retainer |  |  |  |  |
D6075 | E | Implant supported retainer |  |  |  |  |
D6076 | E | Implant supported retainer |  |  |  |  |
D6077 | E | Implant supported retainer |  |  |  |  |
D6078 | E | Implnt/abut suprtd fixd dent |  |  |  |  |
D6079 | E | Implnt/abut suprtd fixd dent |  |  |  |  |
D6080 | E | Implant maintenance |  |  |  |  |
D6090 | E | Repair implant |  |  |  |  |
D6095 | E | Odontics repr abutment |  |  |  |  |
D6100 | E | Removal of implant |  |  |  |  |
D6199 | E | Implant procedure |  |  |  |  |
D6210 | E | Prosthodont high noble metal |  |  |  |  |
D6211 | E | Bridge base metal cast |  |  |  |  |
D6212 | E | Bridge noble metal cast |  |  |  |  |
D6240 | E | Bridge porcelain high noble |  |  |  |  |
D6241 | E | Bridge porcelain base metal |  |  |  |  |
D6242 | E | Bridge porcelain nobel metal |  |  |  |  |
D6245 | E | Bridge porcelain/ceramic |  |  |  |  |
D6250 | E | Bridge resin w/high noble |  |  |  |  |
D6251 | E | Bridge resin base metal |  |  |  |  |
D6252 | E | Bridge resin w/noble metal |  |  |  |  |
D6519 | E | Inlay/onlay porce/ceramic |  |  |  |  |
D6520 | E | Dental retainer two surfaces |  |  |  |  |
D6530 | E | Retainer metallic 3+ surface |  |  |  |  |
D6543 | E | Dental retainr onlay 3 surf |  |  |  |  |
D6544 | E | Dental retainr onlay 4/more |  |  |  |  |
D6545 | E | Dental retainr cast metl |  |  |  |  |
D6548 | E | Porcelain/ceramic retainer |  |  |  |  |
D6720 | E | Retain crown resin w hi nble |  |  |  |  |
D6721 | E | Crown resin w/base metal |  |  |  |  |
D6722 | E | Crown resin w/noble metal |  |  |  |  |
D6740 | E | Crown porcelain/ceramic |  |  |  |  |
D6750 | E | Crown porcelain high noble |  |  |  |  |
D6751 | E | Crown porcelain base metal |  |  |  |  |
D6752 | E | Crown porcelain noble metal |  |  |  |  |
D6780 | E | Crown 3/4 high noble metal |  |  |  |  |
D6781 | E | Crown 3/4 cast based metal |  |  |  |  |
D6782 | E | Crown 3/4 cast noble metal |  |  |  |  |
D6783 | E | Crown 3/4 porcelain/ceramic |  |  |  |  |
D6790 | E | Crown full high noble metal |  |  |  |  |
D6791 | E | Crown full base metal cast |  |  |  |  |
D6792 | E | Crown full noble metal cast |  |  |  |  |
D6920 | S | Dental connector bar | 0330 | 1.51 | $74.89 | $14.98 | $14.98
D6930 | E | Dental recement bridge |  |  |  |  |
D6940 | E | Stress breaker |  |  |  |  |
D6950 | E | Precision attachment |  |  |  |  |
D6970 | E | Post & core plus retainer |  |  |  |  |
D6971 | E | Cast post bridge retainer |  |  |  |  |
D6972 | E | Prefab post & core plus reta |  |  |  |  |
D6973 | E | Core build up for retainer |  |  |  |  |
D6975 | E | Coping metal |  |  |  |  |
D6976 | E | Each addtnl cast post |  |  |  |  |
D6977 | E | Each addtl prefab post |  |  |  |  |
D6980 | E | Bridge repair |  |  |  |  |
D6999 | E | Fixed prosthodontic proc |  |  |  |  |
D7110 | S | Oral surgery single tooth | 0330 | 1.51 | $74.89 | $14.98 | $14.98
D7120 | S | Each add tooth extraction | 0330 | 1.51 | $74.89 | $14.98 | $14.98
D7130 | S | Tooth root removal | 0330 | 1.51 | $74.89 | $14.98 | $14.98
D7210 | S | Rem imp tooth w mucoper flp | 0330 | 1.51 | $74.89 | $14.98 | $14.98
D7220 | S | Impact tooth remov soft tiss | 0330 | 1.51 | $74.89 | $14.98 | $14.98
D7230 | S | Impact tooth remov part bony | 0330 | 1.51 | $74.89 | $14.98 | $14.98
D7240 | S | Impact tooth remov comp bony | 0330 | 1.51 | $74.89 | $14.98 | $14.98
D7241 | S | Impact tooth rem bony w/comp | 0330 | 1.51 | $74.89 | $14.98 | $14.98
D7250 | S | Tooth root removal | 0330 | 1.51 | $74.89 | $14.98 | $14.98
D7260 | S | Oral antral fistula closure | 0330 | 1.51 | $74.89 | $14.98 | $14.98
D7270 | E | Tooth reimplantation |  |  |  |  |
D7272 | E | Tooth transplantation |  |  |  |  |
D7280 | E | Exposure impact tooth orthod |  |  |  |  |
D7281 | E | Exposure tooth aid eruption |  |  |  |  |
D7285 | E | Biopsy of oral tissue hard |  |  |  |  |
D7286 | E | Biopsy of oral tissue soft |  |  |  |  |
D7290 | E | Repositioning of teeth |  |  |  |  |
D7291 | S | Transseptal fiberotomy | 0330 | 1.51 | $74.89 | $14.98 | $14.98
D7310 | E | Alveoplasty w/ extraction |  |  |  |  |
D7320 | E | Alveoplasty w/o extraction |  |  |  |  |
D7340 | E | Vestibuloplasty ridge extens |  |  |  |  |
D7350 | E | Vestibuloplasty exten graft |  |  |  |  |
D7410 | E | Rad exc lesion up to 1.25 cm |  |  |  |  |
D7420 | E | Lesion > 1.25 cm |  |  |  |  |
D7430 | E | Exc benign tumor to 1.25 cm |  |  |  |  |
D7431 | E | Benign tumor exc > 1.25 cm |  |  |  |  |
D7440 | E | Malig tumor exc to 1.25 cm |  |  |  |  |
D7441 | E | Malig tumor > 1.25 cm |  |  |  |  |
D7450 | E | Rem odontogen cyst to 1.25cm |  |  |  |  |
D7451 | E | Rem odontogen cyst > 1.25 cm |  |  |  |  |
D7460 | E | Rem nonodonto cyst to 1.25cm |  |  |  |  |
D7461 | E | Rem nonodonto cyst > 1.25 cm |  |  |  |  |
D7465 | E | Lesion destruction |  |  |  |  |
D7471 | E | Rem exostosis any site |  |  |  |  |
D7480 | E | Partial ostectomy |  |  |  |  |
D7490 | E | Mandible resection |  |  |  |  |
D7510 | E | I&d absc intraoral soft tiss |  |  |  |  |
D7520 | E | I&d abscess extraoral |  |  |  |  |
D7530 | E | Removal fb skin/areolar tiss |  |  |  |  |
D7540 | E | Removal of fb reaction |  |  |  |  |
D7550 | E | Removal of sloughed off bone |  |  |  |  |
D7560 | E | Maxillary sinusotomy |  |  |  |  |
D7610 | E | Maxilla open reduct simple |  |  |  |  |
D7620 | E | Clsd reduct simpl maxilla fx |  |  |  |  |
D7630 | E | Open red simpl mandible fx |  |  |  |  |
D7640 | E | Clsd red simpl mandible fx |  |  |  |  |
D7650 | E | Open red simp malar/zygom fx |  |  |  |  |
D7660 | E | Clsd red simp malar/zygom fx |  |  |  |  |
D7670 | E | Closd rductn splint alveolus |  |  |  |  |
D7680 | E | Reduct simple facial bone fx |  |  |  |  |
D7710 | E | Maxilla open reduct compound |  |  |  |  |
D7720 | E | Clsd reduct compd maxilla fx |  |  |  |  |
D7730 | E | Open reduct compd mandble fx |  |  |  |  |
D7740 | E | Clsd reduct compd mandble fx |  |  |  |  |
D7750 | E | Open red comp malar/zygma fx |  |  |  |  |
D7760 | E | Clsd red comp malar/zygma fx |  |  |  |  |
D7770 | E | Open reduc compd alveolus fx |  |  |  |  |
D7780 | E | Reduct compnd facial bone fx |  |  |  |  |
D7810 | E | Tmj open reduct-dislocation |  |  |  |  |
D7820 | E | Closed tmp manipulation |  |  |  |  |
D7830 | E | Tmj manipulation under anest |  |  |  |  |
D7840 | E | Removal of tmj condyle |  |  |  |  |
D7850 | E | Tmj meniscectomy |  |  |  |  |
D7852 | E | Tmj repair of joint disc |  |  |  |  |
D7854 | E | Tmj excisn of joint membrane |  |  |  |  |
D7856 | E | Tmj cutting of a muscle |  |  |  |  |
D7858 | E | Tmj reconstruction |  |  |  |  |
D7860 | E | Tmj cutting into joint |  |  |  |  |
D7865 | E | Tmj reshaping components |  |  |  |  |
D7870 | E | Tmj aspiration joint fluid |  |  |  |  |
D7871 | E | Lysis + lavage w catheters |  |  |  |  |
D7872 | E | Tmj diagnostic arthroscopy |  |  |  |  |
D7873 | E | Tmj arthroscopy lysis adhesn |  |  |  |  |
D7874 | E | Tmj arthroscopy disc reposit |  |  |  |  |
D7875 | E | Tmj arthroscopy synovectomy |  |  |  |  |
D7876 | E | Tmj arthroscopy discectomy |  |  |  |  |
D7877 | E | Tmj arthroscopy debridement |  |  |  |  |
D7880 | E | Occlusal orthotic appliance |  |  |  |  |
D7899 | E | Tmj unspecified therapy |  |  |  |  |
D7910 | E | Dent sutur recent wnd to 5cm |  |  |  |  |
D7911 | E | Dental suture wound to 5 cm |  |  |  |  |
D7912 | E | Suture complicate wnd > 5 cm |  |  |  |  |
D7920 | E | Dental skin graft |  |  |  |  |
D7940 | S | Reshaping bone orthognathic | 0330 | 1.51 | $74.89 | $14.98 | $14.98
D7941 | E | Bone cutting ramus closed |  |  |  |  |
D7943 | E | Cutting ramus open w/graft |  |  |  |  |
D7944 | E | Bone cutting segmented |  |  |  |  |
D7945 | E | Bone cutting body mandible |  |  |  |  |
D7946 | E | Reconstruction maxilla total |  |  |  |  |
D7947 | E | Reconstruct maxilla segment |  |  |  |  |
D7948 | E | Reconstruct midface no graft |  |  |  |  |
D7949 | E | Reconstruct midface w/graft |  |  |  |  |
D7950 | E | Mandible graft |  |  |  |  |
D7955 | E | Repair maxillofacial defects |  |  |  |  |
D7960 | E | Frenulectomy/frenulotomy |  |  |  |  |
D7970 | E | Excision hyperplastic tissue |  |  |  |  |
D7971 | E | Excision pericoronal gingiva |  |  |  |  |
D7980 | E | Sialolithotomy |  |  |  |  |
D7981 | E | Excision of salivary gland |  |  |  |  |
D7982 | E | Sialodochoplasty |  |  |  |  |
D7983 | E | Closure of salivary fistula |  |  |  |  |
D7990 | E | Emergency tracheotomy |  |  |  |  |
D7991 | E | Dental coronoidectomy |  |  |  |  |
D7995 | E | Synthetic graft facial bones |  |  |  |  |
D7996 | E | Implant mandible for augment |  |  |  |  |
D7997 | E | Appliance removal |  |  |  |  |
D7999 | E | Oral surgery procedure |  |  |  |  |
D8010 | E | Limited dental tx primary |  |  |  |  |
D8020 | E | Limited dental tx transition |  |  |  |  |
D8030 | E | Limited dental tx adolescent |  |  |  |  |
D8040 | E | Limited dental tx adult |  |  |  |  |
D8050 | E | Intercep dental tx primary |  |  |  |  |
D8060 | E | Intercep dental tx transitn |  |  |  |  |
D8070 | E | Compre dental tx transition |  |  |  |  |
D8080 | E | Compre dental tx adolescent |  |  |  |  |
D8090 | E | Compre dental tx adult |  |  |  |  |
D8210 | E | Orthodontic rem appliance tx |  |  |  |  |
D8220 | E | Fixed appliance therapy habt |  |  |  |  |
D8660 | E | Preorthodontic tx visit |  |  |  |  |
D8670 | E | Periodic orthodontc tx visit |  |  |  |  |
D8680 | E | Orthodontic retention |  |  |  |  |
D8690 | E | Orthodontic treatment |  |  |  |  |
D8691 | E | Repair ortho appliance |  |  |  |  |
D8692 | E | Replacement retainer |  |  |  |  |
D8999 | E | Orthodontic procedure |  |  |  |  |
D9110 | N | Tx dental pain minor proc |  |  |  |  |
D9210 | E | Dent anesthesia w/o surgery |  |  |  |  |
D9211 | E | Regional block anesthesia |  |  |  |  |
D9212 | E | Trigeminal block anesthesia |  |  |  |  |
D9215 | E | Local anesthesia |  |  |  |  |
D9220 | E | General anesthesia |  |  |  |  |
D9221 | E | General anesthesia ea ad 15m |  |  |  |  |
D9230 | N | Analgesia |  |  |  |  |
D9241 | E | Intravenous sedation |  |  |  |  |
D9242 | E | IV sedation ea ad 30 m |  |  |  |  |
D9248 | N | Sedation (non-iv) |  |  |  |  |
D9310 | E | Dental consultation |  |  |  |  |
D9410 | E | Dental house call |  |  |  |  |
D9420 | E | Hospital call |  |  |  |  |
D9430 | E | Office visit during hours |  |  |  |  |
D9440 | E | Office visit after hours |  |  |  |  |
D9610 | E | Dent therapeutic drug inject |  |  |  |  |
D9630 | S | Other drugs/medicaments | 0330 | 1.51 | $74.89 | $14.98 | $14.98
D9910 | E | Dent appl desensitizing med |  |  |  |  |
D9911 | E | Appl desensitizing resin |  |  |  |  |
D9920 | E | Behavior management |  |  |  |  |
D9930 | S | Treatment of complications | 0330 | 1.51 | $74.89 | $14.98 | $14.98
D9940 | S | Dental occlusal guard | 0330 | 1.51 | $74.89 | $14.98 | $14.98
D9941 | E | Fabrication athletic guard |  |  |  |  |
D9950 | S | Occlusion analysis | 0330 | 1.51 | $74.89 | $14.98 | $14.98
D9951 | S | Limited occlusal adjustment | 0330 | 1.51 | $74.89 | $14.98 | $14.98
D9952 | S | Complete occlusal adjustment | 0330 | 1.51 | $74.89 | $14.98 | $14.98
D9970 | E | Enamel microabrasion |  |  |  |  |
D9971 | E | Odontoplasty 1-2 teeth |  |  |  |  |
D9972 | E | Extrnl bleaching per arch |  |  |  |  |
D9973 | E | Extrnl bleaching per tooth |  |  |  |  |
D9974 | E | Intrnl bleaching per tooth |  |  |  |  |
D9999 | E | Adjunctive procedure |  |  |  |  |
E0100 | A | Cane adjust/fixed with tip |  |  |  |  |
E0105 | A | Cane adjust/fixed quad/3 pro |  |  |  |  |
E0110 | A | Crutch forearm pair |  |  |  |  |
E0111 | A | Crutch forearm each |  |  |  |  |
E0112 | A | Crutch underarm pair wood |  |  |  |  |
E0113 | A | Crutch underarm each wood |  |  |  |  |
E0114 | A | Crutch underarm pair no wood |  |  |  |  |
E0116 | A | Crutch underarm each no wood |  |  |  |  |
E0130 | A | Walker rigid adjust/fixed ht |  |  |  |  |
E0135 | A | Walker folding adjust/fixed |  |  |  |  |
E0141 | A | Rigid walker wheeled wo seat |  |  |  |  |
E0142 | A | Walker rigid wheeled with se |  |  |  |  |
E0143 | A | Walker folding wheeled w/o s |  |  |  |  |
E0144 | A | Enclosed walker w rear seat |  |  |  |  |
E0145 | A | Walker whled seat/crutch att |  |  |  |  |
E0146 | A | Folding walker wheels w seat |  |  |  |  |
E0147 | A | Walker variable wheel resist |  |  |  |  |
E0148 | A | Heavyduty walker no wheels |  |  |  |  |
E0149 | A | Heavy duty wheeled walker |  |  |  |  |
E0153 | A | Forearm crutch platform atta |  |  |  |  |
E0154 | A | Walker platform attachment |  |  |  |  |
E0155 | A | Walker wheel attachment,pair |  |  |  |  |
E0156 | A | Walker seat attachment |  |  |  |  |
E0157 | A | Walker crutch attachment |  |  |  |  |
E0158 | A | Walker leg extenders set of4 |  |  |  |  |
E0159 | A | Brake for wheeled walker |  |  |  |  |
E0160 | A | Sitz type bath or equipment |  |  |  |  |
E0161 | A | Sitz bath/equipment w/faucet |  |  |  |  |
E0162 | A | Sitz bath chair |  |  |  |  |
E0163 | A | Commode chair stationry fxd |  |  |  |  |
E0164 | A | Commode chair mobile fixed a |  |  |  |  |
E0165 | A | Commode chair stationry det |  |  |  |  |
E0166 | A | Commode chair mobile detach |  |  |  |  |
E0167 | A | Commode chair pail or pan |  |  |  |  |
E0168 | A | Heavyduty/wide commode chair |  |  |  |  |
E0175 | A | Commode chair foot rest |  |  |  |  |
E0176 | A | Air pressre pad/cushion nonp |  |  |  |  |
E0177 | A | Water press pad/cushion nonp |  |  |  |  |
E0178 | A | Gel pressre pad/cushion nonp |  |  |  |  |
E0179 | A | Dry pressre pad/cushion nonp |  |  |  |  |
E0180 | A | Press pad alternating w pump |  |  |  |  |
E0181 | A | Press pad alternating w/ pum |  |  |  |  |
E0182 | A | Pressure pad alternating pum |  |  |  |  |
E0184 | A | Dry pressure mattress |  |  |  |  |
E0185 | A | Gel pressure mattress pad |  |  |  |  |
E0186 | A | Air pressure mattress |  |  |  |  |
E0187 | A | Water pressure mattress |  |  |  |  |
E0188 | E | Synthetic sheepskin pad |  |  |  |  |
E0189 | E | Lambswool sheepskin pad |  |  |  |  |
E0191 | A | Protector heel or elbow |  |  |  |  |
E0192 | A | Pad wheelchr low press/posit |  |  |  |  |
E0193 | A | Powered air flotation bed |  |  |  |  |
E0194 | A | Air fluidized bed |  |  |  |  |
E0196 | A | Gel pressure mattress |  |  |  |  |
E0197 | A | Air pressure pad for mattres |  |  |  |  |
E0198 | A | Water pressure pad for mattr |  |  |  |  |
E0199 | A | Dry pressure pad for mattres |  |  |  |  |
E0200 | A | Heat lamp without stand |  |  |  |  |
E0202 | A | Phototherapy light w/ photom |  |  |  |  |
E0205 | A | Heat lamp with stand |  |  |  |  |
E0210 | A | Electric heat pad standard |  |  |  |  |
E0215 | A | Electric heat pad moist |  |  |  |  |
E0217 | A | Water circ heat pad w pump |  |  |  |  |
E0218 | E | Water circ cold pad w pump |  |  |  |  |
E0220 | A | Hot water bottle |  |  |  |  |
E0225 | A | Hydrocollator unit |  |  |  |  |
E0230 | A | Ice cap or collar |  |  |  |  |
E0235 | A | Paraffin bath unit portable |  |  |  |  |
E0236 | A | Pump for water circulating p |  |  |  |  |
E0238 | A | Heat pad non-electric moist |  |  |  |  |
E0239 | A | Hydrocollator unit portable |  |  |  |  |
E0241 | E | Bath tub wall rail |  |  |  |  |
E0242 | E | Bath tub rail floor |  |  |  |  |
E0243 | E | Toilet rail |  |  |  |  |
E0244 | E | Toilet seat raised |  |  |  |  |
E0245 | E | Tub stool or bench |  |  |  |  |
E0246 | E | Transfer tub rail attachment |  |  |  |  |
E0249 | A | Pad water circulating heat u |  |  |  |  |
E0250 | A | Hosp bed fixed ht w/ mattres |  |  |  |  |
E0251 | A | Hosp bed fixd ht w/o mattres |  |  |  |  |
E0255 | A | Hospital bed var ht w/ mattr |  |  |  |  |
E0256 | A | Hospital bed var ht w/o matt |  |  |  |  |
E0260 | A | Hosp bed semi-electr w/ matt |  |  |  |  |
E0261 | A | Hosp bed semi-electr w/o mat |  |  |  |  |
E0265 | A | Hosp bed total electr w/ mat |  |  |  |  |
E0266 | A | Hosp bed total elec w/o matt |  |  |  |  |
E0270 | E | Hospital bed institutional t |  |  |  |  |
E0271 | A | Mattress innerspring |  |  |  |  |
E0272 | A | Mattress foam rubber |  |  |  |  |
E0273 | E | Bed board |  |  |  |  |
E0274 | E | Over-bed table |  |  |  |  |
E0275 | A | Bed pan standard |  |  |  |  |
E0276 | A | Bed pan fracture |  |  |  |  |
E0277 | A | Powered pres-redu air mattrs |  |  |  |  |
E0280 | A | Bed cradle |  |  |  |  |
E0290 | A | Hosp bed fx ht w/o rails w/m |  |  |  |  |
E0291 | A | Hosp bed fx ht w/o rail w/o |  |  |  |  |
E0292 | A | Hosp bed var ht w/o rail w/o |  |  |  |  |
E0293 | A | Hosp bed var ht w/o rail w/ |  |  |  |  |
E0294 | A | Hosp bed semi-elect w/ mattr |  |  |  |  |
E0295 | A | Hosp bed semi-elect w/o matt |  |  |  |  |
E0296 | A | Hosp bed total elect w/ matt |  |  |  |  |
E0297 | A | Hosp bed total elect w/o mat |  |  |  |  |
E0298 | A | Heavyduty/xtra wide hosp bed |  |  |  |  |
E0305 | A | Rails bed side half length |  |  |  |  |
E0310 | A | Rails bed side full length |  |  |  |  |
E0315 | E | Bed accessory brd/tbl/supprt |  |  |  |  |
E0325 | A | Urinal male jug-type |  |  |  |  |
E0326 | A | Urinal female jug-type |  |  |  |  |
E0350 | E | Control unit bowel system |  |  |  |  |
E0352 | E | Disposable pack w/bowel syst |  |  |  |  |
E0370 | E | Air elevator for heel |  |  |  |  |
E0371 | A | Nonpower mattress overlay |  |  |  |  |
E0372 | A | Powered air mattress overlay |  |  |  |  |
E0373 | A | Nonpowered pressure mattress |  |  |  |  |
E0424 | A | Stationary compressed gas O2 |  |  |  |  |
E0425 | E | Gas system stationary compre |  |  |  |  |
E0430 | E | Oxygen system gas portable |  |  |  |  |
E0431 | A | Portable gaseous O2 |  |  |  |  |
E0434 | A | Portable liquid O2 |  |  |  |  |
E0435 | E | Oxygen system liquid portabl |  |  |  |  |
E0439 | A | Stationary liquid O2 |  |  |  |  |
E0440 | E | Oxygen system liquid station |  |  |  |  |
E0441 | A | Oxygen contents gas per/unit |  |  |  |  |
E0442 | A | Oxygen contents liq per/unit |  |  |  |  |
E0443 | A | Port O2 contents gas/unit |  |  |  |  |
E0444 | A | Port O2 contents liq/unit |  |  |  |  |
E0450 | A | Volume vent stationary/porta |  |  |  |  |
E0455 | A | Oxygen tent excl croup/ped t |  |  |  |  |
E0457 | A | Chest shell |  |  |  |  |
E0459 | A | Chest wrap |  |  |  |  |
E0460 | A | Neg press vent portabl/statn |  |  |  |  |
E0462 | A | Rocking bed w/ or w/o side r |  |  |  |  |
E0480 | A | Percussor elect/pneum home m |  |  |  |  |
E0500 | A | Ippb all types |  |  |  |  |
E0550 | A | Humidif extens supple w ippb |  |  |  |  |
E0555 | A | Humidifier for use w/ regula |  |  |  |  |
E0560 | A | Humidifier supplemental w/ i |  |  |  |  |
E0565 | A | Compressor air power source |  |  |  |  |
E0570 | A | Nebulizer with compression |  |  |  |  |
E0571 | A | Aerosol compressor for svneb |  |  |  |  |
E0572 | A | Aerosol compressor adjust pr |  |  |  |  |
E0574 | A | Ultrasonic generator w svneb |  |  |  |  |
E0575 | A | Nebulizer ultrasonic |  |  |  |  |
E0580 | A | Nebulizer for use w/ regulat |  |  |  |  |
E0585 | A | Nebulizer w/ compressor & he |  |  |  |  |
E0590 | A | Dispensing fee dme neb drug |  |  |  |  |
E0600 | A | Suction pump portab hom modl |  |  |  |  |
E0601 | A | Cont airway pressure device |  |  |  |  |
E0602 | E | Breast pump |  |  |  |  |
E0605 | A | Vaporizer room type |  |  |  |  |
E0606 | A | Drainage board postural |  |  |  |  |
E0607 | A | Blood glucose monitor home |  |  |  |  |
E0608 | A | Apnea monitor |  |  |  |  |
E0609 | A | Blood gluc mon w/special fea |  |  |  |  |
E0610 | A | Pacemaker monitr audible/vis |  |  |  |  |
E0615 | A | Pacemaker monitr digital/vis |  |  |  |  |
E0616 | N | Cardiac event recorder |  |  |  |  |
E0617 | A | Automatic ext defibrillator |  |  |  |  |
E0621 | A | Patient lift sling or seat |  |  |  |  |
E0625 | E | Patient lift bathroom or toi |  |  |  |  |
E0627 | A | Seat lift incorp lift-chair |  |  |  |  |
E0628 | A | Seat lift for pt furn-electr |  |  |  |  |
E0629 | A | Seat lift for pt furn-non-el |  |  |  |  |
E0630 | A | Patient lift hydraulic |  |  |  |  |
E0635 | A | Patient lift electric |  |  |  |  |
E0650 | A | Pneuma compresor non-segment |  |  |  |  |
E0651 | A | Pneum compressor segmental |  |  |  |  |
E0652 | A | Pneum compres w/cal pressure |  |  |  |  |
E0655 | A | Pneumatic appliance half arm |  |  |  |  |
E0660 | A | Pneumatic appliance full leg |  |  |  |  |
E0665 | A | Pneumatic appliance full arm |  |  |  |  |
E0666 | A | Pneumatic appliance half leg |  |  |  |  |
E0667 | A | Seg pneumatic appl full leg |  |  |  |  |
E0668 | A | Seg pneumatic appl full arm |  |  |  |  |
E0669 | A | Seg pneumatic appli half leg |  |  |  |  |
E0671 | A | Pressure pneum appl full leg |  |  |  |  |
E0672 | A | Pressure pneum appl full arm |  |  |  |  |
E0673 | A | Pressure pneum appl half leg |  |  |  |  |
E0690 | A | Ultraviolet cabinet |  |  |  |  |
E0700 | E | Safety equipment |  |  |  |  |
E0710 | E | Restraints any type |  |  |  |  |
E0720 | A | Tens two lead |  |  |  |  |
E0730 | A | Tens four lead |  |  |  |  |
E0731 | A | Conductive garment for tens/ |  |  |  |  |
E0740 | E | Incontinence treatment systm |  |  |  |  |
E0744 | A | Neuromuscular stim for scoli |  |  |  |  |
E0745 | A | Neuromuscular stim for shock |  |  |  |  |
E0746 | E | Electromyograph biofeedback |  |  |  |  |
E0747 | A | Elec osteogen stim not spine |  |  |  |  |
E0748 | A | Elec osteogen stim spinal |  |  |  |  |
E0749 | N | Elec osteogen stim implanted |  |  |  |  |
E0751D | N | Pulse generator or receiver |  |  |  |  |
E0753 | N | Neurostimulator electrodes |  |  |  |  |
E0755 | E | Electronic salivary reflex s |  |  |  |  |
E0756 | N | Implantable pulse generator |  |  |  |  |
E0757 | N | Implantable RF receiver |  |  |  |  |
E0758 | A | External RF transmitter |  |  |  |  |
E0760 | E | Osteogen ultrasound stimltor |  |  |  |  |
E0765 | A | Nerve stimulator for tx n&v |  |  |  |  |
E0776 | A | Iv pole |  |  |  |  |
E0779 | A | Amb infusion pump mechanical |  |  |  |  |
E0780 | A | Mech amb infusion pump <8hrs |  |  |  |  |
E0781 | A | External ambulatory infus pu |  |  |  |  |
E0782 | N | Non-programble infusion pump |  |  |  |  |
E0783 | N | Programmable infusion pump |  |  |  |  |
E0784 | A | Ext amb infusn pump insulin |  |  |  |  |
E0785 | N | Replacement impl pump cathet |  |  |  |  |
E0786 | N | Implantable pump replacement |  |  |  |  |
E0791 | A | Parenteral infusion pump sta |  |  |  |  |
E0830 | A | Ambulatory traction device |  |  |  |  |
E0840 | A | Tract frame attach headboard |  |  |  |  |
E0850 | A | Traction stand free standing |  |  |  |  |
E0855 | A | Cervical traction equipment |  |  |  |  |
E0860 | A | Tract equip cervical tract |  |  |  |  |
E0870 | A | Tract frame attach footboard |  |  |  |  |
E0880 | A | Trac stand free stand extrem |  |  |  |  |
E0890 | A | Traction frame attach pelvic |  |  |  |  |
E0900 | A | Trac stand free stand pelvic |  |  |  |  |
E0910 | A | Trapeze bar attached to bed |  |  |  |  |
E0920 | A | Fracture frame attached to b |  |  |  |  |
E0930 | A | Fracture frame free standing |  |  |  |  |
E0935 | A | Exercise device passive moti |  |  |  |  |
E0940 | A | Trapeze bar free standing |  |  |  |  |
E0941 | A | Gravity assisted traction de |  |  |  |  |
E0942 | A | Cervical head harness/halter |  |  |  |  |
E0943 | A | Cervical pillow |  |  |  |  |
E0944 | A | Pelvic belt/harness/boot |  |  |  |  |
E0945 | A | Belt/harness extremity |  |  |  |  |
E0946 | A | Fracture frame dual w cross |  |  |  |  |
E0947 | A | Fracture frame attachmnts pe |  |  |  |  |
E0948 | A | Fracture frame attachmnts ce |  |  |  |  |
E0950 | E | Tray |  |  |  |  |
E0951 | E | Loop heel |  |  |  |  |
E0952 | E | Loop tie |  |  |  |  |
E0953 | E | Pneumatic tire |  |  |  |  |
E0954 | E | Wheelchair semi-pneumatic ca |  |  |  |  |
E0958 | E | Whlchr att- conv 1 arm drive |  |  |  |  |
E0959 | E | Amputee adapter |  |  |  |  |
E0961 | E | Wheelchair brake extension |  |  |  |  |
E0962 | A | Wheelchair 1 inch cushion |  |  |  |  |
E0963 | A | Wheelchair 2 inch cushion |  |  |  |  |
E0964 | A | Wheelchair 3 inch cushion |  |  |  |  |
E0965 | A | Wheelchair 4 inch cushion |  |  |  |  |
E0966 | E | Wheelchair head rest extensi |  |  |  |  |
E0967 | E | Wheelchair hand rims |  |  |  |  |
E0968 | E | Wheelchair commode seat |  |  |  |  |
E0969 | E | Wheelchair narrowing device |  |  |  |  |
E0970 | E | Wheelchair no. 2 footplates |  |  |  |  |
E0971 | E | Wheelchair anti-tipping devi |  |  |  |  |
E0972 | A | Transfer board or device |  |  |  |  |
E0973 | E | Wheelchair adjustabl height |  |  |  |  |
E0974 | E | Wheelchair grade-aid |  |  |  |  |
E0975 | E | Wheelchair reinforced seat u |  |  |  |  |
E0976 | E | Wheelchair reinforced back u |  |  |  |  |
E0977 | E | Wheelchair wedge cushion |  |  |  |  |
E0978 | E | Wheelchair belt w/airplane b |  |  |  |  |
E0979 | E | Wheelchair belt with velcro |  |  |  |  |
E0980 | E | Wheelchair safety vest |  |  |  |  |
E0990 | E | Whellchair elevating leg res |  |  |  |  |
E0991 | E | Wheelchair upholstry seat |  |  |  |  |
E0992 | E | Wheelchair solid seat insert |  |  |  |  |
E0993 | E | Wheelchair back upholstery |  |  |  |  |
E0994 | E | Wheelchair arm rest |  |  |  |  |
E0995 | E | Wheelchair calf rest |  |  |  |  |
E0996 | E | Wheelchair tire solid |  |  |  |  |
E0997 | E | Wheelchair caster w/ a fork |  |  |  |  |
E0998 | E | Wheelchair caster w/o a fork |  |  |  |  |
E0999 | E | Wheelchr pneumatic tire w/wh |  |  |  |  |
E1000 | E | Wheelchair tire pneumatic ca |  |  |  |  |
E1001 | E | Wheelchair wheel |  |  |  |  |
E1031 | A | Rollabout chair with casters |  |  |  |  |
E1035 | A | Patient transfer system |  |  |  |  |
E1050 | E | Whelchr fxd full length arms |  |  |  |  |
E1060 | E | Wheelchair detachable arms |  |  |  |  |
E1065 | E | Wheelchair power attachment |  |  |  |  |
E1066 | E | Wheelchair battery charger |  |  |  |  |
E1069 | E | Wheelchair deep cycle batter |  |  |  |  |
E1070 | E | Wheelchair detachable foot r |  |  |  |  |
E1083 | E | Hemi-wheelchair fixed arms |  |  |  |  |
E1084 | E | Hemi-wheelchair detachable a |  |  |  |  |
E1085 | E | Hemi-wheelchair fixed arms |  |  |  |  |
E1086 | E | Hemi-wheelchair detachable a |  |  |  |  |
E1087 | E | Wheelchair lightwt fixed arm |  |  |  |  |
E1088 | E | Wheelchair lightweight det a |  |  |  |  |
E1089 | E | Wheelchair lightwt fixed arm |  |  |  |  |
E1090 | E | Wheelchair lightweight det a |  |  |  |  |
E1091 | E | Wheelchair youth |  |  |  |  |
E1092 | E | Wheelchair wide w/ leg rests |  |  |  |  |
E1093 | E | Wheelchair wide w/ foot rest |  |  |  |  |
E1100 | E | Whchr s-recl fxd arm leg res |  |  |  |  |
E1110 | E | Wheelchair semi-recl detach |  |  |  |  |
E1130 | E | Whlchr stand fxd arm ft rest |  |  |  |  |
E1140 | E | Wheelchair standard detach a |  |  |  |  |
E1150 | E | Wheelchair standard w/ leg r |  |  |  |  |
E1160 | E | Wheelchair fixed arms |  |  |  |  |
E1170 | E | Whlchr ampu fxd arm leg rest |  |  |  |  |
E1171 | E | Wheelchair amputee w/o leg r |  |  |  |  |
E1172 | E | Wheelchair amputee detach ar |  |  |  |  |
E1180 | E | Wheelchair amputee w/ foot r |  |  |  |  |
E1190 | E | Wheelchair amputee w/ leg re |  |  |  |  |
E1195 | E | Wheelchair amputee heavy dut |  |  |  |  |
E1200 | E | Wheelchair amputee fixed arm |  |  |  |  |
E1210 | E | Whlchr moto ful arm leg rest |  |  |  |  |
E1211 | E | Wheelchair motorized w/ det |  |  |  |  |
E1212 | E | Wheelchair motorized w full |  |  |  |  |
E1213 | E | Wheelchair motorized w/ det |  |  |  |  |
E1220 | E | Whlchr special size/constrc |  |  |  |  |
E1221 | E | Wheelchair spec size w foot |  |  |  |  |
E1222 | E | Wheelchair spec size w/ leg |  |  |  |  |
E1223 | E | Wheelchair spec size w foot |  |  |  |  |
E1224 | E | Wheelchair spec size w/ leg |  |  |  |  |
E1225 | E | Wheelchair spec sz semi-recl |  |  |  |  |
E1226 | E | Wheelchair spec sz full-recl |  |  |  |  |
E1227 | E | Wheelchair spec sz spec ht a |  |  |  |  |
E1228 | E | Wheelchair spec sz spec ht b |  |  |  |  |
E1230 | A | Power operated vehicle |  |  |  |  |
E1240 | E | Whchr litwt det arm leg rest |  |  |  |  |
E1250 | E | Wheelchair lightwt fixed arm |  |  |  |  |
E1260 | E | Wheelchair lightwt foot rest |  |  |  |  |
E1270 | E | Wheelchair lightweight leg r |  |  |  |  |
E1280 | E | Whchr h-duty det arm leg res |  |  |  |  |
E1285 | E | Wheelchair heavy duty fixed |  |  |  |  |
E1290 | E | Wheelchair hvy duty detach a |  |  |  |  |
E1295 | E | Wheelchair heavy duty fixed |  |  |  |  |
E1296 | E | Wheelchair special seat heig |  |  |  |  |
E1297 | E | Wheelchair special seat dept |  |  |  |  |
E1298 | E | Wheelchair spec seat depth/w |  |  |  |  |
E1300 | E | Whirlpool portable |  |  |  |  |
E1310 | A | Whirlpool non-portable |  |  |  |  |
E1340 | A | Repair for DME, per 15 min |  |  |  |  |
E1353 | A | Oxygen supplies regulator |  |  |  |  |
E1355 | A | Oxygen supplies stand/rack |  |  |  |  |
E1372 | A | Oxy suppl heater for nebuliz |  |  |  |  |
E1375D | A | Oxygen suppl nebulizer porta |  |  |  |  |
E1377D | E | Oxygen concentrator to 244 c |  |  |  |  |
E1378D | E | Oxygen concentrator to 488 c |  |  |  |  |
E1379D | E | Oxygen concentrator to 732 c |  |  |  |  |
E1380D | E | Oxygen concentrator to 976 c |  |  |  |  |
E1381D | E | Oxygen concentrat to 1220 cu |  |  |  |  |
E1382D | E | Oxygen concentrat to 1464 cu |  |  |  |  |
E1383D | E | Oxygen concentrat to 1708 cu |  |  |  |  |
E1384D | E | Oxygen concentrat to 1952 cu |  |  |  |  |
E1385D | E | Oxygen concentrator > 1952 c |  |  |  |  |
E1390 | A | Oxygen concentrator |  |  |  |  |
E1399 | A | Durable medical equipment mi |  |  |  |  |
E1405 | A | O2/water vapor enrich w/heat |  |  |  |  |
E1406 | A | O2/water vapor enrich w/o he |  |  |  |  |
E1510 | A | Kidney dialysate delivry sys |  |  |  |  |
E1520 | A | Heparin infusion pump for di |  |  |  |  |
E1530 | A | Air bubble detector for dial |  |  |  |  |
E1540 | A | Pressure alarm for dialysis |  |  |  |  |
E1550 | A | Bath conductivity meter |  |  |  |  |
E1560 | A | Blood leak detector for dial |  |  |  |  |
E1570 | A | Adjustable chair for esrd pt |  |  |  |  |
E1575 | A | Transducer protector/fluid b |  |  |  |  |
E1580 | A | Unipuncture control system |  |  |  |  |
E1590 | A | Hemodialysis machine |  |  |  |  |
E1592 | A | Auto interm peritoneal dialy |  |  |  |  |
E1594 | A | Cycler dialysis machine |  |  |  |  |
E1600 | A | Deliv/install equip for dial |  |  |  |  |
E1610 | A | Reverse osmosis water purifi |  |  |  |  |
E1615 | A | Deionizer water purification |  |  |  |  |
E1620 | A | Blood pump for dialysis |  |  |  |  |
E1625 | A | Water softening system |  |  |  |  |
E1630 | A | Reciprocating peritoneal dia |  |  |  |  |
E1632 | A | Wearable artificial kidney |  |  |  |  |
E1635 | A | Compact travel hemodialyzer |  |  |  |  |
E1636 | A | Sorbent cartridges for dialy |  |  |  |  |
E1640 | A | Replacement components for d |  |  |  |  |
E1699 | A | Dialysis equipment unspecifi |  |  |  |  |
E1700 | A | Jaw motion rehab system |  |  |  |  |
E1701 | A | Repl cushions for jaw motion |  |  |  |  |
E1702 | A | Repl measr scales jaw motion |  |  |  |  |
E1800 | A | Adjust elbow ext/flex device |  |  |  |  |
E1805 | A | Adjust wrist ext/flex device |  |  |  |  |
E1810 | A | Adjust knee ext/flex device |  |  |  |  |
E1815 | A | Adjust ankle ext/flex device |  |  |  |  |
E1820 | A | Soft interface material |  |  |  |  |
E1825 | A | Adjust finger ext/flex devc |  |  |  |  |
E1830 | A | Adjust toe ext/flex device |  |  |  |  |
E1900 | A | Speech communication device |  |  |  |  |
G0001 | A | Drawing blood for specimen |  |  |  |  |
G0002 | N | Temporary urinary catheter |  |  |  |  |
G0004 | E | ECG transm phys review & int |  |  |  |  |
G0005 | X | ECG 24 hour recording | 0097 | 1.62 | $80.35 | $62.40 | $16.07
G0006 | X | ECG transmission & analysis | 0097 | 1.62 | $80.35 | $62.40 | $16.07
G0007 | N | ECG phy review & interpret |  |  |  |  |
G0008 | K | Admin influenza virus vac | 0354 | 0.13 | $6.33 |  |
G0009 | K | Admin pneumococcal vaccine | 0354 | 0.13 | $6.33 |  |
G0010 | N | Admin hepatitis b vaccine |  |  |  |  |
G0015 | X | Post symptom ECG tracing | 0097 | 1.62 | $80.35 | $62.40 | $16.07
G0016 | E | Post symptom ECG md review |  |  |  |  |
G0025 | X | Collagen skin test kit | 0343 | 0.45 | $22.32 | $12.16 | $4.46
G0026 | A | Fecal leukocyte examination |  |  |  |  |
G0027 | A | Semen analysis |  |  |  |  |
G0030 | S | PET imaging prev PET single | 0285 | 15.06 | $746.92 | $415.21 | $149.38
G0031 | S | PET imaging prev PET multple | 0285 | 15.06 | $746.92 | $415.21 | $149.38
G0032 | S | PET follow SPECT 78464 singl | 0285 | 15.06 | $746.92 | $415.21 | $149.38
G0033 | S | PET follow SPECT 78464 mult | 0285 | 15.06 | $746.92 | $415.21 | $149.38
G0034 | S | PET follow SPECT 76865 singl | 0285 | 15.06 | $746.92 | $415.21 | $149.38
G0035 | S | PET follow SPECT 78465 mult | 0285 | 15.06 | $746.92 | $415.21 | $149.38
G0036 | S | PET follow cornry angio sing | 0285 | 15.06 | $746.92 | $415.21 | $149.38
G0037 | S | PET follow cornry angio mult | 0285 | 15.06 | $746.92 | $415.21 | $149.38
G0038 | S | PET follow myocard perf sing | 0285 | 15.06 | $746.92 | $415.21 | $149.38
G0039 | S | PET follow myocard perf mult | 0285 | 15.06 | $746.92 | $415.21 | $149.38
G0040 | S | PET follow stress echo singl | 0285 | 15.06 | $746.92 | $415.21 | $149.38
G0041 | S | PET follow stress echo mult | 0285 | 15.06 | $746.92 | $415.21 | $149.38
G0042 | S | PET follow ventriculogm sing | 0285 | 15.06 | $746.92 | $415.21 | $149.38
G0043 | S | PET follow ventriculogm mult | 0285 | 15.06 | $746.92 | $415.21 | $149.38
G0044 | S | PET following rest ECG singl | 0285 | 15.06 | $746.92 | $415.21 | $149.38
G0045 | S | PET following rest ECG mult | 0285 | 15.06 | $746.92 | $415.21 | $149.38
G0046 | S | PET follow stress ECG singl | 0285 | 15.06 | $746.92 | $415.21 | $149.38
G0047 | S | PET follow stress ECG mult | 0285 | 15.06 | $746.92 | $415.21 | $149.38
G0050 | S | Residual urine by ultrasound | 0265 | 1.17 | $58.03 | $38.08 | $11.61
G0101 | V | CA screen;pelvic/breast exam | 0601 | 1.00 | $49.60 | $9.92 | $9.92
G0102 | N | Prostate ca screening; dre |  |  |  |  |
G0103 | A | Psa, total screening |  |  |  |  |
G0104 | S | CA screen;flexi sigmoidscope | 0159 | 2.83 | $140.36 |  | $35.09
G0105 | S | Colorectal scrn; hi risk ind | 0158 | 7.98 | $395.78 |  | $98.94
G0106 | S | Colon CA screen;barium enema | 0157 | 1.79 | $88.78 |  | $22.19
G0107 | A | CA screen; fecal blood test |  |  |  |  |
G0108 | A | Diab manage trn per indiv |  |  |  |  |
G0109 | A | Diab manage trn ind/group |  |  |  |  |
G0110 | A | Nett pulm-rehab educ; ind |  |  |  |  |
G0111 | A | Nett pulm-rehab educ; group |  |  |  |  |
G0112 | A | Nett;nutrition guid, initial |  |  |  |  |
G0113 | A | Nett;nutrition guid,subseqnt |  |  |  |  |
G0114 | A | Nett; psychosocial consult |  |  |  |  |
G0115 | A | Nett; psychological testing |  |  |  |  |
G0116 | A | Nett; psychosocial counsel |  |  |  |  |
G0120 | S | Colon ca scrn; barium enema | 0157 | 1.79 | $88.78 |  | $22.19
G0121 | E | Colon ca scrn not hi rsk ind |  |  |  |  |
G0122 | S | Colon ca scrn; barium enema | 0157 | 1.79 | $88.78 |  | $22.19
G0123 | A | Screen cerv/vag thin layer |  |  |  |  |
G0124 | A | Screen c/v thin layer by MD |  |  |  |  |
G0125 | S | Lung image (PET) | 0981 | 46.40 | $2,301.26 |  | $460.25
G0126 | S | Lung image (PET) staging | 0981 | 46.40 | $2,301.26 |  | $460.25
G0127 | T | Trim nail(s) | 0009 | 0.74 | $36.70 | $9.63 | $7.34
G0128 | E | CORF skilled nursing service |  |  |  |  |
G0129 | P | Partial hosp prog service | 0033 | 4.17 | $206.82 | $48.17 | $41.36
G0130 | X | Single energy x-ray study | 0261 | 1.38 | $68.44 | $38.77 | $13.69
G0131 | S | CT scan, bone density study | 0282 | 2.38 | $118.04 | $94.51 | $23.61
G0132 | S | CT scan, bone density study | 0282 | 2.38 | $118.04 | $94.51 | $23.61
G0141 | E | Scr c/v cyto,autosys and md |  |  |  |  |
G0143 | A | Scr c/v cyto,thinlayer,rescr |  |  |  |  |
G0144 | A | Scr c/v cyto,thinlayer,rescr |  |  |  |  |
G0145 | A | Scr c/v cyto,thinlayer,rescr |  |  |  |  |
G0147 | A | Scr c/v cyto, automated sys |  |  |  |  |
G0148 | A | Scr c/v cyto, autosys, rescr |  |  |  |  |
G0151 | E | HHCP-serv of pt,ea 15 min |  |  |  |  |
G0152 | E | HHCP-serv of ot,ea 15 min |  |  |  |  |
G0153 | E | HHCP-svs of s/l path,ea 15mn |  |  |  |  |
G0154 | E | HHCP-svs of rn,ea 15 min |  |  |  |  |
G0155 | E | HHCP-svs of csw,ea 15 min |  |  |  |  |
G0156 | E | HHCP-svs of aide,ea 15 min |  |  |  |  |
G0159D | T | Perc declot dialysis graft | 0103 | 13.09 | $649.21 | $295.70 | $129.84
*G0160D | S | Cryo. ablation, prostate | 0981 | 46.40 | $2,301.26 |  | $460.25
G0161D | X | Echo guide for cryo probes | 0268 | 2.23 | $110.60 | $69.51 | $22.12
G0163 | S | Pet for rec of colorectal ca | 0981 | 46.40 | $2,301.26 |  | $460.25
G0164 | S | Pet for lymphoma staging | 0981 | 46.40 | $2,301.26 |  | $460.25
G0165 | S | Pet,rec of melanoma/met ca | 0981 | 46.40 | $2,301.26 |  | $460.25
G0166 | T | Extrnl counterpulse, per tx | 0972 | 3.09 | $153.26 |  | $30.65
G0167 | E | Hyperbaric oz tx;no md reqrd |  |  |  |  |
G0168 | T | Wound closure by adhesive | 0970 | 0.52 | $25.79 |  | $5.16
G0169D | T | Removal tissue; no anesthsia | 0013 | 0.91 | $45.13 | $17.66 | $9.03
G0170D | T | Skin biograft | 0025 | 3.74 | $185.49 | $70.66 | $37.10
G0171D | T | Skin biograft add-on | 0025 | 3.74 | $185.49 | $70.66 | $37.10
G0172D | P | Partial hosp prog service | 0033 | 4.17 | $206.82 | $48.17 | $41.36
G0173 | S | Stereotactic radiosurgery | 0302 | 8.21 | $407.18 | $216.55 | $81.44
G0174 | S | IMRT , per session | 0302 | 8.21 | $407.18 | $216.55 | $81.44
G0175 | V | Interdisciplinary team conf | 0602 | 1.66 | $82.33 | $16.47 | $16.47
*G0176 | P | OPPS/PHP;activity therapy | 0033 | 4.17 | $206.82 | $48.17 | $41.36
*G0177 | P | OPPS/PHP; train & educ serv | 0033 | 4.17 | $206.82 | $48.17 | $41.36
*G0178 | S | Intensity modulated radiation | 0302 | 8.21 | $407.18 | $216.55 | $81.44
*G0179 | E | Phys recertification, HHA pt |  |  |  |  |
*G0180 | E | Phys certification, HHA pt |  |  |  |  |
*G0181 | E | Home health care supervision |  |  |  |  |
*G0182 | E | Hospice care supervision |  |  |  |  |
*G0183 | T | Ocular photodynamic therapy | 0235 | 2.94 | $145.81 | $78.91 | $29.16
*G0184 | T | Ocular photocoagulation | 0235 | 33.96 | $1,684.28 | $852.68 | $336.86
*G0185 | T | Transpuppillary thermotx | 0235 | 6.70 | $332.29 | $147.96 | $66.46
*G0186 | T | Dstry eye lesn,fdr vssl tech | 0235 | 6.70 | $332.29 | $147.96 | $66.46
*G0187 | T | Dstry mclr drusen,photocoag | 0235 | 33.96 | $1,684.28 | $852.68 | $336.86
*G0188 | X | Xray lwr extrmty-full lngth |  | 1.38 | $68.44 | $38.77 | $13.69
*G0190 | N | Immunization administration |  |  |  |  |
*G0191 | N | Immunization admin,each add |  |  |  |  |
*G0192 | N | Immunization oral/intranasal |  |  |  |  |
*G0195 | A | Clinical eval, swallowing |  |  |  |  |
*G0196 | A | Radioisotope eval, swallowing |  |  |  |  |
*G0197 | A | Eval, speech generating device |  |  |  |  |
*G0198 | A | Trng, speech generating device |  |  |  |  |
*G0199 | A | Re-evaluation, speech device |  |  |  |  |
*G0200 | A | Eval, voice prosthetic |  |  |  |  |
*G0201 | A | Trng, voice prosthetic |  |  |  |  |
*G9001 | E | Coordinated care fee |  |  |  |  |
*G9002 | E | Coordinated care fee |  |  |  |  |
*G9003 | E | Coordinated care fee |  |  |  |  |
*G9004 | E | Coordinated care fee |  |  |  |  |
*G9005 | E | Coordinated care fee |  |  |  |  |
*G9006 | E | Coordinated care fee |  |  |  |  |
*G9007 | E | Coordinated care fee |  |  |  |  |
*G9008 | E | Coordinated care fee |  |  |  |  |
*G9016 | A | Demo-smoking cessation coun |  |  |  |  |
J0120 | N | Tetracyclin injection |  |  |  |  |
*J0130 | G | Abciximab injection | 1605 |  | $513.02 |  | $68.74
J0150 | K | Injection adenosine 6 MG | 0917 | 0.36 | $17.86 |  | $3.57
J0151 | E | Adenosine injection |  |  |  |  |
J0170 | N | Adrenalin epinephrin inject |  |  |  |  |
J0190 | N | Inj biperiden lactate/5 mg |  |  |  |  |
J0200 | N | Alatrofloxacin mesylate |  |  |  |  |
J0205 | G | Alglucerase injection | 0900 |  | $37.53 |  | $5.03
J0207 | G | Amifostine | 7000 |  | $350.31 |  | $46.94
J0210 | N | Methyldopate hcl injection |  |  |  |  |
J0256 | G | Alpha 1 proteinase inhibitor | 0901 |  | $2.09 |  | $.28
J0270 | E | Alprostadil for injection |  |  |  |  |
J0275 | E | Alprostadil urethral suppos |  |  |  |  |
J0280 | N | Aminophyllin 250 MG inj |  |  |  |  |
J0282 | N | Amiodarone HCl |  |  |  |  |
J0285 | N | Amphotericin B |  |  |  |  |
J0286 | G | Amphotericin B lipid complex | 7001 |  | $95.00 |  | $12.73
J0290 | N | Ampicillin 500 MG inj |  |  |  |  |
J0295 | N | Ampicillin sodium per 1.5 gm |  |  |  |  |
J0300 | N | Amobarbital 125 MG inj |  |  |  |  |
J0330 | N | Succinycholine chloride inj |  |  |  |  |
J0340 | N | Nandrolon phenpropionate inj |  |  |  |  |
*J0350 | G | Injection anistreplase 30 u | 1606 |  | $2,693.80 |  | $360.97
J0360 | N | Hydralazine hcl injection |  |  |  |  |
J0380 | N | Inj metaraminol bitartrate |  |  |  |  |
J0390 | N | Chloroquine injection |  |  |  |  |
J0395 | N | Arbutamine HCl injection |  |  |  |  |
J0400 | N | Inj trimethaphan camsylate |  |  |  |  |
J0456 | N | Azithromycin |  |  |  |  |
J0460 | N | Atropine sulfate injection |  |  |  |  |
J0470 | N | Dimecaprol injection |  |  |  |  |
J0475 | N | Baclofen 10 MG injection |  |  |  |  |
J0476 | E | Baclofen 50 mcg intrathecal trial |  |  |  |  |
J0500 | N | Dicyclomine injection |  |  |  |  |
J0510 | N | Benzquinamide injection |  |  |  |  |
J0515 | N | Inj benztropine mesylate |  |  |  |  |
J0520 | N | Bethanechol chloride inject |  |  |  |  |
J0530 | N | Penicillin g benzathine inj |  |  |  |  |
J0540 | N | Penicillin g benzathine inj |  |  |  |  |
J0550 | N | Penicillin g benzathine inj |  |  |  |  |
J0560 | N | Penicillin g benzathine inj |  |  |  |  |
J0570 | N | Penicillin g benzathine inj |  |  |  |  |
J0580 | N | Penicillin g benzathine inj |  |  |  |  |
J0585 | G | Botulinum toxin a per unit | 0902 |  | $4.39 |  | $.59
J0590 | N | Ethylnorepinephrine hcl inj |  |  |  |  |
J0600 | N | Edetate calcium disodium inj |  |  |  |  |
J0610 | N | Calcium gluconate injection |  |  |  |  |
J0620 | N | Calcium glycer & lact/10 ML |  |  |  |  |
J0630 | N | Calcitonin salmon injection |  |  |  |  |
J0635 | N | Calcitriol injection |  |  |  |  |
J0640 | G | Leucovorin calcium injection | 0725 |  | $49.73 |  | $6.66
J0670 | N | Inj mepivacaine HCL/10 ml |  |  |  |  |
J0690 | N | Cefazolin sodium injection |  |  |  |  |
J0694 | N | Cefoxitin sodium injection |  |  |  |  |
J0695 | N | Cefonocid sodium injection |  |  |  |  |
J0696 | N | Ceftriaxone sodium injection |  |  |  |  |
J0697 | N | Sterile cefuroxime injection |  |  |  |  |
J0698 | N | Cefotaxime sodium injection |  |  |  |  |
J0702 | N | Betamethasone acet&sod phosp |  |  |  |  |
J0704 | N | Betamethasone sod phosp/4 MG |  |  |  |  |
J0710 | N | Cephapirin sodium injection |  |  |  |  |
J0713 | N | Inj ceftazidime per 500 mg |  |  |  |  |
J0715 | N | Ceftizoxime sodium / 500 MG |  |  |  |  |
J0720 | N | Chloramphenicol sodium injec |  |  |  |  |
J0725 | N | Chorionic gonadotropin/1000u |  |  |  |  |
J0730 | N | Chlorpheniramin maleate inj |  |  |  |  |
J0735 | N | Clonidine hydrochloride |  |  |  |  |
J0740 | N | Cidofovir injection |  |  |  |  |
J0743 | N | Cilastatin sodium injection |  |  |  |  |
J0745 | N | Inj codeine phosphate /30 MG |  |  |  |  |
J0760 | N | Colchicine injection |  |  |  |  |
J0770 | N | Colistimethate sodium inj |  |  |  |  |
J0780 | N | Prochlorperazine injection |  |  |  |  |
J0800 | N | Corticotropin injection |  |  |  |  |
J0810 | N | Cortisone injection |  |  |  |  |
J0835 | N | Inj cosyntropin per 0.25 MG |  |  |  |  |
J0850 | G | Cytomegalovirus imm IV /vial | 0903 |  | $370.50 |  | $49.65
J0895 | N | Deferoxamine mesylate inj |  |  |  |  |
J0900 | N | Testosterone enanthate inj |  |  |  |  |
J0945 | N | Brompheniramine maleate inj |  |  |  |  |
J0970 | N | Estradiol valerate injection |  |  |  |  |
J1000 | N | Depo-estradiol cypionate inj |  |  |  |  |
J1020 | N | Methylprednisolone 20 MG inj |  |  |  |  |
J1030 | N | Methylprednisolone 40 MG inj |  |  |  |  |
J1040 | N | Methylprednisolone 80 MG inj |  |  |  |  |
J1050 | N | Medroxyprogesterone inj |  |  |  |  |
J1055 | E | Medrxyprogester acetate inj |  |  |  |  |
J1060 | N | Testosterone cypionate 1 ML |  |  |  |  |
J1070 | N | Testosterone cypionat 100 MG |  |  |  |  |
J1080 | N | Testosterone cypionat 200 MG |  |  |  |  |
J1090 | N | Testosterone cypionate 50 MG |  |  |  |  |
J1095 | N | Inj dexamethasone acetate |  |  |  |  |
J1100 | N | Dexamethasone sodium phos |  |  |  |  |
J1110 | N | Inj dihydroergotamine mesylt |  |  |  |  |
J1120 | N | Acetazolamid sodium injectio |  |  |  |  |
J1160 | N | Digoxin injection |  |  |  |  |
J1165 | N | Phenytoin sodium injection |  |  |  |  |
J1170 | N | Hydromorphone injection |  |  |  |  |
J1180 | N | Dyphylline injection |  |  |  |  |
J1190 | G | Dexrazoxane HCl injection | 0726 |  | $161.11 |  | $21.59
J1200 | N | Diphenhydramine hcl injectio |  |  |  |  |
J1205 | N | Chlorothiazide sodium inj |  |  |  |  |
J1212 | N | Dimethyl sulfoxide 50% 50 ML |  |  |  |  |
J1230 | N | Methadone injection |  |  |  |  |
J1240 | N | Dimenhydrinate injection |  |  |  |  |
J1245 | K | Dipyridamole injection | 0917 | 0.36 | $17.86 |  | $3.57
J1250 | N | Inj dobutamine HCL/250 mg |  |  |  |  |
J1260 | G | Dolasetron mesylate | 0750 |  | $14.81 |  | $1.98
J1320 | N | Amitriptyline injection |  |  |  |  |
J1325 | G | Epoprostenol injection | 7003 |  | $16.53 |  | $2.22
*J1327 | G | Eptifibatide injection | 1607 |  | $12.57 |  | $1.68
J1330 | N | Ergonovine maleate injection |  |  |  |  |
J1362 | N | Erythromycin glucep / 250 MG |  |  |  |  |
J1364 | N | Erythro lactobionate /500 MG |  |  |  |  |
J1380 | N | Estradiol valerate 10 MG inj |  |  |  |  |
J1390 | N | Estradiol valerate 20 MG inj |  |  |  |  |
J1410 | N | Inj estrogen conjugate 25 MG |  |  |  |  |
J1435 | N | Injection estrone per 1 MG |  |  |  |  |
J1436 | G | Etidronate disodium inj | 0727 |  | $63.65 |  | $8.53
*J1438 | G | Etanercept injection | 1608 |  | $134.42 |  | $18.01
J1440 | G | Filgrastim 300 mcg injection | 0728 |  | $171.38 |  | $22.96
J1441 | G | Filgrastim 480 mcg injection | 7049 |  | $273.03 |  | $35.06
J1450 | N | Fluconazole |  |  |  |  |
J1452 | N | Intraocular Fomivirsen na 1.65 MG |  |  |  |  |
J1455 | N | Foscarnet sodium injection |  |  |  |  |
J1460 | N | Gamma globulin 1 CC inj |  |  |  |  |
J1470 | E | Gamma globulin 2 CC inj |  |  |  |  |
J1480 | E | Gamma globulin 3 CC inj |  |  |  |  |
J1490 | E | Gamma globulin 4 CC inj |  |  |  |  |
J1500 | E | Gamma globulin 5 CC inj |  |  |  |  |
J1510 | E | Gamma globulin 6 CC inj |  |  |  |  |
J1520 | E | Gamma globulin 7 CC inj |  |  |  |  |
J1530 | E | Gamma globulin 8 CC inj |  |  |  |  |
J1540 | E | Gamma globulin 9 CC inj |  |  |  |  |
J1550 | E | Gamma globulin 10 CC inj |  |  |  |  |
J1560 | E | Gamma globulin > 10 CC inj |  |  |  |  |
J1561 | G | Immune globulin 500 mg | 0905 |  | $27.28 |  | $3.33
J1562D | G | Immune globulin 5 gms | 7004 |  | $272.80 |  | $33.28
J1563D | N | IV immune globulin 1 GM |  |  |  |  |
J1565 | G | RSV-ivig | 0906 |  | $427.73 |  | $57.32
J1570 | K | Ganciclovir sodium injection | 0907 | 0.45 | $22.26 |  | $4.45
J1580 | N | Garamycin gentamicin inj |  |  |  |  |
J1600 | N | Gold sodium thiomaleate inj |  |  |  |  |
J1610 | N | Glucagon hydrochloride/1 MG |  |  |  |  |
J1620 | G | Gonadorelin hydroch/ 100 mcg | 7005 |  | $14.80 |  | $1.98
J1626 | G | Granisetron HCl injection | 0764 |  | $1.85 |  | $.25
J1630 | N | Haloperidol injection |  |  |  |  |
J1631 | N | Haloperidol decanoate inj |  |  |  |  |
J1642 | N | Inj heparin sodium per 10 u |  |  |  |  |
J1644 | N | Inj heparin sodium per 1000u |  |  |  |  |
J1645 | N | Dalteparin sodium |  |  |  |  |
J1650 | G | Enoxaparin sodium 10 mg | 9998 |  | $5.53 |  | $.79
J1670 | G | Tetanus immune globulin inj | 0908 |  | $102.60 |  | $13.75
J1690 | N | Prednisolone tebutate inj |  |  |  |  |
J1700 | N | Hydrocortisone acetate inj |  |  |  |  |
J1710 | N | Hydrocortisone sodium ph inj |  |  |  |  |
J1720 | N | Hydrocortisone sodium succ i |  |  |  |  |
J1730 | N | Diazoxide injection |  |  |  |  |
J1739 | N | Hydroxyprogesterone cap 125 |  |  |  |  |
J1741 | N | Hydroxyprogesterone cap 250 |  |  |  |  |
J1742 | N | Ibutilide fumarate injection |  |  |  |  |
J1745 | G | Infliximab injection | 7043 |  | $58.08 |  | $7.78
J1750 | N | Iron dextran |  |  |  |  |
J1785 | G | Injection imiglucerase /unit | 0916 |  | $3.75 |  | $.50
J1790 | N | Droperidol injection |  |  |  |  |
J1800 | N | Propranolol injection |  |  |  |  |
J1810 | G | Droperidol/fentanyl inj | 7047 |  | $7.02 |  | $.90
J1820 | N | Insulin injection |  |  |  |  |
J1825 | G | Interferon beta-1a | 0909 |  | $204.73 |  | $27.43
J1830 | G | Interferon beta-1b / .25 MG | 0910 |  | $57.00 |  | $7.64
J1840 | N | Kanamycin sulfate 500 MG inj |  |  |  |  |
J1850 | N | Kanamycin sulfate 75 MG inj |  |  |  |  |
J1885 | N | Ketorolac tromethamine inj |  |  |  |  |
J1890 | N | Cephalothin sodium injection |  |  |  |  |
J1910 | N | Kutapressin injection |  |  |  |  |
J1930 | N | Propiomazine injection |  |  |  |  |
J1940 | N | Furosemide injection |  |  |  |  |
J1950 | G | Leuprolide acetate /3.75 MG | 0800 |  | $492.71 |  | $63.27
J1955 | N | Inj levocarnitine per 1 gm |  |  |  |  |
J1956 | N | Levofloxacin injection |  |  |  |  |
J1960 | N | Levorphanol tartrate inj |  |  |  |  |
J1970 | N | Methotrimeprazine injection |  |  |  |  |
J1980 | N | Hyoscyamine sulfate inj |  |  |  |  |
J1990 | N | Chlordiazepoxide injection |  |  |  |  |
J2000 | N | Lidocaine injection |  |  |  |  |
J2010 | N | Lincomycin injection |  |  |  |  |
J2060 | N | Lorazepam injection |  |  |  |  |
J2150 | N | Mannitol injection |  |  |  |  |
J2175 | N | Meperidine hydrochl /100 MG |  |  |  |  |
J2180 | N | Meperidine/promethazine inj |  |  |  |  |
J2210 | N | Methylergonovin maleate inj |  |  |  |  |
J2240 | N | Metocurine iodide injection |  |  |  |  |
J2250 | N | Inj midazolam hydrochloride |  |  |  |  |
J2260 | K | Inj milrinone lactate / 5 ML | 7007 | 0.47 | $23.31 |  | $4.66
J2270 | N | Morphine sulfate injection |  |  |  |  |
J2271 | N | Morphine so4 injection 100mg |  |  |  |  |
J2275 | G | Morphine sulfate injection | 7010 |  | $7.41 |  | $.99
J2300 | N | Inj nalbuphine hydrochloride |  |  |  |  |
J2310 | N | Inj naloxone hydrochloride |  |  |  |  |
J2320 | N | Nandrolone decanoate 50 MG |  |  |  |  |
J2321 | N | Nandrolone decanoate 100 MG |  |  |  |  |
J2322 | N | Nandrolone decanoate 200 MG |  |  |  |  |
J2330 | N | Thiothixene injection |  |  |  |  |
J2350 | N | Niacinamide/niacin injection |  |  |  |  |
J2352 | G | Octreotide acetate injection | 7031 |  | $115.34 |  | $15.46
J2355 | G | Oprelvekin injection | 7011 |  | $236.31 |  | $31.67
J2360 | N | Orphenadrine injection |  |  |  |  |
J2370 | N | Phenylephrine hcl injection |  |  |  |  |
J2400 | N | Chloroprocaine hcl injection |  |  |  |  |
J2405 | G | Ondansetron hcl injection | 0768 |  | $6.09 |  | $.82
J2410 | N | Oxymorphone hcl injection |  |  |  |  |
J2430 | G | Pamidronate disodium /30 MG | 0730 |  | $232.51 |  | $31.16
J2440 | N | Papaverin hcl injection |  |  |  |  |
J2460 | N | Oxytetracycline injection |  |  |  |  |
J2480 | N | Hydrochlorides of opium inj |  |  |  |  |
J2500 | N | Paricalcitol |  |  |  |  |
J2510 | N | Penicillin g procaine inj |  |  |  |  |
J2512 | N | Inj pentagastrin per 2 ML |  |  |  |  |
J2515 | N | Pentobarbital sodium inj |  |  |  |  |
J2540 | N | Penicillin g potassium inj |  |  |  |  |
J2543 | N | Piperacillin/tazobactam |  |  |  |  |
J2545 | A | Pentamidine isethionte/300mg |  |  |  |  |
J2550 | N | Promethazine hcl injection |  |  |  |  |
J2560 | N | Phenobarbital sodium inj |  |  |  |  |
J2590 | N | Oxytocin injection |  |  |  |  |
J2597 | E | Inj desmopressin acetate |  |  |  |  |
J2640 | N | Prednisolone sodium ph inj |  |  |  |  |
J2650 | N | Prednisolone acetate inj |  |  |  |  |
J2670 | N | Totazoline hcl injection |  |  |  |  |
J2675 | N | Inj progesterone per 50 MG |  |  |  |  |
J2680 | N | Fluphenazine decanoate 25 MG |  |  |  |  |
J2690 | N | Procainamide hcl injection |  |  |  |  |
J2700 | N | Oxacillin sodium injection |  |  |  |  |
J2710 | N | Neostigmine methylslfte inj |  |  |  |  |
J2720 | N | Inj protamine sulfate/10 MG |  |  |  |  |
J2725 | N | Inj protirelin per 250 mcg |  |  |  |  |
J2730 | N | Pralidoxime chloride inj |  |  |  |  |
J2760 | N | Phentolaine mesylate inj |  |  |  |  |
J2765 | G | Metoclopramide hcl injection | 0754 |  | $2.00 |  | $.27
J2770 | G | Quinupristin/dalfopristin | 1024 |  | $102.05 |  | $13.67
J2780 | N | Ranitidine hydrochloride inj |  |  |  |  |
J2790 | G | Rho d immune globulin inj | 0884 |  | $35.91 |  | $4.38
*J2792 | G | Rho(D) immune globulin h, sd | 1609 |  | $20.55 |  | $2.51
J2795 | N | Ropivacaine HCl injection |  |  |  |  |
J2800 | N | Methocarbamol injection |  |  |  |  |
J2810 | N | Inj theophylline per 40 MG |  |  |  |  |
J2820 | G | Sargramostim injection | 0731 |  | $27.42 |  | $3.67
J2860 | N | Secobarbital sodium inj |  |  |  |  |
J2910 | N | Aurothioglucose injection |  |  |  |  |
J2912 | N | Sodium chloride injection |  |  |  |  |
J2915 | N | NA Ferric Gluconate Complex |  |  |  |  |
J2920 | N | Methylprednisolone injection |  |  |  |  |
J2930 | N | Methylprednisolone injection |  |  |  |  |
J2950 | N | Promazine hcl injection |  |  |  |  |
J2970 | N | Methicillin sodium injection |  |  |  |  |
J2993 | G | Reteplase injection | 9005 |  | $1,306.25 |  | $175.04
J2994D | G | Reteplase double bolus | 0914 |  | $2,612.50 |  | $350.08
J2995 | K | Inj streptokinase /250000 IU | 0911 | 1.76 | $87.25 |  | $17.45
J2996D | K | Alteplase recombinant inj | 0915 | 3.80 | $188.46 |  | $37.69
J2997 | G | Alteplase recombinant, 1 mg | 7048 | 0.38 | $18.70 |  | $3.74
J3000 | N | Streptomycin injection |  |  |  |  |
J3010 | G | Fentanyl citrate injection | 7014 |  | $.98 |  | $.13
J3030 | N | Sumatriptan succinate / 6 MG |  |  |  |  |
J3070 | N | Pentazocine hcl injection |  |  |  |  |
J3080 | N | Chlorprothixene injection |  |  |  |  |
J3105 | N | Terbutaline sulfate inj |  |  |  |  |
J3120 | N | Testosterone enanthate inj |  |  |  |  |
J3130 | N | Testosterone enanthate inj |  |  |  |  |
J3140 | N | Testosterone suspension inj |  |  |  |  |
J3150 | N | Testosteron propionate inj |  |  |  |  |
J3230 | N | Chlorpromazine hcl injection |  |  |  |  |
*J3240 | E | Thyrotropin injection |  |  |  |  |
J3245 | G | Tirofiban hydrochloride | 7041 |  | $399.00 |  | $53.47
J3250 | N | Trimethobenzamide hcl inj |  |  |  |  |
J3260 | N | Tobramycin sulfate injection |  |  |  |  |
J3265 | N | Injection torsemide 10 mg/ml |  |  |  |  |
J3270 | N | Imipramine hcl injection |  |  |  |  |
J3280 | G | Thiethylperazine maleate inj | 0755 |  | $5.02 |  | $.67
J3301 | N | Triamcinolone acetonide inj |  |  |  |  |
J3302 | N | Triamcinolone diacetate inj |  |  |  |  |
J3303 | N | Triamcinolone hexacetonl inj |  |  |  |  |
J3305 | G | Inj trimetrexate glucoronate | 7045 |  | $69.83 |  | $9.36
J3310 | N | Perphenazine injection |  |  |  |  |
J3320 | N | Spectinomycn di-hcl inj |  |  |  |  |
J3350 | N | Urea injection |  |  |  |  |
J3360 | N | Diazepam injection |  |  |  |  |
J3364 | N | Urokinase 5000 IU injection |  |  |  |  |
J3365 | K | Urokinase 250,000 IU inj | 7036 | 6.78 | $336.29 |  | $67.26
J3370 | N | Vancomycin hcl injection |  |  |  |  |
J3390 | N | Methoxamine injection |  |  |  |  |
J3400 | N | Triflupromazine hcl inj |  |  |  |  |
J3410 | N | Hydroxyzine hcl injection |  |  |  |  |
J3420 | N | Vitamin b12 injection |  |  |  |  |
J3430 | N | Vitamin k phytonadione inj |  |  |  |  |
J3450 | N | Mephentermine sulfate inj |  |  |  |  |
J3470 | N | Hyaluronidase injection |  |  |  |  |
J3475 | N | Inj magnesium sulfate |  |  |  |  |
J3480 | N | Inj potassium chloride |  |  |  |  |
J3485 | N | Zidovudine |  |  |  |  |
J3490 | N | Drugs unclassified injection |  |  |  |  |
J3520 | E | Edetate disodium per 150 mg |  |  |  |  |
J3530 | N | Nasal vaccine inhalation |  |  |  |  |
J3535 | E | Metered dose inhaler drug |  |  |  |  |
J3570 | E | Laetrile amygdalin vit B17 |  |  |  |  |
J7030 | N | Normal saline solution infus |  |  |  |  |
J7040 | N | Normal saline solution infus |  |  |  |  |
J7042 | N | 5% dextrose/normal saline |  |  |  |  |
J7050 | N | Normal saline solution infus |  |  |  |  |
J7051 | N | Sterile saline/water |  |  |  |  |
J7060 | N | 5% dextrose/water |  |  |  |  |
J7070 | N | D5w infusion |  |  |  |  |
J7100 | N | Dextran 40 infusion |  |  |  |  |
J7110 | N | Dextran 75 infusion |  |  |  |  |
J7120 | N | Ringers lactate infusion |  |  |  |  |
J7130 | N | Hypertonic saline solution |  |  |  |  |
J7190 | G | Factor viii | 0925 |  | $.88 |  | $.12
J7191 | G | Factor VIII (porcine) | 0926 |  | $2.09 |  | $.28
J7192 | G | Factor viii recombinant | 0927 |  | $1.17 |  | $.16
J7194 | G | Factor ix complex | 0928 |  | $.71 |  | $.10
J7197 | G | Antithrombin iii injection | 0930 |  | $.82 |  | $.11
J7198 | G | Anti-inhibitor | 0929 |  | $1.43 |  | $.19
J7199 | E | Hemophilia clot factor noc |  |  |  |  |
J7300 | E | Intraut copper contraceptive |  |  |  |  |
J7310 | G | Ganciclovir long act implant | 0913 |  | $4,750.00 |  | $636.50
J7315 | G | Sodium hyaluronate injection | 7315 |  | $125.59 |  | $16.83
*J7320 | G | Hylan G-F 20 injection | 1611 |  | $204.87 |  | $27.45
J7330 | G | Cultured chondrocytes implnt | 1059 |  | $14,250.00 |  | $2,010.00
J7500 | G | Azathioprine oral 50mg | 0886 |  | $1.24 |  | $.17
J7501 | G | Azathioprine parenteral | 0887 |  | $67.88 |  | $9.10
J7502 | G | Cyclosporine oral 100 mg | 0888 |  | $5.80 |  | $.78
J7504 | G | Lymphocyte immune globulin | 0890 |  | $249.13 |  | $30.39
J7505 | G | Muromonab-CD3, 5 mg | 7038 |  | $741.00 |  | $99.29
J7506 | N | Prednisone oral |  |  |  |  |
J7507 | G | Tacrolimus oral per 1 MG | 0891 |  | $2.66 |  | $.36
J7508 | E | Tacrolimus oral per 5 MG |  |  |  |  |
J7509 | N | Methylprednisolone oral |  |  |  |  |
J7510 | N | Prednisolone oral per 5 mg |  |  |  |  |
*J7513 | G | Daclizumab, parenteral | 1612 |  | $397.29 |  | $53.24
J7515 | N | Cyclosporine oral 25 mg |  |  |  |  |
J7516 | G | Cyclosporin parenteral 250mg | 0889 |  | $15.81 |  | $2.12
J7517 | N | Mycophenolate mofetil oral |  |  |  |  |
J7520 | G | Sirolimus, oral | 9106 |  | $6.51 |  | $.87
J7525 | E | Tacrolimus injection |  |  |  |  |
J7599 | E | Immunosuppressive drug noc |  |  |  |  |
J7608 | A | Acetylcysteine inh sol u d |  |  |  |  |
J7610D | A | Acetylcysteine 10% injection |  |  |  |  |
J7615D | A | Acetylcysteine 20% injection |  |  |  |  |
J7618 | A | Albuterol inh sol con |  |  |  |  |
J7619 | A | Albuterol inh sol u d |  |  |  |  |
J7620D | A | Albuterol sulfate .083%/ml |  |  |  |  |
J7625D | A | Albuterol sulfate .5% inj |  |  |  |  |
J7627D | A | Bitolterolmesylate inhal sol |  |  |  |  |
J7628 | A | Bitolterol mes inhal sol con |  |  |  |  |
J7629 | A | Bitolterol mes inh sol u d |  |  |  |  |
J7630D | A | Cromolyn sodium injection |  |  |  |  |
J7631 | A | Cromolyn sodium inh sol u d |  |  |  |  |
J7635 | A | Atropine inhal sol con |  |  |  |  |
J7636 | A | Atropine inhal sol unit dose |  |  |  |  |
J7637 | A | Dexamethasone inhal sol con |  |  |  |  |
J7638 | A | Dexamethasone inhal sol u d |  |  |  |  |
J7639 | A | Dornase alpha inhal sol u d |  |  |  |  |
J7640D | A | Epinephrine injection |  |  |  |  |
J7642 | A | Glycopyrrolate inhal sol con |  |  |  |  |
J7643 | A | Glycopyrrolate inhal sol u d |  |  |  |  |
J7644 | A | Ipratropium brom inh sol u d |  |  |  |  |
J7645D | A | Ipratropium bromide .02%/ml |  |  |  |  |
J7648 | A | Isoetharine hcl inh sol con |  |  |  |  |
J7649 | A | Isoetharine hcl inh sol u d |  |  |  |  |
J7650D | A | Isoetharine hcl .1% inj |  |  |  |  |
J7651D | A | Isoetharine hcl .125% inj |  |  |  |  |
J7652D | A | Isoetharine hcl .167% inj |  |  |  |  |
J7653D | A | Isoetharine hcl .2%/ inj |  |  |  |  |
J7654D | A | Isoetharine hcl .25% inj |  |  |  |  |
J7655D | A | Isoetharine hcl 1% inj |  |  |  |  |
J7658 | A | Isoproterenolhcl inh sol con |  |  |  |  |
J7659 | A | Isoproterenol hcl inh sol ud |  |  |  |  |
J7660D | A | Isoproterenol hcl .5% inj |  |  |  |  |
J7665D | A | Isoproterenol hcl 1% inj |  |  |  |  |
J7668 | A | Metaproterenol inh sol con |  |  |  |  |
J7669 | A | Metaproterenol inh sol u d |  |  |  |  |
J7670D | A | Metaproterenol sulfate .4% |  |  |  |  |
J7672D | A | Metaproterenol sulfate .6% |  |  |  |  |
J7675D | A | Metaproterenol sulfate 5% |  |  |  |  |
J7680 | A | Terbutaline so4 inh sol con |  |  |  |  |
J7681 | A | Terbutaline so4 inh sol u d |  |  |  |  |
J7682 | A | Tobramycin inhalation sol |  |  |  |  |
J7683 | A | Triamcinolone inh sol con |  |  |  |  |
J7684 | A | Triamcinolone inh sol u d |  |  |  |  |
J7699 | A | Inhalation solution for DME |  |  |  |  |
J7799 | A | Non-inhalation drug for DME |  |  |  |  |
J8499 | E | Oral prescrip drug non chemo |  |  |  |  |
J8510 | G | Oral busulfan | 7015 |  | $1.73 |  | $.23
J8520 | G | Capecitabine, oral, 150 mg | 7042 |  | $1.94 |  | $.26
J8521 | N | Capecitabine, oral, 500 mg |  |  |  |  |
J8530 | G | Cyclophosphamide oral 25 MG | 0801 |  | $2.12 |  | $.28
J8560 | G | Etoposide oral 50 MG | 0802 |  | $45.95 |  | $6.16
J8600 | G | Melphalan oral 2 MG | 0803 |  | $2.07 |  | $.30
J8610 | G | Methotrexate oral 2.5 MG | 0826 |  | $2.92 |  | $.39
J8700 | G | Temozolmide, oral 5 mg | 1086 |  | $5.70 |  | $.76
J8999 | E | Oral prescription drug chemo |  |  |  |  |
J9000 | G | Doxorubic hcl 10 MG vl chemo | 0847 |  | $15.79 |  | $2.12
J9001 | G | Doxorubicin hcl liposome inj | 7046 |  | $311.72 |  | $41.77
J9015 | G | Aldesleukin/single use vial | 0807 |  | $569.76 |  | $76.35
J9020 | G | Asparaginase injection | 0814 |  | $57.41 |  | $7.69
J9031 | G | Bcg live intravesical vac | 0809 |  | $159.39 |  | $19.45
J9040 | G | Bleomycin sulfate injection | 0857 |  | $294.48 |  | $39.46
J9045 | G | Carboplatin injection | 0811 |  | $98.90 |  | $13.25
J9050 | G | Carmus bischl nitro inj | 0812 |  | $103.27 |  | $13.84
J9060 | G | Cisplatin 10 MG injection | 0813 |  | $42.18 |  | $5.65
J9062 | E | Cisplatin 50 MG injection |  |  |  |  |
J9065 | G | Inj cladribine per 1 MG | 0858 |  | $53.47 |  | $7.16
J9070 | G | Cyclophosphamide 100 MG inj | 0815 |  | $6.13 |  | $.82
J9080 | E | Cyclophosphamide 200 MG inj |  |  |  |  |
J9090 | E | Cyclophosphamide 500 MG inj |  |  |  |  |
J9091 | E | Cyclophosphamide 1.0 grm inj |  |  |  |  |
J9092 | E | Cyclophosphamide 2.0 grm inj |  |  |  |  |
J9093 | G | Cyclophosphamide lyophilized | 0816 |  | $6.13 |  | $.82
J9094 | E | Cyclophosphamide lyophilized |  |  |  |  |
J9095 | E | Cyclophosphamide lyophilized |  |  |  |  |
J9096 | E | Cyclophosphamide lyophilized |  |  |  |  |
J9097 | E | Cyclophosphamide lyophilized |  |  |  |  |
J9100 | G | Cytarabine hcl 100 MG inj | 0817 |  | $5.94 |  | $.80
J9110 | E | Cytarabine hcl 500 MG inj |  |  |  |  |
J9120 | G | Dactinomycin actinomycin d | 0818 |  | $12.73 |  | $1.71
J9130 | G | Dacarbazine 10 MG inj | 0819 |  | $1.13 |  | $.15
J9140 | E | Dacarbazine 200 MG inj |  |  |  |  |
J9150 | G | Daunorubicin | 0820 |  | $80.04 |  | $10.73
J9151 | G | Daunorubicin citrate liposom | 0821 |  | $64.60 |  | $8.66
J9160 | G | Denileukin diftitox, 300 mcg | 1084 |  | $942.88 |  | $126.35
J9165 | G | Diethylstilbestrol injection | 0822 |  | $4.20 |  | $.56
J9170 | G | Docetaxel | 0823 |  | $283.65 |  | $38.01
J9180 | E | Epirubicin HCl injection |  |  |  |  |
J9181 | G | Etoposide 10 MG inj | 0824 |  | $4.06 |  | $.54
J9182 | E | Etoposide 100 MG inj |  |  |  |  |
J9185 | G | Fludarabine phosphate inj | 0842 |  | $237.03 |  | $31.76
J9190 | G | Fluorouracil injection | 0859 |  | $2.75 |  | $.37
J9200 | G | Floxuridine injection | 0827 |  | $129.56 |  | $17.36
J9201 | G | Gemcitabine HCl | 0828 |  | $88.46 |  | $11.85
J9202 | G | Goserelin acetate implant | 0810 |  | $446.49 |  | $59.83
J9206 | G | Irinotecan injection | 0830 |  | $117.81 |  | $15.79
J9208 | G | Ifosfomide injection | 0831 |  | $141.50 |  | $18.96
J9209 | G | Mesna injection | 0732 |  | $36.51 |  | $4.89
J9211 | G | Idarubicin hcl injection | 0832 |  | $341.38 |  | $45.75
J9212 | G | Interferon alfacon-1 | 0833 |  | $3.91 |  | $.52
J9213 | G | Interferon alfa-2a inj | 0834 |  | $33.22 |  | $4.45
J9214 | G | Interferon alfa-2b inj | 0836 |  | $11.28 |  | $1.51
J9215 | G | Interferon alfa-n3 inj | 0865 |  | $7.86 |  | $1.05
J9216 | G | Interferon gamma 1-b inj | 0838 |  | $199.50 |  | $26.73
J9217 | G | Leuprolide acetate suspnsion | 9217 |  | $592.60 |  | $79.40
J9218 | G | Leuprolide acetate injection | 0861 |  | $22.90 |  | $3.07
J9219 | N | Leuprolide acetate implant |  |  |  |  |
J9230 | G | Mechlorethamine hcl inj | 0839 |  | $11.01 |  | $1.48
J9245 | G | Inj melphalan hydrochl 50 MG | 0840 |  | $363.48 |  | $48.71
J9250 | G | Methotrexate sodium inj | 0841 |  | $.45 |  | $.06
J9260 | E | Methotrexate sodium inj |  |  |  |  |
J9265 | G | Paclitaxel injection | 0863 |  | $173.50 |  | $23.25
J9266 | G | Pegaspargase/singl dose vial | 0843 |  | $1,321.65 |  | $177.10
J9268 | G | Pentostatin injection | 0844 |  | $1,562.75 |  | $209.41
J9270 | G | Plicamycin (mithramycin) inj | 0860 |  | $93.80 |  | $12.57
J9280 | G | Mitomycin 5 MG inj | 0862 |  | $121.65 |  | $16.30
J9290 | E | Mitomycin 20 MG inj |  |  |  |  |
J9291 | E | Mitomycin 40 MG inj |  |  |  |  |
J9293 | G | Mitoxantrone hydrochl / 5 MG | 0864 |  | $223.02 |  | $29.88
J9310 | G | Rituximab cancer treatment | 0849 |  | $420.29 |  | $56.32
J9320 | G | Streptozocin injection | 0850 |  | $65.79 |  | $8.82
J9340 | G | Thiotepa injection | 0851 |  | $100.30 |  | $13.44
J9350 | G | Topotecan | 0852 |  | $573.75 |  | $76.88
*J9355 | G | Trastuzumab | 1613 |  | $48.85 |  | $6.55
*J9357 | G | Valrubicin, 200 mg | 1614 |  | $423.23 |  | $56.71
J9360 | G | Vinblastine sulfate inj | 0853 |  | $4.11 |  | $.55
J9370 | G | Vincristine sulfate 1 MG inj | 0854 |  | $30.16 |  | $4.04
J9375 | E | Vincristine sulfate 2 MG inj |  |  |  |  |
J9380 | E | Vincristine sulfate 5 MG inj |  |  |  |  |
J9390 | G | Vinorelbine tartrate/10 mg | 0855 |  | $75.51 |  | $10.12
J9600 | G | Porfimer sodium | 0856 |  | $2,603.67 |  | $348.89
J9999 | E | Chemotherapy drug |  |  |  |  |
K0001 | A | Standard wheelchair |  |  |  |  |
K0002 | A | Stnd hemi (low seat) whlchr |  |  |  |  |
K0003 | A | Lightweight wheelchair |  |  |  |  |
K0004 | A | High strength ltwt whlchr |  |  |  |  |
K0005 | A | Ultralightweight wheelchair |  |  |  |  |
K0006 | A | Heavy duty wheelchair |  |  |  |  |
K0007 | A | Extra heavy duty wheelchair |  |  |  |  |
K0008 | A | Cstm manual wheelchair/base |  |  |  |  |
K0009 | A | Other manual wheelchair/base |  |  |  |  |
K0010 | A | Stnd wt frame power whlchr |  |  |  |  |
K0011 | A | Stnd wt pwr whlchr w control |  |  |  |  |
K0012 | A | Ltwt portbl power whlchr |  |  |  |  |
K0013 | A | Custom power whlchr base |  |  |  |  |
K0014 | A | Other power whlchr base |  |  |  |  |
K0015 | A | Detach non-adjus hght armrst |  |  |  |  |
K0016 | A | Detach adjust armrst cmplete |  |  |  |  |
K0017 | A | Detach adjust armrest base |  |  |  |  |
K0018 | A | Detach adjust armrst upper |  |  |  |  |
K0019 | A | Arm pad each |  |  |  |  |
K0020 | A | Fixed adjust armrest pair |  |  |  |  |
K0021 | A | Anti-tipping device each |  |  |  |  |
K0022 | A | Reinforced back upholstery |  |  |  |  |
K0023 | A | Planr back insrt foam w/strp |  |  |  |  |
K0024 | A | Plnr back insrt foam w/hrdwr |  |  |  |  |
K0025 | A | Hook-on headrest extension |  |  |  |  |
K0026 | A | Back upholst lgtwt whlchr |  |  |  |  |
K0027 | A | Back upholst other whlchr |  |  |  |  |
K0028 | A | Manual fully reclining back |  |  |  |  |
K0029 | A | Reinforced seat upholstery |  |  |  |  |
K0030 | A | Solid plnr seat sngl dnsfoam |  |  |  |  |
K0031 | A | Safety belt/pelvic strap |  |  |  |  |
K0032 | A | Seat uphols lgtwt whlchr |  |  |  |  |
K0033 | A | Seat upholstery other whlchr |  |  |  |  |
K0034 | A | Heel loop each |  |  |  |  |
K0035 | A | Heel loop with ankle strap |  |  |  |  |
K0036 | A | Toe loop each |  |  |  |  |
K0037 | A | High mount flip-up footrest |  |  |  |  |
K0038 | A | Leg strap each |  |  |  |  |
K0039 | A | Leg strap h style each |  |  |  |  |
K0040 | A | Adjustable angle footplate |  |  |  |  |
K0041 | A | Large size footplate each |  |  |  |  |
K0042 | A | Standard size footplate each |  |  |  |  |
K0043 | A | Ftrst lower extension tube |  |  |  |  |
K0044 | A | Ftrst upper hanger bracket |  |  |  |  |
K0045 | A | Footrest complete assembly |  |  |  |  |
K0046 | A | Elevat legrst low extension |  |  |  |  |
K0047 | A | Elevat legrst up hangr brack |  |  |  |  |
K0048 | A | Elevate legrest complete |  |  |  |  |
K0049 | A | Calf pad each |  |  |  |  |
K0050 | A | Ratchet assembly |  |  |  |  |
K0051 | A | Cam relese assem ftrst/lgrst |  |  |  |  |
K0052 | A | Swingaway detach footrest |  |  |  |  |
K0053 | A | Elevate footrest articulate |  |  |  |  |
K0054 | A | Seat wdth 10-12/15/17/20 wc |  |  |  |  |
K0055 | A | Seat dpth 15/17/18 ltwt wc |  |  |  |  |
K0056 | A | Seat ht <17 or >=21 ltwt wc |  |  |  |  |
K0057 | A | Seat wdth 19/20 hvy dty wc |  |  |  |  |
K0058 | A | Seat dpth 17/18 power wc |  |  |  |  |
K0059 | A | Plastic coated handrim each |  |  |  |  |
K0060 | A | Steel handrim each |  |  |  |  |
K0061 | A | Aluminum handrim each |  |  |  |  |
K0062 | A | Handrim 8-10 vert/obliq proj |  |  |  |  |
K0063 | A | Hndrm 12-16 vert/obliq proj |  |  |  |  |
K0064 | A | Zero pressure tube flat free |  |  |  |  |
K0065 | A | Spoke protectors |  |  |  |  |
K0066 | A | Solid tire any size each |  |  |  |  |
K0067 | A | Pneumatic tire any size each |  |  |  |  |
K0068 | A | Pneumatic tire tube each |  |  |  |  |
K0069 | A | Rear whl complete solid tire |  |  |  |  |
K0070 | A | Rear whl compl pneum tire |  |  |  |  |
K0071 | A | Front castr compl pneum tire |  |  |  |  |
K0072 | A | Frnt cstr cmpl sem-pneum tir |  |  |  |  |
K0073 | A | Caster pin lock each |  |  |  |  |
K0074 | A | Pneumatic caster tire each |  |  |  |  |
K0075 | A | Semi-pneumatic caster tire |  |  |  |  |
K0076 | A | Solid caster tire each |  |  |  |  |
K0077 | A | Front caster assem complete |  |  |  |  |
K0078 | A | Pneumatic caster tire tube |  |  |  |  |
K0079 | A | Wheel lock extension pair |  |  |  |  |
K0080 | A | Anti-rollback device pair |  |  |  |  |
K0081 | A | Wheel lock assembly complete |  |  |  |  |
K0082 | A | 22 nf deep cycl acid battery |  |  |  |  |
K0083 | A | 22 nf gel cell battery each |  |  |  |  |
K0084 | A | Grp 24 deep cycl acid battry |  |  |  |  |
K0085 | A | Group 24 gel cell battery |  |  |  |  |
K0086 | A | U-1 lead acid battery each |  |  |  |  |
K0087 | A | U-1 gel cell battery each |  |  |  |  |
K0088 | A | Battry chrgr acid/gel cell |  |  |  |  |
K0089 | A | Battery charger dual mode |  |  |  |  |
K0090 | A | Rear tire power wheelchair |  |  |  |  |
K0091 | A | Rear tire tube power whlchr |  |  |  |  |
K0092 | A | Rear assem cmplt powr whlchr |  |  |  |  |
K0093 | A | Rear zero pressure tire tube |  |  |  |  |
K0094 | A | Wheel tire for power base |  |  |  |  |
K0095 | A | Wheel tire tube each base |  |  |  |  |
K0096 | A | Wheel assem powr base complt |  |  |  |  |
K0097 | A | Wheel zero presure tire tube |  |  |  |  |
K0098 | A | Drive belt power wheelchair |  |  |  |  |
K0099 | A | Pwr wheelchair front caster |  |  |  |  |
K0100 | A | Amputee adapter pair |  |  |  |  |
K0101 | A | One-arm drive attachment |  |  |  |  |
K0102 | A | Crutch and cane holder |  |  |  |  |
K0103 | A | Transfer board < 25″ |  |  |  |  |
K0104 | A | Cylinder tank carrier |  |  |  |  |
K0105 | A | Iv hanger |  |  |  |  |
K0106 | A | Arm trough each |  |  |  |  |
K0107 | A | Wheelchair tray |  |  |  |  |
K0108 | A | W/c component-accessory NOS |  |  |  |  |
K0112 | A | Trunk vest supprt innr frame |  |  |  |  |
K0113 | A | Trunk vest suprt w/o inr frm |  |  |  |  |
K0114 | A | Whlchr back suprt inr frame |  |  |  |  |
K0115 | A | Back module orthotic system |  |  |  |  |
K0116 | A | Back & seat modul orthot sys |  |  |  |  |
K0182D | A | Water distilled w/ nebulizer |  |  |  |  |
K0183 | A | Nasal application device |  |  |  |  |
K0184 | A | Nasal pillows/seals pair |  |  |  |  |
K0185 | A | Pos airway pressure headgear |  |  |  |  |
K0186 | A | Pos airway prssure chinstrap |  |  |  |  |
K0187 | A | Pos airway pressure tubing |  |  |  |  |
K0188 | A | Pos airway pressure filter |  |  |  |  |
K0189 | A | Filter nondisposable w PAP |  |  |  |  |
K0195 | A | Elevating whlchair leg rests |  |  |  |  |
K0268 | A | Humidifier nonheated w PAP |  |  |  |  |
K0269D | A | Aerosol compressor cpap dev |  |  |  |  |
K0270D | A | Ultrasonic generator w nebul |  |  |  |  |
K0280D | A | Extension drainage tubing |  |  |  |  |
K0281D | A | Lubricant catheter insertion |  |  |  |  |
K0283D | A | Saline solution dispenser |  |  |  |  |
K0407D | A | Urinary cath skin attachment |  |  |  |  |
K0408D | A | Urinary cath leg strap |  |  |  |  |
K0409D | A | Sterile H2O irrigation solut |  |  |  |  |
K0410D | A | Male ext cath w/adh coating |  |  |  |  |
K0411D | A | Male ext cath w/adh strip |  |  |  |  |
K0415 | E | RX antiemetic drg, oral NOS |  |  |  |  |
K0416 | E | Rx antiemetic drg,rectal NOS |  |  |  |  |
K0440D | A | Nasal prosthesis |  |  |  |  |
K0441D | A | Midfacial prosthesis |  |  |  |  |
K0442D | A | Orbital prosthesis |  |  |  |  |
K0443D | A | Upper facial prosthesis |  |  |  |  |
K0444D | A | Hemi-facial prosthesis |  |  |  |  |
K0445D | A | Auricular prosthesis |  |  |  |  |
K0446D | A | Partial facial prosthesis |  |  |  |  |
K0447D | A | Nasal septal prosthesis |  |  |  |  |
K0448D | A | Unspec maxillofacial prosth |  |  |  |  |
K0449D | A | Repair maxillofacial prosth |  |  |  |  |
K0450D | A | Liq adhes for facial prosth |  |  |  |  |
K0451D | A | Adhesive remover wipes |  |  |  |  |
K0452 | A | Wheelchair bearings |  |  |  |  |
K0455 | A | Pump uninterrupted infusion |  |  |  |  |
K0456D | A | Heavyduty/xtra wide hosp bed |  |  |  |  |
K0457D | A | Heavyduty/wide commode chair |  |  |  |  |
K0458D | A | Heavyduty walker no wheels |  |  |  |  |
K0459D | A | Heavy duty wheeled walker |  |  |  |  |
K0460 | A | WC power add-on joystick |  |  |  |  |
K0461 | A | WC power add-on tiller cntrl |  |  |  |  |
K0462 | A | Temporary replacement eqpmnt |  |  |  |  |
K0501D | A | Aerosol compressor for svneb |  |  |  |  |
K0529D | A | Sterile H20 or nss w lv neb |  |  |  |  |
K0531 | A | Heated humidifier used w pap |  |  |  |  |
K0532 | A | Noninvasive assist wo backup |  |  |  |  |
K0533 | A | Noninvasive assist w backup |  |  |  |  |
K0534 | A | Invasive assist w backup |  |  |  |  |
K0535D | A | Gauze, impregnated hydrogel |  |  |  |  |
K0536D | A | Gauze, impregnated hydrogel |  |  |  |  |
K0537D | A | Gauze, impregnated hydrogel |  |  |  |  |
K0541 | A | Speech generating device |  |  |  |  |
K0542 | A | Speech generating device |  |  |  |  |
K0543 | A | Speech generating device |  |  |  |  |
K0544 | A | Speech generating device |  |  |  |  |
K0545 | A | Speech generating software |  |  |  |  |
K0546 | A | Accessory for sgd,mntng syst |  |  |  |  |
K0547 | A | Accessory for sgd,not clasfd |  |  |  |  |
L0100 | A | Cerv craniosten helmet mold |  |  |  |  |
L0110 | A | Cerv craniostenosis hel non- |  |  |  |  |
L0120 | A | Cerv flexible non-adjustable |  |  |  |  |
L0130 | A | Flex thermoplastic collar mo |  |  |  |  |
L0140 | A | Cervical semi-rigid adjustab |  |  |  |  |
L0150 | A | Cerv semi-rig adj molded chn |  |  |  |  |
L0160 | A | Cerv semi-rig wire occ/mand |  |  |  |  |
L0170 | A | Cervical collar molded to pt |  |  |  |  |
L0172 | A | Cerv col thermplas foam 2 pi |  |  |  |  |
L0174 | A | Cerv col foam 2 piece w thor |  |  |  |  |
L0180 | A | Cer post col occ/man sup adj |  |  |  |  |
L0190 | A | Cerv collar supp adj cerv ba |  |  |  |  |
L0200 | A | Cerv col supp adj bar & thor |  |  |  |  |
L0210 | A | Thoracic rib belt |  |  |  |  |
L0220 | A | Thor rib belt custom fabrica |  |  |  |  |
L0300 | A | TLSO flex surgical support |  |  |  |  |
L0310 | A | Tlso flexible custom fabrica |  |  |  |  |
L0315 | A | Tlso flex elas rigid post pa |  |  |  |  |
L0317 | A | Tlso flex hypext elas post p |  |  |  |  |
L0320 | A | Tlso a-p contrl w apron frnt |  |  |  |  |
L0330 | A | Tlso ant-pos-lateral control |  |  |  |  |
L0340 | A | Tlso a-p-l-rotary with apron |  |  |  |  |
L0350 | A | Tlso flex compress jacket cu |  |  |  |  |
L0360 | A | Tlso flex compress jacket mo |  |  |  |  |
L0370 | A | Tlso a-p-l-rotary hyperexten |  |  |  |  |
L0380 | A | Tlso a-p-l-rot w/ pos extens |  |  |  |  |
L0390 | A | Tlso a-p-l control molded |  |  |  |  |
L0400 | A | Tlso a-p-l w interface mater |  |  |  |  |
L0410 | A | Tlso a-p-l two piece constr |  |  |  |  |
L0420 | A | Tlso a-p-l 2 piece w interfa |  |  |  |  |
L0430 | A | Tlso a-p-l w interface custm |  |  |  |  |
L0440 | A | Tlso a-p-l overlap frnt cust |  |  |  |  |
L0500 | A | Lso flex surgical support |  |  |  |  |
L0510 | A | Lso flexible custom fabricat |  |  |  |  |
L0515 | A | Lso flex elas w/ rig post pa |  |  |  |  |
L0520 | A | Lso a-p-l control with apron |  |  |  |  |
L0530 | A | Lso ant-pos control w apron |  |  |  |  |
L0540 | A | Lso lumbar flexion a-p-l |  |  |  |  |
L0550 | A | Lso a-p-l control molded |  |  |  |  |
L0560 | A | Lso a-p-l w interface |  |  |  |  |
L0565 | A | Lso a-p-l control custom |  |  |  |  |
L0600 | A | Sacroiliac flex surg support |  |  |  |  |
L0610 | A | Sacroiliac flexible custm fa |  |  |  |  |
L0620 | A | Sacroiliac semi-rig w apron |  |  |  |  |
L0700 | A | Ctlso a-p-l control molded |  |  |  |  |
L0710 | A | Ctlso a-p-l control w/ inter |  |  |  |  |
L0810 | A | Halo cervical into jckt vest |  |  |  |  |
L0820 | A | Halo cervical into body jack |  |  |  |  |
L0830 | A | Halo cerv into milwaukee typ |  |  |  |  |
L0860 | A | Magnetic resonanc image comp |  |  |  |  |
L0900 | A | Torso/ptosis support |  |  |  |  |
L0910 | A | Torso & ptosis supp custm fa |  |  |  |  |
L0920 | A | Torso/pendulous abd support |  |  |  |  |
L0930 | A | Pendulous abdomen supp custm |  |  |  |  |
L0940 | A | Torso/postsurgical support |  |  |  |  |
L0950 | A | Post surg support custom fab |  |  |  |  |
L0960 | A | Post surgical support pads |  |  |  |  |
L0970 | A | Tlso corset front |  |  |  |  |
L0972 | A | Lso corset front |  |  |  |  |
L0974 | A | Tlso full corset |  |  |  |  |
L0976 | A | Lso full corset |  |  |  |  |
L0978 | A | Axillary crutch extension |  |  |  |  |
L0980 | A | Peroneal straps pair |  |  |  |  |
L0982 | A | Stocking supp grips set of f |  |  |  |  |
L0984 | A | Protective body sock each |  |  |  |  |
L0999 | A | Add to spinal orthosis NOS |  |  |  |  |
L1000 | A | Ctlso milwauke initial model |  |  |  |  |
L1010 | A | Ctlso axilla sling |  |  |  |  |
L1020 | A | Kyphosis pad |  |  |  |  |
L1025 | A | Kyphosis pad floating |  |  |  |  |
L1030 | A | Lumbar bolster pad |  |  |  |  |
L1040 | A | Lumbar or lumbar rib pad |  |  |  |  |
L1050 | A | Sternal pad |  |  |  |  |
L1060 | A | Thoracic pad |  |  |  |  |
L1070 | A | Trapezius sling |  |  |  |  |
L1080 | A | Outrigger |  |  |  |  |
L1085 | A | Outrigger bil w/ vert extens |  |  |  |  |
L1090 | A | Lumbar sling |  |  |  |  |
L1100 | A | Ring flange plastic/leather |  |  |  |  |
L1110 | A | Ring flange plas/leather mol |  |  |  |  |
L1120 | A | Covers for upright each |  |  |  |  |
L1200 | A | Furnsh initial orthosis only |  |  |  |  |
L1210 | A | Lateral thoracic extension |  |  |  |  |
L1220 | A | Anterior thoracic extension |  |  |  |  |
L1230 | A | Milwaukee type superstructur |  |  |  |  |
L1240 | A | Lumbar derotation pad |  |  |  |  |
L1250 | A | Anterior asis pad |  |  |  |  |
L1260 | A | Anterior thoracic derotation |  |  |  |  |
L1270 | A | Abdominal pad |  |  |  |  |
L1280 | A | Rib gusset (elastic) each |  |  |  |  |
L1290 | A | Lateral trochanteric pad |  |  |  |  |
L1300 | A | Body jacket mold to patient |  |  |  |  |
L1310 | A | Post-operative body jacket |  |  |  |  |
L1499 | A | Spinal orthosis NOS |  |  |  |  |
L1500 | A | Thkao mobility frame |  |  |  |  |
L1510 | A | Thkao standing frame |  |  |  |  |
L1520 | A | Thkao swivel walker |  |  |  |  |
L1600 | A | Abduct hip flex frejka w cvr |  |  |  |  |
L1610 | A | Abduct hip flex frejka covr |  |  |  |  |
L1620 | A | Abduct hip flex pavlik harne |  |  |  |  |
L1630 | A | Abduct control hip semi-flex |  |  |  |  |
L1640 | A | Pelv band/spread bar thigh c |  |  |  |  |
L1650 | A | HO abduction hip adjustable |  |  |  |  |
L1660 | A | HO abduction static plastic |  |  |  |  |
L1680 | A | Pelvic & hip control thigh c |  |  |  |  |
L1685 | A | Post-op hip abduct custom fa |  |  |  |  |
L1686 | A | HO post-op hip abduction |  |  |  |  |
L1690 | A | Combination bilateral HO |  |  |  |  |
L1700 | A | Leg perthes orth toronto typ |  |  |  |  |
L1710 | A | Legg perthes orth newington |  |  |  |  |
L1720 | A | Legg perthes orthosis trilat |  |  |  |  |
L1730 | A | Legg perthes orth scottish r |  |  |  |  |
L1750 | A | Legg perthes sling |  |  |  |  |
L1755 | A | Legg perthes patten bottom t |  |  |  |  |
L1800 | A | Knee orthoses elas w stays |  |  |  |  |
L1810 | A | Ko elastic with joints |  |  |  |  |
L1815 | A | Elastic with condylar pads |  |  |  |  |
L1820 | A | Ko elas w/ condyle pads & jo |  |  |  |  |
L1825 | A | Ko elastic knee cap |  |  |  |  |
L1830 | A | Ko immobilizer canvas longit |  |  |  |  |
L1832 | A | KO adj jnt pos rigid support |  |  |  |  |
L1834 | A | Ko w/0 joint rigid molded to |  |  |  |  |
L1840 | A | Ko derot ant cruciate custom |  |  |  |  |
L1843 | A | KO single upright custom fit |  |  |  |  |
L1844 | A | Ko w/adj jt rot cntrl molded |  |  |  |  |
L1845 | A | Ko w/ adj flex/ext rotat cus |  |  |  |  |
L1846 | A | Ko w adj flex/ext rotat mold |  |  |  |  |
L1847 | A | KO adjustable w air chambers |  |  |  |  |
L1850 | A | Ko swedish type |  |  |  |  |
L1855 | A | Ko plas doub upright jnt mol |  |  |  |  |
L1858 | A | Ko polycentric pneumatic pad |  |  |  |  |
L1860 | A | Ko supracondylar socket mold |  |  |  |  |
L1870 | A | Ko doub upright lacers molde |  |  |  |  |
L1880 | A | Ko doub upright cuffs/lacers |  |  |  |  |
L1885 | A | Knee upright w/resistance |  |  |  |  |
L1900 | A | Afo sprng wir drsflx calf bd |  |  |  |  |
L1902 | A | Afo ankle gauntlet |  |  |  |  |
L1904 | A | Afo molded ankle gauntlet |  |  |  |  |
L1906 | A | Afo multiligamentus ankle su |  |  |  |  |
L1910 | A | Afo sing bar clasp attach sh |  |  |  |  |
L1920 | A | Afo sing upright w/ adjust s |  |  |  |  |
L1930 | A | Afo plastic |  |  |  |  |
L1940 | A | Afo molded to patient plasti |  |  |  |  |
L1945 | A | Afo molded plas rig ant tib |  |  |  |  |
L1950 | A | Afo spiral molded to pt plas |  |  |  |  |
L1960 | A | Afo pos solid ank plastic mo |  |  |  |  |
L1970 | A | Afo plastic molded w/ankle j |  |  |  |  |
L1980 | A | Afo sing solid stirrup calf |  |  |  |  |
L1990 | A | Afo doub solid stirrup calf |  |  |  |  |
L2000 | A | Kafo sing fre stirr thi/calf |  |  |  |  |
L2010 | A | Kafo sng solid stirrup w/o j |  |  |  |  |
L2020 | A | Kafo dbl solid stirrup band/ |  |  |  |  |
L2030 | A | Kafo dbl solid stirrup w/o j |  |  |  |  |
L2035 | A | KAFO plastic pediatric size |  |  |  |  |
L2036 | A | Kafo plas doub free knee mol |  |  |  |  |
L2037 | A | Kafo plas sing free knee mol |  |  |  |  |
L2038 | A | Kafo w/o joint multi-axis an |  |  |  |  |
L2039 | A | KAFO,plstic,medlat rotat con |  |  |  |  |
L2040 | A | Hkafo torsion bil rot straps |  |  |  |  |
L2050 | A | Hkafo torsion cable hip pelv |  |  |  |  |
L2060 | A | Hkafo torsion ball bearing j |  |  |  |  |
L2070 | A | Hkafo torsion unilat rot str |  |  |  |  |
L2080 | A | Hkafo unilat torsion cable |  |  |  |  |
L2090 | A | Hkafo unilat torsion ball br |  |  |  |  |
L2102 | A | Afo tibial fx cast plstr mol |  |  |  |  |
L2104 | A | Afo tib fx cast synthetic mo |  |  |  |  |
L2106 | A | Afo tib fx cast plaster mold |  |  |  |  |
L2108 | A | Afo tib fx cast molded to pt |  |  |  |  |
L2112 | A | Afo tibial fracture soft |  |  |  |  |
L2114 | A | Afo tib fx semi-rigid |  |  |  |  |
L2116 | A | Afo tibial fracture rigid |  |  |  |  |
L2122 | A | Kafo fem fx cast plaster mol |  |  |  |  |
L2124 | A | Kafo fem fx cast synthet mol |  |  |  |  |
L2126 | A | Kafo fem fx cast thermoplas |  |  |  |  |
L2128 | A | Kafo fem fx cast molded to p |  |  |  |  |
L2132 | A | Kafo femoral fx cast soft |  |  |  |  |
L2134 | A | Kafo fem fx cast semi-rigid |  |  |  |  |
L2136 | A | Kafo femoral fx cast rigid |  |  |  |  |
L2180 | A | Plas shoe insert w ank joint |  |  |  |  |
L2182 | A | Drop lock knee |  |  |  |  |
L2184 | A | Limited motion knee joint |  |  |  |  |
L2186 | A | Adj motion knee jnt lerman t |  |  |  |  |
L2188 | A | Quadrilateral brim |  |  |  |  |
L2190 | A | Waist belt |  |  |  |  |
L2192 | A | Pelvic band & belt thigh fla |  |  |  |  |
L2200 | A | Limited ankle motion ea jnt |  |  |  |  |
L2210 | A | Dorsiflexion assist each joi |  |  |  |  |
L2220 | A | Dorsi & plantar flex ass/res |  |  |  |  |
L2230 | A | Split flat caliper stirr & p |  |  |  |  |
L2240 | A | Round caliper and plate atta |  |  |  |  |
L2250 | A | Foot plate molded stirrup at |  |  |  |  |
L2260 | A | Reinforced solid stirrup |  |  |  |  |
L2265 | A | Long tongue stirrup |  |  |  |  |
L2270 | A | Varus/valgus strap padded/li |  |  |  |  |
L2275 | A | Plastic mod low ext pad/line |  |  |  |  |
L2280 | A | Molded inner boot |  |  |  |  |
L2300 | A | Abduction bar jointed adjust |  |  |  |  |
L2310 | A | Abduction bar-straight |  |  |  |  |
L2320 | A | Non-molded lacer |  |  |  |  |
L2330 | A | Lacer molded to patient mode |  |  |  |  |
L2335 | A | Anterior swing band |  |  |  |  |
L2340 | A | Pre-tibial shell molded to p |  |  |  |  |
L2350 | A | Prosthetic type socket molde |  |  |  |  |
L2360 | A | Extended steel shank |  |  |  |  |
L2370 | A | Patten bottom |  |  |  |  |
L2375 | A | Torsion ank & half solid sti |  |  |  |  |
L2380 | A | Torsion straight knee joint |  |  |  |  |
L2385 | A | Straight knee joint heavy du |  |  |  |  |
L2390 | A | Offset knee joint each |  |  |  |  |
L2395 | A | Offset knee joint heavy duty |  |  |  |  |
L2397 | A | Suspension sleeve lower ext |  |  |  |  |
L2405 | A | Knee joint drop lock ea jnt |  |  |  |  |
L2415 | A | Knee joint cam lock each joi |  |  |  |  |
L2425 | A | Knee disc/dial lock/adj flex |  |  |  |  |
L2430 | A | Knee jnt ratchet lock ea jnt |  |  |  |  |
L2435 | A | Knee joint polycentric joint |  |  |  |  |
L2492 | A | Knee lift loop drop lock rin |  |  |  |  |
L2500 | A | Thi/glut/ischia wgt bearing |  |  |  |  |
L2510 | A | Th/wght bear quad-lat brim m |  |  |  |  |
L2520 | A | Th/wght bear quad-lat brim c |  |  |  |  |
L2525 | A | Th/wght bear nar m-l brim mo |  |  |  |  |
L2526 | A | Th/wght bear nar m-l brim cu |  |  |  |  |
L2530 | A | Thigh/wght bear lacer non-mo |  |  |  |  |
L2540 | A | Thigh/wght bear lacer molded |  |  |  |  |
L2550 | A | Thigh/wght bear high roll cu |  |  |  |  |
L2570 | A | Hip clevis type 2 posit jnt |  |  |  |  |
L2580 | A | Pelvic control pelvic sling |  |  |  |  |
L2600 | A | Hip clevis/thrust bearing fr |  |  |  |  |
L2610 | A | Hip clevis/thrust bearing lo |  |  |  |  |
L2620 | A | Pelvic control hip heavy dut |  |  |  |  |
L2622 | A | Hip joint adjustable flexion |  |  |  |  |
L2624 | A | Hip adj flex ext abduct cont |  |  |  |  |
L2627 | A | Plastic mold recipro hip & c |  |  |  |  |
L2628 | A | Metal frame recipro hip & ca |  |  |  |  |
L2630 | A | Pelvic control band & belt u |  |  |  |  |
L2640 | A | Pelvic control band & belt b |  |  |  |  |
L2650 | A | Pelv & thor control gluteal |  |  |  |  |
L2660 | A | Thoracic control thoracic ba |  |  |  |  |
L2670 | A | Thorac cont paraspinal uprig |  |  |  |  |
L2680 | A | Thorac cont lat support upri |  |  |  |  |
L2750 | A | Plating chrome/nickel pr bar |  |  |  |  |
L2755 | A | Carbon graphite lamination |  |  |  |  |
L2760 | A | Extension per extension per |  |  |  |  |
L2770 | A | Low ext orthosis per bar/jnt |  |  |  |  |
L2780 | A | Non-corrosive finish |  |  |  |  |
L2785 | A | Drop lock retainer each |  |  |  |  |
L2795 | A | Knee control full kneecap |  |  |  |  |
L2800 | A | Knee cap medial or lateral p |  |  |  |  |
L2810 | A | Knee control condylar pad |  |  |  |  |
L2820 | A | Soft interface below knee se |  |  |  |  |
L2830 | A | Soft interface above knee se |  |  |  |  |
L2840 | A | Tibial length sock fx or equ |  |  |  |  |
L2850 | A | Femoral lgth sock fx or equa |  |  |  |  |
L2860 | A | Torsion mechanism knee/ankle |  |  |  |  |
L2999 | A | Lower extremity orthosis NOS |  |  |  |  |
L3000 | E | Ft insert ucb berkeley shell |  |  |  |  |
L3001 | E | Foot insert remov molded spe |  |  |  |  |
L3002 | E | Foot insert plastazote or eq |  |  |  |  |
L3003 | E | Foot insert silicone gel eac |  |  |  |  |
L3010 | E | Foot longitudinal arch suppo |  |  |  |  |
L3020 | E | Foot longitud/metatarsal sup |  |  |  |  |
L3030 | E | Foot arch support remov prem |  |  |  |  |
L3040 | E | Ft arch suprt premold longit |  |  |  |  |
L3050 | E | Foot arch supp premold metat |  |  |  |  |
L3060 | E | Foot arch supp longitud/meta |  |  |  |  |
L3070 | E | Arch suprt att to sho longit |  |  |  |  |
L3080 | E | Arch supp att to shoe metata |  |  |  |  |
L3090 | E | Arch supp att to shoe long/m |  |  |  |  |
L3100 | E | Hallus-valgus nght dynamic s |  |  |  |  |
L3140 | E | Abduction rotation bar shoe |  |  |  |  |
L3150 | E | Abduct rotation bar w/o shoe |  |  |  |  |
L3160 | E | Shoe styled positioning dev |  |  |  |  |
L3170 | E | Foot plastic heel stabilizer |  |  |  |  |
L3201 | E | Oxford w supinat/pronat inf |  |  |  |  |
L3202 | E | Oxford w/ supinat/pronator c |  |  |  |  |
L3203 | E | Oxford w/ supinator/pronator |  |  |  |  |
L3204 | E | Hightop w/ supp/pronator inf |  |  |  |  |
L3206 | E | Hightop w/ supp/pronator chi |  |  |  |  |
L3207 | E | Hightop w/ supp/pronator jun |  |  |  |  |
L3208 | E | Surgical boot each infant |  |  |  |  |
L3209 | E | Surgical boot each child |  |  |  |  |
L3211 | E | Surgical boot each junior |  |  |  |  |
L3212 | E | Benesch boot pair infant |  |  |  |  |
L3213 | E | Benesch boot pair child |  |  |  |  |
L3214 | E | Benesch boot pair junior |  |  |  |  |
L3215 | E | Orthopedic ftwear ladies oxf |  |  |  |  |
L3216 | E | Orthoped ladies shoes dpth i |  |  |  |  |
L3217 | E | Ladies shoes hightop depth i |  |  |  |  |
L3218 | E | Ladies surgical boot each |  |  |  |  |
L3219 | E | Orthopedic mens shoes oxford |  |  |  |  |
L3221 | E | Orthopedic mens shoes dpth i |  |  |  |  |
L3222 | E | Mens shoes hightop depth inl |  |  |  |  |
L3223 | E | Mens surgical boot each |  |  |  |  |
L3224 | A | Woman's shoe oxford brace |  |  |  |  |
L3225 | A | Man's shoe oxford brace |  |  |  |  |
L3230 | E | Custom shoes depth inlay |  |  |  |  |
L3250 | E | Custom mold shoe remov prost |  |  |  |  |
L3251 | E | Shoe molded to pt silicone s |  |  |  |  |
L3252 | E | Shoe molded plastazote cust |  |  |  |  |
L3253 | E | Shoe molded plastazote cust |  |  |  |  |
L3254 | E | Orth foot non-stndard size/w |  |  |  |  |
L3255 | E | Orth foot non-standard size/ |  |  |  |  |
L3257 | E | Orth foot add charge split s |  |  |  |  |
L3260 | E | Ambulatory surgical boot eac |  |  |  |  |
L3265 | E | Plastazote sandal each |  |  |  |  |
L3300 | E | Sho lift taper to metatarsal |  |  |  |  |
L3310 | E | Shoe lift elev heel/sole neo |  |  |  |  |
L3320 | E | Shoe lift elev heel/sole cor |  |  |  |  |
L3330 | E | Lifts elevation metal extens |  |  |  |  |
L3332 | E | Shoe lifts tapered to one-ha |  |  |  |  |
L3334 | E | Shoe lifts elevation heel /i |  |  |  |  |
L3340 | E | Shoe wedge sach |  |  |  |  |
L3350 | E | Shoe heel wedge |  |  |  |  |
L3360 | E | Shoe sole wedge outside sole |  |  |  |  |
L3370 | E | Shoe sole wedge between sole |  |  |  |  |
L3380 | E | Shoe clubfoot wedge |  |  |  |  |
L3390 | E | Shoe outflare wedge |  |  |  |  |
L3400 | E | Shoe metatarsal bar wedge ro |  |  |  |  |
L3410 | E | Shoe metatarsal bar between |  |  |  |  |
L3420 | E | Full sole/heel wedge btween |  |  |  |  |
L3430 | E | Sho heel count plast reinfor |  |  |  |  |
L3440 | E | Heel leather reinforced |  |  |  |  |
L3450 | E | Shoe heel sach cushion type |  |  |  |  |
L3455 | E | Shoe heel new leather standa |  |  |  |  |
L3460 | E | Shoe heel new rubber standar |  |  |  |  |
L3465 | E | Shoe heel thomas with wedge |  |  |  |  |
L3470 | E | Shoe heel thomas extend to b |  |  |  |  |
L3480 | E | Shoe heel pad & depress for |  |  |  |  |
L3485 | E | Shoe heel pad removable for |  |  |  |  |
L3500 | E | Ortho shoe add leather insol |  |  |  |  |
L3510 | E | Orthopedic shoe add rub insl |  |  |  |  |
L3520 | E | O shoe add felt w leath insl |  |  |  |  |
L3530 | E | Ortho shoe add half sole |  |  |  |  |
L3540 | E | Ortho shoe add full sole |  |  |  |  |
L3550 | E | O shoe add standard toe tap |  |  |  |  |
L3560 | E | O shoe add horseshoe toe tap |  |  |  |  |
L3570 | E | O shoe add instep extension |  |  |  |  |
L3580 | E | O shoe add instep velcro clo |  |  |  |  |
L3590 | E | O shoe convert to sof counte |  |  |  |  |
L3595 | E | Ortho shoe add march bar |  |  |  |  |
L3600 | E | Trans shoe calip plate exist |  |  |  |  |
L3610 | E | Trans shoe caliper plate new |  |  |  |  |
L3620 | E | Trans shoe solid stirrup exi |  |  |  |  |
L3630 | E | Trans shoe solid stirrup new |  |  |  |  |
L3640 | E | Shoe dennis browne splint bo |  |  |  |  |
L3649 | E | Orthopedic shoe modifica NOS |  |  |  |  |
L3650 | A | Shlder fig 8 abduct restrain |  |  |  |  |
L3660 | A | Abduct restrainer canvas&web |  |  |  |  |
L3670 | A | Acromio/clavicular canvas&we |  |  |  |  |
L3675 | A | Canvas vest SO |  |  |  |  |
L3700 | A | Elbow orthoses elas w stays |  |  |  |  |
L3710 | A | Elbow elastic with metal joi |  |  |  |  |
L3720 | A | Forearm/arm cuffs free motio |  |  |  |  |
L3730 | A | Forearm/arm cuffs ext/flex a |  |  |  |  |
L3740 | A | Cuffs adj lock w/ active con |  |  |  |  |
L3760 | A | EO withjoint, Prefabricated |  |  |  |  |
L3800 | A | Whfo short opponen no attach |  |  |  |  |
L3805 | A | Whfo long opponens no attach |  |  |  |  |
L3807 | A | Whfo w inflatable airchamber |  |  |  |  |
L3810 | A | Whfo thumb abduction bar |  |  |  |  |
L3815 | A | Whfo second m.p. abduction a |  |  |  |  |
L3820 | A | Whfo ip ext asst w/ mp ext s |  |  |  |  |
L3825 | A | Whfo m.p. extension stop |  |  |  |  |
L3830 | A | Whfo m.p. extension assist |  |  |  |  |
L3835 | A | Whfo m.p. spring extension a |  |  |  |  |
L3840 | A | Whfo spring swivel thumb |  |  |  |  |
L3845 | A | Whfo thumb ip ext ass w/ mp |  |  |  |  |
L3850 | A | Action wrist w/ dorsiflex as |  |  |  |  |
L3855 | A | Whfo adj m.p. flexion contro |  |  |  |  |
L3860 | A | Whfo adj m.p. flex ctrl & i. |  |  |  |  |
L3890 | E | Torsion mechanism wrist/elbo |  |  |  |  |
L3900 | A | Hinge extension/flex wrist/f |  |  |  |  |
L3901 | A | Hinge ext/flex wrist finger |  |  |  |  |
L3902 | A | Whfo ext power compress gas |  |  |  |  |
L3904 | A | Whfo electric custom fitted |  |  |  |  |
L3906 | A | Wrist gauntlet molded to pt |  |  |  |  |
L3907 | A | Whfo wrst gauntlt thmb spica |  |  |  |  |
L3908 | A | Wrist cock-up non-molded |  |  |  |  |
L3910 | A | Whfo swanson design |  |  |  |  |
L3912 | A | Flex glove w/elastic finger |  |  |  |  |
L3914 | A | WHO wrist extension cock-up |  |  |  |  |
L3916 | A | Whfo wrist extens w/ outrigg |  |  |  |  |
L3918 | A | HFO knuckle bender |  |  |  |  |
L3920 | A | Knuckle bender with outrigge |  |  |  |  |
L3922 | A | Knuckle bend 2 seg to flex j |  |  |  |  |
L3923 | A | HFO, no joint, prefabricated |  |  |  |  |
L3924 | A | Oppenheimer |  |  |  |  |
L3926 | A | Thomas suspension |  |  |  |  |
L3928 | A | Finger extension w/ clock sp |  |  |  |  |
L3930 | A | Finger extension with wrist |  |  |  |  |
L3932 | A | Safety pin spring wire |  |  |  |  |
L3934 | A | Safety pin modified |  |  |  |  |
L3936 | A | Palmer |  |  |  |  |
L3938 | A | Dorsal wrist |  |  |  |  |
L3940 | A | Dorsal wrist w/ outrigger at |  |  |  |  |
L3942 | A | Reverse knuckle bender |  |  |  |  |
L3944 | A | Reverse knuckle bend w/ outr |  |  |  |  |
L3946 | A | HFO composite elastic |  |  |  |  |
L3948 | A | Finger knuckle bender |  |  |  |  |
L3950 | A | Oppenheimer w/ knuckle bend |  |  |  |  |
L3952 | A | Oppenheimer w/ rev knuckle 2 |  |  |  |  |
L3954 | A | Spreading hand |  |  |  |  |
L3956 | A | Add joint upper ext orthosis |  |  |  |  |
L3960 | A | Sewho airplan desig abdu pos |  |  |  |  |
L3962 | A | Sewho erbs palsey design abd |  |  |  |  |
L3963 | A | Molded w/ articulating elbow |  |  |  |  |
L3964 | A | Seo mobile arm sup att to wc |  |  |  |  |
L3965 | A | Arm supp att to wc rancho ty |  |  |  |  |
L3966 | A | Mobile arm supports reclinin |  |  |  |  |
L3968 | A | Friction dampening arm supp |  |  |  |  |
L3969 | A | Monosuspension arm/hand supp |  |  |  |  |
L3970 | A | Elevat proximal arm support |  |  |  |  |
L3972 | A | Offset/lat rocker arm w/ ela |  |  |  |  |
L3974 | A | Mobile arm support supinator |  |  |  |  |
L3980 | A | Upp ext fx orthosis humeral |  |  |  |  |
L3982 | A | Upper ext fx orthosis rad/ul |  |  |  |  |
L3984 | A | Upper ext fx orthosis wrist |  |  |  |  |
L3985 | A | Forearm hand fx orth w/ wr h |  |  |  |  |
L3986 | A | Humeral rad/ulna wrist fx or |  |  |  |  |
L3995 | A | Sock fracture or equal each |  |  |  |  |
L3999 | A | Upper limb orthosis NOS |  |  |  |  |
L4000 | A | Repl girdle milwaukee orth |  |  |  |  |
L4010 | A | Replace trilateral socket br |  |  |  |  |
L4020 | A | Replace quadlat socket brim |  |  |  |  |
L4030 | A | Replace socket brim cust fit |  |  |  |  |
L4040 | A | Replace molded thigh lacer |  |  |  |  |
L4045 | A | Replace non-molded thigh lac |  |  |  |  |
L4050 | A | Replace molded calf lacer |  |  |  |  |
L4055 | A | Replace non-molded calf lace |  |  |  |  |
L4060 | A | Replace high roll cuff |  |  |  |  |
L4070 | A | Replace prox & dist upright |  |  |  |  |
L4080 | A | Repl met band kafo-afo prox |  |  |  |  |
L4090 | A | Repl met band kafo-afo calf/ |  |  |  |  |
L4100 | A | Repl leath cuff kafo prox th |  |  |  |  |
L4110 | A | Repl leath cuff kafo-afo cal |  |  |  |  |
L4130 | A | Replace pretibial shell |  |  |  |  |
L4205 | A | Ortho dvc repair per 15 min |  |  |  |  |
L4210 | A | Orth dev repair/repl minor p |  |  |  |  |
L4350 | A | Pneumatic ankle cntrl splint |  |  |  |  |
L4360 | A | Pneumatic walking splint |  |  |  |  |
L4370 | A | Pneumatic full leg splint |  |  |  |  |
L4380 | A | Pneumatic knee splint |  |  |  |  |
L4392 | A | Replace AFO soft interface |  |  |  |  |
L4394 | A | Replace foot drop spint |  |  |  |  |
L4396 | A | Static AFO |  |  |  |  |
L4398 | A | Foot drop splint recumbent |  |  |  |  |
L5000 | A | Sho insert w arch toe filler |  |  |  |  |
L5010 | A | Mold socket ank hgt w/ toe f |  |  |  |  |
L5020 | A | Tibial tubercle hgt w/ toe f |  |  |  |  |
L5050 | A | Ank symes mold sckt sach ft |  |  |  |  |
L5060 | A | Symes met fr leath socket ar |  |  |  |  |
L5100 | A | Molded socket shin sach foot |  |  |  |  |
L5105 | A | Plast socket jts/thgh lacer |  |  |  |  |
L5150 | A | Mold sckt ext knee shin sach |  |  |  |  |
L5160 | A | Mold socket bent knee shin s |  |  |  |  |
L5200 | A | Kne sing axis fric shin sach |  |  |  |  |
L5210 | A | No knee/ankle joints w/ ft b |  |  |  |  |
L5220 | A | No knee joint with artic ali |  |  |  |  |
L5230 | A | Fem focal defic constant fri |  |  |  |  |
L5250 | A | Hip canad sing axi cons fric |  |  |  |  |
L5270 | A | Tilt table locking hip sing |  |  |  |  |
L5280 | A | Hemipelvect canad sing axis |  |  |  |  |
L5300 | A | Bk sach soft cover & finish |  |  |  |  |
L5310 | A | Knee disart sach soft cv/fin |  |  |  |  |
L5320 | A | Ak open end sach soft cv/fin |  |  |  |  |
L5330 | A | Hip canadian sach sft cv/fin |  |  |  |  |
L5340 | A | Hemipelvectomy canad cv/fin |  |  |  |  |
L5400 | A | Postop dress & 1 cast chg bk |  |  |  |  |
L5410 | A | Postop dsg bk ea add cast ch |  |  |  |  |
L5420 | A | Postop dsg & 1 cast chg ak/d |  |  |  |  |
L5430 | A | Postop dsg ak ea add cast ch |  |  |  |  |
L5450 | A | Postop app non-wgt bear dsg |  |  |  |  |
L5460 | A | Postop app non-wgt bear dsg |  |  |  |  |
L5500 | A | Init bk ptb plaster direct |  |  |  |  |
L5505 | A | Init ak ischal plstr direct |  |  |  |  |
L5510 | A | Prep BK ptb plaster molded |  |  |  |  |
L5520 | A | Perp BK ptb thermopls direct |  |  |  |  |
L5530 | A | Prep BK ptb thermopls molded |  |  |  |  |
L5535 | A | Prep BK ptb open end socket |  |  |  |  |
L5540 | A | Prep BK ptb laminated socket |  |  |  |  |
L5560 | A | Prep AK ischial plast molded |  |  |  |  |
L5570 | A | Prep AK ischial direct form |  |  |  |  |
L5580 | A | Prep AK ischial thermo mold |  |  |  |  |
L5585 | A | Prep AK ischial open end |  |  |  |  |
L5590 | A | Prep AK ischial laminated |  |  |  |  |
L5595 | A | Hip disartic sach thermopls |  |  |  |  |
L5600 | A | Hip disart sach laminat mold |  |  |  |  |
L5610 | A | Above knee hydracadence |  |  |  |  |
L5611 | A | Ak 4 bar link w/fric swing |  |  |  |  |
L5613 | A | Ak 4 bar ling w/hydraul swig |  |  |  |  |
L5614 | A | 4-bar link above knee w/swng |  |  |  |  |
L5616 | A | Ak univ multiplex sys frict |  |  |  |  |
L5617 | A | AK/BK self-aligning unit ea |  |  |  |  |
L5618 | A | Test socket symes |  |  |  |  |
L5620 | A | Test socket below knee |  |  |  |  |
L5622 | A | Test socket knee disarticula |  |  |  |  |
L5624 | A | Test socket above knee |  |  |  |  |
L5626 | A | Test socket hip disarticulat |  |  |  |  |
L5628 | A | Test socket hemipelvectomy |  |  |  |  |
L5629 | A | Below knee acrylic socket |  |  |  |  |
L5630 | A | Syme typ expandabl wall sckt |  |  |  |  |
L5631 | A | Ak/knee disartic acrylic soc |  |  |  |  |
L5632 | A | Symes type ptb brim design s |  |  |  |  |
L5634 | A | Symes type poster opening so |  |  |  |  |
L5636 | A | Symes type medial opening so |  |  |  |  |
L5637 | A | Below knee total contact |  |  |  |  |
L5638 | A | Below knee leather socket |  |  |  |  |
L5639 | A | Below knee wood socket |  |  |  |  |
L5640 | A | Knee disarticulat leather so |  |  |  |  |
L5642 | A | Above knee leather socket |  |  |  |  |
L5643 | A | Hip flex inner socket ext fr |  |  |  |  |
L5644 | A | Above knee wood socket |  |  |  |  |
L5645 | A | Ak flexibl inner socket ext |  |  |  |  |
L5646 | A | Below knee air cushion socke |  |  |  |  |
L5647 | A | Below knee suction socket |  |  |  |  |
L5648 | A | Above knee air cushion socke |  |  |  |  |
L5649 | A | Isch containmt/narrow m-l so |  |  |  |  |
L5650 | A | Tot contact ak/knee disart s |  |  |  |  |
L5651 | A | Ak flex inner socket ext fra |  |  |  |  |
L5652 | A | Suction susp ak/knee disart |  |  |  |  |
L5653 | A | Knee disart expand wall sock |  |  |  |  |
L5654 | A | Socket insert symes |  |  |  |  |
L5655 | A | Socket insert below knee |  |  |  |  |
L5656 | A | Socket insert knee articulat |  |  |  |  |
L5658 | A | Socket insert above knee |  |  |  |  |
L5660 | A | Sock insrt syme silicone gel |  |  |  |  |
L5661 | A | Multi-durometer symes |  |  |  |  |
L5662 | A | Socket insert bk silicone ge |  |  |  |  |
L5663 | A | Sock knee disartic silicone |  |  |  |  |
L5664 | A | Socket insert ak silicone ge |  |  |  |  |
L5665 | A | Multi-durometer below knee |  |  |  |  |
L5666 | A | Below knee cuff suspension |  |  |  |  |
L5667 | A | Socket insert w lock lower |  |  |  |  |
L5668 | A | Socket insert w/o lock lower |  |  |  |  |
L5669 | A | Below knee socket w/o lock |  |  |  |  |
L5670 | A | Bk molded supracondylar susp |  |  |  |  |
L5672 | A | Bk removable medial brim sus |  |  |  |  |
L5674 | A | Bk latex sleeve suspension/e |  |  |  |  |
L5675 | A | Bk latex sleeve susp/eq hvy |  |  |  |  |
L5676 | A | Bk knee joints single axis p |  |  |  |  |
L5677 | A | Bk knee joints polycentric p |  |  |  |  |
L5678 | A | Bk joint covers pair |  |  |  |  |
L5680 | A | Bk thigh lacer non-molded |  |  |  |  |
L5682 | A | Bk thigh lacer glut/ischia m |  |  |  |  |
L5684 | A | Bk fork strap |  |  |  |  |
L5686 | A | Bk back check |  |  |  |  |
L5688 | A | Bk waist belt webbing |  |  |  |  |
L5690 | A | Bk waist belt padded and lin |  |  |  |  |
L5692 | A | Ak pelvic control belt light |  |  |  |  |
L5694 | A | Ak pelvic control belt pad/l |  |  |  |  |
L5695 | A | Ak sleeve susp neoprene/equa |  |  |  |  |
L5696 | A | Ak/knee disartic pelvic join |  |  |  |  |
L5697 | A | Ak/knee disartic pelvic band |  |  |  |  |
L5698 | A | Ak/knee disartic silesian ba |  |  |  |  |
L5699 | A | Shoulder harness |  |  |  |  |
L5700 | A | Replace socket below knee |  |  |  |  |
L5701 | A | Replace socket above knee |  |  |  |  |
L5702 | A | Replace socket hip |  |  |  |  |
L5704 | A | Custom shape covr below knee |  |  |  |  |
L5705 | A | Custm shape cover above knee |  |  |  |  |
L5706 | A | Custm shape cvr knee disart |  |  |  |  |
L5707 | A | Custm shape cover hip disart |  |  |  |  |
L5710 | A | Kne-shin exo sng axi mnl loc |  |  |  |  |
L5711 | A | Knee-shin exo mnl lock ultra |  |  |  |  |
L5712 | A | Knee-shin exo frict swg & st |  |  |  |  |
L5714 | A | Knee-shin exo variable frict |  |  |  |  |
L5716 | A | Knee-shin exo mech stance ph |  |  |  |  |
L5718 | A | Knee-shin exo frct swg & sta |  |  |  |  |
L5722 | A | Knee-shin pneum swg frct exo |  |  |  |  |
L5724 | A | Knee-shin exo fluid swing ph |  |  |  |  |
L5726 | A | Knee-shin ext jnts fld swg e |  |  |  |  |
L5728 | A | Knee-shin fluid swg & stance |  |  |  |  |
L5780 | A | Knee-shin pneum/hydra pneum |  |  |  |  |
L5785 | A | Exoskeletal bk ultralt mater |  |  |  |  |
L5790 | A | Exoskeletal ak ultra-light m |  |  |  |  |
L5795 | A | Exoskel hip ultra-light mate |  |  |  |  |
L5810 | A | Endoskel knee-shin mnl lock |  |  |  |  |
L5811 | A | Endo knee-shin mnl lck ultra |  |  |  |  |
L5812 | A | Endo knee-shin frct swg & st |  |  |  |  |
L5814 | A | Endo knee-shin hydral swg ph |  |  |  |  |
L5816 | A | Endo knee-shin polyc mch sta |  |  |  |  |
L5818 | A | Endo knee-shin frct swg & st |  |  |  |  |
L5822 | A | Endo knee-shin pneum swg frc |  |  |  |  |
L5824 | A | Endo knee-shin fluid swing p |  |  |  |  |
L5826 | A | Miniature knee joint |  |  |  |  |
L5828 | A | Endo knee-shin fluid swg/sta |  |  |  |  |
L5830 | A | Endo knee-shin pneum/swg pha |  |  |  |  |
L5840 | A | Multi-axial knee/shin system |  |  |  |  |
L5845 | A | Knee-shin sys stance flexion |  |  |  |  |
L5846 | A | Knee-shin sys microprocessor |  |  |  |  |
L5850 | A | Endo ak/hip knee extens assi |  |  |  |  |
L5855 | A | Mech hip extension assist |  |  |  |  |
L5910 | A | Endo below knee alignable sy |  |  |  |  |
L5920 | A | Endo ak/hip alignable system |  |  |  |  |
L5925 | A | Above knee manual lock |  |  |  |  |
L5930 | A | High activity knee frame |  |  |  |  |
L5940 | A | Endo bk ultra-light material |  |  |  |  |
L5950 | A | Endo ak ultra-light material |  |  |  |  |
L5960 | A | Endo hip ultra-light materia |  |  |  |  |
L5962 | A | Below knee flex cover system |  |  |  |  |
L5964 | A | Above knee flex cover system |  |  |  |  |
L5966 | A | Hip flexible cover system |  |  |  |  |
L5968 | A | Multiaxial ankle w dorsiflex |  |  |  |  |
L5970 | A | Foot external keel sach foot |  |  |  |  |
L5972 | A | Flexible keel foot |  |  |  |  |
L5974 | A | Foot single axis ankle/foot |  |  |  |  |
L5975 | A | Combo ankle/foot prosthesis |  |  |  |  |
L5976 | A | Energy storing foot |  |  |  |  |
L5978 | A | Ft prosth multiaxial ankl/ft |  |  |  |  |
L5979 | A | Multi-axial ankle/ft prosth |  |  |  |  |
L5980 | A | Flex foot system |  |  |  |  |
L5981 | A | Flex-walk sys low ext prosth |  |  |  |  |
L5982 | A | Exoskeletal axial rotation u |  |  |  |  |
L5984 | A | Endoskeletal axial rotation |  |  |  |  |
L5985 | A | Lwr ext dynamic prosth pylon |  |  |  |  |
L5986 | A | Multi-axial rotation unit |  |  |  |  |
L5987 | A | Shank ft w vert load pylon |  |  |  |  |
L5988 | A | Vertical shock reducing pylo |  |  |  |  |
L5999 | A | Lowr extremity prosthes NOS |  |  |  |  |
L6000 | A | Par hand robin-aids thum rem |  |  |  |  |
L6010 | A | Hand robin-aids little/ring |  |  |  |  |
L6020 | A | Part hand robin-aids no fing |  |  |  |  |
L6050 | A | Wrst MLd sck flx hng tri pad |  |  |  |  |
L6055 | A | Wrst mold sock w/exp interfa |  |  |  |  |
L6100 | A | Elb mold sock flex hinge pad |  |  |  |  |
L6110 | A | Elbow mold sock suspension t |  |  |  |  |
L6120 | A | Elbow mold doub splt soc ste |  |  |  |  |
L6130 | A | Elbow stump activated lock h |  |  |  |  |
L6200 | A | Elbow mold outsid lock hinge |  |  |  |  |
L6205 | A | Elbow molded w/ expand inter |  |  |  |  |
L6250 | A | Elbow inter loc elbow forarm |  |  |  |  |
L6300 | A | Shlder disart int lock elbow |  |  |  |  |
L6310 | A | Shoulder passive restor comp |  |  |  |  |
L6320 | A | Shoulder passive restor cap |  |  |  |  |
L6350 | A | Thoracic intern lock elbow |  |  |  |  |
L6360 | A | Thoracic passive restor comp |  |  |  |  |
L6370 | A | Thoracic passive restor cap |  |  |  |  |
L6380 | A | Postop dsg cast chg wrst/elb |  |  |  |  |
L6382 | A | Postop dsg cast chg elb dis/ |  |  |  |  |
L6384 | A | Postop dsg cast chg shlder/t |  |  |  |  |
L6386 | A | Postop ea cast chg & realign |  |  |  |  |
L6388 | A | Postop applicat rigid dsg on |  |  |  |  |
L6400 | A | Below elbow prosth tiss shap |  |  |  |  |
L6450 | A | Elb disart prosth tiss shap |  |  |  |  |
L6500 | A | Above elbow prosth tiss shap |  |  |  |  |
L6550 | A | Shldr disar prosth tiss shap |  |  |  |  |
L6570 | A | Scap thorac prosth tiss shap |  |  |  |  |
L6580 | A | Wrist/elbow bowden cable mol |  |  |  |  |
L6582 | A | Wrist/elbow bowden cbl dir f |  |  |  |  |
L6584 | A | Elbow fair lead cable molded |  |  |  |  |
L6586 | A | Elbow fair lead cable dir fo |  |  |  |  |
L6588 | A | Shdr fair lead cable molded |  |  |  |  |
L6590 | A | Shdr fair lead cable direct |  |  |  |  |
L6600 | A | Polycentric hinge pair |  |  |  |  |
L6605 | A | Single pivot hinge pair |  |  |  |  |
L6610 | A | Flexible metal hinge pair |  |  |  |  |
L6615 | A | Disconnect locking wrist uni |  |  |  |  |
L6616 | A | Disconnect insert locking wr |  |  |  |  |
L6620 | A | Flexion-friction wrist unit |  |  |  |  |
L6623 | A | Spring-ass rot wrst w/ latch |  |  |  |  |
L6625 | A | Rotation wrst w/ cable lock |  |  |  |  |
L6628 | A | Quick disconn hook adapter o |  |  |  |  |
L6629 | A | Lamination collar w/ couplin |  |  |  |  |
L6630 | A | Stainless steel any wrist |  |  |  |  |
L6632 | A | Latex suspension sleeve each |  |  |  |  |
L6635 | A | Lift assist for elbow |  |  |  |  |
L6637 | A | Nudge control elbow lock |  |  |  |  |
L6640 | A | Shoulder abduction joint pai |  |  |  |  |
L6641 | A | Excursion amplifier pulley t |  |  |  |  |
L6642 | A | Excursion amplifier lever ty |  |  |  |  |
L6645 | A | Shoulder flexion-abduction j |  |  |  |  |
L6650 | A | Shoulder universal joint |  |  |  |  |
L6655 | A | Standard control cable extra |  |  |  |  |
L6660 | A | Heavy duty control cable |  |  |  |  |
L6665 | A | Teflon or equal cable lining |  |  |  |  |
L6670 | A | Hook to hand cable adapter |  |  |  |  |
L6672 | A | Harness chest/shlder saddle |  |  |  |  |
L6675 | A | Harness figure of 8 sing con |  |  |  |  |
L6676 | A | Harness figure of 8 dual con |  |  |  |  |
L6680 | A | Test sock wrist disart/bel e |  |  |  |  |
L6682 | A | Test sock elbw disart/above |  |  |  |  |
L6684 | A | Test socket shldr disart/tho |  |  |  |  |
L6686 | A | Suction socket |  |  |  |  |
L6687 | A | Frame typ socket bel elbow/w |  |  |  |  |
L6688 | A | Frame typ sock above elb/dis |  |  |  |  |
L6689 | A | Frame typ socket shoulder di |  |  |  |  |
L6690 | A | Frame typ sock interscap-tho |  |  |  |  |
L6691 | A | Removable insert each |  |  |  |  |
L6692 | A | Silicone gel insert or equal |  |  |  |  |
L6693 | A | Lockingelbow forearm cntrbal |  |  |  |  |
L6700 | A | Terminal device model #3 |  |  |  |  |
L6705 | A | Terminal device model #5 |  |  |  |  |
L6710 | A | Terminal device model #5x |  |  |  |  |
L6715 | A | Terminal device model #5xa |  |  |  |  |
L6720 | A | Terminal device model #6 |  |  |  |  |
L6725 | A | Terminal device model #7 |  |  |  |  |
L6730 | A | Terminal device model #7lo |  |  |  |  |
L6735 | A | Terminal device model #8 |  |  |  |  |
L6740 | A | Terminal device model #8x |  |  |  |  |
L6745 | A | Terminal device model #88x |  |  |  |  |
L6750 | A | Terminal device model #10p |  |  |  |  |
L6755 | A | Terminal device model #10x |  |  |  |  |
L6765 | A | Terminal device model #12p |  |  |  |  |
L6770 | A | Terminal device model #99x |  |  |  |  |
L6775 | A | Terminal device model #555 |  |  |  |  |
L6780 | A | Terminal device model #ss555 |  |  |  |  |
L6790 | A | Hooks-accu hook or equal |  |  |  |  |
L6795 | A | Hooks-2 load or equal |  |  |  |  |
L6800 | A | Hooks-aprl vc or equal |  |  |  |  |
L6805 | A | Modifier wrist flexion unit |  |  |  |  |
L6806 | A | Trs grip vc or equal |  |  |  |  |
L6807 | A | Term device grip1/2 or equal |  |  |  |  |
L6808 | A | Term device infant or child |  |  |  |  |
L6809 | A | Trs super sport passive |  |  |  |  |
L6810 | A | Pincher tool otto bock or eq |  |  |  |  |
L6825 | A | Hands dorrance vo |  |  |  |  |
L6830 | A | Hand aprl vc |  |  |  |  |
L6835 | A | Hand sierra vo |  |  |  |  |
L6840 | A | Hand becker imperial |  |  |  |  |
L6845 | A | Hand becker lock grip |  |  |  |  |
L6850 | A | Term dvc-hand becker plylite |  |  |  |  |
L6855 | A | Hand robin-aids vo |  |  |  |  |
L6860 | A | Hand robin-aids vo soft |  |  |  |  |
L6865 | A | Hand passive hand |  |  |  |  |
L6867 | A | Hand detroit infant hand |  |  |  |  |
L6868 | A | Passive inf hand steeper/hos |  |  |  |  |
L6870 | A | Hand child mitt |  |  |  |  |
L6872 | A | Hand nyu child hand |  |  |  |  |
L6873 | A | Hand mech inf steeper or equ |  |  |  |  |
L6875 | A | Hand bock vc |  |  |  |  |
L6880 | A | Hand bock vo |  |  |  |  |
L6890 | A | Production glove |  |  |  |  |
L6895 | A | Custom glove |  |  |  |  |
L6900 | A | Hand restorat thumb/1 finger |  |  |  |  |
L6905 | A | Hand restoration multiple fi |  |  |  |  |
L6910 | A | Hand restoration no fingers |  |  |  |  |
L6915 | A | Hand restoration replacmnt g |  |  |  |  |
L6920 | A | Wrist disarticul switch ctrl |  |  |  |  |
L6925 | A | Wrist disart myoelectronic c |  |  |  |  |
L6930 | A | Below elbow switch control |  |  |  |  |
L6935 | A | Below elbow myoelectronic ct |  |  |  |  |
L6940 | A | Elbow disarticulation switch |  |  |  |  |
L6945 | A | Elbow disart myoelectronic c |  |  |  |  |
L6950 | A | Above elbow switch control |  |  |  |  |
L6955 | A | Above elbow myoelectronic ct |  |  |  |  |
L6960 | A | Shldr disartic switch contro |  |  |  |  |
L6965 | A | Shldr disartic myoelectronic |  |  |  |  |
L6970 | A | Interscapular-thor switch ct |  |  |  |  |
L6975 | A | Interscap-thor myoelectronic |  |  |  |  |
L7010 | A | Hand otto back steeper/eq sw |  |  |  |  |
L7015 | A | Hand sys teknik village swit |  |  |  |  |
L7020 | A | Electronic greifer switch ct |  |  |  |  |
L7025 | A | Electron hand myoelectronic |  |  |  |  |
L7030 | A | Hand sys teknik vill myoelec |  |  |  |  |
L7035 | A | Electron greifer myoelectro |  |  |  |  |
L7040 | A | Prehensile actuator hosmer s |  |  |  |  |
L7045 | A | Electron hook child michigan |  |  |  |  |
L7170 | A | Electronic elbow hosmer swit |  |  |  |  |
L7180 | A | Electronic elbow utah myoele |  |  |  |  |
L7185 | A | Electron elbow adolescent sw |  |  |  |  |
L7186 | A | Electron elbow child switch |  |  |  |  |
L7190 | A | Elbow adolescent myoelectron |  |  |  |  |
L7191 | A | Elbow child myoelectronic ct |  |  |  |  |
L7260 | A | Electron wrist rotator otto |  |  |  |  |
L7261 | A | Electron wrist rotator utah |  |  |  |  |
L7266 | A | Servo control steeper or equ |  |  |  |  |
L7272 | A | Analogue control unb or equa |  |  |  |  |
L7274 | A | Proportional ctl 12 volt uta |  |  |  |  |
L7360 | A | Six volt bat otto bock/eq ea |  |  |  |  |
L7362 | A | Battery chrgr six volt otto |  |  |  |  |
L7364 | A | Twelve volt battery utah/equ |  |  |  |  |
L7366 | A | Battery chrgr 12 volt utah/e |  |  |  |  |
L7499 | A | Upper extremity prosthes NOS |  |  |  |  |
L7500 | A | Prosthetic dvc repair hourly |  |  |  |  |
L7510 | A | Prosthetic device repair rep |  |  |  |  |
L7520 | A | Repair prosthesis per 15 min |  |  |  |  |
L7900 | A | Vacuum erection system |  |  |  |  |
L8000 | A | Mastectomy bra |  |  |  |  |
L8010 | A | Mastectomy sleeve |  |  |  |  |
L8015 | A | Ext breastprosthesis garment |  |  |  |  |
L8020 | A | Mastectomy form |  |  |  |  |
L8030 | A | Breast prosthesis silicone/e |  |  |  |  |
L8035 | A | Custom breast prosthesis |  |  |  |  |
L8039 | A | Breast prosthesis NOS |  |  |  |  |
L8040 | A | Nasal prosthesis |  |  |  |  |
L8041 | A | Midfacial prosthesis |  |  |  |  |
L8042 | A | Orbital prosthesis |  |  |  |  |
L8043 | A | Upper facial prosthesis |  |  |  |  |
L8044 | A | Hemi-facial prosthesis |  |  |  |  |
L8045 | A | Auricular prosthesis |  |  |  |  |
L8046 | A | Partial facial prosthesis |  |  |  |  |
L8047 | A | Nasal septal prosthesis |  |  |  |  |
L8048 | A | Unspec maxillofacial prosth |  |  |  |  |
L8049 | A | Repair maxillofacial prosth |  |  |  |  |
L8100 | E | Compression stocking BK18-30 |  |  |  |  |
L8110 | E | Compression stocking BK30-40 |  |  |  |  |
L8120 | E | Compression stocking BK40-50 |  |  |  |  |
L8130 | E | Gc stocking thighlngth 18-30 |  |  |  |  |
L8140 | E | Gc stocking thighlngth 30-40 |  |  |  |  |
L8150 | E | Gc stocking thighlngth 40-50 |  |  |  |  |
L8160 | E | Gc stocking full lngth 18-30 |  |  |  |  |
L8170 | E | Gc stocking full lngth 30-40 |  |  |  |  |
L8180 | E | Gc stocking full lngth 40-50 |  |  |  |  |
L8190 | E | Gc stocking waistlngth 18-30 |  |  |  |  |
L8195 | E | Gc stocking waistlngth 30-40 |  |  |  |  |
L8200 | E | Gc stocking waistlngth 40-50 |  |  |  |  |
L8210 | E | Gc stocking custom made |  |  |  |  |
L8220 | E | Gc stocking lymphedema |  |  |  |  |
L8230 | E | Gc stocking garter belt |  |  |  |  |
L8239 | E | G compression stocking NOS |  |  |  |  |
L8300 | A | Truss single w/ standard pad |  |  |  |  |
L8310 | A | Truss double w/ standard pad |  |  |  |  |
L8320 | A | Truss addition to std pad wa |  |  |  |  |
L8330 | A | Truss add to std pad scrotal |  |  |  |  |
L8400 | A | Sheath below knee |  |  |  |  |
L8410 | A | Sheath above knee |  |  |  |  |
L8415 | A | Sheath upper limb |  |  |  |  |
L8417 | A | Pros sheath/sock w gel cushn |  |  |  |  |
L8420 | A | Prosthetic sock multi ply BK |  |  |  |  |
L8430 | A | Prosthetic sock multi ply AK |  |  |  |  |
L8435 | A | Pros sock multi ply upper lm |  |  |  |  |
L8440 | A | Shrinker below knee |  |  |  |  |
L8460 | A | Shrinker above knee |  |  |  |  |
L8465 | A | Shrinker upper limb |  |  |  |  |
L8470 | A | Pros sock single ply BK |  |  |  |  |
L8480 | A | Pros sock single ply AK |  |  |  |  |
L8485 | A | Pros sock single ply upper l |  |  |  |  |
L8490 | A | Air seal suction reten systm |  |  |  |  |
L8499 | A | Unlisted misc prosthetic ser |  |  |  |  |
L8500 | A | Artificial larynx |  |  |  |  |
L8501 | A | Tracheostomy speaking valve |  |  |  |  |
L8600 | N | Implant breast silicone/eq |  |  |  |  |
L8603 | N | Collagen imp urinary 2.5 CC |  |  |  |  |
L8606 | N | Synthetic implnt urinary 1ml |  |  |  |  |
L8610 | N | Ocular implant |  |  |  |  |
L8612 | N | Aqueous shunt prosthesis |  |  |  |  |
L8613 | N | Ossicular implant |  |  |  |  |
*L8614 | H | Cochlear device/system | 1002 |  |  |  |
L8619 | A | Replace cochlear processor |  |  |  |  |
L8630 | N | Metacarpophalangeal implant |  |  |  |  |
L8641 | N | Metatarsal joint implant |  |  |  |  |
L8642 | N | Hallux implant |  |  |  |  |
L8658 | N | Interphalangeal joint implnt |  |  |  |  |
L8670 | N | Vascular graft, synthetic |  |  |  |  |
L8699 | N | Prosthetic implant NOS |  |  |  |  |
L9900 | A | O&P supply/accessory/service |  |  |  |  |
M0064 | X | Visit for drug monitoring | 0374 | 1.17 | $58.03 | $13.08 | $11.61
M0075 | E | Cellular therapy |  |  |  |  |
M0076 | E | Prolotherapy |  |  |  |  |
M0100 | E | Intragastric hypothermia |  |  |  |  |
M0300 | E | IV chelationtherapy |  |  |  |  |
M0301 | E | Fabric wrapping of aneurysm |  |  |  |  |
M0302 | T | Assessment of cardiac output | 0970 | 0.52 | $25.79 |  | $5.16
P2028 | A | Cephalin floculation test |  |  |  |  |
P2029 | A | Congo red blood test |  |  |  |  |
P2031 | E | Hair analysis |  |  |  |  |
P2033 | A | Blood thymol turbidity |  |  |  |  |
P2038 | A | Blood mucoprotein |  |  |  |  |
P3000 | A | Screen pap by tech w md supv |  |  |  |  |
P3001 | E | Screening pap smear by phys |  |  |  |  |
P7001 | E | Culture bacterial urine |  |  |  |  |
P9010 | K | Whole blood for transfusion | 0950 | 2.08 | $103.33 |  | $20.67
P9011 | E | Blood split unit |  |  |  |  |
P9012 | K | Cryoprecipitate each unit | 0952 | 0.70 | $34.70 |  | $6.94
P9013D | K | Unit/s blood fibrinogen | 0953 | 0.48 | $23.80 |  | $4.76
P9016 | K | Leukocyte poor blood, unit | 0954 | 2.83 | $140.35 |  | $28.07
P9017 | K | One donor fresh frozn plasma | 0955 | 2.26 | $111.85 |  | $22.37
P9018D | K | Plasma protein fract, unit | 0956 | 1.26 | $62.49 |  | $12.50
P9019 | K | Platelet concentrate unit | 0957 | 0.98 | $48.55 |  | $9.71
P9020 | K | Plaelet rich plasma unit | 0958 | 1.16 | $57.54 |  | $11.51
P9021 | K | Red blood cells unit | 0959 | 2.04 | $101.31 |  | $20.26
P9022 | K | Washed red blood cells unit | 0960 | 3.81 | $188.75 |  | $37.75
P9023 | K | Frozen plasma, pooled, sd | 0949 | 2.94 | $145.76 |  | $29.15
P9031 | K | Platelets leukocytes reduced | 0954 | 2.83 | $140.35 |  | $28.07
P9032 | K | Platelets, irradiated | 9500 | 1.77 | $87.97 |  | $17.59
P9033 | K | Platelets leukoreduced irrad | 0954 | 2.83 | $140.35 |  | $28.07
P9034 | K | Platelets, pheresis | 9501 | 9.69 | $480.75 |  | $96.15
P9035 | K | Platelet pheres leukoreduced | 9501 | 9.69 | $480.75 |  | $96.15
P9036 | K | Platelet pheresis irradiated | 9502 | 10.52 | $521.66 |  | $104.33
P9037 | K | Plate pheres leukoredu irrad | 9501 | 9.69 | $480.75 |  | $96.15
P9038 | K | RBC irradiated | 9505 | 2.58 | $127.86 |  | $25.57
P9039 | K | RBC deglycerolized | 9504 | 4.35 | $215.83 |  | $43.17
P9040 | K | RBC leukoreduced irradiated | 9504 | 4.35 | $215.83 |  | $43.17
P9041 | K | Albumin(human), 5%, 500 ML | 0961 | 2.77 | $137.38 |  | $27.48
P9042 | K | Albumin (human), 25%, 50 ML | 0962 | 1.38 | $68.44 |  | $13.69
P9043 | K | Plasma protein fraction | 0956 | 1.26 | $62.49 |  | $12.50
P9044 | K | Cryoprecipitate reduced plasma | 1009 | 0.86 | $42.76 |  | $8.55
P9603 | A | One-way allow prorated miles |  |  |  |  |
P9604 | A | One-way allow prorated trip |  |  |  |  |
P9612 | N | Catheterize for urine spec |  |  |  |  |
P9615 | N | Urine specimen collect mult |  |  |  |  |
Q0034D | K | Admin of influenza vaccine | 0354 | 0.13 | $6.33 |  |
Q0035 | X | Cardiokymography | 0100 | 1.70 | $84.32 | $71.57 | $16.86
Q0081 | T | Infusion ther other than che | 0120 | 1.66 | $82.33 | $42.67 | $16.47
Q0082D | P | Activity therapy w/partial h | 0033 | 4.17 | $206.82 | $48.17 | $41.36
Q0083 | S | Chemo by other than infusion | 0116 | 2.34 | $116.06 | $23.21 | $23.21
Q0084 | S | Chemotherapy by infusion | 0117 | 1.84 | $91.26 | $71.80 | $18.25
Q0085 | S | Chemo by both infusion and o | 0118 | 2.90 | $143.83 | $72.03 | $28.77
Q0086 | A | Physical therapy evaluation/ |  |  |  |  |
Q0091 | T | Obtaining screen pap smear | 0191 | 1.19 | $59.02 | $17.43 | $11.80
Q0092 | N | Set up port xray equipment |  |  |  |  |
Q0111 | A | Wet mounts/ w preparations |  |  |  |  |
Q0112 | A | Potassium hydroxide preps |  |  |  |  |
Q0113 | A | Pinworm examinations |  |  |  |  |
Q0114 | A | Fern test |  |  |  |  |
Q0115 | A | Post-coital mucous exam |  |  |  |  |
Q0136 | G | Non esrd epoetin alpha inj | 0733 |  | $11.40 |  | $1.53
Q0144 | E | Azithromycin dihydrate, oral |  |  |  |  |
Q0156D | K | Human albumin 5% | 0961 | 2.77 | $137.38 |  | $27.48
Q0157D | K | Human albumin 25% | 0962 | 1.38 | $68.44 |  | $13.69
Q0160 | G | Factor IX non-recombinant | 0931 |  | $.72 |  | $.10
Q0161 | G | Factor IX recombinant | 0932 |  | $1.12 |  | $.10
Q0163 | G | Diphenhydramine HCl 50mg | 1400 |  | $1.18 |  | $.16
Q0164 | G | Prochlorperazine maleate 5mg | 1401 |  | $1.31 |  | $.18
Q0165 | E | Prochlorperazine maleate10mg |  |  |  |  |
Q0166 | G | Granisetron HCl 1 mg oral | 0765 |  | $44.70 |  | $5.99
Q0167 | G | Dronabinol 2.5mg oral | 0762 |  | $3.20 |  | $.48
Q0168 | E | Dronabinol 5mg oral |  |  |  |  |
Q0169 | G | Promethazine HCl 12.5mg oral | 1402 |  | $.03 |  |
Q0170 | E | Promethazine HCl 25 mg oral |  |  |  |  |
Q0171 | G | Chlorpromazine HCl 10mg oral | 1403 |  | $.55 |  | $.07
Q0172 | E | Chlorpromazine HCl 25mg oral |  |  |  |  |
Q0173 | G | Trimethobenzamide HCl 250mg | 1404 |  | $.36 |  | $.05
Q0174 | G | Thiethylperazine maleate10mg | 1405 |  | $.69 |  | $.09
Q0175 | G | Perphenazine 4mg oral | 1406 |  | $.71 |  | $.10
Q0176 | E | Perphenazine 8mg oral |  |  |  |  |
Q0177 | G | Hydroxyzine pamoate 25mg | 1407 |  | $.20 |  | $.03
Q0178 | E | Hydroxyzine pamoate 50mg |  |  |  |  |
Q0179 | G | Ondansetron HCl 8mg oral | 0769 |  | $25.15 |  | $3.37
Q0180 | G | Dolasetron mesylate oral | 0763 |  | $65.21 |  | $8.74
Q0181 | G | Unspecified oral anti-emetic | 0761 |  | $.60 |  | $.08
Q0183 | N | Nonmetabolic active tissue |  |  |  |  |
Q0184 | N | Metabolically active tissue |  |  |  |  |
Q0185 | N | Metabolic active D/E tissue |  |  |  |  |
Q0186D | E | Paramedic intercept, rural |  |  |  |  |
Q0187 | G | Factor viia recombinant | 1409 |  | $1,596.00 |  | $213.86
Q0188D | N | Contrast medium |  |  |  |  |
Q1001 | E | Ntiol category 1 |  |  |  |  |
Q1002 | E | Ntiol category 2 |  |  |  |  |
Q1003 | E | Ntiol category 3 |  |  |  |  |
Q1004 | E | Ntiol category 4 |  |  |  |  |
Q1005 | E | Ntiol category 5 |  |  |  |  |
Q2001 | N | Cabergoline, 0.5 mg, oral |  |  |  |  |
Q2002 | G | Elliot's B solution, per ml | 7022 |  | $14.25 |  | $1.91
Q2003 | G | Aprotinin, 10,000 kiu | 7019 |  | $196.35 |  | $26.31
Q2004 | G | Treatment for bladder calculi, per 500 ml | 7023 |  | $23.54 |  | $3.15
Q2005 | G | Corticorelin ovine triflutate, per 0.1 mg | 7024 |  | $353.88 |  | $45.77
Q2006 | G | Digoxin immune FAB (Ovine), 40 mg vial | 7025 |  | $530.44 |  | $64.71
Q2007 | G | Ethanolamine oleate, 100 mg | 7026 |  | $27.21 |  | $3.65
Q2008 | G | Fomepizole, 1.5 mg | 7027 |  | $728.33 |  | $97.60
Q2009 | G | Fosphenytoin, 50 mg | 7028 |  | $8.55 |  | $1.15
Q2010 | G | Glatiramer acetate, 20 mg | 7029 |  | $27.40 |  | $3.67
Q2011 | G | Hemin, 1 mg | 7030 |  | $.90 |  | $.12
Q2012 | G | Pegademase bovine inj 25 I.U | 7039 |  | $139.33 |  | $18.67
Q2013 | G | Pentastarch 10% inj, 100 ml | 7040 |  | $15.11 |  | $2.04
Q2014 | G | Sermorelin acetate, 0.5 mg | 7032 |  | $15.78 |  | $2.11
Q2015 | G | Somatrem, 5 mg | 7033 |  | $199.50 |  | $26.73
Q2016 | G | Somatropin, 1 mg (any derivation) | 7034 |  | $39.90 |  | $5.35
Q2017 | G | Teniposide, 50 mg | 7035 |  | $195.28 |  | $26.17
Q2018 | G | Urofollitropin, 75 I.U. | 7037 |  | $69.73 |  | $9.34
*Q2019 | G | Basiliximab, 20 mg | 1615 |  | $1,250.01 |  | $167.50
*Q2020 | G | Histrelin Acetate, 0.5 mg | 1616 |  | $14.91 |  | $2.00
*Q2021 | G | Lepirdin, 50 mg | 1617 |  | $124.49 |  | $16.68
*Q2022 | G | Von Willebrand factor, per iu | 1618 |  | $.95 |  | $.13
Q3001 | H | Brachytherapy Seeds | 0918 |  |  |  |
*Q3002 | G | Ga 67, per mCi | 1619 |  | $25.97 |  | $3.17
*Q3003 | G | TC 99M Bicisate, per vial | 1620 |  | $417.53 |  | $55.95
*Q3004 | G | Xe 133, per mCi | 1621 |  | $28.50 |  | $3.66
*Q3005 | G | TC 99M Mertiatide, per vial | 1622 |  | $185.82 |  | $24.90
*Q3006 | G | TC 99M Gluceptate | 1623 |  | $22.61 |  | $2.76
*Q3007 | G | P32 sodium, per mCi | 1624 |  | $74.10 |  | $9.04
*Q3008 | G | IN 111 Pentetreotide, per mCi | 1625 |  | $283.42 |  | $37.98
*Q3009 | G | TC 99M Oxidronate, per vial | 1626 |  | $38.38 |  | $4.68
*Q3010 | G | TC-99 labeled red blood cell, per test | 1627 |  | $38.95 |  | $4.75
*Q3011 | G | P32 phosphate chromic, per mCi | 1628 |  | $137.12 |  | $16.73
Q9920 | A | Epoetin with hct <= 20 |  |  |  |  |
Q9921 | A | Epoetin with hct = 21 |  |  |  |  |
Q9922 | A | Epoetin with hct = 22 |  |  |  |  |
Q9923 | A | Epoetin with hct = 23 |  |  |  |  |
Q9924 | A | Epoetin with hct = 24 |  |  |  |  |
Q9925 | A | Epoetin with hct = 25 |  |  |  |  |
Q9926 | A | Epoetin with hct = 26 |  |  |  |  |
Q9927 | A | Epoetin with hct = 27 |  |  |  |  |
Q9928 | A | Epoetin with hct = 28 |  |  |  |  |
Q9929 | A | Epoetin with hct = 29 |  |  |  |  |
Q9930 | A | Epoetin with hct = 30 |  |  |  |  |
Q9931 | A | Epoetin with hct = 31 |  |  |  |  |
Q9932 | A | Epoetin with hct = 32 |  |  |  |  |
Q9933 | A | Epoetin with hct = 33 |  |  |  |  |
Q9934 | A | Epoetin with hct = 34 |  |  |  |  |
Q9935 | A | Epoetin with hct = 35 |  |  |  |  |
Q9936 | A | Epoetin with hct = 36 |  |  |  |  |
Q9937 | A | Epoetin with hct = 37 |  |  |  |  |
Q9938 | A | Epoetin with hct = 38 |  |  |  |  |
Q9939 | A | Epoetin with hct = 39 |  |  |  |  |
Q9940 | A | Epoetin with hct >= 40 |  |  |  |  |
R0070 | N | Transport portable x-ray |  |  |  |  |
R0075 | N | Transport port x-ray multipl |  |  |  |  |
R0076 | N | Transport portable EKG |  |  |  |  |
V2020 | A | Vision svcs frames purchases |  |  |  |  |
V2025 | E | Eyeglasses delux frames |  |  |  |  |
V2100 | A | Lens spher single plano 4.00 |  |  |  |  |
V2101 | A | Single visn sphere 4.12-7.00 |  |  |  |  |
V2102 | A | Singl visn sphere 7.12-20.00 |  |  |  |  |
V2103 | A | Spherocylindr 4.00d/12-2.00d |  |  |  |  |
V2104 | A | Spherocylindr 4.00d/2.12-4d |  |  |  |  |
V2105 | A | Spherocylinder 4.00d/4.25-6d |  |  |  |  |
V2106 | A | Spherocylinder 4.00d/>6.00d |  |  |  |  |
V2107 | A | Spherocylinder 4.25d/12-2d |  |  |  |  |
V2108 | A | Spherocylinder 4.25d/2.12-4d |  |  |  |  |
V2109 | A | Spherocylinder 4.25d/4.25-6d |  |  |  |  |
V2110 | A | Spherocylinder 4.25d/over 6d |  |  |  |  |
V2111 | A | Spherocylindr 7.25d/.25-2.25 |  |  |  |  |
V2112 | A | Spherocylindr 7.25d/2.25-4d |  |  |  |  |
V2113 | A | Spherocylindr 7.25d/4.25-6d |  |  |  |  |
V2114 | A | Spherocylinder over 12.00d |  |  |  |  |
V2115 | A | Lens lenticular bifocal |  |  |  |  |
V2116 | A | Nonaspheric lens bifocal |  |  |  |  |
V2117 | A | Aspheric lens bifocal |  |  |  |  |
V2118 | A | Lens aniseikonic single |  |  |  |  |
V2199 | A | Lens single vision not oth c |  |  |  |  |
V2200 | A | Lens spher bifoc plano 4.00d |  |  |  |  |
V2201 | A | Lens sphere bifocal 4.12-7.0 |  |  |  |  |
V2202 | A | Lens sphere bifocal 7.12-20. |  |  |  |  |
V2203 | A | Lens sphcyl bifocal 4.00d/.1 |  |  |  |  |
V2204 | A | Lens sphcy bifocal 4.00d/2.1 |  |  |  |  |
V2205 | A | Lens sphcy bifocal 4.00d/4.2 |  |  |  |  |
V2206 | A | Lens sphcy bifocal 4.00d/ove |  |  |  |  |
V2207 | A | Lens sphcy bifocal 4.25-7d/. |  |  |  |  |
V2208 | A | Lens sphcy bifocal 4.25-7/2. |  |  |  |  |
V2209 | A | Lens sphcy bifocal 4.25-7/4. |  |  |  |  |
V2210 | A | Lens sphcy bifocal 4.25-7/ov |  |  |  |  |
V2211 | A | Lens sphcy bifo 7.25-12/.25- |  |  |  |  |
V2212 | A | Lens sphcyl bifo 7.25-12/2.2 |  |  |  |  |
V2213 | A | Lens sphcyl bifo 7.25-12/4.2 |  |  |  |  |
V2214 | A | Lens sphcyl bifocal over 12. |  |  |  |  |
V2215 | A | Lens lenticular bifocal |  |  |  |  |
V2216 | A | Lens lenticular nonaspheric |  |  |  |  |
V2217 | A | Lens lenticular aspheric bif |  |  |  |  |
V2218 | A | Lens aniseikonic bifocal |  |  |  |  |
V2219 | A | Lens bifocal seg width over |  |  |  |  |
V2220 | A | Lens bifocal add over 3.25d |  |  |  |  |
V2299 | A | Lens bifocal speciality |  |  |  |  |
V2300 | A | Lens sphere trifocal 4.00d |  |  |  |  |
V2301 | A | Lens sphere trifocal 4.12-7. |  |  |  |  |
V2302 | A | Lens sphere trifocal 7.12-20 |  |  |  |  |
V2303 | A | Lens sphcy trifocal 4.0/.12- |  |  |  |  |
V2304 | A | Lens sphcy trifocal 4.0/2.25 |  |  |  |  |
V2305 | A | Lens sphcy trifocal 4.0/4.25 |  |  |  |  |
V2306 | A | Lens sphcyl trifocal 4.00/>6 |  |  |  |  |
V2307 | A | Lens sphcy trifocal 4.25-7/. |  |  |  |  |
V2308 | A | Lens sphc trifocal 4.25-7/2. |  |  |  |  |
V2309 | A | Lens sphc trifocal 4.25-7/4. |  |  |  |  |
V2310 | A | Lens sphc trifocal 4.25-7/>6 |  |  |  |  |
V2311 | A | Lens sphc trifo 7.25-12/.25- |  |  |  |  |
V2312 | A | Lens sphc trifo 7.25-12/2.25 |  |  |  |  |
V2313 | A | Lens sphc trifo 7.25-12/4.25 |  |  |  |  |
V2314 | A | Lens sphcyl trifocal over 12 |  |  |  |  |
V2315 | A | Lens lenticular trifocal |  |  |  |  |
V2316 | A | Lens lenticular nonaspheric |  |  |  |  |
V2317 | A | Lens lenticular aspheric tri |  |  |  |  |
V2318 | A | Lens aniseikonic trifocal |  |  |  |  |
V2319 | A | Lens trifocal seg width > 28 |  |  |  |  |
V2320 | A | Lens trifocal add over 3.25d |  |  |  |  |
V2399 | A | Lens trifocal speciality |  |  |  |  |
V2410 | A | Lens variab asphericity sing |  |  |  |  |
V2430 | A | Lens variable asphericity bi |  |  |  |  |
V2499 | A | Variable asphericity lens |  |  |  |  |
V2500 | A | Contact lens pmma spherical |  |  |  |  |
V2501 | A | Cntct lens pmma-toric/prism |  |  |  |  |
V2502 | A | Contact lens pmma bifocal |  |  |  |  |
V2503 | A | Cntct lens pmma color vision |  |  |  |  |
V2510 | A | Cntct gas permeable sphericl |  |  |  |  |
V2511 | A | Cntct toric prism ballast |  |  |  |  |
V2512 | A | Cntct lens gas permbl bifocl |  |  |  |  |
V2513 | A | Contact lens extended wear |  |  |  |  |
V2520 | A | Contact lens hydrophilic |  |  |  |  |
V2521 | A | Cntct lens hydrophilic toric |  |  |  |  |
V2522 | A | Cntct lens hydrophil bifocl |  |  |  |  |
V2523 | A | Cntct lens hydrophil extend |  |  |  |  |
V2530 | A | Contact lens gas impermeable |  |  |  |  |
V2531 | A | Contact lens gas permeable |  |  |  |  |
V2599 | A | Contact lens/es other type |  |  |  |  |
V2600 | A | Hand held low vision aids |  |  |  |  |
V2610 | A | Single lens spectacle mount |  |  |  |  |
V2615 | A | Telescop/othr compound lens |  |  |  |  |
V2623 | A | Plastic eye prosth custom |  |  |  |  |
V2624 | A | Polishing artifical eye |  |  |  |  |
V2625 | A | Enlargemnt of eye prosthesis |  |  |  |  |
V2626 | A | Reduction of eye prosthesis |  |  |  |  |
V2627 | A | Scleral cover shell |  |  |  |  |
V2628 | A | Fabrication & fitting |  |  |  |  |
V2629 | A | Prosthetic eye other type |  |  |  |  |
V2630 | N | Anter chamber intraocul lens |  |  |  |  |
V2631 | N | Iris support intraoclr lens |  |  |  |  |
V2632 | N | Post chmbr intraocular lens |  |  |  |  |
V2700 | A | Balance lens |  |  |  |  |
V2710 | A | Glass/plastic slab off prism |  |  |  |  |
V2715 | A | Prism lens/es |  |  |  |  |
V2718 | A | Fresnell prism press-on lens |  |  |  |  |
V2730 | A | Special base curve |  |  |  |  |
V2740 | A | Rose tint plastic |  |  |  |  |
V2741 | A | Non-rose tint plastic |  |  |  |  |
V2742 | A | Rose tint glass |  |  |  |  |
V2743 | A | Non-rose tint glass |  |  |  |  |
V2744 | A | Tint photochromatic lens/es |  |  |  |  |
V2750 | A | Anti-reflective coating |  |  |  |  |
V2755 | A | UV lens/es |  |  |  |  |
V2760 | A | Scratch resistant coating |  |  |  |  |
V2770 | A | Occluder lens/es |  |  |  |  |
V2780 | A | Oversize lens/es |  |  |  |  |
V2781 | E | Progressive lens per lens |  |  |  |  |
V2785 | F | Corneal tissue processing |  |  |  |  |
V2790 | N | Amniotic membrane |  |  |  |  |
V2799 | A | Miscellaneous vision service |  |  |  |  |
V5008 | E | Hearing screening |  |  |  |  |
V5010 | E | Assessment for hearing aid |  |  |  |  |
V5011 | E | Hearing aid fitting/checking |  |  |  |  |
V5014 | E | Hearing aid repair/modifying |  |  |  |  |
V5020 | E | Conformity evaluation |  |  |  |  |
V5030 | E | Body-worn hearing aid air |  |  |  |  |
V5040 | E | Body-worn hearing aid bone |  |  |  |  |
V5050 | E | Body-worn hearing aid in ear |  |  |  |  |
V5060 | E | Behind ear hearing aid |  |  |  |  |
V5070 | E | Glasses air conduction |  |  |  |  |
V5080 | E | Glasses bone conduction |  |  |  |  |
V5090 | E | Hearing aid dispensing fee |  |  |  |  |
V5100 | E | Body-worn bilat hearing aid |  |  |  |  |
V5110 | E | Hearing aid dispensing fee |  |  |  |  |
V5120 | E | Body-worn binaur hearing aid |  |  |  |  |
V5130 | E | In ear binaural hearing aid |  |  |  |  |
V5140 | E | Behind ear binaur hearing ai |  |  |  |  |
V5150 | E | Glasses binaural hearing aid |  |  |  |  |
V5160 | E | Dispensing fee binaural |  |  |  |  |
V5170 | E | Within ear cros hearing aid |  |  |  |  |
V5180 | E | Behind ear cros hearing aid |  |  |  |  |
V5190 | E | Glasses cros hearing aid |  |  |  |  |
V5200 | E | Cros hearing aid dispens fee |  |  |  |  |
V5210 | E | In ear bicros hearing aid |  |  |  |  |
V5220 | E | Behind ear bicros hearing ai |  |  |  |  |
V5230 | E | Glasses bicros hearing aid |  |  |  |  |
V5240 | E | Dispensing fee bicros |  |  |  |  |
V5299 | E | Hearing service |  |  |  |  |
V5336 | E | Repair communication device |  |  |  |  |
V5362 | A | Speech screening |  |  |  |  |
V5363 | A | Language screening |  |  |  |  |
V5364 | A | Dysphagia screening |  |  |  |  |
25310 | T | Transplant forearm tendon | 0051 | 27.76 | $1,376.79 | $675.24 | $275.36
25312 | T | Transplant forearm tendon | 0051 | 27.76 | $1,376.79 | $675.24 | $275.36
25315 | T | Revise palsy hand tendon(s) | 0051 | 27.76 | $1,376.79 | $675.24 | $275.36
25316 | T | Revise palsy hand tendon(s) | 0051 | 27.76 | $1,376.79 | $675.24 | $275.36
25320 | T | Repair/revise wrist joint | 0051 | 27.76 | $1,376.79 | $675.24 | $275.36
25332 | T | Revise wrist joint | 0047 | 22.09 | $1,095.58 | $537.03 | $219.12
25335 | T | Realignment of hand | 0051 | 27.76 | $1,376.79 | $675.24 | $275.36
25337 | T | Reconstruct ulna/radioulnar | 0051 | 27.76 | $1,376.79 | $675.24 | $275.36
25350 | T | Revision of radius | 0051 | 27.76 | $1,376.79 | $675.24 | $275.36
25355 | T | Revision of radius | 0051 | 27.76 | $1,376.79 | $675.24 | $275.36
25360 | T | Revision of ulna | 0050 | 21.13 | $1,047.96 | $513.86 | $209.59
25365 | T | Revise radius & ulna | 0050 | 21.13 | $1,047.96 | $513.86 | $209.59
25370 | T | Revise radius or ulna | 0051 | 27.76 | $1,376.79 | $675.24 | $275.36
25375 | T | Revise radius & ulna | 0051 | 27.76 | $1,376.79 | $675.24 | $275.36
25390 | C | Shorten radius or ulna |  |  |  |  |
25391 | C | Lengthen radius or ulna |  |  |  |  |
25392 | C | Shorten radius & ulna |  |  |  |  |
25393 | C | Lengthen radius & ulna |  |  |  |  |
25400 | T | Repair radius or ulna | 0050 | 21.13 | $1,047.96 | $513.86 | $209.59
25405 | T | Repair/graft radius or ulna | 0050 | 21.13 | $1,047.96 | $513.86 | $209.59
25415 | T | Repair radius & ulna | 0050 | 21.13 | $1,047.96 | $513.86 | $209.59
25420 | C | Repair/graft radius & ulna |  |  |  |  |
25425 | T | Repair/graft radius or ulna | 0051 | 27.76 | $1,376.79 | $675.24 | $275.36
25426 | T | Repair/graft radius & ulna | 0051 | 27.76 | $1,376.79 | $675.24 | $275.36
25440 | T | Repair/graft wrist bone | 0051 | 27.76 | $1,376.79 | $675.24 | $275.36
25441 | T | Reconstruct wrist joint | 0048 | 29.06 | $1,441.26 | $725.94 | $288.25
25442 | T | Reconstruct wrist joint | 0048 | 29.06 | $1,441.26 | $725.94 | $288.25
25443 | T | Reconstruct wrist joint | 0048 | 29.06 | $1,441.26 | $725.94 | $288.25
25444 | T | Reconstruct wrist joint | 0048 | 29.06 | $1,441.26 | $725.94 | $288.25
25445 | T | Reconstruct wrist joint | 0048 | 29.06 | $1,441.26 | $725.94 | $288.25
25446 | T | Wrist replacement | 0048 | 29.06 | $1,441.26 | $725.94 | $288.25
25447 | T | Repair wrist joint(s) | 0047 | 22.09 | $1,095.58 | $537.03 | $219.12
25449 | T | Remove wrist joint implant | 0047 | 22.09 | $1,095.58 | $537.03 | $219.12
25450 | T | Revision of wrist joint | 0051 | 27.76 | $1,376.79 | $675.24 | $275.36
25455 | T | Revision of wrist joint | 0051 | 27.76 | $1,376.79 | $675.24 | $275.36
25490 | T | Reinforce radius | 0051 | 27.76 | $1,376.79 | $675.24 | $275.36
25491 | T | Reinforce ulna | 0051 | 27.76 | $1,376.79 | $675.24 | $275.36
25492 | T | Reinforce radius and ulna | 0051 | 27.76 | $1,376.79 | $675.24 | $275.36
25500 | T | Treat fracture of radius | 0044 | 2.17 | $107.63 | $38.08 | $21.53
25505 | T | Treat fracture of radius | 0044 | 2.17 | $107.63 | $38.08 | $21.53
25515 | T | Treat fracture of radius | 0046 | 22.29 | $1,105.50 | $535.76 | $221.10
25520 | T | Treat fracture of radius | 0044 | 2.17 | $107.63 | $38.08 | $21.53
25525 | T | Treat fracture of radius | 0046 | 22.29 | $1,105.50 | $535.76 | $221.10
25526 | T | Treat fracture of radius | 0046 | 22.29 | $1,105.50 | $535.76 | $221.10
25530 | T | Treat fracture of ulna | 0044 | 2.17 | $107.63 | $38.08 | $21.53
25535 | T | Treat fracture of ulna | 0044 | 2.17 | $107.63 | $38.08 | $21.53
25545 | T | Treat fracture of ulna | 0046 | 22.29 | $1,105.50 | $535.76 | $221.10
25560 | T | Treat fracture radius & ulna | 0044 | 2.17 | $107.63 | $38.08 | $21.53
25565 | T | Treat fracture radius & ulna | 0044 | 2.17 | $107.63 | $38.08 | $21.53
25574 | T | Treat fracture radius & ulna | 0046 | 22.29 | $1,105.50 | $535.76 | $221.10
25575 | T | Treat fracture radius/ulna | 0046 | 22.29 | $1,105.50 | $535.76 | $221.10
25600 | T | Treat fracture radius/ulna | 0044 | 2.17 | $107.63 | $38.08 | $21.53
25605 | T | Treat fracture radius/ulna | 0044 | 2.17 | $107.63 | $38.08 | $21.53
25611 | T | Treat fracture radius/ulna | 0046 | 22.29 | $1,105.50 | $535.76 | $221.10
25620 | T | Treat fracture radius/ulna | 0046 | 22.29 | $1,105.50 | $535.76 | $221.10
25622 | T | Treat wrist bone fracture | 0044 | 2.17 | $107.63 | $38.08 | $21.53
25624 | T | Treat wrist bone fracture | 0044 | 2.17 | $107.63 | $38.08 | $21.53
25628 | T | Treat wrist bone fracture | 0046 | 22.29 | $1,105.50 | $535.76 | $221.10
25630 | T | Treat wrist bone fracture | 0044 | 2.17 | $107.63 | $38.08 | $21.53
25635 | T | Treat wrist bone fracture | 0044 | 2.17 | $107.63 | $38.08 | $21.53
25645 | T | Treat wrist bone fracture | 0046 | 22.29 | $1,105.50 | $535.76 | $221.10
25650 | T | Treat wrist bone fracture | 0044 | 2.17 | $107.63 | $38.08 | $21.53
25660 | T | Treat wrist dislocation | 0044 | 2.17 | $107.63 | $38.08 | $21.53
25670 | T | Treat wrist dislocation | 0046 | 22.29 | $1,105.50 | $535.76 | $221.10
25675 | T | Treat wrist dislocation | 0044 | 2.17 | $107.63 | $38.08 | $21.53
25676 | T | Treat wrist dislocation | 0046 | 22.29 | $1,105.50 | $535.76 | $221.10
25680 | T | Treat wrist fracture | 0044 | 2.17 | $107.63 | $38.08 | $21.53
25685 | T | Treat wrist fracture | 0046 | 22.29 | $1,105.50 | $535.76 | $221.10
25690 | T | Treat wrist dislocation | 0044 | 2.17 | $107.63 | $38.08 | $21.53
25695 | T | Treat wrist dislocation | 0046 | 22.29 | $1,105.50 | $535.76 | $221.10
25800 | T | Fusion of wrist joint | 0051 | 27.76 | $1,376.79 | $675.24 | $275.36
25805 | T | Fusion/graft of wrist joint | 0051 | 27.76 | $1,376.79 | $675.24 | $275.36
25810 | T | Fusion/graft of wrist joint | 0051 | 27.76 | $1,376.79 | $675.24 | $275.36
25820 | T | Fusion of hand bones | 0053 | 11.32 | $561.42 | $253.49 | $112.28
25825 | T | Fuse hand bones with graft | 0054 | 19.66 | $975.06 | $472.33 | $195.01
25830 | T | Fusion, radioulnar jnt/ulna | 0051 | 27.76 | $1,376.79 | $675.24 | $275.36
25900 | C | Amputation of forearm |  |  |  |  |
25905 | C | Amputation of forearm |  |  |  |  |
25907 | T | Amputation follow-up surgery | 0049 | 15.04 | $745.93 | $356.95 | $149.19
25909 | C | Amputation follow-up surgery |  |  |  |  |
25915 | C | Amputation of forearm |  |  |  |  |
25920 | C | Amputate hand at wrist |  |  |  |  |
25922 | T | Amputate hand at wrist | 0049 | 15.04 | $745.93 | $356.95 | $149.19
25924 | C | Amputation follow-up surgery |  |  |  |  |
25927 | C | Amputation of hand |  |  |  |  |
25929 | T | Amputation follow-up surgery | 0026 | 12.11 | $600.61 | $277.92 | $120.12
25931 | C | Amputation follow-up surgery |  |  |  |  |
25999 | T | Forearm or wrist surgery | 0044 | 2.17 | $107.63 | $38.08 | $21.53
26010 | T | Drainage of finger abscess | 0006 | 2.00 | $99.19 | $33.95 | $19.84
26011 | T | Drainage of finger abscess | 0007 | 3.68 | $182.51 | $72.03 | $36.50
26020 | T | Drain hand tendon sheath | 0053 | 11.32 | $561.42 | $253.49 | $112.28
26025 | T | Drainage of palm bursa | 0053 | 11.32 | $561.42 | $253.49 | $112.28
26030 | T | Drainage of palm bursa(s) | 0053 | 11.32 | $561.42 | $253.49 | $112.28
26034 | T | Treat hand bone lesion | 0053 | 11.32 | $561.42 | $253.49 | $112.28
26035 | T | Decompress fingers/hand | 0053 | 11.32 | $561.42 | $253.49 | $112.28
26037 | T | Decompress fingers/hand | 0053 | 11.32 | $561.42 | $253.49 | $112.28
26040 | T | Release palm contracture | 0054 | 19.66 | $975.06 | $472.33 | $195.01
26045 | T | Release palm contracture | 0054 | 19.66 | $975.06 | $472.33 | $195.01
26055 | T | Incise finger tendon sheath | 0053 | 11.32 | $561.42 | $253.49 | $112.28
26060 | T | Incision of finger tendon | 0053 | 11.32 | $561.42 | $253.49 | $112.28
26070 | T | Explore/treat hand joint | 0053 | 11.32 | $561.42 | $253.49 | $112.28
26075 | T | Explore/treat finger joint | 0053 | 11.32 | $561.42 | $253.49 | $112.28
26080 | T | Explore/treat finger joint | 0053 | 11.32 | $561.42 | $253.49 | $112.28
26100 | T | Biopsy hand joint lining | 0053 | 11.32 | $561.42 | $253.49 | $112.28
26105 | T | Biopsy finger joint lining | 0053 | 11.32 | $561.42 | $253.49 | $112.28
26110 | T | Biopsy finger joint lining | 0053 | 11.32 | $561.42 | $253.49 | $112.28
26115 | T | Removal of hand lesion | 0022 | 12.49 | $619.45 | $292.94 | $123.89
26116 | T | Removal of hand lesion | 0022 | 12.49 | $619.45 | $292.94 | $123.89
26117 | T | Remove tumor, hand/finger | 0022 | 12.49 | $619.45 | $292.94 | $123.89
26121 | T | Release palm contracture | 0054 | 19.66 | $975.06 | $472.33 | $195.01
26123 | T | Release palm contracture | 0054 | 19.66 | $975.06 | $472.33 | $195.01
26125 | T | Release palm contracture | 0054 | 19.66 | $975.06 | $472.33 | $195.01
26130 | T | Remove wrist joint lining | 0053 | 11.32 | $561.42 | $253.49 | $112.28
26135 | T | Revise finger joint, each | 0054 | 19.66 | $975.06 | $472.33 | $195.01
26140 | T | Revise finger joint, each | 0053 | 11.32 | $561.42 | $253.49 | $112.28
26145 | T | Tendon excision, palm/finger | 0053 | 11.32 | $561.42 | $253.49 | $112.28
26160 | T | Remove tendon sheath lesion | 0053 | 11.32 | $561.42 | $253.49 | $112.28
26170 | T | Removal of palm tendon, each | 0053 | 11.32 | $561.42 | $253.49 | $112.28
26180 | T | Removal of finger tendon | 0053 | 11.32 | $561.42 | $253.49 | $112.28
26185 | T | Remove finger bone | 0053 | 11.32 | $561.42 | $253.49 | $112.28
26200 | T | Remove hand bone lesion | 0053 | 11.32 | $561.42 | $253.49 | $112.28
26205 | T | Remove/graft bone lesion | 0054 | 19.66 | $975.06 | $472.33 | $195.01
26210 | T | Removal of finger lesion | 0053 | 11.32 | $561.42 | $253.49 | $112.28
26215 | T | Remove/graft finger lesion | 0053 | 11.32 | $561.42 | $253.49 | $112.28
26230 | T | Partial removal of hand bone | 0053 | 11.32 | $561.42 | $253.49 | $112.28
26235 | T | Partial removal, finger bone | 0053 | 11.32 | $561.42 | $253.49 | $112.28
26236 | T | Partial removal, finger bone | 0053 | 11.32 | $561.42 | $253.49 | $112.28
26250 | T | Extensive hand surgery | 0053 | 11.32 | $561.42 | $253.49 | $112.28
26255 | T | Extensive hand surgery | 0054 | 19.66 | $975.06 | $472.33 | $195.01
26260 | T | Extensive finger surgery | 0053 | 11.32 | $561.42 | $253.49 | $112.28
26261 | T | Extensive finger surgery | 0053 | 11.32 | $561.42 | $253.49 | $112.28
26262 | T | Partial removal of finger | 0053 | 11.32 | $561.42 | $253.49 | $112.28
26320 | T | Removal of implant from hand | 0020 | 6.51 | $322.87 | $130.53 | $64.57
26350 | T | Repair finger/hand tendon | 0054 | 19.66 | $975.06 | $472.33 | $195.01
26352 | T | Repair/graft hand tendon | 0054 | 19.66 | $975.06 | $472.33 | $195.01
26356 | T | Repair finger/hand tendon | 0054 | 19.66 | $975.06 | $472.33 | $195.01
26357 | T | Repair finger/hand tendon | 0054 | 19.66 | $975.06 | $472.33 | $195.01
26358 | T | Repair/graft hand tendon | 0054 | 19.66 | $975.06 | $472.33 | $195.01
26370 | T | Repair finger/hand tendon | 0054 | 19.66 | $975.06 | $472.33 | $195.01
26372 | T | Repair/graft hand tendon | 0054 | 19.66 | $975.06 | $472.33 | $195.01
26373 | T | Repair finger/hand tendon | 0054 | 19.66 | $975.06 | $472.33 | $195.01
26390 | T | Revise hand/finger tendon | 0054 | 19.66 | $975.06 | $472.33 | $195.01
26392 | T | Repair/graft hand tendon | 0054 | 19.66 | $975.06 | $472.33 | $195.01
26410 | T | Repair hand tendon | 0053 | 11.32 | $561.42 | $253.49 | $112.28
26412 | T | Repair/graft hand tendon | 0054 | 19.66 | $975.06 | $472.33 | $195.01
26415 | T | Excision, hand/finger tendon | 0054 | 19.66 | $975.06 | $472.33 | $195.01
26416 | T | Graft hand or finger tendon | 0054 | 19.66 | $975.06 | $472.33 | $195.01
26418 | T | Repair finger tendon | 0053 | 11.32 | $561.42 | $253.49 | $112.28
26420 | T | Repair/graft finger tendon | 0054 | 19.66 | $975.06 | $472.33 | $195.01
26426 | T | Repair finger/hand tendon | 0054 | 19.66 | $975.06 | $472.33 | $195.01
26428 | T | Repair/graft finger tendon | 0054 | 19.66 | $975.06 | $472.33 | $195.01
26432 | T | Repair finger tendon | 0053 | 11.32 | $561.42 | $253.49 | $112.28
26433 | T | Repair finger tendon | 0053 | 11.32 | $561.42 | $253.49 | $112.28
26434 | T | Repair/graft finger tendon | 0054 | 19.66 | $975.06 | $472.33 | $195.01
26437 | T | Realignment of tendons | 0053 | 11.32 | $561.42 | $253.49 | $112.28
26440 | T | Release palm/finger tendon | 0053 | 11.32 | $561.42 | $253.49 | $112.28
26442 | T | Release palm & finger tendon | 0054 | 19.66 | $975.06 | $472.33 | $195.01
26445 | T | Release hand/finger tendon | 0053 | 11.32 | $561.42 | $253.49 | $112.28
26449 | T | Release forearm/hand tendon | 0054 | 19.66 | $975.06 | $472.33 | $195.01
26450 | T | Incision of palm tendon | 0053 | 11.32 | $561.42 | $253.49 | $112.28
26455 | T | Incision of finger tendon | 0053 | 11.32 | $561.42 | $253.49 | $112.28
26460 | T | Incise hand/finger tendon | 0053 | 11.32 | $561.42 | $253.49 | $112.28
26471 | T | Fusion of finger tendons | 0053 | 11.32 | $561.42 | $253.49 | $112.28
26474 | T | Fusion of finger tendons | 0053 | 11.32 | $561.42 | $253.49 | $112.28
26476 | T | Tendon lengthening | 0053 | 11.32 | $561.42 | $253.49 | $112.28
26477 | T | Tendon shortening | 0053 | 11.32 | $561.42 | $253.49 | $112.28
26478 | T | Lengthening of hand tendon | 0053 | 11.32 | $561.42 | $253.49 | $112.28
26479 | T | Shortening of hand tendon | 0053 | 11.32 | $561.42 | $253.49 | $112.28
26480 | T | Transplant hand tendon | 0054 | 19.66 | $975.06 | $472.33 | $195.01
26483 | T | Transplant/graft hand tendon | 0054 | 19.66 | $975.06 | $472.33 | $195.01
26485 | T | Transplant palm tendon | 0054 | 19.66 | $975.06 | $472.33 | $195.01
26489 | T | Transplant/graft palm tendon | 0054 | 19.66 | $975.06 | $472.33 | $195.01
26490 | T | Revise thumb tendon | 0054 | 19.66 | $975.06 | $472.33 | $195.01
26492 | T | Tendon transfer with graft | 0054 | 19.66 | $975.06 | $472.33 | $195.01
26494 | T | Hand tendon/muscle transfer | 0054 | 19.66 | $975.06 | $472.33 | $195.01
26496 | T | Revise thumb tendon | 0054 | 19.66 | $975.06 | $472.33 | $195.01
26497 | T | Finger tendon transfer | 0054 | 19.66 | $975.06 | $472.33 | $195.01
26498 | T | Finger tendon transfer | 0054 | 19.66 | $975.06 | $472.33 | $195.01
26499 | T | Revision of finger | 0054 | 19.66 | $975.06 | $472.33 | $195.01
26500 | T | Hand tendon reconstruction | 0053 | 11.32 | $561.42 | $253.49 | $112.28
26502 | T | Hand tendon reconstruction | 0054 | 19.66 | $975.06 | $472.33 | $195.01
26504 | T | Hand tendon reconstruction | 0054 | 19.66 | $975.06 | $472.33 | $195.01
26508 | T | Release thumb contracture | 0053 | 11.32 | $561.42 | $253.49 | $112.28
26510 | T | Thumb tendon transfer | 0054 | 19.66 | $975.06 | $472.33 | $195.01
26516 | T | Fusion of knuckle joint | 0054 | 19.66 | $975.06 | $472.33 | $195.01
26517 | T | Fusion of knuckle joints | 0054 | 19.66 | $975.06 | $472.33 | $195.01
26518 | T | Fusion of knuckle joints | 0054 | 19.66 | $975.06 | $472.33 | $195.01
26520 | T | Release knuckle contracture | 0053 | 11.32 | $561.42 | $253.49 | $112.28
26525 | T | Release finger contracture | 0053 | 11.32 | $561.42 | $253.49 | $112.28
26530 | T | Revise knuckle joint | 0047 | 22.09 | $1,095.58 | $537.03 | $219.12
26531 | T | Revise knuckle with implant | 0048 | 29.06 | $1,441.26 | $725.94 | $288.25
26535 | T | Revise finger joint | 0047 | 22.09 | $1,095.58 | $537.03 | $219.12
26536 | T | Revise/implant finger joint | 0048 | 29.06 | $1,441.26 | $725.94 | $288.25
26540 | T | Repair hand joint | 0053 | 11.32 | $561.42 | $253.49 | $112.28
26541 | T | Repair hand joint with graft | 0054 | 19.66 | $975.06 | $472.33 | $195.01
26542 | T | Repair hand joint with graft | 0053 | 11.32 | $561.42 | $253.49 | $112.28
26545 | T | Reconstruct finger joint | 0054 | 19.66 | $975.06 | $472.33 | $195.01
26546 | T | Repair nonunion hand | 0054 | 19.66 | $975.06 | $472.33 | $195.01
26548 | T | Reconstruct finger joint | 0054 | 19.66 | $975.06 | $472.33 | $195.01
26550 | T | Construct thumb replacement | 0054 | 19.66 | $975.06 | $472.33 | $195.01
26551 | C | Great toe-hand transfer |  |  |  |  |
26553 | C | Single transfer, toe-hand |  |  |  |  |
26554 | C | Double transfer, toe-hand |  |  |  |  |
26555 | T | Positional change of finger | 0054 | 19.66 | $975.06 | $472.33 | $195.01
26556 | C | Toe joint transfer |  |  |  |  |
26560 | T | Repair of web finger | 0053 | 11.32 | $561.42 | $253.49 | $112.28
26561 | T | Repair of web finger | 0054 | 19.66 | $975.06 | $472.33 | $195.01
26562 | T | Repair of web finger | 0054 | 19.66 | $975.06 | $472.33 | $195.01
26565 | T | Correct metacarpal flaw | 0054 | 19.66 | $975.06 | $472.33 | $195.01
26567 | T | Correct finger deformity | 0054 | 19.66 | $975.06 | $472.33 | $195.01
26568 | T | Lengthen metacarpal/finger | 0054 | 19.66 | $975.06 | $472.33 | $195.01
26580 | T | Repair hand deformity | 0054 | 19.66 | $975.06 | $472.33 | $195.01
26585 | T | Repair finger deformity | 0054 | 19.66 | $975.06 | $472.33 | $195.01
26587 | T | Reconstruct extra finger | 0053 | 11.32 | $561.42 | $253.49 | $112.28
26590 | T | Repair finger deformity | 0054 | 19.66 | $975.06 | $472.33 | $195.01
26591 | T | Repair muscles of hand | 0054 | 19.66 | $975.06 | $472.33 | $195.01
26593 | T | Release muscles of hand | 0053 | 11.32 | $561.42 | $253.49 | $112.28
26596 | T | Excision constricting tissue | 0054 | 19.66 | $975.06 | $472.33 | $195.01
26597 | T | Release of scar contracture | 0054 | 19.66 | $975.06 | $472.33 | $195.01
26600 | T | Treat metacarpal fracture | 0044 | 2.17 | $107.63 | $38.08 | $21.53
26605 | T | Treat metacarpal fracture | 0044 | 2.17 | $107.63 | $38.08 | $21.53
26607 | T | Treat metacarpal fracture | 0044 | 2.17 | $107.63 | $38.08 | $21.53
26608 | T | Treat metacarpal fracture | 0046 | 22.29 | $1,105.50 | $535.76 | $221.10
26615 | T | Treat metacarpal fracture | 0046 | 22.29 | $1,105.50 | $535.76 | $221.10
26641 | T | Treat thumb dislocation | 0044 | 2.17 | $107.63 | $38.08 | $21.53
26645 | T | Treat thumb fracture | 0044 | 2.17 | $107.63 | $38.08 | $21.53
26650 | T | Treat thumb fracture | 0046 | 22.29 | $1,105.50 | $535.76 | $221.10
26665 | T | Treat thumb fracture | 0046 | 22.29 | $1,105.50 | $535.76 | $221.10
26670 | T | Treat hand dislocation | 0044 | 2.17 | $107.63 | $38.08 | $21.53
26675 | T | Treat hand dislocation | 0045 | 11.02 | $546.55 | $277.12 | $109.31
26676 | T | Pin hand dislocation | 0046 | 22.29 | $1,105.50 | $535.76 | $221.10
26685 | T | Treat hand dislocation | 0046 | 22.29 | $1,105.50 | $535.76 | $221.10
26686 | T | Treat hand dislocation | 0046 | 22.29 | $1,105.50 | $535.76 | $221.10
26700 | T | Treat knuckle dislocation | 0043 | 1.64 | $81.34 | $25.46 | $16.27
26705 | T | Treat knuckle dislocation | 0045 | 11.02 | $546.55 | $277.12 | $109.31
26706 | T | Pin knuckle dislocation | 0044 | 2.17 | $107.63 | $38.08 | $21.53
26715 | T | Treat knuckle dislocation | 0046 | 22.29 | $1,105.50 | $535.76 | $221.10
26720 | T | Treat finger fracture, each | 0043 | 1.64 | $81.34 | $25.46 | $16.27
26725 | T | Treat finger fracture, each | 0043 | 1.64 | $81.34 | $25.46 | $16.27
26727 | T | Treat finger fracture, each | 0046 | 22.29 | $1,105.50 | $535.76 | $221.10
26735 | T | Treat finger fracture, each | 0046 | 22.29 | $1,105.50 | $535.76 | $221.10
26740 | T | Treat finger fracture, each | 0043 | 1.64 | $81.34 | $25.46 | $16.27
26742 | T | Treat finger fracture, each | 0044 | 2.17 | $107.63 | $38.08 | $21.53
26746 | T | Treat finger fracture, each | 0046 | 22.29 | $1,105.50 | $535.76 | $221.10
26750 | T | Treat finger fracture, each | 0043 | 1.64 | $81.34 | $25.46 | $16.27
26755 | T | Treat finger fracture, each | 0043 | 1.64 | $81.34 | $25.46 | $16.27
26756 | T | Pin finger fracture, each | 0046 | 22.29 | $1,105.50 | $535.76 | $221.10
26765 | T | Treat finger fracture, each | 0046 | 22.29 | $1,105.50 | $535.76 | $221.10
26770 | T | Treat finger dislocation | 0043 | 1.64 | $81.34 | $25.46 | $16.27
26775 | T | Treat finger dislocation | 0045 | 11.02 | $546.55 | $277.12 | $109.31
26776 | T | Pin finger dislocation | 0046 | 22.29 | $1,105.50 | $535.76 | $221.10
26785 | T | Treat finger dislocation | 0046 | 22.29 | $1,105.50 | $535.76 | $221.10
26820 | T | Thumb fusion with graft | 0054 | 19.66 | $975.06 | $472.33 | $195.01
26841 | T | Fusion of thumb | 0054 | 19.66 | $975.06 | $472.33 | $195.01
26842 | T | Thumb fusion with graft | 0054 | 19.66 | $975.06 | $472.33 | $195.01
26843 | T | Fusion of hand joint | 0054 | 19.66 | $975.06 | $472.33 | $195.01
26844 | T | Fusion/graft of hand joint | 0054 | 19.66 | $975.06 | $472.33 | $195.01
26850 | T | Fusion of knuckle | 0054 | 19.66 | $975.06 | $472.33 | $195.01
26852 | T | Fusion of knuckle with graft | 0054 | 19.66 | $975.06 | $472.33 | $195.01
26860 | T | Fusion of finger joint | 0054 | 19.66 | $975.06 | $472.33 | $195.01
26861 | T | Fusion of finger jnt, add-on | 0054 | 19.66 | $975.06 | $472.33 | $195.01
26862 | T | Fusion/graft of finger joint | 0054 | 19.66 | $975.06 | $472.33 | $195.01
26863 | T | Fuse/graft added joint | 0054 | 19.66 | $975.06 | $472.33 | $195.01
26910 | T | Amputate metacarpal bone | 0054 | 19.66 | $975.06 | $472.33 | $195.01
26951 | T | Amputation of finger/thumb | 0053 | 11.32 | $561.42 | $253.49 | $112.28
26952 | T | Amputation of finger/thumb | 0053 | 11.32 | $561.42 | $253.49 | $112.28
26989 | T | Hand/finger surgery | 0043 | 1.64 | $81.34 | $25.46 | $16.27
26990 | T | Drainage of pelvis lesion | 0049 | 15.04 | $745.93 | $356.95 | $149.19
26991 | T | Drainage of pelvis bursa | 0049 | 15.04 | $745.93 | $356.95 | $149.19
26992 | C | Drainage of bone lesion |  |  |  |  |
27000 | T | Incision of hip tendon | 0049 | 15.04 | $745.93 | $356.95 | $149.19
27001 | T | Incision of hip tendon | 0050 | 21.13 | $1,047.96 | $513.86 | $209.59
27003 | T | Incision of hip tendon | 0050 | 21.13 | $1,047.96 | $513.86 | $209.59
27005 | C | Incision of hip tendon |  |  |  |  |
27006 | C | Incision of hip tendons |  |  |  |  |
27025 | C | Incision of hip/thigh fascia |  |  |  |  |
27030 | C | Drainage of hip joint |  |  |  |  |
27033 | T | Exploration of hip joint | 0051 | 27.76 | $1,376.79 | $675.24 | $275.36
27035 | C | Denervation of hip joint |  |  |  |  |
27036 | C | Excision of hip joint/muscle |  |  |  |  |
27040 | T | Biopsy of soft tissues | 0021 | 10.49 | $520.26 | $236.51 | $104.05
27041 | T | Biopsy of soft tissues | 0022 | 12.49 | $619.45 | $292.94 | $123.89
27047 | T | Remove hip/pelvis lesion | 0022 | 12.49 | $619.45 | $292.94 | $123.89
27048 | T | Remove hip/pelvis lesion | 0022 | 12.49 | $619.45 | $292.94 | $123.89
27049 | T | Remove tumor, hip/pelvis | 0022 | 12.49 | $619.45 | $292.94 | $123.89
27050 | T | Biopsy of sacroiliac joint | 0049 | 15.04 | $745.93 | $356.95 | $149.19
27052 | T | Biopsy of hip joint | 0049 | 15.04 | $745.93 | $356.95 | $149.19
27054 | C | Removal of hip joint lining |  |  |  |  |
27060 | T | Removal of ischial bursa | 0049 | 15.04 | $745.93 | $356.95 | $149.19
27062 | T | Remove femur lesion/bursa | 0049 | 15.04 | $745.93 | $356.95 | $149.19
27065 | T | Removal of hip bone lesion | 0049 | 15.04 | $745.93 | $356.95 | $149.19
27066 | T | Removal of hip bone lesion | 0050 | 21.13 | $1,047.96 | $513.86 | $209.59
27067 | T | Remove/graft hip bone lesion | 0050 | 21.13 | $1,047.96 | $513.86 | $209.59
27070 | C | Partial removal of hip bone |  |  |  |  |
27071 | C | Partial removal of hip bone |  |  |  |  |
27075 | C | Extensive hip surgery |  |  |  |  |
27076 | C | Extensive hip surgery |  |  |  |  |
27077 | C | Extensive hip surgery |  |  |  |  |
27078 | C | Extensive hip surgery |  |  |  |  |
27079 | C | Extensive hip surgery |  |  |  |  |
27080 | T | Removal of tail bone | 0050 | 21.13 | $1,047.96 | $513.86 | $209.59
27086 | T | Remove hip foreign body | 0019 | 4.00 | $198.39 | $78.91 | $39.68
27087 | T | Remove hip foreign body | 0049 | 15.04 | $745.93 | $356.95 | $149.19
27090 | C | Removal of hip prosthesis |  |  |  |  |
27091 | C | Removal of hip prosthesis |  |  |  |  |
27093 | N | Injection for hip x-ray |  |  |  |  |
27095 | N | Injection for hip x-ray |  |  |  |  |
27096 | N | Inject sacroiliac joint |  |  |  |  |
27097 | T | Revision of hip tendon | 0050 | 21.13 | $1,047.96 | $513.86 | $209.59
27098 | T | Transfer tendon to pelvis | 0050 | 21.13 | $1,047.96 | $513.86 | $209.59
27100 | T | Transfer of abdominal muscle | 0051 | 27.76 | $1,376.79 | $675.24 | $275.36
27105 | T | Transfer of spinal muscle | 0051 | 27.76 | $1,376.79 | $675.24 | $275.36
27110 | T | Transfer of iliopsoas muscle | 0051 | 27.76 | $1,376.79 | $675.24 | $275.36
27111 | T | Transfer of iliopsoas muscle | 0051 | 27.76 | $1,376.79 | $675.24 | $275.36
27120 | C | Reconstruction of hip socket |  |  |  |  |
27122 | C | Reconstruction of hip socket |  |  |  |  |
27125 | C | Partial hip replacement |  |  |  |  |
27130 | C | Total hip replacement |  |  |  |  |
27132 | C | Total hip replacement |  |  |  |  |
27134 | C | Revise hip joint replacement |  |  |  |  |
27137 | C | Revise hip joint replacement |  |  |  |  |
27138 | C | Revise hip joint replacement |  |  |  |  |
27140 | C | Transplant femur ridge |  |  |  |  |
27146 | C | Incision of hip bone |  |  |  |  |
27147 | C | Revision of hip bone |  |  |  |  |
27151 | C | Incision of hip bones |  |  |  |  |
27156 | C | Revision of hip bones |  |  |  |  |
27158 | C | Revision of pelvis |  |  |  |  |
27161 | C | Incision of neck of femur |  |  |  |  |
27165 | C | Incision/fixation of femur |  |  |  |  |
27170 | C | Repair/graft femur head/neck |  |  |  |  |
27175 | C | Treat slipped epiphysis |  |  |  |  |
27176 | C | Treat slipped epiphysis |  |  |  |  |
27177 | C | Treat slipped epiphysis |  |  |  |  |
27178 | C | Treat slipped epiphysis |  |  |  |  |
27179 | C | Revise head/neck of femur |  |  |  |  |
27181 | C | Treat slipped epiphysis |  |  |  |  |
27185 | C | Revision of femur epiphysis |  |  |  |  |
27187 | C | Reinforce hip bones |  |  |  |  |
27193 | T | Treat pelvic ring fracture | 0044 | 2.17 | $107.63 | $38.08 | $21.53
27194 | T | Treat pelvic ring fracture | 0045 | 11.02 | $546.55 | $277.12 | $109.31
27200 | T | Treat tail bone fracture | 0043 | 1.64 | $81.34 | $25.46 | $16.27
27202 | T | Treat tail bone fracture | 0046 | 22.29 | $1,105.50 | $535.76 | $221.10
27215 | C | Treat pelvic fracture(s) |  |  |  |  |
27216 | C | Treat pelvic ring fracture |  |  |  |  |
27217 | C | Treat pelvic ring fracture |  |  |  |  |
27218 | C | Treat pelvic ring fracture |  |  |  |  |
27220 | T | Treat hip socket fracture | 0044 | 2.17 | $107.63 | $38.08 | $21.53
27222 | C | Treat hip socket fracture |  |  |  |  |
27226 | C | Treat hip wall fracture |  |  |  |  |
27227 | C | Treat hip fracture(s) |  |  |  |  |
27228 | C | Treat hip fracture(s) |  |  |  |  |
27230 | T | Treat thigh fracture | 0044 | 2.17 | $107.63 | $38.08 | $21.53
27232 | C | Treat thigh fracture |  |  |  |  |
27235 | C | Treat thigh fracture |  |  |  |  |
27236 | C | Treat thigh fracture |  |  |  |  |
27238 | T | Treat thigh fracture | 0044 | 2.17 | $107.63 | $38.08 | $21.53
27240 | C | Treat thigh fracture |  |  |  |  |
27244 | C | Treat thigh fracture |  |  |  |  |
27245 | C | Treat thigh fracture |  |  |  |  |
27246 | T | Treat thigh fracture | 0044 | 2.17 | $107.63 | $38.08 | $21.53
27248 | C | Treat thigh fracture |  |  |  |  |
27250 | T | Treat hip dislocation | 0044 | 2.17 | $107.63 | $38.08 | $21.53
27252 | T | Treat hip dislocation | 0045 | 11.02 | $546.55 | $277.12 | $109.31
27253 | C | Treat hip dislocation |  |  |  |  |
27254 | C | Treat hip dislocation |  |  |  |  |
27256 | T | Treat hip dislocation | 0044 | 2.17 | $107.63 | $38.08 | $21.53
27257 | T | Treat hip dislocation | 0045 | 11.02 | $546.55 | $277.12 | $109.31
27258 | C | Treat hip dislocation |  |  |  |  |
27259 | C | Treat hip dislocation |  |  |  |  |
27265 | T | Treat hip dislocation | 0044 | 2.17 | $107.63 | $38.08 | $21.53
27266 | T | Treat hip dislocation | 0047 | 22.09 | $1,095.58 | $537.03 | $219.12
27275 | T | Manipulation of hip joint | 0045 | 11.02 | $546.55 | $277.12 | $109.31
CPT codes and descriptions only are copyright American Medical Association. All Rights Reserved. Applicable FARS/DFARS Apply.
Copyright American Dental Association. All rights reserved.
* Code is new in 2001.

Addendum C—[Reserved]

Addendum D.—Status Indicators: How Various Services Are Treated Under the Hospital Outpatient Prospective Payment System
Indicator | Service | Status
A | Pulmonary Rehabilitation Clinical Trial | Not Paid Under Ourpatient PPS.
C | Inpatient Procedures | Admit Patient; Bill as Inpatient.
A | Durable Medical Equipment, Prosthetics and Orthotics | DMEPOS Fee Schedule.
E | Non-Covered Items and Services | Not Paid Under Outpatient PPS.
A | Physical, Occupational and Speech Therapy | Rehabilitation Fee Schedule.
A | Ambulance | Ambulance Fee Schedule.
A | EPO for ESRD Patients | National Rate.
A | Clinical Diagnostic Laboratory Services | Laboratory Fee Schedule.
A | Physician Services for ESRD Patients | Not Paid Under Outpatient PPS.
A | Screening Mammography | Lower of Charges or National Rate.
N | Incidental Services, packaged into APC Rate | Packaged.
P | Partial Hospitalization | Paid Per Diem APC.
S | Significant Procedure, Not Discounted When Multiple | Paid Under Outpatient PPS.
T | Significant Procedure, Multiple Procedure Reduction Applies | Paid Under Outpatient PPS.
V | Visit to Clinic or Emergency Department | Paid Under Outpatient PPS.
X | Ancillary Service | Paid Under Outpatient PPS.
F | Acquisition of Corneal Tissue | Paid at Reasonable Cost.
G | Current Drug/Biological Pass-Through | Additional Payment.
H | Device Pass-Through | Additional Payment.
J | New Drug/Biological Pass-Through | Additional Payment.
K | Non Pass-Through Drug/Biological | Paid Under Outpatient PPS.

——————————

CPT codes and descriptions only are copyright American Medical Association. All Rights Reserved. Applicable FARS/DFARS Apply.

Copyright American Dental Association. All rights reserved.

* Code is new in 2001.

Addendum E.—CPT Codes Which Will Be Paid Only as Inpatient Procedures
[Calendar Year 2001]
CPT/ HCPCS | HOPD status indicator | Description
15756 | C | Free muscle flap, microvasc
15757 | C | Free skin flap, microvasc
15758 | C | Free fascial flap, microvasc
16035 | C | Incision of burn scab
* 16036 | C | Incision of burn scab
19200 | C | Removal of breast
19220 | C | Removal of breast
19271 | C | Revision of chest wall
19272 | C | Extensive chest wall surgery
19361 | C | Breast reconstruction
19364 | C | Breast reconstruction
19367 | C | Breast reconstruction
19368 | C | Breast reconstruction
19369 | C | Breast reconstruction
20660 | C | Apply, remove fixation device
20661 | C | Application of head brace
20662 | C | Application of pelvis brace
20663 | C | Application of thigh brace
20664 | C | Halo brace application
20802 | C | Replantation, arm, complete
20805 | C | Replant, forearm, complete
20808 | C | Replantation hand, complete
20816 | C | Replantation digit, complete
20822 | C | Replantation digit, complete
20824 | C | Replantation thumb, complete
20827 | C | Replantation thumb, complete
20838 | C | Replantation foot, complete
20930 | C | Spinal bone allograft
20931 | C | Spinal bone allograft
20936 | C | Spinal bone autograft
20937 | C | Spinal bone autograft
20938 | C | Spinal bone autograft
20955 | C | Fibula bone graft, microvasc
20956 | C | Iliac bone graft, microvasc
20957 | C | Mt bone graft, microvasc
20962 | C | Other bone graft, microvasc
20969 | C | Bone/skin graft, microvasc
20970 | C | Bone/skin graft, iliac crest
20972 | C | Bone/skin graft, metatarsal
20973 | C | Bone/skin graft, great toe
21045 | C | Extensive jaw surgery
21141 | C | Reconstruct midface, lefort
21142 | C | Reconstruct midface, lefort
21143 | C | Reconstruct midface, lefort
21145 | C | Reconstruct midface, lefort
21146 | C | Reconstruct midface, lefort
21147 | C | Reconstruct midface, lefort
21150 | C | Reconstruct midface, lefort
21151 | C | Reconstruct midface, lefort
21154 | C | Reconstruct midface, lefort
21155 | C | Reconstruct midface, lefort
21159 | C | Reconstruct midface, lefort
21160 | C | Reconstruct midface, lefort
21172 | C | Reconstruct orbit/forehead
21175 | C | Reconstruct orbit/forehead
21179 | C | Reconstruct entire forehead
21180 | C | Reconstruct entire forehead
21182 | C | Reconstruct cranial bone
21183 | C | Reconstruct cranial bone
21184 | C | Reconstruct cranial bone
21188 | C | Reconstruction of midface
21193 | C | Reconstruct lower jaw bone
21194 | C | Reconstruct lower jaw bone
21195 | C | Reconstruct lower jaw bone
21196 | C | Reconstruct lower jaw bone
21247 | C | Reconstruct lower jaw bone
21255 | C | Reconstruct lower jaw bone
21256 | C | Reconstruction of orbit
21268 | C | Revise eye sockets
21343 | C | Treatment of sinus fracture
21344 | C | Treatment of sinus fracture
21346 | C | Treat nose/jaw fracture
21347 | C | Treat nose/jaw fracture
21348 | C | Treat nose/jaw fracture
21356 | C | Treat cheek bone fracture
21360 | C | Treat cheek bone fracture
21365 | C | Treat cheek bone fracture
21366 | C | Treat cheek bone fracture
21385 | C | Treat eye socket fracture
21386 | C | Treat eye socket fracture
21387 | C | Treat eye socket fracture
21390 | C | Treat eye socket fracture
21395 | C | Treat eye socket fracture
21408 | C | Treat eye socket fracture
21422 | C | Treat mouth roof fracture
21423 | C | Treat mouth roof fracture
21431 | C | Treat craniofacial fracture
21432 | C | Treat craniofacial fracture
21433 | C | Treat craniofacial fracture
21435 | C | Treat craniofacial fracture
21436 | C | Treat craniofacial fracture
21495 | C | Treat hyoid bone fracture
21510 | C | Drainage of bone lesion
21557 | C | Remove tumor, neck/chest
21615 | C | Removal of rib
21616 | C | Removal of rib and nerves
21620 | C | Partial removal of sternum
21627 | C | Sternal debridement
21630 | C | Extensive sternum surgery
21632 | C | Extensive sternum surgery
21705 | C | Revision of neck muscle/rib
21740 | C | Reconstruction of sternum
21750 | C | Repair of sternum separation
21810 | C | Treatment of rib fracture(s)
21825 | C | Treat sternum fracture
22100 | C | Remove part of neck vertebra
22101 | C | Remove part, thorax vertebra
22102 | C | Remove part, lumbar vertebra
22103 | C | Remove extra spine segment
22110 | C | Remove part of neck vertebra
22112 | C | Remove part, thorax vertebra
22114 | C | Remove part, lumbar vertebra
22116 | C | Remove extra spine segment
22210 | C | Revision of neck spine
22212 | C | Revision of thorax spine
22214 | C | Revision of lumbar spine
22216 | C | Revise, extra spine segment
22220 | C | Revision of neck spine
22222 | C | Revision of thorax spine
22224 | C | Revision of lumbar spine
22226 | C | Revise, extra spine segment
22318 | C | Treat odontoid fx w/o graft
22319 | C | Treat odontoid fx w/graft
22325 | C | Treat spine fracture
22326 | C | Treat neck spine fracture
22327 | C | Treat thorax spine fracture
22328 | C | Treat each add spine fx
22548 | C | Neck spine fusion
22554 | C | Neck spine fusion
22556 | C | Thorax spine fusion
22558 | C | Lumbar spine fusion
22585 | C | Additional spinal fusion
22590 | C | Spine & skull spinal fusion
22595 | C | Neck spinal fusion
22600 | C | Neck spine fusion
22610 | C | Thorax spine fusion
22612 | C | Lumbar spine fusion
22614 | C | Spine fusion, extra segment
22630 | C | Lumbar spine fusion
22632 | C | Spine fusion, extra segment
22800 | C | Fusion of spine
22802 | C | Fusion of spine
22804 | C | Fusion of spine
22808 | C | Fusion of spine
22810 | C | Fusion of spine
22812 | C | Fusion of spine
22818 | C | Kyphectomy, 1-2 segments
22819 | C | Kyphectomy, 3 or more
22830 | C | Exploration of spinal fusion
22840 | C | Insert spine fixation device
22841 | C | Insert spine fixation device
22842 | C | Insert spine fixation device
22843 | C | Insert spine fixation device
22844 | C | Insert spine fixation device
22845 | C | Insert spine fixation device
22846 | C | Insert spine fixation device
22847 | C | Insert spine fixation device
22848 | C | Insert pelv fixation device
22849 | C | Reinsert spinal fixation
22850 | C | Remove spine fixation device
22851 | C | Apply spine prosth device
22852 | C | Remove spine fixation device
22855 | C | Remove spine fixation device
23035 | C | Drain shoulder bone lesion
23125 | C | Removal of collar bone
23195 | C | Removal of head of humerus
23200 | C | Removal of collar bone
23210 | C | Removal of shoulder blade
23220 | C | Partial removal of humerus
23221 | C | Partial removal of humerus
23222 | C | Partial removal of humerus
23332 | C | Remove shoulder foreign body
23395 | C | Muscle transfer, shoulder/arm
23397 | C | Muscle transfers
23400 | C | Fixation of shoulder blade
23440 | C | Remove/transplant tendon
23470 | C | Reconstruct shoulder joint
23472 | C | Reconstruct shoulder joint
23900 | C | Amputation of arm & girdle
23920 | C | Amputation at shoulder joint
24149 | C | Radical resection of elbow
24150 | C | Extensive humerus surgery
24151 | C | Extensive humerus surgery
24152 | C | Extensive radius surgery
24153 | C | Extensive radius surgery
24900 | C | Amputation of upper arm
24920 | C | Amputation of upper arm
24930 | C | Amputation follow-up surgery
24931 | C | Amputate upper arm & implant
24940 | C | Revision of upper arm
25170 | C | Extensive forearm surgery
25390 | C | Shorten radius or ulna
25391 | C | Lengthen radius or ulna
25392 | C | Shorten radius & ulna
25393 | C | Lengthen radius & ulna
25420 | C | Repair/graft radius & ulna
25900 | C | Amputation of forearm
25905 | C | Amputation of forearm
25909 | C | Amputation follow-up surgery
25915 | C | Amputation of forearm
25920 | C | Amputate hand at wrist
25924 | C | Amputation follow-up surgery
25927 | C | Amputation of hand
25931 | C | Amputation follow-up surgery
26551 | C | Great toe-hand transfer
26553 | C | Single transfer, toe-hand
26554 | C | Double transfer, toe-hand
26556 | C | Toe joint transfer
26992 | C | Drainage of bone lesion
27005 | C | Incision of hip tendon
27006 | C | Incision of hip tendons
27025 | C | Incision of hip/thigh fascia
27030 | C | Drainage of hip joint
27035 | C | Denervation of hip joint
27036 | C | Excision of hip joint/muscle
27054 | C | Removal of hip joint lining
27070 | C | Partial removal of hip bone
27071 | C | Partial removal of hip bone
27075 | C | Extensive hip surgery
27076 | C | Extensive hip surgery
27077 | C | Extensive hip surgery
27078 | C | Extensive hip surgery
27079 | C | Extensive hip surgery
27090 | C | Removal of hip prosthesis
27091 | C | Removal of hip prosthesis
27120 | C | Reconstruction of hip socket
27122 | C | Reconstruction of hip socket
27125 | C | Partial hip replacement
27130 | C | Total hip replacement
27132 | C | Total hip replacement
27134 | C | Revise hip joint replacement
27137 | C | Revise hip joint replacement
27138 | C | Revise hip joint replacement
27140 | C | Transplant femur ridge
27146 | C | Incision of hip bone
27147 | C | Revision of hip bone
27151 | C | Incision of hip bones
27156 | C | Revision of hip bones
27158 | C | Revision of pelvis
27161 | C | Incision of neck of femur
27165 | C | Incision/fixation of femur
27170 | C | Repair/graft femur head/neck
27175 | C | Treat slipped epiphysis
27176 | C | Treat slipped epiphysis
27177 | C | Treat slipped epiphysis
27178 | C | Treat slipped epiphysis
27179 | C | Revise head/neck of femur
27181 | C | Treat slipped epiphysis
27185 | C | Revision of femur epiphysis
27187 | C | Reinforce hip bones
27215 | C | Treat pelvic fracture(s)
27216 | C | Treat pelvic ring fracture
27217 | C | Treat pelvic ring fracture
27218 | C | Treat pelvic ring fracture
27222 | C | Treat hip socket fracture
27226 | C | Treat hip wall fracture
27227 | C | Treat hip fracture(s)
27228 | C | Treat hip fracture(s)
27232 | C | Treat thigh fracture
27235 | C | Treat thigh fracture
27236 | C | Treat thigh fracture
27240 | C | Treat thigh fracture
27244 | C | Treat thigh fracture
27245 | C | Treat thigh fracture
27248 | C | Treat thigh fracture
27253 | C | Treat hip dislocation
27254 | C | Treat hip dislocation
27258 | C | Treat hip dislocation
27259 | C | Treat hip dislocation
27280 | C | Fusion of sacroiliac joint
27282 | C | Fusion of pubic bones
27284 | C | Fusion of hip joint
27286 | C | Fusion of hip joint
27290 | C | Amputation of leg at hip
27295 | C | Amputation of leg at hip
27303 | C | Drainage of bone lesion
27365 | C | Extensive leg surgery
27445 | C | Revision of knee joint
27446 | C | Revision of knee joint
27447 | C | Total knee replacement
27448 | C | Incision of thigh
27450 | C | Incision of thigh
27454 | C | Realignment of thigh bone
27455 | C | Realignment of knee
27457 | C | Realignment of knee
27465 | C | Shortening of thigh bone
27466 | C | Lengthening of thigh bone
27468 | C | Shorten/lengthen thighs
27470 | C | Repair of thigh
27472 | C | Repair/graft of thigh
27475 | C | Surgery to stop leg growth
27477 | C | Surgery to stop leg growth
27479 | C | Surgery to stop leg growth
27485 | C | Surgery to stop leg growth
27486 | C | Revise/replace knee joint
27487 | C | Revise/replace knee joint
27488 | C | Removal of knee prosthesis
27495 | C | Reinforce thigh
27506 | C | Treatment of thigh fracture
27507 | C | Treatment of thigh fracture
27511 | C | Treatment of thigh fracture
27513 | C | Treatment of thigh fracture
27514 | C | Treatment of thigh fracture
27519 | C | Treat thigh fx growth plate
27535 | C | Treat knee fracture
27536 | C | Treat knee fracture
27540 | C | Treat knee fracture
27556 | C | Treat knee dislocation
27557 | C | Treat knee dislocation
27558 | C | Treat knee dislocation
27580 | C | Fusion of knee
27590 | C | Amputate leg at thigh
27591 | C | Amputate leg at thigh
27592 | C | Amputate leg at thigh
27596 | C | Amputation follow-up surgery
27598 | C | Amputate lower leg at knee
27645 | C | Extensive lower leg surgery
27646 | C | Extensive lower leg surgery
27702 | C | Reconstruct ankle joint
27703 | C | Reconstruction, ankle joint
27712 | C | Realignment of lower leg
27715 | C | Revision of lower leg
27720 | C | Repair of tibia
27722 | C | Repair/graft of tibia
27724 | C | Repair/graft of tibia
27725 | C | Repair of lower leg
27727 | C | Repair of lower leg
27880 | C | Amputation of lower leg
27881 | C | Amputation of lower leg
27882 | C | Amputation of lower leg
27886 | C | Amputation follow-up surgery
27888 | C | Amputation of foot at ankle
28800 | C | Amputation of midfoot
28805 | C | Amputation thru metatarsal
31225 | C | Removal of upper jaw
31230 | C | Removal of upper jaw
31290 | C | Nasal/sinus endoscopy, surg
31291 | C | Nasal/sinus endoscopy, surg
31292 | C | Nasal/sinus endoscopy, surg
31293 | C | Nasal/sinus endoscopy, surg
31294 | C | Nasal/sinus endoscopy, surg
31360 | C | Removal of larynx
31365 | C | Removal of larynx
31367 | C | Partial removal of larynx
31368 | C | Partial removal of larynx
31370 | C | Partial removal of larynx
31375 | C | Partial removal of larynx
31380 | C | Partial removal of larynx
31382 | C | Partial removal of larynx
31390 | C | Removal of larynx & pharynx
31395 | C | Reconstruct larynx & pharynx
31582 | C | Revision of larynx
31584 | C | Treat larynx fracture
31587 | C | Revision of larynx
31725 | C | Clearance of airways
31760 | C | Repair of windpipe
31766 | C | Reconstruction of windpipe
31770 | C | Repair/graft of bronchus
31775 | C | Reconstruct bronchus
31780 | C | Reconstruct windpipe
31781 | C | Reconstruct windpipe
31785 | C | Remove windpipe lesion
31786 | C | Remove windpipe lesion
31800 | C | Repair of windpipe injury
31805 | C | Repair of windpipe injury
32035 | C | Exploration of chest
32036 | C | Exploration of chest
32095 | C | Biopsy through chest wall
32100 | C | Exploration/biopsy of chest
32110 | C | Explore/repair chest
32120 | C | Re-exploration of chest
32124 | C | Explore chest free adhesions
32140 | C | Removal of lung lesion(s)
32141 | C | Remove/treat lung lesions
32150 | C | Removal of lung lesion(s)
32151 | C | Remove lung foreign body
32160 | C | Open chest heart massage
32200 | C | Drain, open, lung lesion
32201 | C | Drain, percut, lung lesion
32215 | C | Treat chest lining
32220 | C | Release of lung
32225 | C | Partial release of lung
32310 | C | Removal of chest lining
32320 | C | Free/remove chest lining
32402 | C | Open biopsy chest lining
32440 | C | Removal of lung
32442 | C | Sleeve pneumonectomy
32445 | C | Removal of lung
32480 | C | Partial removal of lung
32482 | C | Bilobectomy
32484 | C | Segmentectomy
32486 | C | Sleeve lobectomy
32488 | C | Completion pneumonectomy
32491 | C | Lung volume reduction
32500 | C | Partial removal of lung
32501 | C | Repair bronchus add-on
32520 | C | Remove lung & revise chest
32522 | C | Remove lung & revise chest
32525 | C | Remove lung & revise chest
32540 | C | Removal of lung lesion
32650 | C | Thoracoscopy, surgical
32651 | C | Thoracoscopy, surgical
32652 | C | Thoracoscopy, surgical
32653 | C | Thoracoscopy, surgical
32654 | C | Thoracoscopy, surgical
32655 | C | Thoracoscopy, surgical
32656 | C | Thoracoscopy, surgical
32657 | C | Thoracoscopy, surgical
32658 | C | Thoracoscopy, surgical
32659 | C | Thoracoscopy, surgical
32660 | C | Thoracoscopy, surgical
32661 | C | Thoracoscopy, surgical
32662 | C | Thoracoscopy, surgical
32663 | C | Thoracoscopy, surgical
32664 | C | Thoracoscopy, surgical
32665 | C | Thoracoscopy, surgical
32800 | C | Repair lung hernia
32810 | C | Close chest after drainage
32815 | C | Close bronchial fistula
32820 | C | Reconstruct injured chest
32850 | C | Donor pneumonectomy
32851 | C | Lung transplant, single
32852 | C | Lung transplant with bypass
32853 | C | Lung transplant, double
32854 | C | Lung transplant with bypass
32900 | C | Removal of rib(s)
32905 | C | Revise & repair chest wall
32906 | C | Revise & repair chest wall
32940 | C | Revision of lung
32997 | C | Total lung lavage
33015 | C | Incision of heart sac
33020 | C | Incision of heart sac
33025 | C | Incision of heart sac
33030 | C | Partial removal of heart sac
33031 | C | Partial removal of heart sac
33050 | C | Removal of heart sac lesion
33120 | C | Removal of heart lesion
33130 | C | Removal of heart lesion
33140 | C | Heart revascularize (tmr)
* 33141 | C | Heart revascularize (tmr)
33200 | C | Insertion of heart pacemaker
33201 | C | Insertion of heart pacemaker
33236 | C | Remove electrode/thoracotomy
33237 | C | Remove electrode/thoracotomy
33238 | C | Remove electrode/thoracotomy
33243 | C | Remove eltrd/thoracotomy
33245 | C | Insert epic eltrd pace-defib
33246 | C | Insert epic eltrd/generator
33250 | C | Ablate heart dysrhythm focus
33251 | C | Ablate heart dysrhythm focus
33253 | C | Reconstruct atria
33261 | C | Ablate heart dysrhythm focus
33300 | C | Repair of heart wound
33305 | C | Repair of heart wound
33310 | C | Exploratory heart surgery
33315 | C | Exploratory heart surgery
33320 | C | Repair major blood vessel(s)
33321 | C | Repair major vessel
33322 | C | Repair major blood vessel(s)
33330 | C | Insert major vessel graft
33332 | C | Insert major vessel graft
33335 | C | Insert major vessel graft
33400 | C | Repair of aortic valve
33401 | C | Valvuloplasty, open
33403 | C | Valvuloplasty, w/cp bypass
33404 | C | Prepare heart-aorta conduit
33405 | C | Replacement of aortic valve
33406 | C | Replacement of aortic valve
33410 | C | Replacement of aortic valve
33411 | C | Replacement of aortic valve
33412 | C | Replacement of aortic valve
33413 | C | Replacement of aortic valve
33414 | C | Repair of aortic valve
33415 | C | Revision, subvalvular tissue
33416 | C | Revise ventricle muscle
33417 | C | Repair of aortic valve
33420 | C | Revision of mitral valve
33422 | C | Revision of mitral valve
33425 | C | Repair of mitral valve
33426 | C | Repair of mitral valve
33427 | C | Repair of mitral valve
33430 | C | Replacement of mitral valve
33460 | C | Revision of tricuspid valve
33463 | C | Valvuloplasty, tricuspid
33464 | C | Valvuloplasty, tricuspid
33465 | C | Replace tricuspid valve
33468 | C | Revision of tricuspid valve
33470 | C | Revision of pulmonary valve
33471 | C | Valvotomy, pulmonary valve
33472 | C | Revision of pulmonary valve
33474 | C | Revision of pulmonary valve
33475 | C | Replacement, pulmonary valve
33476 | C | Revision of heart chamber
33478 | C | Revision of heart chamber
33496 | C | Repair, prosth valve clot
33500 | C | Repair heart vessel fistula
33501 | C | Repair heart vessel fistula
33502 | C | Coronary artery correction
33503 | C | Coronary artery graft
33504 | C | Coronary artery graft
33505 | C | Repair artery w/tunnel
33506 | C | Repair artery, translocation
33510 | C | CABG, vein, single
33511 | C | CABG, vein, two
33512 | C | CABG, vein, three
33513 | C | CABG, vein, four
33514 | C | CABG, vein, five
33516 | C | Cabg, vein, six or more
33517 | C | CABG, artery-vein, single
33518 | C | CABG, artery-vein, two
33519 | C | CABG, artery-vein, three
33521 | C | CABG, artery-vein, four
33522 | C | CABG, artery-vein, five
33523 | C | Cabg, art-vein, six or more
33530 | C | Coronary artery, bypass/reop
33533 | C | CABG, arterial, single
33534 | C | CABG, arterial, two
33535 | C | CABG, arterial, three
33536 | C | Cabg, arterial, four or more
33542 | C | Removal of heart lesion
33545 | C | Repair of heart damage
33572 | C | Open coronary endarterectomy
33600 | C | Closure of valve
33602 | C | Closure of valve
33606 | C | Anastomosis/artery-aorta
33608 | C | Repair anomaly w/conduit
33610 | C | Repair by enlargement
33611 | C | Repair double ventricle
33612 | C | Repair double ventricle
33615 | C | Repair, simple fontan
33617 | C | Repair, modified fontan
33619 | C | Repair single ventricle
33641 | C | Repair heart septum defect
33645 | C | Revision of heart veins
33647 | C | Repair heart septum defects
33660 | C | Repair of heart defects
33665 | C | Repair of heart defects
33670 | C | Repair of heart chambers
33681 | C | Repair heart septum defect
33684 | C | Repair heart septum defect
33688 | C | Repair heart septum defect
33690 | C | Reinforce pulmonary artery
33692 | C | Repair of heart defects
33694 | C | Repair of heart defects
33697 | C | Repair of heart defects
33702 | C | Repair of heart defects
33710 | C | Repair of heart defects
33720 | C | Repair of heart defect
33722 | C | Repair of heart defect
33730 | C | Repair heart-vein defect(s)
33732 | C | Repair heart-vein defect
33735 | C | Revision of heart chamber
33736 | C | Revision of heart chamber
33737 | C | Revision of heart chamber
33750 | C | Major vessel shunt
33755 | C | Major vessel shunt
33762 | C | Major vessel shunt
33764 | C | Major vessel shunt & graft
33766 | C | Major vessel shunt
33767 | C | Major vessel shunt
33770 | C | Repair great vessels defect
33771 | C | Repair great vessels defect
33774 | C | Repair great vessels defect
33775 | C | Repair great vessels defect
33776 | C | Repair great vessels defect
33777 | C | Repair great vessels defect
33778 | C | Repair great vessels defect
33779 | C | Repair great vessels defect
33780 | C | Repair great vessels defect
33781 | C | Repair great vessels defect
33786 | C | Repair arterial trunk
33788 | C | Revision of pulmonary artery
33800 | C | Aortic suspension
33802 | C | Repair vessel defect
33803 | C | Repair vessel defect
33813 | C | Repair septal defect
33814 | C | Repair septal defect
33820 | C | Revise major vessel
33822 | C | Revise major vessel
33824 | C | Revise major vessel
33840 | C | Remove aorta constriction
33845 | C | Remove aorta constriction
33851 | C | Remove aorta constriction
33852 | C | Repair septal defect
33853 | C | Repair septal defect
33860 | C | Ascending aortic graft
33861 | C | Ascending aortic graft
33863 | C | Ascending aortic graft
33870 | C | Transverse aortic arch graft
33875 | C | Thoracic aortic graft
33877 | C | Thoracoabdominal graft
33910 | C | Remove lung artery emboli
33915 | C | Remove lung artery emboli
33916 | C | Surgery of great vessel
33917 | C | Repair pulmonary artery
33918 | C | Repair pulmonary atresia
33919 | C | Repair pulmonary atresia
33920 | C | Repair pulmonary atresia
33922 | C | Transect pulmonary artery
33924 | C | Remove pulmonary shunt
33930 | C | Removal of donor heart/lung
33935 | C | Transplantation, heart/lung
33940 | C | Removal of donor heart
33945 | C | Transplantation of heart
33960 | C | External circulation assist
33961 | C | External circulation assist
33968 | C | Remove aortic assist device
33970 | C | Aortic circulation assist
33971 | C | Aortic circulation assist
33973 | C | Insert balloon device
33974 | C | Remove intra-aortic balloon
33975 | C | Implant ventricular device
33976 | C | Implant ventricular device
33977 | C | Remove ventricular device
33978 | C | Remove ventricular device
34001 | C | Removal of artery clot
34051 | C | Removal of artery clot
34151 | C | Removal of artery clot
34401 | C | Removal of vein clot
34451 | C | Removal of vein clot
34502 | C | Reconstruct vena cava
* 34800 | C | Repair abdominal aortic aneurysm
* 34802 | C | Repair abdominal aortic aneurysm
* 34804 | C | Repair abdominal aortic aneurysm
* 34808 | C | Repair abdominal aortic aneurysm
* 34812 | C | Repair abdominal aortic aneurysm
* 34813 | C | Repair abdominal aortic aneurysm
* 34820 | C | Repair abdominal aortic aneurysm
* 34825 | C | Repair abdominal aortic aneurysm
* 34826 | C | Repair abdominal aortic aneurysm
* 34830 | C | Repair abdominal aortic aneurysm
* 34831 | C | Repair abdominal aortic aneurysm
* 34832 | C | Repair abdominal aortic aneurysm
35001 | C | Repair defect of artery
35002 | C | Repair artery rupture, neck
35005 | C | Repair defect of artery
35013 | C | Repair artery rupture, arm
35021 | C | Repair defect of artery
35022 | C | Repair artery rupture, chest
35045 | C | Repair defect of arm artery
35081 | C | Repair defect of artery
35082 | C | Repair artery rupture, aorta
35091 | C | Repair defect of artery
35092 | C | Repair artery rupture, aorta
35102 | C | Repair defect of artery
35103 | C | Repair artery rupture, groin
35111 | C | Repair defect of artery
35112 | C | Repair artery rupture,spleen
35121 | C | Repair defect of artery
35122 | C | Repair artery rupture, belly
35131 | C | Repair defect of artery
35132 | C | Repair artery rupture, groin
35141 | C | Repair defect of artery
35142 | C | Repair artery rupture, thigh
35151 | C | Repair defect of artery
35152 | C | Repair artery rupture, knee
35161 | C | Repair defect of artery
35162 | C | Repair artery rupture
35182 | C | Repair blood vessel lesion
35189 | C | Repair blood vessel lesion
35211 | C | Repair blood vessel lesion
35216 | C | Repair blood vessel lesion
35221 | C | Repair blood vessel lesion
35241 | C | Repair blood vessel lesion
35246 | C | Repair blood vessel lesion
35251 | C | Repair blood vessel lesion
35271 | C | Repair blood vessel lesion
35276 | C | Repair blood vessel lesion
35281 | C | Repair blood vessel lesion
35301 | C | Rechanneling of artery
35311 | C | Rechanneling of artery
35331 | C | Rechanneling of artery
35341 | C | Rechanneling of artery
35351 | C | Rechanneling of artery
35355 | C | Rechanneling of artery
35361 | C | Rechanneling of artery
35363 | C | Rechanneling of artery
35371 | C | Rechanneling of artery
35372 | C | Rechanneling of artery
35381 | C | Rechanneling of artery
35390 | C | Reoperation, carotid add-on
35400 | C | Angioscopy
35450 | C | Repair arterial blockage
35452 | C | Repair arterial blockage
35454 | C | Repair arterial blockage
35456 | C | Repair arterial blockage
35480 | C | Atherectomy, open
35482 | C | Atherectomy, open
35483 | C | Atherectomy, open
35501 | C | Artery bypass graft
35506 | C | Artery bypass graft
35507 | C | Artery bypass graft
35508 | C | Artery bypass graft
35509 | C | Artery bypass graft
35511 | C | Artery bypass graft
35515 | C | Artery bypass graft
35516 | C | Artery bypass graft
35518 | C | Artery bypass graft
35521 | C | Artery bypass graft
35526 | C | Artery bypass graft
35531 | C | Artery bypass graft
35533 | C | Artery bypass graft
35536 | C | Artery bypass graft
35541 | C | Artery bypass graft
35546 | C | Artery bypass graft
35548 | C | Artery bypass graft
35549 | C | Artery bypass graft
35551 | C | Artery bypass graft
35556 | C | Artery bypass graft
35558 | C | Artery bypass graft
35560 | C | Artery bypass graft
35563 | C | Artery bypass graft
35565 | C | Artery bypass graft
35566 | C | Artery bypass graft
35571 | C | Artery bypass graft
35582 | C | Vein bypass graft
35583 | C | Vein bypass graft
35585 | C | Vein bypass graft
35587 | C | Vein bypass graft
* 35600 | C | Harvest artery graft
35601 | C | Artery bypass graft
35606 | C | Artery bypass graft
35612 | C | Artery bypass graft
35616 | C | Artery bypass graft
35621 | C | Artery bypass graft
35623 | C | Bypass graft, not vein
35626 | C | Artery bypass graft
35631 | C | Artery bypass graft
35636 | C | Artery bypass graft
35641 | C | Artery bypass graft
35642 | C | Artery bypass graft
35645 | C | Artery bypass graft
35646 | C | Artery bypass graft
35650 | C | Artery bypass graft
35651 | C | Artery bypass graft
35654 | C | Artery bypass graft
35656 | C | Artery bypass graft
35661 | C | Artery bypass graft
35663 | C | Artery bypass graft
35665 | C | Artery bypass graft
35666 | C | Artery bypass graft
35671 | C | Artery bypass graft
35681 | C | Composite bypass graft
35682 | C | Composite bypass graft
35683 | C | Composite bypass graft
35691 | C | Arterial transposition
35693 | C | Arterial transposition
35694 | C | Arterial transposition
35695 | C | Arterial transposition
35700 | C | Reoperation, bypass graft
35701 | C | Exploration, carotid artery
35721 | C | Exploration, femoral artery
35741 | C | Exploration popliteal artery
35800 | C | Explore neck vessels
35820 | C | Explore chest vessels
35840 | C | Explore abdominal vessels
35870 | C | Repair vessel graft defect
35901 | C | Excision, graft, neck
35905 | C | Excision, graft, thorax
35907 | C | Excision, graft, abdomen
36510 | C | Insertion of catheter, vein
36660 | C | Insertion catheter, artery
36822 | C | Insertion of cannula(s)
36823 | C | Insertion of cannula(s)
37140 | C | Revision of circulation
37145 | C | Revision of circulation
37160 | C | Revision of circulation
37180 | C | Revision of circulation
37181 | C | Splice spleen/kidney veins
37195 | C | Thrombolytic therapy, stroke
37616 | C | Ligation of chest artery
37617 | C | Ligation of abdomen artery
37618 | C | Ligation of extremity artery
37660 | C | Revision of major vein
37788 | C | Revascularization, penis
38100 | C | Removal of spleen, total
38101 | C | Removal of spleen, partial
38102 | C | Removal of spleen, total
38115 | C | Repair of ruptured spleen
38380 | C | Thoracic duct procedure
38381 | C | Thoracic duct procedure
38382 | C | Thoracic duct procedure
38562 | C | Removal, pelvic lymph nodes
38564 | C | Removal, abdomen lymph nodes
38700 | C | Removal of lymph nodes, neck
38724 | C | Removal of lymph nodes, neck
38746 | C | Remove thoracic lymph nodes
38747 | C | Remove abdominal lymph nodes
38765 | C | Remove groin lymph nodes
38770 | C | Remove pelvis lymph nodes
38780 | C | Remove abdomen lymph nodes
39000 | C | Exploration of chest
39010 | C | Exploration of chest
39200 | C | Removal chest lesion
39220 | C | Removal chest lesion
39499 | C | Chest procedure
39501 | C | Repair diaphragm laceration
39502 | C | Repair paraesophageal hernia
39503 | C | Repair of diaphragm hernia
39520 | C | Repair of diaphragm hernia
39530 | C | Repair of diaphragm hernia
39531 | C | Repair of diaphragm hernia
39540 | C | Repair of diaphragm hernia
39541 | C | Repair of diaphragm hernia
39545 | C | Revision of diaphragm
39560 | C | Resect diaphragm, simple
39561 | C | Resect diaphragm, complex
39599 | C | Diaphragm surgery procedure
41130 | C | Partial removal of tongue
41135 | C | Tongue and neck surgery
41140 | C | Removal of tongue
41145 | C | Tongue removal, neck surgery
41150 | C | Tongue, mouth, jaw surgery
41153 | C | Tongue, mouth, neck surgery
41155 | C | Tongue, jaw, & neck surgery
42426 | C | Excise parotid gland/lesion
42842 | C | Extensive surgery of throat
42845 | C | Extensive surgery of throat
42894 | C | Revision of pharyngeal walls
42953 | C | Repair throat, esophagus
42961 | C | Control throat bleeding
42971 | C | Control nose/throat bleeding
43030 | C | Throat muscle surgery
43045 | C | Incision of esophagus
43100 | C | Excision of esophagus lesion
43101 | C | Excision of esophagus lesion
43107 | C | Removal of esophagus
43108 | C | Removal of esophagus
43112 | C | Removal of esophagus
43113 | C | Removal of esophagus
43116 | C | Partial removal of esophagus
43117 | C | Partial removal of esophagus
43118 | C | Partial removal of esophagus
43121 | C | Partial removal of esophagus
43122 | C | Parital removal of esophagus
43123 | C | Partial removal of esophagus
43124 | C | Removal of esophagus
43135 | C | Removal of esophagus pouch
43300 | C | Repair of esophagus
43305 | C | Repair esophagus and fistula
43310 | C | Repair of esophagus
43312 | C | Repair esophagus and fistula
43320 | C | Fuse esophagus & stomach
43324 | C | Revise esophagus & stomach
43325 | C | Revise esophagus & stomach
43326 | C | Revise esophagus & stomach
43330 | C | Repair of esophagus
43331 | C | Repair of esophagus
43340 | C | Fuse esophagus & intestine
43341 | C | Fuse esophagus & intestine
43350 | C | Surgical opening, esophagus
43351 | C | Surgical opening, esophagus
43352 | C | Surgical opening, esophagus
43360 | C | Gastrointestinal repair
43361 | C | Gastrointestinal repair
43400 | C | Ligate esophagus veins
43401 | C | Esophagus surgery for veins
43405 | C | Ligate/staple esophagus
43410 | C | Repair esophagus wound
43415 | C | Repair esophagus wound
43420 | C | Repair esophagus opening
43425 | C | Repair esophagus opening
43460 | C | Pressure treatment esophagus
43496 | C | Free jejunum flap, microvasc
43500 | C | Surgical opening of stomach
43501 | C | Surgical repair of stomach
43502 | C | Surgical repair of stomach
43510 | C | Surgical opening of stomach
43520 | C | Incision of pyloric muscle
43605 | C | Biopsy of stomach
43610 | C | Excision of stomach lesion
43611 | C | Excision of stomach lesion
43620 | C | Removal of stomach
43621 | C | Removal of stomach
43622 | C | Removal of stomach
43631 | C | Removal of stomach, partial
43632 | C | Removal of stomach, partial
43633 | C | Removal of stomach, partial
43634 | C | Removal of stomach, partial
43635 | C | Removal of stomach, partial
43638 | C | Removal of stomach, partial
43639 | C | Removal of stomach, partial
43640 | C | Vagotomy & pylorus repair
43641 | C | Vagotomy & pylorus repair
43800 | C | Reconstruction of pylorus
43810 | C | Fusion of stomach and bowel
43820 | C | Fusion of stomach and bowel
43825 | C | Fusion of stomach and bowel
43832 | C | Place gastrostomy tube
43840 | C | Repair of stomach lesion
43842 | C | Gastroplasty for obesity
43843 | C | Gastroplasty for obesity
43846 | C | Gastric bypass for obesity
43847 | C | Gastric bypass for obesity
43848 | C | Revision gastroplasty
43850 | C | Revise stomach-bowel fusion
43855 | C | Revise stomach-bowel fusion
43860 | C | Revise stomach-bowel fusion
43865 | C | Revise stomach-bowel fusion
43880 | C | Repair stomach-bowel fistula
44005 | C | Freeing of bowel adhesion
44010 | C | Incision of small bowel
44015 | C | Insert needle cath bowel
44020 | C | Exploration of small bowel
44021 | C | Decompress small bowel
44025 | C | Incision of large bowel
44050 | C | Reduce bowel obstruction
44055 | C | Correct malrotation of bowel
44110 | C | Excision of bowel lesion(s)
44111 | C | Excision of bowel lesion(s)
44120 | C | Removal of small intestine
44121 | C | Removal of small intestine
44125 | C | Removal of small intestine
* 44130 | C | Bowel to bowel fusion
* 44132 | C | Donor enterectomy
* 44133 | C | Donor enterectomy
* 44135 | C | Intestinal allotransplantation
* 44136 | C | Intestinal allotransplantation
44139 | C | Mobilization of colon
44140 | C | Partial removal of colon
44141 | C | Partial removal of colon
44143 | C | Partial removal of colon
44144 | C | Partial removal of colon
44145 | C | Partial removal of colon
44146 | C | Partial removal of colon
44147 | C | Partial removal of colon
44150 | C | Removal of colon
44151 | C | Removal of colon/ileostomy
44152 | C | Removal of colon/ileostomy
44153 | C | Removal of colon/ileostomy
44155 | C | Removal of colon/ileostomy
44156 | C | Removal of colon/ileostomy
44160 | C | Removal of colon
44202 | C | Laparo, resect intestine
44300 | C | Open bowel to skin
44310 | C | Ileostomy/jejunostomy
44314 | C | Revision of ileostomy
44316 | C | Devise bowel pouch
44320 | C | Colostomy
44322 | C | Colostomy with biopsies
44345 | C | Revision of colostomy
44346 | C | Revision of colostomy
44602 | C | Suture, small intestine
44603 | C | Suture, small intestine
44604 | C | Suture, large intestine
44605 | C | Repair of bowel lesion
44615 | C | Intestinal stricturoplasty
44620 | C | Repair bowel opening
44625 | C | Repair bowel opening
44626 | C | Repair bowel opening
44640 | C | Repair bowel-skin fistula
44650 | C | Repair bowel fistula
44660 | C | Repair bowel-bladder fistula
44661 | C | Repair bowel-bladder fistula
44680 | C | Surgical revision, intestine
44700 | C | Suspend bowel w/prosthesis
44800 | C | Excision of bowel pouch
44820 | C | Excision of mesentery lesion
44850 | C | Repair of mesentery
44899 | C | Bowel surgery procedure
44900 | C | Drain app abscess, open
44901 | C | Drain app abscess, percut
44950 | C | Appendectomy
44955 | C | Appendectomy add-on
44960 | C | Appendectomy
45110 | C | Removal of rectum
45111 | C | Partial removal of rectum
45112 | C | Removal of rectum
45113 | C | Partial proctectomy
45114 | C | Partial removal of rectum
45116 | C | Partial removal of rectum
45119 | C | Remove rectum w/reservoir
45120 | C | Removal of rectum
45121 | C | Removal of rectum and colon
45123 | C | Partial proctectomy
45126 | C | Pelvic exenteration
45130 | C | Excision of rectal prolapse
45135 | C | Excision of rectal prolapse
45540 | C | Correct rectal prolapse
45541 | C | Correct rectal prolapse
45550 | C | Repair rectum/remove sigmoid
45562 | C | Exploration/repair of rectum
45563 | C | Exploration/repair of rectum
45800 | C | Repair rect/bladder fistula
45805 | C | Repair fistula w/colostomy
45820 | C | Repair rectourethral fistula
45825 | C | Repair fistula w/colostomy
46705 | C | Repair of anal stricture
46715 | C | Repair of anovaginal fistula
46716 | C | Repair of anovaginal fistula
46730 | C | Construction of absent anus
46735 | C | Construction of absent anus
46740 | C | Construction of absent anus
46742 | C | Repair of imperforated anus
46744 | C | Repair of cloacal anomaly
46746 | C | Repair of cloacal anomaly
46748 | C | Repair of cloacal anomaly
46751 | C | Repair of anal sphincter
47001 | C | Needle biopsy, liver add-on
47010 | C | Open drainage, liver lesion
47011 | C | Percut drain, liver lesion
47015 | C | Inject/aspirate liver cyst
47100 | C | Wedge biopsy of liver
47120 | C | Partial removal of liver
47122 | C | Extensive removal of liver
47125 | C | Partial removal of liver
47130 | C | Partial removal of liver
47133 | C | Removal of donor liver
47134 | C | Partial removal, donor liver
47135 | C | Transplantation of liver
47136 | C | Transplantation of liver
47300 | C | Surgery for liver lesion
47350 | C | Repair liver wound
47360 | C | Repair liver wound
47361 | C | Repair liver wound
47362 | C | Repair liver wound
47400 | C | Incision of liver duct
47420 | C | Incision of bile duct
47425 | C | Incision of bile duct
47460 | C | Incise bile duct sphincter
47480 | C | Incision of gallbladder
47490 | C | Incision of gallbladder
47550 | C | Bile duct endoscopy add-on
47570 | C | Laparo cholecystoenterostomy
47600 | C | Removal of gallbladder
47605 | C | Removal of gallbladder
47610 | C | Removal of gallbladder
47612 | C | Removal of gallbladder
47620 | C | Removal of gallbladder
47700 | C | Exploration of bile ducts
47701 | C | Bile duct revision
47711 | C | Excision of bile duct tumor
47712 | C | Excision of bile duct tumor
47715 | C | Excision of bile duct cyst
47716 | C | Fusion of bile duct cyst
47720 | C | Fuse gallbladder & bowel
47721 | C | Fuse upper gi structures
47740 | C | Fuse gallbladder & bowel
47741 | C | Fuse gallbladder & bowel
47760 | C | Fuse bile ducts and bowel
47765 | C | Fuse liver ducts & bowel
47780 | C | Fuse bile ducts and bowel
47785 | C | Fuse bile ducts and bowel
47800 | C | Reconstruction of bile ducts
47801 | C | Placement, bile duct support
47802 | C | Fuse liver duct & intestine
47900 | C | Suture bile duct injury
48000 | C | Drainage of abdomen
48001 | C | Placement of drain, pancreas
48005 | C | Resect/debride pancreas
48020 | C | Removal of pancreatic stone
48100 | C | Biopsy of pancreas
48120 | C | Removal of pancreas lesion
48140 | C | Partial removal of pancreas
48145 | C | Partial removal of pancreas
48146 | C | Pancreatectomy
48148 | C | Removal of pancreatic duct
48150 | C | Partial removal of pancreas
48152 | C | Pancreatectomy
48153 | C | Pancreatectomy
48154 | C | Pancreatectomy
48155 | C | Removal of pancreas
48180 | C | Fuse pancreas and bowel
48400 | C | Injection, intraop add-on
48500 | C | Surgery of pancreas cyst
48510 | C | Drain pancreatic pseudocyst
48511 | C | Drain pancreatic pseudocyst
48520 | C | Fuse pancreas cyst and bowel
48540 | C | Fuse pancreas cyst and bowel
48545 | C | Pancreatorrhaphy
48547 | C | Duodenal exclusion
48556 | C | Removal, allograft pancreas
49000 | C | Exploration of abdomen
49002 | C | Reopening of abdomen
49010 | C | Exploration behind abdomen
49020 | C | Drain abdominal abscess
49021 | C | Drain abdominal abscess
49040 | C | Drain, open, abdom abscess
49041 | C | Drain, percut, abdom abscess
49060 | C | Drain, open, retrop abscess
49061 | C | Drain, percut, retroper absc
49062 | C | Drain to peritoneal cavity
49200 | C | Removal of abdominal lesion
49201 | C | Removal of abdominal lesion
49215 | C | Excise sacral spine tumor
49220 | C | Multiple surgery, abdomen
49255 | C | Removal of omentum
49425 | C | Insert abdomen-venous drain
49428 | C | Ligation of shunt
49605 | C | Repair umbilical lesion
49606 | C | Repair umbilical lesion
49610 | C | Repair umbilical lesion
49611 | C | Repair umbilical lesion
49900 | C | Repair of abdominal wall
49905 | C | Omental flap
49906 | C | Free omental flap, microvasc
50010 | C | Exploration of kidney
50020 | C | Renal abscess, open drain
50021 | C | Renal abscess, percut drain
50040 | C | Drainage of kidney
50045 | C | Exploration of kidney
50060 | C | Removal of kidney stone
50065 | C | Incision of kidney
50070 | C | Incision of kidney
50075 | C | Removal of kidney stone
50100 | C | Revise kidney blood vessels
50120 | C | Exploration of kidney
50125 | C | Explore and drain kidney
50130 | C | Removal of kidney stone
50135 | C | Exploration of kidney
50205 | C | Biopsy of kidney
50220 | C | Removal of kidney
50225 | C | Removal of kidney
50230 | C | Removal of kidney
50234 | C | Removal of kidney & ureter
50236 | C | Removal of kidney & ureter
50240 | C | Partial removal of kidney
50280 | C | Removal of kidney lesion
50290 | C | Removal of kidney lesion
50300 | C | Removal of donor kidney
50320 | C | Removal of donor kidney
50340 | C | Removal of kidney
50360 | C | Transplantation of kidney
50365 | C | Transplantation of kidney
50370 | C | Remove transplanted kidney
50380 | C | Reimplantation of kidney
50400 | C | Revision of kidney/ureter
50405 | C | Revision of kidney/ureter
50500 | C | Repair of kidney wound
50520 | C | Close kidney-skin fistula
50525 | C | Repair renal-abdomen fistula
50526 | C | Repair renal-abdomen fistula
50540 | C | Revision of horseshoe kidney
* 50545 | C | Laparoscopic nephrectomy
50546 | C | Laparoscopic nephrectomy
50547 | C | Laparo removal donor kidney
50548 | C | Laparo-asst remove k/ureter
50570 | C | Kidney endoscopy
50572 | C | Kidney endoscopy
50574 | C | Kidney endoscopy & biopsy
50575 | C | Kidney endoscopy
50576 | C | Kidney endoscopy & treatment
50578 | C | Renal endoscopy/radiotracer
50580 | C | Kidney endoscopy & treatment
50600 | C | Exploration of ureter
50605 | C | Insert ureteral support
50610 | C | Removal of ureter stone
50620 | C | Removal of ureter stone
50630 | C | Removal of ureter stone
50650 | C | Removal of ureter
50660 | C | Removal of ureter
50700 | C | Revision of ureter
50715 | C | Release of ureter
50722 | C | Release of ureter
50725 | C | Release/revise ureter
50727 | C | Revise ureter
50728 | C | Revise ureter
50740 | C | Fusion of ureter & kidney
50750 | C | Fusion of ureter & kidney
50760 | C | Fusion of ureters
50770 | C | Splicing of ureters
50780 | C | Reimplant ureter in bladder
50782 | C | Reimplant ureter in bladder
50783 | C | Reimplant ureter in bladder
50785 | C | Reimplant ureter in bladder
50800 | C | Implant ureter in bowel
50810 | C | Fusion of ureter & bowel
50815 | C | Urine shunt to bowel
50820 | C | Construct bowel bladder
50825 | C | Construct bowel bladder
50830 | C | Revise urine flow
50840 | C | Replace ureter by bowel
50845 | C | Appendico-vesicostomy
50860 | C | Transplant ureter to skin
50900 | C | Repair of ureter
50920 | C | Closure ureter/skin fistula
50930 | C | Closure ureter/bowel fistula
50940 | C | Release of ureter
51060 | C | Removal of ureter stone
51525 | C | Removal of bladder lesion
51530 | C | Removal of bladder lesion
51535 | C | Repair of ureter lesion
51550 | C | Partial removal of bladder
51555 | C | Partial removal of bladder
51565 | C | Revise bladder & ureter(s)
51570 | C | Removal of bladder
51575 | C | Removal of bladder & nodes
51580 | C | Remove bladder/revise tract
51585 | C | Removal of bladder & nodes
51590 | C | Remove bladder/revise tract
51595 | C | Remove bladder/revise tract
51596 | C | Remove bladder/create pouch
51597 | C | Removal of pelvic structures
51800 | C | Revision of bladder/urethra
51820 | C | Revision of urinary tract
51840 | C | Attach bladder/urethra
51841 | C | Attach bladder/urethra
51845 | C | Repair bladder neck
51860 | C | Repair of bladder wound
51865 | C | Repair of bladder wound
51900 | C | Repair bladder/vagina lesion
51920 | C | Close bladder-uterus fistula
51925 | C | Hysterectomy/bladder repair
51940 | C | Correction of bladder defect
51960 | C | Revision of bladder & bowel
51980 | C | Construct bladder opening
53085 | C | Drainage of urinary leakage
53415 | C | Reconstruction of urethra
53443 | C | Reconstruction of urethra
54125 | C | Removal of penis
54130 | C | Remove penis & nodes
54135 | C | Remove penis & nodes
54332 | C | Revise penis/urethra
54336 | C | Revise penis/urethra
54390 | C | Repair penis and bladder
54430 | C | Revision of penis
54535 | C | Extensive testis surgery
54560 | C | Exploration for testis
54650 | C | Orchiopexy (Fowler-Stephens)
55600 | C | Incise sperm duct pouch
55605 | C | Incise sperm duct pouch
55650 | C | Remove sperm duct pouch
55801 | C | Removal of prostate
55810 | C | Extensive prostate surgery
55812 | C | Extensive prostate surgery
55815 | C | Extensive prostate surgery
55821 | C | Removal of prostate
55831 | C | Removal of prostate
55840 | C | Extensive prostate surgery
55842 | C | Extensive prostate surgery
55845 | C | Extensive prostate surgery
55862 | C | Extensive prostate surgery
55865 | C | Extensive prostate surgery
56630 | C | Extensive vulva surgery
56631 | C | Extensive vulva surgery
56632 | C | Extensive vulva surgery
56633 | C | Extensive vulva surgery
56634 | C | Extensive vulva surgery
56637 | C | Extensive vulva surgery
56640 | C | Extensive vulva surgery
57110 | C | Remove vagina wall, complete
57111 | C | Remove vagina tissue, compl
57112 | C | Vaginectomy w/nodes, compl
57270 | C | Repair of bowel pouch
57280 | C | Suspension of vagina
57282 | C | Repair of vaginal prolapse
57292 | C | Construct vagina with graft
57305 | C | Repair rectum-vagina fistula
57307 | C | Fistula repair & colostomy
57308 | C | Fistula repair, transperine
57311 | C | Repair urethrovaginal lesion
57335 | C | Repair vagina
57531 | C | Removal of cervix, radical
57540 | C | Removal of residual cervix
57545 | C | Remove cervix/repair pelvis
58140 | C | Removal of uterus lesion
58150 | C | Total hysterectomy
58152 | C | Total hysterectomy
58180 | C | Partial hysterectomy
58200 | C | Extensive hysterectomy
58210 | C | Extensive hysterectomy
58240 | C | Removal of pelvis contents
58260 | C | Vaginal hysterectomy
58262 | C | Vaginal hysterectomy
58263 | C | Vaginal hysterectomy
58267 | C | Hysterectomy & vagina repair
58270 | C | Hysterectomy & vagina repair
58275 | C | Hysterectomy/revise vagina
58280 | C | Hysterectomy/revise vagina
58285 | C | Extensive hysterectomy
58400 | C | Suspension of uterus
58410 | C | Suspension of uterus
58520 | C | Repair of ruptured uterus
58540 | C | Revision of uterus
58605 | C | Division of fallopian tube
58611 | C | Ligate oviduct(s) add-on
58700 | C | Removal of fallopian tube
58720 | C | Removal of ovary/tube(s)
58740 | C | Revise fallopian tube(s)
58750 | C | Repair oviduct
58752 | C | Revise ovarian tube(s)
58760 | C | Remove tubal obstruction
58770 | C | Create new tubal opening
58805 | C | Drainage of ovarian cyst(s)
58822 | C | Drain ovary abscess, percut
58823 | C | Drain pelvic abscess, percut
58825 | C | Transposition, ovary(s)
58940 | C | Removal of ovary(s)
58943 | C | Removal of ovary(s)
58950 | C | Resect ovarian malignancy
58951 | C | Resect ovarian malignancy
58952 | C | Resect ovarian malignancy
58960 | C | Exploration of abdomen
59100 | C | Remove uterus lesion
59120 | C | Treat ectopic pregnancy
59121 | C | Treat ectopic pregnancy
59130 | C | Treat ectopic pregnancy
59135 | C | Treat ectopic pregnancy
59136 | C | Treat ectopic pregnancy
59140 | C | Treat ectopic pregnancy
59325 | C | Revision of cervix
59350 | C | Repair of uterus
59514 | C | Cesarean delivery only
59525 | C | Remove uterus after cesarean
59620 | C | Attempted vbac delivery only
59830 | C | Treat uterus infection
59850 | C | Abortion
59851 | C | Abortion
59852 | C | Abortion
59855 | C | Abortion
59856 | C | Abortion
59857 | C | Abortion
60254 | C | Extensive thyroid surgery
60270 | C | Removal of thyroid
60271 | C | Removal of thyroid
60502 | C | Re-explore parathyroids
60505 | C | Explore parathyroid glands
60520 | C | Removal of thymus gland
60521 | C | Removal of thymus gland
60522 | C | Removal of thymus gland
60540 | C | Explore adrenal gland
60545 | C | Explore adrenal gland
60600 | C | Remove carotid body lesion
60605 | C | Remove carotid body lesion
60650 | C | Laparoscopy adrenalectomy
61105 | C | Twist drill hole
61107 | C | Drill skull for implantation
61108 | C | Drill skull for drainage
61120 | C | Burr hole for puncture
61140 | C | Pierce skull for biopsy
61150 | C | Pierce skull for drainage
61151 | C | Pierce skull for drainage
61154 | C | Pierce skull & remove clot
61156 | C | Pierce skull for drainage
61210 | C | Pierce skull, implant device
61250 | C | Pierce skull & explore
61253 | C | Pierce skull & explore
61304 | C | Open skull for exploration
61305 | C | Open skull for exploration
61312 | C | Open skull for drainage
61313 | C | Open skull for drainage
61314 | C | Open skull for drainage
61315 | C | Open skull for drainage
61320 | C | Open skull for drainage
61321 | C | Open skull for drainage
61332 | C | Explore/biopsy eye socket
61333 | C | Explore orbit/remove lesion
61334 | C | Explore orbit/remove object
61340 | C | Relieve cranial pressure
61343 | C | Incise skull (press relief)
61345 | C | Relieve cranial pressure
61440 | C | Incise skull for surgery
61450 | C | Incise skull for surgery
61458 | C | Incise skull for brain wound
61460 | C | Incise skull for surgery
61470 | C | Incise skull for surgery
61480 | C | Incise skull for surgery
61490 | C | Incise skull for surgery
61500 | C | Removal of skull lesion
61501 | C | Remove infected skull bone
61510 | C | Removal of brain lesion
61512 | C | Remove brain lining lesion
61514 | C | Removal of brain abscess
61516 | C | Removal of brain lesion
61518 | C | Removal of brain lesion
61519 | C | Remove brain lining lesion
61520 | C | Removal of brain lesion
61521 | C | Removal of brain lesion
61522 | C | Removal of brain abscess
61524 | C | Removal of brain lesion
61526 | C | Removal of brain lesion
61530 | C | Removal of brain lesion
61531 | C | Implant brain electrodes
61533 | C | Implant brain electrodes
61534 | C | Removal of brain lesion
61535 | C | Remove brain electrodes
61536 | C | Removal of brain lesion
61538 | C | Removal of brain tissue
61539 | C | Removal of brain tissue
61541 | C | Incision of brain tissue
61542 | C | Removal of brain tissue
61543 | C | Removal of brain tissue
61544 | C | Remove & treat brain lesion
61545 | C | Excision of brain tumor
61546 | C | Removal of pituitary gland
61548 | C | Removal of pituitary gland
61550 | C | Release of skull seams
61552 | C | Release of skull seams
61556 | C | Incise skull/sutures
61557 | C | Incise skull/sutures
61558 | C | Excision of skull/sutures
61559 | C | Excision of skull/sutures
61563 | C | Excision of skull tumor
61564 | C | Excision of skull tumor
61570 | C | Remove foreign body, brain
61571 | C | Incise skull for brain wound
61575 | C | Skull base/brainstem surgery
61576 | C | Skull base/brainstem surgery
61580 | C | Craniofacial approach, skull
61581 | C | Craniofacial approach, skull
61582 | C | Craniofacial approach, skull
61583 | C | Craniofacial approach, skull
61584 | C | Orbitocranial approach/skull
61585 | C | Orbitocranial approach/skull
61586 | C | Resect nasopharynx, skull
61590 | C | Infratemporal approach/skull
61591 | C | Infratemporal approach/skull
61592 | C | Orbitocranial approach/skull
61595 | C | Transtemporal approach/skull
61596 | C | Transcochlear approach/skull
61597 | C | Transcondylar approach/skull
61598 | C | Transpetrosal approach/skull
61600 | C | Resect/excise cranial lesion
61601 | C | Resect/excise cranial lesion
61605 | C | Resect/excise cranial lesion
61606 | C | Resect/excise cranial lesion
61607 | C | Resect/excise cranial lesion
61608 | C | Resect/excise cranial lesion
61609 | C | Transect artery, sinus
61610 | C | Transect artery, sinus
61611 | C | Transect artery, sinus
61612 | C | Transect artery, sinus
61613 | C | Remove aneurysm, sinus
61615 | C | Resect/excise lesion, skull
61616 | C | Resect/excise lesion, skull
61618 | C | Repair dura
61619 | C | Repair dura
61624 | C | Occlusion/embolization cath
61626 | C | Occlusion/embolization cath
61680 | C | Intracranial vessel surgery
61682 | C | Intracranial vessel surgery
61684 | C | Intracranial vessel surgery
61686 | C | Intracranial vessel surgery
61690 | C | Intracranial vessel surgery
61692 | C | Intracranial vessel surgery
* 61697 | C | Intracranial aneurysm surgery
* 61698 | C | Intracranial aneurysm surgery
61700 | C | Inner skull vessel surgery
61702 | C | Inner skull vessel surgery
61703 | C | Clamp neck artery
61705 | C | Revise circulation to head
61708 | C | Revise circulation to head
61710 | C | Revise circulation to head
61711 | C | Fusion of skull arteries
61720 | C | Incise skull/brain surgery
61735 | C | Incise skull/brain surgery
61750 | C | Incise skull/brain biopsy
61751 | C | Brain biopsy w/ ct/mr guide
61760 | C | Implant brain electrodes
61770 | C | Incise skull for treatment
61791 | C | Treat trigeminal tract
61850 | C | Implant neuroelectrodes
61860 | C | Implant neuroelectrodes
61862 | C | Implant neurostimul, subcort
61870 | C | Implant neuroelectrodes
61875 | C | Implant neuroelectrodes
62000 | C | Treat skull fracture
62005 | C | Treat skull fracture
62010 | C | Treatment of head injury
62100 | C | Repair brain fluid leakage
62115 | C | Reduction of skull defect
62116 | C | Reduction of skull defect
62117 | C | Reduction of skull defect
62120 | C | Repair skull cavity lesion
62121 | C | Incise skull repair
62140 | C | Repair of skull defect
62141 | C | Repair of skull defect
62142 | C | Remove skull plate/flap
62143 | C | Replace skull plate/flap
62145 | C | Repair of skull & brain
62146 | C | Repair of skull with graft
62147 | C | Repair of skull with graft
62180 | C | Establish brain cavity shunt
62190 | C | Establish brain cavity shunt
62192 | C | Establish brain cavity shunt
62200 | C | Establish brain cavity shunt
62201 | C | Establish brain cavity shunt
62220 | C | Establish brain cavity shunt
62223 | C | Establish brain cavity shunt
62256 | C | Remove brain cavity shunt
62258 | C | Replace brain cavity shunt
62351 | C | Implant spinal canal cath
63001 | C | Removal of spinal lamina
63003 | C | Removal of spinal lamina
63005 | C | Removal of spinal lamina
63011 | C | Removal of spinal lamina
63012 | C | Removal of spinal lamina
63015 | C | Removal of spinal lamina
63016 | C | Removal of spinal lamina
63017 | C | Removal of spinal lamina
63020 | C | Neck spine disk surgery
63030 | C | Low back disk surgery
63035 | C | Spinal disk surgery add-on
63040 | C | Neck spine disk surgery
63042 | C | Low back disk surgery
* 63043 | C | Repair of skull
* 63044 | C | Repair of skull
63045 | C | Removal of spinal lamina
63046 | C | Removal of spinal lamina
63047 | C | Removal of spinal lamina
63048 | C | Remove spinal lamina add-on
63055 | C | Decompress spinal cord
63056 | C | Decompress spinal cord
63057 | C | Decompress spine cord add-on
63064 | C | Decompress spinal cord
63066 | C | Decompress spine cord add-on
63075 | C | Neck spine disk surgery
63076 | C | Neck spine disk surgery
63077 | C | Spine disk surgery, thorax
63078 | C | Spine disk surgery, thorax
63081 | C | Removal of vertebral body
63082 | C | Remove vertebral body add-on
63085 | C | Removal of vertebral body
63086 | C | Remove vertebral body add-on
63087 | C | Removal of vertebral body
63088 | C | Remove vertebral body add-on
63090 | C | Removal of vertebral body
63091 | C | Remove vertebral body add-on
63170 | C | Incise spinal cord tract(s)
63172 | C | Drainage of spinal cyst
63173 | C | Drainage of spinal cyst
63180 | C | Revise spinal cord ligaments
63182 | C | Revise spinal cord ligaments
63185 | C | Incise spinal column/nerves
63190 | C | Incise spinal column/nerves
63191 | C | Incise spinal column/nerves
63194 | C | Incise spinal column & cord
63195 | C | Incise spinal column & cord
63196 | C | Incise spinal column & cord
63197 | C | Incise spinal column & cord
63198 | C | Incise spinal column & cord
63199 | C | Incise spinal column & cord
63200 | C | Release of spinal cord
63250 | C | Revise spinal cord vessels
63251 | C | Revise spinal cord vessels
63252 | C | Revise spinal cord vessels
63265 | C | Excise intraspinal lesion
63266 | C | Excise intraspinal lesion
63267 | C | Excise intraspinal lesion
63268 | C | Excise intraspinal lesion
63270 | C | Excise intraspinal lesion
63271 | C | Excise intraspinal lesion
63272 | C | Excise intraspinal lesion
63273 | C | Excise intraspinal lesion
63275 | C | Biopsy/excise spinal tumor
63276 | C | Biopsy/excise spinal tumor
63277 | C | Biopsy/excise spinal tumor
63278 | C | Biopsy/excise spinal tumor
63280 | C | Biopsy/excise spinal tumor
63281 | C | Biopsy/excise spinal tumor
63282 | C | Biopsy/excise spinal tumor
63283 | C | Biopsy/excise spinal tumor
63285 | C | Biopsy/excise spinal tumor
63286 | C | Biopsy/excise spinal tumor
63287 | C | Biopsy/excise spinal tumor
63290 | C | Biopsy/excise spinal tumor
63300 | C | Removal of vertebral body
63301 | C | Removal of vertebral body
63302 | C | Removal of vertebral body
63303 | C | Removal of vertebral body
63304 | C | Removal of vertebral body
63305 | C | Removal of vertebral body
63306 | C | Removal of vertebral body
63307 | C | Removal of vertebral body
63308 | C | Remove vertebral body add-on
63655 | C | Implant neuroelectrodes
63700 | C | Repair of spinal herniation
63702 | C | Repair of spinal herniation
63704 | C | Repair of spinal herniation
63706 | C | Repair of spinal herniation
63707 | C | Repair spinal fluid leakage
63709 | C | Repair spinal fluid leakage
63710 | C | Graft repair of spine defect
63740 | C | Install spinal shunt
64752 | C | Incision of vagus nerve
64755 | C | Incision of stomach nerves
64760 | C | Incision of vagus nerve
64763 | C | Incise hip/thigh nerve
64766 | C | Incise hip/thigh nerve
64802 | C | Remove sympathetic nerves
64804 | C | Remove sympathetic nerves
64809 | C | Remove sympathetic nerves
64818 | C | Remove sympathetic nerves
64820 | C | Remove sympathetic nerves
64866 | C | Fusion of facial/other nerve
64868 | C | Fusion of facial/other nerve
65273 | C | Repair of eye wound
69150 | C | Extensive ear canal surgery
69155 | C | Extensive ear/neck surgery
69502 | C | Mastoidectomy
69535 | C | Remove part of temporal bone
69554 | C | Remove ear lesion
69950 | C | Incise inner ear nerve
69970 | C | Remove inner ear lesion
75900 | C | Arterial catheter exchange
* 75952 | C | Abdominal aortic aneurysm repair
* 75953 | C | Abdominal aortic aneurysm repair
92970 | C | Cardioassist, internal
92971 | C | Cardioassist, external
92975 | C | Dissolve clot, heart vessel
92986 | C | Revision of aortic valve
92987 | C | Revision of mitral valve
92990 | C | Revision of pulmonary valve
92992 | C | Revision of heart chamber
92993 | C | Revision of heart chamber
92997 | C | Pul art balloon repr, percut
92998 | C | Pul art balloon repr, percut
94652 | C | Pressure breathing (IPPB)
99190 | C | Special pump services
99191 | C | Special pump services
99192 | C | Special pump services
99251 | C | Initial inpatient consult
99252 | C | Initial inpatient consult
99253 | C | Initial inpatient consult
99254 | C | Initial inpatient consult
99255 | C | Initial inpatient consult
99261 | C | Follow-up inpatient consult
99262 | C | Follow-up inpatient consult
99263 | C | Follow-up inpatient consult
99295 | C | Neonatal critical care
99296 | C | Neonatal critical care
99297 | C | Neonatal critical care
99298 | C | Neonatal critical care
99356 | C | Prolonged service, inpatient
99357 | C | Prolonged service, inpatient
99433 | C | Normal newborn care/hospital
CPT codes and descriptions only are copyright American Medical Association. All Rights Reserved. Applicable FARS/DFARS Apply.
Copyright American Dental Association. All rights reserved.
* Code is new in 2001.

Addendum F—Wage Index for Urban Areas
Urban Area (Constituent Counties) | Wage Index
0040 Abilene, −+* | 0.8240
Taylor, TX
0060 Aguadilla, PR | 0.4391
Aguada, PR
Aguadilla, PR
Moca, PR
0080 Akron, OH | 0.9736
Portage, OH
Summit, OH
0120 Albany, GA | 0.9933
Dougherty, GA
Lee, GA
0160 Albany-Schenectady-Troy, NY | 0.8549
Albany, NY
Montgomery, NY
Rensselaer, NY
Saratoga, NY
Schenectady, NY
Schoharie, NY
0200 Albuquerque, NM | 0.9136
Bernalillo, NM
Sandoval, NM
Valencia, NM
0220 Alexandria, LA | 0.8170
Rapides, LA
0240 Allentown-Bethlehem-Easton, PA | 0.9925
Carbon, PA
Lehigh, PA
Northampton, PA
0280 Altoona, PA | 0.9346
Blair, PA
0320 Amarillo, TX Potter, TX | 0.8715
Randall, TX
0380 Anchorage, AK | 1.2865
Anchorage, AK
0440 Ann Arbor, MI | 1.1254
Lenawee, MI
Livingston, MI
Washtenaw, MI
0450 Anniston, AL | 0.8284
Calhoun, AL
0460 Appleton-Oshkosh-Neenah, WI | 0.9052
Calumet, WI
Outagamie, WI
Winnebago, WI
0470 Arecibo, PR | 0.4525
Arecibo, PR
Camuy, PR
Hatillo, PR
0480 Asheville, NC | 0.9516
Buncombe, NC
Madison, NC
0500 Athens, GA | 0.9739
Clarke, GA
Madison, GA
Oconee, GA
0520 Atlanta, GA ¹ | 1.0096
Barrow, GA
Bartow, GA
Carroll, GA
Cherokee, GA
Clayton, GA
Cobb, GA
Coweta, GA
DeKalb, GA
Douglas, GA
Fayette, GA
Forsyth, GA
Fulton, GA
Gwinnett, GA
Henry, GA
Newton, GA
Paulding, GA
Pickens, GA
Rockdale, GA
Spalding, GA
Walton, GA
0560 Atlantic-Cape May, NJ | 1.1182
Atlantic, NJ
Cape May, NJ
0580 Auburn-Opelika, AL | 0.8106
Lee, AL
0600 Augusta-Aiken, GA-SC | 0.9160
Columbia, GA
McDuffie, GA
Richmond, GA
Aiken, SC
Edgefield, SC
0640 Austin-San Marcos, TX ¹ | 0.9577
Bastrop, TX
Caldwell, TX
Hays, TX
Travis, TX
Williamson, TX
0680 Bakersfield, CA ² | 0.9861
Kern, CA
0720 Baltimore, MD ¹ | 0.9365
Anne Arundel, MD
Baltimore County, MD
Baltimore City, MD
Carroll, MD
Harford, MD
Howard, MD
Queen Anne's, MD
0733 Bangor, ME | 0.9561
Penobscot, ME
0743 Barnstable-Yarmouth, MA | 1.3839
Barnstable, MA
0760 Baton Rouge, LA | 0.8842
Ascension, LA
East Baton Rouge, LA
Livingston, LA
West Baton Rouge, LA
0840 Beaumont-Port Arthur, TX | 0.8744
Hardin, TX
Jefferson, TX
Orange, TX
0860 Bellingham, WA | 1.1439
Whatcom, WA
0870 Benton Harbor, MI ² | 0.9021
Berrien, MI
0875 Bergen-Passaic, NJ ¹ | 1.1605
Bergen, NJ
Passaic, NJ
0880 Billings, MT | 0.9591
Yellowstone, MT
0920 Biloxi-Gulfport-Pascagoula, MS | 0.8236
Hancock, MS
Harrison, MS
Jackson, MS
0960 Binghamton, NY | 0.8690
Broome, NY
Tioga, NY
1000 Birmingham, AL | 0.8477
Blount, AL
Jefferson, AL
St. Clair, AL
Shelby, AL
1010 Bismarck, ND | 0.7897
Burleigh, ND
Morton, ND
1020 Bloomington, IN | 0.8733
Monroe, IN
1040 Bloomington-Normal, IL | 0.9156
McLean, IL
1080 Boise City, ID | 0.9042
Ada, ID
Canyon, ID
1123 Boston-Worcester-Lawrence-Lowell-Brockton, MA-NH (MA Hospitals) ¹, ² | 1.1204
Bristol, MA
Essex, MA
Middlesex, MA
Norfolk, MA
Plymouth, MA
Suffolk, MA
Worcester, MA
Hillsborough, NH
Merrimack, NH
Rockingham, NH
Strafford, NH
1123 Boston-Worcester-Lawrence-Lowell-Brockton, MA-NH (NH Hospitals) ¹ | 1.1160
Bristol, MA
Essex, MA
Middlesex, MA
Norfolk, MA
Plymouth, MA
Suffolk, MA
Worcester, MA
Hillsborough, NH
Merrimack, NH
Rockingham, NH
Strafford, NH
1125 Boulder-Longmont, CO | 0.9731
Boulder, CO
1145 Brazoria, TX | 0.8658
Brazoria, TX
1150 Bremerton, WA | 1.0975
Kitsap, WA
1240 Brownsville-Harlingen-San Benito, TX | 0.8722
Cameron, TX
1260 Bryan-College Station, TX | 0.8237
Brazos, TX
1280 Buffalo-Niagara Falls, NY ¹ | 0.9580
Erie, NY
Niagara, NY
1303 Burlington, VT | 1.0735
Chittenden, VT
Franklin, VT
Grand Isle, VT
1310 Caguas, PR | 0.4562
Caguas, PR
Cayey, PR
Cidra, PR
Gurabo, PR
San Lorenzo, PR
1320 Canton-Massillon, OH ² | 0.8670
Carroll, OH
Stark, OH
1350 Casper, WY ² | 0.8817
Natrona, WY
1360 Cedar Rapids, IA | 0.8736
Linn, IA
1400 Champaign-Urbana, IL | 0.9198
Champaign, IL
1440 Charleston-North Charleston, SC | 0.9067
Berkeley, SC
Charleston, SC
Dorchester, SC
1480 Charleston, WV | 0.9240
Kanawha, WV
Putnam, WV
1520 Charlotte-Gastonia-Rock Hill, NC-SC ¹ | 0.9391
Cabarrus, NC
Gaston, NC
Lincoln, NC
Mecklenburg, NC
Rowan, NC
Stanly, NC
Union, NC
York, SC
1540 Charlottesville, VA | 1.0789
Albemarle, VA
Charlottesville City, VA
Fluvanna, VA
Greene, VA
1560 Chattanooga, TN-GA | 0.9833
Catoosa, GA
Dade, GA
Walker, GA
Hamilton, TN
Marion, TN
1580 Cheyenne, WY ² | 0.8817
Laramie, WY
1600 Chicago, IL ¹ | 1.1146
Cook, IL
DeKalb, IL
DuPage, IL
Grundy, IL
Kane, IL
Kendall, IL
Lake, IL
McHenry, IL
Will, IL
1620 Chico-Paradise, CA | 0.9918
Butte, CA
1640 Cincinnati, OH-KY-IN ¹ | 0.9415
Dearborn, IN
Ohio, IN
Boone, KY
Campbell, KY
Gallatin, KY
Grant, KY
Kenton, KY
Pendleton, KY
Brown, OH
Clermont, OH
Hamilton, OH
Warren, OH
1660 Clarksville-Hopkinsville, TN-KY | 0.8277
Christian, KY
Montgomery, TN
1680 Cleveland-Lorain-Elyria, OH ¹ | 0.9593
Ashtabula, OH
Cuyahoga, OH
Geauga, OH
Lake, OH
Lorain, OH
Medina, OH
1720 Colorado Springs, CO | 0.9697
El Paso, CO
1740 Columbia, MO | 0.8961
Boone, MO
1760 Columbia, SC | 0.9554
Lexington, SC
Richland, SC
1800 Columbus, GA-AL Russell, AL | 0.8568
Chattahoochee, GA
Harris, GA
Muscogee, GA
1840 Columbus, OH ¹ | 0.9619
Delaware, OH
Fairfield, OH
Franklin, OH
Licking, OH
Madison, OH
Pickaway, OH
1880 Corpus Christi, TX | 0.8726
Nueces, TX
San Patricio, TX
1890 Corvallis, OR | 1.1326
Benton, OR
1900 Cumberland, MD-WV (MD Hospitals) ² | 0.8651
Allegany, MD
Mineral, WV
1900 Cumberland, MD-WV (WV Hospital) | 0.8369
Allegany, MD
Mineral, WV
1920 Dallas, TX ¹ | 0.9913
Collin, TX
Dallas, TX
Denton, TX
Ellis, TX
Henderson, TX
Hunt, TX
Kaufman, TX
Rockwall, TX
1950 Danville, VA | 0.8589
Danville City, VA
Pittsylvania, VA
1960 Davenport-Moline-Rock Island, IA-IL | 0.8898
Scott, IA
Henry, IL
Rock Island, IL
2000 Dayton-Springfield, OH | 0.9442
Clark, OH
Greene, OH
Miami, OH
Montgomery, OH
2020 Daytona Beach, FL | 0.9147
Flagler, FL
Volusia, FL
2030 Decatur, AL | 0.8534
Lawrence, AL
Morgan, AL
2040 Decatur, IL ² | 0.8160
Macon, IL
2080 Denver, CO ¹ | 1.0181
Adams, CO
Arapahoe, CO
Denver, CO
Douglas, CO
Jefferson, CO
2120 Des Moines, IA | 0.9118
Dallas, IA
Polk, IA
Warren, IA
2160 Detroit, MI ¹ | 1.0510
Lapeer, MI
Macomb, MI
Monroe, MI
Oakland, MI
St. Clair, MI
Wayne, MI
2180 Dothan, AL | 0.8013
Dale, AL
Houston, AL
2190 Dover, DE | 1.0078
Kent, DE
2200 Dubuque, IA | 0.8746
Dubuque, IA
2240 Duluth-Superior, MN-WI | 1.0043
St. Louis, MN
Douglas, WI
2281 Dutchess County, NY | 0.9491
Dutchess, NY
2290 Eau Claire, WI ² | 0.8880
Chippewa, WI
Eau Claire, WI
2320 El Paso, TX | 0.9346
El Paso, TX
2330 Elkhart-Goshen, IN | 0.9145
Elkhart, IN
2335 Elmira, NY | 0.8546
Chemung, NY
2340 Enid, OK | 0.8610
Garfield, OK
2360 Erie, PA | 0.8985
Erie, PA
2400 Eugene-Springfield, OR | 1.0965
Lane, OR
2440 Evansville-Henderson, IN-KY (IN Hospitals) ² | 0.8602
Posey, IN
Vanderburgh, IN
Warrick, IN
Henderson, KY
2440 Evansville-Henderson, IN-KY (KY Hospitals) | 0.8173
Posey, IN
Vanderburgh, IN
Warrick, IN
Henderson, KY
2520 Fargo-Moorhead, ND-MN | 0.8749
Clay, MN
Cass, ND
2560 Fayetteville, NC | 0.8655
Cumberland, NC
2580 Fayetteville-Springdale-Rogers, AR | 0.7910
Benton, AR
Washington, AR
2620 Flagstaff, AZ-UT | 1.0686
Coconino, AZ
Kane, UT
2640 Flint, MI | 1.1205
Genesee, MI
2650 Florence, AL | 0.7652
Colbert, AL
Lauderdale, AL
2655 Florence, SC | 0.8777
Florence, SC
2670 Fort Collins-Loveland, CO | 1.0647
Larimer, CO
2680 ¹ Ft. Lauderdale, FL | 1.0152
Broward, FL
2700 Fort Myers-Cape Coral, FL | 0.9247
Lee, FL
2710 Fort Pierce-Port St. Lucie, FL | 0.9622
Martin, FL
St. Lucie, FL
2720 Fort Smith, AR-OK | 0.8052
Crawford, AR
Sebastian, AR
Sequoyah, OK
2750 Fort Walton Beach, FL | 0.9607
Okaloosa, FL
2760 Fort Wayne, IN | 0.8665
Adams, IN
Allen, IN
De Kalb, IN
Huntington, IN
Wells, IN
Whitley, IN
2800 Forth Worth-Arlington, TX ¹ | 0.9527
Hood, TX
Johnson, TX
Parker, TX
Tarrant, TX
2840 Fresno, CA | 1.0104
Fresno, CA
Madera, CA
2880 Gadsden, AL | 0.8423
Etowah, AL
2900 Gainesville, FL | 1.0074
Alachua, FL
2920 Galveston-Texas City, TX | 0.9918
Galveston, TX
2960 Gary, IN | 0.9454
Lake, IN
Porter, IN
2975 Glens Falls, NY ² | 0.8499
Warren, NY
Washington, NY
2980 Goldsboro, NC ² | 0.8441
Wayne, NC
2985 Grand Forks, ND-MN | 0.8954
Polk, MN
Grand Forks, ND
2995 Grand Junction, CO | 0.9471
Mesa, CO
3000 Grand Rapids-Muskegon-Holland, MI ¹ | 1.0248
Allegan, MI
Kent, MI
Muskegon, MI
Ottawa, MI
3040 Great Falls, MT | 0.9330
Cascade, MT
3060 Greeley, CO | 0.9814
Weld, CO
3080 Green Bay, WI | 0.9308
Brown, WI
3120 Greensboro-Winston-Salem-High Point, NC ¹ | 0.9124
Alamance, NC
Davidson, NC
Davie, NC
Forsyth, NC Guilford, NC
Randolph, NC
Stokes, NC
Yadkin, NC
3150 Greenville, NC | 0.9384
Pitt, NC
3160 Greenville-Spartanburg-Anderson, SC | 0.9003
Anderson, SC
Cherokee, SC
Greenville, SC
Pickens, SC
Spartanburg, SC
3180 Hagerstown, MD | 0.9409
Washington, MD
3200 Hamilton-Middletown, OH | 0.9061
Butler, OH
3240 Harrisburg-Lebanon-Carlisle, PA | 0.9386
Cumberland, PA
Dauphin, PA
Lebanon, PA
Perry, PA
3283 Hartford, CT ¹, ² | 1.1715
Hartford, CT
Litchfield, CT
Middlesex, CT
Tolland, CT
3285 Hattiesburg, MS ² | 0.7491
Forrest, MS
Lamar, MS
3290 Hickory-Morganton-Lenoir, NC | 0.8755
Alexander, NC
Burke, NC
Caldwell, NC
Catawba, NC
3320 Honolulu, HI | 1.1866
Honolulu, HI
3350 Houma, LA | 0.8086
Lafourche, LA
Terrebonne, LA
3360 Houston, TX ¹ | 0.9732
Chambers, TX
Fort Bend, TX
Harris, TX
Liberty, TX
Montgomery, TX
Waller, TX
3400 Huntington-Ashland, WV-KY-OH | 0.9876
Boyd, KY
Carter, KY
Greenup, KY
Lawrence, OH
Cabell, WV
Wayne, WV
3440 Huntsville, AL | 0.8932
Limestone, AL
Madison, AL
3480 Indianapolis, IN ¹ | 0.9787
Boone, IN
Hamilton, IN
Hancock, IN
Hendricks, IN
Johnson, IN
Madison, IN
Marion, IN
Morgan, IN
Shelby, IN
3500 Iowa City, IA | 0.9657
Johnson, IA
3520 Jackson, MI | 0.9134
Jackson, MI
3560 Jackson, MS | 0.8812
Hinds, MS
Madison, MS
Rankin, MS
3580 Jackson, TN | 0.8796
Madison, TN
Chester, TN
3600 Jacksonville, FL ¹ | 0.9208
Clay, FL
Duval, FL
Nassau, FL
St. Johns, FL
3605 Jacksonville, NC ² | 0.8441
Onslow, NC
3610 Jamestown, NY ² | 0.8499
Chautauqua, NY
3620 Janesville-Beloit, WI | 0.9585
Rock, WI
3640 Jersey City, NJ | 1.1573
Hudson, NJ
3660 Johnson City-Kingsport-Bristol, TN-VA | 0.8328
Carter, TN
Hawkins, TN
Sullivan, TN
Unicoi, TN
Washington, TN
Bristol City, VA
Scott, VA
Washington, VA
3680 Johnstown, PA | 0.8578
Cambria, PA
Somerset, PA
3700 Jonesboro, AR | 0.7832
Craighead, AR
3710 Joplin, MO | 0.8148
Jasper, MO
Newton, MO
3720 Kalamazoo-Battlecreek, MI | 1.0453
Calhoun, MI
Kalamazoo, MI
Van Buren, MI
3740 Kankakee, IL | 0.9902
Kankakee, IL
3760 Kansas City, KS-MO ¹ | 0.9661
Johnson, KS
Leavenworth, KS
Miami, KS
Wyandotte, KS
Cass, MO
Clay, MO
Clinton, MO
Jackson, MO
Lafayette, MO
Platte, MO
Ray, MO
3800 Kenosha, WI | 0.9611
Kenosha, WI
3810 Killeen-Temple, TX | 1.0119
Bell, TX
Coryell, TX
3840 Knoxville, TN | 0.8340
Anderson, TN
Blount, TN
Knox, TN
Loudon, TN
Sevier, TN
Union, TN
3850 Kokomo, IN | 0.9525
Howard, IN
Tipton, IN
3870 La Crosse, WI-MN | 0.9211
Houston, MN
La Crosse, WI
3880 Lafayette, LA | 0.8490
Acadia, LA
Lafayette, LA
St. Landry, LA
St. Martin, LA
3920 Lafayette, IN | 0.8834
Clinton, IN
Tippecanoe, IN
3960 Lake Charles, LA ² | 0.7713
Calcasieu, LA
3980 Lakeland-Winter Haven, FL | 0.8928
Polk, FL
4000 Lancaster, PA | 0.9259
Lancaster, PA
4040 Lansing-East Lansing, MI | 0.9934
Clinton, MI
Eaton, MI
Ingham, MI
4080 Laredo, TX | 0.8168
Webb, TX
4100 Las Cruces, NM | 0.8658
Dona Ana, NM
4120 Las Vegas, NV-AZ ¹ | 1.0796
Mohave, AZ
Clark, NV
Nye, NV
4150 Lawrence, KS | 0.8190
Douglas, KS
4200 Lawton, OK | 0.8996
Comanche, OK
4243 Lewiston-Auburn, ME | 0.9036
Androscoggin, ME
4280 Lexington, KY | 0.8866
Bourbon, KY
Clark, KY
Fayette, KY
Jessamine, KY
Madison, KY
Scott, KY
Woodford, KY
4320 Lima, OH | 0.9320
Allen, OH
Auglaize, OH
4360 Lincoln, NE | 0.9666
Lancaster, NE
4400 Little Rock-North Little Rock, AR | 0.8906
Faulkner, AR
Lonoke, AR
Pulaski, AR
Saline, AR
4420 Longview-Marshall, TX | 0.8922
Gregg, TX
Harrison, TX
Upshur, TX
4480 Los Angeles-Long Beach, CA ¹ | 1.2033
Los Angeles, CA
4520 Louisville, KY-IN | 0.9350
Clark, IN
Floyd, IN
Harrison, IN
Scott, IN
Bullitt, KY
Jefferson, KY
Oldham, KY
4600 Lubbock, TX | 0.8838
Lubbock, TX
4640 Lynchburg, VA | 0.8867
Amherst, VA
Bedford, VA
Bedford City, VA
Campbell, VA
Lynchburg City, VA
4680 Macon, GA | 0.8974
Bibb, GA
Houston, GA
Jones, GA
Peach, GA
Twiggs, GA
4720 Madison, WI | 1.0271
Dane, WI
4800 Mansfield, OH | 0.8690
Crawford, OH
Richland, OH
4840 Mayaguez, PR | 0.4589
Anasco, PR
Cabo Rojo, PR
Hormigueros, PR
Mayaguez, PR
Sabana Grande, PR
San German, PR
4880 McAllen-Edinburg-Mission, TX | 0.8566
Hidalgo, TX
4890 Medford-Ashland, OR | 1.0344
Jackson, OR
4900 Melbourne-Titusville-Palm Bay, FL | 0.9688
Brevard, Fl
4920 Memphis, TN-AR-MS ¹ | 0.8723
Crittenden, AR
DeSoto, MS
Fayette, TN
Shelby, TN
Tipton, TN
4940 Merced, CA ² | 0.9861
Merced, CA
5000 Miami, FL ¹ | 1.0059
Dade, FL
5015 Middlesex-Somerset-Hunterdon, NJ ¹ | 1.0333
Hunterdon, NJ
Middlesex, NJ
Somerset, NJ
5080 Milwaukee-Waukesha, WI ¹ | 0.9767
Milwaukee, WI
Ozaukee, WI
Washington, WI
Waukesha, WI
5120 Minneapolis-St. Paul, MN-WI ¹ | 1.1017
Anoka, MN
Carver, MN
Chisago, MN
Dakota, MN
Hennepin, MN
Isanti, MN
Ramsey, MN
Scott, MN
Sherburne, MN
Washington, MN
Wright, MN
Pierce, WI
St. Croix, WI
5140 Missoula, MT | 0.9332
Missoula, MT
5160 Mobile, AL | 0.8163
Baldwin, AL
Mobile, AL
5170 Modesto, CA | 1.0396
Stanislaus, CA
5190 Monmouth-Ocean, NJ ¹ | 1.1283
Monmouth, NJ
Ocean, NJ
5200 Monroe, LA | 0.8396
Ouachita, LA
5240 Montgomery, AL | 0.7653
Autauga, AL
Elmore, AL
Montgomery, AL
5280 Muncie, IN | 1.0969
Delaware, IN
5330 Myrtle Beach, SC | 0.8440
Horry, SC
5345 Naples, FL | 0.9661
Collier, FL
5360 Nashville, TN ¹ | 0.9490
Cheatham, TN
Davidson, TN
Dickson, TN
Robertson, TN
Rutherford, TN
Sumner, TN
Williamson, TN
Wilson, TN
5380 Nassau-Suffolk, NY ¹ | 1.3932
Nassau, NY
Suffolk, NY
5483 New Haven-Bridgeport-Stamford-Waterbury-Danbury, CT ¹ | 1.2034
Fairfield, CT
New Haven, CT
5523 New London-Norwich, CT | 1.2063
New London, CT
5560 New Orleans, LA ¹ | 0.9295
Jefferson, LA
Orleans, LA
Plaquemines, LA
St. Bernard, LA
St. Charles, LA
St. James, LA
St. John The Baptist, LA
St. Tammany, LA
5600 New York, NY ¹ | 1.4651
Bronx, NY
Kings, NY
New York, NY
Putnam, NY
Queens, NY
Richmond, NY
Rockland, NY
Westchester, NY
5640 Newark, NJ ¹ | 1.0757
Essex, NJ
Morris, NJ
Sussex, NJ
Union, NJ
Warren, NJ
5660 Newburgh, NY-PA | 1.0847
Orange, NY
Pike, PA
5720 Norfolk-Virginia Beach-Newport News, VA-NC ¹ | 0.8422
Currituck, NC
Chesapeake City, VA
Gloucester, VA
Hampton City, VA
Isle of Wight, VA
James City, VA
Mathews, VA
Newport News City, VA
Norfolk City, VA
Poquoson City, VA
Portsmouth City, VA
Suffolk City, VA
Virginia Beach City VA
Williamsburg City, VA
York, VA
5775 Oakland, CA ¹ | 1.4983
Alameda, CA
Contra Costa, CA
5790 Ocala, FL | 0.9243
Marion, FL
5800 Odessa-Midland, TX | 0.9205
Ector, TX
Midland, TX
5880 Oklahoma City, OK ¹ | 0.8822
Canadian, OK
Cleveland, OK
Logan, OK
McClain, OK
Oklahoma, OK
Pottawatomie, OK
5910 Olympia, WA | 1.0677
Thurston, WA
5920 Omaha, NE-IA | 0.9572
Pottawattamie, IA
Cass, NE
Douglas, NE
Sarpy, NE
Washington, NE
5945 Orange County, CA ¹ | 1.1411
Orange, CA
5960 Orlando, FL ¹ | 0.9610
Lake, FL
Orange, FL
Osceola, FL
Seminole, FL
5990 Owensboro, KY | 0.8159
Daviess, KY
6015 Panama City, FL | 0.9010
Bay, FL
6020 Parkersburg-Marietta, WV-OH (WV Hospitals) | 0.8274
Washington, OH
Wood, WV
6020 Parkersburg-Marietta, WV-OH (OH Hospitals) ² | 0.8670
Washington, OH
Wood, WV
6080 Pensacola, FL ² | 0.8928
Escambia, FL
Santa Rosa, FL
6120 Peoria-Pekin, IL | 0.8646
Peoria, IL
Tazewell, IL
Woodford, IL
6160 Philadelphia, PA-NJ ¹ | 1.0937
Burlington, NJ
Camden, NJ
Gloucester, NJ
Salem, NJ
Bucks, PA
Chester, PA
Delaware, PA
Montgomery, PA
Philadelphia, PA
6200 Phoenix-Mesa, AZ ¹ | 0.9669
Maricopa, AZ
Pinal, AZ
6240 Pine Bluff, AR | 0.7791
Jefferson, AR
6280 Pittsburgh, PA ¹ | 0.9741
Allegheny, PA
Beaver, PA
Butler, PA
Fayette, PA
Washington, PA
Westmoreland, PA
6323 Pittsfield, MA ² | 1.1204
Berkshire, MA
6340 Pocatello, ID | 0.9076
Bannock, ID
6360 Ponce, PR | 0.5006
Guayanilla, PR
Juana Diaz, PR
Penuelas, PR
Ponce, PR
Villalba, PR
Yauco, PR
6403 Portland, ME | 0.9748
Cumberland, ME
Sagadahoc, ME
York, ME
6440 Portland-Vancouver, ¹ OR-WA | 1.0910
Clackamas, OR
Columbia, OR
Multnomah, OR
Washington, OR
Yamhill, OR
Clark, WA
6483 Providence-Warwick-Pawtucket, RI ¹ | 1.0864
Bristol, RI
Kent, RI
Newport, RI
Providence, RI
Washington, RI
6520 Provo-Orem, UT | 1.0041
Utah, UT
6560 Pueblo, CO ² | 0.8968
Pueblo, CO
6580 Punta Gorda, FL | 0.9613
Charlotte, FL
6600 Racine, WI | 0.9246
Racine, WI
6640 Raleigh-Durham-Chapel Hill, NC ¹ | 0.9646
Chatham, NC
Durham, NC
Franklin, NC
Johnston, NC
Orange, NC
Wake, NC
6660 Rapid City, SD | 0.8865
Pennington, SD
6680 Reading, PA | 0.9152
Berks, PA
690 Redding, CA | 1.1664
Shasta, CA
6720 Reno, NV | 1.0550
Washoe, NV
6740 Richland-Kennewick-Pasco, WA | 1.1460
Benton, WA
Franklin, WA
6760 Richmond-Petersburg, VA | 0.9617
Charles City County, VA
Chesterfield, VA
Colonial Heights City, VA
Dinwiddie, VA
Goochland, VA
Hanover, VA
Henrico, VA
Hopewell City, VA
New Kent, VA
Petersburg City, VA
Powhatan, VA
Prince George, VA
Richmond City, VA
6780 Riverside-San Bernardino, CA ¹ | 1.1115
Riverside, CA
San Bernardino, CA
6800 Roanoke, VA | 0.8782
Botetourt, VA
Roanoke, VA
Roanoke City, VA
Salem City, VA
6820 Rochester, MN | 1.1315
Olmsted, MN
6840 Rochester, NY ¹ | 0.9182
Genesee, NY
Livingston, NY
Monroe, NY
Ontario, NY
Orleans, NY
Wayne, NY
6880 Rockford, IL | 0.8819
Boone, IL
Ogle, IL
Winnebago, IL
6895 Rocky Mount, NC | 0.8849
Edgecombe, NC
Nash, NC
6920 Sacramento, CA ¹ | 1.1957
El Dorado, CA
Placer, CA
Sacramento, CA
6960 Saginaw-Bay City-Midland, MI | 0.9575
Bay, MI
Midland, MI
Saginaw, MI
6980 St. Cloud, MN | 1.0016
Benton, MN
Stearns, MN
7000 St. Joseph, MO | 0.9071
Andrew, MO
Buchanan, MO
7040 St. Louis, MO-IL ¹ | 0.9049
Clinton, IL
Jersey, IL
Madison, IL
Monroe, IL
St. Clair, IL
Franklin, MO
Jefferson, MO
Lincoln, MO
St. Charles, MO
St. Louis, MO
St. Louis City, MO
Warren, MO
7080 Salem, OR | 1.0132
Marion, OR
Polk, OR
7120 Salinas, CA | 1.4502
Monterey, CA
7160 Salt Lake City-Ogden, UT ¹ | 0.9811
Davis, UT
Salt Lake, UT
Weber, UT
7200 San Angelo, TX | 0.8083
Tom Green, TX
7240 San Antonio, TX ¹ | 0.8580
Bexar, TX
Comal, TX
Guadalupe, TX
Wilson, TX
7320 San Diego, CA ¹ | 1.1784
San Diego, CA
7360 San Francisco, CA ¹ | 1.4193
Marin, CA
San Francisco, CA
San Mateo, CA
7400 San Jose, CA ¹ | 1.3564
Santa Clara, CA
7440 San Juan-Bayamon, PR ¹ | 0.4690
Aguas Buenas, PR
Barceloneta, PR
Bayamon, PR
Canovanas, PR
Carolina, PR
Catano, PR
Ceiba, PR
Comerio, PR
Corozal, PR
Dorado, PR
Fajardo, PR
Florida, PR
Guaynabo, PR
Humacao, PR
Juncos, PR
Los Piedras, PR
Loiza, PR
Luguillo, PR
Manati, PR
Morovis, PR
Naguabo, PR
Naranjito, PR
Rio Grande, PR
San Juan, PR
Toa Alta, PR
Toa Baja, PR
Trujillo Alto, PR
Vega Alta, PR
Vega Baja, PR
Yabucoa, PR
7460 San Luis Obispo-Atascadero-Paso Robles, CA | 1.0673
San Luis Obispo, CA
7480 Santa Barbara-Santa Maria-Lompoc, CA | 1.0597
Santa Barbara, CA
7485 Santa Cruz-Watsonville, CA | 1.4095
Santa Cruz, CA
7490 Santa Fe, NM | 1.0537
Los Alamos, NM
Santa Fe, NM
7500 Santa Rosa, CA | 1.2646
Sonoma, CA
7510 Sarasota-Bradenton, FL | 0.9809
Manatee, FL
Sarasota, FL
7520 Savannah, GA | 0.9697
Bryan, GA
Chatham, GA
Effingham, GA
7560 Scranton-Wilkes-Barre-Hazleton, PA ² | 0.8578
Columbia, PA
Lackawanna, PA
Luzerne, PA
Wyoming, PA
7600 Seattle-Bellevue-Everett, WA ¹ | 1.1016
Island, WA
King, WA
Snohomish, WA
7610 Sharon, PA ² | 0.8578
Mercer, PA
7620 Sheboygan, WI ² | 0.8880
Sheboygan, WI
7640 Sherman-Denison, TX | 0.8795
Grayson, TX
7680 Shreveport-Bossier City, LA | 0.8750
Bossier, LA
Caddo, LA
Webster, LA
7720 Sioux City, IA-NE | 0.8473
Woodbury, IA
Dakota, NE
7760 Sioux Falls, SD | 0.8790
Lincoln, SD
Minnehaha, SD
7800 South Bend, IN | 1.0029
St. Joseph, IN
7840 Spokane, WA | 1.0513
Spokane, WA
7880 Springfield, IL | 0.8685
Menard, IL
Sangamon, IL
7920 Springfield, MO | 0.8488
Christian, MO
Greene, MO
Webster, MO
8003 Springfield, MA ² | 1.1204
Hampden, MA
Hampshire, MA
8050 State College, PA | 0.9038
Centre, PA
8080 Steubenville-Weirton, OH-WV ² (OH Hospitals) | 0.8670
Jefferson, OH
Brooke, WV
Hancock, WV
8080 Steubenville-Weirton, OH-WV (WV Hospitals) | 0.8548
Jefferson, OH
Brooke, WV
Hancock, WV
8120 Stockton-Lodi, CA | 1.0629
San Joaquin, CA
8140 Sumter, SC ² | 0.8370
Sumter, SC
8160 Syracuse, NY | 0.9594
Cayuga, NY
Madison, NY
Onondaga, NY
Oswego, NY
8200 Tacoma, WA | 1.1564
Pierce, WA
8240 Tallahassee, FL ² | 0.8928
Gadsden, FL
Leon, FL
8280 Tampa-St. Petersburg-Clearwater, FL ¹ | 0.9099
Hernando, FL
Hillsborough, FL
Pasco, FL
Pinellas, FL
8320 Terre Haute, IN ² | 0.8602
Clay, IN
Vermillion, IN
Vigo, IN
8360 Texarkana, AR-Texarkana, TX | 0.8427
Miller, AR
Bowie, TX
8400 Toledo, OH | 0.9664
Fulton, OH
Lucas, OH
Wood, OH
8440 Topeka, KS | 0.9117
Shawnee, KS
8480 Trenton, NJ | 1.0137
Mercer, NJ
8520 Tucson, AZ | 0.8821
Pima, AZ
8560 Tulsa, OK | 0.8454
Creek, OK
Osage, OK
Rogers, OK
Tulsa, OK
Wagoner, OK
8600 Tuscaloosa, AL | 0.8064
Tuscaloosa, AL
8640 Tyler, TX | 0.9404
Smith, TX
8680 Utica-Rome, NY | 0.8560
Herkimer, NY
Oneida, NY
8720 Vallejo-Fairfield-Napa, CA | 1.2266
Napa, CA
Solano, CA
8735 Ventura, CA | 1.0479
Ventura, CA
8750 Victoria, TX | 0.8154
Victoria, TX
8760 Vineland-Millville-Bridgeton, NJ | 1.0501
Cumberland, NJ
8780 Visalia-Tulare-Porterville, CA ² | 0.9861
Tulare, CA
8800 Waco, TX | 0.8314
McLennan, TX
8840 Washington, DC-MD-VA-WV ¹ | 1.0755
District of Columbia, DC
Calvert, MD
Charles, MD
Frederick, MD
Montgomery, MD
Prince Georges, MD
Alexandria City, VA
Arlington, VA
Clarke, VA
Culpeper, VA
Fairfax, VA
Fairfax City, VA
Falls Church City, VA
Fauquier, VA
Fredericksburg City, VA
King George, VA
Loudoun, VA
Manassas City, VA
Manassas Park City, VA
Prince William, VA
Spotsylvania, VA
Stafford, VA
Warren, VA
Berkeley, WV
Jefferson, WV
8920 Waterloo-Cedar Falls, IA | 0.8802
Black Hawk, IA
8940 Wausau, WI | 0.9426
Marathon, WI
8960 ¹ West Palm Beach-Boca Raton, FL | 0.9615
Palm Beach, FL
9000 Wheeling, WV-OH ² (WV Hospitals) | 0.8231
Belmont, OH
Marshall, WV
Ohio, WV
9000 Wheeling, WV-OH ² (OH Hospitals) | 0.8670
Belmont, OH
Marshall, WV
Ohio, WV
9040 Wichita, KS | 0.9544
Butler, KS
Harvey, KS
Sedgwick, KS
9080 Wichita Falls, TX | 0.7668
Archer, TX
Wichita, TX
9140 Williamsport, PA ² | 0.8578
Lycoming, PA
9160 Wilmington-Newark, DE-MD | 1.1191
New Castle, DE
Cecil, MD
9200 Wilmington, NC | 0.9402
New Hanover, NC
Brunswick, NC
9260 Yakima, WA ² | 1.0434
Yakima, WA
9270 Yolo, CA | 1.0199
Yolo, CA
9280 York, PA | 0.9264
York, PA
9320 Youngstown-Warren, OH | 0.9543
Columbiana, OH
Mahoning, OH
Trumbull, OH
9340 Yuba City, CA | 1.0706
Sutter, CA
Yuba, CA
9360 Yuma, AZ | 0.9529
Yuma, AZ
¹ Large Urban Area
² Hospitals geographically located in the area are assigned the statewide rural wage index for FY 2001.

Addendum G—Wage Index for Rural Areas
Nonurban area | DWage index
Alabama | 0.7528
Alaska | 1.2392
Arizona | 0.8317
Arkansas | 0.7445
California | 0.9861
Colorado | 0.8968
Connecticut | 1.1715
Delaware | 0.9074
Florida | 0.8928
Georgia | 0.8329
Hawaii | 1.1059
Idaho | 0.8678
Illinois | 0.8160
Indiana | 0.8602
Iowa | 0.8030
Kansas | 0.7605
Kentucky | 0.7931
Louisiana | 0.7713
Maine | 0.8766
Maryland | 0.8651
Massachusetts | 1.1204
Michigan | 0.9021
Minnesota | 0.8881
Mississippi | 0.7491
Missouri | 0.7707
Montana | 0.8688
Nebraska | 0.8109
Nevada | 0.9232
New Hampshire | 0.9845
New Jersey ¹ |
New Mexico | 0.8497
New York | 0.8499
North Carolina | 0.8441
North Dakota | 0.7716
Ohio | 0.8670
Oklahoma | 0.7491
Oregon | 1.0132
Pennsylvania | 0.8578
Puerto Rico | 0.4264
Rhode Island ¹ |
South Carolina | 0.8370
South Dakota | 0.7570
Tennessee | 0.7838
Texas | 0.7507
Utah | 0.9037
Vermont | 0.9409
Virginia | 0.8189
Washington | 1.0434
West Virginia | 0.8231
Wisconsin | 0.8880
Wyoming | 0.8817
¹ All counties within the State are classified as urban.

Addendum H—Wage Index for Hospitals That Are Reclassified
Area | Wage Index
Abilene, TX | 0.8240
Akron, OH | 0.9736
Alexandria, LA | 0.8170
Amarillo, TX | 0.8715
Anchorage, AK | 1.2865
Ann Arbor, MI | 1.1064
Atlanta, GA | 1.0096
Atlantic-Cape May, NJ | 1.0822
Augusta-Aiken, GA-SC | 0.9160
Barnstable-Yarmouth, MA | 1.3583
Baton Rouge, LA | 0.8734
Benton Harbor, MI | 0.9021
Bergen-Passaic, NJ | 1.1605
Billings, MT | 0.9591
Binghamton, NY | 0.8690
Birmingham, AL | 0.8477
Bismarck, ND | 0.7897
Bloomington-Normal, IL | 0.9156
Boise City, ID | 0.9042
Boston-Worcester-Lawrence-Lowell-Brockton, MA-NH (NH, RI, and VT Hospitals) | 1.1160
Burlington, VT | 1.0236
Casper, WY | 0.8817
Champaign-Urbana, IL | 0.9084
Charleston-North Charleston, SC | 0.9067
Charleston, WV | 0.8904
Charlotte-Gastonia-Rock Hill, NC-SC | 0.9391
Chattanooga, TN-GA | 0.9624
Chicago, IL | 1.1015
Cincinnati, OH-KY-IN | 0.9415
Clarksville-Hopkinsville, TN-KY | 0.8277
Cleveland-Lorain-Elyria, OH | 0.9593
Columbia, MO | 0.8756
Columbia, SC | 0.9433
Columbus, OH | 0.9619
Dallas, TX | 0.9913
Danville, VA | 0.8212
Davenport-Moline-Rock Island, IA-IL | 0.8898
Dayton-Springfield, OH | 0.9442
Denver, CO | 1.0181
Des Moines, IA | 0.9011
Dothan, AL | 0.8013
Dover, DE | 0.9769
Duluth-Superior, MN-WI | 1.0043
Eau Claire, WI | 0.8880
Erie, PA | 0.8985
Eugene-Springfield, OR | 1.0965
Fargo-Moorhead, ND-MN | 0.8517
Fayetteville, NC | 0.8469
Flagstaff, AZ-UT | 1.0525
Flint, MI | 1.1058
Florence, AL | 0.7652
Florence, SC | 0.8777
Fort Collins-Loveland, CO | 1.0647
Ft. Lauderdale, FL | 1.0152
Fort Pierce-Port St. Lucie, FL | 0.9622
Fort Smith, AR-OK | 0.7947
Fort Walton Beach, FL | 0.9358
Fort Wayne, IN | 0.8665
Forth Worth-Arlington, TX | 0.9527
Gadsden, AL | 0.8423
Grand Forks, ND-MN | 0.8954
Grand Junction, CO | 0.9471
Grand Rapids-Muskegon-Holland, MI | 1.0248
Great Falls, MT | 0.9330
Greeley, CO | 0.9573
Green Bay, WI | 0.9308
Greensboro-Winston-Salem-High Point, NC | 0.9124
Greenville, NC | 0.9172
Greenville-Spartanburg-Anderson, SC | 0.9003
Harrisburg-Lebanon-Carlisle, PA | 0.9386
Hartford, CT (MA Hospital) | 1.1420
Hattiesburg, MS | 0.7491
Hickory-Morganton-Lenoir, NC | 0.8577
Honolulu, HI | 1.1866
Houston, TX | 0.9732
Huntington-Ashland, WV-KY-OH | 0.9605
Huntsville, AL | 0.8779
Indianapolis, IN | 0.9787
Jackson, MS | 0.8698
Jackson, TN | 0.8796
Jacksonville, FL | 0.9208
Jersey City, NJ | 1.1573
Johnson City-Kingsport-Bristol, TN-VA | 0.8328
Joplin, MO | 0.8148
Kalamazoo-Battlecreek, MI | 1.0291
Kansas City, KS-MO | 0.9509
Knoxville, TN | 0.8340
Kokomo, IN | 0.9525
Lafayette, LA | 0.8490
Lansing-East Lansing, MI | 0.9934
Las Cruces, NM | 0.8510
Las Vegas, NV-AZ | 1.0796
Lexington, KY | 0.8712
Lima, OH | 0.9320
Lincoln, NE | 0.9666
Little Rock-North Little Rock, AR | 0.8791
Longview-Marshall, TX | 0.8732
Los Angeles-Long Beach, CA | 1.2033
Louisville, KY-IN | 0.9350
Lynchburg, VA | 0.8749
Macon, GA | 0.8974
Madison, WI | 1.0271
Mansfield, OH | 0.8690
Memphis, TN-AR-MS | 0.8584
Milwaukee-Waukesha, WI | 0.9767
Minneapolis-St. Paul, MN-WI | 1.1017
Missoula, MT | 0.9332
Mobile, AL | 0.8163
Monmouth-Ocean, NJ | 1.1283
Montgomery, AL | 0.7653
Myrtle Beach, SC (NC Hospital) | 0.8441
Nashville, TN | 0.9301
New Haven-Bridgeport-Stamford-Waterbury-Danbury, CT | 1.2034
New London-Norwich, CT | 1.1926
New Orleans, LA | 0.9295
New York, NY | 1.4463
Newburgh, NY-PA | 1.0317
Norfolk-Virginia Beach-Newport News, VA-NC | 0.8441
Oakland, CA | 1.4983
Ocala, FL | 0.9243
Odessa-Midland, TX | 0.9074
Oklahoma City, OK | 0.8822
Omaha, NE-IA | 0.9572
Orange County, CA | 1.1411
Orlando, FL | 0.9610
Peoria-Pekin, IL | 0.8646
Philadelphia, PA-NJ | 1.0937
Pine Bluff, AR | 0.7680
Pittsburgh, PA | 0.9575
Pittsfield, MA (VT Hospital) | 0.9914
Pocatello, ID | 0.8715
Portland, ME | 0.9629
Portland-Vancouver, OR-WA | 1.0910
Provo-Orem, UT | 1.0041
Raleigh-Durham-Chapel Hill, NC | 0.9646
Rapid City, SD | 0.8865
Redding, CA | 1.1664
Reno, NV | 1.0438
Richland-Kennewick-Pasco, WA | 1.1147
Roanoke, VA | 0.8782
Rochester, MN | 1.1315
Rockford, IL | 0.8819
Sacramento, CA | 1.1957
Saginaw-Bay City-Midland, MI | 0.9575
St. Cloud, MN | 1.0016
St. Joseph, MO | 0.8848
St. Louis, MO-IL | 0.9049
Salinas, CA | 1.4502
Salt Lake City-Ogden, UT | 0.9811
San Diego, CA | 1.1784
Santa Cruz-Watsonville, CA | 1.3897
Santa Fe, NM | 1.0000
Santa Rosa, CA | 1.2398
Seattle-Bellevue-Everett, WA | 1.1016
Sherman-Denison, TX | 0.8795
Sioux City, IA-NE | 0.8473
South Bend, IN | 1.0029
Spokane, WA | 1.0333
Springfield, IL | 0.8685
Springfield, MO | 0.8212
Syracuse, NY | 0.9594
Tampa-St. Petersburg-Clearwater, FL | 0.9099
Texarkana, AR-Texarkana, TX | 0.8427
Toledo, OH | 0.9664
Topeka, KS | 0.9117
Tucson, AZ | 0.8821
Tulsa, OK | 0.8454
Tuscaloosa, AL | 0.8064
Tyler, TX | 0.9141
Victoria, TX | 0.8154
Washington, DC-MD-VA-WV | 1.0755
Waterloo-Cedar Falls, IA | 0.8802
Wausau, WI | 0.9426
Wichita, KS | 0.9262
Rural Alabama | 0.7528
Rural Florida | 0.8928
Rural Illinois | 0.8160
Rural Louisiana | 0.7713
Rural Michigan | 0.9021
Rural Minnesota | 0.8881
Rural Missouri | 0.7707
Rural Montana | 0.8688
Rural Oregon | 1.0132
Rural Texas | 0.7507
Rural Washington | 1.0434
Rural West Virginia | 0.8231
Rural Wisconsin | 0.8880
Rural Wyoming (NE Hospital) | 0.8671

[FR Doc. 00-28475 Filed 11-2-00; 11:43 am]

BILLING CODE 4120-01-P